DEPARTMENT OF THE INTERIOR

Fish and Wildlife Service

50 CFR Part 17

RIN 1018-T90

Endangered and Threatened Wildlife and Plants; Designation of Critical Habitat for the Perdido Key Beach Mouse, Choctawhatchee Beach Mouse, and St. Andrew Beach Mouse

AGENCY: Fish and Wildlife Service, Interior.

ACTION: Final rule.

SUMMARY: We, the U.S. Fish and Wildlife Service (Service), are revising critical habitat for the Perdido Key beach mouse (Peromyscus polionotus trissyllepsis) and Choctawhatchee beach mouse (Peromyscus polionotus allophrys) and designating critical habitat for the St. Andrew beach mouse (Peromyscus polionotus peninsularis) under the Endangered Species Act of 1973, as amended (Act). In total, approximately 6,193 acres (ac) (2,506 hectares (ha)) are being designated as critical habitat for the three subspecies. This action adds approximately 135 ac (44 ha) to the amount of currently designated critical habitat for the Perdido Key beach mouse and 1,629 ac (659 ha) to the area designated for the Choctawhatchee beach mouse. The critical habitat is located in Baldwin County, Alabama; and Escambia, Okaloosa, Walton, Bay, and Gulf Counties, Florida.

DATES: This rule becomes effective on November 13, 2006.

ADDRESSES: To review comments and materials received, as well as supporting documentation used in the preparation of this final rule, make an appointment with the Field Supervisor during normal business hours, at the Panama City Field Office, 1601 Balboa Avenue, Panama City, Florida 32405. The final rule, economic analysis, and maps will also be available via the Internet at http://www.fws.gov/panamacity.

FOR FURTHER INFORMATION CONTACT: Field Supervisor, Panama City Field Office, (850) 769-0552 (telephone) or (850) 763-2177 (fax). Persons who use a telecommunications device for the deaf (TDD) may call the Federal Information Relay Service (FIRS) at 800-877-8339, 7 days a week and 24 hours a day.

SUPPLEMENTARY INFORMATION:

Role of Critical Habitat in Actual Practice of Administering and Implementing the Act

Attention to and protection of habitat is paramount to successful conservation actions. The role that designation of critical habitat plays in protecting habitat of listed species, however, is often misunderstood. As discussed in more detail below in the discussion of exclusions under section 4(b)(2) of the Act, there are significant limitations on the regulatory effect of designation under section 7(a)(2) of the Act. In brief, (1) designation provides additional protection to habitat only where there is a Federal nexus; (2) the protection is relevant only when, in the absence of designation, destruction or adverse modification of the critical habitat would take place (in other words, other statutory or regulatory protections, policies, or other factors relevant to agency decision-making would not prevent the destruction or adverse modification); and (3) designation of critical habitat triggers the prohibition of destruction or adverse modification of that habitat, but it does not require specific actions to restore or improve habitat.

Currently, only 475 species, or 36 percent of the 1,310 listed species in the United States under the jurisdiction of the Service, have designated critical habitat. We address the habitat needs of all 1,310 listed species through conservation mechanisms such as listing, section 7 consultations, the section 4 recovery planning process, the section 9 protective prohibitions of unauthorized take, section 6 funding to the States, the section 10 incidental take permit process, and cooperative, nonregulatory efforts with private landowners. The Service believes that these measures may make the difference between extinction and survival for many species.

In considering exclusions of areas originally proposed for designation, we evaluated the benefits of designation in light of Gifford Pinchot Task Force v. United States Fish and Wildlife Service. In that case, the Ninth Circuit invalidated the Service's regulation defining “destruction or adverse modification of critical habitat.” In response, on December 9, 2004, the Director issued guidance to be considered in making section 7 adverse modification determinations. This critical habitat designation does not use the invalidated regulation in our consideration of the benefits of including areas in this final designation. The Service will carefully manage future consultations that analyze impacts to designated critical habitat, particularly those that appear to be resulting in an adverse modification determination. Such consultations will be reviewed by the Regional Office prior to finalizing to ensure that an adequate analysis has been conducted that is informed by the Director's guidance.

On the other hand, to the extent that designation of critical habitat provides protection, that protection can come at significant social and economic cost. In addition, the mere administrative process of designation of critical habitat is expensive, time-consuming, and controversial. The current statutory framework of critical habitat, combined with past judicial interpretations of the statute, make critical habitat the subject of excessive litigation. As a result, critical habitat designations are driven by litigation and courts rather than biology, and made at a time and under a time frame that limits our ability to obtain and evaluate the scientific and other information required to make the designation most meaningful.

In light of these circumstances, the Service believes that additional agency discretion would allow our focus to return to those actions that provide the greatest benefit to the species most in need of protection.

Procedural and Resource Difficulties in Designating Critical Habitat

We have been inundated with lawsuits for our failure to designate critical habitat, and we face a growing number of lawsuits challenging critical habitat determinations once they are made. These lawsuits have subjected the Service to an ever-increasing series of court orders and court-approved settlement agreements, compliance with which now consumes nearly the entire listing program budget. This leaves the Service with little ability to prioritize its activities to direct scarce listing resources to the listing program actions with the most biologically urgent species conservation needs.

The consequence of the critical habitat litigation activity is that limited listing funds are used to defend active lawsuits, to respond to Notices of Intent (NOIs) to sue relative to critical habitat, and to comply with the growing number of adverse court orders. As a result, listing petition responses, the Service's own proposals to list critically imperiled species, and final listing determinations on existing proposals are all significantly delayed.

The accelerated schedules of court-ordered designations have left the Service with limited ability to provide for public participation or to ensure a defect-free rulemaking process before making decisions on listing and critical habitat proposals, due to the risks associated with noncompliance with judicially imposed deadlines. This in turn fosters a second round of litigation in which those who fear adverse impacts from critical habitat designations challenge those designations. The cycle of litigation appears endless, and is very expensive, thus diverting resources from conservation actions that may provide relatively more benefit to imperiled species.

The costs resulting from the designation include legal costs, the cost of preparation and publication of the designation, the analysis of the economic effects and the cost of requesting and responding to public comment, and in some cases the costs of compliance with the National Environmental Policy Act (NEPA). These costs, which are not required for many other conservation actions, directly reduce the funds available for direct and tangible conservation actions.

Background

It is our intent to discuss only those topics directly relevant to the designation of critical habitat in this rule. For ecological and life history information on the Perdido Key beach mouse, Choctawhatchee beach mouse, and St. Andrew beach mouse, please refer to the proposed rule published in the Federal Register on December 15, 2005 (70 FR 74426).

Previous Federal Actions

The Perdido Key beach mouse and Choctawhatchee beach mouse were listed as endangered on June 6, 1985 (50 FR 23872). Critical habitat was designated for the Perdido Key beach mouse and the Choctawhatchee beach mouse at the time of listing, consisting primarily of primary and secondary dunes, but not including high-elevation (scrub dune) habitat. A recovery plan for these beach mice was completed in 1987. On November 5, 1991, the Service received a petition from the Alabama Conservancy to revise critical habitat for the Perdido Key beach mouse through an emergency rule. A notice announcing our finding that the petitioned action was warranted, but would be delayed until higher priority actions had been completed, was published on June 18, 1993 (58 FR 33606). On February 2, 1999, the Service was petitioned by the Sierra Club and Biodiversity Legal Foundation to revise critical habitat for the Perdido Key beach mouse, Choctawhatchee beach mouse, and Alabama beach mouse (Peromyscus polionotus ammobates). The Service published a 90-day finding on November 18, 1999 (64 FR 63004). The 12-month finding, published September 26, 2000 (65 FR 57800), found that revision of critical habitat for the three subspecies of beach mice was warranted. Since that time, critical habitat revision has been precluded due to other higher priority listing and critical habitat actions. On June 17, 2003, a lawsuit was filed in the U.S. District Court for the Southern District of Alabama (Sierra Club and Center for Biological Diversity v. Norton et al., 1:03-CV-00377-CB) alleging that the Service violated the Act by failing to revise critical habitat for the Perdido Key, Choctawhatchee, and Alabama beach mice, and withheld or unreasonably delayed the revision under the Administrative Procedure Act. In a December 2004 declaration, we stated we would submit a proposed revision for the Perdido Key beach mouse and the Choctawhatchee beach mouse by November 15, 2005, and a final revision by September 30, 2006. The revision of critical habitat for the Alabama beach mouse will be published as a separate determination.

The St. Andrew beach mouse was listed as endangered on December 18, 1998 (63 FR 70053). The designation of critical habitat was found to be not prudent at the time of listing. After a lawsuit was filed against the Service in 2003 by the Center for Biological Diversity (Center for Biological Diversity v. Norton, 4:03CV315-WS/WCS) challenging the “not prudent” finding, the U.S. District Court for the Northern District of Florida granted the Service's motion for voluntary remand and ordered the Service to publish a new final decision with respect to the designation of critical habitat for the St. Andrew beach mouse on or before September 30, 2006.

Further information regarding previous Federal actions for the Perdido Key beach mouse, Choctawhatchee beach mouse, and St. Andrew beach mouse can be found in our proposal for critical habitat for these three subspecies published in the Federal Register on December 15, 2005 (70 FR 74426), and in our revised proposal and notice of availability of the draft economic analysis published June 16, 2006 (71 FR 35048).

Summary of Comments and Recommendations

We requested written comments from the public on the proposed designation of critical habitat for Perdido Key beach mouse, Choctawhatchee beach mouse, and St. Andrew beach mouse in the proposed rule published on December 15, 2005 (70 FR 74426), and in the revised proposed rule and announcement of the availability of the draft Economic Analysis and public hearings published on June 16, 2006 (71 FR 35048). We also contacted Federal, State, and local agencies; scientific organizations; and other interested parties and invited them to comment on the proposed rule. In addition, we held two public hearings, on June 26 and June 27, 2006, in Panama City and Pensacola, Florida, respectively.

During the comment period that opened on December 15, 2005, and closed on February 13, 2006, we received 73 comments directly addressing the proposed critical habitat designation: 5 from peer reviewers and 68 from organizations or individuals. During the comment period that opened on June 16, 2006, and closed on July 17, 2006, we received 48 comments directly addressing the proposed critical habitat designation and the draft economic analysis. Of these latter comments, all were from organizations and individuals. Collectively, 30 commenters supported the designation of critical habitat for Perdido Key beach mice, Choctawhatchee beach mice, and St. Andrew beach mice and 90 opposed the designation. One letter did not express support or opposition to the proposed critical habitat designation, but provided information only. Comments received were grouped into 6 general categories specifically relating to the proposed critical habitat designation for Perdido Key beach mice, Choctawhatchee beach mice, and St. Andrew beach mice, and are addressed in the following summary and incorporated into the final rule as appropriate. We received 10 requests for a public hearing.

Peer Review

In accordance with our policy published on July 1, 1994 (59 FR 34270), we solicited expert opinions from six knowledgeable individuals with scientific expertise that included familiarity with the species, the geographic region in which the species occurs, and conservation biology principles. We received responses from five of the peer reviewers. Peer reviewer comments are addressed in the following summary and incorporated into the final rule as appropriate.

The peer reviewers generally concurred with our methods and conclusions and provided additional information, clarifications, and suggestions to improve the final critical habitat rule. All peer reviewers concurred that revision of critical habitat to include interior scrub habitat is warranted. Data provided by peer reviewers led us to consider the addition of several areas and removal of one area that had been proposed as critical habitat. Several comments were submitted regarding the paucity of information regarding the specific habitat needs and influences on habitat use within a fragmented, urbanized landscape. Suggestions were also made and language was provided to clarify biological information or make the proposed rule easier to follow and review.

We reviewed all comments received from the peer reviewers and the public for substantive issues and new information regarding critical habitat for the Perdido Key beach mice, Choctawhatchee beach mice, and St. Andrew beach mice, and addressed them in the following summary.

Peer Reviewer Comments

(1) Comment: One peer reviewer suggested that the term “critical habitat” has lost much of its initial meaning.

Our Response: The term “critical habitat” is often misunderstood. A designation of critical habitat does not designate or identify a preserve or refuge. It does not allow the government to “take” property. It does not affect individuals, organizations, States, local governments, or other non-Federal entities that do not require Federal permits or funding. Critical habitat provides non-regulatory benefits to the species by informing the public of areas that are important for species recovery and where conservation actions would be most effective. Designation of critical habitat can help focus conservation activities for a listed species by identifying areas that contain the physical and biological features that are essential for conservation of that species, and can alert the public as well as land-managing agencies to the importance of those areas. On the other hand, listed species and their habitats are protected by the Act whether or not they are in areas designated as critical habitat. For this reason, the Service has assigned a low priority to designating critical habitat because it believes that a more effective use of limited resources is to place imperiled species on the threatened and endangered species list. Many declining species are currently lacking any protection under the Act. We believe it is a higher priority to list those species in need of protection rather than to designate critical habitat for species already protected under the Act. Continuing court decisions however, have required us to designate critical habitat for an increasing number of listed species.

(2) Comment: Two peer reviewers questioned our use of the term “core population” without a definition and do not believe the term was consistently or objectively applied.

Our Response: Reference to “core populations” was removed from the unit descriptions for clarity reasons because it has different definitions and uses. The use of the term was a reference to mainland versus island or core versus satellite metapopulation models, in which the core population is relatively resistant to extinction while some satellite populations tend to go extinct repeatedly and are recolonized by individuals dispersing from the core. What was meant by a “core population” in the proposed rule is a historically relatively stable, source population from which individuals are believed to disperse and recolonize adjacent areas. In a natural landscape, locations of core populations would change through time, due to localized disturbances or changes in habitat quality. Currently, with the populations existing in isolation with no connectivity (with the exception of Perdido Key), it is believed that core populations perpetually occupy the large contiguous patches that remain.

(3) Comment: Two peer reviewers and one commenter stated that evaluation of management plans at individual sites was not clear. The commenter questioned why the proposed rule stated that, if revised, the draft Tyndall Air Force Base Integrated Natural Resources Management Plan (INRMP) may provide sufficient protection to beach mice and allow for the military lands to be excluded, whereas the same weight was not given to a management plan that was submitted to the Service as a part of a consultation for development of private lands.

Our Response: Exclusions of military lands and privately owned property are provided for in the Act. Section 4(a)(3)(B) of the Act prohibits the Service from designating as critical habitat any lands or other geographical areas owned or controlled by the Department of Defense, or designated for its use, that are subject to an INRMP prepared under section 101 of the Sikes Act (16 U.S.C. 670a), if the Secretary of the Interior determines in writing that such a plan provides a benefit to the species for which critical habitat is proposed for designation. At the time of the proposed rule, Tyndall Air Force Base (AFB) did not have an INRMP that had been approved by the Secretary of the Interior. It is currently in the process of preparing an updated INRMP; however, this document is still in draft form. Therefore, the Service has found that the draft Tyndall INRMP does not qualify for exemption of Tyndall AFB from critical habitat pursuant to section 4(a)(3) of the Act. Portions of Tyndalll AFB have been excluded because they do not contain the primary constituent elements (PCEs). Once completed and approved, Tyndall's INRMP can be used to amend this designation.

Private lands may be excluded pursuant to section 4(b)(2) if they have management plans that benefit the species. We have excluded two existing HCPs from critical habitat designation (Stallworth Preserve and Watercolor and Watersound). The private lands referred to in this comment, however, are in the early stages of a consultation under section 7 of the Act, and do not have finalized design plans or habitat management plans developed sufficiently that they could be reviewed for possible exclusion. Compliance with CH designation will be included in any future section 10 permit.

(4) Comment: One peer reviewer suggests that our statement that beach mice were initially thought to be restricted to the frontal dunes, and only recently have been found to occupy secondary dunes been found to be occupied, is not entirely accurate.

Our Response: Historically, beach mice were considered to be restricted to dunes with sea oats (Bangs 1898, pp. 195-200), concentrated within the line of dunes nearest the Gulf (Howell 1921, p. 239), or inhabiting the sand dunes near the ocean (Howell 1939, p. 364). As these descriptions of habitat use are relatively general and do not mention interior habitat, confusion about the use of scrub habitat may have led to subsequent research focusing on the frontal dunes. Later research reported captures both in the frontal dunes and in adjoining, inland scrub habitat (Blair 1951, p. 21; Pournelle and Barrington 1953, pp.133-134; Bowen 1968, p.4). While these studies documented the presence of beach mice in the scrub habitat, low population densities were interpreted to indicate that the scrub represented inferior or low quality habitat. More recent research has illustrated that beach mice use interior scrub habitat on a permanent basis, and that this habitat serves an invaluable role in the persistence of beach mouse populations after storm events (Swilling et al. 1998, pp. 294-296; Sneckenberger 2001, p. 18). Recent studies have also shown no significant difference between the two habitat types in availability of food resources or burrow sites, beach mouse body mass, survival rate, reproductive rate, and home range size (Swilling 2000, pp. 17-25; Sneckenberger 2001, pp. 80-87).

(5) Comment: Two peer reviewers found the PCE section difficult to follow, and the PCEs highly interrelated, and not used effectively to designate critical habitat.

Our Response: Beach mice are adapted to a wide range of conditions as they inhabit areas with frequent severe disturbance. The PCEs may appear to be interrelated, but they are based on five key components: (1) Land that includes all beach mouse habitat types, (2) Land that provides only frontal dunes, (3) Land that provides only scrub dune habitat, (4) Land that serves to preserve habitat connections, and (5) Land within the coastal dune ecosystem that maintains a natural light regime (please refer to Primary Constituent Elements section for full description of PCEs). PCEs aid in identifying key habitat features necessary for the conservation of beach mice.

(6) Comment: Three peer reviewers and several commenters suggested inclusion of several specific areas (additional lands on Gulf Islands National Seashore, St. Andrew State Park, and Tyndall AFB; the area on St. Joseph Peninsula from Cape San Blas to Money Bayou, several small areas near Grayton Beach and Lake Powell). One peer reviewer suggested the inclusion of additional private lands, but did not specify where.

Our Response: All of the areas suggested by the commenters were considered for inclusion. We added the areas on Tyndall Air Force Base and Gulf Islands National Seashore. We concluded, however, that the other areas did not meet the criteria for designation of critical habitat. Many of the suggested areas did not include beach mouse habitat or contain the PCE's, or were not of sufficient size to provide any long-term conservation benefits.

Critical habitat designations do not signal that habitat outside the designation is unimportant or may not be required for recovery. However, a critical habitat designation is limited to areas occupied by the species at the time of listing on which PCE's are found, or areas that are essential to the conservation of the species. The designation of critical habitat may not include all of the habitat areas that may eventually be determined to be necessary for the recovery of the species. Please note that when beach mice occupy such areas, they are still consulted on under the Act, regardless of their inclusion within critical habitat.

(7) Comment: One peer reviewer suggested that Bates (1992) and the trapping work of others concerning presence or absence of beach mice on Henderson Beach, Grayton Beach, and St. Andrew State Park should be cited.

Our Response: Trapping results discussed in the proposed rule were limited to occurrence data important to the critical habitat designation, which includes documented presence or absence at the time of listing and current knowledge regarding occurrence. A single trapping event can provide evidence of beach mouse presence in an area if beach mice are caught, however due to detection probabilities, a single trapping event, during which no beach mice were caught, does not determine absence. Our trapping protocol recommends quarterly trapping for two years as necessary to determine absence of beach mice. The Service is tasked with using the best scientific information available. Given the limited, sporadic nature of efforts, such as Bates (1992), if beach mice are not captured, this provides little information regarding the probability of beach mice occupying an area. Therefore, while this information was considered in formulating this rule, it was not found to be dispositive.

(8) Comment: One peer reviewer found the boundary of SABM-1 (particularly the private lands on the eastern edge of Crooked Island East, and land east of St. Andrew Sound), and the description of SABM-3 to be unclear.

Our Response: As the coastline in these areas erodes and accretes severely in relatively short periods of time, mapping data represent a “snapshot” of the coastline in the recent past. This may have been the cause for the ambiguity in the boundary. In the final rule we have clarified the SABM-3 boundary description. Since the narrative unit descriptions may lack precision, we also published a list of the Universal Transverse Mercator (UTM) coordinates to define a more exact boundary.

(9) Comment: One peer reviewer and one commenter alerted us to an error that the proposed rule wrongly asserts the presence of mice within SABM-2.

Our Response: We regret that an error was inadvertently made in the proposed rule. We published a correction in a notice in the Federal Register on June 16, 2006 (71 FR 35048).

(10) Comment: One peer reviewer suggested describing details of the two Habitat Conservation Plans in the Background section.

Our Response: The Background section of the proposed rule is limited to a discussion of only those biological topics directly relevant to the designation of critical habitat and provides an expansive, broad view of the species' status and threats to their persistence. Habitat Conservation Plans are described in detail in the Application of Section 4(a)(3) and Exclusions Under Section 4(b)(2) of the Act section of this final rule. The proposed rule for the Perdido Key, Choctawhatchee, and Perdido Key beach mice followed this format.

(11) Comment: One peer reviewer suggested a more detailed review of the subject of corridors, connectivity among habitat patches, and dispersal filters, particularly explaining what type of corridors may be considered “functional.”

Our Response: Because of the frequent misuse or confusion with the term “corridor,” we deliberately did not use or discuss that term and instead used “habitat connectivity,” a term that is easily understood and does not have multiple meanings or uses. Habitat connectivity and fragmentation are discussed both in the Background section and in the Habitat Connectivity section under the Primary Constituent Elements heading. While we can ascertain from other research what factors may influence the use of or dispersal through patches of habitat by beach mice, we do not know the minimum size or shape requirements of these areas, or what other features are necessary for functional use of small or linear patches of habitat.

(12) Comment: One peer reviewer suggested considering habitat types adjacent to beach mouse habitat for inclusion, as these areas may provide important resources.

Our Response: The Act requires us to designate critical habitat on the basis of the best scientific data available. Neither the published literature nor our knowledge supports other habitat types as containing the physical and biological features that are essential to the conservation of the beach mice. Habitat types adjacent to those used by beach mice, therefore, do not meet the requirements for inclusion in the critical habitat designation. We reiterate, however, that designation of areas as critical habitat does not signal that habitat outside the designation is unimportant or may not be required for recovery.

(13) Comment: One peer reviewer questioned the ability of isolated critical habitat units to preserve genetic connectivity.

Our Response: With the exception of Perdido Key, critical habitat units are isolated by cities and towns, which are believed to be impenetrable by dispersing beach mice. Since connectivity, both for transfer of individuals and genetic material, cannot occur through these areas it was crucial that we designate lands sufficient in size and habitat quality to support multiple, independent populations. If appropriate and necessary, genetic studies will be used to determine if any additional special management is needed to maintain genetic connectivity or preserve rare alleles.

(14) Comment: One peer reviewer questioned if the Henderson Beach Unit and the Deer Lake Unit are large enough to support beach mouse populations.

Our Response: We do not know the minimum area necessary to support a population of beach mice, but with habitat management efforts, we believe that the Henderson Beach and Deer Lake Units may be sufficient in size to support populations of beach mice. Henderson Beach (or the Henderson Beach unit) is 96 ac (39 ha) and has been recommended as a site for translocation in the past (Bates 1992, p. 6; Florida Department of Environmental Protection (FDEP) 2001, p. 6). Due to its westernmost location, it may serve as an important source population if storms extirpate or greatly reduce local populations or populations to the east. Deer Lake State Park is within the Deer Lake Unit (49 ac; 20 ha), which also includes adjacent private lands. While a portion of the private lands (71 ac; 29 ha) has been excluded in the final rule, these areas are under a management plans that serve to maintain and improve the beach mouse's primary constituent elements. Together, we believe these lands should be sufficient to support a population of beach mice.

(15) Comment: One peer reviewer stated that genetic evidence indicates that Crooked Island East should be considered within the range of Choctawhatchee beach mice, not St. Andrew Beach mice.

Our Response: Genetic analyses using microsatellite data (Wooten and Holler 1999, pp. 65-66), revealed that beach mice inhabiting Crooked Island East historically may have had some genetic exchange with beach mice inhabiting Shell Island (Choctawhatchee beach mice). However, the analyses did not suggest that beach mice inhabiting Crooked Island East should not be classified as St. Andrew beach mice. Furthermore, coat coloration and patterns were also evaluated and agreed with Bowen's (1968; pp. 82-85) taxonomic classification of Crooked Island East specimens as St. Andrew beach mice. Recent research findings (Van Zant 2006, p. 65), available after the publication of the proposed rule, suggest that Crooked Island East was historically inhabited by Choctawhatchee beach mice, contradicting the accepted historic ranges of the subspecies. These findings have yet to be peer reviewed, and at this time, we do not find a formal change is warranted.

(16) Comment: One commenter suggested that if beach mice were present on the mainland portion of St. Andrew State Park, FDEP staff would have been aware of their presence.

Our Response: Beach mice were documented at St. Andrew State Park mainland as late as 1968 (Bowen 1968, pp. 86-88), though no records of survey efforts exist again until Humphrey and Barbour (1981, pp. 41-42) and Meyers (1983, p. 5), when beach mice were not detected. These studies did not document the absence of beach mice. No known modification or impact to the coastal dunes that would logically lead to a local extirpation has occurred on the park since beach mice were known to occupy the area, and habitat appears to be healthy and suitable to support a population of beach mice. Therefore, we consider it occupied.

General Comments

Comments Related to Regulatory Burden and Private Property Concerns

(17) Comment: Several commenters believe that the proposed critical habitat designation is a violation of their property rights.

Our Response: Designation of private lands as critical habitat does not mean they are or will be taken by the Federal government or that reasonable uses will be restricted. The designation of critical habitat does not affect land ownership or establish a refuge, wilderness, reserve, preserve, or other conservation area. It does not enable government or public access to private lands. We evaluated this rule in accordance with Executive Order 12630, and we believe that this critical habitat designation for the Perdido Key, Choctawhatchee, and St. Andrew beach mice will not have significant takings implications. We do not anticipate that property values, rights, or ownership will be significantly affected by the critical habit burden above that cat designation. In fact, we determined that the designation would result in little additional regulatoryurrently in place, as the subspecies are already federally listed and the majority of the area designated is occupied by the subspecies.

(18) Comment: Several commenters, including Florida Department of Transportation (FDOT), voiced concern or confusion related to the voluntary mitigation option used by some property owners on Perdido Key for projects impacting beach mice or their habitat.

Our Response: Mitigation is recommended for all section 10 (Habitat Conservation Planning) projects impacting beach mice or their habitat regardless of whether the area is designated as critical habitat. The voluntary mitigation option involves donation into a conservation fund to support surveys, research, and recovery measures for the Perdido Key beach mouse. The conservation fund was developed through an interagency agreement to give property owners on Perdido Key an additional mitigation option to offset impacts to beach mice and their habitat from new development. This agreement responds to requests from the development community, and sets in motion a new process—created by Escambia County, Florida Fish and Wildlife Commission, and the Service—to aid in mitigating impacts to the beach mouse and its habitat while reducing the time needed to review permit applications by implementing a broad-based, interagency, conservation strategy. This voluntary mitigation option and the associated fund were developed completely outside of the critical habitat designation process. Because critical habitat does not affect individual landowners applying for Federal permits through the Habitat Conservation Planning process, the designation of critical habitat for the Perdido Key beach mouse will have no effect on the Interagency Agreement adopted by Escambia County. Additionally, no permits or mitigation are required for property owners rebuilding within the footprint of the previous developments.

(19) Comment: Several commenters, including the FDOT, were concerned about the economic impacts of the critical habitat designation. They believe that the designation adds to the hardship caused by the recent tropical storms and hurricanes and will lead to decreased property values.

Our Response: It is our belief that the primary effect of critical habitat is to identify areas important for the conservation of the species. Regardless of critical habitat designation, private property owners are already required to consult with the Service because the subspecies are already federally listed. The Act requires us to consider potential economic impacts of a critical habitat designation when designating critical habitat. If the benefits of excluding an area outweigh the benefits of including it, the Service may exclude an area from critical habitat, unless the exclusion would result in the extinction of the species. Due to the difficulty in making a distinction between listing and critical habitat effects within critical habitat boundaries, the economic analysis considers all future conservation-related impacts to be coextensive with the designation. Coextensive effects may also include impacts associated with overlapping protective measures of the other Federal, State, and local laws that aid habitat conservation in the areas designated. The designation will result in little additional regulatory burden beyond that currently in place; Section 3 of the Economic Analysis quantifies property value losses associated with conservation efforts for the three subspecies. Nearly all of these losses would result with or without critical habitat designation (see also our response to comment 17).

(20) Comment: Several commenters believed that the designation of beach mouse critical habitat is holding up development or may restrict their future development plans or recreational use, or require restoration on private lands. The FDEP voiced concerns that the consultation process may restrict future development plans on State lands.

Our Response: There has been some confusion concerning the revision of critical habitat and the permitting process for coastal development in Perdido Key beach mouse habitat. Some private landowners believe the Service's current regulations (including critical habitat) are delaying development. However, permits are needed if the take of mice is expected. That requirement is unaffected by critical habitat. Of the 72 Perdido Key landowners that have contacted the Service, approximately 55 percent received “no permit needed” letters from the Service, and the remaining approximately 45 percent received letters and information on the process to apply for an incidental take permit. To date, 12 landowners have submitted design plans or applications for incidental take permits.

The designation of critical habitat does not affect land ownership or establish a refuge, wilderness, reserve, preserve, or other conservation area. It does not allow government or public access to private lands, close public beaches, or require restoration of private lands. Under the Act, we have specific time frames in which to complete the section 7 consultation process with Federal action agencies. These time frames remain the same whether or not there is critical habitat within the project area. Designation of critical habitat for the beach mice notifies the Federal action agencies and the public that federally authorized, permitted, or funded activities within these designated critical habitat areas must comply with section 7 consultation requirements. For each section 7 consultation, we already review the direct and indirect effects of the proposed projects on the beach mice and currently designated habitat, and will continue to do so for additional critical habitat if it is designated. A critical habitat designation does not create a separate process and timelines do not change.

(21) Comment: Several commenters were concerned that the designation of private property within a critical habitat unit is similar to the Coastal Barrier Act designation of “Other Protected Areas,” and that, as a result, they will lose their homeowner's insurance policy.

Our Response: Inclusion of property within a critical habitat unit does not prevent development or issuance of flood insurance since it does not affect land ownership or establish a refuge, wilderness, reserve, preserve, or other conservation area; nor does it alter existing Coastal Barrier System unit boundaries. In contrast,the Coastal Barrier Improvement Act of 1990 provides for establishment of “otherwise protected areas” (OPA) which are undeveloped coastal barriers established primarily for wildlife refuge, sanctuary, recreational, or natural resource conservation purposes. New construction within otherwise protected areas cannot receive Federal flood insurance unless it conforms to designated purposes for protection of the area. No other restrictions are placed on Federal expenditures in OPAs. Activities carried out with private or other non-Federal funds are not restricted, so inclusion of property in a CBRS unit or an OPA does not prevent development of that property.

(22) Comment: One commenter requested that we further explain and define “destruction or adverse modification of critical habitat” and explain how it can be mitigated for.

Our Response: Destruction or adverse modification of critical habitat is currently defined as a direct or indirect alteration that appreciably diminishes the value of the critical habitat for both the survival and recovery of a listed species (50 CFR 402.02). However, this regulatory definition was found to be invalid in a March 15, 2001, decision of the United States Court of Appeals for the Fifth Circuit (Sierra Club v. U.S. Fish and Wildlife Service et al. 245 F.3d 434). In a subsequent ruling on August 6, 2004, the United States Court of Appeals for the Ninth Circuit (Gifford Pinchot Task Force v. U.S. Fish and Wildlife Service) also found this regulatory definition to be contrary to law. We are reviewing our regulatory definition of adverse modification in response to these decisions. In the interim, the Service no longer relies on the regulatory definition of destruction or adverse modification of critical habitat at 50 CFR 402.02. Instead, we have relied upon the statutory provisions of the Act to complete the analyses required under section 7 consultation with respect to critical habitat. This includes determining whether the critical habitat would remain functional (or retain its current ability for the primary constituent elements to be functionally established) to serve the intended conservation role for the species.

According to the Director's December 9, 2004, memorandum, if an action affects critical habitat but does not appreciably diminish the value of primary constituent elements, the adverse modification threshold is not exceeded (see Adverse Modification Standard section below). In these cases, it is possible minimize the adverse effects of an action through implementation of conservation measures. If, during a consultation, the Service finds that an action would adversely modify or destroy critical habitat, the Act requires that we identify reasonable and prudent alternatives to the proposed action that would eliminate the likelihood of adverse modification.

(23) Comment: Several commenters, including Tyndall AFB, requested that their property be excluded from critical habitat designation. The FDOT requested that road right-of-ways be excluded from critical habitat designation.

Our Response: We have designated areas that we believe are sufficient for the conservation of the species using the best available science. The Act provides for the exemption and exclusion from critical habitat under sections 4(a)(3) and 4(b)(2), respectively. We have excluded several areas from critical habitat designation under 4(b)(2) based on existing HCPs that preclude the need for special management considerations. However, beyond those areas, we have determined that none of the requested additional areas meet the criteria for exemption under section 4(a)(3) of the Act or exclusion under section 4(b)(2) of the Act. See response to Comment 3 concerning Tyndall AFB. FDOT right-of-ways provide habitat for the Perdido Key, Choctawhatchee, and St. Andrew beach mice. These areas were included in our proposed designation because we have determined that they are essential to the conservation of the beach mice and satisfy the criteria for inclusion in critical habitat.

Comments Related to Suggested Alternatives to Designating Critical Habitat

(24) Comment: Several commenters believed that the public land on Perdido Key is sufficient for conservation of the Perdido Key beach mouse.

Our Response: While 51 percent of Perdido Key overall is public lands, only a portion of this is suitable for beach mice. Approximately 42 percent of the Perdido Key barrier island (2,949 ac) (1,193 ha) is identified as beach mouse habitat (1,300 ac; 526 ha). Of that, 76 percent (991 ac; 401 ha) is public land. Historic evidence has illustrated that without human intervention (translocation project), the Perdido Key beach mouse would have been extirpated in the late 1980s (Holler et al. 1989, pp. 402, 403), when there was even more habitat available on Perdido Key than there is currently. This process witnessed on Perdido Key in recent history follows the primary literature concerning population persistence and the need for multiple populations and functional connectivity (Soulé and Wilcox 1980; Ehrlich 1988, pp. 21-27; Fahrig and Merriam 1994, pp. 50-59; Oli et al. 2001, pp. 113-116). It is based on this research, coupled with beach mouse research and ecological tenets, that we designated critical habitat for the Perdido Key beach mouse (as well as the Choctawhatchee and St. Andrew beach mouse).

(25) Several commenters suggested that Federal dollars and Federal programs should be used to acquire more conservation lands for the beach mice instead of proposing the designation of privately owned lands.

Our Response: Some Federal funds are available to contribute towards the purchase of property intended for protected species conservation, but generally, our budgets do not easily allow for land acquisition as a method of conservation.

Most federally listed species in the United States will not recover without the cooperation of non-Federal landowners. More than 60 percent of the United States is privately owned (EPA 2003, p. 3-3) and at least 80 percent of endangered or threatened species occur either partially or solely on private lands (USGAO 1994, p. 4). Stein et al. (1995) found that only about 12 percent of listed species were found almost exclusively on Federal lands (90 to 100 percent of their known occurrences restricted to Federal lands) and that 50 percent of federally listed species are not known to occur on Federal lands at all.

Furthermore, public lands (such as State and national parks) are under constant pressure to expand their facilities to increase access, parking, and concessions to accommodate the increased visitation, all of which may impact beach mouse habitat. Public lands managers consult with the Service and apply for incidental take permits just as a private landowner would. Federal funds mainly contribute toward habitat management, predator control programs, monitoring, and research, but rarely are Federal funds available to contribute towards the purchase of property intended for protected species conservation.

(26) Comment: Several commenters believed that the Perdido Key beach mouse is not native to Perdido Key, and, therefore, should not be federally protected. Other commenters believe that the Federal government created beach mice habitat when they dug the intracoastal waterway, or beach mice are simply old field mice and are, therefore, not a rare species warranting protection.

Our Response: It has been established that the oldfield mouse (Peromyscus polionotus) and its subspecies are native to the southeastern United States, and the Perdido Key beach mouse is native to Perdido Key in Florida and Alabama (Holler 1992a, pp. 102-104). Bowen (1968, pp. 8-13) used differences in fur color and skeletal measures to recognize subspecies of beach mice. Bowen's work is the latest published comprehensive review of beach mice classification, is the accepted taxonomy of the species, and is the taxonomy on which the Service continues to rely.

(27) Comment: One commenter suggested that there should be more effort or laws instituted to control feral cats on Perdido Key particularly those being fed at entrance to Ono Island.

Our Response: Feral cats are identified as a major threat to beach mice and are believed to be a contributing factor to the cause of several local extirpations. The Service works with partners to increase public awareness concerning the impacts feral cats have on beach mice and other wildlife. Local (Escambia County) pet laws require that cats must be confined to your property (in your house or inside a fence or pen) or under direct control (on a leash) when off your property. Cats are not permitted to roam at large, nor are they permitted on the public beaches. The Service works with private landowners as they develop their properties to address feral cat issues.

(28) Comment: One commenter suggests breeding beach mice in captivity instead of designating critical habitat.

Our Response: While demographics are a concern when population numbers are extremely low, habitat is the main factor influencing the persistence of beach mice. Research indicates that Beach mice are capable of recovering from severe population bottlenecks without human intervention, provided that sufficient habitat is available (Wooten 1994, p. 28).

Research into the feasibility of captive breeding is a task named in the recovery plan and preliminary studies of holding beach mice in captivity are underway; however, breeding beach mice in captivity that are capable of surviving in the wild is a challenging, complex, and expensive undertaking. Some beach mouse subspecies do not breed well in captivity, or cease breeding if the colony reaches even a moderate level of inbreeding. Beach mice in captivity may also become diurnal or lose their fear of predators. Furthermore, beach mice bred in captivity would still need habitat in which to be released, and adjoining habitat to colonize and expand the population in order to persist. The main focus for beach mouse conservation remains to manage or enhance habitat where possible (dune restoration, predator control efforts) and allow beach mouse populations to recover naturally in the wild.

(29) Comment: One commenter suggested that conservation efforts on public lands should be voluntary and involve partnerships instead of designating them as critical habitat.

Our Response: The Service encourages voluntary conservation efforts and partnerships that would provide management or enhancement of habitat for threatened and endangered species. Designation of critical habitat does not influence the extent of conservation efforts recommended for endangered species habitat on public lands. The Service often excludes lands from critical habitat based on conservation partnerships.

Comments Related to Criteria and Methods Used To Designate Critical Habitat

(30) Comment: Several commenters believed that not enough is known about the beach mice to properly designate critical habitat, that the proposed designation is arbitrary or incorrect, or that the best scientific information was not used. One commenter requested that the Director of the Service investigate the studies upon which the proposal is based.

Our Response: As required by section 4(b)(1)(A) of the Act, we used the best scientific data available in determining areas that contain the features that are essential to the conservation of the Perdido Key beach mice, Choctawhatchee beach mice and St. Andrew beach mice. We reviewed the available information pertaining to the historic and current distributions, previously designated critical habitat, life histories, habitats, and threats to the beach mice. We reviewed available information that pertains to the habitat requirements of these subspecies, including material received since completion of the 1987 recovery plan for the Choctawhatchee and Perdido Key beach mice. This material includes data in reports submitted during section 7 consultations and by biologists holding section 10(a)(1)(A) recovery permits; research published in peer-reviewed articles and presented in academic theses and agency reports; regional Geographic Information System (GIS) coverages; and beach mouse habitat maps developed by the Service and Florida Fish and Wildlife Conservation Commission (FWC), as well as our own site-specific species and habitat information, recent biological surveys, reports and communication with other qualified biologists or experts, and unpublished species occurrence data contained within our files. The proposed rule was reviewed by and we received comments from 5 independent scientific experts (peer review). We reviewed all comments received from the peer reviewers and the public for substantive issues and new information and, where appropriate, have amended the final critical habitat designation.

(31) Comment: One commenter believed that special management and protection required by the critical habitat units is not properly identified.

Our Response: Special management and protection needs address the maintenance and improvement of the PCE's important to the species and manages for the long term conservation of the species. Examples may include management of non-native predators and competitors, preservation of habitat connectivity, management of non-native plants, protection of beach mice and their habitat from threats by road construction, urban and commercial development, heavy machinery, and recreational activities. In each unit description we have identified examples of the special management that may be necessary for that particular unit. See also Special Management Considerations or Protection section below.

(32) Comment: One commenter believed that the criteria used to delineate unit boundaries are not apparent.

Our Response: When determining which areas meet the definition of critical habitat, we considered theories of metapopulation persistence, and beach mouse life history and historic range information, in addition to habitat transitions. The mean high water level and the maritime forest were used to delineate the seaward and northern boundary of units, respectively. Use of the maritime forest as a northern boundary is justified biologically as this habitat type is generally directly landward of the scrub habitat, easily distinguished in the field, and is not inhabited by beach mice. The mean high water line was used as it is an accepted legal boundary. In urban areas, roads, driveways, and land parcel boundaries were used to delineate unit boundaries where appropriate.

(33) Comment: Several commenters believed that the Service has not complied with Federal rules and regulations, including the Act, NEPA, Administrative Procedure Act (APA), and the Commerce Clause. One commenter believed that other relevant impacts of the designation, besides economic impacts, have not been considered and that the Service did not properly consider regulatory alternatives.

Our Response: As set forth below, we have complied with Federal rules and regulations, including the Act, NEPA (see National Environmental Policy Act below), APA, and the Commerce Clause. We believe we have fully considered the relevant impacts of designation, as required by the Act.

(34) Comment: Two commenters believe that the Service has incorrectly defined occupied habitat or there is no evidence of beach mice on private lands.

Our Response: Beach mice can be difficult to detect because of their nocturnal movements and small size. Therefore, a specific protocol has been developed to determine the presence or absence of beach mice. Presence of beach mice can be established with one capture, but due to seasonal, annual, and disturbance-related population fluctuations, a minimum of two years of quarterly live-trapping is necessary to determine absence of beach mice. The Service may not visit private property unless given specific permission. Consequently, little monitoring or research has been conducted on private property. We have only designated areas where we have information about beach mice presence within their dispersal distance.

(35) Comment: One commenter felt that CBM-5 should not be split into two units.

Our Response: In our proposed rule, we specifically asked for public comment on whether we should split CBM unit 5 into two units, since areas within the unit differ as to whether they were known to be occupied at the time of listing. In this final designation, we have not split CBM unit 5 into separate units because the State requested that it be kept as one unit. Both areas are part of St. Andrew State Park and managed similarly by the Florida Park Service.

Comments Related to Mapping

(36) Comment: One commenter believed that including the areas proposed for exclusion in the critical habitat maps is confusing.

Our Response: We proposed certain areas for exclusion and requested public comment on these proposed exclusions. Excluded areas are removed from the maps in this final rule.

(37) Comment: One commenter stated that the maps do not allow for private landowners to determine whether they are within proposed critical habitat.

Our Response: Please refer to the UTM coordinates and the narrative description as well as the maps to determine if a specific location is within designated critical habitat.

Comments Related to Site-Specific Areas

(38) Comment: One commenter specified the Gulf Beach unit (PKBM-4) as not having the PCEs and having been designated without following designation criteria. Three commenters believe that much of the area proposed for designation on Perdido Key is unoccupied habitat and not essential to beach mice.

Our Response: The land proposed for critical habitat designation within the Gulf Beach Unit includes frontal dune habitat, scrub habitat, and provides connectivity (PCE 2, PCE 3, and PCE 4). While not known to be occupied at the time of listing, the presence of beach mice was confirmed within the unit in 2004 as a result of live-trapping efforts in conjunction with permitting (Service 2004a). This unit includes scrub habitat and serves as a refuge during storm events and as an important source population if storms extirpate or greatly reduce local populations. This unit currently provides essential habitat for connectivity between the populations at Gulf Islands National Seashore (PKBM-5) and Perdido Key State Park (PKBM-3), and provides essential habitat for expansion, natural movements, and recolonization.

Please see the Perdido Key beach mouse critical habitat unit descriptions to review occurrence data, for which we have determined presence of beach mice in all units except for the Gulf State Park Unit (PKBM-1), and which were occupied at the time of listing. Occurrence data are limited in the Gulf Beach (PKBM-4) and West Perdido Key Units (PKBM-2), since these areas are privately owned and the Service is not permitted to visit or work on private lands without specific permission from the landowner. However, despite our limited access to these private lands, we have documented the presence of beach mice within the units.

Comments Related to Public Notification

(39) Comment: Several commenters from Walton County believed that they were not sufficiently notified about the proposed designation of critical habitat. The commenters requested two-week to three-month extensions to the July 17, 2006, deadline to comment.

Our Response: The Service provided extensive public notification of the proposed critical habitat designation (notice in the Federal Register, public notices in 4 newspapers, news releases to 11 newspapers, and notification of local television and radio stations). County, State, and Federal elected officials were also notified. This notification process was implemented twice—on December 15, 2005, to solicit comments on the proposed rule, and again on June 16, 2006, to solicit comments on the economic analysis and again on the proposed rule. The combined comment period was 90 days. Even though there were no requests for hearings within the range of the Choctawhatchee or St. Andrew beach mouse, we held an informational public meeting and public hearing in Panama City, Florida. We held an additional meeting and public hearing in Pensacola. An article ran in the Walton Sun on June 17, 2006, and included the dates of the public meetings and contacts for further information. Thus, although we did not specifically notify individual landowners within the areas to be designated, we believe we provided adequate opportunity for the public to review and provide comment on the original and revised proposed rules, and draft economic analysis.

Moreover, the Service had little flexibility about the length of the comment period. Based on the Services's own statements to the court, the court ordered us to publish a final revision for Perdido Key beach mouse and Choctawhatchee beach mouse critical habitat, as well as, a new final decision with respect to designation of critical habitat for the St. Andrew beach mouse by September 30, 2006.

Comments Related to the Draft Economic Analysis

(40) Comment: One commenter believes that the costs of the proposed designation of Perdido Key beach mouse critical habitat outweigh the benefits.

Our Response: Section 4(b)(2) of the Act allows the Secretary to take into consideration potential economic impacts of a critical habitat designation and to exclude areas from critical habitat for economic reasons if he determines that the benefits of such exclusion outweigh the benefits of designating the area as critical habitat, unless the exclusion will result in the extinction of the species concerned. Without knowing more specifically which areas the commentor wished to be excluded, the Service cannot conduct any specific analysis.

Please see the Economic Analysis and the Regulatory Flexibility Act sections of the rule for information regarding specific costs associated with the designation of critical habitat for these three subspecies and how these costs affected the final designation.

(41) Comment: One commenter believes that the economic impact of setting aside 29 acres should be included in the estimate for PKBM-4 for a development planned with the unit.

Our Response: This development is at an early stage of consultation. The information currently provided to us illustrates the preservation of 12 to 15 acres, and as this project is not at a stage of approval, it is uncertain what the final set aside may be. Furthermore, it would be considered predecisional for the Service to make such a determination when the outcome of the permitting process is unknown.

Comments From States

Section 4(i) of the Act states that “the Secretary shall submit to the State agency a written justification for his failure to adopt regulations consistent with the agency's comments or petition.” Comments received from State agencies (Florida Department of Environmental Protection and Florida Department of Transportation) regarding the proposal to designate critical habitat for the Perdido Key beach mice, Choctawhatchee beach mice, and St. Andrew beach mice are addressed in the General Comments section, comments 18, 19, 20 and 23.

Summary of Changes From Proposed Rule

As a result of comments received on the initial proposal, the reproposal, the draft economic analysis, and a reevaluation of the revised proposed critical habitat boundaries, we have changed our proposed designation as follows:

(1) We adjusted the critical habitat boundaries of PKBM-5 and CBM-5 to include additions of 36 ac (15 ha) and 96 ac (39 ha), respectively, based on peer review, public comments, and biological information received during the public comment periods. Please see the revised proposed rule (71 FR 35048) for more information.

(2) We adjusted the boundaries of unit SABM-1 to remove areas that did not contain primary constituent elements or did not meet the designation criteria. This resulted in the removal of 144 ac (58 ha) of private and military lands (Tyndall AFB) that were included in the proposed designation.

(3) Under section 4(b)(2) of the Act, we excluded two areas of private lands. These lands (Stallworth Preserve, and Watersound and Watercolor) in Walton County, Florida, total 79 ac (32 ha), and are covered under legally operative HCPs for the Choctawhatchee beach mouse (Table 2). These HCPs provide for the conservation of Choctawhatchee beach mice, and in general include activities such as habitat protection, enhancement, and restoration; partnership in the implementation and monitoring of beach mouse translocation programs on the property; native landscaping; predator control; and through adaptive management, assurances that the conservation effort will be effective. For a detailed discussion of all exclusions and exemptions, please refer to “Application of Section 4(a)(3) and Exclusions Under Section 4(b)(2) of the Act” below.

Critical Habitat

Critical habitat is defined in section 3 of the Act as—(i) The specific areas within the geographical area occupied by a species, at the time it is listed in accordance with the Act, on which are found those physical or biological features (I) essential to the conservation of the species and (II) that may require special management considerations or protection; and (ii) specific areas outside the geographical area occupied by a species at the time it is listed, upon a determination that such areas are essential for the conservation of the species. Conservation, as defined under section 3 of the Act, means to use, and the use, of all methods and procedures that are necessary to bring any endangered species or threatened species to the point at which the measures provided under the Act are no longer necessary. Such methods and procedures include, but are not limited to, all activities associated with scientific resources management, such as research, census, law enforcement, habitat acquisition and maintenance, propagation, live trapping, and transplantation, and, in the extraordinary case where population pressures within a given ecosystem cannot be otherwise relieved, may include regulated taking.

Critical habitat receives protection under section 7 of the Act through the prohibition against destruction or adverse modification of critical habitat with regard to actions carried out, funded, or authorized by a Federal agency. Section 7 requires consultation on Federal actions that are likely to result in the destruction or adverse modification of critical habitat. The designation of critical habitat does not affect land ownership or establish a refuge, wilderness, reserve, preserve, or other conservation area. Such designation does not allow government or public access to private lands. Section 7 is a purely protective measure and does not require implementation of restoration, recovery, or enhancement measures.

To be included in a critical habitat designation, the habitat within the area occupied by the species at the time of listing must first have features that are essential to the conservation of the species. Critical habitat designations identify, to the extent known using the best scientific data available, habitat areas that provide essential life cycle needs of the species (areas on which are found the primary constituent elements, as defined at 50 CFR 424.12(b)).

Habitat occupied at the time of listing may be included in critical habitat only if the essential features thereon may require special management or protection. Thus, we do not include areas where existing management is sufficient to conserve the species. (As discussed below, such areas may also be excluded from critical habitat pursuant to section 4(b)(2).) Furthermore, when the best available scientific data do not demonstrate that the conservation needs of the species require additional areas, we will not designate critical habitat in areas outside the geographical area occupied by the species at the time of listing. However, an area currently occupied by the species but not known to have been occupied at the time of listing will likely, but not always, be essential to the conservation of the species and, therefore, typically be included in the critical habitat designation.

The Service's Policy on Information Standards Under the Endangered Species Act, published in the Federal Register on July 1, 1994 (59 FR 34271), and Section 515 of the Treasury and General Government Appropriations Act for Fiscal Year 2001 (Pub. L. 106-554; H.R. 5658) and the associated Information Quality Guidelines issued by the Service provide criteria, establish procedures, and provide guidance to ensure that decisions made by the Service represent the best scientific data available. They require Service biologists, to the extent consistent with the Act and with the use of the best scientific data available, to use primary and original sources of information as the basis for recommendations to designate critical habitat. When the Service is determining which areas are critical habitat, a primary source of information is generally the listing package for the species. Additional information sources include the recovery plan for the species, articles in peer-reviewed journals, conservation plans developed by States and counties, scientific status surveys and studies, biological assessments, or other unpublished materials and expert opinion or personal knowledge. All information is used in accordance with the provisions of Section 515 of the Treasury and General Government Appropriations Act for Fiscal Year 2001 (Pub. L. 106-554; H.R. 5658) and the associated Information Quality Guidelines issued by the Service.

Section 4 of the Act requires that we designate critical habitat on the basis of the best scientific data available. Habitat is often dynamic, and species may move from one area to another over time. Furthermore, we recognize that designation of critical habitat may not include all of the habitat areas that may eventually be determined to be necessary for the recovery of the species. For these reasons, critical habitat designations do not signal that habitat outside the designation is unimportant or may not be required for recovery.

Areas that support populations, but are outside the critical habitat designation, will continue to be subject to conservation actions implemented under section 7(a)(1) of the Act and to the regulatory protections afforded by the section 7(a)(2) jeopardy standard, as determined on the basis of the best available information at the time of the action. Federally funded or permitted projects affecting listed species outside their designated critical habitat areas may still result in jeopardy findings in some cases. Similarly, critical habitat designations made on the basis of the best available information at the time of designation will not control the direction and substance of future recovery plans, habitat conservation plans, or other species conservation planning efforts if new information available to these planning efforts calls for a different outcome.

Primary Constituent Elements

In accordance with section 3(5)(A)(i) of the Act and regulations at 50 CFR 424.12, in determining which areas to designate as critical habitat, we consider those physical and biological features (PCEs) that are essential to the conservation of the species and occupied by the species at the time of listing, that may require special management considerations and protection. These include, but are not limited to, space for individual and population growth and for normal behavior; food, water, air, light, minerals, or other nutritional or physiological requirements; cover or shelter; sites for breeding, reproduction, and rearing (or development) of offspring; and habitats that are protected from disturbance or are representative of the historic geographical and ecological distributions of a species.

The specific primary constituent elements required for the Perdido Key beach mice, Choctawhatchee beach mice, and St. Andrew beach mice are derived from the biological needs of beach mice as described in the proposed critical habitat designation published in the Federal Register on December 15, 2005 (70 FR 74426).

Space for Individual and Population Growth and Normal Behavior

Long-term trapping data have shown that beach mouse densities are cyclic and fluctuate on a seasonal and annual basis. These fluctuations can be a result of reproduction rates, food availability, habitat quality and quantity, catastrophic events, disease, and predation (Blair 1951; Bowen 1968; Smith 1971; Hill 1989; Rave and Holler 1992; Swilling et al. 1998; Swilling 2000; Sneckenberger 2001). Without suitable habitat sufficient in size to support the natural cyclic nature of beach mouse populations as they expand, subspecies are at risk from local extirpation and extinction, and may not attain the densities necessary to persist through storm events and seasonal fluctuations of resources. The conservation of multiple large, contiguous tracts of habitat is a key to the persistence of beach mice.

At present, such large parcels exist mainly on public lands. Protection, management, and conservation of beach mice on public areas have been complicated by increased recreational use by humans as public lands are rapidly becoming the only natural areas left on the coast. Where protection of large contiguous tracts of beach mouse habitat along the coast is not possible, establishing multiple independent populations is the best defense against local and complete extinctions due to storms and other stochastic events (Danielson 2005). Protecting multiple populations increases the chance of at least one population within the range of a subspecies surviving episodic storm events and persisting while vegetation and dune structure recover.

The three beach mice utilize the rolling primary and secondary (frontal) dunes, which are characterized by a thick growth of sea oats (Uniola paniculata), as well as blue stem (Schizachyrium scoparium), beach grass (Panicum amarum), and beach goldenrod (Chrysoma pauciflosculosa). Beach mice also need scrub habitat, which consists of relict dunes of relatively high elevation, dominated by large patches of scrub live oak (Quercus geminata) with gopher apple (Licania michauxii) and green briar (Smilax spp.) ground covers. Directly landward of the scrub habitat is the maritime forest with tall, dense growth, thick ground cover, and leaf litter that consists mainly of Pinus sp. and thick patches of saw palmetto (Serenoa repens). The maritime forest is not occupied by beach mice and can be used to delineate the landward extent of beach mouse habitat.

Habitat Connectivity

Habitat loss and fragmentation associated with residential and commercial real estate development is the primary threat contributing to the endangered status of beach mice (Holler 1992a; Humphrey 1992). Coastal development has fragmented all the subspecies into disjunct populations. Isolation of habitats by imposing barriers to species movement is an effect of fragmentation that equates to reduction in total habitat (Noss and Csuti 1997). Furthermore, isolation of small populations of beach mice reduces or precludes gene flow between populations and can result in the loss of genetic diversity. Selander et al. (1971) found that allozyme variation in beach mouse populations (Perdido Key beach mice, Choctawhatchee beach mice, and Alabama beach mice) was significantly lower than the variation detected in adjacent inland populations. Correlations between genetic variation (heterozygosity) and other factors have been well-researched with oldfield mice. Lower levels of heterozygosity have been linked to less efficient feeding, fewer demonstrations of social dominance and exploratory behavior, and smaller body size (Garten 1976, Teska et al. 1990). Research focused on inbreeding depression in oldfield mice (including one beach mouse subspecies) determined that the effects of inbreeding negatively influenced factors such as litter size, number of litters, and juvenile survivorship (Lacy et al. 1995). Demographic factors, such as predation (especially by domestic cats), diseases, and competition with house mice, are intensified in small, isolated populations that may be rapidly extirpated by these pressures. Especially when coupled with events such as storms, reduced food availability, and reduced reproductive success, isolated populations may experience severe declines or extirpation (Caughley and Gunn 1996). The strength of influence these factors have on populations or individuals is largely dependent on the degree of isolation.

Connectivity becomes essential where mice occupy fragmented areas lacking one or more habitat types. If scrub habitat is lacking from a particular tract, adjacent or connected tracts with scrub habitat are necessary for food and burrow sites when resources are scarce in the frontal dunes, and are essential to beach mouse populations during and immediately after hurricanes. Trapping data suggest that beach mice occupying the scrub following hurricanes recolonize the frontal dunes once vegetation and some dune structure have recovered (Swilling et al. 1998; Sneckenberger 2001). Similarly, when frontal dune habitat is lacking from a tract and a functional pathway to frontal dune habitat does not exist, beach mice may not be able to obtain the resources necessary to expand the population and reach the densities necessary to persist through the harsh summer season or the next storm. Functional pathways may allow for natural behavior such as dispersal and exploratory movements, as well as gene flow to maintain genetic variability of the population within fragmented or isolated areas. To that end, contiguous tracts or functionally connected patches of suitable habitat are features that are essential to the long-term conservation of beach mice.

PCEs 1, 2, and 3 reflect the distinct roles of the frontal dune and scrub habitat when contiguous and when isolated. A consequence of coastal development is a high level of habitat fragmentation and loss of habitat connectivity. While areas providing both frontal dune and scrub dune habitat (PCE 1) is preferred and serves beach mice populations in all seasons and stochastic conditions, such areas are not readily available within the historic range of the three beach mouse subspecies. Frequently, areas exist that contain only frontal dune or scrub dune habitat. As discussed in the proposed rule and the PCEs, the two habitat types serve different roles and their relative importance to beach mouse populations fluctuate seasonally and annually. PCEs 2 and 3 capture the necessary elements and demonstrate the necessity of each individual habitat, while emphasizing that the benefits of both habitats are more than additive when the two habitat types are contiguous (PCE 1).

Food Resources and Vegetative Cover

Beach mice feed primarily upon seeds and fruits, but have been shown to prey on insects. Beach mice appear to forage on food items based on availability and have shown no preferences for particular seeds or fruits (Moyers 1996). Research suggests that the availability of food resources fluctuates seasonally in Gulf Coast coastal dune habitat; specifically, food resources may be limited during winter and spring in the scrub habitat and limited in the frontal dunes in the summer and fall (Sneckenberger 2001). Nutritional analysis of foods available in each habitat revealed that seeds of plant species in both habitats provide a similar range of nutritional quality. The frontal dunes appear to have more species of high-quality foods, but these sources are primarily grasses and annuals that produce large quantities of small seeds in a short period of time. Foods available in the scrub consist of larger seeds and fruits that are produced throughout a greater length of time and linger in the landscape. Consequently, large, contiguous tracts containing both frontal dune and scrub habitat types are necessary to provide both: (1) A large quantity of food resources coinciding with the reproductive season, and (2) a relatively stable source of food resources when availability is reduced.

Foraging activities and other natural behaviors of beach mice are influenced by many factors. Artificial lighting alters behavior patterns causing beach mice to avoid otherwise suitable habitat and decreases the amount of time they are active in those areas (Bird et al. 2004). Within the relatively sparsely vegetated frontal dune and scrub dune habitat occupied by beach mice, the presence of vegetative cover reduces predation risk and perceived predation risk of foraging beach mice, and allows for normal movements, activity, and foraging patterns. Foraging in sites with vegetative cover is greater and more efficient than in sites without cover (Bird 2002). Beach mice have also been found to prefer coastal dune habitat (that is, not maritime forest) with increased percent cover of vegetation, and decreased distance between vegetated patches (Smith 2003). Behavioral modification or increased predation in response to these factors can result in population decreases and restricted use of available habitat.

Burrow Sites

Beach mice use burrows to avoid predators, protect young, store food, and serve as refugia between foraging bouts and during periods of rest. Beach mice have been shown to select burrow sites based on a suite of abiotic and biotic factors. A limitation in one or more factors may result in a shortage of suitable sites, and the availability of potential burrow sites in each habitat may vary seasonally. Beach mice tend to construct burrows in areas with greater plant cover, less soil compaction, steep slopes, and higher elevations above sea level (Lynn 2000; Sneckenberger 2001). These factors are likely important in minimizing energy costs of burrow construction and maintenance while maximizing the benefits of burrow use by making a safe and physiologically efficient refuge. Similar to food resources, this fluctuation in availability of burrow sites suggests that a combination of large, contiguous tracts of habitat with burrow sites in primary, secondary, and scrub dune habitat is essential to beach mice at the individual level.

Habitats Protected From Anthropogenic Disturbance

Artificial lighting, non-native species, and refuse can directly and indirectly increase predation pressure on beach mice beyond their natural levels. Free-roaming and feral pets are believed to have a devastating effect on beach mouse persistence (Bowen 1968; Linzey 1978) and are considered to be the main cause of the loss of at least one population of beach mice (Holliman 1983). Cat tracks have been observed in areas of low trapping success for beach mice (Auburn University 1999). The population and habitat viability analysis for the Alabama beach mouse indicated that if each population had as few as one feral cat that ate one mouse a day, rapid extinction of the species occurred in over 99 percent of all iterations (Traylor-Holzer et al. 2005). Refuse may attract competitors (house mice (Mus musculus)) and predators (such as coyotes (Canis latrans) and red foxes (Vulpes vulpes)), unsettling the natural predator-prey balance and competing with beach mice for resources. This issue is of particular importance and has the most impact when beach mouse populations are at low densities. This influx of development-related predators and competitors is believed to be the final cause of the extinction of the pallid beach mouse (Peromyscus polionotus decoloratus) (Humphrey 1992).

Beyond the direct effects of mortality due to predation, beach mouse habitat use and foraging patterns are influenced by these anthropogenic disturbances. Artificial lighting, for example, influences beach mouse foraging patterns and natural movements (for example, avoidance of an otherwise suitable area) due to an increased risk of predation in the lighted areas. Beach mice avoid areas with artificial lighting or reduce the time spent foraging in lighted areas (Bird et al. 2004). Consequently, because of these anthropogenic factors, mice may be unable to gather necessary food resources or fail to utilize otherwise suitable habitat.

Primary Constituent Elements for the Perdido Key Beach Mice, Choctawhatchee Beach Mice, and St. Andrew Beach Mice

Pursuant to our regulations, we are required to identify the known physical and biological features (Primary Constituent Elements or PCEs) essential to the conservation of Perdido Key beach mice, Choctawhatchee beach mice, and St. Andrew beach mice. All areas designated as critical habitat for Perdido Key beach mice, Choctawhatchee beach mice, and St. Andrew beach mice are occupied or essential to the conservation of the species, within the species' historic geographic range, and contain sufficient PCEs to support at least one life history function.

Based on our current knowledge of the life history, biology, and ecology of the species and the requirements of the habitat to sustain the essential life history functions of the species, we have determined that PCEs for the Perdido Key beach mice, Choctawhatchee beach mice, and St. Andrew beach mice are:

1. A contiguous mosaic of primary, secondary, and scrub vegetation and dune structure, with a balanced level of competition and predation and few or no competitive or predaceous nonnative species present, that collectively provide foraging opportunities, cover, and burrow sites.

2. Primary and secondary dunes, generally dominated by sea oats (Uniola paniculata), that, despite occasional temporary impacts and reconfiguration from tropical storms and hurricanes, provide abundant food resources, burrow sites, and protection from predators.

3. Scrub dunes, generally dominated by scrub oaks (Quercus spp.), that provide food resources and burrow sites, and provide elevated refugia during and after intense flooding due to rainfall and/or hurricane-induced storm surge.

4. Functional, unobstructed habitat connections that facilitate genetic exchange, dispersal, natural exploratory movements, and recolonization of locally extirpated areas.

5. A natural light regime within the coastal dune ecosystem, compatible with the nocturnal activity of beach mice, necessary for normal behavior, growth, and viability of all life stages.

This designation is designed for the conservation of PCEs necessary to support the life history functions that were the basis for the proposal. Because not all life history functions require all the PCEs, not all critical habitat will contain all the PCEs.

Units are designated based on sufficient PCEs being present to support one or more of the species' life history functions. Some units contain all PCEs and support multiple life processes, while some units contain only a portion of the PCEs necessary to support the species' particular use of that habitat. Where a subset of the PCEs is present at the time of designation, this rule protects those PCEs and thus the conservation function of the habitat.

Criteria Used To Identify Critical Habitat

As required by section 4(b)(1)(A) of the Act, we use the best scientific data available in determining areas that contain the features essential to the conservation of the Perdido Key beach mouse, Choctawhatchee beach mouse, and St. Andrew beach mouse. We have reviewed available information that pertains to the habitat requirements of these species. We have reviewed the overall approach to conservation of the three species of beach mice undertaken by the local, State, and Federal agencies operating within the species' range since their listing, and the recovery plan for Perdido Key and Choctawhatchee beach mice (1987). The St. Andrew beach mouse recovery plan is under development.

We reviewed the available information pertaining to the historic and current distributions, previously designated critical habitat, life histories, habitats, and threats to the beach mice. We reviewed available information that pertains to the habitat requirements of these subspecies, including material received since completion of the 1987 recovery plan. This material includes: Data in reports submitted during section 7 consultations and by biologists holding section 10(a)(1)(A) recovery permits; research published in peer-reviewed articles and presented in academic theses and agency reports; regional Geographic Information System (GIS) coverages; coastal imagery from 1999 and 2004; beach mouse habitat maps (developed by the Service and FWC); and our own site-specific species and habitat information, recent biological surveys, reports and communication with other qualified biologists or experts, and unpublished species occurrence data contained within our files.

Three steps were conducted to identify critical habitat units. First, based on a compilation of information listed above on the known occurrences of the three subspecies of beach mice, we created maps indicating the areas and habitat features associated with these occurrences. Our designation does not include all occupied areas. When determining which areas are essential to the conservation of the subspecies and meet the definition of critical habitat, we considered theories of metapopulation persistence, and beach mouse life history information.

The habitat units were delineated using Environmental Systems Research Institute, Inc.’s (ESRI) ArcGIS, a computer GIS program, to evaluate geospatial and locality data derived from a variety of Federal, State, and local agencies, and from private organizations and individuals. Habitat delineation included current and historic species occurrence locations. Our mapping process was based on the need to exclude areas that lack essential habitat features, while simultaneously accounting for the dynamic nature of coastal habitat. We depicted the mapped shoreline according to the mean high water line (MHWL), although the land configurations of these coastal areas change dramatically through time. Landward boundaries of the units, which frequently consist of urban areas or maritime forest, are more stable and provide easily discernable landmarks on the ground within a critical habitat unit.

Second, we identified, in accordance with section 3(5)(A)(i) of the Act and regulations at 50 CFR 424.12, the physical and biological habitat features (also called primary constituent elements, or PCEs) at those sites that are essential to the conservation of the species. We mapped critical habitat unit boundaries at each site based on the extent of habitat containing sufficient PCEs to support biological function. Critical habitat boundaries were delineated using 1-meter, true-color DOQ's developed in 2004, to photo-update the Services' existing beach mice habitat geospatial layer (created by digitizing habitat identified in 1994, 1-meter, color-infrared DOQ's and subsequently photo-updated using 1-meter, color-infrared DOQs from 1999). The critical habitat layers were digitized at a 1:3,000 view scale or larger, to identify habitat and other features on the ground. This allowed us to map or map-out (remove) the features on the ground to the greatest accuracy based on the resolution of the source data. We made every effort to avoid proposing the designation of developed areas such as buildings, paved areas, boat ramps, roads, and other structures that lack PCEs for the Perdido Key beach mouse, Choctawhatchee beach mouse, and St. Andrew beach mouse. We also eliminated highly degraded tracts, and small, isolated, or highly fragmented tracts that provide little long-term conservation value.

Coordinates for the critical habitat unit descriptions in the regulation section of this rule were generated using the Ungenerate tool available in ET GeoWizards, a tool written by Mr. Ianko Tchoukanski for ArcGIS 9.x. Coordinates were generalized, based on formatting requirements for the Federal Register, from 9 decimal places in the X and 8 decimal places in the Y to 2 decimal places for both the X and Y. This generalization will result in a reduction in the accuracy of the data if generated from the x-y coordinate pairs reported herein this document.

In areas within a critical habitat unit in which it was necessary to split the unit into its component general ownership categories (Federal, State, Local, Private), county parcel data were used to digitize these boundaries.

The final step was to determine and identify any areas that do not meet the definition of critical habitat under section 3(5)(A) of the Act, and to identify other areas that may be subject to an approved INRMP that provides a benefit to the species and may be exempted under section 4(a)(3), and to identify units that may be excluded based on section 4(b)(2) of the Act (see the Application of Sections 4(a)(3) and Exclusions Under Section 4(b)(2) of the Act, below, for a detailed description).

The scale of the maps prepared under the parameters for publication within the Code of Federal Regulations may not reflect the exclusion of all such developed areas. Any such structures and the land under them inadvertently left inside critical habitat boundaries shown on the maps of this final rule have been excluded by text in the proposed rule and are not designated as critical habitat. Therefore, Federal actions limited to these areas would not trigger section 7 consultation, unless they affect the species or primary constituent elements in adjacent critical habitat.

Thirteen units were designated based on sufficient PCEs being present to support Perdido Key beach mouse, Choctawhatchee beach mouse, and St. Andrew beach mouse life processes. Some units contained all PCEs and supported multiple life processes. Some segments contained only some of the PCEs necessary to support the particular use of that habitat by Perdido Key beach mice, Choctawhatchee beach mice, or St. Andrew beach mice.

A brief discussion of each area designated as critical habitat is provided in the unit descriptions below. Additional detailed documentation concerning the essential nature of these areas is contained in our supporting record for this rulemaking.

Special Management Considerations or Protection

When designating critical habitat, we assess whether, within areas determined to be occupied at the time of listing, the PCEs may require special management considerations or protections. As discussed in more detail in the proposed critical habitat designation (70 FR 74426) and in the unit descriptions below, we find that the features essential to the conservation of beach mice in all of the areas we are designating may require special management considerations or protections due to threats to the subspecies or its habitat. Such management considerations and protections include: Management of non-native predators and competitors, management of non-native plants, protection of beach mice and their habitat from threats by road construction, urban and commercial development, heavy machinery, and recreational activities.

Critical Habitat Designation

We are designating 13 units as critical habitat for the Perdido Key beach mouse, Choctawhatchee beach mouse, and St. Andrew beach mouse. The critical habitat areas described below constitute our best assessment at this time of areas determined to be occupied at the time of listing, containing the primary constituent elements essential for the conservation of the species and that may require special management, and those additional areas found to be essential to the conservation of Perdido Key beach mice, Choctawhatchee beach mice, and St. Andrew beach mice. Presented below are brief descriptions of all units. The units are listed in order geographically west to east.

Perdido Key Beach Mouse

We are designating five units as critical habitat for the Perdido Key beach mouse: (1) Gulf State Park, (2) West Perdido Key, (3) Perdido Key State Park, (4) Gulf Beach, and (5) Gulf Islands National Seashore. Table 1 provides the approximate area (acres and hectares) encompassed within each critical habitat unit determined to meet the definition of critical habitat for the Perdido Key beach mouse.

Table 1.—Critical Habitat Units Designated for the Perdido Key Beach Mice
Critical habitat unit | Federal acres (hectares) | State acres (hectares | Local and private acres (hectares) | Total acres (hectares)
Gulf State Park (PKBM-1) | 0 | 115 (46) | 0 | 115 (46)
West Perdido Key (PKBM-2) | 0 | 0 | 147 (59) | 147 (59)
Perdido Key State Park (PKBM-3) | 0 | 238 (96) | 0 | 238 (96)
Gulf Beach (PKBM-4) | 0 | 0 | 162 (66) | 162 (66)
Gulf Islands National Seashore (PKBM-5) | 638 (258) | 0 | 0 | 638 (258)
Total | 638 (258) | 353 (142) | 309 (125) | 1,300 (525)

Since the Perdido Key beach mouse would be extinct without the aid of re-establishment programs (Holler et al. 1989, pp. 398, 403; Service 2004b, p. 1-2), most of the habitat remaining within the subspecies' historic range (Perdido Key) is considered essential for its continued existence. We present brief descriptions of all units and reasons why they meet the definition of critical habitat for the Perdido Key beach mouse below.

PKBM-1: Gulf State Park Unit

PKBM-1 consists of 115 ac (46 ha) in southern Baldwin County, Alabama, on the westernmost region of Perdido Key. This unit encompasses essential features of beach mouse habitat within the boundary of Gulf State Park from the west tip of Perdido Key at Perdido Pass east to approximately 1.0 mi (1.6 km) west of where the Alabama-Florida State line bisects Perdido Key and the area from the MHWL north to the seaward extent of the maritime forest. This unit was occupied by the species at the time of listing. Perdido Key beach mice were known to inhabit this unit during surveys in 1979 and 1982, and by 1986 this was the only known existing population of the subspecies (Humphrey and Barbour 1981, pp. 841-842; Holler et al. 1989, p. 398). This population was the donor site for the reestablishment of Perdido Key beach mice into Gulf Islands National Seashore in 1986. This project ultimately saved Perdido Key beach mice from extinction as the population at Gulf State Park was considered extirpated in 1998 due to tropical storms and predators (Auburn University 1999, p 1.9).

Beach mouse habitat in this unit consists of primary, secondary, and scrub dune habitat (PCEs 2 and 3), and some areas of connectivity (PCE 4). Because scrub habitat is separated from the frontal dunes by a highway in some areas, the population inhabiting this unit can be especially vulnerable to hurricane impacts, and therefore, further linkage to scrub habitat or habitat management would improve connectivity. This unit is managed by the Alabama Department of Conservation and Natural Resources and provides a relatively natural light regime (PCE 5). Threats specific to this unit that may require special management considerations include artificial lighting, presence of feral cats and other predators at unnatural levels, and high recreational use that may result in soil compaction, damage to dunes, or other decrease in habitat quality.

PKBM-2: West Perdido Key Unit

PKBM-2 consists of 114 ac (46 ha) in southern Escambia County, Florida, and 33 ac (13 ha) in southern Baldwin County, Alabama. This unit encompasses essential features of beach mouse habitat from approximately 1.0 mi (1.6 km) west of where the Alabama-Florida State line bisects Perdido Key east to 2.0 mi (3.2 km) east of the State line and areas from the MHWL north to the seaward extent of human development or maritime forest. This unit consists of private lands and ultimately includes essential features of beach mouse habitat between Gulf State Park (PKBM-1) and Perdido Key State Park (PKBM-3). Beach mouse habitat in this unit consists of primary, secondary, and scrub dune habitat (PCEs 2 and 3). Habitat fragmentation and other threats specific to this unit are mainly due to development. Consequently, threats to this unit that may require special management considerations include habitat fragmentation and habitat loss, artificial lighting, presence of feral cats as well as other predators at unnatural levels, excessive foot traffic and soil compaction, and damage to dune vegetation and structure. This area was not known to be occupied at the time of listing. Beach mouse presence was confirmed in 2005 through observations of beach mouse burrows and tracks (Sneckenberger 2005), and this unit is adjacent to contiguous, occupied beach mouse habitat (PKBM-3). Therefore, we have determined this unit to be currently occupied. This unit is essential to the conservation of the species because it provides essential connectivity (PCE 4) between two more contiguous habitat patches (Perdido Key State Park and Gulf State Park), provides habitat for expansion, natural movements, and recolonization, and is therefore essential to the conservation of the species. Specifically, this unit may have historically provided for the recolonization of Gulf State Park (PKBM-1) or may facilitate similar recolonization in the future as the habitat recovers from recent hurricane events.

PKBM-3: Perdido Key State Park Unit

PKBM-3 consists of 238 ac (96 ha) in southern Escambia County, Florida. This unit encompasses essential features of beach mouse habitat within the boundary of Perdido Key State Park from approximately 2.0 mi (3.2 km) east of the Alabama-Florida State line to 4.0 mi (6.4 km) east of the State line, and the area from the MHWL north to the seaward extent of the maritime forest. Beach mouse habitat in this unit consists of primary, secondary and scrub dune habitat (PCEs 2 and 3) and some areas of connectivity (PCE 4). Live-trapping efforts in this area were limited in the past. Perdido Key beach mice were known to inhabit this unit in 1979, though the population was impacted by Hurricane Frederic (1979) and no beach mice were captured during extensive surveys in 1982 and 1986 (Humphrey and Barbour 1981, pp. 841-843; Holler et al. 1989, p. 400); therefore, the unit was considered unoccupied at the time of listing. In 2000, a relocation program began to reestablish mice at Perdido Key State Park, and this project is considered a success. This unit is essential to the conservation of the species because it contains a reestablished population of beach mice that is needed for recovery. Improving or restoring habitat connections would increase habitat quality and provide more connectivity for dispersal, exploratory movements, and population expansion. This unit is managed by the Florida Park Service and provides a natural light regime (PCE 5). Threats specific to this unit that may require special management considerations include artificial lighting, presence of feral cats as well as other predators at unnatural levels, and high recreational use that may result in soil compaction, damage to dunes, or other decrease in habitat quality.

PKBM-4: Gulf Beach Unit

PKBM-4 consists of 162 ac (66 ha) in southern Escambia County, Florida. This unit includes features essential to the conservation of beach mouse habitat between Gulf Islands National Seashore and Perdido Key State Park from approximately 4.0 mi (6.4 km) east of the Alabama-Florida State line to 6.0 mi (9.7 km) east of the State line and areas from the MHWL north to the seaward extent of human development or maritime forest. This unit consists of private lands. Beach mouse habitat in this unit consists of primary, secondary, and scrub dune habitat (PCEs 2 and 3). Habitat fragmentation and other threats specific to this unit are mainly due to development. Consequently, threats to this unit that may require special management considerations include habitat fragmentation and habitat loss, artificial lighting, presence of feral cats as well as other predators at unnatural levels, excessive foot traffic and soil compaction, and damage to dune vegetation and structure. While the unit was not known to be occupied at the time of listing, presence of beach mice has recently been confirmed as a result of live-trapping efforts in conjunction with permitting (Service 2004a). This unit includes high-elevation scrub habitat and serves as a refuge during storm events and as an important source population if storms extirpate or greatly reduce local populations. This unit is essential to the conservation of the species because it provides essential connectivity between two populations (Gulf Islands National Seashore and Perdido Key State Park) and provides essential habitat for expansion, natural movements, and recolonization (PCE 4).

PKBM-5: Gulf Islands National Seashore Unit

PKBM-5 consists of 638 ac (258 ha) in southern Escambia County, Florida, on the easternmost region of Perdido Key. This unit encompasses essential features of beach mouse habitat within the boundary of Gulf Islands National Seashore-Perdido Key Area (also referred to as Johnson Beach) from approximately 6.0 mi (9.7 km) east of the Alabama-Florida State line to the eastern tip of Perdido Key at Pensacola Bay and the area from the MHWL north to the seaward extent of the maritime forest. Beach mouse habitat in this unit consists mainly of primary and secondary dune habitat but provides the longest contiguous expanse of frontal dune habitat within the historic range of the Perdido Key beach mouse. Perdido Key beach mice were known to inhabit this unit in 1979, though the population was impacted by Hurricane Frederic (1979) and no beach mice were captured during extensive surveys in 1982 and 1986 (Humphrey and Barbour 1981, pp. 841-843; Holler et al. 1989, p. 400); therefore, the unit was considered unoccupied at the time of listing. In 1986, Perdido Key beach mice were reestablished at this unit as a part of Service recovery efforts. This reestablishment project was identified as the most urgent recovery need for the mouse (Service 1987, p. 12; Holler et al. 1989, p. 398). The project is considered a success. In 2000 and 2001, Perdido Key beach mice captured from this site served as donors to re-establish beach mice at Perdido Key State Park (PKBM-3).

PKBM-5, in its entirety, possesses all five PCEs and is essential to the conservation of the species because it provides habitat for a population that is needed for recovery. However, most of this unit consists of frontal dunes, making the population inhabiting this unit particularly threatened by storm events. Threats specific to this unit that may require special management considerations include artificial lighting, presence of feral cats and other predators at unnatural levels, and high recreational use that may result in soil compaction, damage to dunes, or other decrease in habitat quality. Gulf Islands National Seashore is managed by the National Park Service.

Choctawhatchee Beach Mice

We are designating five units as critical habitat for the Choctawhatchee beach mouse: (1) Henderson Beach, (2) Topsail Hill, (3) Grayton Beach, (4) Deer Lake, and (5) West Crooked Island/Shell Island. Table 2 summarizes areas that meet the definition of critical habitat for the Choctawhatchee beach mouse, areas excluded, and areas designated as critical habitat. Table 3 provides the approximate area encompassed within each critical habitat unit determined to meet the definition of critical habitat for the Choctawhatchee beach mouse.

Table 2.—Units With Areas Determined To Meet the Definition of Critical Habitat for the Choctawhatchee Beach Mouse (Definitional Area) for Which There Are Areas Excluded From the Final Critical Habitat Designation (Excluded Area), and the Area Included in the Final Critical Habitat Designation
CBM unit | Definitional area acres (hectares) | Excluded area acres (hectares) | Total acres (hectares)
Topsail Hill (CBM-2) | 313 (127) | 4 (2) | 309 (125)
Grayton Beach (CBM-3) | 183 (74) | 4 (2) | 179 (73)
Deer Lake (CBM-4) | 120 (49) | 71 (29) | 49 (20)

Table 3.—Critical Habitat Units Designated for the Choctawhatchee Beach Mice
Critical habitat unit | Federal acres (hectares) | State acres (hectares) | Local and private acres (hectares) | Total acres (hectares)
Henderson Beach (CBM-1) | 0 | 96 (39) | 0 | 96 (39)
Topsail Hill (CBM-2) | 0 | 277 (112) | 32 (13) | 309 (125)
Grayton Beach (CBM-3) | 0 | 162 (66) | 17 (7) | 179 (73)
Deer Lake (CBM-4) | 0 | 40 (16) | 9 (4) | 49 (20)
West Crooked Island/ Shell Island (CBM-5) | 1333 (539) | 408 (165) | 30 (12) | 1771 (716)
Total | 1333 (539) | 983 (398) | 88 (36) | 2404 (973)

We present brief descriptions of all units and reasons why they meet the definition of critical habitat for the Choctawhatchee beach mouse, below.

CBM-1: Henderson Beach Unit

CBM-1 consists of 96 ac (39 ha) in Okaloosa County, Florida. This unit encompasses essential features of beach mouse habitat within the boundary of Henderson Beach State Park from 0.5 mi (0.8 km) east of the intersection of Highway 98 and Scenic Highway 98 to 0.25 mi (0.4 km) west of Matthew Boulevard and the area from the MHWL north to the seaward extent of the maritime forest. This westernmost unit provides primary, secondary, and scrub dune habitat (PCEs 2 and 3). This unit is within the historic range of the subspecies; however, it was not known to be occupied at the time of listing and current occupancy is unknown because no recent efforts have been made to document beach mouse presence or absence. This unit is essential to the conservation of the species because it includes protected, high-elevation scrub habitat and may serve as a refuge during storm events and as an important source population if storms extirpate or greatly reduce local populations or populations to the east.

This unit is managed by the Florida Park Service. Threats specific to this unit that may require special management considerations include habitat fragmentation, artificial lighting, presence of feral cats as well as other predators at unnatural levels, and high recreational use that may result in soil compaction, damage to dunes, or other decrease in habitat quality.

CBM-2: Topsail Hill Unit

CBM-2 consists of 309 ac (125 ha) in Walton County, Florida. This unit encompasses essential features of beach mouse habitat within the boundary of Topsail Hill Preserve State Park, as well as adjacent private lands from 0.1 mi (0.2 km) east of Gulf Pines to 0.6 mi (0.9 km) west of the inlet of Oyster Lake and the area from the MHWL north to the seaward extent of human development or maritime forest. This unit provides primary, secondary, and scrub dune habitat and possesses all five PCEs. Its large, contiguous, high-quality habitat allows for natural movements and population expansion. Choctawhatchee beach mice were confirmed present in the unit in 1979 (Humphrey 1992, p. 79), were present at the time of listing, and are still present. Beach mice have been captured recently on private lands within the unit, east of the park (Service 2003a, p. 2). The population of Choctawhatchee beach mice inhabiting this unit appears to harbor unique genetic variation and displays a relatively high degree of genetic divergence considering the close proximity of this population to other populations (Wooten and Holler 1999, p. 27).

This unit has portions with different ownership, purposes, and mandates. Threats specific to this unit that may require special management considerations include artificial lighting, presence of feral cats as well as other predators at unnatural levels, and high recreational use that may result in soil compaction, damage to dunes, or other decrease in habitat quality.

Lands containing the features essential to the conservation of the Choctawhatchee beach mouse within the area covered under the HCP for the Stallworth Preserve (4 ac (2 ha)) are excluded from critical habitat designation under section 4(b)(2) of the Act (see Application of Section 4(a)(3) and Exclusions Under Section 4(b)(2) of the Act section below).

CBM-3: Grayton Beach Unit

CBM-3 consists of 179 ac (73 ha) in Walton County, Florida. This unit encompasses essential features of beach mouse habitat within the boundary of Grayton Beach State Park, as well as adjacent private lands and inholdings, from 0.3 mi (0.5 km) west of the inlet of Alligator Lake east to 0.8 mi (1.3 km) west of Seagrove Beach and the area from the MHWL north to the seaward extent of human development or maritime forest. This unit provides primary, secondary, and scrub dune habitat (PCEs 2 and 3), habitat connectivity (PCE 4) and is essential to the conservation of the species because it contains a population needed for recovery. This unit also provides a relatively natural light regime (PCE 5). Beach mice were not detected in the unit in 1979 (Holler 1992b, p. 79); however, they were found to be present in 1995 after Hurricane Opal (Moyers et al. 1999, p. 211). While it seems likely that beach mice were present at the time of listing (and may have been present, but not detected, in 1979), we do not have data to confirm this assumption. Therefore, we consider this unit to be unoccupied at the time of listing. A program to strengthen and reestablish the population began in 1997 and 1998 and yielded a persistent population at the State park. Further relocations, specifically in the west portion of Grayton Beach State Park, are under consideration. Recent evidence of beach mice on park lands was documented in 2004 (Service 2004c, pp. 1-4). Beach mice are also known to currently occupy the private lands immediately east of the park.

This unit has portions with different ownership, purposes, and mandates. Threats specific to this unit that may require special management considerations include hurricane impacts that may require dune restoration and revegetation, excessive open, unvegetated habitat due to recreational use or storm impacts that may require revegetation, artificial lighting, presence of feral cats as well as other predators at unnatural levels, and high recreational use that may result in soil compaction, damage to dunes, or other decrease in habitat quality.

Lands containing the features essential to the conservation of the Choctawhatchee beach mouse within the area covered under the HCP for Watercolor (4 ac (2 ha)) are excluded from critical habitat designation under section 4(b)(2) of the Act (see Application of Section 4(a)(3) and Exclusions Under Section 4(b)(2) of the Act section below).

CBM-4: Deer Lake Unit

CBM-4 consists of 49 ac (20 ha) in Walton County, Florida. This unit encompasses essential features of beach mouse habitat within the boundary of Deer Lake State Park as well as adjacent private lands from approximately 1 mi (1.6 km) east of the Camp Creek Lake inlet west to approximately 0.5 mi (0.8 km) west of the inlet of Deer Lake and the area from the MHWL north to the seaward extent of maritime forest or human development. This unit provides primary, secondary, and scrub dune habitat (PCEs 2 and 3), habitat connectivity to adjacent lands (PCE 4), and is essential to the conservation of the species. This unit also provides a relatively natural light regime (PCE 5). Because live-trapping efforts in this area have been limited to incidental trapping, and beach mice were not detected in 1998 (Auburn University 1999, p. 2.10-2.11), we consider this unit to be unoccupied at the time of listing. Choctawhatchee beach mice were translocated from Topsail Hill Preserve State Park to private lands adjacent to this unit in 2003 and 2005 (Service 2003a, pp. 1-2; 2005, pp. 1-2). Tracking within the adjacent State park lands have indicated expansion of the population into the park.

This unit is essential to the conservation of the species because it contains a population needed for recovery. Threats specific to this unit that may require special management considerations include artificial lighting, presence of feral cats as well as other predators at unnatural levels, and high recreational use that may result in soil compaction, damage to dunes, or other decrease in habitat quality.

Lands containing the features essential to the conservation of the Choctawhatchee beach mouse within the area covered under the HCP for Watersound (71 ac (29 ha)) are excluded from critical habitat designation under section 4(b)(2) of the Act (see Application of Section 4(a)(3) and Exclusions Under Section 4(b)(2) of the Act section below). This excluded area is 0.5 mi west of the Camp Creek Lake inlet to 0.5 mi east of the Camp Creek Lake inlet.

CBM-5: West Crooked Island/Shell Island Unit

CBM-5 consists of 1,771 ac (716 ha) in Bay County, Florida. This unit encompasses essential features of beach mouse habitat within the boundaries of St. Andrew State Park mainland from 0.1 mi (0.2 km) east of Venture Boulevard east to the entrance channel of St. Andrew Sound, Shell Island east of the entrance of St. Andrew Sound east to East Pass, and West Crooked Island southwest of East Bay and east of the entrance channel of St. Andrew Sound, and areas from the MHWL north to the seaward extent of the maritime forest. Shell Island consists of State lands, Tyndall AFB lands, and small private inholdings. Choctawhatchee beach mice were known to inhabit the majority of Shell Island in 1987 (Holler 1992b, p. 79) and were again confirmed present in 1998 (Auburn University 1999, p. 2.18), 2002, and 2003 (Service 2002a, 2003b). Because beach mice inhabited nearly the entire suitable habitat on the island less than 2 years prior to listing and were reconfirmed after listing, we consider this area to be occupied at the time of listing. The West Crooked Island population is the result of a natural expansion of the Shell Island population after the two islands became connected in 1998 and 1999, a result of Hurricanes Opal and Georges (Service 2003b). (Shell Island was connected to the mainland prior to the 1930s when a navigation inlet severed the connection on the western end.) Beach mice were documented at St. Andrew State Park mainland as late as the 1960s (Bowen 1968, pp. 86-88), though no records of survey efforts exist again until Humphrey and Barbour (1981, pp. 841-843) and Meyers (1983, p. 10) at which time beach mice were not detected. Therefore, it seems likely that this area was not occupied at the time of listing. Current beach mouse population levels at this site are unknown, and live-trapping to document the absence of mice has not been conducted. Similar to the original designation, this Park is proposed as critical habitat because it has features essential to the Choctawhatchee beach mouse. It is also within the historic range of the mouse and is essential to the conservation of the species. This unit supports the easternmost population of Choctawhatchee beach mouse, with the next known population 22 miles (mi) (35 kilometers (km)) to the west.

This unit provides primary, secondary, and scrub dune habitat and possesses all five PCEs. Portions of this unit are managed by the Florida Park Service, while the remaining areas are federally (Tyndall AFB) and privately owned. Threats specific to this unit that may require special management considerations include artificial lighting, presence of feral cats as well as other predators at unnatural levels, and high residential or recreational use that may result in soil compaction, damage to dunes, or other decrease in habitat quality.

St. Andrew Beach Mouse

We are designating three units as critical habitat for the St. Andrew beach mouse: (1) East Crooked Island, (2) Palm Point, and (3) St. Joseph Peninsula. Table 4 provides the approximate area encompassed within each critical habitat unit determined to meet the definition of critical habitat for the St. Andrew beach mouse. Urban development and the lack of available suitable habitat limited the designation to these areas. The large size and high quality of habitat in SABM-1 is considered to alleviate some of the need for additional units or independent populations.

Table 4.—Critical Habitat Units Designated for the St. Andrew Beach Mouse
Critical habitat unit | Federal acres (hectares) | State acres (hectares) | Local and private acres (hectares) | Total acres (hectares)
East Crooked Island (SABM-1) | 649 (263) | 0 | 177 (72) | 826 (335)
Palm Point (SABM-2) | 0 | 0 | 162 (65) | 162 (65)
St. Joseph Peninsula (SABM-3) | 0 | 1280 (518) | 222 (90) | 1502 (608)
Total | 649 (263) | 1280 (518) | 561 (227) | 2490 (1008)

We present brief descriptions of all units and reasons why they meet the definition of critical habitat for the St. Andrew beach mouse below.

SABM-1: East Crooked Island Unit

SABM-1 consists of 826 ac (335 ha) in Bay County, Florida. This unit encompasses essential features of beach mouse habitat on East Crooked Island from the entrance of St. Andrew Sound to 1 mi (1.6 km) west of Mexico Beach, and the area from the MHWL to the seaward extent of the maritime forest (not including Raffield Peninsula). Beach mouse habitat in this unit consists of primary, secondary, and scrub dune habitat and possesses all five PCEs. St. Andrew beach mice were known to inhabit the unit in 1986 and 1989 (James 1992, pp. 88-90), though the population was presumably extirpated after 1989 due to impacts from hurricanes. The East Crooked Island population was reestablished with donors from St. Joseph State Park in 1997. This unit was occupied at the time of listing. Recent live-trapping confirms present occupation of mice (Moyers and Shea 2002, p. 3; Service 2002b). This unit maintains connectivity along the island and this unit is essential to provide a donor population following storm events.

The majority of this unit is federally owned (Tyndall AFB), while the remaining habitat is privately owned. Threats specific to this unit that may require special management considerations include artificial lighting, presence of feral cats as well as other predators at unnatural levels, and high recreational and military use that may result in soil compaction, damage to dunes, or other decrease in habitat quality.

SABM-2: Palm Point

SABM-2 consists of 162 ac (65 ha) of private lands in Gulf County, Florida. This unit encompasses habitat from Palm Point 1.25 mi (2.0 km) northwest of the inlet of the Gulf County Canal to the southeastern boundary of St. Joe Beach and the area from the MHWL to the seaward extent of the maritime forest. We consider beach mice to have been present in this unit at the time of listing, because St. Andrew beach mice were documented in the area by Bowen (1968, pp. 86-88). Since St. Andrew beach mouse habitat is limited to only two other areas, protecting this mainland site located within the species' historic range is needed for the subspecies' long-term persistence. As other viable opportunities are limited or nonexistent, this unit is essential to reduce the threats of stochastic events to this subspecies. Furthermore, as this unit is on the mainland, it is somewhat buffered from the effects of storm events. This area provides frontal and scrub dune habitat (PCEs 2 and 3), but may provide limited connectivity between habitats. Threats specific to this unit that may require special management considerations include habitat fragmentation, habitat loss, artificial lighting, presence of feral cats as well as other predators at unnatural levels, and high residential use that may result in soil compaction, damage to dunes, or other decrease in habitat quality.

SABM-3: St. Joseph Peninsula

SABM-3 consists of 1,502 ac (607 ha) in Gulf County, Florida. This unit encompasses essential features of beach mouse habitat within the boundary of St. Joseph Peninsula State Park (Park) as well as south of the Park to the peninsula's constriction north of Cape San Blas (also known as the “stumphole” region) and area from the MHWL to the seaward extent of the maritime forest. Beach mouse habitat in this unit consists of primary, secondary, and scrub dune habitat, and provides a relatively contiguous expanse of habitat within the historic range of the St. Andrew beach mouse. This unit possesses all five PCEs and was occupied at the time of listing. St. Andrew beach mice were known to inhabit this unit in 1986 and 1987 (James 1992, pp. 88-90), 1989, 1992, 1993, and 1994 (Gore 1994, pp. 2-5). In addition, recent tracking efforts suggest that mice continue to occupy private lands south of the Park. The Park alone does not provide sufficient habitat to allow for population expansion along the peninsula, which may be necessary for a population anchored by the tip of a historically dynamic peninsula. A continuous presence of beach mice along the peninsula is the species' best defense against local and complete extinctions due to storm events. The population of St. Andrew beach mice inhabiting this unit appears to possess unique genetic variation, and displays greater than expected genetic divergence from other populations (Wooten and Holler 1999, pp. 65-66).

Portions of this unit are managed by the Florida Park Service, while the remaining area is privately owned. Threats specific to this unit that may require special management considerations include artificial lighting, habitat fragmentation and habitat loss, presence of feral cats as well as other predators at unnatural levels, and high recreational use that may result in soil compaction, damage to dunes, or other decrease in habitat quality. The population inhabiting this unit may also be particularly susceptible to hurricanes due to its placement within St. Joseph Bay (the peninsula is a thin barrier peninsula with a north-south orientation).

Effects of Critical Habitat Designation

Section 7 Consultation

Section 7 of the Act requires Federal agencies, including the Service, to ensure that actions they fund, authorize, or carry out are not likely to destroy or adversely modify critical habitat. In our regulations at 50 CFR 402.02, we define destruction or adverse modification as “a direct or indirect alteration that appreciably diminishes the value of critical habitat for both the survival and recovery of a listed species. Such alterations include, but are not limited to, alterations adversely modifying any of those physical or biological features that were the basis for determining the habitat to be critical.” However, recent decisions by the 5th and 9th Circuit Court of Appeals have invalidated this definition. Pursuant to current national policy and the statutory provisions of the Act, destruction or adverse modification is determined on the basis of whether, with implementation of the proposed Federal action, the affected critical habitat would remain functional (or retain the current ability for the primary constituent elements to be functionally established) to serve the intended conservation role for the species.

Section 7(a) of the Act requires Federal agencies, including the Service, to evaluate their actions with respect to any species that is proposed or listed as endangered or threatened and with respect to its critical habitat, if any is proposed or designated. Regulations implementing this interagency cooperation provision of the Act are codified at 50 CFR part 402.

Section 7(a)(4) of the Act requires Federal agencies to confer with us on any action that is likely to jeopardize the continued existence of a proposed species or result in destruction or adverse modification of proposed critical habitat. This is a procedural requirement only. However, once a proposed species becomes listed, or proposed critical habitat is designated as final, the full prohibitions of section 7(a)(2) apply to any Federal action. The primary utility of the conference procedures is to maximize the opportunity for a Federal agency to adequately consider proposed species and critical habitat and avoid potential delays in implementing their proposed action because of the section 7(a)(2) compliance process, should those species be listed or the critical habitat designated.

Under conference procedures, the Service may provide advisory conservation recommendations to assist the agency in eliminating conflicts that may be caused by the proposed action. The Service may conduct either informal or formal conferences. Informal conferences are typically used if the proposed action is not likely to have any adverse effects to the proposed species or proposed critical habitat. Formal conferences are typically used when the Federal agency or the Service believes the proposed action is likely to cause adverse effects to proposed species or critical habitat, inclusive of those that may cause jeopardy or adverse modification.

The results of an informal conference are typically transmitted in a conference report; while the results of a formal conference are typically transmitted in a conference opinion. Conference opinions on proposed critical habitat are typically prepared according to 50 CFR 402.14, as if the proposed critical habitat were designated. We may adopt the conference opinion as the biological opinion when the critical habitat is designated, if no substantial new information or changes in the action alter the content of the opinion (see 50 CFR 402.10(d)). As noted above, any conservation recommendations in a conference report or opinion are strictly advisory.

If a species is listed or critical habitat is designated, section 7(a)(2) of the Act requires Federal agencies to ensure that activities they authorize, fund, or carry out are not likely to jeopardize the continued existence of such a species or to destroy or adversely modify its critical habitat. If a Federal action may affect a listed species or its critical habitat, the responsible Federal agency (action agency) must enter into consultation with us. As a result of this consultation, compliance with the requirements of section 7(a)(2) will be documented through the Service's issuance of: (1) A concurrence letter for Federal actions that may affect, but are not likely to adversely affect, listed species or critical habitat; or (2) a biological opinion for Federal actions that may affect, and are likely to adversely affect, listed species or critical habitat.

When we issue a biological opinion concluding that a project is likely to result in jeopardy to a listed species or the destruction or adverse modification of critical habitat, we also provide reasonable and prudent alternatives to the project, if any are identifiable. “Reasonable and prudent alternatives” are defined at 50 CFR 402.02 as alternative actions identified during consultation that can be implemented in a manner consistent with the intended purpose of the action, that are consistent with the scope of the Federal agency's legal authority and jurisdiction, that are economically and technologically feasible, and that the Director believes would avoid jeopardy to the listed species or destruction or adverse modification of critical habitat. Reasonable and prudent alternatives can vary from slight project modifications to extensive redesign or relocation of the project. Costs associated with implementing a reasonable and prudent alternative are similarly variable.

Regulations at 50 CFR 402.16 require Federal agencies to reinitiate consultation on previously reviewed actions in instances where a new species is listed or critical habitat is subsequently designated that may be affected and the Federal agency has retained discretionary involvement or control over the action or such discretionary involvement or control is authorized by law. Consequently, some Federal agencies may request reinitiation of consultation with us on actions for which formal consultation has been completed, if those actions may affect subsequently listed species or designated critical habitat or adversely modify or destroy proposed critical habitat.

Federal activities that may affect Perdido Key beach mice, Choctawhatchee beach mice, and St. Andrew beach mice or their designated critical habitat will require section 7 consultation under the Act. Activities on State, Tribal, local or private lands requiring a Federal permit (such as a permit from the Corps under section 404 of the Clean Water Act or a permit under section 10(a)(1)(B) of the Act from the Service) or involving some other Federal action (such as funding from the Federal Highway Administration, Federal Aviation Administration, or the Federal Emergency Management Agency) will also be subject to the section 7 consultation process. Federal actions not affecting listed species or critical habitat, and actions on State, Tribal, local or private lands that are not federally funded, authorized, or permitted, do not require section 7 consultations.

Application of the Jeopardy and Adverse Modification Standards for Actions Involving Effects to Perdido Key Beach Mice, Choctawhatchee Beach Mice, and St. Andrew Beach Mice and Their Critical Habitat

Jeopardy Standard

Prior to and following designation of critical habitat, the Service has applied an analytical framework for Perdido Key beach mouse, Choctawhatchee beach mouse, and St. Andrew beach mouse jeopardy analyses that relies heavily on the importance of core area populations and connectivity to the survival and recovery of Perdido Key beach mice, Choctawhatchee beach mice, and St. Andrew beach mice. The section 7(a)(2) analysis is focused not only on these populations but also on the habitat conditions necessary to support them.

The jeopardy analysis usually expresses the survival and recovery needs of Perdido Key beach mice, Choctawhatchee beach mice, and St. Andrew beach mice in a qualitative fashion without making distinctions between what is necessary for survival and what is necessary for recovery. Generally, if a proposed Federal action is incompatible with the viability of the affected core area population(s), inclusive of associated habitat conditions, a jeopardy finding is considered to be warranted, because of the relationship of each core area population to the survival and recovery of the species as a whole.

Adverse Modification Standard

The analytical framework described in the Director's December 9, 2004, memorandum is used to complete section 7(a)(2) analyses for Federal actions affecting Perdido Key beach mouse, Choctawhatchee beach mouse, and St. Andrew beach mouse critical habitat. The key factor related to the adverse modification determination is whether, with implementation of the proposed Federal action, the affected critical habitat would remain functional (or retain the current ability for the primary constituent elements to be functionally established) to serve the intended conservation role for the species. Generally, the conservation role of Perdido Key beach mouse, Choctawhatchee beach mouse, and St. Andrew beach mouse critical habitat units is to support viable core area populations.

Section 4(b)(8) of the Act requires us to briefly evaluate and describe in any proposed or final regulation that designates critical habitat those activities involving a Federal action that may destroy or adversely modify such habitat, or that may be affected by such designation. Activities that may destroy or adversely modify critical habitat may also jeopardize the continued existence of the species.

Activities that may destroy or adversely modify critical habitat are those that alter the PCEs to an extent that the conservation value of critical habitat for Perdido Key beach mice, Choctawhatchee beach mice, and St. Andrew beach mice is appreciably reduced. Activities that, when carried out, funded, or authorized by a Federal agency, may affect critical habitat and therefore result in consultation for Perdido Key beach mice, Choctawhatchee beach mice, and St. Andrew beach mice include, but are not limited to:

(1) Actions that would significantly alter dune structure and stability, soil compaction levels, and substrate characteristics. Such activities could include, but are not limited to, excessive foot traffic; military missions; dredging and disposal operations; the use of construction, utility, or off-road vehicles in beach mouse habitat; and sand contamination from gravel, clay, or construction debris. These activities, even if temporary, could alter burrow construction, reduce the availability of potential burrow sites, and degrade or destroy beach mouse habitat.

(2) Actions that would significantly alter the natural vegetation of the coastal dune community. Such activities could include, but are not limited to, allowing non-native species to establish in the area, landscaping with plants that do not reflect habitat type prior to disturbance, and landscaping that yields excessive leaf litter. These activities could alter beach mouse foraging activities and degrade or destroy beach mouse habitat.

(3) Actions that would significantly alter the natural predator—prey balance of the coastal dune community by impacting the quality of the habitat. Such activities could include, but are not limited to, allowing unprotected refuse in the area and allowing or encouraging feral cat communities. These activities could alter beach mouse foraging activities and the availability of foraging resources, and directly alter beach mouse survival.

(4) Actions that would significantly alter natural lighting. Such activities could include, but are not limited to, allowing artificial lighting that does not comply with wildlife-friendly lighting specifications. These activities could alter beach mouse foraging activities, increase predation upon beach mice, and reduce or prohibit the use of otherwise suitable beach mouse habitat.

(5) Actions that would directly result in a significant loss of habitat or elimination or degradation of functional pathways within and among critical habitat units. Such activities could include, but are not limited to, residential or commercial development and associated use, road widening and maintenance, and land clearing. These activities eliminate beach mouse habitat; reduce connectivity necessary for gene flow; reduce all necessary resources, such as food, mates, burrow sites, and refugia from storms; and decrease space available to conduct natural behaviors, thereby limiting their ability to persist.

We consider all of the units designated as critical habitat, as well as those that have been excluded, to contain features essential to the conservation of the Perdido Key beach mice, Choctawhatchee beach mice, and St. Andrew beach mice. All units are within the geographic range of the species, all were occupied by the species at the time of listing (based on observations made within the last 21 years) or essential to the conservation of the species, and are likely to be used by Perdido Key beach mice, Choctawhatchee beach mice, and St. Andrew beach mice. Federal agencies already consult with us on activities in areas currently occupied by the Perdido Key beach mice, Choctawhatchee beach mice, and St. Andrew beach mice, or if the species may be affected by the action, to ensure that their actions do not jeopardize the continued existence of Perdido Key beach mice, Choctawhatchee beach mice, and St. Andrew beach mice.

Application of Section 4(a)(3) and Exclusions Under Section 4(b)(2) of the Act

Section 4(b)(2) of the Act states that critical habitat shall be designated, and revised, on the basis of the best available scientific data after taking into consideration the economic impact, national security impact, and any other relevant impact, of specifying any particular area as critical habitat. The Secretary may exclude an area from critical habitat if he determines that the benefits of such exclusion outweigh the benefits of specifying such area as part of the critical habitat, unless he determines, based on the best scientific data available, that the failure to designate such area as critical habitat will result in the extinction of the species. In making that determination, the Congressional record is clear that the Secretary is afforded broad discretion regarding which factors and how much weight to give to any factor.

Under section 4(b)(2), in considering whether to exclude a particular area from the designation, we must identify the benefits of including the area in the designation, identify the benefits of excluding the area from the designation, and determine whether the benefits of exclusion outweigh the benefits of inclusion. If an exclusion is contemplated, then we must determine whether excluding the area would result in the extinction of the species. In the following sections, we address a number of general issues that are relevant to the exclusions we considered.

The Sikes Act Improvement Act of 1997 (Sikes Act) (16 U.S.C. 670a) requires each military installation that includes land and water suitable for the conservation and management of natural resources to complete, by November 17, 2001, an INRMP. An INRMP integrates implementation of the military mission of the installation with stewardship of the natural resources found on the base. Each INRMP includes an assessment of the ecological needs on the installation, including the need to provide for the conservation of listed species; a statement of goals and priorities; a detailed description of management actions to be implemented to provide for these ecological needs; and a monitoring and adaptive management plan. Among other things, each INRMP must, to the extent appropriate and applicable, provide for fish and wildlife management, fish and wildlife habitat enhancement or modification, wetland protection, enhancement, and restoration where necessary to support fish and wildlife and enforcement of applicable natural resource laws.

The National Defense Authorization Act for Fiscal Year 2004 (Pub. L. 108-136) amended the ESA to limit areas eligible for designation as critical habitat. Specifically, section 4(a)(3)(B)(i) of the Act (16 U.S.C. 1533(a)(3)(B)(i)) now provides: “The Secretary shall not designate as critical habitat any lands or other geographical areas owned or controlled by the Department of Defense, or designated for its use, that are subject to an integrated natural resources management plan prepared under section 101 of the Sikes Act (16 U.S.C. 670a), if the Secretary determines in writing that such plan provides a benefit to the species for which critical habitat is proposed for designation.”

We consult with the military on the development and implementation of INRMPs for installations with listed species. A draft INRMP developed by Tyndall Air Force Base (AFB) included the range of the critical habitat designation for the Choctawhatchee beach mouse and St. Andrew beach mouse. The Service did not consult on the INRMP nor did the Service give its concurrence on the INRMP. Therefore, we are including Tyndall AFB lands in the critical habitat designation.

Conservation Partnerships on Non-Federal Lands

Most federally listed species in the United States will not recover without the cooperation of non-Federal landowners. More than 60 percent of the United States is privately owned (EPA 2003, p. 3-3), and at least 80 percent of endangered or threatened species occur either partially or solely on private lands (USGAO 1995, p.4). Stein et al. (1995) found that only about 12 percent of listed species were found almost exclusively on Federal lands (90 to 100 percent of their known occurrences restricted to Federal lands) and that 50 percent of federally listed species are not known to occur on Federal lands at all.

Given the distribution of listed species with respect to land ownership, conservation of listed species in many parts of the United States is dependent upon working partnerships with a wide variety of entities and the voluntary cooperation of many non-Federal landowners (Wilcove and Chen 1998; Crouse et al. 2002; James 2002). Building partnerships and promoting voluntary cooperation of landowners is essential to understanding the status of species on non-Federal lands and is necessary to implement recovery actions such as reintroducing listed species, habitat restoration, and habitat protection.

Many non-Federal landowners derive satisfaction in contributing to endangered species recovery. The Service promotes these private-sector efforts through the Department of the Interior's Four C's philosophy—conservation through communication, consultation, and cooperation. This philosophy is evident in Service programs such as HCPs, Safe Harbors, Candidate Conservation Agreements, Candidate Conservation Agreements with Assurances, and conservation challenge cost-share. Many private landowners, however, are wary of the possible consequences of encouraging endangered species to their property, and there is mounting evidence that some regulatory actions by the Federal government, while well-intentioned and required by law, can under certain circumstances have unintended negative consequences for the conservation of species on private lands (Wilcove et al. 1996; Bean 2002; Conner and Mathews 2002; James 2002; Koch 2002; Brook et al. 2003). Many landowners fear a decline in their property value due to real or perceived restrictions on land-use options where threatened or endangered species are found. Consequently, harboring endangered species is viewed by many landowners as a liability, resulting in anti-conservation incentives because maintaining habitats that harbor endangered species represents a risk to future economic opportunities (Main et al. 1999; Brook et al. 2003).

The purpose of designating critical habitat is to contribute to the conservation of threatened and endangered species and the ecosystems upon which they depend. The outcome of the designation, triggering regulatory requirements for actions funded, authorized, or carried out by Federal agencies under section 7 of the Act, can sometimes be counterproductive to its intended purpose on non-Federal lands. According to some researchers, the designation of critical habitat on private lands significantly reduces the likelihood that landowners will support and carry out conservation actions (Main et al. 1999; Bean 2002; Brook et al. 2003). The magnitude of this negative outcome is greatly amplified in situations where active management measures (such as reintroduction, fire management, control of invasive species) are necessary for species conservation (Bean 2002).

The Service believes that the judicious use of excluding specific areas of non-federally owned lands from critical habitat designations can contribute to species recovery and provide a superior level of conservation than critical habitat alone. For example, less than 17 percent of Hawaii is federally owned, but the state is home to more than 24 percent of all federally listed species, most of which will not recover without State and private landowner cooperation. On the island of Lanai, Castle and Cooke Resorts, LLC, which owns 99 percent of the island, entered into a conservation agreement with the Service. The conservation agreement provides conservation benefits to target species through management actions that remove threats (such as axis deer, mouflon sheep, rats, invasive nonnative plants) from the Lanaihale and East Lanai Regions. Specific management actions include fire control measures, nursery propagation of native flora (including the target species) and planting of such flora. These actions will significantly improve the habitat for all currently occurring species. Due to the low likelihood of a Federal nexus on the island, we believe that the benefits of excluding the lands covered by the MOA exceeded the benefits of including them. As stated in the final critical habitat rule for endangered plants on the Island of Lanai:

On Lanai, simply preventing “harmful activities” will not slow the extinction of listed plant species. Where consistent with the discretion provided by the Act, the Service believes it is necessary to implement policies that provide positive incentives to private landowners to voluntarily conserve natural resources and that remove or reduce disincentives to conservation. While the impact of providing these incentives may be modest in economic terms, they can be significant in terms of conservation benefits that can stem from the cooperation of the landowner. The continued participation of Castle and Cooke Resorts, LLC, in the existing Lanai Forest and Watershed Partnership and other voluntary conservation agreements will greatly enhance the Service's ability to further the recovery of these endangered plants.

The Department of the Interior's philosophy of conservation through communication, consultation, and cooperation is the foundation for developing the tools of conservation. These tools include conservation grants, funding for Partners for Fish and Wildlife Program, the Coastal Program, and cooperative-conservation challenge cost-share grants. Our Private Stewardship Grant program and Landowner Incentive Program provide assistance to private landowners in their voluntary efforts to protect threatened, imperiled, and endangered species, including the development and implementation of HCPs.

Conservation agreements with non-Federal landowners (such as Habitat Conservation Plans (HCPs), contractual conservation agreements, easements, and stakeholder-negotiated State regulations) enhance species conservation by extending species protections beyond those available through section 7 consultations. In the past decade, we have encouraged non-Federal landowners to enter into conservation agreements, based on a view that we can achieve greater species conservation on non-Federal land through such partnerships than we can through regulatory methods (61 FR 63854; December 2, 1996).

Section 10(a)(1)(B) of the Act authorizes us to issue to non-Federal entities a permit for the incidental take of endangered and threatened species. This permit allows a non-Federal landowner to proceed with an activity that is legal in all other respects, but that results in the incidental taking of a listed species (take that is incidental to, and not the purpose of, the carrying out of an otherwise lawful activity). The Act specifies that an application for an incidental take permit must be accompanied by an HCP, and specifies the content of such a plan. The purpose of conservation plans is to describe and ensure that the effects of the permitted action on covered species are adequately minimized and mitigated, and that the action does not appreciably reduce the survival and recovery of the species. There are currently two legally operative HCPs in existence for the Choctawhatchee beach mouse covering areas that would otherwise meet the criteria for critical habitat (and therefore are excluded under 4(b)(2)): Stallworth Preserve in Unit CBM-2 (issued in 1995, with amendments in 1995 and 1998), and Watersound in Unit CBM-4 and Watercolor in Unit CBM-3 (issued in 2000) in Walton County, Florida, totaling 79 ac (33 ha). These HCPs provide for the conservation of Choctawhatchee beach mice and include activities like habitat protection, enhancement, and restoration; partnership in the implementation and monitoring of beach mouse translocation programs on the property; native landscaping; predator control; and adaptive management to ensure that the conservation effort will be effective. The two HCPs include beach mouse population monitoring (live-trapping several times a year), outdoor lighting guidelines, beach access that minimizes impact beach mouse habitat (elevated dune walkovers), as well as dune revegetation and restoration. The two HCPs include the continued maintenance of the remaining undisturbed beach mouse habitat.

(1) Benefits of Inclusion of the Stallworth Preserve, Watersound and Watercolor HCPs

The principal regulatory benefit of critical habitat is that federally authorized, funded, or carried out activities require consultation pursuant to section 7 of the Act to ensure that they will not destroy or adversely modify critical habitat. In the Gifford Pinchot decision, the 9th Circuit Court of Appeals has ruled that adverse modification evaluations require consideration of impacts on the recovery of species. Conducting section 7 consultations would provide benefits on HCP lands with a Federal nexus by helping to ensure the integrity of these lands is maintained. For example, if a federally funded road project was proposed to impact lands having an operative HCP that were designated as critical habitat, a consultation would need to be conducted to ensure the designated critical habitat was not destroyed or adversely modified.

Designation of critical habitat serves to educate landowners, State and local governments, and the public regarding the potential conservation value of the area. This helps focus, prioritize, and revitalize conservation efforts, such as dune restoration projects, or more extensive monitoring of beach mouse populations.

(2) Benefits of Exclusion of the Stallworth Preserve, Watersound, and Watercolor HCPs

We identified four possible benefits of excluding the area covered by the two HCPs from critical habitat designation. (1) To the extent designation would provide any additional protection of beach mice habitat, costs associated with that protection would be avoided. (2) Exclusion would reduce largely redundant administrative costs of section 7 consultation. (3) Exclusion would help to foster an atmosphere of cooperation in the conservation of endangered species. HCPs and other conservation partnership efforts typically provide far greater conservation benefits to species than the limited benefits arising from critical habitat designation. The latter benefits are restricted to actions with a Federal nexus and can require only that the action not adversely modify the habitat. It cannot compel, and in practice may discourage, the type of active management actions that generally are needed to recover listed species. Currently, two of our HCP sites are involved in translocation efforts. With this cooperation, we are able to partner with private landowners in habitat restoration, beach mouse translocations, and population monitoring, thereby facilitating recolonization of previously inhabited areas, encouraging and providing suitable habitat for the long-term persistence of beach mice, obtaining more information on the subspecies, and improving and discovering new techniques and opportunities that will assist in the recovery of several beach mouse subspecies. (4) Exclusion would provide an incentive for participation in the development of new HCPs. The exclusion of HCP lands from critical habitat designations is an important incentive for participation in the HCP program; on the other hand, failure to exclude HCP lands could undermine the conservation benefits provided by the HCP program, and, more generally, the partnerships required to conserve most listed species.

It is possible, although unlikely, that any Federal action will be proposed that would be likely to destroy or adversely modify the habitat proposed as critical within the area governed by these HCPs. Designation of critical habitat provides no benefit because, if such a project was proposed, due to the specific way in which jeopardy and adverse modification are analyzed for the Choctawhatchee beach mouse, it would likely also jeopardize the continued existence of the species. In addition, we expect that the benefit of informing the public of the importance of this area to the Choctawhatchee beach mouse's conservation would be slight because there has already been a designation of critical habitat for beach mice in this area, including public notice and comment, the HCPs themselves underwent public review and comment, and this proposal is undergoing public review and comment. Therefore, we assigned relatively little weight to the benefits of designating this area as critical habitat.

In contrast, although the benefits of encouraging participation in HCPs, particularly large-scale HCPs, and, more broadly, helping to foster cooperative conservation are indirect, enthusiastic HCP participation and an atmosphere of cooperation are crucial to the long-term effectiveness of the endangered species program. Therefore, we assigned great weight to these benefits of exclusion. If there are regulatory benefits of inclusion, associated costs could be avoided by excluding the area from the designation. However, as we expect the regulatory benefits to be slight, we likewise give little weight to avoidance of those associated costs, as well as the additional transaction costs related to section 7 compliance.

(3) Benefits of Exclusion of the Stallworth Preserve, Watersound, and Watercolor HCPs Outweigh the Benefits of Inclusion

We have determined that the benefits of inclusion of the areas covered by these HCPs are small, while the benefits of exclusion are more significant. With the measures identified above, we believe that, for these three sites, the benefits of exclusion outweigh the benefits of inclusion. Because we anticipate that little, if any, conservation benefit to the Choctawhatchee beach mouse will be foregone as a result of excluding these areas, the exclusion will not result in the extinction of the Choctawhatchee beach mouse. Accordingly, we exercise discretion under section 4(b)(2) of the Act to exclude the areas covered by these HCPs from the designation of critical habitat for the Choctawhatchee beach mouse.

(4) Exclusion Will Not Result in Extinction of the Species

Because we anticipate that little, if any, conservation benefit to the Choctawhatchee beach mouse will be foregone as a result of excluding these areas, we do not expect the exclusion to result in the extinction of the Choctawhatchee beach mouse.

General Principles of Section 7 Consultations Used in the 4(b)(2) Balancing Process

The most direct, and potentially largest, regulatory benefit of critical habitat is that federally authorized, funded, or carried out activities require consultation pursuant to section 7 of the Act to ensure that they are not likely to destroy or adversely modify critical habitat. There are two limitations to this regulatory effect. First, it only applies where there is a Federal nexus—if there is no Federal nexus, designation itself does not restrict actions that destroy or adversely modify critical habitat. Second, it only limits destruction or adverse modification. By its nature, the prohibition on adverse modification is designed to ensure those areas that contain the physical and biological features essential to the conservation of the species or unoccupied areas that are essential to the conservation of the species are not eroded. Critical habitat designation alone, however, does not require specific steps toward recovery.

Once consultation under section 7 of the Act is triggered, the process may conclude informally when the Service concurs in writing that the proposed Federal action is not likely to adversely affect the listed species or its critical habitat. However, if the Service determines through informal consultation that adverse impacts are likely to occur, then formal consultation would be initiated. Formal consultation concludes with a biological opinion issued by the Service on whether the proposed Federal action is likely to jeopardize the continued existence of a listed species or result in destruction or adverse modification of critical habitat, with separate analyses being made under both the jeopardy and the adverse modification standards. For critical habitat, a biological opinion that concludes in a determination of no destruction or adverse modification may contain discretionary conservation recommendations to minimize adverse effects to primary constituent elements, but it would not contain any mandatory reasonable and prudent measures or terms and conditions. Mandatory reasonable and prudent alternatives to the proposed Federal action would only be issued when the biological opinion results in a jeopardy or adverse modification conclusion.

We also note that for 30 years prior to the Ninth Circuit Court's decision in Gifford Pinchot, the Service equated the jeopardy standard with the standard for destruction or adverse modification of critical habitat. The Court ruled that the Service could no longer equate the two standards and that adverse modification evaluations require consideration of impacts on the recovery of species. Thus, under the Gifford Pinchot decision, critical habitat designations may provide greater benefits to the recovery of a species. However, we believe the conservation achieved through implementing habitat conservation plans (HCPs) or other habitat management plans is typically greater than would be achieved through multiple site-by-site, project-by-project, section 7 consultations involving consideration of critical habitat. Management plans commit resources to implement long-term management and protection to particular habitat for at least one and possibly other listed or sensitive species. Section 7 consultations only commit Federal agencies to prevent adverse modification to critical habitat caused by the particular project, and they are not committed to provide conservation or long-term benefits to areas not affected by the proposed project. Thus, any HCP or management plan that considers enhancement or recovery as the management standard will always provide as much or more benefit than a consultation for critical habitat designation conducted under the standards required by the Ninth Circuit in the Gifford Pinchot decision.

The information provided in this section applies to all the discussions below that discuss the benefits of inclusion and exclusion of critical habitat in that it provides the framework for the consultation process.

Educational Benefits of Critical Habitat

A benefit of including lands in critical habitat is that the designation of critical habitat serves to educate landowners, State and local governments, and the public regarding the potential conservation value of an area. This helps focus and promote conservation efforts by other parties by clearly delineating areas of high conservation value for Perdido Key beach mice, Choctawhatchee beach mice, and St. Andrew beach mice. In general the educational benefit of a critical habitat designation always exists, although in some cases it may be redundant with other educational effects. For example, HCPs have significant public input and may largely duplicate the educational benefit of a critical habitat designation. This benefit is closely related to a second, more indirect benefit: That designation of critical habitat would inform State agencies and local governments about areas that could be conserved under State laws or local ordinances.

However, we believe that there would be little additional informational benefit gained from the designation of critical habitat for the exclusions we are making in this rule because these areas were included in the proposed rule as having habitat containing the features essential to the conservation of the species. Consequently, we believe that the informational benefits are already provided even though these areas are not designated as critical habitat. Additionally, the purpose normally served by the designation of informing State agencies and local governments about areas that would benefit from protection and enhancement of habitat for Perdido Key beach mice, Choctawhatchee beach mice, and St. Andrew beach mice is already well-established among State and local governments, and Federal agencies in those areas that we are excluding from critical habitat in this rule on the basis of other existing habitat management protections.

Economic Analysis

Section 4(b)(2)of the Act requires us to designate critical habitat on the basis of the best scientific information available and to consider the economic and other relevant impacts of designating a particular area as critical habitat. We may exclude areas from critical habitat upon a determination that the benefits of such exclusions outweigh the benefits of specifying such areas as critical habitat. We cannot exclude such areas from critical habitat when such exclusion will result in the extinction of the species concerned.

Following the publication of the proposed critical habitat designation, we conducted an economic analysis to estimate the potential economic effect of the designation. The draft analysis was made available for public review on June 16, 2006 (71 FR 35048). We accepted comments on the draft analysis until July 17, 2006.

The primary purpose of the economic analysis was to estimate the potential economic impacts associated with the designation of critical habitat for Perdido Key beach mice, Choctawhatchee beach mice, and St. Andrew beach mice. This information is intended to assist the Secretary in making decisions about whether the benefits of excluding particular areas from the designation outweigh the benefits of including those areas in the designation. This economic analysis considers the economic efficiency effects that may result from the designation, including habitat protections that may be co-extensive with the listing of the species. It also addresses distribution of impacts, including an assessment of the potential effects on small entities and the energy industry. This information can be used by the Secretary to assess whether the effects of the designation might unduly burden a particular group or economic sector.

This analysis focuses on the direct and indirect costs of the rule. However, economic impacts to land use activities can exist in the absence of critical habitat. These impacts may result from, for example, local zoning laws, State and natural resource laws, and enforceable management plans and best management practices applied by other State and Federal agencies. Economic impacts that result from these types of protections are not included in the analysis as they are considered to be part of the regulatory and policy baseline.

The economic analysis identifies potential costs of approximately $93.4 to $174.9 million (undiscounted) over a 20-year period from 2006 to 2025, as a result of the proposed critical habitat designation, including those costs coextensive with listing. For the same period, the economic analysis identified potential costs of approximately $89.3 to $170.6 million discounted at three percent ($6.0 to $11.5 million annualized) and approximately $85.8 to $166.7 million discounted at seven percent ($8.1 to $15.7 million annualized).

The analysis measures lost economic efficiency associated with residential and commercial development, and public projects and activities, such as economic impacts on transportation projects, the energy industry, and State and Federal lands. Overall, the residential and commercial development industry is calculated to experience the highest proportion of these costs (95 percent).

We have prepared an economic analysis that is consistent with the ruling of the 10th Circuit Court of Appeals in N.M. Cattle Growers Ass'n v. USFWS, and that was available for public review during the comment periods for the proposed rule. A copy of the final economic analysis with supporting documents are included in our administrative record and may be obtained by contacting the Service, Branch of Endangered Species (see ADDRESSES section) or by downloading from the Internet at http://www.fws.gov/panamacity. Since the critical habitat designation includes no Tribal lands, and includes no areas presently under special management or protection provided by a legally operative plan or agreement for the conservation of these beach mice (other than the HCPS for Stallworth and Watersound that we have already excluded), we believe, other than economics, there are no other relevant impacts to evaluate under section 4(b)(2).

Required Determinations

Regulatory Planning and Review

In accordance with Executive Order 12866, this document is a significant rule in that it may raise novel legal and policy issues, but will not have an annual effect on the economy of $100 million or more or affect the economy in a material way. Due to the tight timeline for publication in the Federal Register, the Office of Management and Budget (OMB) has not formally reviewed this rule. As explained above, we prepared an economic analysis of this action. We used this analysis to meet the requirement of section 4(b)(2) of the Act to determine the economic consequences of designating the specific areas as critical habitat. We also used it to help determine whether to exclude any area from critical habitat, as provided for under section 4(b)(2), if we determine that the benefits of such exclusion outweigh the benefits of specifying such area as part of the critical habitat, unless we determine, based on the best scientific data available, that the failure to designate such area as critical habitat will result in the extinction of the species.

Regulatory Flexibility Act (5 U.S.C. 601 et seq.)

Under the Regulatory Flexibility Act (RFA) (as amended by the Small Business Regulatory Enforcement Fairness Act (SBREFA) of 1996), whenever an agency is required to publish a notice of rulemaking for any proposed or final rule, it must prepare and make available for public comment a regulatory flexibility analysis that describes the effect of the rule on small entities (i.e., small businesses, small organizations, and small government jurisdictions). However, no regulatory flexibility analysis is required if the head of an agency certifies the rule will not have a significant economic impact on a substantial number of small entities. The SBREFA amended the RFA to require Federal agencies to provide a statement of factual basis for certifying that the rule will not have a significant economic impact on a substantial number of small entities. The SBREFA also amended the RFA to require a certification statement.

Small entities include small organizations, such as independent nonprofit organizations; small governmental jurisdictions, including school boards and city and town governments that serve fewer than 50,000 residents; as well as small businesses. Small businesses include manufacturing and mining concerns with fewer than 500 employees, wholesale trade entities with fewer than 100 employees, retail and service businesses with less than $5 million in annual sales, general and heavy construction businesses with less than $27.5 million in annual business, special trade contractors doing less than $11.5 million in annual business, and agricultural businesses with annual sales less than $750,000. To determine if potential economic impacts to these small entities are significant, we consider the types of activities that might trigger regulatory impacts under this rule, as well as the types of project modifications that may result. In general, the term “significant economic impact” is meant to apply to a typical small business firm's business operations.

To determine if the rule could significantly affect a substantial number of small entities, we consider the number of small entities affected within particular types of economic activities (e.g., housing development, grazing, oil and gas production, timber harvesting). We apply the “substantial number” test individually to each industry to determine if certification is appropriate. However, the SBREFA does not explicitly define “substantial number” or “significant economic impact.” Consequently, to assess whether a “substantial number” of small entities is affected by this designation, this analysis considers the relative number of small entities likely to be impacted in an area. In some circumstances, especially with critical habitat designations of limited extent, we may aggregate across all industries and consider whether the total number of small entities affected is substantial. In estimating the number of small entities potentially affected, we also consider whether their activities have any Federal involvement.

Designation of critical habitat only affects activities conducted, funded, or permitted by Federal agencies. Some kinds of activities are unlikely to have any Federal involvement and so will not be affected by critical habitat designation. In areas where the species is present, Federal agencies already are required to consult with us under section 7 of the Act on activities they fund, permit, or implement that may affect Perdido Key beach mice, Choctawhatchee beach mice, and St. Andrew beach mice. Federal agencies also must consult with us if their activities may affect critical habitat. Designation of critical habitat, therefore, could result in an additional economic impact on small entities due to the requirement to reinitiate consultation for ongoing Federal activities.

In our economic analysis of the critical habitat designation, we evaluated the potential economic effects on small business entities resulting from conservation actions related to the listing of the Perdido Key beach mouse, Choctawhatchee beach mouse, and St. Andrew beach mouse and proposed designation of their critical habitat. This analysis estimated prospective economic impacts due to the implementation of three Florida beach mice conservation efforts in seven categories: private development activities, recreation, tropical storms and hurricanes, dredging and disposal operations, species management and habitat protection activities, road construction and maintenance, and military activities. We determined from our analysis that in six of these seven categories, impacts of the three Florida beach mice conservation efforts are not anticipated to impact small business. The small business entities that may be affected are private development firms. Costs associated with residential and commercial development comprise 95 of the total quantified future impacts. Total costs are expected to be $93.4 million (undiscounted) over the next 20 years ($89.3 million at three percent and $85.8 million at seven percent). Conservation effort costs include land preservation (set-asides), monitoring, and predator control that may be required of new development activity on private land. Approximately 97 percent of developers in the region are considered small; thus, 35 small developers could be impacted each year. For those projects likely to be undertaken by a small entity, beach mouse conservation costs are estimated to be approximately $17,000 per residential housing unit (total costs divided by the number of affected units), or $75,000 per typical developer. Assuming the annual revenues of an average small developer are $18.9 million (see the economic analysis for explanation of assumptions), the average annualized cost per project is roughly 0.4 percent of the typical annual sales. Therefore, we do not believe that the designation of critical habitat for the Perdido Key beach mouse, Choctawhatchee beach mouse, and St. Andrew beach mouse will result in a disproportionate effect to small business entities. Please refer to our draft economic analysis of the proposed critical habitat designation for a more detailed discussion of potential economic impacts.

In general, two different mechanisms in section 7 consultations could lead to additional regulatory requirements for the approximately four small businesses, on average, that may be required to consult with us each year regarding their project's impact on Perdido Key beach mice, Choctawhatchee beach mice, and St. Andrew beach mice and their habitat. First, if we conclude, in a biological opinion, that a proposed action is likely to jeopardize the continued existence of a species or adversely modify its critical habitat, we can offer “reasonable and prudent alternatives.” Reasonable and prudent alternatives are alternative actions that can be implemented in a manner consistent with the scope of the Federal agency's legal authority and jurisdiction, that are economically and technologically feasible, and that would avoid jeopardizing the continued existence of listed species or result in adverse modification of critical habitat. A Federal agency and an applicant may elect to implement a reasonable and prudent alternative associated with a biological opinion that has found jeopardy or adverse modification of critical habitat. An agency or applicant could alternatively choose to seek an exemption from the requirements of the Act or proceed without implementing the reasonable and prudent alternative. However, unless an exemption were obtained, the Federal agency or applicant would be at risk of violating section 7(a)(2) of the Act if it chose to proceed without implementing the reasonable and prudent alternatives.

Second, if we find that a proposed action is not likely to jeopardize the continued existence of a listed animal or plant species, we may identify reasonable and prudent measures designed to minimize the amount or extent of take and require the Federal agency or applicant to implement such measures through non-discretionary terms and conditions. We may also identify discretionary conservation recommendations designed to minimize or avoid the adverse effects of a proposed action on listed species or critical habitat, help implement recovery plans, or to develop information that could contribute to the recovery of the species.

Based on our experience with consultations pursuant to section 7 of the Act for all listed species, virtually all projects—including those that, in their initial proposed form, would result in jeopardy or adverse modification determinations in section 7 consultations—can be implemented successfully with, at most, the adoption of reasonable and prudent alternatives. These measures, by definition, must be economically feasible and within the scope of authority of the Federal agency involved in the consultation. We can only describe the general kinds of actions that may be identified in future reasonable and prudent alternatives. These are based on our understanding of the needs of the species and the threats it faces, as described in the final listing rule and this critical habitat designation. Within the final CHUs, the types of Federal actions or authorized activities that we have identified as potential concerns are:

(1) Regulation of activities affecting waters of the United States by the Corps under section 404 of the Clean Water Act;

(2) Regulation of water flows, damming, diversion, and channelization implemented or licensed by Federal agencies;

(3) Regulation of timber harvest, grazing, mining, and recreation by the USFS and BLM;

(4) Road construction and maintenance, right-of-way designation, and regulation of agricultural activities;

(5) Hazard mitigation and post-disaster repairs funded by the FEMA; and

(6) Activities funded by the EPA, U.S. Department of Energy, or any other Federal agency.

It is likely that a developer or other project proponent could modify a project or take measures to protect Perdido Key beach mice, Choctawhatchee beach mice, and St. Andrew beach mice. The kinds of actions that may be included if future reasonable and prudent alternatives become necessary include conservation set-asides, management of competing nonnative species, restoration of degraded habitat, and regular monitoring. These are based on our understanding of the needs of the species and the threats it faces, as described in the final listing rule and proposed critical habitat designation. These measures are not likely to result in a significant economic impact to project proponents.

In summary, we have considered whether this would result in a significant economic effect on a substantial number of small entities. We have determined, for the above reasons and based on currently available information, that it is not likely to affect a substantial number of small entities. Federal involvement, and thus section 7 consultations, would be limited to a subset of the area designated. The most likely Federal involvement could include Corps permits or permits we may issue under section 10(a)(1)(B) of the Act. A regulatory flexibility analysis is not required.

Small Business Regulatory Enforcement Fairness Act (5 U.S.C. 801 et seq.)

Under SBREFA, this rule is not a major rule. Our detailed assessment of the economic effects of this designation is described in the economic analysis. Based on the effects identified in the economic analysis, we believe that this rule will not have an annual effect on the economy of $100 million or more, will not cause a major increase in costs or prices for consumers, and will not have significant adverse effects on competition, employment, investment, productivity, innovation, or the ability of U.S.-based enterprises to compete with foreign-based enterprises. Refer to the final economic analysis for a discussion of the effects of this determination.

Executive Order 13211

On May 18, 2001, the President issued Executive Order 13211 on regulations that significantly affect energy supply, distribution, and use. Executive Order 13211 requires agencies to prepare Statements of Energy Effects when undertaking certain actions. Based on the information from the economic analysis, this final rule to designate critical habitat for Perdido Key beach mice, Choctawhatchee beach mice, and St. Andrew beach mice is not expected to significantly affect energy supplies, distribution, or use. Therefore, this action is not a significant energy action and no Statement of Energy Effects is required.

Unfunded Mandates Reform Act (2 U.S.C. 1501 et seq.)

In accordance with the Unfunded Mandates Reform Act (2 U.S.C. 1501 et seq.), we make the following findings:

(a) This rule will not produce a Federal mandate. In general, a Federal mandate is a provision in legislation, statute, or regulation that would impose an enforceable duty upon State, local, or Tribal governments or the private sector and includes both “Federal intergovernmental mandates” and “Federal private sector mandates.” These terms are defined in 2 U.S.C. 658(5)-(7). “Federal intergovernmental mandate” includes a regulation that “would impose an enforceable duty upon State, local, or tribal governments” with two exceptions. It excludes “a condition of Federal assistance.” It also excludes “a duty arising from participation in a voluntary Federal program,” unless the regulation “relates to a then-existing Federal program under which $500,000,000 or more is provided annually to State, local, and tribal governments under entitlement authority,” if the provision would “increase the stringency of conditions of assistance” or “place caps upon, or otherwise decrease, the Federal Government's responsibility to provide funding” and the State, local, or Tribal governments “lack authority” to adjust accordingly. (At the time of enactment, these entitlement programs were: Medicaid; AFDC work programs; Child Nutrition; Food Stamps; Social Services Block Grants; Vocational Rehabilitation State Grants; Foster Care, Adoption Assistance, and Independent Living; Family Support Welfare Services; and Child Support Enforcement.) “Federal private sector mandate” includes a regulation that “would impose an enforceable duty upon the private sector, except (i) a condition of Federal assistance; or (ii) a duty arising from participation in a voluntary Federal program.”

The designation of critical habitat does not impose a legally binding duty on non-Federal government entities or private parties. Under the Act, the only regulatory effect is that Federal agencies must ensure that their actions do not destroy or adversely modify critical habitat under section 7. While non-Federal entities who receive Federal funding, assistance, permits or otherwise require approval or authorization from a Federal agency for an action may be indirectly impacted by the designation of critical habitat, the legally binding duty to avoid destruction or adverse modification of critical habitat rests squarely on the Federal agency. Furthermore, to the extent that non-Federal entities are indirectly impacted because they receive Federal assistance or participate in a voluntary Federal aid program, the Unfunded Mandates Reform Act would not apply; nor would critical habitat shift the costs of the large entitlement programs listed above on to State governments.

(b) We do not believe that this rule will significantly or uniquely affect small governments because it will not produce a Federal mandate of $100 million or greater in any year; that is, it is not a “significant regulatory action” under the Unfunded Mandates Reform Act. The designation of critical habitat imposes no obligations on State or local governments. As such, Small Government Agency Plan is not required.

Federalism

In accordance with Executive Order 13132 (Federalism), the rule does not have significant Federalism effects. A Federalism assessment is not required. In keeping with Department of the Interior and Department of Commerce policy, we requested information from, and coordinated development of, this final critical habitat designation with appropriate State resource agencies in Florida and Alabama. The designation of critical habitat in areas currently occupied by Perdido Key beach mice, Choctawhatchee beach mice, and St. Andrew beach mice may impose nominal additional regulatory restrictions to those currently in place and, therefore, may have little incremental impact on State and local governments and their activities. The designation may have some benefit to these governments in that the areas that contain the features essential to the conservation of the species are more clearly defined, and the primary constituent elements of the habitat necessary to the conservation of the species are specifically identified. While making this definition and identification does not alter where and what federally sponsored activities may occur, it may assist these local governments in long-range planning (rather than waiting for case-by-case section 7 consultations to occur).

Civil Justice Reform

In accordance with Executive Order 12988, the Office of the Solicitor has determined that the rule does not unduly burden the judicial system and meets the requirements of sections 3(a) and 3(b)(2) of the Order. We are designating critical habitat in accordance with the provisions of the Endangered Species Act. This final rule uses standard property descriptions and identifies the primary constituent elements within the designated areas to assist the public in understanding the habitat needs of Perdido Key beach mice, Choctawhatchee beach mice, and St. Andrew beach mice.

Paperwork Reduction Act of 1995 (44 U.S.C. 3501 et seq.)

This rule does not contain any new collections of information that require approval by OMB under the Paperwork Reduction Act. This rule will not impose recordkeeping or reporting requirements on State or local governments, individuals, businesses, or organizations. An agency may not conduct or sponsor, and a person is not required to respond to, a collection of information unless it displays a currently valid OMB control number.

National Environmental Policy Act

It is our position that, outside the Tenth Circuit, we do not need to prepare environmental analyses as defined by the NEPA in connection with designating critical habitat under the Endangered Species Act of 1973, as amended. We published a notice outlining our reasons for this determination in the Federal Register on October 25, 1983 (48 FR 49244). This assertion was upheld in the courts of the Ninth Circuit (Douglas County v. Babbitt, 48 F.3d 1495 (9th Cir. Ore. 1995), cert. denied 116 S. Ct. 698 (1996).

Government-to-Government Relationship With Tribes

In accordance with the President's memorandum of April 29, 1994, “Government-to-Government Relations with Native American Tribal Governments” (59 FR 22951), Executive Order 13175, and the Department of Interior's manual at 512 DM 2, we readily acknowledge our responsibility to communicate meaningfully with recognized Federal Tribes on a government-to-government basis. We have determined that there are no tribal lands occupied at the time of listing contain the features essential for the conservation and no tribal lands that are unoccupied areas that are essential for the conservation of Perdido Key beach mice, Choctawhatchee beach mice, and St. Andrew beach mice. Therefore, designation of critical habitat for Perdido Key beach mice, Choctawhatchee beach mice, and St. Andrew beach mice has not been designated on Tribal lands.

References Cited

A complete list of all references cited in this rulemaking is available upon request from the Field Supervisor, Panama City Fish and Wildlife Office (see ADDRESSES section).

Author(s)

The primary author of this package is the Panama City Fish and Wildlife Office.

List of Subjects in 50 CFR Part 17

Endangered and threatened species, Exports, Imports, Reporting and recordkeeping requirements, Transportation.

Regulation Promulgation

Accordingly, we amend part 17, subchapter B of chapter I, title 50 of the Code of Federal Regulations, as set forth below:

PART 17—[AMENDED]

1. The authority citation for part 17 continues to read as follows:

Authority: 16 U.S.C. 1361-1407; 16 U.S.C. 1531-1544; 16 U.S.C. 4201-4245; Pub. L. 99-625, 100 Stat. 3500; unless otherwise noted.

2. In § 17.11(h), revise the entry for “Mouse, St. Andrew beach” under “MAMMALS” to read as follows:

§ 17.11 Endangered and threatened wildlife.

* * * * *

(h) * * *

Species: Common name | Species: Scientific name | Historic range | Vertebrate population where endangered or threatened | Status | When listed | Critical habitat | Special rules
Mammals
* * * * * * *
Mouse, St. Andrew beach | Peromyscus polionotus peninsularis | U.S.A. (FL) | Entire | E | 655 | 17.95(a) | NA
* * * * * * *

3. In § 17.95(a), revise the entries for “Choctawhatchee Beach Mouse (Peromyscus polionotus allophrys)” and “Perdido Key Beach Mouse (Peromyscus polionotus trissyllepsis),” and add an entry for “St. Andrew Beach Mouse (Peromyscus polionotus peninsularis)” in the same alphabetical order that this species appears in the table at § 17.11(h) to read as follows:

§ 17.95 Critical habitat—fish and wildlife.

(a) Mammals.

* * * * *

Choctawhatcee Beach Mouse (Peromyscus polionotus allophrys)

(1) Critical habitat units are depicted for Okaloosa, Walton, and Bay Counties, Florida, on the maps below.

(2) The primary constituent elements of critical habitat for the Choctawhatchee beach mouse are the habitat components that provide:

(i) A contiguous mosaic of primary, secondary, and scrub vegetation and dune structure, with a balanced level of competition and predation and few or no competitive or predaceous nonnative species present, that collectively provide foraging opportunities, cover, and burrow sites;

(ii) Primary and secondary dunes, generally dominated by sea oats (Uniola paniculata), that despite occasional temporary impacts and reconfiguration from tropical storms and hurricanes, provide abundant food resources, burrow sites, and protection from predators;

(iii) Scrub dunes, generally dominated by scrub oaks (Quercus spp.), that provide food resources and burrow sites, and provide elevated refugia during and after intense flooding due to rainfall and/or hurricane-induced storm surge;

(iv) Functional, unobstructed habitat connections that facilitate genetic exchange, dispersal, natural exploratory movements, and re-colonization of locally extirpated areas; and

(v) A natural light regime within the coastal dune ecosystem, compatible with the nocturnal activity of beach mice, necessary for normal behavior, growth, and viability of all life stages.

(3) Critical habitat does not include man-made structures existing on the effective date of this rule and not containing one or more of the primary constituent elements, such as buildings, aqueducts, airports, driveways, and roads, and the land on which such structures are located.

(4) Critical Habitat Map Units. Data layers defining map units were created by delineating habitats that contained one or more of the primary constituent elements defined in paragraph (2) of this entry over 1999 and 2004 digital ortho photography at a scale of at least 1:4000.

(5) Note: Map 1, Index Map of Critical Habitat Units for the Choctawhatchee beach mouse, follows:

BILLING CODE 4310-55-P

BILLING CODE 4310-55-C

(6) CBM—Unit 1: Henderson Beach Unit, Okaloosa County, Florida.

(i) General Description: This unit encompasses essential features of beach mouse habitat within the boundary of Henderson Beach State Park from 0.5 mi (0.8 km) east of the intersection of Highway 98 and Scenic Highway 98 to 0.25 mi (0.4 km) west of Matthew Boulevard and the area from the mean high water level (MHWL) north to the seaward extent of the maritime forest.

(ii) Coordinates: From USGS 1:24,000 quadrangle map Destin, Florida, land bounded by the following UTM 16 NAD 83 coordinates (E, N): 553127.73, 3361659.70; 553118.25, 3361738.27; 553113.59, 3361734.19; 553108.89, 3361731.30; 553107.43, 3361726.11; 553109.17, 3361720.21; 553113.27, 3361714.76; 553117.31, 3361712.08; 553120.24, 3361706.21; 553125.11, 3361701.97; 553129.54, 3361699.70; 553134.76, 3361697.45; 553141.19, 3361694.44; 553145.30, 3361688.99; 553149.37, 3361685.13; 553154.57, 3361683.67; 553157.20, 3361689.68; 553160.70, 3361692.54; 553166.37, 3361688.32; 553172.09, 3361682.12; 553173.43, 3361676.21; 553168.76, 3361672.13; 553163.31, 3361667.63; 553160.25, 3361662.80; 553153.21, 3361658.26; 553149.32, 3361655.00; 553151.10, 3361647.11; 553152.37, 3361643.97; 553151.71, 3361638.80; 553151.79, 3361635.24; 553155.06, 3361631.75; 553159.13, 3361627.89; 553161.59, 3361624.78; 553162.10, 3361620.03; 553159.37, 3361617.98; 553153.02, 3361617.83; 553145.50, 3361616.85; 553143.50, 3361617.19; 553138.78, 3361615.49; 553134.39, 3361616.18; 553126.77, 3361619.16; 553115.13, 3361623.63; 553107.05, 3361629.38; 553102.11, 3361636.39; 553099.86, 3361647.04; 553098.42, 3361656.91; 553098.17, 3361666.82; 553094.35, 3361692.88; 553091.71, 3361703.13; 553082.59, 3361718.36; 553082.04, 3361724.69; 553082.21, 3361733.81; 553087.65, 3361738.70; 553102.32, 3361739.86; 553118.25, 3361738.27

553049.41, 3361533.76; 553017.61, 3361459.57; 553019.48, 3361499.16; 553019.48, 3361499.20; 553025.28, 3361498.13; 553030.65, 3361489.93; 553037.96, 3361483.38; 553046.44, 3361477.64; 553054.50, 3361473.08; 553063.45, 3361469.29; 553063.28, 3361457.75; 553017.61, 3361459.57; 553019.80, 3361505.86; 553023.58, 3361585.86; 553027.92, 3361582.42; 553029.07, 3361569.57; 553036.30, 3361566.58; 553034.25, 3361536.80; 553031.17, 3361516.90; 553025.80, 3361509.24; 553023.50, 3361505.61; 553019.80, 3361505.86; 553033.70, 3361499.32; 553038.20, 3361521.83; 553041.16, 3361562.74; 553040.97, 3361569.87; 553034.97, 3361572.10; 553033.94, 3361581.59; 553040.67, 3361581.15; 553053.05, 3361578.68; 553057.69, 3361583.55; 553059.88, 3361585.95; 553065.12, 3361585.75; 553063.92, 3361502.29; 553056.15, 3361502.85; 553054.68, 3361498.06; 553057.67, 3361489.41; 553052.92, 3361488.90; 553045.02, 3361487.12; 553039.81, 3361488.97; 553033.70, 3361499.32; 553047.11, 3361482.81; 553063.63, 3361481.97; 553063.53, 3361475.26; 553047.11, 3361482.81

553532.22, 3361485.97; 552500.53, 3361413.61; 552500.59, 3361443.35; 552503.32, 3361525.63; 552507.28, 3361622.45; 552507.33, 3361636.56; 552512.49, 3361636.69; 552516.50, 3361635.21; 552522.60, 3361629.41; 552528.64, 3361625.99; 552537.40, 3361625.41; 552545.28, 3361627.99; 552548.97, 3361623.32; 552555.01, 3361620.30; 552557.74, 3361622.35; 552558.76, 3361629.11; 552565.31, 3361637.60; 552566.76, 3361643.18; 552568.58, 3361649.57; 552566.04, 3361656.25; 552569.50, 3361660.69; 552577.51, 3361658.12; 552581.14, 3361655.83; 552579.76, 3361647.47; 552582.81, 3361636.45; 552584.24, 3361626.97; 552589.56, 3361620.76; 552592.46, 3361616.07; 552587.80, 3361611.59; 552586.38, 3361604.82; 552589.40, 3361594.98; 552597.48, 3361589.63; 552602.17, 3361592.92; 552600.85, 3361598.04; 552602.36, 3361601.25; 552609.15, 3361599.83; 552613.84, 3361602.72; 552613.31, 3361608.26; 552615.21, 3361611.87; 552624.24, 3361616.06; 552630.86, 3361621.38; 552635.09, 3361627.03; 552635.79, 3361631.01; 552629.37, 3361633.63; 552624.34, 3361627.96; 552622.12, 3361621.56; 552613.45, 3361618.57; 552600.74, 3361618.65; 552594.28, 3361622.85; 552602.10, 3361627.80; 552602.41, 3361631.38; 552602.30, 3361635.74; 552602.51, 3361643.27; 552613.50, 3361648.70; 552621.33, 3361653.25; 552627.31, 3361652.61; 552636.77, 3361655.62; 552644.73, 3361655.02; 552651.24, 3361648.84; 552657.78, 3361641.47; 552662.41, 3361630.88; 552664.21, 3361622.20; 552668.58, 3361622.31; 552674.91, 3361623.65; 552676.66, 3361616.96; 552683.44, 3361615.94; 552686.08, 3361621.55; 552684.36, 3361627.06; 552689.00, 3361631.93; 552690.46, 3361637.12; 552695.91, 3361641.62; 552701.04, 3361643.33; 552712.66, 3361639.25; 552720.65, 3361637.47; 552727.45, 3361635.65; 552734.28, 3361632.65; 552740.32, 3361629.23; 552740.87, 3361622.90; 552740.98, 3361618.55; 552741.10, 3361613.79; 552749.16, 3361609.23; 552761.48, 3361609.14; 552768.93, 3361612.89; 552771.17, 3361618.89; 552774.22, 3361624.12; 552779.79, 3361623.47; 552785.51, 3361617.27; 552788.42, 3361612.19; 552785.75, 3361607.36; 552787.13, 3361599.86; 552797.53, 3361596.95; 552805.88, 3361596.76; 552814.65, 3361595.79; 552816.92, 3361600.20; 552819.69, 3361600.67; 552825.36, 3361596.45; 552829.05, 3361591.78; 552836.25, 3361589.58; 552838.55, 3361593.21; 552841.65, 3361596.45; 552846.25, 3361602.91; 552850.84, 3361610.16; 552855.56, 3361612.26; 552857.82, 3361617.07; 552861.26, 3361622.70; 552856.21, 3361634.08; 552854.09, 3361639.57; 552861.51, 3361644.51; 552871.09, 3361642.77; 552874.73, 3361640.08; 552877.61, 3361636.19; 552878.93, 3361631.07; 552881.02, 3361626.76; 552881.13, 3361622.40; 552885.94, 3361620.54; 552882.51, 3361614.90; 552876.68, 3361609.61; 552877.27, 3361601.69; 552881.38, 3361596.24; 552882.74, 3361589.54; 552889.58, 3361586.14; 552896.31, 3361587.10; 552901.49, 3361586.43; 552900.19, 3361590.76; 552903.26, 3361595.20; 552907.01, 3361588.16; 552911.35, 3361589.06; 552905.48, 3361601.60; 552902.90, 3361609.46; 552907.26, 3361609.96; 552915.60, 3361610.17; 552918.02, 3361608.64; 552915.74, 3361604.62; 552917.00, 3361601.88; 552921.70, 3361604.38; 552922.86, 3361605.59; 552926.04, 3361605.67; 552926.72, 3361610.45; 552929.36, 3361616.06; 552932.57, 3361614.55; 552929.53, 3361609.33; 552929.69, 3361602.59; 552935.41, 3361596.39; 552935.60, 3361588.47; 552936.57, 3361581.35; 552937.89, 3361576.23; 552947.39, 3361577.66; 552954.87, 3361580.62; 552961.72, 3361576.82; 552966.18, 3361572.97; 552971.85, 3361568.75; 552980.65, 3361566.19; 552981.71, 3361571.76; 552978.79, 3361577.24; 552982.25, 3361581.69; 552988.27, 3361579.46; 552991.72, 3361584.30; 552989.64, 3361588.21; 552985.25, 3361588.90; 552978.49, 3361589.13; 552981.55, 3361593.96; 552986.65, 3361596.86; 552982.51, 3361603.50; 552977.68, 3361606.15; 552969.26, 3361609.12; 552969.94, 3361613.89; 552978.99, 3361617.29; 552987.72, 3361617.50; 552997.64, 3361618.14; 553001.68, 3361615.47; 552999.84, 3361609.48; 553002.35, 3361604.38; 553007.32, 3361596.18; 553013.38, 3361591.87; 553020.63, 3361588.19; 553023.58, 3361585.86; 553019.80, 3361505.86; 553014.29, 3361505.71; 553014.34, 3361499.90; 553019.48, 3361499.20; 553017.61, 3361459.57; 553063.28, 3361457.75; 553063.74, 3361490.00; 553066.60, 3361494.56; 553063.92, 3361502.29; 553065.12, 3361585.75; 553059.88, 3361585.95; 553062.73, 3361588.83; 553069.21, 3361583.83; 553082.40, 3361580.59; 553087.15, 3361581.11; 553095.90, 3361580.93; 553101.89, 3361579.49; 553102.96, 3361584.67; 553103.16, 3361592.60; 553099.11, 3361595.67; 553094.25, 3361599.52; 553094.50, 3361605.47; 553097.90, 3361607.75; 553093.11, 3361613.36; 553089.76, 3361620.42; 553085.54, 3361630.22; 553082.47, 3361642.04; 553082.01, 3361660.26; 553082.50, 3361672.56; 553079.21, 3361677.24; 553075.43, 3361685.47; 553071.19, 3361696.07; 553066.92, 3361708.25; 553064.70, 3361717.71; 553067.92, 3361715.81; 553074.34, 3361713.59; 553078.03, 3361708.92; 553084.82, 3361691.25; 553087.86, 3361681.02; 553088.49, 3361671.52; 553089.59, 3361659.26; 553089.92, 3361645.79; 553091.08, 3361631.15; 553096.99, 3361617.03; 553103.79, 3361607.47; 553105.41, 3361605.66; 553114.91, 3361599.23; 553124.56, 3361594.71; 553142.98, 3361588.83; 553155.42, 3361583.98; 553163.41, 3361582.20; 553168.25, 3361579.14; 553172.36, 3361573.70; 553176.83, 3361569.45; 553185.24, 3361566.88; 553197.62, 3361564.41; 553207.57, 3361563.47; 553212.29, 3361565.56; 553217.40, 3361567.67; 553223.75, 3361567.83; 553230.56, 3361565.62; 553236.63, 3361561.01; 553247.21, 3361552.36; 553254.33, 3361537.48; 553257.97, 3361518.93; 553259.32, 3361496.77; 553257.56, 3361471.35; 553256.14, 3361448.72; 553254.50, 3361443.33; 553247.28, 3361436.27; 553203.58, 3361437.12; 553203.09, 3361456.93; 553190.75, 3361457.81; 553189.25, 3361438.35; 553019.01, 3361446.44; 553016.92, 3361450.75; 553012.49, 3361453.02; 553011.82, 3361464.10; 553009.61, 3361473.16; 553000.69, 3361480.47; 552994.64, 3361483.89; 552994.89, 3361489.84; 552951.17, 3361490.75; 552870.83, 3361494.31; 552783.37, 3361496.52; 552720.90, 3361500.13; 552642.90, 3361505.73; 552597.62, 3361505.01; 552584.24, 3361499.93; 552577.28, 3361476.37; 552585.82, 3361468.25; 552658.66, 3361462.91; 552663.37, 3361465.01; 552666.76, 3361472.63; 552670.14, 3361464.39; 552691.51, 3361467.69; 552695.61, 3361462.64; 552722.58, 3361464.49; 552727.04, 3361461.03; 552733.05, 3361458.80; 552783.15, 3361457.27; 552888.55, 3361452.34; 552898.89, 3361452.19; 552911.46, 3361457.66; 552929.77, 3361456.52; 552932.46, 3361460.16; 552937.28, 3361457.90; 552939.40, 3361452.40; 552954.89, 3361452.78; 552958.90, 3361451.30; 552966.07, 3361448.44; 552995.16, 3361447.04; 553007.18, 3361442.97; 553015.67, 3361436.84; 553247.10, 3361428.68; 553254.19, 3361430.84; 553262.54, 3361437.63; 553266.70, 3361471.18; 553267.64, 3361513.62; 553264.80, 3361531.79; 553260.05, 3361547.13; 553243.21, 3361568.31; 553257.49, 3361585.31; 553264.26, 3361584.69; 553269.09, 3361582.03; 553270.02, 3361576.50; 553264.96, 3361572.41; 553263.51, 3361566.83; 553268.03, 3361560.60; 553271.01, 3361552.74; 553275.46, 3361549.28; 553282.15, 3361551.83; 553284.89, 3361553.48; 553292.46, 3361552.88; 553298.89, 3361549.86; 553301.38, 3361545.56; 553303.96, 3361537.70; 553311.45, 3361539.87; 553314.47, 3361546.28; 553322.30, 3361550.84; 553330.54, 3361555.00; 553336.17, 3361552.37; 553336.74, 3361545.64; 553328.51, 3361541.08; 553318.29, 3361536.47; 553316.43, 3361531.27; 553323.68, 3361527.48; 553330.87, 3361525.68; 553337.32, 3361521.87; 553347.05, 3361514.19; 553351.77, 3361515.89; 553348.49, 3361520.17; 553347.57, 3361525.30; 553348.27, 3361528.88; 553355.00, 3361529.84; 553366.14, 3361529.32; 553372.62, 3361524.33; 553377.52, 3361518.90; 553382.96, 3361523.79; 553391.59, 3361528.37; 553402.22, 3361532.20; 553417.00, 3361528.99; 553425.09, 3361523.25; 553435.45, 3361521.92; 553441.70, 3361526.43; 553435.68, 3361528.66; 553428.85, 3361532.06; 553422.80, 3361535.48; 553414.36, 3361539.63; 553405.15, 3361542.58; 553395.10, 3361547.08; 553386.67, 3361550.44; 553379.35, 3361557.40; 553373.64, 3361563.60; 553368.74, 3361568.63; 553364.57, 3361576.85; 553359.30, 3361581.09; 553351.65, 3361585.26; 553345.32, 3361583.91; 553337.07, 3361580.14; 553330.29, 3361581.16; 553328.20, 3361585.47; 553337.65, 3361588.88; 553345.53, 3361591.45; 553349.40, 3361595.90; 553348.05, 3361602.21; 553348.26, 3361609.75; 553348.06, 3361617.67; 553353.29, 3361615.03; 553356.65, 3361607.58; 553364.36, 3361601.43; 553375.88, 3361601.32; 553377.21, 3361595.80; 553381.29, 3361591.54; 553384.41, 3361593.60; 553382.72, 3361597.92; 553384.97, 3361603.13; 553391.25, 3361606.45; 553390.35, 3361610.39; 553395.82, 3361614.10; 553396.46, 3361620.45; 553397.54, 3361624.84; 553405.46, 3361626.23; 553411.38, 3361627.56; 553421.03, 3361623.04; 553428.57, 3361623.23; 553436.49, 3361624.22; 553444.16, 3361619.65; 553449.06, 3361614.22; 553454.24, 3361613.56; 553454.89, 3361619.52; 553458.04, 3361620.39; 553462.41, 3361620.50; 553466.35, 3361621.78; 553470.42, 3361617.92; 553473.15, 3361619.97; 553475.85, 3361623.21; 553472.99, 3361626.31; 553470.92, 3361629.82; 553473.63, 3361632.67; 553481.59, 3361632.07; 553486.40, 3361630.60; 553490.05, 3361627.52; 553495.59, 3361628.45; 553495.88, 3361632.42; 553503.40, 3361633.80; 553512.25, 3361629.26; 553517.17, 3361623.04; 553524.45, 3361618.06; 553530.89, 3361614.66; 553534.91, 3361612.77; 553538.19, 3361608.49; 553543.48, 3361603.47; 553549.95, 3361598.87; 553562.37, 3361594.82; 553563.86, 3361598.82; 553562.55, 3361603.54; 553556.81, 3361610.93; 553557.48, 3361615.71; 553560.69, 3361614.60; 553567.17, 3361609.60; 553570.27, 3361612.85; 553572.59, 3361615.29; 553581.37, 3361613.52; 553585.85, 3361609.27; 553594.20, 3361609.08; 553606.16, 3361607.40; 553616.15, 3361604.87; 553623.77, 3361601.88; 553634.13, 3361600.95; 553645.29, 3361599.24; 553654.12, 3361595.89; 553664.18, 3361590.59; 553671.97, 3361580.88; 553672.14, 3361574.14; 553670.34, 3361566.56; 553668.17, 3361557.79; 553669.14, 3361550.68; 553676.80, 3361546.11; 553678.16, 3361539.40; 553685.70, 3361539.99; 553692.86, 3361539.37; 553696.21, 3361532.71; 553702.10, 3361535.24; 553701.18, 3361540.37; 553697.79, 3361549.01; 553699.24, 3361554.59; 553702.34, 3361557.84; 553707.88, 3361558.77; 553712.16, 3361562.44; 553713.97, 3361569.23; 553710.67, 3361574.30; 553712.51, 3361580.29; 553719.20, 3361582.83; 553727.54, 3361583.04; 553732.05, 3361577.21; 553736.88, 3361574.55; 553745.67, 3361572.78; 553748.15, 3361568.88; 553747.11, 3361562.91; 553751.54, 3361560.24; 553759.91, 3361559.26; 553769.89, 3361557.13; 553772.23, 3361559.17; 553775.36, 3361560.83; 553781.32, 3361560.98; 553783.79, 3361557.47; 553787.10, 3361552.00; 553792.01, 3361546.58; 553794.06, 3361543.85; 553791.39, 3361539.43; 553792.79, 3361531.14; 553798.77, 3361530.09; 553803.03, 3361534.56; 553803.31, 3361539.32; 553808.78, 3361543.03; 553817.89, 3361544.04; 553824.16, 3361547.77; 553832.87, 3361548.77; 553843.23, 3361547.84; 553849.70, 3361543.24; 553852.20, 3361538.55; 553850.30, 3361534.93; 553854.38, 3361530.67; 553863.49, 3361531.69; 553867.58, 3361527.04; 553872.45, 3361522.80; 553876.72, 3361526.86; 553878.92, 3361534.45; 553879.99, 3361539.23; 553889.93, 3361539.08; 553898.64, 3361540.09; 553911.45, 3361536.05; 553919.73, 3361538.63; 553924.88, 3361539.55; 553934.82, 3361539.00; 553941.23, 3361536.78; 553948.89, 3361532.21; 553951.74, 3361529.51; 553957.69, 3361530.05; 553961.28, 3361529.35; 553963.36, 3361525.83; 553968.98, 3361523.20; 553971.83, 3361520.49; 553976.63, 3361519.02; 553983.07, 3361516.01; 553987.10, 3361513.34; 553989.93, 3361511.42; 553992.39, 3361508.31; 553992.52, 3361503.16; 553998.61, 3361497.76; 554005.35, 3361498.72; 554014.49, 3361498.55; 554020.03, 3361499.48; 554028.85, 3361496.13; 554030.58, 3361490.63; 554034.97, 3361489.54; 554037.09, 3361484.05; 554038.42, 3361478.53; 554043.29, 3361474.69; 554051.60, 3361475.68; 554057.53, 3361477.02; 554064.32, 3361475.60; 554066.20, 3361480.01; 554071.74, 3361480.94; 554078.06, 3361482.28; 554077.93, 3361487.43; 554074.26, 3361491.31; 554073.74, 3361496.45; 554077.65, 3361498.92; 554083.19, 3361499.85; 554087.23, 3361497.18; 554089.14, 3361500.00; 554087.10, 3361502.33; 554083.84, 3361505.42; 554087.76, 3361507.50; 554093.79, 3361504.87; 554099.77, 3361503.83; 554099.68, 3361507.79; 554097.94, 3361513.70; 554095.46, 3361517.60; 554098.16, 3361520.84; 554103.70, 3361521.77; 554106.78, 3361525.81; 554112.30, 3361527.53; 554116.64, 3361528.43; 554116.91, 3361533.59; 554120.83, 3361536.06; 554129.57, 3361535.88; 554134.45, 3361531.25; 554138.12, 3361527.37; 554144.99, 3361522.79; 554149.48, 3361518.14; 554152.82, 3361511.48; 554157.20, 3361511.19; 554161.91, 3361513.29; 554169.17, 3361509.11; 554171.30, 3361503.22; 554169.86, 3361497.24; 554176.70, 3361493.84; 554186.71, 3361490.52; 554195.01, 3361492.31; 554201.69, 3361495.25; 554211.49, 3361500.64; 554217.75, 3361504.76; 554229.63, 3361506.24; 554245.57, 3361504.26; 554256.74, 3361502.16; 554266.82, 3361496.46; 554271.32, 3361491.02; 554277.01, 3361486.01; 554281.89, 3361481.37; 554282.07, 3361474.24; 554285.73, 3361470.76; 554285.87, 3361465.22; 554284.49, 3361456.86; 554290.86, 3361456.22; 554297.71, 3361452.43; 554305.23, 3361453.41; 554305.11, 3361458.16; 554303.40, 3361463.27; 554298.93, 3361467.12; 554294.08, 3361470.57; 554297.97, 3361473.84; 554306.69, 3361474.85; 554319.41, 3361474.37; 554326.97, 3361473.76; 554333.08, 3361467.97; 554336.80, 3361462.11; 554337.78, 3361454.61; 554336.75, 3361447.84; 554337.28, 3361442.70; 554341.77, 3361437.66; 554347.41, 3361434.63; 554350.95, 3361436.30; 554350.38, 3361443.02; 554355.44, 3361447.51; 554357.67, 3361453.51; 554364.76, 3361456.06; 554373.52, 3361455.09; 554378.77, 3361451.65; 554381.68, 3361446.57; 554389.24, 3361445.97; 554397.11, 3361449.33; 554399.64, 3361443.45; 554398.17, 3361438.26; 554395.13, 3361433.03; 554394.86, 3361427.87; 554399.31, 3361424.41; 554407.71, 3361422.24; 554414.03, 3361423.59; 554416.64, 3361430.79; 554422.15, 3361432.51; 554429.33, 3361431.50; 554432.63, 3361426.42; 554431.59, 3361420.45; 554436.90, 3361414.64; 554445.76, 3361409.70; 554448.06, 3361413.33; 554447.82, 3361422.83; 554448.04, 3361429.98; 554453.19, 3361430.50; 554458.10, 3361425.07; 554462.98, 3361420.43; 554471.75, 3361419.07; 554478.17, 3361416.45; 554483.07, 3361411.42; 554494.66, 3361408.53; 554501.80, 3361409.10; 554501.68, 3361413.86; 554501.18, 3361417.81; 554506.34, 3361417.94; 554510.68, 3361419.23; 554513.33, 3361424.45; 554508.87, 3361428.31; 554502.98, 3361425.39; 554498.31, 3361421.31; 554490.31, 3361423.88; 554483.46, 3361427.68; 554482.86, 3361435.59; 554491.62, 3361435.02; 554500.03, 3361432.45; 554501.88, 3361437.65; 554510.22, 3361437.85; 554517.04, 3361435.25; 554522.62, 3361434.59; 554519.57, 3361429.36; 554519.30, 3361424.20; 554527.27, 3361423.21; 554533.15, 3361426.53; 554542.67, 3361427.16; 554550.24, 3361426.16; 554556.31, 3361421.55; 554563.85, 3361422.13; 554563.91, 3361403.50; 554559.96, 3361386.76; 554521.00, 3361387.78; 554512.96, 3361391.54; 554504.44, 3361398.47; 554491.63, 3361402.51; 554482.51, 3361401.89; 554475.83, 3361398.95; 554472.39, 3361393.31; 554469.80, 3361385.72; 554470.04, 3361375.81; 554474.17, 3361369.57; 554481.82, 3361365.40; 554500.51, 3361364.67; 554517.24, 3361363.10; 554518.02, 3361299.30; 554455.55, 3361303.31; 554271.98, 3361320.18; 553983.78, 3361342.80; 553712.60, 3361351.96; 553581.37, 3361357.04; 553412.45, 3361360.01; 553272.00, 3361368.43; 553200.32, 3361374.99; 553038.04, 3361382.48; 552934.28, 3361385.47; 552885.79, 3361386.25; 552832.07, 3361389.69; 552726.03, 3361388.26; 552500.53, 3361413.61.

(7) CBM—Unit 2: Topsail Hill Unit, Walton County, Florida.

(i) General Description: This unit encompasses essential features of beach mouse habitat within the boundary of Topsail Hill Preserve State Park, as well as adjacent private lands from 0.1 mi (0.2 km) east of Gulf Pines 0.6 mi (1 km) west of the inlet of Oyster Lake and the area from the MHWL north to the seaward extent of human development or maritime forest.

(ii) Coordinates: From USGS 1:24,000 quadrangle map Miramar Beach, Florida, land bounded by the following UTM 16 NAD 83 coordinates (E, N): 568237.02, 3359100.24; 565790.59, 3360018.31; 565796.34, 3360020.57; 565803.96, 3360017.20; 565810.66, 3360019.37; 565817.86, 3360017.55; 565818.85, 3360009.64; 565824.39, 3360010.97; 565832.30, 3360012.35; 565838.06, 3360003.81; 565842.44, 3360003.92; 565846.95, 3359998.04; 565849.54, 3360006.03; 565847.76, 3360013.17; 565845.89, 3360024.98; 565839.14, 3360024.82; 565834.08, 3360036.18; 565828.88, 3360037.67; 565826.72, 3360044.73; 565832.24, 3360046.87; 565836.86, 3360052.10; 565836.25, 3360061.20; 565847.92, 3360071.04; 565854.41, 3360065.27; 565860.36, 3360065.79; 565861.85, 3360054.35; 565866.39, 3360047.28; 565872.87, 3360041.95; 565867.78, 3360039.01; 565857.25, 3360047.49; 565852.69, 3360039.01; 565846.27, 3360041.66; 565841.64, 3360051.85; 565839.51, 3360041.87; 565843.74, 3360031.67; 565850.75, 3360021.55; 565857.10, 3360005.85; 565864.71, 3360002.85; 565874.64, 3360003.10; 565885.06, 3359999.80; 565890.85, 3359990.01; 565897.62, 3359989.43; 565906.33, 3359990.83; 565911.61, 3359986.22; 565917.25, 3359983.18; 565929.51, 3359985.42; 565932.65, 3359970.89; 565939.68, 3359975.80; 565947.64, 3359975.19; 565946.99, 3359969.24; 565958.42, 3359973.08; 565963.68, 3359969.22; 565966.15, 3359965.72; 565972.62, 3359961.51; 565975.07, 3359958.45; 565986.16, 3359959.91; 565997.72, 3359958.58; 566005.34, 3359956.02; 566007.50, 3359948.96; 566017.17, 3359943.20; 566010.47, 3359940.66; 566011.06, 3359933.56; 566018.61, 3359932.94; 566022.34, 3359927.10; 566028.95, 3359932.82; 566035.43, 3359927.80; 566041.93, 3359922.40; 566050.50, 3359913.13; 566057.66, 3359916.99; 566066.75, 3359919.21; 566076.94, 3359920.15; 566079.91, 3359912.67; 566077.34, 3359908.73; 566082.12, 3359903.98; 566093.56, 3359906.64; 566104.80, 3359907.04; 566109.70, 3359896.74; 566123.29, 3359893.89; 566127.00, 3359888.49; 566136.57, 3359886.73; 566144.51, 3359887.30; 566144.72, 3359878.57; 566149.95, 3359875.95; 566158.26, 3359877.72; 566167.75, 3359879.14; 566175.93, 3359869.48; 566182.85, 3359863.28; 566189.77, 3359856.71; 566197.51, 3359864.83; 566203.13, 3359862.60; 566207.27, 3359871.81; 566202.28, 3359880.80; 566202.44, 3359890.36; 566194.67, 3359899.28; 566187.28, 3359908.96; 566177.90, 3359918.66; 566170.19, 3359924.83; 566175.99, 3359931.28; 566177.35, 3359940.87; 566180.43, 3359944.87; 566168.57, 3359958.07; 566155.84, 3359958.56; 566146.23, 3359966.38; 566132.61, 3359966.29; 566134.92, 3359974.02; 566134.30, 3359982.69; 566139.63, 3359976.51; 566146.44, 3359973.50; 566155.63, 3359966.86; 566163.28, 3359963.12; 566166.33, 3359968.31; 566174.38, 3359968.63; 566184.45, 3359962.95; 566191.70, 3359954.27; 566198.50, 3359952.88; 566202.42, 3359939.11; 566203.54, 3359926.03; 566196.03, 3359924.29; 566197.39, 3359917.58; 566205.41, 3359914.59; 566213.31, 3359916.35; 566217.44, 3359910.15; 566223.48, 3359906.74; 566221.65, 3359900.70; 566213.23, 3359903.67; 566213.77, 3359897.76; 566219.94, 3359889.54; 566217.47, 3359876.81; 566218.44, 3359869.72; 566222.63, 3359861.08; 566217.63, 3359854.65; 566220.99, 3359847.18; 566226.64, 3359843.76; 566235.09, 3359839.23; 566238.77, 3359835.32; 566244.93, 3359827.55; 566241.54, 3359819.54; 566245.70, 3359812.09; 566252.78, 3359814.70; 566259.07, 3359817.97; 566266.54, 3359820.53; 566272.44, 3359823.11; 566282.60, 3359819.12; 566283.43, 3359812.65; 566289.47, 3359809.61; 566288.08, 3359801.65; 566289.39, 3359796.94; 566295.22, 3359802.26; 566306.71, 3359802.92; 566318.45, 3359794.47; 566320.98, 3359788.23; 566328.29, 3359782.42; 566331.34, 3359771.01; 566337.46, 3359764.85; 566343.47, 3359762.63; 566348.46, 3359770.25; 566349.01, 3359763.95; 566351.96, 3359757.29; 566348.12, 3359752.01; 566356.53, 3359749.03; 566361.64, 3359751.16; 566373.99, 3359749.90; 566370.09, 3359762.85; 566375.37, 3359774.47; 566383.83, 3359769.56; 566385.94, 3359764.43; 566392.18, 3359769.39; 566397.36, 3359768.71; 566406.23, 3359763.75; 566412.51, 3359766.71; 566411.88, 3359776.19; 566415.73, 3359781.03; 566424.52, 3359778.87; 566426.28, 3359772.17; 566429.53, 3359769.07; 566435.47, 3359770.03; 566433.26, 3359778.72; 566437.88, 3359784.76; 566448.64, 3359783.84; 566454.61, 3359785.80; 566460.46, 3359790.31; 566466.66, 3359796.40; 566474.97, 3359798.16; 566486.94, 3359796.09; 566497.71, 3359794.36; 566504.52, 3359791.41; 566502.26, 3359788.85; 566496.64, 3359788.78; 566498.47, 3359779.71; 566506.57, 3359773.17; 566515.35, 3359771.82; 566523.62, 3359774.40; 566529.03, 3359780.90; 566528.42, 3359789.19; 566535.93, 3359790.94; 566541.34, 3359797.44; 566546.88, 3359797.95; 566555.02, 3359789.85; 566554.89, 3359789.66; 566559.23, 3359784.77; 566565.56, 3359780.62; 566573.50, 3359780.82; 566582.01, 3359773.91; 566587.69, 3359769.31; 566592.86, 3359769.00; 566598.13, 3359764.63; 566603.50, 3359762.08; 566607.48, 3359756.31; 566613.11, 3359753.64; 566619.58, 3359754.55; 566622.29, 3359752.00; 566628.95, 3359750.85; 566636.89, 3359751.05; 566640.86, 3359751.15; 566646.11, 3359752.59; 566650.43, 3359754.57; 566656.58, 3359758.15; 566664.45, 3359760.97; 566676.33, 3359762.58; 566685.62, 3359761.50; 566693.26, 3359761.06; 566695.12, 3359752.49; 566708.49, 3359747.52; 566713.94, 3359741.10; 566708.01, 3359739.76; 566704.15, 3359735.30; 566711.04, 3359732.97; 566709.97, 3359728.20; 566709.66, 3359721.14; 566716.62, 3359716.07; 566710.82, 3359709.99; 566706.15, 3359705.88; 566703.12, 3359712.67; 566698.31, 3359714.55; 566696.05, 3359709.32; 566688.33, 3359706.07; 566684.39, 3359704.66; 566681.85, 3359700.60; 566683.73, 3359693.59; 566687.55, 3359686.82; 566687.65, 3359679.64; 566693.70, 3359676.36; 566701.59, 3359678.55; 566706.78, 3359677.12; 566717.48, 3359678.57; 566723.69, 3359687.34; 566726.99, 3359698.47; 566733.31, 3359680.90; 566736.24, 3359675.04; 566731.30, 3359666.18; 566731.52, 3359657.51; 566723.17, 3359657.30; 566716.85, 3359655.96; 566713.40, 3359653.75; 566715.96, 3359644.01; 566720.65, 3359634.14; 566714.32, 3359633.17; 566707.76, 3359637.88; 566701.80, 3359638.10; 566697.89, 3359635.26; 566695.73, 3359629.96; 566700.92, 3359625.41; 566699.79, 3359606.78; 566695.15, 3359602.29; 566690.89, 3359600.50; 566690.63, 3359595.31; 566686.97, 3359598.41; 566686.84, 3359603.52; 566685.50, 3359609.48; 566688.04, 3359616.35; 566685.16, 3359620.09; 566682.39, 3359625.32; 566676.93, 3359631.81; 566676.83, 3359635.74; 566672.08, 3359634.99; 566670.15, 3359638.19; 566667.51, 3359638.13; 566659.57, 3359637.93; 566653.01, 3359634.96; 566647.38, 3359637.57; 566642.32, 3359638.88; 566638.32, 3359640.09; 566626.80, 3359634.68; 566625.05, 3359641.07; 566624.95, 3359645.00; 566624.82, 3359650.30; 566631.84, 3359655.41; 566636.48, 3359660.71; 566636.25, 3359669.82; 566631.78, 3359674.07; 566623.86, 3359673.07; 566614.96, 3359679.15; 566608.65, 3359677.06; 566606.73, 3359685.56; 566603.88, 3359693.42; 566591.15, 3359694.04; 566582.58, 3359698.14; 566575.89, 3359700.66; 566571.41, 3359705.04; 566558.27, 3359705.90; 566549.89, 3359707.69; 566550.03, 3359717.62; 566549.56, 3359720.79; 566544.60, 3359728.60; 566538.56, 3359731.57; 566536.47, 3359735.89; 566531.53, 3359742.51; 566527.04, 3359746.02; 566526.73, 3359745.57; 566521.14, 3359746.62; 566514.03, 3359745.26; 566506.41, 3359747.82; 566497.83, 3359741.24; 566491.82, 3359743.08; 566486.68, 3359737.34; 566483.38, 3359731.39; 566476.38, 3359726.78; 566468.76, 3359728.28; 566462.13, 3359722.93; 566456.36, 3359717.17; 566445.20, 3359716.96; 566435.08, 3359724.64; 566428.54, 3359731.59; 566422.43, 3359721.95; 566421.38, 3359716.12; 566426.86, 3359713.69; 566438.38, 3359713.23; 566444.44, 3359709.01; 566448.37, 3359700.06; 566453.61, 3359697.00; 566457.29, 3359692.35; 566463.59, 3359689.95; 566468.83, 3359691.82; 566473.51, 3359695.87; 566477.76, 3359700.35; 566479.64, 3359704.39; 566486.41, 3359704.12; 566493.21, 3359702.35; 566498.84, 3359699.31; 566503.33, 3359694.68; 566506.27, 3359688.38; 566520.68, 3359685.30; 566527.06, 3359686.02; 566545.25, 3359689.66; 566542.94, 3359686.42; 566541.57, 3359678.02; 566537.64, 3359676.36; 566531.97, 3359680.15; 566526.40, 3359677.77; 566513.22, 3359683.31; 566500.87, 3359681.57; 566492.97, 3359680.06; 566487.75, 3359677.31; 566487.61, 3359671.69; 566481.33, 3359668.72; 566474.74, 3359667.75; 566477.49, 3359663.51; 566483.15, 3359659.65; 566491.99, 3359655.13; 566496.28, 3359653.74; 566501.60, 3359652.56; 566506.99, 3359648.69; 566511.10, 3359643.55; 566516.39, 3359643.68; 566524.34, 3359643.88; 566528.11, 3359651.90; 566533.16, 3359661.27; 566537.90, 3359665.69; 566548.64, 3359662.09; 566551.26, 3359655.66; 566559.92, 3359659.06; 566562.96, 3359664.32; 566569.33, 3359660.60; 566572.01, 3359652.24; 566566.17, 3359644.29; 566567.91, 3359637.59; 566570.41, 3359633.29; 566568.91, 3359629.69; 566576.08, 3359628.68; 566587.13, 3359632.14; 566584.15, 3359623.70; 566588.16, 3359622.24; 566593.09, 3359615.99; 566596.76, 3359612.53; 566602.42, 3359607.92; 566608.00, 3359607.62; 566618.55, 3359598.40; 566622.24, 3359594.12; 566621.27, 3359580.17; 566628.55, 3359580.04; 566635.50, 3359588.14; 566638.53, 3359593.77; 566645.62, 3359596.69; 566646.21, 3359604.64; 566639.81, 3359606.48; 566636.26, 3359608.26; 566637.70, 3359614.60; 566642.42, 3359613.66; 566649.17, 3359613.83; 566658.55, 3359604.13; 566667.78, 3359599.99; 566680.94, 3359597.94; 566687.89, 3359590.19; 566695.95, 3359585.64; 566698.54, 3359593.64; 566700.40, 3359598.43; 566706.83, 3359595.46; 566711.03, 3359586.39; 566719.03, 3359584.22; 566729.86, 3359580.24; 566731.70, 3359586.16; 566735.16, 3359590.99; 566741.44, 3359593.76; 566742.11, 3359598.71; 566747.63, 3359603.47; 566751.20, 3359600.87; 566755.78, 3359603.36; 566758.17, 3359607.79; 566755.67, 3359612.91; 566762.38, 3359614.63; 566768.78, 3359612.86; 566769.68, 3359624.37; 566776.20, 3359634.02; 566785.38, 3359632.25; 566791.21, 3359621.34; 566798.09, 3359616.70; 566798.09, 3359600.10; 566808.53, 3359596.36; 566808.81, 3359600.68; 566806.58, 3359613.67; 566808.43, 3359619.27; 566814.99, 3359607.63; 566822.53, 3359592.34; 566832.09, 3359594.07; 566838.75, 3359595.11; 566845.02, 3359601.14; 566851.32, 3359604.04; 566858.26, 3359596.72; 566850.89, 3359589.36; 566856.96, 3359581.71; 566866.92, 3359583.83; 566871.58, 3359579.76; 566878.41, 3359581.86; 566876.19, 3359591.30; 566881.79, 3359589.44; 566892.86, 3359591.71; 566898.51, 3359588.29; 566905.50, 3359578.98; 566908.58, 3359582.61; 566911.27, 3359586.61; 566916.76, 3359589.12; 566922.14, 3359580.95; 566923.84, 3359595.54; 566927.67, 3359601.56; 566939.11, 3359601.22; 566943.33, 3359594.46; 566942.16, 3359577.76; 566945.13, 3359569.91; 566950.16, 3359561.92; 566960.68, 3359564.80; 566966.04, 3359572.92; 566959.75, 3359589.68; 566965.24, 3359588.76; 566973.74, 3359583.04; 566974.08, 3359572.62; 566984.40, 3359569.38; 566988.15, 3359562.73; 566992.21, 3359559.28; 567001.94, 3359556.58; 567009.84, 3359552.97; 567013.14, 3359547.93; 567017.66, 3359542.11; 567023.62, 3359537.33; 567030.54, 3359535.69; 567040.91, 3359533.76; 567048.88, 3359532.65; 567058.22, 3359530.26; 567067.51, 3359534.61; 567072.06, 3359527.17; 567070.39, 3359519.95; 567077.43, 3359519.00; 567083.43, 3359517.15; 567089.12, 3359512.48; 567101.64, 3359520.41; 567105.07, 3359510.13; 567099.68, 3359503.32; 567091.97, 3359504.63; 567086.87, 3359496.57; 567089.29, 3359489.58; 567088.41, 3359476.82; 567091.79, 3359468.98; 567093.09, 3359459.77; 567097.22, 3359453.25; 567101.39, 3359445.43; 567110.68, 3359444.35; 567104.55, 3359451.06; 567106.66, 3359462.60; 567115.29, 3359466.44; 567121.66, 3359466.16; 567129.91, 3359469.55; 567125.86, 3359473.00; 567120.59, 3359477.24; 567114.20, 3359478.65; 567103.44, 3359480.00; 567100.91, 3359485.50; 567108.05, 3359497.10; 567116.84, 3359500.12; 567115.39, 3359510.83; 567109.00, 3359511.67; 567108.87, 3359516.97; 567107.43, 3359522.18; 567101.93, 3359529.97; 567096.53, 3359533.83; 567092.46, 3359537.66; 567084.32, 3359545.39; 567077.55, 3359551.84; 567072.48, 3359558.14; 567070.76, 3359563.59; 567069.02, 3359569.54; 567066.34, 3359576.66; 567065.06, 3359588.36; 567071.52, 3359580.78; 567072.85, 3359580.81; 567078.15, 3359580.95; 567081.99, 3359586.35; 567083.65, 3359591.20; 567094.34, 3359593.02; 567093.28, 3359603.73; 567097.95, 3359607.41; 567103.62, 3359603.55; 567111.89, 3359606.13; 567118.35, 3359602.36; 567123.83, 3359605.24; 567136.11, 3359604.11; 567132.95, 3359614.02; 567130.16, 3359619.25; 567129.93, 3359628.49; 567126.31, 3359633.45; 567121.70, 3359640.15; 567114.99, 3359643.97; 567109.69, 3359643.84; 567106.12, 3359646.44; 567109.02, 3359654.94; 567106.65, 3359659.62; 567101.22, 3359664.73; 567097.77, 3359675.70; 567092.53, 3359679.13; 567081.45, 3359676.85; 567077.27, 3359669.45; 567074.69, 3359666.76; 567077.54, 3359661.59; 567070.98, 3359656.06; 567065.75, 3359653.30; 567061.68, 3359657.20; 567068.18, 3359667.41; 567062.91, 3359671.65; 567055.04, 3359668.71; 567049.31, 3359675.37; 567052.26, 3359684.50; 567051.41, 3359689.47; 567055.71, 3359692.76; 567062.54, 3359689.74; 567075.36, 3359684.94; 567083.29, 3359685.89; 567089.18, 3359688.47; 567093.41, 3359691.45; 567104.25, 3359690.03; 567114.10, 3359693.40; 567127.94, 3359696.17; 567145.64, 3359703.29; 567153.89, 3359706.68; 567160.26, 3359703.40; 567167.58, 3359696.47; 567158.87, 3359695.07; 567149.41, 3359692.02; 567151.91, 3359687.71; 567160.59, 3359690.30; 567160.42, 3359680.81; 567155.48, 3359671.95; 567148.54, 3359679.14; 567128.18, 3359683.19; 567123.30, 3359671.96; 567125.08, 3359664.01; 567119.85, 3359650.84; 567129.96, 3359643.97; 567137.95, 3359642.17; 567146.73, 3359640.02; 567156.29, 3359639.07; 567161.61, 3359632.89; 567169.89, 3359635.85; 567170.34, 3359648.97; 567170.21, 3359654.52; 567164.91, 3359659.76; 567160.71, 3359668.89; 567164.62, 3359671.61; 567168.59, 3359671.71; 567176.60, 3359669.29; 567180.70, 3359664.08; 567188.67, 3359662.97; 567196.58, 3359664.66; 567204.55, 3359663.67; 567212.47, 3359664.68; 567208.16, 3359678.00; 567209.29, 3359685.95; 567215.84, 3359688.74; 567221.24, 3359684.94; 567226.61, 3359682.39; 567241.70, 3359671.71; 567253.60, 3359661.96; 567262.83, 3359663.50; 567266.11, 3359664.39; 567268.08, 3359665.25; 567272.76, 3359668.92; 567281.23, 3359669.20; 567282.11, 3359676.27; 567278.12, 3359687.66; 567283.44, 3359686.48; 567291.42, 3359685.30; 567298.29, 3359680.67; 567307.44, 3359680.08; 567311.32, 3359683.74; 567320.47, 3359688.77; 567327.58, 3359690.13; 567325.57, 3359696.76; 567326.77, 3359706.41; 567331.89, 3359708.78; 567340.31, 3359719.23; 567344.35, 3359718.70; 567343.28, 3359730.23; 567335.20, 3359735.33; 567341.69, 3359740.74; 567337.45, 3359751.25; 567342.76, 3359750.82; 567350.47, 3359744.26; 567357.45, 3359750.74; 567363.86, 3359749.34; 567361.51, 3359742.54; 567364.43, 3359732.06; 567364.76, 3359718.84; 567370.55, 3359703.50; 567375.13, 3359695.31; 567385.73, 3359700.69; 567385.00, 3359711.66; 567380.93, 3359715.49; 567384.00, 3359719.94; 567393.82, 3359710.44; 567396.98, 3359701.16; 567397.46, 3359691.87; 567404.08, 3359681.54; 567409.53, 3359684.11; 567416.93, 3359689.41; 567420.35, 3359696.24; 567424.94, 3359695.23; 567430.29, 3359692.74; 567436.19, 3359698.26; 567445.34, 3359697.67; 567451.27, 3359701.19; 567460.57, 3359700.11; 567462.02, 3359694.84; 567466.12, 3359689.64; 567472.81, 3359687.18; 567480.82, 3359684.76; 567483.56, 3359680.83; 567488.04, 3359676.32; 567484.67, 3359667.87; 567476.11, 3359660.85; 567476.24, 3359655.55; 567481.06, 3359653.11; 567483.20, 3359646.86; 567483.21, 3359646.67; 567488.35, 3359647.92; 567492.26, 3359650.64; 567498.67, 3359658.73; 567504.24, 3359648.32; 567505.56, 3359648.35; 567510.72, 3359653.78; 567513.24, 3359659.09; 567513.01, 3359668.39; 567515.48, 3359669.13; 567519.47, 3359668.42; 567521.78, 3359671.66; 567528.93, 3359667.41; 567536.87, 3359667.60; 567540.81, 3359669.08; 567547.18, 3359672.73; 567553.97, 3359672.02; 567557.90, 3359673.43; 567562.18, 3359676.22; 567564.55, 3359677.09; 567569.72, 3359677.72; 567572.81, 3359680.48; 567579.04, 3359685.76; 567581.30, 3359691.18; 567587.86, 3359694.03; 567594.34, 3359699.43; 567599.81, 3359692.95; 567592.45, 3359689.27; 567582.81, 3359677.55; 567581.89, 3359667.41; 567581.31, 3359661.78; 567576.76, 3359652.99; 567574.61, 3359640.82; 567577.55, 3359637.52; 567580.84, 3359632.86; 567586.14, 3359627.44; 567590.92, 3359624.06; 567596.95, 3359620.40; 567602.95, 3359618.99; 567607.32, 3359618.72; 567612.26, 3359617.97; 567616.93, 3359615.78; 567624.90, 3359614.79; 567631.46, 3359606.59; 567629.97, 3359598.56; 567635.74, 3359594.02; 567636.88, 3359586.87; 567642.27, 3359583.01; 567650.31, 3359579.27; 567655.63, 3359578.09; 567655.38, 3359577.96; 567658.23, 3359576.78; 567657.73, 3359565.28; 567661.36, 3359561.07; 567667.97, 3359561.23; 567675.94, 3359567.73; 567685.97, 3359563.61; 567685.28, 3359557.66; 567678.65, 3359554.32; 567671.40, 3359542.65; 567679.42, 3359539.67; 567685.12, 3359533.88; 567692.22, 3359544.60; 567696.26, 3359542.08; 567701.65, 3359538.28; 567705.69, 3359535.70; 567715.09, 3359530.69; 567722.15, 3359531.24; 567727.13, 3359525.68; 567726.00, 3359517.72; 567735.60, 3359517.27; 567738.91, 3359511.80; 567747.41, 3359509.01; 567755.35, 3359509.21; 567763.30, 3359505.29; 567767.46, 3359501.58; 567768.84, 3359498.93; 567774.24, 3359495.13; 567778.28, 3359492.61; 567779.70, 3359488.65; 567779.72, 3359484.34; 567785.47, 3359476.87; 567792.63, 3359476.30; 567796.86, 3359482.71; 567802.28, 3359488.02; 567807.50, 3359489.34; 567811.63, 3359482.83; 567814.54, 3359474.03; 567820.17, 3359471.80; 567823.87, 3359469.96; 567827.94, 3359466.06; 567834.62, 3359463.61; 567837.68, 3359454.38; 567838.25, 3359447.28; 567845.47, 3359445.08; 567855.49, 3359441.34; 567865.49, 3359450.01; 567868.34, 3359447.34; 567871.60, 3359444.23; 567878.11, 3359439.09; 567893.50, 3359427.17; 567901.18, 3359405.57; 567915.33, 3359404.49; 567921.74, 3359403.65; 567924.78, 3359406.35; 567928.72, 3359407.76; 567937.94, 3359409.36; 567943.27, 3359408.12; 567949.13, 3359403.95; 567956.36, 3359400.95; 567963.23, 3359396.38; 567974.51, 3359406.14; 567981.54, 3359411.06; 567988.22, 3359414.04; 567996.06, 3359416.04; 568006.87, 3359407.07; 568013.73, 3359398.00; 568021.83, 3359391.59; 568026.34, 3359382.46; 568032.78, 3359379.81; 568042.37, 3359376.93; 568050.04, 3359372.31; 568057.29, 3359368.55; 568064.19, 3359362.80; 568069.51, 3359356.19; 568074.71, 3359354.69; 568076.43, 3359349.61; 568080.93, 3359344.17; 568076.61, 3359326.65; 568078.36, 3359319.95; 568084.88, 3359313.74; 568091.20, 3359315.08; 568091.58, 3359321.65; 568100.92, 3359323.63; 568103.50, 3359315.39; 568110.00, 3359309.99; 568117.65, 3359305.44; 568122.25, 3359296.81; 568136.01, 3359302.71; 568145.15, 3359302.56; 568150.81, 3359319.93; 568154.05, 3359328.13; 568162.30, 3359331.52; 568167.18, 3359327.27; 568173.23, 3359329.23; 568177.96, 3359325.16; 568180.88, 3359319.30; 568179.09, 3359311.33; 568184.05, 3359303.90; 568195.39, 3359311.30; 568202.99, 3359308.74; 568209.09, 3359303.34; 568219.26, 3359293.66; 568226.04, 3359292.64; 568232.53, 3359287.69; 568242.07, 3359287.11; 568249.36, 3359282.11; 568258.78, 3359270.86; 568276.45, 3359271.05; 568277.81, 3359269.77; 568280.52, 3359267.21; 568284.55, 3359264.63; 568291.21, 3359263.48; 568298.57, 3359252.05; 568310.99, 3359247.99; 568322.39, 3359230.86; 568333.04, 3359234.06; 568341.36, 3359234.51; 568349.30, 3359246.76; 568359.25, 3359246.19; 568368.20, 3359241.54; 568373.32, 3359235.05; 568379.54, 3359233.46; 568380.81, 3359225.75; 568391.01, 3359219.51; 568392.87, 3359211.88; 568397.55, 3359211.75; 568401.93, 3359211.85; 568404.35, 3359209.92; 568406.44, 3359206.47; 568411.67, 3359203.36; 568412.19, 3359198.12; 568422.24, 3359194.13; 568427.50, 3359189.89; 568435.26, 3359180.97; 568442.88, 3359178.35; 568458.46, 3359170.99; 568448.78, 3359156.46; 568450.69, 3359152.01; 568456.44, 3359144.60; 568463.30, 3359145.02; 568471.81, 3359145.54; 568479.71, 3359152.48; 568489.24, 3359150.41; 568498.85, 3359145.90; 568509.62, 3359146.73; 568517.29, 3359142.17; 568526.09, 3359139.58; 568530.00, 3359132.44; 568542.02, 3359125.68; 568549.31, 3359118.75; 568555.07, 3359120.26; 568556.25, 3359126.03; 568566.21, 3359123.97; 568572.25, 3359120.94; 568575.49, 3359114.65; 568580.41, 3359107.72; 568589.39, 3359102.70; 568599.61, 3359091.09; 568607.18, 3359079.98; 568616.89, 3359070.73; 568626.72, 3359071.16; 568620.17, 3359078.93; 568616.78, 3359083.34; 568618.68, 3359086.94; 568627.80, 3359087.98; 568639.23, 3359079.40; 568645.36, 3359072.37; 568649.46, 3359067.35; 568658.49, 3359067.70; 568664.81, 3359069.05; 568672.36, 3359073.04; 568685.79, 3359065.32; 568703.74, 3359070.01; 568720.20, 3359066.30; 568729.30, 3359068.52; 568741.18, 3359065.82; 568751.32, 3359061.58; 568766.47, 3359062.64; 568775.62, 3359059.00; 568774.76, 3359045.86; 568777.29, 3359035.75; 568784.70, 3359029.07; 568788.54, 3359034.35; 568796.44, 3359036.48; 568806.40, 3359035.16; 568809.90, 3359038.43; 568804.90, 3359047.80; 568810.21, 3359058.23; 568816.45, 3359062.38; 568820.42, 3359062.48; 568819.17, 3359080.68; 568827.50, 3359093.68; 568833.58, 3359092.52; 568840.13, 3359085.13; 568846.51, 3359085.91; 568865.47, 3359086.38; 568875.01, 3359084.25; 568887.07, 3359082.74; 568895.87, 3359080.58; 568899.00, 3359072.98; 568913.55, 3359074.15; 568912.83, 3359081.13; 568919.17, 3359082.10; 568932.00, 3359081.48; 568937.68, 3359076.87; 568945.62, 3359077.07; 568948.03, 3359075.57; 568949.75, 3359070.81; 568954.98, 3359068.19; 568958.61, 3359065.47; 568962.49, 3359069.19; 568970.28, 3359079.18; 568973.60, 3359079.76; 568982.97, 3359076.44; 568994.88, 3359073.24; 569003.68, 3359071.08; 569013.60, 3359071.33; 569024.45, 3359066.48; 569036.83, 3359063.60; 569045.98, 3359064.39; 569061.09, 3359068.32; 569067.18, 3359075.53; 569073.20, 3359085.79; 569080.44, 3359083.72; 569091.15, 3359084.74; 569098.46, 3359094.03; 569104.56, 3359088.25; 569113.73, 3359103.15; 569122.34, 3359108.55; 569130.23, 3359110.68; 569134.04, 3359101.28; 569143.68, 3359097.15; 569149.11, 3359090.05; 569160.85, 3359093.65; 569167.43, 3359078.76; 569173.94, 3359078.49; 569175.05, 3359065.84; 569165.82, 3359069.17; 569162.86, 3359060.73; 569161.87, 3359052.41; 569166.87, 3359043.42; 569172.30, 3359032.44; 569178.14, 3359037.33; 569183.75, 3359035.91; 569185.69, 3359021.28; 569192.06, 3359021.07; 569200.85, 3359018.48; 569204.76, 3359005.53; 569213.14, 3359003.74; 569222.34, 3359001.59; 569228.00, 3358997.36; 569237.65, 3358993.23; 569238.59, 3358986.57; 569247.74, 3358985.99; 569255.56, 3358975.51; 569268.78, 3358971.03; 569281.88, 3358971.35; 569292.19, 3358972.42; 569304.36, 3358978.28; 569317.98, 3358989.73; 569327.97, 3359003.84; 569332.55, 3359011.44; 569337.71, 3358995.71; 569349.88, 3358985.71; 569355.93, 3358981.93; 569347.60, 3358965.43; 569344.29, 3358954.24; 569345.86, 3358939.23; 569357.11, 3358934.39; 569371.89, 3358930.76; 569379.31, 3358920.65; 569374.06, 3358907.84; 569373.03, 3358885.22; 569379.64, 3358890.94; 569403.04, 3358892.70; 569412.17, 3358892.93; 569420.09, 3358894.31; 569434.80, 3358893.87; 569439.47, 3358887.68; 569457.89, 3358891.69; 569467.91, 3358888.38; 569478.65, 3358887.46; 569490.77, 3358879.46; 569498.23, 3358867.35; 569514.46, 3358853.89; 569518.14, 3358849.99; 569516.31, 3358842.83; 569520.92, 3358833.76; 569530.46, 3358834.00; 569537.11, 3358837.35; 569535.18, 3358851.60; 569540.96, 3358858.86; 569550.19, 3358855.09; 569558.23, 3358851.36; 569570.64, 3358847.29; 569576.51, 3358835.14; 569585.66, 3358834.62; 569588.74, 3358838.25; 569598.21, 3358825.38; 569603.33, 3358842.99; 569607.06, 3358852.57; 569616.34, 3358846.87; 569625.86, 3358847.85; 569630.28, 3358842.72; 569628.21, 3358833.24; 569643.31, 3358832.87; 569653.06, 3358824.37; 569659.58, 3358817.79; 569665.63, 3358814.00; 569672.70, 3358817.36; 569677.60, 3358812.80; 569685.08, 3358805.56; 569694.25, 3358804.23; 569700.79, 3358796.46; 569710.28, 3358791.70; 569719.53, 3358787.19; 569724.94, 3358777.83; 569731.28, 3358768.62; 569740.40, 3358770.10; 569749.66, 3358780.63; 569759.59, 3358773.95; 569760.91, 3358769.17; 569766.94, 3358766.57; 569771.79, 3358769.63; 569780.51, 3358770.28; 569789.67, 3358769.32; 569781.73, 3358757.39; 569770.69, 3358750.19; 569764.62, 3358747.91; 569762.79, 3358741.50; 569761.01, 3358733.15; 569767.39, 3358732.13; 569776.89, 3358733.55; 569786.07, 3358731.78; 569795.31, 3358727.64; 569805.85, 3358727.65; 569802.99, 3358738.50; 569806.11, 3358747.51; 569815.67, 3358746.56; 569818.72, 3358751.82; 569823.09, 3358751.49; 569835.19, 3358744.30; 569845.79, 3358733.82; 569854.61, 3358714.25; 569869.71, 3358708.07; 569883.10, 3358696.54; 569894.67, 3358701.32; 569900.54, 3358704.65; 569904.22, 3358716.67; 569912.36, 3358725.17; 569921.33, 3358731.76; 569941.21, 3358731.07; 569952.98, 3358730.36; 569971.91, 3358720.16; 569989.89, 3358715.80; 570005.43, 3358711.31; 570014.92, 3358711.55; 570029.91, 3358704.49; 570046.68, 3358701.35; 570056.73, 3358702.60; 570060.75, 3358717.37; 570062.95, 3358724.16; 570056.30, 3358736.30; 570055.27, 3358745.76; 570052.43, 3358757.43; 570047.12, 3358763.22; 570040.19, 3358771.98; 570025.65, 3358779.36; 570014.22, 3358778.08; 570002.05, 3358786.27; 569991.23, 3358791.80; 569985.56, 3358795.66; 569982.86, 3358806.83; 569976.50, 3358807.04; 569966.39, 3358815.35; 569967.67, 3358828.11; 569972.31, 3358833.35; 569977.35, 3358838.22; 569979.41, 3358849.94; 569980.31, 3358863.26; 569988.15, 3358867.45; 569992.72, 3358875.12; 569999.76, 3358880.04; 570002.18, 3358893.96; 570009.05, 3358889.38; 570014.73, 3358885.15; 570022.97, 3358888.92; 570026.33, 3358897.74; 570024.44, 3358907.74; 570027.86, 3358916.38; 570035.25, 3358922.12; 570046.29, 3358925.95; 570055.89, 3358923.07; 570059.68, 3358930.28; 570056.12, 3358946.05; 570053.39, 3358960.21; 570054.14, 3358963.23; 570141.94, 3358960.73; 570165.76, 3358960.01; 570201.75, 3358958.96; 570214.42, 3358955.10; 570225.12, 3358940.32; 570216.28, 3358928.23; 570206.38, 3358927.18; 570194.24, 3358888.05; 570182.00, 3358852.41; 570158.21, 3358802.69; 570163.02, 3358785.76; 570172.41, 3358770.14; 570181.66, 3358765.63; 570199.91, 3358766.52; 570207.46, 3358750.85; 570208.09, 3358725.89; 570220.86, 3358707.17; 570221.95, 3358679.04; 570220.12, 3358659.83; 570221.16, 3358646.87; 570227.53, 3358631.73; 570250.76, 3358607.59; 570269.11, 3358604.48; 570276.22, 3358590.36; 570291.00, 3358587.17; 570300.39, 3358583.35; 570300.19, 3358576.23; 570306.07, 3358565.57; 570314.25, 3358553.79; 570337.83, 3358540.89; 570360.75, 3358539.21; 570372.73, 3358539.88; 570377.74, 3358534.76; 570389.42, 3358532.43; 570390.36, 3358539.95; 570400.52, 3358538.33; 570402.03, 3358547.54; 570418.71, 3358547.95; 570431.40, 3358548.83; 570448.32, 3358532.39; 570464.51, 3358529.80; 570484.36, 3358522.11; 570508.06, 3358522.70; 570523.65, 3358530.33; 570533.78, 3358537.51; 570547.24, 3358540.40; 570550.02, 3358552.09; 570563.87, 3358566.66; 570575.43, 3358578.75; 570572.14, 3358593.40; 570586.86, 3358595.57; 570589.95, 3358611.63; 570598.39, 3358623.77; 570606.41, 3358637.45; 570620.29, 3358638.54; 570622.88, 3358629.93; 570611.70, 3358615.79; 570613.84, 3358609.85; 570622.89, 3358597.41; 570632.97, 3358591.29; 570642.98, 3358588.41; 570647.28, 3358575.41; 570645.22, 3358562.69; 570666.18, 3358550.53; 570683.03, 3358550.95; 570707.07, 3358551.92; 570714.69, 3358548.55; 570720.86, 3358546.90; 570723.46, 3358537.47; 570728.64, 3358531.05; 570735.60, 3358525.98; 570742.30, 3358520.96; 570752.86, 3358518.97; 570758.93, 3358511.20; 570761.24, 3358498.27; 570777.25, 3358503.54; 570788.54, 3358501.94; 570798.49, 3358493.58; 570803.23, 3358484.33; 570802.02, 3358472.69; 570800.39, 3358462.53; 570805.78, 3358457.05; 570819.94, 3358455.90; 570817.35, 3358451.02; 570816.26, 3358447.57; 570816.27, 3358444.28; 570817.38, 3358440.25; 570819.28, 3358437.45; 570822.09, 3358435.08; 570822.05, 3358430.46; 570816.02, 3358422.78; 570816.99, 3358400.86; 570821.78, 3358399.62; 570821.51, 3358367.23; 570808.96, 3358371.10; 570752.55, 3358386.75; 570713.25, 3358399.50; 570698.53, 3358399.51; 570682.03, 3358408.22; 570657.99, 3358416.30; 570643.11, 3358423.48; 570605.59, 3358430.86; 570563.46, 3358447.29; 570493.08, 3358465.33; 570450.71, 3358475.77; 570387.62, 3358488.13; 570341.70, 3358497.29; 570304.13, 3358506.66; 570273.73, 3358514.20; 570233.75, 3358524.32; 570180.16, 3358538.85; 570083.36, 3358561.80; 570019.79, 3358580.45; 569981.14, 3358590.10; 569931.31, 3358608.03; 569870.54, 3358627.37; 569792.61, 3358653.84; 569722.34, 3358674.20; 569642.36, 3358695.69; 569572.77, 3358713.75; 569497.38, 3358730.73; 569436.94, 3358747.59; 569394.24, 3358760.01; 569347.88, 3358774.22; 569302.09, 3358785.38; 569250.30, 3358801.70; 569196.40, 3358811.98; 569128.99, 3358829.35; 569061.75, 3358838.67; 569020.65, 3358852.13; 568976.01, 3358866.63; 568926.65, 3358881.45; 568841.81, 3358904.38; 568816.95, 3358911.19; 568788.94, 3358918.30; 568759.41, 3358923.81; 568662.35, 3358944.88; 568594.23, 3358963.17; 568494.12, 3358984.91; 568449.11, 3358998.65; 568375.33, 3359015.48; 568340.59, 3359028.42; 568300.76, 3359038.36; 568288.55, 3359040.43; 568264.53, 3359045.32; 568245.99, 3359049.92; 568221.28, 3359055.36; 568189.60, 3359063.75; 568131.92, 3359074.75; 568076.31, 3359090.04; 568009.05, 3359110.53; 567868.23, 3359153.24; 567809.17, 3359170.50; 567772.62, 3359178.02; 567722.56, 3359186.46; 567704.35, 3359186.94; 567651.09, 3359200.29; 567612.66, 3359207.21; 567574.40, 3359222.36; 567529.41, 3359236.23; 567413.69, 3359263.39; 567376.61, 3359268.78; 567303.40, 3359285.25; 567285.49, 3359287.31; 567247.60, 3359295.36; 567207.25, 3359304.66; 567178.84, 3359307.45; 567144.88, 3359314.91; 567124.10, 3359320.33; 567116.86, 3359323.33; 567077.96, 3359337.85; 567039.54, 3359349.19; 567008.77, 3359356.36; 566954.05, 3359367.68; 566901.73, 3359377.87; 566869.14, 3359379.43; 566804.88, 3359395.63; 566731.05, 3359408.41; 566659.48, 3359420.49; 566599.85, 3359435.12; 566533.59, 3359452.33; 566508.37, 3359458.26; 566474.02, 3359464.90; 566429.64, 3359472.29; 566385.93, 3359489.31; 566317.41, 3359506.53; 566252.75, 3359518.41; 566147.85, 3359547.84; 566031.36, 3359570.36; 565888.43, 3359598.53; 565780.65, 3359618.90; 565652.01, 3359643.80; 565651.96, 3359831.90; 565685.98, 3359831.99; 565680.20, 3359820.48; 565689.37, 3359818.78; 565685.29, 3359804.94; 565687.47, 3359797.07; 565695.58, 3359790.53; 565704.67, 3359792.37; 565699.72, 3359799.81; 565700.65, 3359810.13; 565706.96, 3359812.22; 565710.35, 3359803.63; 565718.65, 3359805.02; 565732.53, 3359806.11; 565733.15, 3359797.45; 565729.36, 3359790.18; 565735.20, 3359778.83; 565743.57, 3359777.86; 565753.55, 3359776.11; 565760.20, 3359779.89; 565762.80, 3359787.07; 565763.01, 3359795.01; 565782.95, 3359791.94; 565790.71, 3359783.39; 565795.06, 3359784.31; 565798.93, 3359788.34; 565803.29, 3359788.89; 565805.64, 3359774.27; 565817.65, 3359770.58; 565821.86, 3359776.61; 565821.89, 3359791.72; 565823.78, 3359795.70; 565831.82, 3359791.97; 565835.19, 3359799.98; 565827.81, 3359809.28; 565825.68, 3359823.03; 565818.60, 3359827.72; 565815.23, 3359835.57; 565811.05, 3359844.14; 565800.72, 3359844.32; 565806.58, 3359831.73; 565806.39, 3359823.80; 565800.39, 3359825.65; 565791.31, 3359832.23; 565790.73, 3359965.00; 565794.10, 3359966.64; 565800.08, 3359965.60; 565802.65, 3359958.49; 565795.62, 3359953.19; 565794.59, 3359946.80; 565799.11, 3359940.98; 565810.46, 3359931.77; 565816.56, 3359926.37; 565813.11, 3359921.10; 565808.73, 3359921.43; 565804.92, 3359914.97; 565801.72, 3359916.08; 565799.16, 3359906.90; 565799.00, 3359896.97; 565804.72, 3359890.80; 565811.94, 3359888.17; 565825.15, 3359884.13; 565832.42, 3359879.57; 565834.64, 3359870.51; 565830.58, 3359857.36; 565833.57, 3359849.07; 565825.09, 3359838.56; 565828.98, 3359826.36; 565830.17, 3359821.83; 565836.65, 3359805.13; 565854.19, 3359803.20; 565851.86, 3359817.00; 565841.55, 3359820.05; 565848.97, 3359825.79; 565855.66, 3359823.83; 565862.79, 3359824.45; 565865.29, 3359819.76; 565871.03, 3359812.73; 565870.42, 3359805.22; 565862.06, 3359806.20; 565863.51, 3359795.50; 565869.25, 3359788.15; 565880.41, 3359787.18; 565887.77, 3359794.54; 565890.52, 3359800.29; 565902.17, 3359795.39; 565901.83, 3359788.15; 565897.88, 3359791.73; 565892.34, 3359791.16; 565893.18, 3359784.37; 565896.94, 3359777.29; 565908.13, 3359778.87; 565913.37, 3359787.62; 565918.51, 3359788.56; 565924.92, 3359791.21; 565926.84, 3359805.43; 565928.47, 3359808.34; 565933.65, 3359807.66; 565941.68, 3359799.81; 565947.97, 3359802.34; 565953.65, 3359813.59; 565947.29, 3359818.30; 565949.58, 3359821.92; 565959.37, 3359827.34; 565967.36, 3359821.48; 565970.73, 3359813.64; 565968.65, 3359801.66; 565973.88, 3359798.67; 565982.85, 3359789.72; 566001.47, 3359791.80; 566006.85, 3359783.19; 566001.29, 3359782.68; 565994.99, 3359780.90; 565992.50, 3359784.84; 565984.16, 3359784.63; 565978.70, 3359780.50; 565971.90, 3359766.47; 565971.27, 3359743.86; 565979.31, 3359740.12; 565976.79, 3359733.82; 565983.11, 3359731.48; 565991.75, 3359734.87; 565987.17, 3359747.93; 565978.22, 3359756.45; 565989.89, 3359750.81; 565996.64, 3359750.98; 566002.19, 3359746.62; 566009.60, 3359736.13; 566017.53, 3359736.70; 566020.58, 3359742.33; 566022.98, 3359741.58; 566033.09, 3359734.28; 566038.76, 3359730.11; 566038.45, 3359710.62; 566049.91, 3359712.91; 566053.39, 3359701.13; 566059.27, 3359704.40; 566067.41, 3359712.15; 566076.89, 3359714.76; 566079.86, 3359706.53; 566085.53, 3359702.68; 566093.37, 3359706.87; 566100.60, 3359703.49; 566090.16, 3359692.49; 566109.25, 3359691.78; 566116.24, 3359697.88; 566134.76, 3359704.33; 566149.43, 3359703.76; 566160.29, 3359699.78; 566177.36, 3359700.64; 566185.82, 3359696.05; 566191.34, 3359697.81; 566194.22, 3359693.51; 566201.28, 3359702.11; 566223.45, 3359700.54; 566232.35, 3359694.08; 566233.75, 3359701.23; 566227.98, 3359710.20; 566227.00, 3359717.29; 566237.33, 3359717.18; 566248.03, 3359718.63; 566248.59, 3359728.13; 566257.83, 3359723.61; 566260.76, 3359733.61; 566263.87, 3359736.87; 566271.06, 3359735.05; 566278.21, 3359735.23; 566281.65, 3359724.58; 566287.68, 3359721.61; 566292.96, 3359716.93; 566298.59, 3359714.32; 566297.66, 3359704.00; 566302.56, 3359698.94; 566312.40, 3359702.74; 566310.51, 3359714.24; 566308.43, 3359718.13; 566303.01, 3359728.73; 566299.97, 3359738.95; 566295.81, 3359746.34; 566290.20, 3359747.83; 566286.49, 3359753.67; 566282.39, 3359758.75; 566276.79, 3359760.17; 566274.93, 3359754.94; 566268.58, 3359755.22; 566266.80, 3359762.29; 566264.26, 3359768.97; 566258.87, 3359761.72; 566253.21, 3359766.32; 566244.00, 3359768.47; 566238.34, 3359772.70; 566234.55, 3359765.49; 566228.78, 3359773.65; 566229.23, 3359787.52; 566225.10, 3359793.78; 566218.15, 3359801.54; 566214.41, 3359808.56; 566197.00, 3359805.39; 566186.29, 3359804.68; 566176.42, 3359802.07; 566169.84, 3359795.16; 566172.13, 3359782.92; 566167.53, 3359776.50; 566161.53, 3359778.29; 566159.80, 3359783.80; 566161.88, 3359795.40; 566163.33, 3359801.37; 566177.40, 3359810.39; 566192.44, 3359813.20; 566201.15, 3359814.17; 566201.74, 3359822.55; 566200.26, 3359834.00; 566191.16, 3359832.96; 566183.80, 3359841.08; 566176.58, 3359843.71; 566166.59, 3359845.83; 566151.13, 3359844.64; 566146.26, 3359848.89; 566143.26, 3359857.55; 566135.93, 3359849.07; 566124.37, 3359850.34; 566114.08, 3359848.90; 566115.45, 3359841.82; 566104.26, 3359844.66; 566097.94, 3359842.57; 566093.44, 3359848.02; 566080.02, 3359859.92; 566077.12, 3359865.40; 566070.81, 3359862.88; 566063.14, 3359868.24; 566055.56, 3359869.24; 566047.69, 3359866.30; 566042.14, 3359865.35; 566031.51, 3359866.40; 566035.65, 3359871.12; 566023.28, 3359889.04; 566016.16, 3359888.12; 566000.73, 3359885.36; 565992.06, 3359887.21; 565988.49, 3359898.10; 565982.89, 3359904.40; 565979.53, 3359923.23; 565971.58, 3359923.47; 565966.38, 3359924.90; 565961.82, 3359931.97; 565950.74, 3359930.44; 565939.52, 3359934.54; 565930.02, 3359932.74; 565925.20, 3359934.62; 565917.61, 3359936.80; 565919.03, 3359943.14; 565910.76, 3359940.56; 565901.95, 3359943.16; 565897.83, 3359948.98; 565893.15, 3359945.31; 565895.07, 3359932.25; 565892.50, 3359923.88; 565885.12, 3359933.19; 565878.54, 3359942.14; 565873.40, 3359940.83; 565868.60, 3359942.70; 565863.51, 3359939.02; 565861.17, 3359937.40; 565854.17, 3359936.10; 565848.77, 3359941.03; 565849.34, 3359949.78; 565841.97, 3359958.71; 565836.31, 3359962.94; 565831.27, 3359957.64; 565824.16, 3359955.90; 565815.47, 3359958.93; 565818.74, 3359966.44; 565810.39, 3359966.61; 565805.01, 3359963.48; 565803.87, 3359973.19; 565796.93, 3359976.51; 565790.70, 3359979.73; 565790.59, 3360018.31; 568291.70, 3359192.83; 568289.08, 3359186.39; 568292.81, 3359180.56; 568297.27, 3359176.67; 568301.55, 3359180.77; 568308.06, 3359174.19; 568316.56, 3359167.66; 568318.32, 3359160.96; 568312.08, 3359155.94; 568316.85, 3359149.88; 568317.95, 3359137.61; 568313.40, 3359128.75; 568318.67, 3359124.95; 568326.18, 3359126.32; 568325.93, 3359120.39; 568316.51, 3359115.78; 568325.03, 3359108.88; 568334.09, 3359096.87; 568343.44, 3359103.34; 568347.32, 3359107.06; 568355.71, 3359104.83; 568362.03, 3359106.61; 568369.55, 3359107.61; 568371.34, 3359099.72; 568383.68, 3359098.41; 568395.52, 3359101.51; 568400.59, 3359105.94; 568398.76, 3359115.45; 568399.67, 3359129.21; 568407.56, 3359128.72; 568416.47, 3359122.19; 568421.34, 3359115.57; 568427.68, 3359118.54; 568429.09, 3359126.13; 568422.92, 3359134.65; 568417.62, 3359140.08; 568423.11, 3359142.59; 568426.90, 3359149.86; 568420.54, 3359150.45; 568420.00, 3359155.62; 568422.68, 3359160.05; 568422.52, 3359166.36; 568417.14, 3359174.96; 568410.40, 3359174.42; 568400.91, 3359173.00; 568397.17, 3359179.21; 568398.26, 3359185.98; 568391.87, 3359185.01; 568384.47, 3359178.52; 568371.99, 3359185.33; 568360.35, 3359185.04; 568357.68, 3359196.77; 568355.63, 3359204.34; 568348.09, 3359201.28; 568335.44, 3359201.09; 568328.83, 3359212.66; 568319.93, 3359217.75; 568309.12, 3359227.34; 568307.13, 3359217.18; 568303.28, 3359212.34; 568295.11, 3359215.51; 568292.06, 3359210.63; 568297.79, 3359203.65; 568299.49, 3359199.33; 568291.70, 3359192.83; 568206.09, 3359190.45; 568202.65, 3359179.13; 568205.22, 3359171.64; 568216.88, 3359166.00; 568224.29, 3359155.45; 568243.23, 3359145.24; 568253.66, 3359140.76; 568266.45, 3359137.89; 568273.63, 3359142.19; 568280.09, 3359148.53; 568276.63, 3359159.93; 568263.70, 3359168.35; 568249.49, 3359170.56; 568242.21, 3359175.93; 568239.51, 3359182.79; 568229.69, 3359194.41; 568222.04, 3359198.22; 568213.38, 3359194.82; 568206.09, 3359190.45; 567709.01, 3359415.98; 567700.51, 3359422.14; 567695.08, 3359429.74; 567692.24, 3359435.04; 567686.99, 3359438.47; 567681.33, 3359450.57; 567677.26, 3359454.40; 567673.66, 3359463.11; 567668.57, 3359464.86; 567666.54, 3359450.57; 567658.46, 3359451.62; 567655.84, 3359460.67; 567650.38, 3359461.66; 567646.21, 3359453.19; 567641.39, 3359458.82; 567638.60, 3359463.99; 567633.43, 3359467.67; 567626.66, 3359472.56; 567621.67, 3359465.69; 567614.91, 3359465.53; 567611.15, 3359472.99; 567606.58, 3359481.18; 567599.27, 3359487.74; 567584.11, 3359490.11; 567573.58, 3359493.53; 567567.91, 3359498.13; 567559.57, 3359500.36; 567551.36, 3359496.85; 567551.15, 3359488.92; 567540.43, 3359484.78; 567537.11, 3359490.25; 567540.04, 3359500.63; 567535.32, 3359502.82; 567524.04, 3359509.28; 567515.45, 3359514.25; 567518.47, 3359517.01; 567509.31, 3359517.97; 567505.36, 3359517.06; 567498.57, 3359518.45; 567489.35, 3359521.84; 567480.49, 3359530.05; 567473.31, 3359533.99; 567468.08, 3359536.24; 567465.58, 3359540.98; 567474.80, 3359553.76; 567466.83, 3359554.87; 567460.84, 3359556.28; 567453.56, 3359555.92; 567446.88, 3359558.37; 567442.81, 3359562.20; 567438.74, 3359566.10; 567434.60, 3359572.61; 567427.99, 3359572.45; 567424.09, 3359569.67; 567424.22, 3359564.43; 567425.66, 3359559.16; 567421.40, 3359560.05; 567417.43, 3359559.95; 567414.31, 3359557.94; 567409.18, 3359556.63; 567408.40, 3359561.35; 567400.30, 3359567.77; 567392.36, 3359567.57; 567385.83, 3359563.48; 567383.28, 3359559.42; 567382.05, 3359555.45; 567379.15, 3359549.51; 567379.75, 3359541.60; 567378.61, 3359534.21; 567381.49, 3359525.04; 567384.57, 3359507.63; 567396.71, 3359498.82; 567402.44, 3359491.85; 567402.54, 3359485.73; 567407.22, 3359489.41; 567409.89, 3359493.40; 567416.77, 3359491.02; 567426.03, 3359486.06; 567432.19, 3359477.91; 567438.21, 3359475.25; 567438.82, 3359466.59; 567450.13, 3359458.94; 567450.14, 3359458.76; 567457.35, 3359456.87; 567463.93, 3359458.35; 567469.16, 3359461.16; 567473.00, 3359466.50; 567474.26, 3359469.22; 567472.80, 3359474.43; 567468.67, 3359480.94; 567468.57, 3359484.93; 567469.80, 3359488.90; 567476.31, 3359493.05; 567480.15, 3359498.39; 567481.12, 3359509.40; 567497.07, 3359506.99; 567502.78, 3359501.20; 567500.82, 3359484.48; 567504.59, 3359476.27; 567509.03, 3359474.01; 567513.10, 3359470.12; 567519.38, 3359472.65; 567532.75, 3359478.53; 567538.45, 3359472.74; 567545.65, 3359470.55; 567549.85, 3359461.54; 567552.73, 3359457.62; 567555.60, 3359454.13; 567558.43, 3359452.20; 567562.05, 3359450.36; 567565.68, 3359448.07; 567567.82, 3359442.13; 567571.13, 3359436.66; 567573.63, 3359432.41; 567580.07, 3359428.95; 567578.75, 3359421.55; 567582.72, 3359421.65; 567586.53, 3359424.37; 567591.87, 3359425.87; 567595.88, 3359424.66; 567602.27, 3359430.31; 567609.21, 3359439.60; 567618.47, 3359434.27; 567625.63, 3359434.08; 567633.02, 3359424.33; 567641.48, 3359420.17; 567650.53, 3359423.58; 567655.00, 3359419.32; 567659.45, 3359416.25; 567662.75, 3359411.21; 567666.48, 3359404.56; 567671.32, 3359401.94; 567679.77, 3359398.15; 567685.64, 3359401.48; 567692.02, 3359400.45; 567696.14, 3359394.62; 567695.60, 3359384.25; 567695.39, 3359376.75; 567689.01, 3359377.34; 567684.42, 3359370.92; 567687.43, 3359364.82; 567699.44, 3359361.12; 567707.48, 3359357.39; 567715.52, 3359353.59; 567721.38, 3359353.98; 567727.34, 3359353.76; 567731.00, 3359362.65; 567735.77, 3359366.64; 567738.03, 3359371.81; 567747.75, 3359376.11; 567748.27, 3359367.64; 567752.27, 3359366.42; 567757.69, 3359363.62; 567759.02, 3359358.10; 567763.11, 3359353.46; 567773.12, 3359350.15; 567772.36, 3359357.68; 567782.11, 3359356.68; 567787.19, 3359347.44; 567790.77, 3359343.84; 567797.22, 3359339.63; 567806.01, 3359336.04; 567811.21, 3359340.10; 567815.15, 3359341.51; 567819.18, 3359338.99; 567825.39, 3359337.21; 567828.47, 3359341.28; 567840.32, 3359340.83; 567841.74, 3359345.11; 567835.08, 3359347.00; 567834.91, 3359353.74; 567840.80, 3359356.63; 567841.74, 3359351.10; 567846.72, 3359350.22; 567845.26, 3359355.49; 567837.50, 3359361.73; 567835.43, 3359369.48; 567827.42, 3359380.15; 567822.07, 3359382.70; 567819.51, 3359378.64; 567808.83, 3359382.37; 567802.19, 3359383.52; 567796.76, 3359388.63; 567784.91, 3359387.65; 567778.03, 3359396.09; 567768.83, 3359393.24; 567764.92, 3359390.52; 567755.72, 3359387.61; 567750.50, 3359384.86; 567742.46, 3359388.65; 567737.13, 3359389.83; 567730.42, 3359393.60; 567730.25, 3359400.21; 567728.83, 3359404.17; 567720.36, 3359406.77; 567715.45, 3359412.58; 567709.01, 3359415.98

565355.41, 3359759.60; 565790.59, 3360018.31; 565790.70, 3359979.73; 565786.12, 3359974.18; 565782.98, 3359966.37; 565784.29, 3359961.65; 565790.73, 3359965.00; 565791.31, 3359832.23; 565784.66, 3359836.74; 565775.56, 3359834.52; 565767.64, 3359832.39; 565760.54, 3359846.07; 565757.11, 3359840.43; 565745.66, 3359837.40; 565739.53, 3359844.37; 565728.98, 3359853.22; 565717.44, 3359853.75; 565712.08, 3359846.06; 565698.94, 3359846.54; 565688.97, 3359864.53; 565678.97, 3359867.46; 565668.71, 3359864.02; 565657.34, 3359858.19; 565658.85, 3359845.55; 565664.14, 3359840.50; 565674.68, 3359847.94; 565679.24, 3359840.13; 565685.18, 3359841.02; 565685.98, 3359831.99; 565651.96, 3359831.90; 565652.01, 3359643.80; 565558.25, 3359663.33; 565509.06, 3359672.79; 565480.73, 3359677.58; 565360.78, 3359697.64; 565291.09, 3359704.22; 565246.80, 3359711.86; 565163.78, 3359733.21; 565121.30, 3359741.65; 565089.09, 3359748.78; 565033.52, 3359756.89; 564919.52, 3359787.78; 564921.51, 3359819.54; 564926.56, 3359824.04; 564930.90, 3359825.71; 564932.23, 3359835.67; 564929.73, 3359840.79; 564934.41, 3359844.46; 564934.20, 3359852.76; 564930.02, 3359861.39; 564929.39, 3359870.12; 564931.68, 3359874.48; 564935.50, 3359880.57; 564935.36, 3359886.12; 564930.03, 3359892.30; 564938.65, 3359897.25; 564942.68, 3359894.98; 564943.61, 3359889.45; 564942.96, 3359883.88; 564947.33, 3359883.98; 564950.84, 3359886.51; 564953.18, 3359888.50; 564957.61, 3359885.86; 564955.74, 3359881.07; 564960.26, 3359874.82; 564965.82, 3359875.33; 564966.54, 3359878.53; 564971.69, 3359878.66; 564970.20, 3359874.69; 564971.85, 3359872.36; 564975.76, 3359874.83; 564978.12, 3359875.63; 564983.32, 3359874.58; 564987.73, 3359872.75; 564990.23, 3359868.00; 564993.03, 3359867.32; 564995.88, 3359864.59; 564997.57, 3359860.69; 565007.78, 3359871.25; 565005.21, 3359878.74; 565005.88, 3359883.94; 565009.84, 3359884.41; 565015.93, 3359879.38; 565018.10, 3359871.94; 565023.70, 3359870.08; 565027.01, 3359859.05; 565036.11, 3359860.46; 565035.34, 3359865.63; 565033.48, 3359870.26; 565034.54, 3359875.47; 565036.48, 3359877.52; 565039.66, 3359877.16; 565039.96, 3359881.53; 565045.55, 3359880.11; 565050.29, 3359881.42; 565053.88, 3359881.13; 565053.60, 3359875.94; 565054.48, 3359872.41; 565056.69, 3359863.72; 565059.93, 3359861.05; 565063.08, 3359862.69; 565064.60, 3359865.10; 565066.92, 3359867.97; 565069.37, 3359865.22; 565068.29, 3359860.82; 565073.53, 3359863.39; 565078.70, 3359862.70; 565084.72, 3359860.48; 565090.68, 3359860.25; 565089.67, 3359869.72; 565096.51, 3359865.52; 565099.41, 3359860.85; 565104.11, 3359858.15; 565107.57, 3359852.31; 565112.65, 3359855.62; 565118.98, 3359851.40; 565120.39, 3359842.70; 565112.98, 3359836.59; 565115.48, 3359832.28; 565130.68, 3359828.28; 565154.87, 3359829.69; 565176.48, 3359829.48; 565182.61, 3359838.31; 565192.08, 3359841.35; 565198.06, 3359834.70; 565191.83, 3359835.42; 565186.71, 3359833.29; 565186.06, 3359827.72; 565194.80, 3359827.56; 565195.42, 3359818.84; 565197.46, 3359810.90; 565208.63, 3359809.24; 565218.94, 3359809.49; 565216.18, 3359814.98; 565208.94, 3359817.99; 565209.92, 3359827.13; 565220.18, 3359829.38; 565235.70, 3359828.95; 565243.21, 3359829.95; 565253.55, 3359829.77; 565261.76, 3359835.15; 565272.03, 3359837.40; 565281.43, 3359842.76; 565285.52, 3359848.41; 565289.88, 3359848.90; 565295.43, 3359849.03; 565299.30, 3359853.50; 565307.66, 3359852.89; 565315.92, 3359856.28; 565318.00, 3359868.20; 565327.49, 3359854.57; 565338.12, 3359842.16; 565337.58, 3359831.85; 565324.32, 3359821.97; 565311.42, 3359812.97; 565292.65, 3359806.95; 565274.45, 3359804.13; 565260.56, 3359803.41; 565251.82, 3359803.19; 565242.51, 3359804.52; 565225.02, 3359804.90; 565219.61, 3359804.77; 565205.71, 3359804.42; 565189.75, 3359807.21; 565149.63, 3359817.27; 565120.40, 3359825.66; 565106.69, 3359834.43; 565089.86, 3359839.95; 565064.78, 3359842.13; 565052.52, 3359845.82; 565039.50, 3359852.18; 565029.28, 3359853.18; 564988.25, 3359857.72; 564958.31, 3359863.28; 564958.42, 3359858.98; 564958.13, 3359854.97; 564988.76, 3359853.36; 565015.44, 3359850.46; 565030.62, 3359847.65; 565031.79, 3359842.88; 565029.55, 3359836.52; 565023.75, 3359830.38; 565014.19, 3359831.39; 564983.65, 3359829.39; 564986.83, 3359813.23; 564988.59, 3359806.16; 564994.28, 3359801.12; 565003.44, 3359800.16; 565011.76, 3359800.80; 565024.91, 3359799.94; 565026.11, 3359821.01; 565029.23, 3359823.84; 565034.65, 3359829.15; 565041.84, 3359843.56; 565045.37, 3359839.65; 565050.95, 3359838.98; 565046.73, 3359806.85; 565043.47, 3359803.96; 565042.66, 3359794.45; 565044.67, 3359787.70; 565043.78, 3359781.37; 565044.76, 3359773.90; 565058.31, 3359772.62; 565068.27, 3359771.68; 565076.19, 3359772.68; 565076.32, 3359782.99; 565076.72, 3359793.30; 565076.97, 3359799.24; 565066.60, 3359800.98; 565059.73, 3359805.55; 565056.05, 3359809.39; 565052.87, 3359815.31; 565053.46, 3359823.62; 565057.82, 3359834.41; 565060.90, 3359838.48; 565083.59, 3359836.67; 565087.99, 3359835.15; 565084.31, 3359829.13; 565081.78, 3359818.77; 565082.17, 3359803.36; 565081.93, 3359796.99; 565083.51, 3359791.47; 565087.26, 3359790.38; 565088.30, 3359780.48; 565085.76, 3359770.92; 565093.64, 3359767.93; 565117.09, 3359767.70; 565118.26, 3359783.96; 565105.06, 3359788.01; 565089.61, 3359792.06; 565088.20, 3359800.32; 565089.20, 3359808.65; 565088.81, 3359824.13; 565094.15, 3359833.00; 565101.31, 3359832.36; 565107.35, 3359829.33; 565120.11, 3359821.72; 565133.49, 3359816.49; 565152.29, 3359811.40; 565142.02, 3359809.21; 565129.36, 3359806.90; 565126.33, 3359801.27; 565128.03, 3359796.57; 565127.38, 3359784.63; 565126.42, 3359765.56; 565137.25, 3359761.52; 565158.37, 3359758.86; 565157.99, 3359789.76; 565153.44, 3359797.20; 565150.22, 3359799.05; 565145.10, 3359797.36; 565143.60, 3359793.39; 565141.30, 3359790.53; 565136.14, 3359789.59; 565132.83, 3359795.06; 565133.44, 3359802.63; 565150.84, 3359806.25; 565158.30, 3359809.62; 565183.91, 3359802.32; 565184.81, 3359798.35; 565180.68, 3359788.32; 565173.95, 3359786.97; 565172.67, 3359775.07; 565167.13, 3359773.75; 565165.99, 3359756.24; 565183.77, 3359753.87; 565192.86, 3359752.48; 565191.71, 3359776.29; 565182.57, 3359776.51; 565182.78, 3359783.63; 565190.73, 3359799.68; 565198.67, 3359799.88; 565210.17, 3359800.54; 565220.82, 3359765.90; 565205.05, 3359766.76; 565205.07, 3359750.09; 565220.47, 3359748.04; 565233.75, 3359747.25; 565233.61, 3359763.04; 565227.23, 3359770.06; 565220.63, 3359779.45; 565218.03, 3359788.50; 565218.27, 3359794.43; 565222.17, 3359797.28; 565239.69, 3359796.15; 565248.04, 3359795.54; 565276.22, 3359797.05; 565274.95, 3359783.91; 565272.31, 3359778.29; 565249.53, 3359783.28; 565245.48, 3359780.81; 565243.70, 3359762.54; 565240.94, 3359761.66; 565240.80, 3359751.35; 565267.13, 3359746.89; 565267.92, 3359731.42; 565305.09, 3359722.42; 565310.01, 3359747.95; 565295.49, 3359751.15; 565276.20, 3359749.48; 565277.14, 3359759.81; 565284.96, 3359765.18; 565280.86, 3359786.06; 565281.72, 3359799.19; 565285.62, 3359802.03; 565303.07, 3359803.65; 565324.93, 3359813.31; 565336.22, 3359823.07; 565345.24, 3359827.67; 565351.64, 3359825.45; 565362.29, 3359813.05; 565380.99, 3359795.65; 565400.21, 3359779.52; 565412.36, 3359770.27; 565419.24, 3359765.33; 565429.21, 3359763.95; 565492.14, 3359765.51; 565476.52, 3359754.45; 565474.82, 3359742.92; 565462.91, 3359742.62; 565460.58, 3359724.34; 565485.52, 3359695.99; 565500.68, 3359693.99; 565507.35, 3359696.53; 565517.36, 3359693.59; 565521.27, 3359712.36; 565526.20, 3359737.45; 565507.78, 3359743.73; 565503.26, 3359765.78; 565530.05, 3359766.45; 565529.97, 3359769.63; 565447.77, 3359768.40; 565431.45, 3359769.19; 565422.66, 3359770.97; 565413.40, 3359776.29; 565398.67, 3359787.79; 565381.96, 3359804.42; 565361.59, 3359824.89; 565349.47, 3359838.51; 565346.96, 3359844.00; 565387.39, 3359863.61; 565415.71, 3359875.05; 565426.65, 3359882.44; 565431.03, 3359890.10; 565435.77, 3359899.33; 565446.94, 3359937.63; 565452.27, 3359949.37; 565456.03, 3359946.97; 565467.59, 3359945.69; 565481.25, 3359940.10; 565488.60, 3359931.92; 565487.68, 3359920.84; 565493.17, 3359917.73; 565490.60, 3359914.92; 565492.66, 3359911.85; 565496.65, 3359911.14; 565517.25, 3359898.17; 565529.63, 3359911.52; 565530.95, 3359921.92; 565546.33, 3359927.04; 565569.37, 3359921.24; 565575.13, 3359913.02; 565580.59, 3359901.67; 565587.72, 3359902.28; 565585.54, 3359893.86; 565587.36, 3359884.79; 565602.37, 3359886.42; 565606.62, 3359890.89; 565617.05, 3359889.09; 565623.39, 3359887.69; 565627.32, 3359891.34; 565623.54, 3359899.99; 565624.38, 3359913.87; 565628.92, 3359920.72; 565625.18, 3359929.37; 565616.35, 3359933.08; 565629.29, 3359940.52; 565647.14, 3359941.40; 565654.82, 3359936.03; 565666.73, 3359920.47; 565676.28, 3359919.52; 565689.34, 3359905.55; 565697.24, 3359907.74; 565697.50, 3359913.31; 565690.54, 3359919.13; 565695.88, 3359928.37; 565702.97, 3359933.23; 565707.84, 3359942.53; 565723.42, 3359939.36; 565731.80, 3359937.57; 565739.99, 3359937.52; 565752.29, 3359938.26; 565755.37, 3359942.71; 565748.89, 3359947.29; 565743.22, 3359951.90; 565745.43, 3359958.69; 565751.65, 3359963.97; 565753.45, 3359971.19; 565750.93, 3359977.06; 565743.35, 3359978.06; 565736.62, 3359977.52; 565733.61, 3359986.55; 565730.29, 3359992.40; 565734.92, 3359997.70; 565727.49, 3360009.00; 565717.60, 3360007.13; 565713.49, 3360012.59; 565711.18, 3360016.34; 565715.41, 3360021.63; 565720.90, 3360024.88; 565721.73, 3360033.02; 565731.21, 3360035.25; 565740.02, 3360032.29; 565741.47, 3360027.76; 565749.55, 3360032.52; 565754.95, 3360039.40; 565753.26, 3360043.29; 565744.17, 3360041.50; 565739.26, 3360046.94; 565739.06, 3360054.86; 565743.42, 3360055.34; 565749.49, 3360050.75; 565751.70, 3360057.92; 565753.63, 3360060.34; 565759.74, 3360054.19; 565768.10, 3360053.58; 565765.04, 3360048.76; 565763.59, 3360042.80; 565767.28, 3360038.52; 565765.07, 3360031.72; 565763.25, 3360025.31; 565751.95, 3360015.91; 565750.99, 3360006.78; 565752.75, 3359999.70; 565758.92, 3359991.11; 565767.61, 3359993.33; 565772.91, 3360004.13; 565780.72, 3360009.51; 565782.98, 3360014.31; 565790.03, 3360018.04; 565790.59, 3360018.31; 565354.85, 3359798.19; 565339.76, 3359798.25; 565338.91, 3359783.94; 565335.74, 3359783.86; 565332.82, 3359789.34; 565320.90, 3359789.05; 565319.85, 3359767.98; 565315.97, 3359764.33; 565314.47, 3359744.50; 565332.08, 3359738.94; 565350.01, 3359737.02; 565354.37, 3359769.65; 565354.85, 3359798.19

565385.47, 3359900.44; 565306.21, 3359932.58; 565312.00, 3359939.46; 565325.39, 3359944.54; 565328.60, 3359937.44; 565328.85, 3359927.58; 565334.03, 3359926.90; 565336.78, 3359928.15; 565340.94, 3359920.70; 565337.57, 3359911.94; 565335.93, 3359903.97; 565355.58, 3359906.83; 565362.69, 3359908.20; 565364.64, 3359899.50; 565382.92, 3359899.96; 565385.13, 3359916.68; 565381.43, 3359927.70; 565386.07, 3359933.00; 565385.73, 3359940.48; 565395.60, 3359943.10; 565396.02, 3359947.85; 565391.11, 3359953.72; 565393.06, 3359965.19; 565386.66, 3359982.89; 565391.70, 3359988.57; 565395.52, 3359994.60; 565391.80, 3360000.06; 565385.51, 3360003.53; 565385.36, 3360009.45; 565390.69, 3360012.71; 565400.23, 3360012.94; 565413.96, 3360009.79; 565431.83, 3360010.23; 565431.20, 3360003.47; 565440.93, 3359994.97; 565442.61, 3359986.27; 565452.94, 3359985.72; 565464.72, 3359981.27; 565452.50, 3359961.55; 565447.56, 3359952.31; 565441.00, 3359937.10; 565433.33, 3359909.57; 565425.97, 3359893.91; 565419.82, 3359885.45; 565404.17, 3359875.51; 565388.04, 3359869.62; 565371.52, 3359862.84; 565351.49, 3359853.61; 565345.92, 3359853.47; 565340.96, 3359855.72; 565347.43, 3359866.99; 565349.99, 3359876.17; 565361.31, 3359883.94; 565356.63, 3359896.56; 565350.17, 3359901.14; 565344.40, 3359899.00; 565335.08, 3359890.09; 565333.60, 3359896.36; 565328.51, 3359899.05; 565319.81, 3359897.21; 565315.65, 3359904.66; 565306.90, 3359921.48; 565306.21, 3359932.58.

(iii) Note: Map 2, Units 1 and 2 of Choctowhatchee beach mouse, follows:

BILLING CODE 4310-55-P

BILLING CODE 4310-55-C

(8) CBM—Unit 3: Grayton Beach Unit, Walton County, Florida.

(i) General Description: This unit encompasses essential features of beach mouse habitat within the boundary of Grayton Beach State Park, as well as adjacent private lands and inholdings, from 0.3 mi west of the inlet of Alligator Lake east to 0.8 mi west of Seagrove Beach and the area from the MHWL north to the seaward extent of human development or maritime forest.

(ii) Coordinates: From USGS 1:24,000 quadrangle map Grayton Beach, Florida, land bounded by the following UTM 16 NAD 83 coordinates (E, N): 578136.10, 3356102.15; 578222.77, 3356036.73; 578222.16, 3356000.38; 578077.28, 3356072.88; 578050.50, 3356079.33; 578039.08, 3356101.21; 578064.26, 3356111.33; 578073.84, 3356125.86; 578094.18, 3356138.66; 578138.88, 3356162.31; 578160.71, 3356162.85; 578185.78, 3356145.69; 578197.27, 3356130.86; 578209.61, 3356114.13; 578204.08, 3356113.24; 578206.15, 3356109.73; 578211.73, 3356108.62; 578209.79, 3356091.16; 578207.08, 3356088.34; 578209.49, 3356086.78; 578215.44, 3356087.37; 578218.54, 3356091.00; 578222.89, 3356091.48; 578232.20, 3356084.60; 578226.62, 3356085.65; 578218.40, 3356080.26; 578219.72, 3356076.98; 578223.42, 3356075.39; 578233.12, 3356074.20; 578230.76, 3356069.71; 578226.33, 3356069.10; 578223.25, 3356065.84; 578223.24, 3356065.02; 578222.77, 3356036.73

578526.99, 3355943.76; 578222.77, 3356036.73; 578223.24, 3356065.02; 578247.08, 3356056.69; 578256.82, 3356049.00; 578278.74, 3356045.99; 578292.80, 3356040.03; 578296.22, 3356030.19; 578312.43, 3356033.34; 578317.44, 3356039.84; 578331.96, 3356046.56; 578341.17, 3356038.68; 578361.68, 3356034.19; 578375.91, 3356021.06; 578386.33, 3356017.39; 578399.12, 3356014.52; 578413.26, 3356004.95; 578430.41, 3355996.89; 578446.41, 3355998.22; 578457.43, 3356002.86; 578473.52, 3355994.96; 578486.44, 3355986.17; 578491.41, 3355978.36; 578502.70, 3355971.53; 578512.20, 3355973.32; 578541.91, 3355976.81; 578559.84, 3355974.88; 578639.16, 3355948.70; 578652.01, 3355943.09; 578678.89, 3355933.08; 578697.75, 3355925.62; 578721.77, 3355906.37; 578744.29, 3355907.37; 578760.47, 3355895.84; 578777.28, 3355891.14; 578795.10, 3355893.52; 578795.66, 3355903.09; 578818.25, 3355888.98; 578830.98, 3355887.98; 578831.08, 3355875.69; 578831.08, 3355875.06; 578831.68, 3355796.73; 578831.68, 3355795.92; 578590.91, 3355891.63; 578562.44, 3355902.41; 578224.91, 3355998.21; 578222.31, 3355999.51; 578222.77, 3356036.73

579563.63, 3355823.20; 579228.36, 3355773.14; 579231.38, 3355779.20; 579249.62, 3355780.47; 579251.43, 3355803.11; 579246.59, 3355806.55; 579245.96, 3355815.65; 579251.24, 3355827.27; 579250.95, 3355838.75; 579249.91, 3355848.27; 579253.46, 3355849.92; 579252.44, 3355858.64; 579267.70, 3355867.69; 579271.88, 3355875.73; 579269.61, 3355887.16; 579274.31, 3355890.08; 579281.10, 3355887.88; 579289.57, 3355867.05; 579297.32, 3355859.32; 579310.43, 3355859.27; 579314.13, 3355854.61; 579320.80, 3355857.96; 579334.80, 3355854.32; 579333.06, 3355828.12; 579337.95, 3355807.64; 579329.29, 3355804.24; 579319.68, 3355791.33; 579312.26, 3355785.96; 579294.53, 3355784.77; 579295.69, 3355780.80; 579282.33, 3355775.29; 579275.02, 3355765.62; 579255.63, 3355767.95; 579244.60, 3355758.50; 579240.05, 3355750.08; 579233.37, 3355743.80; 579240.18, 3355744.90; 579245.94, 3355752.97; 579252.23, 3355755.56; 579263.34, 3355755.84; 579268.83, 3355759.10; 579276.37, 3355758.91; 579283.11, 3355764.70; 579289.55, 3355772.72; 579309.71, 3355776.41; 579320.74, 3355780.62; 579329.83, 3355782.46; 579344.97, 3355796.33; 579355.25, 3355814.37; 579357.42, 3355823.54; 579362.38, 3355831.59; 579367.13, 3355848.00; 579350.86, 3355863.02; 579335.86, 3355874.94; 579339.05, 3355890.88; 579341.61, 3355899.68; 579368.92, 3355935.64; 579382.27, 3355947.20; 579378.07, 3355951.34; 579379.14, 3355956.12; 579384.29, 3355956.62; 579391.89, 3355954.87; 579402.92, 3355947.22; 579413.65, 3355942.30; 579416.14, 3355938.37; 579414.74, 3355930.41; 579421.47, 3355931.39; 579424.94, 3355940.27; 579426.23, 3355953.23; 579427.32, 3355972.80; 579429.12, 3355980.39; 579434.86, 3355972.98; 579442.28, 3355973.54; 579445.01, 3355980.42; 579447.41, 3355990.34; 579451.56, 3356004.74; 579447.68, 3356011.32; 579465.20, 3356026.05; 579480.82, 3356026.07; 579484.70, 3356024.91; 579486.52, 3356020.28; 579494.03, 3356017.22; 579497.71, 3356028.86; 579502.19, 3356029.41; 579505.03, 3356038.16; 579501.59, 3356048.37; 579511.81, 3356052.99; 579520.72, 3356051.28; 579527.04, 3356068.48; 579539.71, 3356070.36; 579547.64, 3356065.75; 579557.58, 3356065.62; 579569.17, 3356063.10; 579588.10, 3356068.75; 579620.65, 3356069.94; 579640.63, 3356065.69; 579658.81, 3356058.65; 579661.58, 3356053.91; 579669.27, 3356052.98; 579674.66, 3356055.05; 579675.65, 3356063.00; 579675.07, 3356070.91; 579679.48, 3356069.03; 579683.19, 3356063.94; 579683.82, 3356054.09; 579694.22, 3356051.16; 579699.38, 3356056.91; 579717.28, 3356050.93; 579735.60, 3356033.53; 579757.62, 3356031.77; 579783.85, 3356010.57; 579790.18, 3356000.86; 579806.08, 3355995.26; 579809.82, 3355988.62; 579817.36, 3355989.24; 579820.09, 3355996.49; 579828.52, 3355992.70; 579827.85, 3355982.32; 579833.54, 3355977.72; 579837.83, 3355980.57; 579840.08, 3355986.18; 579845.66, 3355985.14; 579854.91, 3355965.14; 579848.60, 3355963.42; 579844.29, 3355960.57; 579844.58, 3355953.83; 579844.39, 3355945.90; 579852.77, 3355944.24; 579859.73, 3355935.98; 579853.38, 3355919.84; 579853.81, 3355902.56; 579860.53, 3355888.43; 579871.56, 3355887.08; 579874.50, 3355880.85; 579862.05, 3355870.05; 579869.67, 3355851.27; 579877.03, 3355848.39; 579900.29, 3355861.14; 579899.88, 3355620.58; 579899.74, 3355594.59; 579897.43, 3355594.82; 579898.26, 3355538.38; 579899.83, 3355538.42; 579899.83, 3355527.97; 579899.80, 3355466.83; 579819.34, 3355495.99; 579594.51, 3355573.24; 579226.97, 3355678.77; 579226.98, 3355679.59; 579228.36, 3355773.14

579029.73, 3355761.34; 578831.08, 3355875.69; 578844.13, 3355869.33; 578850.56, 3355865.68; 578844.26, 3355848.05; 578866.64, 3355842.30; 578866.53, 3355831.19; 578892.97, 3355822.29; 578914.47, 3355820.89; 578921.75, 3355815.52; 578939.28, 3355813.14; 578961.70, 3355806.58; 578964.63, 3355801.10; 578985.76, 3355798.07; 578986.71, 3355791.72; 579010.25, 3355787.56; 579012.71, 3355784.88; 579034.22, 3355782.23; 579034.76, 3355777.06; 579042.03, 3355772.81; 579057.95, 3355771.58; 579078.25, 3355769.47; 579078.88, 3355760.37; 579100.74, 3355760.10; 579124.64, 3355758.20; 579145.77, 3355754.48; 579166.93, 3355750.63; 579170.78, 3355755.47; 579173.36, 3355763.47; 579192.83, 3355763.20; 579194.49, 3355776.29; 579228.37, 3355773.89; 579228.36, 3355773.14; 579226.98, 3355679.59; 579212.01, 3355688.58; 579196.17, 3355693.12; 579152.20, 3355703.88; 578965.68, 3355758.74; 578857.20, 3355790.50; 578831.68, 3355796.73; 578831.08, 3355875.06; 578831.08, 3355875.69

579985.47, 3355453.39; 579899.83, 3355527.97; 579926.14, 3355527.90; 579925.54, 3355519.96; 579929.82, 3355518.47; 579929.77, 3355508.14; 579923.20, 3355505.06; 579924.59, 3355497.17; 579924.91, 3355484.44; 579944.84, 3355481.82; 579955.44, 3355487.20; 579977.31, 3355486.18; 579982.99, 3355481.95; 579996.51, 3355481.10; 579996.39, 3355485.85; 580002.77, 3355485.19; 580002.99, 3355492.38; 579998.81, 3355500.58; 579995.23, 3355516.72; 579989.57, 3355520.20; 579985.78, 3355529.22; 580004.51, 3355527.31; 580020.41, 3355526.90; 580023.11, 3355482.14; 580050.11, 3355482.81; 580050.26, 3355461.03; 580050.53, 3355450.36; 580056.07, 3355451.25; 580056.18, 3355462.74; 580071.14, 3355460.62; 580070.48, 3355391.74; 580011.68, 3355414.75; 579936.25, 3355444.21; 579907.78, 3355454.99; 579899.80, 3355466.83; 579899.83, 3355527.97; 580031.71, 3355472.05; 580031.90, 3355464.57; 580042.24, 3355464.01; 580042.03, 3355472.31; 580031.71, 3355472.05

580114.28, 3355500.94; 580144.94, 3355473.27; 580122.56, 3355473.60; 580083.30, 3355474.19; 580083.98, 3355478.91; 580107.63, 3355486.24; 580105.77, 3355497.68; 580111.65, 3355500.64; 580109.05, 3355525.54; 580103.86, 3355526.60; 580104.87, 3355533.74; 580118.98, 3355525.35; 580124.14, 3355493.77; 580145.25, 3355493.87; 580144.94, 3355473.27

580347.34, 3355406.96; 580296.09, 3355494.86; 580293.36, 3355504.28; 580307.12, 3355508.31; 580331.43, 3355515.41; 580388.42, 3355532.06; 580401.31, 3355487.49; 580384.86, 3355491.14; 580368.96, 3355491.18; 580354.77, 3355486.46; 580347.78, 3355479.92; 580349.14, 3355473.21; 580359.04, 3355470.58; 580375.31, 3355459.63; 580377.42, 3355445.63; 580386.48, 3355441.68; 580380.86, 3355428.05; 580368.44, 3355416.19; 580361.68, 3355400.61; 580356.28, 3355378.25; 580352.85, 3355340.89; 580351.06, 3355332.92; 580352.88, 3355323.48; 580361.65, 3355322.13; 580366.53, 3355317.88; 580369.15, 3355308.40; 580371.40, 3355297.78; 580371.26, 3355287.48; 580301.97, 3355305.98; 580301.98, 3355306.79; 580304.35, 3355466.29; 580296.09, 3355494.86

580229.04, 3355502.75; 580287.75, 3355496.32; 580274.97, 3355492.56; 580259.57, 3355488.06; 580196.22, 3355469.54; 580196.31, 3355475.54; 580153.72, 3355476.18; 580154.15, 3355504.86; 580187.37, 3355514.57; 580186.52, 3355517.50; 580154.20, 3355508.05; 580154.42, 3355523.31; 580169.16, 3355527.67; 580186.77, 3355524.36; 580203.05, 3355524.86; 580210.25, 3355532.81; 580229.13, 3355526.33; 580231.78, 3355512.75; 580238.89, 3355493.50; 580253.34, 3355491.92; 580293.37, 3355504.29; 580296.09, 3355494.86; 580304.35, 3355466.29; 580301.98, 3355306.79; 580277.90, 3355319.24; 580272.73, 3355321.23; 580275.37, 3355489.52; 580288.60, 3355493.39; 580287.75, 3355496.32

580216.77, 3355473.97; 580259.57, 3355488.06; 580274.97, 3355492.56; 580287.75, 3355496.32; 580288.60, 3355493.39; 580275.37, 3355489.52; 580272.73, 3355321.25; 580257.14, 3355327.92; 580259.53, 3355484.86; 580196.17, 3355466.38; 580194.43, 3355350.52; 580191.40, 3355351.44; 580193.22, 3355472.56; 580144.94, 3355473.27; 580145.65, 3355521.18; 580154.42, 3355523.34; 580154.19, 3355508.07; 580186.52, 3355517.52; 580187.37, 3355514.60; 580154.15, 3355504.89; 580153.72, 3355476.21; 580196.31, 3355475.56; 580196.22, 3355469.56; 580259.57, 3355488.06

580226.98, 3355408.12; 580194.43, 3355350.50; 580196.17, 3355466.34; 580259.53, 3355484.86; 580257.14, 3355327.90; 580238.93, 3355337.37; 580194.43, 3355350.50

581223.87, 3355067.35; 582069.79, 3354753.98; 582069.33, 3354714.54; 581830.20, 3354796.95; 581699.62, 3354838.46; 581507.86, 3354904.61; 581305.24, 3354967.74; 581180.87, 3355022.57; 581020.65, 3355074.46; 580857.54, 3355130.71; 580621.55, 3355209.24; 580480.68, 3355242.56; 580384.99, 3355279.08; 580384.40, 3355302.85; 580377.73, 3355314.98; 580377.47, 3355325.27; 580381.75, 3355329.31; 580393.43, 3355338.78; 580394.45, 3355361.34; 580392.09, 3355376.39; 580396.29, 3355399.09; 580400.65, 3355415.81; 580406.62, 3355431.06; 580409.47, 3355443.81; 580416.63, 3355443.98; 580427.04, 3355440.68; 580451.31, 3355423.43; 580476.84, 3355380.06; 580498.35, 3355353.62; 580522.63, 3355336.00; 580547.82, 3355329.51; 580559.74, 3355329.81; 580574.82, 3355330.18; 580582.80, 3355328.82; 580586.96, 3355321.37; 580591.73, 3355321.49; 580598.38, 3355326.02; 580614.00, 3355336.71; 580620.05, 3355348.72; 580624.58, 3355358.39; 580628.84, 3355379.10; 580634.88, 3355391.54; 580633.26, 3355408.55; 580632.70, 3355423.58; 580629.39, 3355452.02; 580630.40, 3355459.23; 580636.68, 3355462.94; 580645.92, 3355479.97; 580645.89, 3355491.70; 580664.08, 3355494.90; 580683.15, 3355495.00; 580694.77, 3355491.36; 580705.22, 3355486.44; 580701.46, 3355477.60; 580713.78, 3355477.91; 580726.78, 3355482.23; 580724.91, 3355493.29; 580738.03, 3355492.81; 580738.84, 3355487.21; 580737.63, 3355477.75; 580737.95, 3355464.65; 580750.05, 3355457.40; 580758.46, 3355454.49; 580776.93, 3355455.26; 580787.23, 3355457.14; 580799.68, 3355459.07; 580813.04, 3355459.71; 580826.10, 3355466.47; 580837.60, 3355467.51; 580865.94, 3355462.28; 580871.72, 3355453.75; 580881.42, 3355447.62; 580888.97, 3355447.00; 580894.28, 3355441.20; 580892.12, 3355432.34; 580887.59, 3355417.56; 580881.06, 3355406.72; 580873.39, 3355397.67; 580868.21, 3355387.42; 580872.06, 3355376.41; 580870.68, 3355368.07; 580864.66, 3355370.67; 580864.77, 3355366.36; 580866.06, 3355362.02; 580872.67, 3355360.57; 580870.69, 3355344.66; 580869.92, 3355334.78; 580875.98, 3355330.93; 580886.94, 3355321.72; 580886.73, 3355314.53; 580891.71, 3355305.17; 580903.64, 3355305.09; 580910.75, 3355290.97; 580909.27, 3355286.94; 580895.60, 3355277.48; 580884.58, 3355272.46; 580873.16, 3355269.00; 580873.67, 3355264.26; 580885.16, 3355265.74; 580889.43, 3355269.40; 580905.18, 3355275.35; 580902.54, 3355253.87; 580906.47, 3355239.74; 580912.27, 3355229.95; 580922.75, 3355224.28; 580951.57, 3355215.45; 580987.61, 3355204.11; 581131.78, 3355158.94; 581267.50, 3355117.87; 581257.30, 3355112.87; 581254.12, 3355096.94; 581272.14, 3355091.45; 581287.27, 3355089.83; 581285.08, 3355082.23; 581298.25, 3355079.81; 581300.12, 3355084.60; 581353.25, 3355072.87; 581361.92, 3355076.21; 581369.23, 3355085.94; 581372.34, 3355104.25; 581368.53, 3355114.08; 581326.43, 3355129.26; 581301.38, 3355134.51; 581289.77, 3355133.10; 581288.81, 3355139.81; 581289.36, 3355149.75; 581285.53, 3355159.58; 581272.88, 3355156.90; 581276.36, 3355145.43; 581286.62, 3355147.69; 581285.22, 3355140.16; 581287.03, 3355131.47; 581272.07, 3355125.91; 581264.89, 3355127.36; 581100.83, 3355181.52; 581082.68, 3355184.25; 581067.87, 3355188.63; 581064.55, 3355194.48; 581067.54, 3355201.73; 581071.95, 3355208.89; 581074.84, 3355220.08; 581087.75, 3355227.95; 581114.30, 3355238.54; 581132.45, 3355243.36; 581159.94, 3355256.34; 581160.38, 3355263.03; 581152.07, 3355277.93; 581144.41, 3355282.49; 581128.04, 3355285.26; 581116.62, 3355281.80; 581090.73, 3355275.60; 581073.96, 3355262.94; 581061.45, 3355254.70; 581055.54, 3355245.01; 581061.91, 3355228.50; 581063.26, 3355213.92; 581057.61, 3355201.48; 581050.63, 3355194.94; 580990.18, 3355212.85; 580930.11, 3355231.58; 580917.63, 3355238.39; 580912.14, 3355251.36; 580912.96, 3355266.05; 580917.97, 3355287.97; 580925.56, 3355302.45; 580945.33, 3355290.64; 580954.95, 3355303.18; 580962.34, 3355309.67; 580980.49, 3355329.97; 580990.60, 3355339.34; 581002.13, 3355338.82; 581004.75, 3355345.25; 581012.75, 3355359.31; 581026.05, 3355367.25; 581032.19, 3355376.46; 581024.06, 3355383.75; 581026.51, 3355396.54; 581033.72, 3355403.03; 581058.03, 3355407.19; 581081.94, 3355404.66; 581090.78, 3355400.52; 581106.57, 3355388.98; 581118.55, 3355386.54; 581121.16, 3355377.49; 581128.55, 3355351.89; 581130.09, 3355338.07; 581144.81, 3355321.27; 581155.10, 3355301.98; 581157.93, 3355289.19; 581168.85, 3355281.91; 581177.87, 3355270.65; 581189.49, 3355266.57; 581195.09, 3355257.59; 581205.77, 3355234.82; 581199.46, 3355225.99; 581197.10, 3355216.44; 581201.58, 3355212.18; 581200.97, 3355204.61; 581196.83, 3355200.39; 581201.97, 3355190.72; 581216.91, 3355181.29; 581222.88, 3355170.32; 581217.64, 3355152.03; 581234.10, 3355150.75; 581238.77, 3355163.54; 581244.52, 3355171.99; 581259.16, 3355181.53; 581265.33, 3355189.17; 581276.27, 3355196.62; 581275.63, 3355205.72; 581308.19, 3355191.05; 581319.94, 3355181.85; 581330.65, 3355175.69; 581337.17, 3355168.74; 581345.19, 3355165.75; 581362.29, 3355156.31; 581364.27, 3355149.99; 581357.25, 3355151.44; 581352.73, 3355141.40; 581363.52, 3355139.30; 581368.53, 3355145.36; 581371.63, 3355141.44; 581384.74, 3355131.71; 581389.51, 3355132.39; 581412.83, 3355121.49; 581429.01, 3355110.03; 581450.84, 3355095.09; 581511.08, 3355053.76; 581514.40, 3355048.29; 581517.09, 3355035.68; 581524.55, 3355027.63; 581544.66, 3355022.08; 581561.54, 3355022.12; 581592.06, 3355024.50; 581623.87, 3355023.67; 581644.96, 3355023.01; 581666.03, 3355022.35; 581676.19, 3355013.11; 581684.91, 3355014.14; 581687.99, 3355018.15; 581697.89, 3355019.21; 581724.95, 3355017.51; 581748.38, 3355018.47; 581762.87, 3355010.53; 581768.30, 3354999.92; 581763.72, 3354992.32; 581750.93, 3354995.93; 581747.73, 3354989.05; 581764.58, 3354982.73; 581760.85, 3354973.14; 581777.57, 3354971.19; 581784.45, 3354966.61; 581786.06, 3354955.92; 581795.97, 3354951.29; 581802.87, 3354944.85; 581816.35, 3354946.37; 581816.81, 3354927.78; 581821.70, 3354923.16; 581832.01, 3354923.79; 581836.91, 3354918.35; 581842.72, 3354908.20; 581844.58, 3354897.51; 581851.42, 3354889.12; 581852.87, 3354883.85; 581860.28, 3354889.59; 581866.57, 3354892.12; 581876.15, 3354879.94; 581889.08, 3354865.71; 581902.50, 3354853.37; 581916.16, 3354847.41; 581910.40, 3354855.19; 581911.41, 3354862.34; 581921.79, 3354860.60; 581940.66, 3354847.33; 581949.50, 3354848.61; 581956.49, 3354839.30; 581996.23, 3354823.25; 582050.34, 3354804.37; 582070.27, 3354795.78; 582069.79, 3354753.98

580131.85, 3355422.10; 580071.14, 3355460.62; 580081.63, 3355462.18; 580083.30, 3355474.19; 580122.56, 3355473.60; 580144.94, 3355473.27; 580193.23, 3355472.51; 580191.40, 3355351.42; 580168.43, 3355358.47; 580135.99, 3355369.33; 580089.62, 3355385.03; 580074.55, 3355390.15; 580070.48, 3355391.74; 580071.14, 3355460.62

582428.00, 3354608.34; 582357.39, 3354607.46; 582365.18, 3354628.26; 582374.55, 3354653.32; 582379.99, 3354642.52; 582398.01, 3354637.04; 582421.15, 3354633.24; 582431.04, 3354635.05; 582434.73, 3354630.02; 582434.08, 3354624.08; 582437.74, 3354621.73; 582445.65, 3354622.37; 582451.12, 3354626.44; 582463.12, 3354623.18; 582474.39, 3354617.90; 582474.15, 3354610.78; 582480.15, 3354608.93; 582481.27, 3354612.52; 582487.28, 3354609.92; 582498.60, 3354603.02; 582487.94, 3354583.40; 582469.66, 3354567.84; 582378.29, 3354599.28; 582357.39, 3354607.46.

(9) CBM—Unit 4: Deer Lake Unit, Walton County, Florida.

(i) General Description: This unit encompasses essential features of beach mouse habitat within the boundary of Deer Lake State Park as well as adjacent private lands from approximately 1 mi east of the Camp Creek Lake inlet west to approximately 0.5 mi west of the inlet of Deer Lake and the area from the MHWL north to the seaward extent of maritime forest or human development. The area excluded within this unit is 0.5 mi west of the Camp Creek Lake inlet, to 0.5 mi east of the Camp Creek Lake inlet.

(ii) Coordinates: From USGS 1:24,000 quadrangle map Point Washington, Florida, land bounded by the following UTM 16 NAD 83 coordinates (E, N): 587936.95, 3352709.03; 588073.10, 3352728.14; 587973.52, 3352737.87; 587972.96, 3352695.34; 587965.98, 3352695.17; 587954.26, 3352687.32; 587937.81, 3352677.80; 587956.31, 3352684.63; 587965.27, 3352691.59; 587972.94, 3352691.10; 587972.73, 3352623.17; 587921.05, 3352640.80; 587885.12, 3352655.89; 587858.02, 3352670.32; 587833.03, 3352673.19; 587798.42, 3352686.69; 587832.63, 3352716.88; 587832.11, 3352741.78; 587891.48, 3352734.89; 587904.93, 3352734.48; 587907.05, 3352744.83; 587903.48, 3352763.78; 587890.72, 3352765.40; 587889.84, 3352780.55; 587888.20, 3352786.75; 587906.94, 3352784.03; 587924.42, 3352784.47; 587943.15, 3352781.81; 587945.35, 3352773.50; 587944.88, 3352741.40; 587962.39, 3352740.65; 587961.47, 3352777.46; 587970.93, 3352783.25; 587978.85, 3352784.26; 587990.99, 3352775.45; 587992.36, 3352784.60; 587993.06, 3352788.61; 588000.13, 3352791.54; 588000.76, 3352798.29; 587997.66, 3352810.89; 587993.77, 3352823.09; 587999.46, 3352833.91; 587995.02, 3352848.97; 587997.19, 3352857.32; 588011.25, 3352855.61; 588020.79, 3352855.10; 588021.85, 3352812.68; 588019.25, 3352805.87; 588020.50, 3352787.30; 588038.35, 3352788.56; 588037.08, 3352815.87; 588035.92, 3352838.00; 588035.40, 3352855.09; 588044.97, 3352853.39; 588047.17, 3352844.71; 588055.98, 3352842.12; 588067.52, 3352841.66; 588075.49, 3352850.08; 588074.08, 3352768.16; 588073.10, 3352728.14

588091.29, 3352780.16; 588073.10, 3352727.82; 588074.09, 3352767.84; 588075.50, 3352849.76; 588081.43, 3352856.54; 588092.52, 3352842.14; 588102.83, 3352827.29; 588115.24, 3352823.29; 588121.46, 3352813.09; 588126.56, 3352799.79; 588134.79, 3352803.93; 588140.75, 3352804.08; 588147.59, 3352800.69; 588148.28, 3352790.72; 588148.82, 3352783.68; 588153.80, 3352775.06; 588163.71, 3352777.24; 588165.40, 3352773.73; 588158.34, 3352769.99; 588161.19, 3352767.26; 588165.89, 3352768.25; 588173.94, 3352764.08; 588183.82, 3352767.82; 588193.66, 3352770.12; 588201.12, 3352773.49; 588209.62, 3352768.90; 588203.19, 3352754.51; 588191.56, 3352742.73; 588172.20, 3352738.25; 588153.96, 3352736.98; 588142.05, 3352733.13; 588127.05, 3352732.76; 588116.68, 3352733.68; 588102.96, 3352726.22; 588088.17, 3352713.99; 588077.18, 3352708.91; 588067.67, 3352707.49; 588050.31, 3352703.12; 588030.30, 3352708.56; 588013.92, 3352711.71; 587998.57, 3352706.21; 588002.02, 3352695.55; 587997.38, 3352690.32; 587989.01, 3352691.30; 587980.57, 3352695.02; 587972.96, 3352695.20; 587973.52, 3352737.73; 588073.10, 3352727.82

588443.73, 3352509.80; 587972.93, 3352691.28; 587977.94, 3352690.47; 587985.95, 3352687.92; 587998.73, 3352685.43; 588010.65, 3352685.72; 588015.36, 3352688.21; 588018.52, 3352688.73; 588020.67, 3352682.04; 588036.72, 3352691.56; 588038.15, 3352698.33; 588043.66, 3352700.41; 588056.04, 3352697.97; 588102.37, 3352704.30; 588110.71, 3352704.08; 588127.94, 3352698.20; 588164.16, 3352699.85; 588187.44, 3352702.43; 588206.05, 3352705.27; 588220.08, 3352700.06; 588223.37, 3352687.53; 588244.25, 3352687.18; 588250.09, 3352691.69; 588255.32, 3352689.08; 588257.13, 3352680.38; 588264.75, 3352677.83; 588276.37, 3352657.89; 588295.24, 3352650.43; 588302.60, 3352657.73; 588308.29, 3352650.82; 588317.70, 3352657.30; 588328.99, 3352665.19; 588344.36, 3352672.26; 588349.54, 3352669.64; 588365.69, 3352677.16; 588372.51, 3352674.52; 588371.86, 3352684.80; 588374.42, 3352693.23; 588378.74, 3352695.71; 588380.16, 3352702.12; 588382.89, 3352704.12; 588384.64, 3352697.86; 588382.34, 3352694.24; 588376.87, 3352690.92; 588378.91, 3352688.98; 588382.92, 3352687.51; 588381.92, 3352679.94; 588376.95, 3352671.51; 588359.68, 3352661.59; 588348.39, 3352653.75; 588349.39, 3352645.85; 588332.51, 3352637.50; 588338.66, 3352630.10; 588346.71, 3352625.93; 588349.43, 3352628.37; 588368.77, 3352633.22; 588382.74, 3352630.83; 588388.66, 3352616.68; 588385.08, 3352601.11; 588378.03, 3352597.00; 588377.78, 3352590.62; 588382.57, 3352589.93; 588384.41, 3352580.11; 588395.03, 3352583.94; 588395.74, 3352572.03; 588389.03, 3352567.99; 588383.05, 3352569.03; 588382.04, 3352563.76; 588386.57, 3352557.13; 588395.06, 3352551.41; 588405.13, 3352546.11; 588412.33, 3352543.92; 588417.05, 3352546.03; 588416.29, 3352560.31; 588424.53, 3352564.82; 588434.38, 3352568.25; 588435.38, 3352575.83; 588441.59, 3352581.54; 588455.62, 3352576.33; 588465.47, 3352579.76; 588470.08, 3352586.18; 588475.52, 3352605.05; 588482.19, 3352610.71; 588493.32, 3352610.17; 588505.76, 3352604.93; 588519.63, 3352606.46; 588530.06, 3352603.16; 588516.13, 3352587.77; 588521.95, 3352577.55; 588528.87, 3352571.04; 588530.79, 3352557.61; 588528.13, 3352553.17; 588515.82, 3352552.43; 588504.34, 3352549.46; 588500.51, 3352545.30; 588503.87, 3352537.90; 588515.99, 3352530.27; 588522.87, 3352525.26; 588531.94, 3352527.86; 588531.05, 3352515.97; 588531.68, 3352506.44; 588536.40, 3352492.32; 588545.50, 3352494.11; 588551.35, 3352498.63; 588554.74, 3352489.97; 588545.68, 3352487.00; 588544.75, 3352475.86; 588552.37, 3352473.31; 588563.83, 3352476.34; 588565.97, 3352484.01; 588570.13, 3352493.98; 588564.40, 3352500.95; 588561.81, 3352508.81; 588552.84, 3352518.52; 588554.00, 3352533.21; 588559.04, 3352540.08; 588563.89, 3352551.32; 588574.18, 3352554.69; 588583.14, 3352559.72; 588590.47, 3352570.58; 588594.29, 3352560.75; 588600.92, 3352565.66; 588600.67, 3352573.65; 588602.97, 3352593.12; 588603.58, 3352600.69; 588608.80, 3352598.44; 588616.04, 3352596.56; 588622.19, 3352605.46; 588638.02, 3352607.85; 588632.71, 3352611.71; 588619.89, 3352615.76; 588610.26, 3352619.46; 588599.34, 3352627.11; 588591.73, 3352631.67; 588599.59, 3352634.98; 588614.33, 3352632.98; 588623.63, 3352627.28; 588637.98, 3352624.89; 588636.99, 3352632.80; 588646.53, 3352633.03; 588654.98, 3352628.44; 588651.53, 3352639.46; 588655.80, 3352642.00; 588661.76, 3352643.28; 588666.63, 3352639.09; 588673.00, 3352637.31; 588672.53, 3352641.61; 588681.30, 3352640.64; 588685.61, 3352642.68; 588690.25, 3352647.98; 588693.62, 3352639.01; 588701.93, 3352639.97; 588717.91, 3352638.37; 588717.43, 3352623.75; 588724.34, 3352619.87; 588735.48, 3352618.96; 588753.23, 3352608.72; 588755.94, 3352610.79; 588752.21, 3352617.44; 588752.84, 3352622.26; 588765.62, 3352619.77; 588774.76, 3352621.56; 588782.32, 3352620.94; 588790.39, 3352614.08; 588814.67, 3352612.69; 588828.00, 3352605.84; 588832.46, 3352600.03; 588846.05, 3352597.24; 588855.16, 3352582.36; 588861.58, 3352581.71; 588870.31, 3352582.30; 588874.72, 3352580.42; 588872.95, 3352569.76; 588883.54, 3352577.45; 588892.60, 3352578.55; 588901.68, 3352581.52; 588905.76, 3352578.44; 588906.32, 3352572.09; 588914.73, 3352569.93; 588911.60, 3352563.17; 588911.38, 3352562.66; 588728.45, 3352322.32; 588728.13, 3352321.87; 588677.31, 3352338.08; 588530.76, 3352399.79; 588298.10, 3352504.24; 588188.01, 3352552.62; 588123.18, 3352570.79; 588087.86, 3352583.08; 588057.67, 3352598.94; 587972.72, 3352623.35; 587972.93, 3352691.28

590420.76, 3351642.19; 590320.06, 3351668.11; 590320.30, 3351713.74; 590330.53, 3351709.72; 590354.20, 3351700.82; 590383.24, 3351695.80; 590401.70, 3351688.33; 590407.64, 3351677.18; 590430.54, 3351662.89; 590456.98, 3351658.56; 590467.59, 3351659.45; 590499.20, 3351634.89; 590510.15, 3351626.05; 590521.45, 3351618.78; 590515.79, 3351606.71; 590502.95, 3351596.09; 590486.84, 3351588.57; 590473.36, 3351591.61; 590449.21, 3351603.68; 590410.57, 3351619.57; 590320.06, 3351668.11; 590320.37, 3351728.04; 590320.43, 3351738.98; 590320.97, 3351738.63; 590326.06, 3351729.46; 590324.95, 3351726.62; 590320.37, 3351728.04.

(iii) Note: Map 3, Units 3 and 4 of Choctowhatchee beach mouse, follows:

BILLING CODE 4310-55-P

BILLING CODE 4310-55-C

(10) CBM—Unit 5: West Crooked Island/Shell Island Unit, Bay County, Florida.

(i) General Description: This unit encompasses essential features of beach mouse habitat within the boundaries of St. Andrew State Park mainland from 0.1 mi (0.2 km) east of trailer park road east to the entrance channel of St. Andrew Sound, Shell Island east of the entrance of St. Andrew Sound east to East Pass, and West Crooked Island southwest of East Bay and east of the entrance channel of St. Andrew Sound, and areas from the MHWL north to the seaward extent of the maritime forest. Shell Island consists of State lands, Tyndall Air Force Base lands, as well as small private inholdings.

(ii) Coordinates: From USGS 1:24,000 quadrangle maps Panama City, Beacon Beach, and Long Point, Florida, land bounded by the following UTM 16 NAD 83 coordinates (E, N): 620962.07, 3334745.86; 620978.22, 3334694.43; 620963.77, 3334700.01; 620976.15, 3334719.99; 620956.70, 3334712.88; 620956.66, 3334745.41; 620948.27, 3334763.05; 620928.14, 3334789.51; 620941.26, 3334789.03; 620978.37, 3334767.36; 620984.33, 3334751.28; 620994.82, 3334745.55; 620996.00, 3334720.43; 620977.67, 3334704.34; 620978.22, 3334694.43

621115.29, 3334512.76; 621027.54, 3334677.02; 621042.28, 3334675.83; 621059.27, 3334679.82; 621060.65, 3334656.44; 621061.40, 3334642.23; 621051.64, 3334635.24; 621048.65, 3334627.99; 621059.23, 3334617.95; 621063.55, 3334604.20; 621091.01, 3334602.89; 621105.19, 3334592.20; 621106.52, 3334602.91; 621092.44, 3334625.15; 621100.13, 3334635.27; 621117.48, 3334624.97; 621118.44, 3334618.25; 621133.23, 3334615.07; 621141.80, 3334605.79; 621136.35, 3334585.80; 621138.72, 3334570.44; 621145.26, 3334563.87; 621157.36, 3334572.10; 621172.61, 3334571.05; 621173.34, 3334542.35; 621169.33, 3334538.13; 621161.41, 3334525.63; 621149.18, 3334521.20; 621149.38, 3334513.03; 621166.25, 3334497.04; 621175.44, 3334489.28; 621190.74, 3334497.59; 621207.85, 3334496.46; 621215.02, 3334495.83; 621222.46, 3334500.38; 621237.23, 3334497.95; 621161.08, 3334456.02; 621156.94, 3334462.66; 621151.19, 3334470.07; 621141.15, 3334474.18; 621130.03, 3334473.90; 621131.83, 3334481.44; 621129.52, 3334494.05; 621132.53, 3334500.87; 621127.20, 3334507.42; 621121.20, 3334508.95; 621113.77, 3334503.59; 621105.71, 3334508.13; 621102.71, 3334517.17; 621109.43, 3334522.58; 621118.13, 3334519.99; 621120.40, 3334525.16; 621113.44, 3334532.92; 621108.79, 3334543.54; 621104.33, 3334531.88; 621098.28, 3334535.34; 621097.56, 3334548.00; 621094.56, 3334556.23; 621087.71, 3334560.42; 621079.00, 3334559.02; 621075.23, 3334566.48; 621073.05, 3334574.35; 621066.92, 3334580.88; 621057.57, 3334589.38; 621054.34, 3334575.44; 621043.47, 3334581.54; 621036.93, 3334604.34; 621030.52, 3334606.18; 621017.33, 3334608.97; 621015.44, 3334620.85; 621001.32, 3334629.23; 621006.55, 3334642.78; 621008.29, 3334652.38; 620993.35, 3334661.49; 621005.24, 3334662.98; 621014.21, 3334669.57; 621013.99, 3334678.30; 621027.54, 3334677.02

621011.69, 3334454.98; 621105.55, 3334420.17; 621103.74, 3334416.94; 621091.67, 3334407.08; 621075.22, 3334397.56; 621051.70, 3334384.29; 621035.12, 3334379.94; 621017.74, 3334375.89; 621004.21, 3334376.48; 620990.68, 3334377.64; 620973.98, 3334377.28; 620954.83, 3334380.36; 620953.09, 3334386.69; 620949.35, 3334392.90; 620941.36, 3334394.32; 620932.72, 3334390.11; 620925.95, 3334391.06; 620920.91, 3334394.18; 620920.53, 3334433.00; 620917.84, 3334647.42; 620943.22, 3334636.07; 620952.01, 3334634.30; 620955.42, 3334624.89; 620964.75, 3334617.95; 620982.66, 3334616.84; 620986.14, 3334605.00; 620981.10, 3334583.90; 620988.20, 3334570.22; 621004.93, 3334569.02; 620999.23, 3334554.21; 621010.40, 3334553.30; 621017.76, 3334563.91; 621024.64, 3334559.34; 621013.85, 3334545.96; 621008.41, 3334540.64; 621012.94, 3334531.20; 621022.53, 3334528.64; 621029.30, 3334532.05; 621036.71, 3334534.17; 621045.49, 3334532.40; 621045.76, 3334525.35; 621041.13, 3334520.11; 621043.67, 3334510.19; 621049.33, 3334510.39; 621059.33, 3334503.84; 621063.49, 3334496.39; 621056.38, 3334494.22; 621052.54, 3334492.62; 621050.73, 3334485.83; 621048.10, 3334476.59; 621052.57, 3334472.33; 621060.98, 3334473.42; 621070.04, 3334476.27; 621074.08, 3334470.50; 621072.00, 3334458.15; 621079.83, 3334450.92; 621086.20, 3334446.59; 621092.08, 3334434.19; 621098.70, 3334423.93; 621105.55, 3334420.17

621134.29, 3334358.78; 621024.33, 3334366.63; 621050.00, 3334373.26; 621075.14, 3334384.57; 621120.60, 3334410.31; 621147.97, 3334412.49; 621153.83, 3334400.34; 621164.80, 3334393.13; 621193.64, 3334399.78; 621206.90, 3334408.10; 621225.28, 3334420.05; 621242.42, 3334433.59; 621259.69, 3334442.33; 621264.40, 3334428.59; 621265.55, 3334414.76; 621265.21, 3334399.77; 621250.87, 3334381.87; 621232.94, 3334370.24; 621202.80, 3334351.63; 621169.49, 3334331.07; 621135.92, 3334307.25; 621114.85, 3334293.18; 621103.39, 3334288.96; 621091.03, 3334290.27; 621082.99, 3334294.00; 621059.43, 3334314.45; 621043.32, 3334322.72; 621028.39, 3334346.94; 621015.66, 3334348.18; 621005.21, 3334352.29; 621003.03, 3334360.16; 621008.45, 3334365.85; 621024.33, 3334366.63

621508.01, 3333970.37; 621883.15, 3333499.89; 621861.99, 3333488.25; 621843.41, 3333484.22; 621828.35, 3333482.66; 621811.60, 3333484.61; 621795.21, 3333488.94; 621774.59, 3333502.35; 621752.20, 3333529.25; 621694.63, 3333605.52; 621669.77, 3333640.42; 621650.21, 3333665.02; 621638.96, 3333681.97; 621622.12, 3333703.77; 621614.29, 3333714.68; 621608.05, 3333725.64; 621593.27, 3333744.68; 621577.58, 3333766.51; 621566.56, 3333793.20; 621559.11, 3333820.79; 621552.25, 3333840.78; 621540.17, 3333862.33; 621529.13, 3333876.66; 621516.11, 3333889.00; 621503.05, 3333902.53; 621488.44, 3333914.09; 621477.46, 3333924.49; 621463.10, 3333942.36; 621454.03, 3333955.24; 621444.88, 3333969.30; 621440.19, 3333984.23; 621422.43, 3334026.55; 621414.13, 3334038.32; 621399.44, 3334053.81; 621382.49, 3334065.99; 621365.03, 3334080.22; 621354.05, 3334088.75; 621343.79, 3334103.48; 621334.70, 3334115.23; 621324.87, 3334128.41; 621314.33, 3334136.82; 621306.97, 3334143.06; 621299.69, 3334148.44; 621288.86, 3334152.10; 621277.63, 3334156.19; 621266.87, 3334157.48; 621254.62, 3334155.92; 621241.47, 3334155.65; 621224.85, 3334154.42; 621208.62, 3334150.52; 621193.13, 3334149.69; 621180.04, 3334150.93; 621161.92, 3334159.96; 621147.19, 3334175.13; 621142.16, 3334185.68; 621137.00, 3334201.03; 621124.32, 3334230.80; 621116.95, 3334255.21; 621118.04, 3334275.09; 621124.26, 3334280.37; 621130.40, 3334289.64; 621149.96, 3334302.05; 621185.16, 3334324.72; 621250.50, 3334365.63; 621266.49, 3334377.51; 621275.36, 3334388.04; 621282.53, 3334403.26; 621301.53, 3334390.69; 621317.33, 3334381.79; 621331.78, 3334388.64; 621339.82, 3334385.29; 621336.32, 3334366.16; 621326.58, 3334340.94; 621314.56, 3334328.34; 621331.42, 3334312.35; 621347.87, 3334312.76; 621370.00, 3334323.00; 621366.23, 3334346.68; 621383.65, 3334333.26; 621410.97, 3334306.23; 621424.69, 3334281.98; 621424.64, 3334267.69; 621388.94, 3334249.37; 621394.97, 3334240.04; 621413.39, 3334225.77; 621424.48, 3334212.06; 621443.99, 3334209.49; 621465.98, 3334188.70; 621474.29, 3334174.61; 621481.92, 3334155.39; 621491.05, 3334140.13; 621503.53, 3334133.71; 621526.41, 3334109.31; 621523.83, 3334101.32; 621509.74, 3334095.16; 621509.04, 3334072.79; 621526.74, 3334064.56; 621525.36, 3334055.79; 621512.55, 3334060.21; 621506.87, 3334045.83; 621519.93, 3334017.38; 621532.37, 3334013.64; 621536.69, 3334005.51; 621545.43, 3333985.19; 621551.86, 3333968.81; 621560.61, 3333952.36; 621598.10, 3333978.27; 621607.76, 3333962.16; 621608.17, 3333945.75; 621612.59, 3333933.50; 621629.25, 3333925.74; 621637.79, 3333913.66; 621642.31, 3333897.36; 621646.63, 3333889.22; 621650.95, 3333881.15; 621663.49, 3333873.23; 621680.17, 3333865.47; 621690.37, 3333849.75; 621693.43, 3333828.85; 621706.08, 3333816.81; 621718.94, 3333796.65; 621694.16, 3333800.09; 621681.72, 3333803.90; 621673.80, 3333791.40; 621680.05, 3333770.64; 621691.18, 3333754.88; 621699.41, 3333755.09; 621711.75, 3333755.40; 621719.97, 3333755.60; 621732.51, 3333747.74; 621744.96, 3333743.93; 621760.51, 3333761.99; 621770.93, 3333742.84; 621775.64, 3333729.10; 621761.92, 3333723.82; 621749.59, 3333723.51; 621741.57, 3333715.07; 621737.66, 3333706.80; 621737.87, 3333698.56; 621734.27, 3333678.00; 621733.96, 3333663.82; 621738.90, 3333656.82; 621751.03, 3333665.06; 621784.53, 3333676.20; 621808.21, 3333683.91; 621820.55, 3333684.22; 621824.76, 3333680.27; 621820.96, 3333667.81; 621822.81, 3333655.37; 621813.15, 3333651.20; 621813.19, 3333642.83; 621811.06, 3333632.48; 621810.04, 3333625.71; 621815.45, 3333615.92; 621822.51, 3333606.30; 621835.16, 3333594.32; 621847.81, 3333582.28; 621856.45, 3333566.08; 621856.55, 3333562.02; 621862.72, 3333553.69; 621859.70, 3333531.83; 621877.22, 3333530.27; 621899.07, 3333530.44; 621898.05, 3333524.05; 621890.18, 3333520.67; 621892.08, 3333508.86; 621883.15, 3333499.89

621005.60, 3334164.58; 621156.94, 3334119.45; 621152.34, 3334112.59; 621138.89, 3334112.19; 621134.58, 3334107.40; 621103.46, 3334051.06; 621083.49, 3334039.44; 621058.44, 3334038.63; 621024.16, 3334012.61; 620874.41, 3334167.03; 620844.22, 3334206.91; 620859.42, 3334234.64; 620907.98, 3334342.48; 620911.58, 3334357.24; 620915.99, 3334357.97; 620935.08, 3334329.86; 620957.32, 3334314.94; 620971.60, 3334300.25; 620978.26, 3334286.19; 620987.10, 3334282.48; 620993.34, 3334287.38; 621007.36, 3334298.84; 621013.90, 3334291.08; 621029.46, 3334291.03; 621042.42, 3334311.21; 621042.23, 3334318.76; 621061.57, 3334308.13; 621072.70, 3334292.56; 621081.49, 3334290.03; 621104.05, 3334280.17; 621104.80, 3334264.02; 621109.30, 3334243.54; 621117.48, 3334218.77; 621126.03, 3334194.76; 621133.24, 3334176.72; 621145.98, 3334160.00; 621166.98, 3334146.67; 621156.94, 3334119.45

621611.47, 3333575.96; 621899.95, 3333472.78; 621900.32, 3333455.69; 621896.66, 3333442.86; 621888.54, 3333433.54; 621877.50, 3333430.15; 621852.03, 3333463.15; 621804.87, 3333436.50; 621862.56, 3333355.11; 621873.62, 3333342.28; 621884.50, 3333336.25; 621898.81, 3333336.17; 621911.12, 3333336.11; 621927.47, 3333334.14; 621949.34, 3333333.88; 621982.75, 3333332.35; 621982.47, 3333312.49; 621978.98, 3333308.84; 621967.81, 3333310.56; 621965.99, 3333288.48; 621971.61, 3333286.06; 621992.29, 3333285.40; 622009.33, 3333287.45; 622008.39, 3333309.21; 621989.25, 3333311.10; 621990.31, 3333332.54; 622007.81, 3333332.17; 622032.06, 3333331.59; 622043.61, 3333331.07; 622052.74, 3333331.30; 622057.23, 3333326.29; 622075.72, 3333333.87; 622067.41, 3333348.33; 622052.91, 3333340.04; 622052.63, 3333335.66; 622050.24, 3333335.23; 622047.35, 3333340.34; 622048.19, 3333354.22; 622054.53, 3333354.75; 622057.47, 3333348.52; 622075.82, 3333357.22; 622070.43, 3333370.63; 622055.53, 3333361.89; 622054.02, 3333359.11; 622050.45, 3333358.64; 622050.87, 3333373.70; 622054.41, 3333375.35; 622055.73, 3333370.26; 622074.91, 3333381.42; 622068.28, 3333392.74; 622052.67, 3333381.30; 622052.36, 3333393.53; 621968.90, 3333393.43; 621923.57, 3333394.29; 621904.82, 3333397.37; 621896.73, 3333403.10; 621887.99, 3333418.36; 621896.52, 3333426.88; 621899.91, 3333434.52; 621904.78, 3333446.13; 621910.26, 3333465.30; 621908.98, 3333475.01; 621906.49, 3333488.99; 621899.48, 3333498.74; 621914.90, 3333517.73; 621925.15, 3333537.03; 621925.65, 3333517.19; 621915.48, 3333485.53; 621915.02, 3333472.04; 621919.73, 3333458.24; 621927.08, 3333450.49; 621925.89, 3333444.28; 621934.71, 3333441.32; 621933.02, 3333429.42; 621941.44, 3333426.45; 621940.40, 3333420.49; 621953.56, 3333418.45; 621952.17, 3333410.86; 621958.31, 3333403.90; 621967.87, 3333402.51; 621975.31, 3333407.45; 621991.19, 3333407.84; 621994.87, 3333403.63; 622003.98, 3333405.42; 622009.79, 3333411.12; 622021.66, 3333413.42; 622030.58, 3333405.71; 622043.66, 3333407.60; 622053.97, 3333424.09; 622067.49, 3333424.06; 622092.11, 3333425.05; 622103.83, 3333432.90; 622127.29, 3333432.80; 622144.08, 3333428.91; 622158.72, 3333437.33; 622166.78, 3333449.02; 622175.07, 3333451.17; 622180.71, 3333448.19; 622177.32, 3333440.55; 622155.80, 3333420.72; 622140.75, 3333387.19; 622137.39, 3333369.01; 622137.93, 3333347.61; 622144.08, 3333349.45; 622145.35, 3333330.63; 622139.59, 3333297.27; 622136.62, 3333273.41; 622123.66, 3333260.54; 622088.23, 3333238.11; 622059.32, 3333211.79; 622032.70, 3333163.93; 621995.93, 3333109.51; 621950.18, 3333158.30; 621925.08, 3333183.27; 621909.61, 3333197.17; 621890.82, 3333211.50; 621867.61, 3333233.51; 621840.27, 3333261.79; 621795.65, 3333297.50; 621748.76, 3333344.70; 621683.83, 3333397.75; 621604.06, 3333456.05; 621443.71, 3333605.78; 621389.69, 3333651.99; 621266.54, 3333778.11; 621129.36, 3333922.86; 621042.23, 3333988.91; 621066.17, 3334016.85; 621085.32, 3333998.29; 621121.05, 3333983.71; 621146.88, 3333968.50; 621176.94, 3333958.21; 621191.23, 3333990.28; 621231.17, 3333967.06; 621248.81, 3334008.33; 621274.52, 3334060.54; 621268.54, 3334076.62; 621175.20, 3334121.84; 621169.09, 3334126.49; 621170.19, 3334131.64; 621178.23, 3334141.83; 621190.57, 3334141.33; 621205.68, 3334140.90; 621221.09, 3334144.09; 621236.52, 3334147.23; 621258.74, 3334148.59; 621271.49, 3334147.29; 621291.97, 3334139.13; 621301.22, 3334134.99; 621311.78, 3334125.71; 621322.82, 3334113.31; 621333.93, 3334098.55; 621344.18, 3334086.13; 621351.96, 3334076.40; 621365.73, 3334066.45; 621382.35, 3334053.38; 621397.40, 3334039.90; 621408.77, 3334030.26; 621415.83, 3334018.14; 621425.84, 3333999.79; 621432.06, 3333973.35; 621437.52, 3333962.00; 621445.36, 3333950.34; 621454.85, 3333936.28; 621474.89, 3333914.19; 621490.01, 3333897.90; 621502.23, 3333885.91; 621518.08, 3333871.64; 621528.71, 3333860.42; 621534.90, 3333851.09; 621541.96, 3333839.34; 621548.84, 3333818.54; 621555.71, 3333797.67; 621564.37, 3333769.74; 621575.29, 3333746.66; 621589.20, 3333730.35; 621600.73, 3333715.15; 621618.79, 3333691.82; 621633.66, 3333670.04; 621648.02, 3333652.17; 621668.56, 3333625.72; 621688.35, 3333597.25; 621722.12, 3333550.53; 621745.91, 3333521.04; 621762.66, 3333502.80; 621777.71, 3333488.94; 621795.43, 3333480.27; 621807.43, 3333477.01; 621826.93, 3333475.51; 621847.19, 3333476.39; 621864.18, 3333480.38; 621874.83, 3333483.45; 621887.33, 3333491.69; 621899.95, 3333472.78; 621996.16, 3333194.73; 621990.25, 3333192.58; 621985.62, 3333187.72; 621987.37, 3333180.65; 621991.46, 3333176.38; 621998.21, 3333176.55; 622003.30, 3333179.49; 622005.56, 3333184.66; 622003.80, 3333191.36; 621996.16, 3333194.73; 622071.85, 3333314.36; 622058.50, 3333307.72; 622061.47, 3333300.24; 622074.04, 3333306.11; 622071.85, 3333314.36; 622093.43, 3333325.20; 622095.20, 3333317.76; 622108.61, 3333322.03; 622107.22, 3333329.92; 622093.43, 3333325.20; 621924.56, 3333323.77; 621912.23, 3333323.84; 621907.18, 3333319.34; 621910.83, 3333300.39; 621928.99, 3333305.65; 621924.56, 3333323.77

622066.27, 3333307.03; 622071.85, 3333314.36; 622074.04, 3333306.11; 622061.47, 3333300.24; 622058.50, 3333307.72; 622071.85, 3333314.36

623389.94, 3333035.44; 623323.45, 3333193.47; 623349.05, 3333170.77; 623377.48, 3333146.51; 623420.48, 3333096.41; 623444.00, 3333062.16; 623462.08, 3333038.02; 623477.02, 3333028.91; 623477.98, 3333013.08; 623475.86, 3332991.80; 623465.44, 3332983.61; 623457.48, 3332983.41; 623449.86, 3332969.99; 623436.92, 3332956.43; 623423.79, 3332950.79; 623413.37, 3332942.60; 623405.48, 3332939.72; 623397.59, 3332936.90; 623378.88, 3332941.73; 623370.78, 3332946.77; 623358.82, 3332956.52; 623349.47, 3332949.17; 623342.03, 3332960.10; 623332.88, 3332960.62; 623335.10, 3332951.56; 623334.17, 3332941.23; 623325.99, 3332932.41; 623315.18, 3332938.01; 623303.80, 3332931.79; 623301.89, 3332928.31; 623303.63, 3333200.47; 623323.45, 3333193.47

623207.01, 3333030.35; 623301.89, 3332928.31; 623301.88, 3332926.77; 623299.51, 3332922.52; 623301.58, 3332915.71; 623300.16, 3332757.18; 623272.59, 3332791.82; 623238.88, 3332831.80; 623235.27, 3332853.49; 623239.65, 3332869.08; 623213.98, 3332894.16; 623212.26, 3332915.15; 623197.27, 3332926.26; 623190.01, 3332930.82; 623190.30, 3332919.34; 623177.76, 3332911.91; 623173.18, 3332920.54; 623159.54, 3332925.31; 623140.57, 3332921.28; 623134.66, 3332902.90; 623110.39, 3332919.71; 623113.08, 3332955.48; 623120.41, 3332979.83; 623127.22, 3333025.19; 623132.41, 3333039.62; 623143.96, 3333070.43; 623184.81, 3333120.96; 623208.89, 3333143.42; 623228.03, 3333156.94; 623253.69, 3333179.37; 623275.96, 3333194.60; 623303.63, 3333200.47; 623301.89, 3332928.31

623723.20, 3332414.74; 623301.58, 3332915.71; 623311.98, 3332906.98; 623319.00, 3332896.80; 623331.66, 3332883.26; 623337.50, 3332872.29; 623347.93, 3332868.25; 623353.74, 3332858.84; 623352.44, 3332846.95; 623370.63, 3332835.11; 623377.77, 3332835.29; 623387.33, 3332818.48; 623402.21, 3332811.68; 623412.56, 3332795.33; 623422.77, 3332784.48; 623425.83, 3332773.44; 623446.89, 3332758.12; 623458.49, 3332739.37; 623467.60, 3332740.41; 623481.18, 3332721.71; 623490.29, 3332723.56; 623498.97, 3332709.86; 623518.81, 3332711.17; 623527.48, 3332698.34; 623535.17, 3332692.98; 623541.43, 3332681.21; 623562.79, 3332685.31; 623579.21, 3332684.47; 623595.06, 3332687.49; 623600.65, 3332677.08; 623591.73, 3332671.80; 623589.32, 3332657.82; 623601.68, 3332655.76; 623606.02, 3332625.78; 623621.71, 3332617.81; 623635.88, 3332607.49; 623648.00, 3332584.39; 623662.83, 3332579.64; 623677.37, 3332570.08; 623687.16, 3332560.40; 623703.64, 3332552.89; 623710.70, 3332540.77; 623731.36, 3332547.90; 623739.12, 3332556.09; 623750.91, 3332554.07; 623768.73, 3332556.52; 623779.31, 3332546.49; 623787.43, 3332536.08; 623790.42, 3332522.92; 623793.48, 3332507.08; 623799.04, 3332496.67; 623809.93, 3332486.33; 623825.98, 3332481.43; 623841.85, 3332484.51; 623846.68, 3332503.17; 623857.03, 3332513.98; 623870.51, 3332506.39; 623873.69, 3332485.31; 623873.95, 3332474.70; 623861.03, 3332461.15; 623861.29, 3332450.54; 623869.65, 3332434.83; 623872.71, 3332419.05; 623872.85, 3332413.75; 623883.65, 3332406.09; 623894.33, 3332403.68; 623913.89, 3332394.87; 623933.57, 3332402.48; 623942.31, 3332418.55; 623957.82, 3332413.26; 623965.15, 3332411.20; 623963.54, 3332397.49; 623960.78, 3332379.00; 623960.21, 3332354.39; 623996.24, 3332363.85; 624009.25, 3332374.79; 624022.46, 3332377.81; 624033.45, 3332365.79; 624025.84, 3332348.74; 624016.02, 3332332.45; 624026.05, 3332328.71; 624032.16, 3332309.13; 624035.08, 3332298.66; 624032.69, 3332287.99; 624040.98, 3332274.96; 624062.87, 3332270.95; 624069.10, 3332276.29; 624078.75, 3332287.64; 624088.66, 3332288.64; 624091.48, 3332273.54; 624083.91, 3332257.50; 624096.46, 3332247.26; 624108.20, 3332242.19; 624111.19, 3332229.03; 624100.84, 3332218.16; 624095.90, 3332206.42; 624082.93, 3332191.24; 624083.46, 3332170.09; 624086.44, 3332156.87; 624108.28, 3332133.64; 624127.19, 3332120.82; 624143.46, 3332107.99; 624146.23, 3332102.75; 624132.84, 3332107.72; 624124.73, 3332112.83; 624090.23, 3332111.96; 624080.03, 3332110.89; 624067.63, 3332129.56; 624057.86, 3332132.37; 624041.80, 3332137.21; 624022.00, 3332142.33; 624017.92, 3332146.60; 624012.52, 3332155.95; 624001.58, 3332152.12; 623988.32, 3332151.78; 623978.34, 3332155.47; 623975.23, 3332168.87; 623973.13, 3332173.56; 623958.41, 3332174.00; 623952.89, 3332187.97; 623948.73, 3332195.55; 623940.38, 3332195.34; 623928.53, 3332205.90; 623917.91, 3332205.64; 623904.79, 3332200.00; 623897.03, 3332191.88; 623897.23, 3332183.95; 623897.76, 3332162.74; 623906.94, 3332150.11; 623909.03, 3332136.56; 623917.41, 3332120.85; 623923.11, 3332105.14; 623931.40, 3332092.11; 623950.18, 3332084.59; 623962.99, 3332071.06; 623959.33, 3332058.67; 623951.47, 3332039.06; 623946.93, 3332061.17; 623941.66, 3332065.40; 623927.16, 3332073.34; 623927.10, 3332059.86; 623937.85, 3332047.20; 623940.76, 3332036.73; 623927.70, 3332028.41; 623938.58, 3332018.13; 623941.56, 3332004.91; 623947.01, 3331999.80; 623960.47, 3331992.15; 623968.76, 3331979.13; 623971.82, 3331963.35; 623969.30, 3331957.98; 623955.77, 3331968.19; 623950.25, 3331976.04; 623944.82, 3331981.21; 623942.36, 3331973.16; 623942.63, 3331962.61; 623942.96, 3331949.33; 623937.74, 3331937.21; 623931.52, 3331931.93; 623930.05, 3331942.57; 623933.81, 3331951.03; 623923.37, 3331955.51; 623915.11, 3331967.98; 623912.97, 3331980.41; 623923.12, 3331999.20; 623917.48, 3332012.30; 623903.94, 3332022.51; 623896.05, 3332019.69; 623872.30, 3332013.78; 623858.22, 3332017.30; 623853.62, 3332026.67; 623853.12, 3332037.15; 623847.41, 3332052.92; 623837.27, 3332060.34; 623841.37, 3332081.86; 623838.45, 3332092.40; 623830.02, 3332110.73; 623821.73, 3332123.75; 623808.32, 3332128.72; 623778.52, 3332151.82; 623775.48, 3332167.60; 623777.92, 3332175.65; 623769.63, 3332188.68; 623758.68, 3332201.63; 623753.11, 3332212.11; 623750.85, 3332196.13; 623740.04, 3332203.79; 623737.13, 3332214.33; 623738.14, 3332224.34; 623744.75, 3332227.75; 623744.35, 3332243.66; 623743.95, 3332259.57; 623732.93, 3332275.15; 623716.60, 3332290.66; 623675.33, 3332347.86; 623661.27, 3332357.18; 623658.21, 3332368.65; 623669.80, 3332381.99; 623663.65, 3332389.39; 623650.53, 3332389.06; 623643.59, 3332396.82; 623633.45, 3332404.86; 623636.58, 3332410.43; 623615.01, 3332423.19; 623596.30, 3332427.96; 623585.35, 3332440.98; 623563.45, 3332466.90; 623541.29, 3332503.43; 623522.34, 3332507.94; 623520.49, 3332518.57; 623524.73, 3332523.42; 623520.08, 3332534.79; 623494.08, 3332541.32; 623488.41, 3332545.54; 623478.47, 3332561.90; 623482.55, 3332573.11; 623451.17, 3332601.79; 623440.69, 3332596.22; 623441.02, 3332582.99; 623436.88, 3332571.59; 623416.27, 3332585.31; 623409.39, 3332590.31; 623418.34, 3332597.66; 623413.62, 3332616.76; 623402.15, 3332640.88; 623379.24, 3332650.98; 623345.03, 3332699.69; 623320.06, 3332746.82; 623307.25, 3332747.87; 623300.16, 3332757.18; 623301.58, 3332915.71

624324.69, 3331250.34; 623608.09, 3331788.91; 623616.14, 3331784.74; 623622.23, 3331779.78; 623627.93, 3331773.18; 623633.63, 3331775.63; 623633.54, 3331779.06; 623633.40, 3331784.80; 623628.69, 3331789.24; 623625.17, 3331791.46; 623625.00, 3331798.32; 623627.21, 3331801.81; 623625.89, 3331808.71; 623624.56, 3331815.54; 623619.88, 3331818.86; 623616.32, 3331823.39; 623611.65, 3331825.52; 623603.56, 3331827.62; 623597.77, 3331828.66; 623594.25, 3331832.01; 623594.13, 3331836.56; 623596.37, 3331838.93; 623598.59, 3331842.42; 623601.91, 3331847.12; 623606.48, 3331848.36; 623607.46, 3331855.25; 623599.27, 3331860.79; 623593.50, 3331861.83; 623589.95, 3331865.17; 623588.75, 3331867.45; 623588.64, 3331872.01; 623590.79, 3331877.80; 623594.03, 3331885.94; 623593.94, 3331889.37; 623589.23, 3331893.81; 623585.71, 3331897.15; 623582.19, 3331899.37; 623582.11, 3331902.80; 623581.85, 3331910.35; 623571.80, 3331914.91; 623564.94, 3331919.04; 623560.77, 3331926.86; 623559.00, 3331934.37; 623546.80, 3331945.18; 623546.26, 3331950.72; 623550.67, 3331965.06; 623546.55, 3331986.37; 623551.47, 3331996.42; 623558.33, 3331991.85; 623563.22, 3331987.23; 623561.07, 3331962.20; 623552.11, 3331954.80; 623555.55, 3331944.59; 623565.06, 3331940.27; 623567.21, 3331946.06; 623570.65, 3331946.15; 623576.50, 3331942.86; 623576.55, 3331940.56; 623576.64, 3331937.13; 623576.70, 3331934.82; 623580.28, 3331929.16; 623580.34, 3331926.86; 623579.26, 3331924.58; 623585.10, 3331921.23; 623590.84, 3331921.38; 623594.26, 3331922.65; 623597.70, 3331922.74; 623600.06, 3331920.48; 623601.30, 3331917.08; 623602.48, 3331915.93; 623607.10, 3331914.92; 623609.40, 3331914.98; 623610.59, 3331913.88; 623612.94, 3331911.63; 623615.27, 3331910.57; 623617.63, 3331908.32; 623619.98, 3331906.07; 623620.01, 3331904.94; 623621.26, 3331901.54; 623625.97, 3331897.04; 623630.59, 3331896.03; 623637.49, 3331896.21; 623640.96, 3331895.11; 623641.08, 3331890.55; 623640.05, 3331885.91; 623640.22, 3331879.05; 623640.34, 3331874.43; 623639.24, 3331872.15; 623638.21, 3331867.51; 623632.46, 3331867.36; 623629.02, 3331867.28; 623624.39, 3331868.35; 623622.15, 3331865.98; 623619.91, 3331863.62; 623618.90, 3331857.85; 623622.53, 3331851.07; 623628.38, 3331846.60; 623643.45, 3331842.42; 623646.99, 3331839.08; 623648.22, 3331835.61; 623648.36, 3331829.93; 623653.05, 3331826.56; 623648.59, 3331820.76; 623646.47, 3331813.78; 623646.58, 3331809.23; 623646.70, 3331804.61; 623649.08, 3331801.24; 623653.77, 3331797.92; 623659.61, 3331794.64; 623661.97, 3331792.38; 623662.08, 3331787.83; 623663.37, 3331782.12; 623666.94, 3331777.59; 623670.52, 3331771.94; 623676.37, 3331768.65; 623677.64, 3331764.13; 623677.90, 3331753.77; 623678.10, 3331745.72; 623673.49, 3331745.61; 623669.99, 3331747.83; 623666.59, 3331745.43; 623666.71, 3331740.88; 623669.24, 3331731.77; 623670.45, 3331729.49; 623675.22, 3331722.74; 623672.95, 3331721.56; 623670.77, 3331716.89; 623674.30, 3331713.54; 623682.47, 3331709.13; 623689.30, 3331711.61; 623696.26, 3331709.47; 623698.64, 3331706.10; 623704.54, 3331700.50; 623708.11, 3331696.04; 623712.62, 3331689.28; 623709.65, 3331680.91; 623702.92, 3331678.74; 623721.87, 3331680.28; 623726.08, 3331684.69; 623731.80, 3331686.27; 623734.70, 3331684.91; 623743.33, 3331685.12; 623747.63, 3331685.23; 623751.80, 3331691.08; 623756.12, 3331691.19; 623756.22, 3331686.88; 623759.25, 3331681.22; 623758.06, 3331671.20; 623756.76, 3331665.42; 623759.71, 3331662.63; 623761.26, 3331658.36; 623758.56, 3331651.11; 623752.92, 3331646.66; 623751.48, 3331646.63; 623747.18, 3331646.52; 623744.09, 3331655.05; 623743.90, 3331662.23; 623742.21, 3331672.24; 623737.68, 3331680.67; 623730.58, 3331677.62; 623729.20, 3331667.10; 623729.40, 3331660.99; 623723.85, 3331658.85; 623720.97, 3331658.78; 623721.12, 3331653.04; 623719.79, 3331648.70; 623723.17, 3331640.61; 623720.19, 3331632.92; 623724.19, 3331629.34; 623732.44, 3331635.35; 623741.99, 3331634.40; 623745.70, 3331629.31; 623741.49, 3331623.28; 623743.59, 3331617.77; 623750.43, 3331615.14; 623746.64, 3331610.67; 623748.19, 3331606.40; 623754.00, 3331603.68; 623758.43, 3331599.48; 623762.85, 3331595.29; 623768.59, 3331595.43; 623781.29, 3331589.38; 623783.29, 3331582.88; 623786.34, 3331575.78; 623792.15, 3331573.05; 623798.21, 3331564.46; 623792.44, 3331561.63; 623792.59, 3331555.89; 623791.10, 3331547.18; 623796.79, 3331541.83; 623804.57, 3331537.53; 623813.33, 3331532.01; 623824.86, 3331530.86; 623826.30, 3331530.90; 623830.68, 3331528.14; 623838.07, 3331528.20; 623840.77, 3331531.39; 623840.95, 3331540.51; 623841.93, 3331548.89; 623847.88, 3331549.42; 623853.76, 3331552.38; 623857.21, 3331557.21; 623859.80, 3331564.76; 623864.00, 3331572.05; 623867.87, 3331576.08; 623870.63, 3331576.58; 623878.93, 3331578.73; 623883.32, 3331577.65; 623886.58, 3331574.61; 623899.29, 3331559.45; 623909.08, 3331547.15; 623909.68, 3331541.48; 623910.62, 3331535.95; 623911.05, 3331532.53; 623915.82, 3331531.84; 623919.94, 3331528.63; 623927.78, 3331532.82; 623931.87, 3331528.18; 623937.97, 3331522.78; 623943.62, 3331518.93; 623947.23, 3331517.83; 623955.40, 3331522.97; 623969.78, 3331519.77; 623974.36, 3331511.96; 623979.89, 3331515.47; 623989.58, 3331508.97; 623997.31, 3331502.05; 624005.69, 3331500.70; 624013.70, 3331498.09; 624021.65, 3331497.92; 624035.21, 3331494.45; 624030.64, 3331488.22; 624039.17, 3331481.31; 624044.62, 3331469.96; 624045.96, 3331464.01; 624046.43, 3331459.02; 624051.33, 3331455.84; 624060.93, 3331453.71; 624070.18, 3331449.20; 624076.25, 3331444.98; 624082.38, 3331438.39; 624092.84, 3331433.10; 624100.67, 3331435.85; 624111.05, 3331433.68; 624122.70, 3331429.23; 624131.17, 3331423.89; 624137.45, 3331429.47; 624145.26, 3331432.98; 624151.72, 3331428.77; 624154.30, 3331421.35; 624170.63, 3331421.57; 624186.23, 3331418.03; 624192.72, 3331413.01; 624201.99, 3331407.69; 624215.12, 3331407.20; 624227.82, 3331407.96; 624244.21, 3331404.00; 624262.00, 3331407.63; 624276.06, 3331401.62; 624280.16, 3331396.60; 624285.62, 3331385.19; 624299.16, 3331384.35; 624307.99, 3331381.01; 624324.07, 3331373.49; 624330.48, 3331371.28; 624343.08, 3331376.34; 624352.91, 3331380.58; 624365.78, 3331374.53; 624375.12, 3331366.47; 624392.42, 3331358.16; 624402.56, 3331349.74; 624407.86, 3331344.69; 624411.94, 3331340.42; 624416.36, 3331338.98; 624421.59, 3331336.30; 624426.93, 3331329.32; 624434.59, 3331325.14; 624441.14, 3331317.38; 624453.64, 3331310.57; 624469.87, 3331297.50; 624476.73, 3331292.93; 624488.51, 3331282.92; 624500.01, 3331268.10; 624503.73, 3331262.64; 624501.67, 3331249.17; 624499.92, 3331236.26; 624501.96, 3331218.15; 624505.83, 3331222.12; 624509.57, 3331215.85; 624512.90, 3331210.00; 624516.61, 3331204.97; 624520.26, 3331201.51; 624522.40, 3331195.57; 624527.28, 3331191.32; 624531.38, 3331186.30; 624537.83, 3331182.91; 624545.82, 3331181.49; 624549.12, 3331176.45; 624553.58, 3331172.57; 624559.32, 3331165.97; 624562.97, 3331162.50; 624562.33, 3331156.93; 624567.13, 3331155.49; 624575.95, 3331152.53; 624580.11, 3331145.08; 624584.73, 3331135.71; 624582.98, 3331126.18; 624588.25, 3331121.94; 624596.18, 3331122.51; 624603.81, 3331135.38; 624611.14, 3331128.07; 624611.75, 3331119.72; 624616.49, 3331121.03; 624622.85, 3331121.19; 624629.85, 3331127.35; 624635.90, 3331139.37; 624641.80, 3331157.74; 624646.52, 3331159.05; 624648.80, 3331147.62; 624644.27, 3331138.77; 624642.71, 3331121.68; 624643.31, 3331113.40; 624656.91, 3331125.66; 624665.27, 3331125.06; 624664.03, 3331111.55; 624666.15, 3331106.04; 624667.57, 3331096.96; 624673.76, 3331103.49; 624675.03, 3331116.57; 624679.62, 3331123.80; 624687.98, 3331122.82; 624682.84, 3331106.46; 624677.60, 3331077.80; 624687.39, 3331083.60; 624695.43, 3331095.29; 624697.52, 3331106.83; 624705.41, 3331109.03; 624713.32, 3331110.79; 624722.63, 3331120.13; 624733.74, 3331120.85; 624730.56, 3331105.29; 624735.53, 3331096.67; 624742.36, 3331094.10; 624749.56, 3331091.91; 624756.75, 3331091.28; 624762.06, 3331085.48; 624775.36, 3331093.31; 624783.48, 3331102.62; 624791.56, 3331097.71; 624787.91, 3331084.51; 624784.12, 3331077.30; 624786.70, 3331069.43; 624790.48, 3331061.60; 624794.15, 3331057.32; 624802.08, 3331058.33; 624809.13, 3331062.88; 624816.70, 3331061.88; 624816.13, 3331052.76; 624820.58, 3331050.06; 624825.45, 3331046.25; 624832.59, 3331046.43; 624839.41, 3331044.23; 624834.40, 3331023.75; 624836.91, 3331018.70; 624847.00, 3331026.94; 624862.30, 3331034.44; 624869.15, 3331030.68; 624872.59, 3331020.09; 624876.28, 3331016.19; 624877.22, 3331010.28; 624884.51, 3331004.91; 624895.21, 3331006.36; 624900.94, 3330999.39; 624900.75, 3330991.46; 624898.57, 3330983.48; 624901.12, 3330976.80; 624904.43, 3330971.33; 624903.18, 3330958.19; 624899.12, 3330945.41; 624903.64, 3330939.97; 624914.14, 3330950.47; 624923.72, 3330947.22; 624929.83, 3330941.44; 624934.82, 3330932.83; 624942.36, 3330934.51; 624953.57, 3330947.47; 624965.43, 3330963.75; 624976.51, 3330981.44; 624985.50, 3330989.10; 624997.68, 3330993.46; 625007.13, 3330981.02; 625021.88, 3330979.40; 625036.25, 3330976.64; 625047.37, 3330976.92; 625051.12, 3330970.27; 625055.80, 3330957.65; 625061.65, 3330946.75; 625069.46, 3330936.21; 625078.45, 3330926.51; 625078.61, 3330904.35; 625082.11, 3330891.77; 625085.18, 3330880.30; 625092.75, 3330879.30; 625099.25, 3330873.91; 625107.03, 3330864.62; 625113.56, 3330858.41; 625130.99, 3330876.33; 625140.67, 3330870.21; 625151.22, 3330862.17; 625153.41, 3330853.92; 625155.72, 3330841.25; 625156.97, 3330838.90; 625162.58, 3330837.11; 625169.38, 3330834.85; 625181.03, 3330830.40; 625185.84, 3330828.96; 625189.75, 3330833.30; 625198.28, 3330823.71; 625202.79, 3330818.64; 625209.61, 3330815.69; 625208.68, 3330807.24; 625213.22, 3330799.12; 625216.23, 3330789.64; 625222.49, 3330777.94; 625224.69, 3330769.26; 625226.06, 3330762.99; 625224.65, 3330755.40; 625221.21, 3330749.75; 625223.34, 3330744.25; 625229.28, 3330747.52; 625234.21, 3330754.83; 625236.77, 3330765.50; 625243.85, 3330766.55; 625243.67, 3330759.37; 625240.93, 3330742.26; 625241.22, 3330737.46; 625238.76, 3330733.84; 625241.61, 3330731.17; 625256.91, 3330754.96; 625263.98, 3330756.38; 625276.57, 3330745.59; 625279.93, 3330740.06; 625285.18, 3330737.00; 625292.21, 3330737.18; 625305.47, 3330735.95; 625313.36, 3330732.41; 625314.45, 3330720.51; 625316.96, 3330715.46; 625320.22, 3330711.98; 625320.76, 3330706.81; 625331.98, 3330703.16; 625341.52, 3330702.59; 625345.96, 3330700.33; 625351.96, 3330698.92; 625359.05, 3330707.59; 625368.33, 3330718.12; 625380.20, 3330703.75; 625381.08, 3330694.47; 625386.40, 3330688.24; 625368.73, 3330685.98; 625369.05, 3330673.32; 625372.50, 3330663.10; 625381.10, 3330652.65; 625386.66, 3330653.16; 625388.00, 3330658.37; 625380.23, 3330671.60; 625382.46, 3330677.65; 625387.61, 3330678.15; 625397.48, 3330665.29; 625404.43, 3330657.54; 625403.38, 3330645.46; 625399.18, 3330629.32; 625387.78, 3330618.11; 625385.96, 3330611.32; 625386.12, 3330605.02; 625383.88, 3330599.03; 625384.48, 3330591.12; 625388.60, 3330585.67; 625393.83, 3330582.99; 625400.97, 3330583.17; 625408.60, 3330580.61; 625411.21, 3330571.13; 625413.30, 3330567.25; 625424.30, 3330572.27; 625427.31, 3330563.23; 625429.79, 3330559.73; 625434.61, 3330557.48; 625440.00, 3330548.88; 625446.86, 3330544.31; 625453.34, 3330539.73; 625461.37, 3330536.74; 625466.81, 3330541.25; 625475.13, 3330542.65; 625475.39, 3330547.77; 625476.82, 3330554.55; 625478.30, 3330558.58; 625486.63, 3330559.60; 625491.41, 3330559.28; 625495.03, 3330557.00; 625496.79, 3330550.68; 625502.36, 3330550.07; 625509.54, 3330549.44; 625513.70, 3330557.47; 625515.21, 3330576.55; 625515.86, 3330582.50; 625519.45, 3330603.75; 625541.27, 3330605.48; 625562.47, 3330600.09; 625570.48, 3330597.54; 625575.34, 3330594.10; 625579.26, 3330580.72; 625580.19, 3330574.75; 625591.04, 3330570.28; 625591.64, 3330562.37; 625593.52, 3330548.18; 625597.69, 3330542.73; 625594.58, 3330540.28; 625587.14, 3330551.58; 625574.30, 3330556.37; 625568.76, 3330555.05; 625556.15, 3330551.55; 625551.39, 3330544.56; 625554.58, 3330527.98; 625556.60, 3330511.36; 625555.91, 3330497.67; 625577.28, 3330501.39; 625593.00, 3330508.53; 625603.59, 3330507.42; 625609.13, 3330514.86; 625621.31, 3330514.17; 625625.95, 3330510.11; 625631.67, 3330497.39; 625633.89, 3330487.96; 625637.13, 3330485.67; 625644.25, 3330483.72; 625650.93, 3330480.64; 625656.40, 3330478.22; 625663.15, 3330478.02; 625667.53, 3330478.13; 625681.45, 3330483.78; 625691.17, 3330486.21; 625696.03, 3330482.78; 625704.08, 3330479.05; 625708.90, 3330476.36; 625711.41, 3330471.68; 625712.90, 3330465.91; 625721.95, 3330469.32; 625729.74, 3330475.88; 625736.48, 3330476.43; 625745.11, 3330474.90; 625740.21, 3330470.59; 625736.81, 3330463.39; 625737.89, 3330446.19; 625732.00, 3330433.93; 625727.43, 3330425.89; 625724.12, 3330415.07; 625720.54, 3330399.56; 625728.43, 3330401.69; 625735.92, 3330398.13; 625743.15, 3330410.61; 625749.46, 3330412.77; 625759.39, 3330403.28; 625762.05, 3330392.67; 625765.40, 3330386.02; 625773.74, 3330385.79; 625789.39, 3330374.13; 625802.29, 3330366.90; 625808.75, 3330362.76; 625811.30, 3330355.65; 625812.40, 3330343.81; 625817.05, 3330333.19; 625817.21, 3330326.89; 625826.39, 3330325.12; 625834.01, 3330322.13; 625843.64, 3330318.82; 625853.31, 3330313.88; 625859.92, 3330303.37; 625863.37, 3330292.78; 625865.87, 3330288.47; 625874.20, 3330289.06; 625880.25, 3330285.28; 625883.28, 3330275.80; 625890.69, 3330280.73; 625894.51, 3330287.20; 625900.44, 3330288.16; 625907.60, 3330288.71; 625914.52, 3330297.63; 625922.07, 3330297.38; 625933.23, 3330280.62; 625942.48, 3330245.21; 625941.14, 3330234.87; 625943.59, 3330232.12; 625948.77, 3330231.88; 625955.90, 3330232.87; 625959.58, 3330244.45; 625965.44, 3330248.53; 625975.01, 3330246.83; 625983.68, 3330250.17; 625992.06, 3330249.20; 625999.31, 3330245.01; 626001.15, 3330234.76; 626004.08, 3330228.90; 626008.98, 3330223.91; 626010.39, 3330215.20; 626004.48, 3330197.57; 626007.06, 3330189.71; 626012.23, 3330189.47; 626018.52, 3330192.43; 626026.69, 3330199.32; 626034.99, 3330201.52; 626042.34, 3330209.26; 626053.47, 3330209.54; 626064.41, 3330216.93; 626067.59, 3330216.64; 626069.85, 3330205.96; 626075.04, 3330204.90; 626082.07, 3330194.03; 626078.03, 3330164.96; 626083.53, 3330167.85; 626086.09, 3330177.03; 626091.99, 3330179.17; 626102.04, 3330174.68; 626103.80, 3330167.61; 626108.65, 3330164.55; 626116.15, 3330166.73; 626128.62, 3330160.68; 626128.58, 3330146.82; 626136.61, 3330143.46; 626141.54, 3330136.85; 626139.81, 3330126.50; 626131.70, 3330117.56; 626121.16, 3330121.60; 625709.38, 3330333.67; 625710.98, 3330211.17; 625667.14, 3330241.78; 625647.64, 3330258.02; 625625.86, 3330279.07; 625587.25, 3330301.64; 625568.91, 3330310.16; 625548.73, 3330320.52; 625526.95, 3330331.89; 625503.92, 3330346.73; 625475.66, 3330363.88; 625414.55, 3330398.42; 625381.46, 3330417.50; 625348.32, 3330438.33; 625309.72, 3330460.83; 625285.56, 3330485.51; 625261.53, 3330504.82; 625242.49, 3330522.69; 625219.86, 3330537.60; 625164.14, 3330556.37; 625124.23, 3330578.77; 625088.53, 3330623.44; 625005.30, 3330676.85; 624947.88, 3330710.67; 624930.88, 3330723.29; 624914.85, 3330732.19; 624850.83, 3330781.58; 624818.75, 3330808.93; 624776.67, 3330838.40; 624737.08, 3330863.93; 624715.01, 3330872.49; 624673.41, 3330898.85; 624628.64, 3330924.26; 624581.75, 3330955.98; 624554.29, 3330973.14; 624521.38, 3330996.22; 624471.97, 3331016.45; 624449.99, 3331033.13; 624442.44, 3331047.30; 624396.91, 3331084.86; 624372.12, 3331098.59; 624245.08, 3331175.74; 624227.40, 3331192.46; 624201.03, 3331211.90; 624177.59, 3331228.54; 624143.79, 3331257.78; 624126.18, 3331271.69; 624098.45, 3331288.16; 624075.33, 3331305.94; 624042.09, 3331331.32; 624016.37, 3331349.21; 623988.56, 3331368.61; 623963.67, 3331386.65; 623943.07, 3331404.74; 623906.22, 3331426.04; 623801.06, 3331498.30; 623768.67, 3331522.08; 623746.75, 3331540.57; 623719.64, 3331559.68; 623691.64, 3331582.39; 623658.30, 3331610.20; 623612.54, 3331645.76; 623573.86, 3331682.30; 623476.36, 3331762.50; 623395.39, 3331825.83; 623291.29, 3331895.94; 623263.75, 3331921.40; 623213.98, 3331956.60; 623174.90, 3331988.15; 623143.72, 3332011.52; 623112.09, 3332035.76; 623055.93, 3332072.74; 623033.86, 3332096.40; 623013.02, 3332116.86; 622880.19, 3332222.14; 622656.44, 3332390.56; 622631.76, 3332410.16; 622614.36, 3332425.14; 622532.71, 3332479.40; 622507.85, 3332535.83; 622527.13, 3332574.77; 622565.49, 3332582.47; 622611.92, 3332585.20; 622650.52, 3332598.90; 622666.13, 3332610.35; 622664.85, 3332629.35; 622669.15, 3332648.13; 622686.45, 3332655.30; 622726.23, 3332638.45; 622767.22, 3332620.44; 622805.70, 3332607.17; 622828.87, 3332602.57; 622881.81, 3332599.91; 622906.01, 3332601.33; 622927.67, 3332608.99; 622946.11, 3332619.00; 622940.86, 3332606.20; 622932.25, 3332600.80; 622934.18, 3332587.37; 622934.84, 3332576.71; 622926.92, 3332575.70; 622924.84, 3332579.20; 622902.90, 3332582.65; 622891.44, 3332580.36; 622885.24, 3332589.69; 622878.00, 3332593.13; 622872.04, 3332593.36; 622863.36, 3332574.47; 622862.54, 3332565.84; 622868.34, 3332550.82; 622879.06, 3332542.41; 622890.36, 3332528.02; 622889.88, 3332516.09; 622893.27, 3332507.50; 622886.17, 3332505.69; 622882.73, 3332514.72; 622883.34, 3332523.10; 622880.47, 3332520.66; 622872.70, 3332514.91; 622863.61, 3332512.31; 622858.40, 3332503.81; 622850.16, 3332498.86; 622841.75, 3332501.83; 622832.42, 3332504.41; 622822.44, 3332521.95; 622813.31, 3332516.91; 622808.15, 3332511.47; 622811.19, 3332495.70; 622805.31, 3332476.32; 622820.10, 3332458.84; 622830.97, 3332448.50; 622839.28, 3332435.47; 622852.40, 3332441.11; 622860.16, 3332449.23; 622878.67, 3332452.32; 622884.26, 3332441.91; 622876.56, 3332431.11; 622884.51, 3332429.18; 622895.21, 3332428.89; 622911.19, 3332426.67; 622924.67, 3332419.08; 622932.63, 3332419.28; 622940.59, 3332419.48; 622945.82, 3332422.23; 622953.78, 3332422.43; 622956.51, 3332419.88; 622956.71, 3332411.89; 622956.91, 3332403.97; 622965.22, 3332396.31; 622967.92, 3332388.39; 622970.65, 3332385.78; 622978.81, 3332378.05; 622976.28, 3332372.68; 622981.87, 3332362.21; 622988.11, 3332350.95; 623005.53, 3332337.90; 623018.11, 3332343.33; 623027.58, 3332339.51; 623036.93, 3332353.36; 623045.69, 3332358.51; 623053.58, 3332361.39; 623057.40, 3332365.73; 623054.47, 3332371.96; 623059.90, 3332376.91; 623067.40, 3332379.47; 623076.07, 3332382.43; 623083.48, 3332371.94; 623076.00, 3332368.95; 623077.71, 3332364.62; 623076.45, 3332351.10; 623071.15, 3332341.11; 623062.78, 3332341.65; 623060.89, 3332337.67; 623061.47, 3332330.94; 623063.22, 3332324.24; 623068.19, 3332316.44; 623070.84, 3332308.83; 623071.41, 3332299.10; 623066.34, 3332295.36; 623057.84, 3332297.95; 623052.95, 3332290.27; 623047.24, 3332295.69; 623031.90, 3332305.23; 623022.09, 3332316.47; 623014.84, 3332318.03; 623008.72, 3332310.58; 622996.40, 3332310.64; 622988.67, 3332317.62; 622990.76, 3332325.36; 622985.24, 3332333.21; 622970.48, 3332340.95; 622963.32, 3332345.52; 622956.58, 3332356.08; 622960.56, 3332364.36; 622960.30, 3332374.90; 622952.07, 3332385.31; 622946.56, 3332393.10; 622936.00, 3332390.21; 622928.24, 3332382.09; 622922.88, 3332384.58; 622917.43, 3332389.75; 622914.65, 3332394.98; 622906.21, 3332413.31; 622893.08, 3332407.67; 622889.39, 3332397.84; 622886.35, 3332397.89; 622888.47, 3332393.20; 622887.33, 3332391.17; 622886.40, 3332384.72; 622880.85, 3332369.60; 622894.25, 3332367.50; 622899.62, 3332381.56; 622908.79, 3332375.48; 622917.88, 3332378.08; 622929.88, 3332374.83; 622936.11, 3332353.13; 622923.76, 3332332.29; 622942.92, 3332326.84; 622956.51, 3332313.95; 622978.28, 3332293.27; 622984.45, 3332295.73; 622995.77, 3332288.09; 622989.70, 3332261.78; 622995.27, 3332251.31; 623004.57, 3332254.16; 623012.14, 3332253.61; 623029.98, 3332244.25; 623038.14, 3332236.53; 623048.54, 3332223.62; 623061.29, 3332222.75; 623067.31, 3332220.10; 623072.25, 3332197.62; 623083.98, 3332189.61; 623089.60, 3332171.53; 623104.95, 3332146.13; 623111.47, 3332139.55; 623116.67, 3332138.50; 623119.86, 3332121.91; 623127.75, 3332124.11; 623145.11, 3332101.45; 623151.59, 3332108.85; 623161.72, 3332101.18; 623168.33, 3332075.56; 623169.39, 3332065.29; 623176.83, 3332069.10; 623181.98, 3332085.83; 623194.02, 3332086.13; 623202.49, 3332076.05; 623196.73, 3332055.11; 623199.65, 3332044.57; 623206.23, 3332043.24; 623213.97, 3332046.25; 623218.23, 3332024.50; 623237.75, 3332022.19; 623243.88, 3332031.89; 623256.87, 3332036.59; 623259.39, 3332031.09; 623253.90, 3332028.58; 623256.38, 3332019.53; 623269.65, 3332018.24; 623269.65, 3332026.98; 623266.53, 3332031.27; 623269.66, 3332034.10; 623276.19, 3332038.26; 623285.88, 3332031.76; 623288.90, 3332022.35; 623296.18, 3332017.35; 623301.50, 3332011.18; 623304.22, 3332004.82; 623314.53, 3331998.77; 623321.36, 3331984.65; 623327.81, 3331981.69; 623336.17, 3331980.71; 623342.15, 3331980.05; 623348.57, 3331977.84; 623353.87, 3331972.42; 623357.55, 3331968.14; 623363.58, 3331965.54; 623368.03, 3331962.85; 623372.08, 3331959.76; 623371.51, 3331950.64; 623375.30, 3331942.43; 623379.08, 3331933.78; 623382.87, 3331925.58; 623387.00, 3331919.75; 623394.37, 3331910.82; 623402.11, 3331903.46; 623410.52, 3331900.87; 623422.08, 3331899.60; 623433.58, 3331900.26; 623439.64, 3331896.48; 623448.48, 3331892.71; 623446.71, 3331884.36; 623451.59, 3331880.11; 623461.97, 3331877.63; 623466.84, 3331873.75; 623472.34, 3331871.96; 623481.45, 3331862.26; 623487.64, 3331853.30; 623494.05, 3331851.09; 623502.84, 3331849.31; 623512.45, 3331846.00; 623520.19, 3331839.01; 623524.30, 3331833.62; 623527.59, 3331828.90; 623528.30, 3331817.05; 623528.84, 3331811.14; 623532.62, 3331803.31; 623536.73, 3331797.85; 623543.21, 3331792.83; 623547.95, 3331794.14; 623551.00, 3331798.96; 623559.21, 3331804.35; 623566.31, 3331806.90; 623573.49, 3331805.89; 623581.10, 3331802.90; 623590.43, 3331796.02; 623598.89, 3331791.05; 623608.09, 3331788.91; 625657.78, 3330371.95; 625637.08, 3330331.23; 625664.35, 3330317.62; 625685.05, 3330358.40; 625657.78, 3330371.95

625661.06, 3330344.79; 625657.78, 3330371.95; 625685.05, 3330358.40; 625664.35, 3330317.62; 625637.08, 3330331.23; 625657.78, 3330371.95

626504.06, 3329824.25; 625838.06, 3330151.49; 625804.88, 3330169.39; 625740.18, 3330197.86; 625710.99, 3330211.17; 625709.39, 3330333.67; 626121.17, 3330121.60; 626119.55, 3330110.70; 626123.64, 3330099.37; 626083.45, 3330120.09; 626069.91, 3330127.11; 626042.78, 3330141.10; 626015.72, 3330155.03; 626000.11, 3330128.79; 625984.49, 3330102.56; 626011.57, 3330088.63; 626025.22, 3330081.54; 626038.44, 3330074.76; 626052.21, 3330067.62; 626092.84, 3330046.66; 626119.92, 3330032.74; 626144.92, 3330074.73; 626148.36, 3330071.34; 626152.26, 3330074.25; 626156.65, 3330073.92; 626158.57, 3330067.92; 626133.44, 3330025.71; 626160.61, 3330011.72; 626187.63, 3329997.80; 626201.15, 3329990.77; 626228.55, 3329976.66; 626241.77, 3329969.82; 626268.86, 3329955.89; 626300.15, 3330008.30; 626232.23, 3330043.36; 626218.68, 3330050.33; 626194.06, 3330063.04; 626192.51, 3330070.52; 626181.27, 3330090.59; 626255.33, 3330052.00; 626308.52, 3330024.56; 626324.13, 3330050.79; 626270.94, 3330078.23; 626280.36, 3330093.95; 626307.42, 3330080.02; 626320.97, 3330073.00; 626333.50, 3330066.57; 626358.43, 3330108.34; 626360.05, 3330108.81; 626359.50, 3330110.11; 626362.15, 3330114.73; 626365.18, 3330110.13; 626372.77, 3330108.70; 626374.98, 3330104.26; 626348.07, 3330059.07; 626361.61, 3330052.05; 626402.22, 3330031.09; 626429.32, 3330017.11; 626456.41, 3330003.18; 626482.49, 3329989.73; 626506.35, 3330029.47; 626512.44, 3330024.44; 626518.98, 3330018.74; 626472.00, 3329940.21; 626485.56, 3329933.25; 626512.70, 3329919.26; 626539.82, 3329905.27; 626553.39, 3329898.25; 626615.59, 3329866.17; 626627.97, 3329883.96; 626660.94, 3329934.16; 626674.49, 3329927.95; 626639.72, 3329874.14; 626632.05, 3329863.08; 626716.43, 3329814.77; 626724.41, 3329828.14; 626739.94, 3329852.62; 626752.23, 3329843.44; 626739.12, 3329823.08; 626725.94, 3329801.58; 626792.35, 3329763.55; 626805.59, 3329756.02; 626858.49, 3329725.70; 626892.30, 3329782.42; 626905.51, 3329806.41; 626905.76, 3329806.35; 626909.01, 3329805.87; 626920.95, 3329805.36; 626921.41, 3329805.31; 626910.20, 3329779.25; 626874.35, 3329716.61; 626887.59, 3329709.08; 626900.79, 3329701.48; 626927.25, 3329686.35; 627298.74, 3329473.71; 627285.39, 3329459.96; 627206.06, 3329505.40; 627179.59, 3329520.53; 627153.15, 3329535.66; 627121.96, 3329483.31; 627148.38, 3329468.12; 627174.86, 3329453.00; 627254.20, 3329407.61; 627246.00, 3329393.81; 627206.29, 3329416.52; 627179.86, 3329431.65; 627166.62, 3329439.24; 627113.72, 3329469.50; 627107.83, 3329459.61; 627093.66, 3329465.62; 627100.63, 3329477.28; 627074.19, 3329492.48; 627060.97, 3329500.01; 627047.72, 3329507.60; 627034.53, 3329515.14; 627021.29, 3329522.73; 626994.85, 3329537.86; 626968.39, 3329552.99; 626960.56, 3329539.85; 626947.19, 3329547.09; 626955.16, 3329560.58; 626928.73, 3329575.71; 626915.49, 3329583.31; 626902.29, 3329590.84; 626889.05, 3329598.44; 626875.83, 3329605.97; 626862.59, 3329613.56; 626849.39, 3329621.16; 626822.91, 3329636.29; 626809.91, 3329614.49; 626796.46, 3329620.95; 626809.72, 3329643.82; 626730.35, 3329689.27; 626703.91, 3329704.40; 626677.45, 3329719.53; 626661.06, 3329691.96; 626659.98, 3329690.12; 626646.77, 3329697.03; 626647.78, 3329699.55; 626707.10, 3329799.05; 626621.55, 3329848.03; 626555.21, 3329752.53; 626551.24, 3329746.82; 626538.68, 3329753.37; 626542.01, 3329760.07; 626559.56, 3329785.35; 626462.68, 3329835.29; 626435.54, 3329849.28; 626422.01, 3329856.31; 626406.35, 3329830.07; 626404.51, 3329826.65; 626391.12, 3329834.12; 626392.83, 3329837.03; 626408.44, 3329863.27; 626381.35, 3329877.26; 626313.68, 3329912.20; 626300.11, 3329919.16; 626286.59, 3329926.19; 626273.02, 3329933.15; 626257.40, 3329906.91; 626243.87, 3329913.88; 626259.50, 3329940.11; 626232.40, 3329954.10; 626218.88, 3329961.07; 626205.31, 3329968.09; 626178.26, 3329982.02; 626164.69, 3329989.04; 626151.17, 3329996.01; 626137.63, 3330003.03; 626124.07, 3330009.99; 626113.42, 3329992.11; 626100.09, 3329999.78; 626110.53, 3330016.96; 626069.92, 3330037.91; 625975.11, 3330086.84; 625968.46, 3330075.75; 625955.55, 3330083.75; 625961.56, 3330093.80; 625933.14, 3330108.49; 625935.59, 3330113.81; 625920.23, 3330124.16; 625915.93, 3330116.81; 625907.40, 3330121.78; 625893.88, 3330128.74; 625880.31, 3330135.77; 625838.07, 3330157.56; 625838.06, 3330151.49; 626472.04, 3329851.07; 626570.05, 3329800.47; 626605.14, 3329850.98; 626503.32, 3329903.48; 626489.76, 3329910.51; 626476.19, 3329917.53; 626462.62, 3329924.49; 626447.01, 3329898.26; 626431.38, 3329872.02; 626444.92, 3329865.06; 626458.47, 3329858.03; 626472.04, 3329851.07; 626928.45, 3329664.60; 626862.35, 3329702.45; 626831.15, 3329650.10; 626884.05, 3329619.78; 626897.25, 3329612.19; 626910.49, 3329604.66; 626923.71, 3329597.06; 626950.15, 3329581.93; 626963.39, 3329574.34; 626978.97, 3329600.57; 626994.59, 3329626.75; 626941.68, 3329657.01; 626928.45, 3329664.60; 626716.89, 3329785.69; 626685.67, 3329733.34; 626817.91, 3329657.64; 626849.12, 3329709.98; 626716.89, 3329785.69; 626313.67, 3330001.34; 626282.43, 3329948.87; 626417.82, 3329879.05; 626449.10, 3329931.46; 626313.67, 3330001.34; 626989.83, 3329559.21; 627003.05, 3329551.68; 627029.53, 3329536.55; 627042.73, 3329528.95; 627095.63, 3329498.63; 627108.87, 3329491.10; 627124.45, 3329517.27; 627140.06, 3329543.45; 627073.92, 3329581.30; 627060.70, 3329588.89; 627021.02, 3329611.56; 627007.83, 3329619.15; 626976.63, 3329566.80; 626989.83, 3329559.21; 626433.47, 3329994.43; 626419.93, 3330001.39; 626352.22, 3330036.33; 626338.67, 3330043.29; 626323.04, 3330017.06; 626336.61, 3330010.09; 626404.27, 3329975.15; 626417.84, 3329968.19; 626431.37, 3329961.16; 626457.46, 3329947.71; 626473.09, 3329973.95; 626447.00, 3329987.40; 626433.47, 3329994.43; 625893.87, 3330217.89; 625838.22, 3330246.58; 625838.12, 3330178.09; 625862.63, 3330165.48; 625876.15, 3330158.45; 625889.67, 3330151.49; 625903.24, 3330144.52; 625916.77, 3330137.50; 625943.86, 3330123.51; 625970.95, 3330109.58; 625986.58, 3330135.82; 626002.20, 3330161.99; 625974.99, 3330176.04; 625961.47, 3330183.07; 625948.05, 3330189.97; 625920.96, 3330203.96; 625907.39, 3330210.92; 625893.87, 3330217.89

625893.08, 3330172.05; 625907.38, 3330210.93; 625920.95, 3330203.96; 625948.05, 3330189.98; 625932.39, 3330163.74; 625918.83, 3330170.76; 625905.32, 3330177.73; 625889.67, 3330151.49; 625876.14, 3330158.45; 625862.62, 3330165.48; 625838.11, 3330178.10; 625838.21, 3330246.58; 625893.86, 3330217.89; 625878.23, 3330191.72; 625891.77, 3330184.69; 625907.38, 3330210.93

625892.81, 3330201.28; 625893.86, 3330217.89; 625907.38, 3330210.93; 625891.77, 3330184.69; 625878.23, 3330191.72; 625893.86, 3330217.89

625945.93, 3330156.73; 625889.67, 3330151.49; 625905.32, 3330177.73; 625918.83, 3330170.76; 625932.39, 3330163.74; 625948.05, 3330189.98; 625961.46, 3330183.07; 625974.98, 3330176.05; 626002.19, 3330162.00; 625986.57, 3330135.82; 625959.35, 3330149.81; 625943.85, 3330123.51; 625916.76, 3330137.50; 625903.24, 3330144.53; 625889.67, 3330151.49

626333.18, 3330162.11; 626347.30, 3330146.95; 626327.69, 3330146.83; 626318.46, 3330166.01; 626320.66, 3330173.19; 626309.75, 3330180.09; 626308.28, 3330191.16; 626325.24, 3330180.85; 626358.07, 3330166.39; 626352.61, 3330155.89; 626347.30, 3330146.95

625859.18, 3330143.40; 625880.30, 3330135.77; 625877.15, 3330130.45; 625838.05, 3330151.50; 625838.06, 3330157.56; 625880.30, 3330135.77

626365.86, 3330150.12; 626358.07, 3330166.39; 626361.02, 3330165.09; 626374.92, 3330156.70; 626384.42, 3330151.00; 626377.72, 3330140.72; 626373.21, 3330133.18; 626352.32, 3330147.08; 626347.30, 3330146.95; 626352.61, 3330155.89; 626358.07, 3330166.39

626041.77, 3330107.33; 626000.10, 3330128.80; 626015.71, 3330155.03; 626042.77, 3330141.11; 626069.90, 3330127.12; 626083.44, 3330120.09; 626067.81, 3330093.86; 626052.20, 3330067.62; 626038.44, 3330074.77; 626025.21, 3330081.55; 626011.56, 3330088.63; 626027.14, 3330114.87; 626000.10, 3330128.80

625965.21, 3330129.67; 625986.57, 3330135.82; 625970.95, 3330109.59; 625943.85, 3330123.51; 625959.35, 3330149.81; 625986.57, 3330135.82

626385.26, 3330136.08; 626384.42, 3330151.00; 626397.30, 3330140.65; 626391.83, 3330132.59; 626385.36, 3330121.69; 626379.00, 3330129.52; 626373.21, 3330133.18; 626377.72, 3330140.72; 626384.42, 3330151.00

625896.53, 3330123.39; 625877.15, 3330130.45; 625880.30, 3330135.77; 625893.87, 3330128.75; 625907.39, 3330121.79; 625915.92, 3330116.82; 625912.21, 3330110.48; 625877.15, 3330130.45

626378.25, 3330090.56; 626402.16, 3330136.72; 626408.44, 3330131.63; 626404.74, 3330124.49; 626361.60, 3330052.05; 626348.06, 3330059.08; 626374.97, 3330104.26; 626376.56, 3330100.12; 626386.35, 3330105.92; 626386.39, 3330120.15; 626385.36, 3330121.69; 626391.83, 3330132.59; 626397.30, 3330140.65; 626402.16, 3330136.72

626005.82, 3330108.72; 626011.56, 3330088.63; 625984.49, 3330102.56; 626000.10, 3330128.80; 626027.14, 3330114.87; 626011.56, 3330088.63

626252.41, 3330075.47; 626181.26, 3330090.59; 626181.92, 3330096.16; 626180.55, 3330102.43; 626176.52, 3330104.70; 626180.38, 3330109.17; 626193.52, 3330108.69; 626204.70, 3330106.60; 626211.10, 3330098.08; 626231.03, 3330095.21; 626237.38, 3330103.05; 626249.09, 3330095.42; 626260.05, 3330102.06; 626257.88, 3330110.00; 626260.82, 3330116.25; 626269.94, 3330120.04; 626272.32, 3330113.23; 626278.86, 3330109.96; 626287.43, 3330101.50; 626293.77, 3330102.03; 626299.98, 3330110.87; 626310.88, 3330112.51; 626315.23, 3330119.36; 626320.79, 3330134.67; 626327.08, 3330134.58; 626328.30, 3330126.06; 626324.47, 3330124.97; 626322.83, 3330120.74; 626325.12, 3330109.81; 626307.41, 3330080.03; 626280.35, 3330093.96; 626270.93, 3330078.24; 626324.12, 3330050.80; 626308.51, 3330024.56; 626255.32, 3330052.00; 626181.26, 3330090.59

626440.29, 3330057.10; 626408.44, 3330131.63; 626428.22, 3330115.71; 626456.01, 3330085.82; 626501.81, 3330034.66; 626518.97, 3330018.74; 626512.43, 3330024.44; 626506.34, 3330029.47; 626482.48, 3329989.73; 626456.40, 3330003.18; 626429.31, 3330017.11; 626402.21, 3330031.10; 626361.60, 3330052.05; 626404.74, 3330124.49; 626408.44, 3330131.63

626098.56, 3330078.01; 626123.64, 3330099.37; 626126.35, 3330093.02; 626144.92, 3330074.73; 626119.91, 3330032.74; 626092.83, 3330046.67; 626052.20, 3330067.62; 626067.81, 3330093.86; 626083.44, 3330120.09; 626123.64, 3330099.37

625945.18, 3330096.21; 625955.54, 3330083.75; 625928.81, 3330100.23; 625933.14, 3330108.50; 625961.55, 3330093.81; 625955.54, 3330083.75

626359.19, 3330114.57; 626359.49, 3330110.11; 626356.24, 3330118.21; 626359.80, 3330118.30; 626362.14, 3330114.74; 626359.49, 3330110.11

626332.92, 3330086.01; 626325.12, 3330109.81; 626328.32, 3330105.65; 626343.47, 3330104.03; 626358.43, 3330108.34; 626333.49, 3330066.58; 626320.96, 3330073.00; 626307.41, 3330080.03; 626325.12, 3330109.81

626039.49, 3330044.15; 626100.08, 3329999.78; 626047.24, 3330030.35; 625990.55, 3330062.08; 625968.45, 3330075.75; 625975.10, 3330086.84; 626069.91, 3330037.91; 626110.53, 3330016.96; 626100.08, 3329999.78

626195.43, 3330010.89; 626158.56, 3330067.92; 626159.65, 3330064.52; 626167.60, 3330064.34; 626171.68, 3330060.20; 626162.61, 3330044.99; 626176.22, 3330037.96; 626203.04, 3330024.09; 626218.67, 3330050.33; 626232.22, 3330043.37; 626216.56, 3330017.13; 626244.17, 3330002.91; 626257.42, 3329996.06; 626241.76, 3329969.82; 626228.54, 3329976.67; 626201.14, 3329990.77; 626187.62, 3329997.80; 626160.60, 3330011.73; 626133.43, 3330025.72; 626158.56, 3330067.92

626190.64, 3330038.13; 626194.96, 3330058.35; 626194.05, 3330063.05; 626218.67, 3330050.33; 626203.04, 3330024.09; 626176.22, 3330037.96; 626162.61, 3330044.99; 626171.68, 3330060.20; 626173.32, 3330058.49; 626172.31, 3330051.35; 626177.12, 3330049.91; 626180.68, 3330050.37; 626189.94, 3330045.49; 626199.01, 3330048.84; 626194.96, 3330058.35

626258.35, 3329995.59; 626232.22, 3330043.37; 626300.14, 3330008.31; 626268.85, 3329955.90; 626241.76, 3329969.82; 626257.42, 3329996.06; 626244.17, 3330002.91; 626216.56, 3330017.13; 626232.22, 3330043.37

626378.25, 3330005.75; 626417.84, 3329968.19; 626404.27, 3329975.16; 626336.60, 3330010.10; 626323.03, 3330017.06; 626338.66, 3330043.30; 626352.21, 3330036.33; 626419.93, 3330001.39; 626433.46, 3329994.43; 626417.84, 3329968.19

626125.51, 3329997.16; 626137.62, 3330003.04; 626126.55, 3329984.47; 626113.41, 3329992.11; 626124.06, 3330010.00; 626137.62, 3330003.04

626514.91, 3329967.47; 626518.97, 3330018.74; 626522.16, 3330015.76; 626549.17, 3330000.96; 626557.83, 3329995.25; 626555.31, 3329990.81; 626512.69, 3329919.27; 626485.55, 3329933.25; 626471.99, 3329940.22; 626518.97, 3330018.74

626138.86, 3329989.73; 626137.62, 3330003.04; 626151.16, 3329996.01; 626139.60, 3329976.62; 626126.55, 3329984.47; 626137.62, 3330003.04

626365.76, 3329940.18; 626313.66, 3330001.34; 626449.09, 3329931.46; 626417.81, 3329879.05; 626282.42, 3329948.87; 626313.66, 3330001.34

626172.45, 3329971.06; 626151.16, 3329996.01; 626164.68, 3329989.05; 626178.25, 3329982.02; 626205.30, 3329968.09; 626191.88, 3329945.53; 626139.60, 3329976.62; 626151.16, 3329996.01

626432.41, 3329977.80; 626433.46, 3329994.43; 626446.99, 3329987.40; 626431.36, 3329961.17; 626417.84, 3329968.19; 626433.46, 3329994.43

626546.67, 3329946.55; 626557.83, 3329995.25; 626561.29, 3329992.96; 626565.61, 3329988.83; 626580.66, 3329975.35; 626576.28, 3329966.50; 626539.81, 3329905.28; 626512.69, 3329919.27; 626555.31, 3329990.81; 626557.83, 3329995.25

626600.37, 3329916.84; 626586.90, 3329970.20; 626605.55, 3329955.62; 626636.48, 3329942.54; 626648.49, 3329939.28; 626660.93, 3329934.17; 626627.96, 3329883.96; 626615.58, 3329866.17; 626553.39, 3329898.25; 626539.81, 3329905.28; 626576.28, 3329966.50; 626580.66, 3329975.35; 626586.90, 3329970.20

626452.22, 3329967.56; 626446.99, 3329987.40; 626473.08, 3329973.95; 626457.46, 3329947.72; 626431.36, 3329961.17; 626446.99, 3329987.40

626205.37, 3329953.24; 626205.30, 3329968.09; 626218.87, 3329961.07; 626205.01, 3329937.81; 626191.88, 3329945.53; 626205.30, 3329968.09

626232.25, 3329937.61; 626218.87, 3329961.07; 626232.39, 3329954.11; 626259.49, 3329940.12; 626243.86, 3329913.88; 626205.01, 3329937.81; 626218.87, 3329961.07

626278.75, 3329913.05; 626300.10, 3329919.17; 626284.49, 3329892.93; 626257.39, 3329906.92; 626273.01, 3329933.15; 626286.58, 3329926.19; 626300.10, 3329919.17

626518.25, 3329861.50; 626458.46, 3329858.04; 626444.91, 3329865.06; 626431.37, 3329872.03; 626447.00, 3329898.26; 626462.61, 3329924.50; 626476.18, 3329917.54; 626489.75, 3329910.51; 626503.31, 3329903.49; 626605.13, 3329850.99; 626570.04, 3329800.48; 626472.03, 3329851.08; 626487.65, 3329877.31; 626474.09, 3329884.27; 626458.46, 3329858.04

626299.08, 3329902.60; 626300.10, 3329919.17; 626313.67, 3329912.20; 626298.02, 3329885.97; 626284.49, 3329892.93; 626300.10, 3329919.17

626685.98, 3329874.66; 626674.48, 3329927.95; 626678.64, 3329925.75; 626692.15, 3329909.86; 626705.90, 3329885.23; 626737.68, 3329854.32; 626739.93, 3329852.63; 626724.40, 3329828.14; 626716.43, 3329814.77; 626632.04, 3329863.09; 626639.71, 3329874.14; 626674.48, 3329927.95

626353.22, 3329873.50; 626313.67, 3329912.20; 626381.34, 3329877.26; 626408.43, 3329863.27; 626392.82, 3329837.04; 626391.11, 3329834.12; 626298.02, 3329885.97; 626313.67, 3329912.20

626473.06, 3329867.66; 626458.46, 3329858.04; 626474.09, 3329884.27; 626487.65, 3329877.31; 626472.03, 3329851.08; 626458.46, 3329858.04

626482.03, 3329804.40; 626538.67, 3329753.37; 626498.05, 3329774.57; 626404.51, 3329826.66; 626406.34, 3329830.07; 626422.00, 3329856.31; 626435.53, 3329849.28; 626462.67, 3329835.30; 626559.55, 3329785.36; 626542.00, 3329760.07; 626538.67, 3329753.37

626629.16, 3329774.94; 626646.76, 3329697.04; 626551.23, 3329746.82; 626555.20, 3329752.54; 626621.55, 3329848.03; 626707.09, 3329799.05; 626647.77, 3329699.56; 626646.76, 3329697.04

626815.72, 3329761.62; 626752.22, 3329843.45; 626764.41, 3329834.33; 626806.94, 3329818.79; 626830.13, 3329813.01; 626855.20, 3329811.64; 626875.49, 3329810.59; 626905.50, 3329806.41; 626892.29, 3329782.42; 626858.48, 3329725.70; 626805.58, 3329756.02; 626828.32, 3329794.17; 626814.82, 3329796.70; 626812.56, 3329797.52; 626792.34, 3329763.56; 626725.93, 3329801.59; 626739.11, 3329823.08; 626752.22, 3329843.45

627086.95, 3329675.29; 626921.40, 3329805.32; 626948.40, 3329804.12; 627004.54, 3329799.98; 627019.07, 3329791.60; 627039.78, 3329773.90; 627053.91, 3329765.14; 627077.12, 3329758.98; 627116.40, 3329745.67; 627159.14, 3329737.26; 627189.50, 3329731.65; 627221.57, 3329720.60; 627226.52, 3329713.17; 627259.82, 3329701.34; 627297.54, 3329689.61; 627299.56, 3329646.15; 627298.73, 3329473.72; 626927.24, 3329686.36; 626900.78, 3329701.49; 626887.58, 3329709.08; 626874.34, 3329716.61; 626910.19, 3329779.25; 626921.40, 3329805.32

626810.33, 3329778.89; 626792.34, 3329763.56; 626812.56, 3329797.52; 626814.82, 3329796.70; 626828.32, 3329794.17; 626805.58, 3329756.02; 626792.34, 3329763.56

626681.94, 3329697.82; 626659.97, 3329690.13; 626661.05, 3329691.96; 626677.44, 3329719.53; 626703.91, 3329704.40; 626687.48, 3329676.83; 626687.05, 3329676.01; 626659.97, 3329690.13

626748.38, 3329661.53; 626703.91, 3329704.40; 626730.34, 3329689.27; 626809.71, 3329643.83; 626796.45, 3329620.96; 626746.94, 3329644.81; 626687.05, 3329676.01; 626687.48, 3329676.83; 626703.91, 3329704.40

626879.80, 3329657.34; 626884.05, 3329619.79; 626831.14, 3329650.11; 626862.34, 3329702.45; 626928.45, 3329664.60; 626912.87, 3329638.43; 626899.63, 3329645.96; 626884.05, 3329619.79

630126.10, 3328203.03; 630406.03, 3328243.40; 630414.41, 3328241.99; 630437.83, 3328233.65; 630455.47, 3328219.67; 630469.03, 3328218.08; 630480.76, 3328209.64; 630492.76, 3328206.38; 630504.37, 3328203.49; 630511.25, 3328198.92; 630533.58, 3328195.48; 630551.08, 3328195.55; 630562.19, 3328196.20; 630554.01, 3328157.98; 630564.05, 3328153.86; 630566.61, 3328146.81; 630576.57, 3328145.88; 630583.91, 3328138.13; 630587.26, 3328132.22; 630597.09, 3328136.47; 630601.83, 3328121.48; 630611.44, 3328118.97; 630610.04, 3328111.01; 630620.12, 3328105.34; 630617.35, 3328089.41; 630617.08, 3328083.85; 630617.58, 3328080.30; 630626.00, 3328076.96; 630628.95, 3328070.66; 630630.47, 3328057.22; 630634.40, 3328043.83; 630641.34, 3328051.93; 630649.90, 3328059.27; 630653.80, 3328046.32; 630659.42, 3328044.46; 630668.49, 3328063.35; 630680.13, 3328058.47; 630680.23, 3328070.39; 630692.96, 3328069.53; 630690.47, 3328089.25; 630702.00, 3328089.54; 630710.30, 3328075.46; 630718.35, 3328087.21; 630725.94, 3328085.77; 630733.28, 3328078.47; 630739.41, 3328103.16; 630740.24, 3328117.47; 630734.46, 3328126.44; 630733.74, 3328138.72; 630742.01, 3328157.97; 630743.39, 3328166.30; 630734.34, 3328178.37; 630720.74, 3328181.59; 630716.53, 3328190.97; 630715.21, 3328196.12; 630725.50, 3328197.57; 630739.86, 3328195.93; 630755.86, 3328191.96; 630771.97, 3328184.81; 630788.21, 3328169.43; 630797.66, 3328153.87; 630818.53, 3328134.05; 630846.25, 3328112.15; 630855.03, 3328105.32; 630864.93, 3328090.08; 630876.52, 3328079.08; 630892.59, 3328070.43; 630913.40, 3328052.91; 630927.11, 3328048.70; 630940.91, 3328040.06; 630977.44, 3328026.68; 630991.47, 3328021.92; 631004.83, 3328019.07; 631013.88, 3328019.30; 631029.78, 3328017.45; 631050.86, 3328015.11; 631072.33, 3328014.84; 631089.54, 3328010.09; 631102.43, 3328003.30; 631121.04, 3327990.28; 631131.15, 3327967.94; 631151.59, 3327945.98; 631174.08, 3327935.75; 631200.52, 3327928.05; 631218.12, 3327923.37; 631232.56, 3327918.55; 631241.45, 3327912.85; 631249.45, 3327910.68; 631258.65, 3327908.10; 631274.40, 3327897.82; 631284.47, 3327892.89; 631303.39, 3327883.51; 631316.77, 3327872.73; 631326.88, 3327865.87; 631338.95, 3327860.18; 631354.08, 3327859.38; 631367.62, 3327858.16; 631385.98, 3327855.43; 631418.45, 3327859.81; 631445.15, 3327856.92; 631465.07, 3327855.05; 631482.99, 3327853.94; 631506.01, 3327839.42; 631524.53, 3327830.02; 631538.93, 3327810.53; 631561.61, 3327794.06; 631571.50, 3327780.01; 631582.24, 3327764.05; 631595.78, 3327747.35; 631603.77, 3327730.14; 631616.41, 3327717.34; 631629.03, 3327705.36; 631642.73, 3327698.22; 631654.70, 3327696.09; 631670.36, 3327690.17; 631692.53, 3327678.06; 631705.05, 3327669.64; 631717.44, 3327666.76; 631728.32, 3327661.11; 631742.39, 3327654.72; 631754.41, 3327651.03; 631769.54, 3327649.85; 631791.07, 3327647.21; 631803.81, 3327646.78; 631817.63, 3327645.32; 631831.10, 3327647.28; 631842.16, 3327649.93; 631862.43, 3327650.44; 631880.60, 3327654.45; 631895.15, 3327660.75; 631915.11, 3327658.07; 631945.51, 3327649.35; 631961.78, 3327650.94; 631977.74, 3327648.60; 632006.05, 3327612.79; 632022.72, 3327566.89; 632020.19, 3327525.19; 632015.30, 3327514.33; 631996.07, 3327520.59; 631967.58, 3327530.98; 631961.26, 3327545.12; 631960.04, 3327562.13; 631954.27, 3327570.29; 631942.32, 3327555.69; 631933.61, 3327538.06; 631929.84, 3327530.03; 631913.20, 3327543.91; 631919.57, 3327559.49; 631910.00, 3327560.43; 631900.23, 3327553.88; 631890.44, 3327548.08; 631878.90, 3327548.98; 631871.19, 3327539.29; 631871.96, 3327524.21; 631872.91, 3327502.07; 631869.96, 3327477.78; 631856.06, 3327445.71; 631870.02, 3327443.69; 631883.87, 3327430.56; 631903.18, 3327437.04; 631924.85, 3327444.26; 631949.11, 3327444.12; 631970.82, 3327433.93; 631976.07, 3327462.22; 631978.13, 3327475.38; 631988.35, 3327479.57; 631992.87, 3327473.75; 631990.46, 3327459.40; 631995.72, 3327439.37; 631997.30, 3327424.74; 632000.88, 3327408.53; 632012.79, 3327409.27; 632016.14, 3327417.66; 632023.07, 3327427.32; 632027.80, 3327444.48; 632038.45, 3327447.56; 632043.37, 3327473.03; 632033.28, 3327479.14; 632019.84, 3327476.43; 632025.50, 3327488.43; 632036.57, 3327506.19; 632041.81, 3327519.37; 632054.79, 3327524.44; 632072.69, 3327508.28; 632085.78, 3327493.13; 632083.15, 3327456.17; 632073.07, 3327445.62; 632061.62, 3327426.73; 632064.35, 3327413.69; 632074.86, 3327422.32; 632084.35, 3327411.70; 632081.70, 3327403.08; 632102.92, 3327396.87; 632116.30, 3327401.20; 632128.77, 3327412.56; 632129.17, 3327427.62; 632130.00, 3327442.31; 632134.06, 3327454.71; 632140.86, 3327452.88; 632144.03, 3327437.54; 632148.06, 3327419.42; 632154.01, 3327404.46; 632161.35, 3327396.72; 632174.98, 3327392.69; 632177.71, 3327378.53; 632166.77, 3327375.38; 632152.59, 3327365.60; 632142.09, 3327357.03; 632149.14, 3327344.91; 632163.48, 3327344.08; 632183.88, 3327338.60; 632199.65, 3327343.81; 632192.09, 3327359.85; 632196.36, 3327369.32; 632201.07, 3327382.30; 632192.82, 3327394.32; 632188.14, 3327406.13; 632186.24, 3327418.75; 632189.42, 3327434.32; 632194.92, 3327436.83; 632199.36, 3327449.98; 632209.55, 3327455.80; 632225.85, 3327455.02; 632253.84, 3327448.61; 632268.98, 3327447.43; 632280.26, 3327441.35; 632277.97, 3327421.87; 632287.31, 3327413.74; 632300.75, 3327432.75; 632312.06, 3327441.34; 632333.38, 3327446.62; 632353.72, 3327444.38; 632376.56, 3327437.03; 632393.87, 3327428.35; 632414.11, 3327413.82; 632428.22, 3327405.81; 632445.57, 3327395.57; 632458.37, 3327392.33; 632473.25, 3327385.53; 632484.99, 3327376.71; 632488.57, 3327360.94; 632487.75, 3327346.25; 632501.23, 3327347.78; 632509.05, 3327336.93; 632516.43, 3327328.37; 632535.96, 3327325.68; 632545.25, 3327319.98; 632555.43, 3327310.31; 632561.36, 3327311.28; 632579.26, 3327326.77; 632588.85, 3327324.64; 632597.70, 3327305.07; 632602.18, 3327284.96; 632609.40, 3327266.92; 632620.77, 3327241.05; 632628.84, 3327220.59; 632618.19, 3327201.72; 632615.26, 3327192.09; 632625.17, 3327193.15; 632636.61, 3327196.25; 632649.32, 3327196.57; 632659.08, 3327203.56; 632676.89, 3327206.75; 632694.55, 3327215.50; 632732.61, 3327203.78; 632749.71, 3327172.13; 632755.11, 3327162.71; 632765.13, 3327159.41; 632772.69, 3327158.85; 632784.30, 3327155.96; 632799.64, 3327146.42; 632819.25, 3327125.13; 632835.12, 3327110.86; 632842.71, 3327093.19; 632848.90, 3327068.75; 632847.19, 3327057.66; 632856.05, 3327053.52; 632863.86, 3327027.12; 632869.70, 3327016.16; 632882.28, 3327006.17; 632899.21, 3326996.74; 632923.52, 3326996.97; 632940.09, 3327003.38; 632959.22, 3327001.87; 632973.86, 3326988.38; 632986.74, 3326966.10; 633000.17, 3326922.43; 633007.89, 3326884.55; 633008.92, 3326843.75; 633009.49, 3326804.94; 632993.07, 3326762.89; 632964.16, 3326742.74; 632930.37, 3326743.08; 632886.52, 3326748.34; 632821.28, 3326766.49; 632780.36, 3326813.03; 632714.11, 3326854.99; 632693.33, 3326875.44; 632682.24, 3326889.46; 632616.79, 3326926.14; 632530.13, 3326983.33; 632490.29, 3327000.61; 632409.57, 3327040.59; 632315.84, 3327087.61; 632279.61, 3327120.78; 631739.39, 3327353.32; 631702.64, 3327386.92; 631649.38, 3327403.06; 631624.71, 3327419.85; 631588.80, 3327425.69; 631556.20, 3327434.55; 631526.44, 3327447.34; 631493.39, 3327473.23; 631445.33, 3327487.88; 631407.24, 3327505.27; 631355.08, 3327535.98; 631324.01, 3327554.99; 631287.96, 3327566.00; 631253.48, 3327577.43; 631205.48, 3327605.50; 631132.40, 3327650.48; 631068.66, 3327687.71; 631004.84, 3327728.55; 630958.18, 3327749.91; 630893.07, 3327794.65; 630820.96, 3327817.06; 630756.80, 3327839.60; 630724.67, 3327868.13; 630679.14, 3327892.77; 630630.80, 3327918.52; 630597.29, 3327954.88; 630544.13, 3327951.17; 630503.13, 3327937.47; 630457.05, 3327936.75; 630424.66, 3327944.23; 630404.02, 3327961.00; 630351.41, 3327982.28; 630316.54, 3328009.62; 630287.11, 3328026.36; 630250.62, 3328038.48; 630217.99, 3328071.81; 630181.44, 3328087.12; 630132.76, 3328110.05; 630102.25, 3328122.39; 630051.88, 3328149.66; 629902.90, 3328225.56; 629432.34, 3328445.25; 629174.50, 3328550.94; 628990.82, 3328602.94; 628928.71, 3328642.02; 628896.62, 3328661.00; 628870.32, 3328679.75; 628846.10, 3328685.07; 628800.52, 3328697.47; 628768.49, 3328710.21; 628731.78, 3328729.64; 628706.49, 3328744.80; 628660.95, 3328754.95; 628628.86, 3328769.94; 628594.59, 3328782.62; 628560.18, 3328799.86; 628539.48, 3328812.88; 628501.00, 3328840.51; 628445.92, 3328842.12; 628355.19, 3328901.45; 628084.78, 3329032.98; 627688.08, 3329207.72; 627563.94, 3329248.98; 627534.65, 3329273.90; 627506.88, 3329287.87; 627457.89, 3329307.68; 627434.30, 3329329.24; 627380.78, 3329354.87; 627347.14, 3329365.13; 627314.51, 3329382.16; 627281.62, 3329394.38; 627269.53, 3329396.14; 627262.91, 3329397.60; 627242.72, 3329388.33; 627245.99, 3329393.81; 627254.19, 3329407.61; 627285.38, 3329459.96; 627298.73, 3329473.72; 627299.56, 3329646.15; 627297.54, 3329689.61; 627315.90, 3329683.71; 627334.67, 3329684.68; 627343.15, 3329680.96; 627352.77, 3329671.34; 627407.11, 3329619.14; 627433.69, 3329589.66; 627444.78, 3329574.90; 627462.67, 3329559.12; 627477.14, 3329552.74; 627497.62, 3329544.51; 627528.86, 3329535.00; 627580.52, 3329517.95; 627580.50, 3329518.19; 627581.26, 3329517.71; 627628.52, 3329489.25; 627651.67, 3329485.90; 627663.30, 3329481.39; 627670.92, 3329478.83; 627690.55, 3329472.21; 627708.89, 3329470.24; 627734.85, 3329465.39; 627755.63, 3329459.30; 627775.93, 3329462.06; 627791.77, 3329462.46; 627802.92, 3329469.54; 627826.43, 3329474.44; 627846.03, 3329466.07; 627857.56, 3329457.37; 627869.93, 3329451.31; 627895.93, 3329444.85; 627915.68, 3329449.72; 627930.58, 3329458.02; 627943.73, 3329456.73; 627957.18, 3329457.63; 627980.57, 3329461.65; 628003.97, 3329463.80; 628026.05, 3329470.28; 628038.24, 3329475.40; 628052.39, 3329482.06; 628080.90, 3329486.33; 628120.47, 3329493.32; 628153.23, 3329502.45; 628177.67, 3329512.80; 628209.64, 3329502.37; 628214.94, 3329498.07; 628227.34, 3329494.82; 628228.86, 3329481.75; 628218.25, 3329461.26; 628216.03, 3329438.60; 628207.51, 3329414.23; 628199.21, 3329412.46; 628179.93, 3329404.80; 628171.25, 3329408.76; 628161.66, 3329419.82; 628139.04, 3329418.44; 628123.73, 3329407.57; 628114.67, 3329407.34; 628107.92, 3329407.73; 628103.43, 3329411.99; 628077.97, 3329413.35; 628057.27, 3329414.39; 628034.50, 3329403.51; 628015.90, 3329384.44; 628034.24, 3329382.10; 628038.15, 3329384.63; 628046.29, 3329376.91; 628049.91, 3329375.75; 628051.22, 3329370.66; 628053.39, 3329363.60; 628054.79, 3329355.27; 628056.22, 3329345.82; 628046.16, 3329335.27; 628026.04, 3329330.64; 627995.79, 3329330.82; 627999.58, 3329302.88; 628017.73, 3329301.03; 628037.87, 3329310.59; 628049.18, 3329310.87; 628058.46, 3329302.05; 628054.11, 3329295.20; 628038.39, 3329290.31; 628029.56, 3329281.04; 628027.60, 3329267.01; 628033.00, 3329258.03; 628059.25, 3329257.07; 628057.73, 3329241.11; 628073.97, 3329225.72; 628086.62, 3329228.04; 628099.97, 3329218.45; 628106.91, 3329211.51; 628107.20, 3329200.03; 628131.12, 3329204.56; 628167.49, 3329198.67; 628174.73, 3329180.82; 628190.15, 3329188.63; 628203.18, 3329192.14; 628206.76, 3329168.07; 628222.64, 3329166.23; 628228.00, 3329169.36; 628235.62, 3329166.37; 628243.05, 3329171.36; 628251.55, 3329165.21; 628259.26, 3329159.03; 628267.00, 3329151.30; 628269.57, 3329144.25; 628280.82, 3329139.41; 628292.04, 3329135.70; 628299.79, 3329127.97; 628316.56, 3329123.39; 628333.04, 3329117.69; 628338.44, 3329108.34; 628344.55, 3329102.12; 628351.71, 3329101.93; 628357.61, 3329088.97; 628362.49, 3329084.78; 628369.79, 3329077.29; 628378.79, 3329079.83; 628385.58, 3329080.00; 628400.71, 3329081.75; 628411.52, 3329078.84; 628418.75, 3329075.46; 628422.82, 3329056.53; 628432.82, 3329054.03; 628443.28, 3329036.25; 628445.54, 3329053.98; 628460.99, 3329055.55; 628479.56, 3329044.47; 628485.33, 3329035.94; 628498.52, 3329033.46; 628509.46, 3329009.20; 628521.69, 3328997.21; 628521.53, 3328986.28; 628532.81, 3328997.49; 628545.99, 3328994.64; 628561.90, 3328994.23; 628557.82, 3328983.01; 628567.97, 3328974.59; 628568.83, 3328955.95; 628568.17, 3328950.81; 628575.39, 3328948.19; 628582.42, 3328953.11; 628592.89, 3328947.44; 628601.88, 3328937.74; 628620.01, 3328927.90; 628636.99, 3328916.84; 628648.76, 3328923.06; 628666.68, 3328921.58; 628687.27, 3328908.61; 628701.38, 3328900.60; 628713.36, 3328898.53; 628730.99, 3328908.53; 628737.07, 3328888.46; 628743.03, 3328873.12; 628752.80, 3328863.51; 628769.02, 3328850.81; 628778.78, 3328857.79; 628790.78, 3328854.54; 628799.91, 3328854.77; 628805.41, 3328842.23; 628812.86, 3328845.98; 628826.15, 3328854.99; 628847.50, 3328875.00; 628855.12, 3328888.24; 628874.18, 3328904.20; 628901.76, 3328914.01; 628925.31, 3328910.23; 628938.60, 3328903.01; 628950.73, 3328895.02; 628968.85, 3328885.55; 628984.73, 3328870.90; 629002.95, 3328857.50; 629007.50, 3328850.44; 629019.68, 3328840.07; 629024.60, 3328818.78; 629033.42, 3328798.09; 629055.15, 3328812.31; 629071.78, 3328798.81; 629082.34, 3328790.39; 629094.40, 3328784.77; 629108.38, 3328782.31; 629115.83, 3328770.20; 629109.83, 3328756.19; 629119.62, 3328746.14; 629125.95, 3328731.25; 629136.94, 3328721.17; 629139.93, 3328712.94; 629146.85, 3328706.81; 629152.81, 3328706.96; 629162.29, 3328708.76; 629168.83, 3328717.66; 629177.67, 3328729.37; 629183.34, 3328741.00; 629191.25, 3328726.90; 629202.03, 3328725.24; 629205.23, 3328739.55; 629209.94, 3328742.04; 629217.78, 3328731.13; 629219.58, 3328706.64; 629229.23, 3328686.66; 629248.64, 3328689.52; 629269.56, 3328694.79; 629279.04, 3328681.54; 629278.68, 3328648.64; 629277.60, 3328628.01; 629271.60, 3328614.00; 629275.36, 3328606.54; 629289.96, 3328610.90; 629298.05, 3328605.11; 629306.26, 3328595.02; 629313.55, 3328589.27; 629320.81, 3328585.52; 629324.66, 3328590.74; 629324.34, 3328603.40; 629339.00, 3328604.58; 629347.54, 3328612.73; 629360.24, 3328629.28; 629369.02, 3328627.94; 629359.52, 3328642.37; 629368.47, 3328649.71; 629382.65, 3328655.25; 629397.14, 3328647.68; 629410.39, 3328642.09; 629423.18, 3328639.60; 629434.94, 3328630.41; 629443.35, 3328627.81; 629461.53, 3328631.45; 629474.82, 3328640.90; 629490.63, 3328644.11; 629506.18, 3328642.50; 629522.55, 3328639.35; 629531.98, 3328627.67; 629557.91, 3328592.24; 629566.50, 3328567.11; 629558.74, 3328543.94; 629561.05, 3328531.27; 629570.19, 3328531.12; 629586.26, 3328540.26; 629595.52, 3328551.17; 629606.70, 3328548.71; 629626.84, 3328538.48; 629653.39, 3328541.52; 629681.38, 3328535.10; 629699.03, 3328544.29; 629709.32, 3328546.48; 629733.85, 3328551.09; 629745.66, 3328539.47; 629754.17, 3328517.15; 629764.38, 3328506.29; 629782.19, 3328509.11; 629788.37, 3328516.76; 629790.30, 3328534.29; 629800.10, 3328555.51; 629809.68, 3328569.67; 629823.32, 3328580.31; 629831.88, 3328572.16; 629829.57, 3328553.13; 629835.06, 3328540.53; 629847.68, 3328528.99; 629853.15, 3328548.54; 629858.96, 3328570.10; 629878.90, 3328582.33; 629890.05, 3328589.42; 629905.83, 3328592.06; 629917.14, 3328592.35; 629937.15, 3328601.03; 629943.96, 3328582.97; 629948.35, 3328566.42; 629940.73, 3328553.55; 629930.38, 3328554.48; 629934.42, 3328536.35; 629935.42, 3328527.64; 629937.64, 3328518.20; 629935.17, 3328506.66; 629924.74, 3328494.47; 629941.09, 3328460.42; 629942.05, 3328454.08; 629950.92, 3328449.19; 629939.29, 3328432.60; 629935.04, 3328421.19; 629925.43, 3328419.95; 629921.00, 3328438.13; 629906.68, 3328438.15; 629899.41, 3328442.71; 629879.86, 3328429.92; 629878.07, 3328406.53; 629892.60, 3328382.30; 629900.71, 3328375.76; 629904.68, 3328368.49; 629918.25, 3328368.84; 629931.66, 3328375.91; 629940.10, 3328373.57; 629948.50, 3328355.93; 629968.37, 3328356.55; 629991.00, 3328357.12; 629995.42, 3328361.72; 630010.96, 3328373.41; 630017.52, 3328382.63; 630025.14, 3328390.00; 630038.95, 3328394.28; 630051.57, 3328398.16; 630059.38, 3328403.54; 630074.06, 3328404.72; 630084.58, 3328397.05; 630086.74, 3328358.65; 630110.81, 3328364.63; 630121.68, 3328383.00; 630132.87, 3328387.78; 630134.80, 3328401.37; 630150.24, 3328417.56; 630154.42, 3328431.21; 630163.71, 3328443.05; 630168.06, 3328443.91; 630170.67, 3328435.30; 630175.35, 3328422.68; 630186.23, 3328417.03; 630191.06, 3328446.11; 630195.26, 3328452.96; 630203.97, 3328441.51; 630202.34, 3328416.62; 630196.24, 3328398.68; 630202.91, 3328394.04; 630192.59, 3328369.62; 630199.23, 3328360.11; 630201.78, 3328348.88; 630193.07, 3328335.11; 630179.67, 3328327.97; 630169.10, 3328323.83; 630151.81, 3328331.76; 630146.21, 3328324.32; 630124.76, 3328317.16; 630103.35, 3328315.06; 630095.09, 3328311.67; 630091.99, 3328308.04; 630090.87, 3328305.20; 630092.56, 3328301.68; 630098.20, 3328298.27; 630104.66, 3328294.87; 630114.12, 3328297.48; 630120.16, 3328294.45; 630134.54, 3328291.69; 630140.70, 3328283.92; 630150.32, 3328280.54; 630158.74, 3328278.00; 630166.50, 3328269.08; 630162.48, 3328287.21; 630164.40, 3328305.49; 630179.13, 3328304.67; 630186.72, 3328303.30; 630195.41, 3328304.71; 630199.05, 3328302.80; 630204.35, 3328297.38; 630223.99, 3328306.61; 630234.20, 3328311.61; 630244.41, 3328300.76; 630259.98, 3328297.97; 630237.82, 3328277.99; 630230.77, 3328258.40; 630225.85, 3328248.79; 630237.00, 3328247.89; 630245.14, 3328256.02; 630256.59, 3328259.05; 630276.57, 3328270.23; 630292.03, 3328272.24; 630300.76, 3328272.84; 630316.95, 3328276.80; 630333.34, 3328272.91; 630351.11, 3328277.29; 630367.33, 3328280.88; 630375.90, 3328256.12; 630380.74, 3328237.58; 630381.57, 3328220.56; 630387.68, 3328214.78; 630396.73, 3328218.20; 630406.03, 3328243.40

626912.86, 3329623.54; 626928.45, 3329664.60; 626941.68, 3329657.01; 626925.78, 3329630.33; 626910.48, 3329604.66; 626897.24, 3329612.19; 626884.05, 3329619.79; 626899.63, 3329645.96; 626912.87, 3329638.43; 626928.45, 3329664.60

626952.53, 3329618.37; 626941.68, 3329657.01; 626994.58, 3329626.75; 626978.96, 3329600.58; 626965.77, 3329608.11; 626950.14, 3329581.94; 626923.71, 3329597.07; 626910.48, 3329604.66; 626925.78, 3329630.33; 626941.68, 3329657.01

626829.64, 3329618.69; 626849.38, 3329621.17; 626837.48, 3329601.16; 626809.90, 3329614.49; 626822.90, 3329636.29; 626849.38, 3329621.17

626850.03, 3329608.02; 626849.38, 3329621.17; 626862.58, 3329613.57; 626851.31, 3329594.65; 626841.50, 3329599.24; 626837.48, 3329601.16; 626849.38, 3329621.17

626998.82, 3329589.19; 627021.01, 3329611.56; 627005.64, 3329585.77; 626989.82, 3329559.21; 626976.62, 3329566.81; 627007.82, 3329619.16; 627021.01, 3329611.56

626870.18, 3329597.50; 626889.04, 3329598.44; 626879.04, 3329581.62; 626851.31, 3329594.65; 626862.58, 3329613.57; 626875.82, 3329605.97; 626889.04, 3329598.44

627064.94, 3329551.34; 627021.01, 3329611.56; 627060.69, 3329588.90; 627073.91, 3329581.30; 627140.06, 3329543.45; 627124.44, 3329517.28; 627108.86, 3329491.10; 627095.62, 3329498.64; 627042.72, 3329528.96; 627029.52, 3329536.55; 627003.04, 3329551.68; 626989.82, 3329559.21; 627005.64, 3329585.77; 627021.01, 3329611.56

626964.55, 3329591.19; 626950.14, 3329581.94; 626965.77, 3329608.11; 626978.96, 3329600.58; 626963.38, 3329574.34; 626950.14, 3329581.94

626890.66, 3329586.82; 626889.04, 3329598.44; 626902.29, 3329590.85; 626892.89, 3329575.07; 626879.04, 3329581.62; 626889.04, 3329598.44

626924.02, 3329568.94; 626902.29, 3329590.85; 626915.48, 3329583.31; 626928.72, 3329575.72; 626955.15, 3329560.59; 626947.19, 3329547.09; 626909.45, 3329567.24; 626892.89, 3329575.07; 626902.29, 3329590.85

626997.54, 3329526.64; 627034.52, 3329515.14; 627025.20, 3329499.49; 626964.65, 3329537.73; 626960.55, 3329539.86; 626968.38, 3329552.99; 626994.85, 3329537.87; 627021.28, 3329522.74; 627034.52, 3329515.14

627203.67, 3329471.64; 627285.38, 3329459.96; 627254.19, 3329407.61; 627174.85, 3329453.00; 627148.37, 3329468.13; 627121.95, 3329483.32; 627153.15, 3329535.67; 627179.58, 3329520.54; 627206.05, 3329505.41; 627285.38, 3329459.96

627043.08, 3329500.02; 627025.20, 3329499.49; 627034.52, 3329515.14; 627047.72, 3329507.61; 627060.96, 3329500.01; 627052.13, 3329485.18; 627034.79, 3329493.99; 627030.49, 3329496.19; 627025.20, 3329499.49

627063.16, 3329489.21; 627074.18, 3329492.48; 627065.79, 3329478.35; 627052.13, 3329485.18; 627060.96, 3329500.01; 627074.18, 3329492.48

627083.20, 3329478.69; 627065.79, 3329478.35; 627074.18, 3329492.48; 627100.62, 3329477.29; 627093.65, 3329465.63; 627075.98, 3329473.17; 627065.79, 3329478.35

627137.22, 3329451.93; 627107.82, 3329459.62; 627113.71, 3329469.50; 627166.61, 3329439.25; 627165.32, 3329437.03; 627156.66, 3329441.49; 627130.62, 3329449.95; 627107.82, 3329459.62

627205.65, 3329413.63; 627166.61, 3329439.25; 627179.85, 3329431.65; 627206.29, 3329416.52; 627245.99, 3329393.81; 627242.72, 3329388.33; 627220.94, 3329398.73; 627206.34, 3329409.85; 627182.03, 3329428.27; 627165.32, 3329437.03; 627166.61, 3329439.25

630001.61, 3328555.56; 629997.56, 3328569.65; 630005.73, 3328576.22; 630003.77, 3328591.59; 630010.03, 3328611.16; 630013.23, 3328625.91; 630021.25, 3328623.00; 630019.66, 3328607.47; 630017.45, 3328600.68; 630020.58, 3328586.90; 630017.70, 3328574.53; 630009.25, 3328563.58; 630015.06, 3328553.42; 630000.38, 3328536.82; 629987.57, 3328524.58; 629981.97, 3328541.92; 629993.91, 3328556.89; 629997.56, 3328569.65

635846.85, 3325504.81; 633480.08, 3327242.33; 633509.77, 3327247.07; 633525.99, 3327234.37; 633525.81, 3327210.21; 633520.84, 3327183.68; 633531.46, 3327159.60; 633537.76, 3327130.42; 633541.03, 3327098.79; 633561.68, 3327080.27; 633591.16, 3327046.18; 633611.76, 3327017.36; 633629.92, 3326959.51; 633639.01, 3326930.03; 633657.82, 3326909.46; 633668.00, 3326890.62; 633681.12, 3326868.04; 633698.62, 3326836.02; 633724.11, 3326811.13; 633747.04, 3326807.46; 633769.51, 3326798.79; 633783.36, 3326785.65; 633792.82, 3326767.91; 633802.99, 3326732.03; 633815.52, 3326708.12; 633831.61, 3326685.18; 633846.18, 3326674.43; 633868.96, 3326669.45; 633883.23, 3326671.00; 633899.09, 3326672.58; 633913.20, 3326680.49; 633928.16, 3326686.36; 633938.66, 3326679.51; 633948.49, 3326672.89; 633969.21, 3326650.19; 633984.31, 3326634.71; 633998.94, 3326622.35; 634022.50, 3326617.39; 634041.02, 3326608.74; 634058.79, 3326590.27; 634071.43, 3326584.97; 634090.43, 3326586.57; 634108.69, 3326578.04; 634134.32, 3326612.71; 634139.37, 3326632.63; 634151.69, 3326664.27; 634156.74, 3326700.04; 634163.59, 3326728.37; 634163.95, 3326745.42; 634162.06, 3326757.30; 634149.46, 3326768.47; 634149.44, 3326784.70; 634149.88, 3326799.00; 634139.23, 3326811.84; 634117.55, 3326835.45; 634104.89, 3326849.37; 634105.15, 3326870.41; 634103.63, 3326899.34; 634096.26, 3326923.31; 634092.21, 3326942.25; 634092.67, 3326955.31; 634099.82, 3326955.92; 634115.73, 3326955.51; 634130.28, 3326945.58; 634139.04, 3326929.13; 634162.01, 3326916.66; 634182.98, 3326889.41; 634206.45, 3326872.59; 634222.60, 3326862.69; 634235.61, 3326851.47; 634270.30, 3326815.52; 634285.36, 3326801.60; 634306.46, 3326768.49; 634318.14, 3326762.79; 634339.20, 3326762.94; 634351.89, 3326764.07; 634363.80, 3326748.52; 634382.49, 3326732.70; 634412.10, 3326708.91; 634434.21, 3326682.87; 634470.12, 3326661.99; 634491.48, 3326650.23; 634496.82, 3326643.25; 634511.92, 3326644.00; 634519.71, 3326634.28; 634536.90, 3326629.96; 634543.99, 3326617.10; 634564.09, 3326608.05; 634587.19, 3326590.78; 634614.06, 3326581.16; 634634.97, 3326571.82; 634651.56, 3326575.36; 634665.24, 3326568.96; 634673.65, 3326566.43; 634682.20, 3326558.71; 634699.49, 3326550.85; 634715.56, 3326543.70; 634735.97, 3326538.28; 634746.05, 3326532.54; 634765.00, 3326521.97; 634781.50, 3326514.02; 634790.88, 3326504.77; 634810.36, 3326504.07; 634832.17, 3326506.18; 634844.69, 3326514.05; 634857.10, 3326526.66; 634869.84, 3326541.22; 634882.31, 3326551.08; 634895.80, 3326552.61; 634914.63, 3326545.97; 634924.06, 3326535.09; 634938.72, 3326521.17; 634949.92, 3326517.89; 634951.76, 3326508.45; 634969.04, 3326500.95; 634979.95, 3326493.68; 634990.14, 3326483.63; 634994.86, 3326469.89; 635004.74, 3326456.66; 635020.90, 3326446.33; 635032.28, 3326436.31; 635043.15, 3326430.66; 635057.55, 3326427.03; 635080.85, 3326416.94; 635088.15, 3326411.57; 635119.05, 3326415.53; 635140.34, 3326421.99; 635149.96, 3326419.05; 635165.60, 3326413.89; 635184.70, 3326412.81; 635190.02, 3326407.02; 635210.60, 3326410.28; 635228.75, 3326415.48; 635241.60, 3326410.25; 635242.29, 3326398.41; 635248.90, 3326389.08; 635262.14, 3326383.86; 635274.80, 3326386.55; 635290.71, 3326386.14; 635300.97, 3326388.77; 635312.78, 3326393.07; 635330.60, 3326395.89; 635351.24, 3326397.16; 635364.14, 3326389.99; 635382.57, 3326384.09; 635387.09, 3326378.64; 635398.10, 3326383.29; 635400.66, 3326375.87; 635404.96, 3326363.24; 635361.77, 3326294.80; 635317.90, 3326253.61; 635288.17, 3326218.78; 635270.16, 3326223.88; 635253.08, 3326223.45; 635247.71, 3326231.68; 635248.66, 3326241.20; 635237.26, 3326252.02; 635233.04, 3326261.84; 635221.25, 3326256.36; 635196.81, 3326263.67; 635162.15, 3326266.80; 635157.70, 3326285.66; 635141.38, 3326286.87; 635120.04, 3326297.82; 635076.30, 3326298.72; 635029.35, 3326316.14; 634985.84, 3326323.34; 634934.93, 3326324.50; 634890.61, 3326332.87; 634892.43, 3326355.14; 634876.09, 3326357.10; 634857.50, 3326353.45; 634845.42, 3326359.45; 634834.52, 3326350.49; 634825.40, 3326349.83; 634836.96, 3326364.04; 634826.29, 3326377.25; 634832.03, 3326385.70; 634829.90, 3326391.58; 634813.38, 3326384.42; 634800.47, 3326393.77; 634787.88, 3326387.34; 634773.46, 3326391.34; 634752.14, 3326401.54; 634735.97, 3326396.77; 634719.55, 3326401.47; 634696.20, 3326397.76; 634690.80, 3326375.40; 634679.81, 3326385.80; 634663.28, 3326395.31; 634623.64, 3326406.24; 634595.15, 3326417.38; 634539.82, 3326435.84; 634460.22, 3326455.99; 634398.21, 3326456.05; 634379.22, 3326452.77; 634375.86, 3326444.38; 634380.00, 3326421.89; 634393.81, 3326410.31; 634416.15, 3326391.08; 634423.52, 3326382.53; 634433.45, 3326367.36; 634453.21, 3326355.94; 634471.94, 3326338.56; 634499.08, 3326317.83; 634516.97, 3326302.05; 634532.58, 3326281.84; 634548.88, 3326265.96; 634566.08, 3326246.23; 634596.32, 3326229.14; 634623.66, 3326216.72; 634645.45, 3326209.40; 634662.98, 3326201.85; 634686.57, 3326187.96; 634700.25, 3326174.26; 634741.57, 3326159.07; 634760.70, 3326157.56; 634772.74, 3326152.68; 634789.66, 3326127.76; 634817.82, 3326099.13; 634841.76, 3326079.13; 634863.88, 3326053.53; 634895.90, 3326028.56; 634915.87, 3326009.27; 634937.45, 3325988.78; 634966.96, 3325974.67; 634985.86, 3325960.66; 635014.13, 3325959.00; 635041.07, 3325962.49; 635057.41, 3325963.46; 635079.82, 3325968.52; 635107.09, 3325992.24; 635129.63, 3326012.28; 635143.20, 3326025.67; 635167.60, 3326035.40; 635190.06, 3326043.52; 635228.10, 3326047.66; 635240.81, 3326048.36; 635253.14, 3326016.58; 635246.54, 3325994.19; 635230.76, 3325973.94; 635226.46, 3325955.23; 635229.54, 3325943.82; 635240.76, 3325940.11; 635248.59, 3325944.68; 635257.42, 3325956.82; 635265.43, 3325970.51; 635285.35, 3326000.35; 635300.72, 3326021.34; 635314.48, 3326027.24; 635320.95, 3326038.08; 635333.40, 3326049.13; 635323.66, 3326057.19; 635333.60, 3326087.96; 635342.30, 3326090.18; 635346.95, 3326095.04; 635348.76, 3326086.35; 635335.22, 3326024.14; 635330.10, 3325990.74; 635316.31, 3325970.17; 635309.99, 3325952.97; 635287.67, 3325923.88; 635262.51, 3325897.09; 635241.69, 3325871.59; 635231.48, 3325851.49; 635248.48, 3325854.72; 635267.47, 3325873.80; 635286.10, 3325892.13; 635312.14, 3325930.86; 635326.90, 3325960.13; 635344.04, 3325989.53; 635349.03, 3326012.63; 635352.82, 3326051.55; 635356.29, 3326088.78; 635362.84, 3326110.86; 635374.34, 3326127.44; 635402.96, 3326127.35; 635438.80, 3326109.21; 635459.87, 3326108.99; 635474.52, 3326111.30; 635491.02, 3326119.27; 635497.12, 3326129.35; 635491.74, 3326137.89; 635477.40, 3326138.71; 635460.58, 3326144.28; 635449.87, 3326158.68; 635444.36, 3326172.40; 635441.61, 3326187.00; 635434.46, 3326202.68; 635422.71, 3326211.12; 635414.17, 3326218.83; 635404.78, 3326228.90; 635395.51, 3326233.41; 635391.35, 3326240.86; 635403.80, 3326267.70; 635434.34, 3326301.37; 635448.08, 3326324.31; 635459.42, 3326347.57; 635459.17, 3326357.49; 635447.75, 3326368.31; 635503.67, 3326436.33; 635517.27, 3326433.05; 635539.30, 3326426.11; 635540.68, 3326403.18; 635528.88, 3326398.51; 635520.35, 3326405.04; 635524.52, 3326382.11; 635522.57, 3326365.02; 635511.19, 3326358.80; 635517.41, 3326348.65; 635529.51, 3326341.84; 635536.40, 3326352.32; 635551.00, 3326356.62; 635556.55, 3326357.19; 635562.16, 3326355.34; 635574.82, 3326357.65; 635585.02, 3326347.17; 635589.43, 3326329.87; 635604.68, 3326323.89; 635613.93, 3326319.75; 635617.18, 3326301.23; 635622.60, 3326307.30; 635636.11, 3326306.82; 635645.08, 3326298.37; 635655.41, 3326280.59; 635666.82, 3326269.39; 635676.54, 3326262.09; 635678.06, 3326249.45; 635691.24, 3326246.97; 635706.58, 3326237.50; 635724.25, 3326230.39; 635736.58, 3326214.47; 635746.88, 3326200.06; 635753.11, 3326189.48; 635759.38, 3326177.34; 635773.53, 3326198.73; 635778.67, 3326200.42; 635778.97, 3326188.57; 635774.56, 3326174.16; 635777.27, 3326160.75; 635788.37, 3326161.84; 635796.55, 3326152.93; 635798.79, 3326142.69; 635816.81, 3326153.82; 635827.89, 3326155.28; 635832.28, 3326139.16; 635843.26, 3326129.14; 635856.93, 3326122.74; 635869.53, 3326111.95; 635880.26, 3326112.22; 635902.59, 3326109.22; 635912.95, 3326092.44; 635921.13, 3326083.16; 635941.44, 3326081.67; 635950.80, 3326073.54; 635964.24, 3326075.88; 635973.53, 3326054.33; 635977.20, 3326035.01; 635985.04, 3326039.14; 636000.86, 3326026.86; 636015.86, 3326015.38; 636041.81, 3326010.85; 636053.46, 3326005.59; 636069.11, 3326015.53; 636071.92, 3325998.94; 636084.27, 3325997.63; 636094.79, 3325989.96; 636099.45, 3325979.03; 636129.88, 3325969.87; 636135.27, 3325960.90; 636146.19, 3325953.62; 636148.08, 3325942.18; 636157.77, 3325935.68; 636169.78, 3325932.42; 636174.10, 3325918.68; 636185.91, 3325907.49; 636194.39, 3325902.14; 636206.97, 3325892.16; 636217.54, 3325882.88; 636222.51, 3325875.07; 636247.16, 3325874.88; 636244.57, 3325898.60; 636259.42, 3325893.05; 636265.23, 3325882.89; 636276.52, 3325876.43; 636287.36, 3325872.34; 636296.37, 3325861.89; 636300.02, 3325843.32; 636314.30, 3325844.86; 636319.39, 3325831.57; 636330.79, 3325821.12; 636332.41, 3325804.12; 636340.72, 3325805.52; 636359.08, 3325786.56; 636367.35, 3325789.96; 636376.97, 3325786.64; 636389.82, 3325796.83; 636388.11, 3325786.11; 636401.41, 3325779.33; 636400.51, 3325767.01; 636414.78, 3325768.93; 636418.07, 3325749.22; 636426.78, 3325749.82; 636435.02, 3325754.77; 636429.74, 3325774.49; 636440.57, 3325770.76; 636453.53, 3325761.60; 636454.28, 3325747.33; 636441.42, 3325737.08; 636428.03, 3325731.99; 636420.47, 3325716.76; 636422.58, 3325696.21; 636408.51, 3325702.60; 636392.21, 3325718.42; 636371.56, 3325732.94; 636345.09, 3325742.58; 636311.37, 3325755.65; 636271.27, 3325769.68; 636232.14, 3325792.85; 636206.43, 3325803.32; 636173.70, 3325824.72; 636138.24, 3325843.61; 636120.02, 3325856.64; 636099.26, 3325860.86; 636084.21, 3325874.40; 636045.69, 3325888.10; 636029.00, 3325904.28; 636000.73, 3325921.80; 635974.61, 3325933.06; 635933.14, 3325937.95; 635895.38, 3325954.04; 635838.83, 3325974.03; 635766.50, 3325989.62; 635700.18, 3326003.06; 635673.48, 3326005.94; 635659.34, 3326015.08; 635648.06, 3326020.78; 635623.42, 3326020.91; 635612.68, 3326036.50; 635577.89, 3326029.32; 635542.72, 3326021.25; 635492.86, 3326014.69; 635474.64, 3326011.80; 635456.85, 3326008.23; 635432.32, 3326004.05; 635410.71, 3325994.33; 635385.34, 3325975.90; 635373.02, 3325962.42; 635373.81, 3325930.98; 635369.65, 3325917.39; 635370.21, 3325894.93; 635375.06, 3325881.57; 635393.19, 3325877.53; 635399.97, 3325878.64; 635406.70, 3325877.87; 635429.01, 3325887.42; 635441.22, 3325897.47; 635450.12, 3325907.24; 635464.28, 3325912.72; 635482.27, 3325920.23; 635504.68, 3325925.29; 635517.87, 3325939.10; 635535.43, 3325957.52; 635541.22, 3325966.59; 635555.39, 3325957.09; 635574.94, 3325937.73; 635593.29, 3325919.53; 635603.07, 3325925.77; 635624.95, 3325909.27; 635654.20, 3325900.09; 635675.02, 3325894.24; 635693.33, 3325877.29; 635726.92, 3325872.45; 635743.37, 3325878.55; 635762.15, 3325890.51; 635773.08, 3325898.71; 635780.65, 3325913.95; 635800.61, 3325910.14; 635817.51, 3325901.83; 635837.22, 3325892.77; 635848.12, 3325893.48; 635871.34, 3325890.39; 635908.89, 3325898.89; 635942.50, 3325905.66; 635965.38, 3325897.12; 635979.88, 3325889.19; 635995.26, 3325878.03; 636007.84, 3325852.19; 636024.24, 3325832.38; 636040.59, 3325814.56; 636073.77, 3325791.24; 636083.18, 3325780.80; 636085.20, 3325763.81; 636083.74, 3325743.11; 636097.71, 3325725.23; 636102.55, 3325706.32; 636097.98, 3325682.85; 636086.03, 3325683.74; 636083.27, 3325667.38; 636094.50, 3325647.06; 636106.16, 3325642.24; 636115.90, 3325634.55; 636114.82, 3325613.93; 636121.42, 3325588.69; 636141.16, 3325578.51; 636151.45, 3325564.47; 636150.73, 3325545.41; 636153.76, 3325535.63; 636151.62, 3325526.40; 636150.61, 3325519.26; 636158.66, 3325515.09; 636160.52, 3325504.09; 636166.39, 3325492.31; 636164.79, 3325476.79; 636178.02, 3325472.38; 636184.16, 3325480.90; 636217.04, 3325485.66; 636222.75, 3325542.48; 636228.82, 3325553.75; 636222.29, 3325576.18; 636220.94, 3325598.31; 636215.72, 3325616.47; 636223.03, 3325625.77; 636238.13, 3325625.71; 636249.84, 3325634.37; 636249.31, 3325608.14; 636251.55, 3325566.62; 636256.40, 3325548.08; 636263.61, 3325530.03; 636290.80, 3325507.37; 636321.63, 3325498.59; 636349.61, 3325460.85; 636350.69, 3325434.34; 636344.38, 3325416.70; 636341.72, 3325396.04; 636345.27, 3325381.46; 636360.57, 3325373.54; 636372.20, 3325353.61; 636380.81, 3325327.29; 636381.75, 3325290.05; 636385.74, 3325273.86; 636413.30, 3325252.77; 636429.34, 3325215.53; 636449.99, 3325185.09; 636464.41, 3325180.71; 636466.22, 3325187.93; 636494.48, 3325170.79; 636501.31, 3325151.55; 636496.37, 3325127.20; 636495.89, 3325098.66; 636498.24, 3325069.01; 636514.01, 3325058.29; 636529.80, 3325046.83; 636543.02, 3325011.46; 636559.34, 3324963.12; 636593.95, 3324923.10; 636600.10, 3324907.09; 636596.94, 3324890.71; 636593.72, 3324860.92; 636606.11, 3324826.34; 636622.23, 3324802.15; 636635.37, 3324769.58; 636661.04, 3324729.03; 636679.97, 3324703.72; 636710.84, 3324693.02; 636746.28, 3324690.72; 636792.54, 3324700.26; 636821.71, 3324709.67; 636864.27, 3324724.66; 636901.69, 3324738.27; 636944.85, 3324744.11; 636971.58, 3324755.89; 636996.69, 3324753.71; 637030.79, 3324763.31; 637041.68, 3324765.96; 637044.93, 3324747.81; 637043.77, 3324730.37; 637024.64, 3324700.92; 637023.70, 3324686.66; 637027.48, 3324651.86; 637027.29, 3324612.22; 637003.13, 3324545.82; 637000.65, 3324528.71; 636991.66, 3324511.82; 636991.83, 3324489.60; 636995.89, 3324470.66; 637006.52, 3324458.70; 637015.67, 3324442.63; 637017.61, 3324428.45; 637012.72, 3324407.67; 637007.37, 3324393.30; 637012.49, 3324371.58; 637021.31, 3324352.76; 637020.21, 3324333.69; 637014.82, 3324310.96; 637011.39, 3324289.46; 637005.33, 3324261.59; 637006.85, 3324233.11; 636994.12, 3324201.82; 636981.87, 3324167.87; 636973.20, 3324117.71; 636975.36, 3324063.02; 636994.09, 3324017.36; 637019.12, 3323976.17; 637036.52, 3323958.56; 637079.19, 3323921.56; 637113.94, 3323899.09; 637156.16, 3323879.93; 637202.87, 3323871.99; 637231.58, 3323868.34; 637261.83, 3323866.36; 637283.38, 3323863.28; 637302.60, 3323857.46; 637324.97, 3323852.84; 637344.78, 3323839.86; 637351.72, 3323832.92; 637343.66, 3323821.23; 637306.38, 3323818.29; 637296.89, 3323800.64; 637297.09, 3323792.71; 637280.27, 3323781.18; 637268.59, 3323771.77; 637260.18, 3323758.89; 637249.53, 3323755.44; 637241.17, 3323740.18; 637235.39, 3323732.86; 637232.76, 3323711.38; 637225.57, 3323712.82; 637216.29, 3323702.29; 637228.04, 3323693.84; 637225.62, 3323679.11; 637216.75, 3323668.59; 637208.76, 3323638.67; 637201.27, 3323620.63; 637205.55, 3323608.44; 637200.22, 3323598.82; 637196.61, 3323584.43; 637191.42, 3323570.01; 637192.93, 3323557.37; 637202.84, 3323558.44; 637205.45, 3323549.01; 637196.26, 3323551.15; 637192.04, 3323545.49; 637189.13, 3323534.31; 637195.80, 3323522.18; 637188.81, 3323515.70; 637190.00, 3323499.87; 637194.47, 3323496.36; 637200.17, 3323506.81; 637211.63, 3323509.09; 637220.22, 3323499.82; 637220.33, 3323479.22; 637226.35, 3323477.00; 637228.57, 3323467.51; 637232.34, 3323460.49; 637238.68, 3323460.65; 637240.65, 3323446.03; 637246.81, 3323438.25; 637259.13, 3323438.19; 637267.23, 3323432.03; 637274.58, 3323408.80; 637286.58, 3323390.07; 637297.86, 3323399.53; 637306.59, 3323400.50; 637306.16, 3323385.82; 637300.83, 3323377.00; 637314.44, 3323372.54; 637313.03, 3323365.76; 637309.47, 3323364.93; 637311.38, 3323352.68; 637318.06, 3323339.73; 637325.79, 3323332.81; 637332.08, 3323335.34; 637335.29, 3323333.86; 637333.86, 3323328.27; 637331.37, 3323316.29; 637333.58, 3323307.67; 637347.30, 3323299.65; 637348.94, 3323281.83; 637360.73, 3323271.08; 637370.69, 3323254.67; 637380.85, 3323245.81; 637392.90, 3323240.93; 637401.17, 3323243.51; 637407.03, 3323232.17; 637414.83, 3323222.51; 637425.10, 3323209.66; 637437.94, 3323204.05; 637444.60, 3323208.15; 637448.30, 3323218.98; 637456.97, 3323238.30; 637469.92, 3323249.18; 637475.73, 3323255.25; 637479.50, 3323263.28; 637478.32, 3323278.35; 637473.34, 3323286.90; 637471.92, 3323295.61; 637452.21, 3323305.04; 637450.00, 3323314.09; 637445.39, 3323323.09; 637440.00, 3323332.07; 637443.79, 3323339.28; 637437.58, 3323349.05; 637439.40, 3323355.84; 637444.00, 3323362.70; 637449.78, 3323369.96; 637454.48, 3323372.89; 637449.03, 3323384.23; 637440.14, 3323389.57; 637429.23, 3323396.78; 637421.17, 3323400.95; 637416.99, 3323409.21; 637428.36, 3323415.42; 637441.85, 3323416.14; 637444.46, 3323422.95; 637453.25, 3323421.61; 637463.96, 3323422.25; 637471.74, 3323429.19; 637480.79, 3323432.60; 637495.97, 3323444.84; 637487.30, 3323458.11; 637475.93, 3323467.75; 637467.19, 3323483.01; 637465.65, 3323496.83; 637476.34, 3323498.66; 637489.88, 3323497.81; 637499.58, 3323507.17; 637494.50, 3323519.34; 637485.95, 3323527.05; 637478.24, 3323533.60; 637470.44, 3323542.95; 637460.36, 3323548.63; 637454.58, 3323557.60; 637445.25, 3323564.48; 637436.21, 3323576.92; 637428.76, 3323588.22; 637417.93, 3323592.32; 637410.03, 3323590.56; 637404.79, 3323592.80; 637398.87, 3323607.32; 637392.98, 3323619.84; 637386.92, 3323623.69; 637387.48, 3323633.19; 637378.33, 3323633.77; 637375.27, 3323644.37; 637380.94, 3323656.00; 637374.84, 3323661.40; 637368.10, 3323660.85; 637364.76, 3323667.14; 637365.84, 3323671.47; 637378.74, 3323680.16; 637395.92, 3323677.04; 637417.99, 3323684.33; 637430.46, 3323694.14; 637445.16, 3323694.51; 637456.90, 3323701.92; 637471.05, 3323707.83; 637482.81, 3323714.49; 637491.24, 3323727.00; 637503.45, 3323731.24; 637515.42, 3323745.40; 637525.66, 3323764.33; 637531.87, 3323786.27; 637531.35, 3323806.86; 637543.49, 3323814.34; 637557.64, 3323820.63; 637570.46, 3323832.06; 637586.12, 3323841.57; 637597.38, 3323852.53; 637605.05, 3323863.46; 637614.66, 3323876.37; 637621.83, 3323891.22; 637627.21, 3323898.85; 637635.54, 3323899.06; 637640.67, 3323884.96; 637648.15, 3323872.03; 637658.95, 3323869.56; 637670.01, 3323856.36; 637681.00, 3323830.48; 637697.00, 3323810.65; 637703.25, 3323799.33; 637698.10, 3323782.90; 637690.93, 3323768.05; 637681.16, 3323761.50; 637685.17, 3323743.75; 637694.16, 3323734.49; 637705.16, 3323723.65; 637713.79, 3323712.39; 637717.25, 3323701.74; 637712.59, 3323681.39; 637707.47, 3323663.85; 637702.71, 3323647.87; 637707.11, 3323631.32; 637700.98, 3323621.67; 637697.28, 3323610.84; 637697.72, 3323593.44; 637702.38, 3323582.44; 637705.02, 3323572.21; 637704.52, 3323560.34; 637700.43, 3323549.50; 637693.56, 3323538.21; 637687.60, 3323521.83; 637678.82, 3323507.75; 637671.60, 3323494.46; 637671.90, 3323482.61; 637675.00, 3323470.02; 637671.13, 3323450.44; 637665.60, 3323433.26; 637664.79, 3323418.20; 637672.55, 3323409.65; 637683.53, 3323400.07; 637696.86, 3323375.81; 637705.29, 3323356.98; 637711.84, 3323333.74; 637722.64, 3323299.55; 637723.08, 3323282.15; 637725.82, 3323267.92; 637733.64, 3323257.44; 637735.79, 3323251.13; 637738.52, 3323236.90; 637740.45, 3323223.91; 637745.36, 3323202.24; 637743.51, 3323165.30; 637739.52, 3323135.05; 637748.17, 3323107.18; 637757.94, 3323097.88; 637775.48, 3323095.95; 637782.06, 3323087.00; 637782.82, 3323073.16; 637789.57, 3323057.47; 637797.77, 3323047.38; 637808.32, 3323038.53; 637821.23, 3323031.30; 637836.16, 3323022.57; 637850.04, 3323008.25; 637863.19, 3322990.72; 637869.67, 3322970.29; 637866.57, 3322951.61; 637861.88, 3322932.83; 637864.48, 3322908.73; 637863.38, 3322888.85; 637861.02, 3322872.19; 637866.49, 3322844.55; 637871.76, 3322824.89; 637892.16, 3322804.00; 637897.29, 3322789.83; 637911.75, 3322783.83; 637923.01, 3322731.43; 637928.83, 3322705.42; 637939.29, 3322684.64; 637957.15, 3322670.43; 637970.49, 3322645.79; 637974.55, 3322626.48; 637984.63, 3322605.32; 638001.10, 3322582.39; 638017.39, 3322566.95; 638028.99, 3322548.20; 638035.29, 3322519.39; 638041.23, 3322504.13; 638059.23, 3322484.35; 638075.97, 3322466.55; 638088.50, 3322442.64; 638098.89, 3322424.68; 638110.92, 3322420.24; 638126.72, 3322408.71; 638143.49, 3322389.72; 638159.25, 3322363.96; 638170.54, 3322341.65; 638197.55, 3322311.43; 638227.72, 3322297.15; 638219.98, 3322247.45; 638155.71, 3322228.10; 638125.60, 3322264.42; 638111.27, 3322296.15; 638091.21, 3322335.28; 638058.06, 3322373.34; 638020.40, 3322416.40; 637971.48, 3322464.66; 637938.33, 3322502.72; 637899.89, 3322544.95; 637866.05, 3322594.41; 637846.10, 3322644.66; 637746.00, 3322721.04; 637710.19, 3322769.64; 637679.97, 3322801.40; 637624.02, 3322876.52; 637558.14, 3322919.62; 637485.94, 3323008.19; 637444.59, 3323056.27; 637367.79, 3323138.42; 637324.28, 3323192.39; 637300.69, 3323229.49; 637269.57, 3323265.54; 637218.24, 3323315.37; 637193.06, 3323352.00; 637160.85, 3323399.95; 637127.56, 3323442.74; 637087.94, 3323485.32; 637058.07, 3323505.10; 637023.02, 3323568.89; 636977.59, 3323636.35; 636940.18, 3323701.20; 636880.33, 3323758.00; 636829.53, 3323802.28; 636813.75, 3323860.13; 636796.59, 3323894.59; 636787.73, 3323930.45; 636779.27, 3323974.43; 636708.71, 3324061.05; 636673.36, 3324122.83; 636632.42, 3324186.41; 636567.83, 3324272.80; 636496.48, 3324360.20; 636435.29, 3324422.46; 636375.32, 3324499.04; 636289.81, 3324642.77; 636201.06, 3324757.83; 636123.51, 3324869.30; 636051.68, 3324943.59; 635980.85, 3325009.59; 635908.79, 3325061.28; 635826.26, 3325134.48; 635738.99, 3325206.44; 635717.30, 3325246.72; 635685.58, 3325290.68; 635652.57, 3325334.80; 635570.27, 3325398.89; 635530.28, 3325424.04; 635471.94, 3325451.91; 635405.11, 3325501.35; 635330.73, 3325519.70; 635278.50, 3325541.80; 635196.74, 3325599.98; 635151.57, 3325641.66; 635138.57, 3325684.16; 635116.69, 3325716.07; 635093.85, 3325754.76; 635049.34, 3325786.16; 634991.96, 3325823.54; 634946.86, 3325862.05; 634931.56, 3325901.67; 634922.46, 3325937.28; 634872.35, 3325972.28; 634802.23, 3326007.97; 634748.88, 3326041.15; 634703.03, 3326071.46; 634687.93, 3326095.86; 634641.89, 3326124.41; 634566.38, 3326149.42; 634493.83, 3326173.00; 634457.25, 3326189.49; 634408.63, 3326226.35; 634384.62, 3326264.19; 634349.97, 3326282.36; 634305.06, 3326297.84; 634261.18, 3326320.14; 634212.79, 3326363.30; 634165.23, 3326389.45; 634094.60, 3326415.82; 634008.99, 3326453.68; 633959.74, 3326467.92; 633914.21, 3326476.33; 633830.27, 3326495.19; 633774.21, 3326527.49; 633760.70, 3326543.38; 633738.79, 3326586.71; 633717.12, 3326622.81; 633695.63, 3326671.39; 633681.67, 3326706.62; 633667.35, 3326737.79; 633661.16, 3326760.91; 633652.83, 3326776.19; 633630.64, 3326820.82; 633614.52, 3326861.24; 633602.67, 3326889.85; 633593.97, 3326919.40; 633577.01, 3326961.36; 633550.90, 3327003.53; 633539.27, 3327039.69; 633528.59, 3327068.76; 633510.73, 3327098.84; 633486.25, 3327140.23; 633475.72, 3327163.38; 633465.98, 3327187.29; 633466.90, 3327213.47; 633480.08, 3327242.33

636703.03, 3325565.89; 636459.20, 3325736.96; 636462.55, 3325730.30; 636470.16, 3325727.69; 636475.00, 3325725.06; 636472.70, 3325721.82; 636467.63, 3325718.13; 636468.57, 3325711.79; 636474.27, 3325706.82; 636474.39, 3325702.07; 636474.52, 3325696.90; 636478.28, 3325689.88; 636485.82, 3325690.07; 636490.46, 3325695.30; 636493.26, 3325694.62; 636498.17, 3325689.19; 636502.48, 3325691.23; 636504.60, 3325701.59; 636503.27, 3325707.11; 636499.70, 3325707.46; 636495.22, 3325711.28; 636491.29, 3325709.62; 636488.13, 3325708.73; 636486.38, 3325715.05; 636485.00, 3325722.51; 636480.14, 3325726.00; 636480.42, 3325730.75; 636486.09, 3325726.53; 636494.68, 3325717.19; 636501.17, 3325711.86; 636506.79, 3325709.57; 636510.83, 3325707.30; 636522.86, 3325702.86; 636531.30, 3325699.14; 636542.19, 3325693.05; 636553.83, 3325688.59; 636571.02, 3325684.66; 636582.54, 3325684.57; 636589.51, 3325676.01; 636598.12, 3325666.30; 636603.80, 3325661.33; 636599.59, 3325655.23; 636601.70, 3325650.16; 636606.62, 3325644.36; 636611.40, 3325643.29; 636610.78, 3325636.91; 636614.08, 3325632.25; 636619.19, 3325634.37; 636627.18, 3325632.58; 636625.72, 3325627.36; 636633.09, 3325619.24; 636639.77, 3325621.78; 636641.63, 3325627.01; 636642.30, 3325631.77; 636647.83, 3325633.47; 636658.11, 3325619.87; 636682.29, 3325622.48; 636693.91, 3325618.78; 636704.19, 3325605.18; 636721.56, 3325594.13; 636742.45, 3325585.54; 636765.49, 3325570.26; 636794.01, 3325558.25; 636819.72, 3325547.85; 636839.02, 3325538.78; 636856.63, 3325533.67; 636875.00, 3325530.58; 636886.25, 3325525.74; 636900.37, 3325517.73; 636913.27, 3325510.57; 636931.62, 3325507.47; 636942.86, 3325502.95; 636958.03, 3325500.96; 636968.53, 3325494.10; 636968.05, 3325481.79; 636964.33, 3325471.40; 636952.33, 3325474.66; 636949.39, 3325465.09; 636944.10, 3325454.22; 636940.78, 3325444.28; 636929.83, 3325452.68; 636926.34, 3325449.03; 636927.39, 3325439.13; 636931.62, 3325428.94; 636926.00, 3325415.31; 636910.66, 3325409.37; 636898.89, 3325418.63; 636877.62, 3325426.83; 636840.39, 3325437.75; 636817.91, 3325445.93; 636779.99, 3325452.46; 636751.34, 3325453.36; 636728.73, 3325467.84; 636719.15, 3325485.01; 636717.91, 3325502.46; 636710.98, 3325525.26; 636697.08, 3325524.91; 636670.29, 3325530.97; 636637.31, 3325546.37; 636609.56, 3325559.16; 636574.01, 3325581.67; 636552.86, 3325600.55; 636540.53, 3325616.91; 636520.43, 3325625.89; 636498.67, 3325638.01; 636482.48, 3325649.16; 636468.02, 3325670.95; 636462.00, 3325688.65; 636453.88, 3325695.57; 636445.64, 3325707.28; 636437.52, 3325713.82; 636441.37, 3325718.66; 636448.81, 3325723.59; 636455.84, 3325728.14; 636459.20, 3325736.96

638535.15, 3324031.44; 638050.91, 3324390.44; 638044.17, 3324390.27; 638021.29, 3324399.24; 637997.94, 3324410.95; 637990.69, 3324430.56; 637978.62, 3324436.18; 637965.53, 3324435.10; 637955.99, 3324434.86; 637937.44, 3324461.30; 637916.68, 3324481.00; 637888.42, 3324498.15; 637854.05, 3324505.21; 637831.80, 3324505.02; 637808.93, 3324513.56; 637797.02, 3324528.37; 637781.44, 3324531.91; 637764.48, 3324526.73; 637754.27, 3324521.30; 637741.89, 3324524.17; 637724.66, 3324529.73; 637709.41, 3324534.83; 637692.95, 3324541.60; 637676.80, 3324551.49; 637660.17, 3324564.93; 637647.96, 3324576.11; 637649.07, 3324594.80; 637637.94, 3324610.38; 637621.83, 3324619.08; 637613.35, 3324639.85; 637592.48, 3324647.68; 637570.59, 3324648.69; 637552.31, 3324649.04; 637527.50, 3324655.54; 637507.47, 3324661.77; 637486.95, 3324671.56; 637470.63, 3324688.19; 637459.03, 3324707.31; 637434.14, 3324732.09; 637413.56, 3324744.62; 637400.71, 3324765.33; 637390.86, 3324793.61; 637387.34, 3324822.48; 637387.27, 3324856.94; 637381.71, 3324888.14; 637370.48, 3324918.63; 637366.89, 3324934.40; 637360.23, 3324946.53; 637328.73, 3325002.91; 637291.28, 3325037.67; 637258.24, 3325086.78; 637224.41, 3325120.39; 637201.58, 3325158.70; 637182.25, 3325168.89; 637174.65, 3325186.55; 637165.81, 3325205.74; 637145.22, 3325234.13; 637133.04, 3325270.59; 637128.65, 3325287.14; 637107.94, 3325304.04; 637090.22, 3325313.52; 637068.95, 3325321.28; 637045.46, 3325328.00; 637053.30, 3325332.50; 637055.88, 3325340.49; 637068.07, 3325345.61; 637059.94, 3325352.89; 637051.37, 3325361.79; 637046.75, 3325371.98; 637049.00, 3325376.84; 637069.93, 3325382.11; 637076.92, 3325388.59; 637079.89, 3325397.41; 637075.29, 3325406.03; 637080.41, 3325407.72; 637091.93, 3325403.14; 637101.86, 3325403.39; 637115.27, 3325407.29; 637122.88, 3325405.11; 637125.80, 3325400.00; 637134.89, 3325401.85; 637144.82, 3325402.10; 637151.60, 3325401.46; 637160.89, 3325395.33; 637162.23, 3325389.43; 637172.37, 3325381.38; 637180.43, 3325376.84; 637184.18, 3325370.57; 637181.11, 3325365.75; 637184.52, 3325357.09; 637192.87, 3325356.49; 637187.83, 3325351.62; 637186.37, 3325346.47; 637191.62, 3325343.04; 637197.94, 3325344.76; 637204.69, 3325345.30; 637203.66, 3325338.16; 637203.85, 3325330.61; 637207.91, 3325327.59; 637218.66, 3325326.62; 637227.80, 3325326.85; 637234.96, 3325327.03; 637245.22, 3325329.72; 637250.44, 3325327.42; 637243.83, 3325321.76; 637239.21, 3325316.09; 637237.42, 3325308.49; 637242.30, 3325303.43; 637252.18, 3325305.68; 637253.13, 3325299.77; 637253.77, 3325290.67; 637256.91, 3325291.94; 637265.10, 3325298.07; 637271.24, 3325306.97; 637282.59, 3325313.62; 637287.96, 3325305.39; 637296.85, 3325299.68; 637302.66, 3325290.34; 637308.93, 3325278.20; 637314.40, 3325266.04; 637323.69, 3325259.91; 637336.03, 3325259.85; 637340.26, 3325249.65; 637353.81, 3325247.62; 637363.99, 3325238.33; 637375.97, 3325235.88; 637379.13, 3325221.29; 637388.40, 3325215.97; 637396.44, 3325212.18; 637391.12, 3325202.93; 637403.17, 3325198.12; 637414.50, 3325190.10; 637419.03, 3325183.47; 637424.40, 3325175.24; 637431.66, 3325171.87; 637440.40, 3325171.27; 637446.97, 3325163.51; 637445.36, 3325148.43; 637446.87, 3325135.79; 637454.66, 3325126.44; 637435.48, 3325114.47; 637444.80, 3325107.59; 637455.73, 3325099.56; 637457.99, 3325088.88; 637449.84, 3325081.56; 637440.03, 3325076.57; 637446.57, 3325068.80; 637460.84, 3325070.35; 637476.79, 3325068.38; 637467.59, 3325055.04; 637471.72, 3325049.21; 637480.23, 3325042.31; 637483.91, 3325038.41; 637494.76, 3325033.94; 637502.06, 3325028.19; 637513.25, 3325025.66; 637517.08, 3325015.84; 637519.42, 3325002.04; 637524.88, 3324990.31; 637527.44, 3324982.82; 637541.45, 3324979.24; 637549.36, 3324980.63; 637557.71, 3324980.84; 637559.22, 3324968.14; 637568.14, 3324961.25; 637582.53, 3324958.06; 637588.60, 3324953.84; 637597.96, 3324944.96; 637603.84, 3324932.81; 637614.38, 3324924.34; 637623.82, 3324912.34; 637631.86, 3324908.92; 637640.79, 3324901.66; 637655.09, 3324902.39; 637663.11, 3324899.41; 637667.32, 3324890.03; 637675.47, 3324882.31; 637687.86, 3324879.43; 637691.25, 3324870.78; 637697.76, 3324865.45; 637707.44, 3324859.33; 637712.77, 3324852.72; 637720.44, 3324848.54; 637725.70, 3324844.74; 637731.09, 3324835.77; 637739.02, 3324836.34; 637746.05, 3324825.84; 637745.40, 3324819.83; 637763.22, 3324822.65; 637767.09, 3324811.27; 637766.07, 3324804.50; 637778.38, 3324804.81; 637789.97, 3324802.35; 637800.01, 3324798.24; 637806.11, 3324792.84; 637798.36, 3324785.09; 637803.32, 3324777.72; 637811.72, 3324775.12; 637824.10, 3324772.69; 637834.63, 3324765.40; 637842.84, 3324754.93; 637851.56, 3324740.05; 637864.11, 3324731.25; 637868.65, 3324724.62; 637893.65, 3324726.06; 637901.05, 3324715.95; 637912.82, 3324706.76; 637929.13, 3324705.98; 637933.06, 3324692.16; 637948.52, 3324694.17; 637965.36, 3324687.86; 637966.38, 3324679.14; 637977.21, 3324675.48; 637986.45, 3324671.35; 637985.52, 3324661.02; 637991.37, 3324650.06; 638007.69, 3324648.85; 638008.68, 3324641.38; 638006.09, 3324633.39; 638018.01, 3324633.69; 638026.39, 3324632.28; 638037.70, 3324625.44; 638043.81, 3324619.67; 638041.28, 3324609.30; 638047.44, 3324601.53; 638061.76, 3324601.08; 638073.48, 3324593.45; 638088.04, 3324583.52; 638087.54, 3324571.58; 638091.37, 3324561.81; 638105.38, 3324557.80; 638122.28, 3324549.92; 638128.88, 3324540.16; 638138.21, 3324532.47; 638152.35, 3324524.09; 638160.91, 3324515.56; 638184.57, 3324507.48; 638188.48, 3324494.10; 638192.70, 3324484.28; 638210.18, 3324484.72; 638219.79, 3324481.78; 638237.65, 3324467.18; 638253.36, 3324459.27; 638253.96, 3324450.93; 638264.77, 3324448.01; 638274.86, 3324441.96; 638287.88, 3324430.37; 638293.28, 3324421.02; 638300.60, 3324414.08; 638298.87, 3324404.12; 638288.53, 3324388.37; 638278.81, 3324379.83; 638273.36, 3324375.69; 638279.20, 3324364.35; 638283.10, 3324351.78; 638294.70, 3324348.52; 638315.32, 3324366.89; 638322.91, 3324380.94; 638331.07, 3324388.26; 638337.25, 3324394.78; 638344.47, 3324392.97; 638340.40, 3324380.57; 638351.24, 3324376.47; 638370.86, 3324371.03; 638384.54, 3324363.83; 638391.60, 3324352.14; 638402.31, 3324353.22; 638403.05, 3324339.32; 638410.73, 3324334.40; 638424.69, 3324332.75; 638435.62, 3324324.72; 638438.76, 3324310.13; 638451.31, 3324301.71; 638467.96, 3324303.32; 638475.95, 3324301.96; 638485.16, 3324299.01; 638491.02, 3324286.86; 638499.90, 3324281.52; 638510.21, 3324282.97; 638510.26, 3324265.12; 638517.91, 3324261.38; 638525.13, 3324258.75; 638531.68, 3324250.99; 638536.60, 3324245.18; 638534.45, 3324236.01; 638547.67, 3324231.98; 638560.88, 3324227.94; 638575.30, 3324224.00; 638578.67, 3324216.15; 638584.14, 3324204.37; 638600.46, 3324203.22; 638601.07, 3324194.87; 638606.49, 3324184.71; 638612.82, 3324185.68; 638616.94, 3324179.85; 638611.58, 3324172.16; 638621.26, 3324166.48; 638617.12, 3324157.26; 638628.87, 3324148.81; 638635.54, 3324136.31; 638640.85, 3324130.51; 638648.91, 3324126.35; 638653.05, 3324119.71; 638661.61, 3324111.56; 638674.02, 3324107.94; 638683.63, 3324105.44; 638694.65, 3324093.42; 638700.56, 3324080.08; 638706.30, 3324073.48; 638716.46, 3324064.63; 638728.12, 3324058.99; 638733.80, 3324054.33; 638739.51, 3324048.54; 638751.97, 3324043.30; 638754.89, 3324037.82; 638767.28, 3324034.95; 638765.18, 3324023.84; 638778.74, 3324021.81; 638786.61, 3324025.13; 638789.67, 3324014.16; 638795.79, 3324007.95; 638793.63, 3323999.15; 638805.21, 3323996.70; 638811.65, 3323994.05; 638803.90, 3323985.93; 638812.74, 3323981.84; 638826.01, 3323976.19; 638836.13, 3323968.95; 638838.07, 3323954.70; 638839.52, 3323944.44; 638844.99, 3323933.09; 638849.30, 3323919.72; 638870.95, 3323911.96; 638880.57, 3323892.73; 638892.94, 3323875.25; 638909.10, 3323864.92; 638928.93, 3323866.60; 638922.33, 3323876.36; 638924.24, 3323879.60; 638937.77, 3323879.12; 638957.69, 3323877.25; 638959.94, 3323867.01; 638953.53, 3323852.99; 638959.95, 3323834.93; 638977.11, 3323832.17; 638990.57, 3323834.45; 638995.96, 3323840.95; 639005.46, 3323842.75; 639010.18, 3323829.01; 639020.42, 3323816.97; 639028.77, 3323817.18; 639037.33, 3323808.29; 639049.63, 3323809.03; 639065.25, 3323804.62; 639074.58, 3323796.93; 639079.49, 3323791.56; 639070.52, 3323784.96; 639070.75, 3323775.86; 639083.89, 3323775.00; 639089.20, 3323769.20; 639099.37, 3323759.91; 639096.92, 3323746.36; 639102.84, 3323732.66; 639104.76, 3323720.03; 639105.05, 3323708.55; 639123.50, 3323701.47; 639128.90, 3323692.11; 639126.05, 3323679.31; 639131.41, 3323671.51; 639139.85, 3323668.17; 639144.42, 3323660.36; 639144.66, 3323650.87; 639156.16, 3323651.97; 639158.77, 3323642.93; 639165.26, 3323637.53; 639166.65, 3323630.02; 639175.53, 3323624.31; 639194.33, 3323619.60; 639198.03, 3323615.33; 639211.70, 3323608.55; 639213.93, 3323599.12; 639229.17, 3323594.32; 639229.42, 3323584.41; 639244.99, 3323581.24; 639255.90, 3323574.40; 639265.61, 3323567.90; 639280.09, 3323560.71; 639286.22, 3323554.13; 639299.01, 3323551.33; 639315.53, 3323558.49; 639322.44, 3323551.92; 639326.53, 3323547.21; 639329.07, 3323541.72; 639342.17, 3323542.05; 639345.97, 3323533.47; 639348.93, 3323525.99; 639347.88, 3323520.41; 639335.35, 3323528.83; 639328.94, 3323530.67; 639325.13, 3323524.21; 639317.55, 3323525.58; 639313.03, 3323515.60; 639301.50, 3323531.54; 639290.57, 3323539.19; 639287.00, 3323538.73; 639290.42, 3323529.70; 639295.88, 3323517.91; 639304.50, 3323507.02; 639308.00, 3323494.06; 639319.41, 3323483.61; 639334.00, 3323472.12; 639346.43, 3323452.21; 639354.75, 3323437.75; 639356.70, 3323423.50; 639351.91, 3323407.96; 639343.60, 3323406.94; 639343.92, 3323394.28; 639348.11, 3323385.64; 639355.11, 3323376.33; 639364.04, 3323369.00; 639378.43, 3323365.43; 639386.21, 3323356.89; 639400.16, 3323339.39; 639412.93, 3323321.86; 639416.52, 3323305.34; 639421.15, 3323295.16; 639425.80, 3323284.54; 639434.74, 3323276.09; 639444.49, 3323267.97; 639451.43, 3323261.03; 639459.20, 3323252.11; 639474.93, 3323243.39; 639477.96, 3323233.54; 639492.40, 3323227.98; 639498.56, 3323236.43; 639500.89, 3323253.97; 639488.07, 3323258.39; 639480.27, 3323268.06; 639470.53, 3323275.74; 639464.32, 3323285.51; 639456.11, 3323295.60; 639449.42, 3323308.92; 639449.85, 3323323.60; 639445.61, 3323334.23; 639438.65, 3323341.98; 639432.76, 3323354.50; 639430.48, 3323366.31; 639426.98, 3323378.95; 639415.58, 3323389.72; 639419.73, 3323398.18; 639409.76, 3323415.72; 639410.31, 3323425.66; 639405.38, 3323431.91; 639403.05, 3323445.33; 639414.30, 3323440.43; 639430.64, 3323454.70; 639430.60, 3323471.74; 639428.58, 3323489.17; 639427.50, 3323500.26; 639427.16, 3323513.73; 639433.38, 3323519.01; 639442.47, 3323520.80; 639450.25, 3323511.88; 639453.70, 3323501.29; 639457.22, 3323487.52; 639454.00, 3323473.96; 639445.31, 3323471.74; 639449.63, 3323457.99; 639463.76, 3323449.23; 639477.19, 3323436.90; 639487.34, 3323428.42; 639490.02, 3323417.00; 639486.33, 3323405.79; 639472.89, 3323402.65; 639482.73, 3323391.03; 639481.86, 3323377.90; 639477.81, 3323365.13; 639487.85, 3323361.01; 639494.86, 3323351.33; 639499.95, 3323354.20; 639507.36, 3323359.94; 639512.97, 3323358.09; 639519.05, 3323353.12; 639514.60, 3323340.27; 639501.87, 3323341.20; 639499.26, 3323334.39; 639508.56, 3323327.89; 639510.36, 3323320.00; 639521.31, 3323310.73; 639529.32, 3323308.56; 639536.76, 3323313.12; 639540.87, 3323323.15; 639548.99, 3323316.61; 639549.75, 3323302.77; 639554.34, 3323293.71; 639551.11, 3323280.21; 639554.84, 3323273.93; 639567.90, 3323266.08; 639574.03, 3323259.50; 639585.23, 3323240.37; 639592.59, 3323233.00; 639600.51, 3323218.15; 639610.30, 3323208.48; 639616.08, 3323199.51; 639634.51, 3323194.04; 639644.34, 3323198.22; 639651.76, 3323187.73; 639655.47, 3323182.65; 639656.93, 3323172.01; 639663.84, 3323165.82; 639666.86, 3323155.97; 639691.29, 3323149.09; 639696.96, 3323160.72; 639709.17, 3323149.54; 639709.47, 3323137.63; 639712.10, 3323127.77; 639721.92, 3323116.97; 639731.26, 3323108.84; 639741.04, 3323099.59; 639753.98, 3323090.37; 639755.15, 3323075.79; 639760.55, 3323066.38; 639766.64, 3323061.41; 639775.64, 3323051.28; 639782.04, 3323049.88; 639782.61, 3323043.15; 639792.90, 3323029.18; 639806.03, 3323028.26; 639810.21, 3323020.06; 639819.44, 3323016.74; 639824.66, 3323014.87; 639829.54, 3323026.48; 639834.83, 3323036.91; 639840.46, 3323034.31; 639846.31, 3323038.83; 639851.88, 3323022.74; 639855.06, 3323007.33; 639868.62, 3323005.68; 639877.32, 3323007.08; 639887.61, 3323008.97; 639890.99, 3323001.12; 639893.28, 3322989.26; 639891.64, 3322975.36; 639904.25, 3322963.75; 639917.04, 3322960.96; 639926.31, 3322956.01; 639937.95, 3322951.56; 639948.21, 3322954.19; 639954.75, 3322947.61; 639960.59, 3322936.27; 639961.73, 3322922.82; 639967.78, 3322919.41; 639980.03, 3322922.47; 639988.50, 3322917.56; 639997.93, 3322905.88; 640009.33, 3322895.05; 640021.53, 3322884.31; 640024.84, 3322879.59; 640023.34, 3322875.62; 640017.77, 3322875.85; 639996.87, 3322885.25; 639973.15, 3322895.76; 639943.47, 3322906.13; 639911.77, 3322918.00; 639879.61, 3322932.61; 639842.02, 3322957.44; 639810.67, 3322970.51; 639778.38, 3322989.92; 639752.54, 3323006.31; 639724.42, 3323017.90; 639692.68, 3323030.96; 639621.87, 3323064.88; 639598.43, 3323080.52; 639572.84, 3323096.79; 639550.47, 3323116.83; 639519.39, 3323135.52; 639483.81, 3323175.01; 639460.87, 3323185.92; 639440.01, 3323194.13; 639433.77, 3323220.57; 639423.47, 3323234.92; 639380.21, 3323269.28; 639344.44, 3323284.61; 639276.57, 3323327.72; 639241.00, 3323366.84; 639217.88, 3323401.15; 639205.76, 3323424.63; 639182.04, 3323445.32; 639147.22, 3323460.42; 639108.62, 3323478.05; 639084.44, 3323490.92; 639061.81, 3323505.40; 639054.17, 3323524.62; 639033.66, 3323534.46; 639016.03, 3323555.37; 638993.71, 3323573.47; 638981.22, 3323595.75; 638972.73, 3323617.33; 638957.22, 3323633.17; 638937.08, 3323643.77; 638916.80, 3323644.44; 638905.32, 3323658.45; 638887.41, 3323674.67; 638868.62, 3323695.17; 638843.88, 3323714.39; 638822.91, 3323726.16; 638807.87, 3323739.64; 638800.11, 3323747.75; 638790.43, 3323753.06; 638774.60, 3323766.52; 638753.61, 3323779.10; 638711.02, 3323781.21; 638681.00, 3323789.57; 638661.33, 3323797.75; 638632.20, 3323801.38; 638595.77, 3323811.95; 638565.32, 3323821.92; 638522.99, 3323829.16; 638507.34, 3323850.99; 638479.88, 3323868.15; 638466.03, 3323897.51; 638438.74, 3323907.12; 638420.60, 3323917.34; 638400.25, 3323936.30; 638388.20, 3323957.35; 638385.35, 3323975.13; 638368.03, 3324000.48; 638361.70, 3324014.99; 638351.87, 3324041.71; 638331.41, 3324049.49; 638310.07, 3324060.44; 638282.37, 3324055.37; 638241.69, 3324060.72; 638234.01, 3324065.64; 638202.35, 3324076.39; 638180.20, 3324071.84; 638158.49, 3324065.74; 638134.34, 3324061.94; 638128.14, 3324071.34; 638109.11, 3324085.09; 638096.81, 3324099.89; 638088.56, 3324128.21; 638096.63, 3324138.71; 638111.10, 3324132.33; 638130.04, 3324122.14; 638148.86, 3324116.62; 638152.58, 3324126.64; 638162.08, 3324128.50; 638181.92, 3324129.75; 638194.79, 3324123.33; 638205.85, 3324110.56; 638215.73, 3324097.33; 638235.25, 3324079.59; 638242.92, 3324090.90; 638256.45, 3324105.85; 638274.69, 3324123.41; 638290.03, 3324145.58; 638306.97, 3324166.98; 638313.58, 3324189.00; 638323.49, 3324205.48; 638324.66, 3324222.55; 638341.57, 3324245.20; 638354.65, 3324262.57; 638353.75, 3324281.96; 638326.94, 3324289.59; 638300.83, 3324300.42; 638276.74, 3324310.11; 638269.67, 3324337.71; 638252.93, 3324355.52; 638228.47, 3324363.64; 638214.54, 3324364.47; 638206.81, 3324355.54; 638190.95, 3324353.95; 638162.17, 3324361.16; 638131.70, 3324371.06; 638118.91, 3324373.55; 638102.03, 3324365.20; 638083.01, 3324378.58; 638065.70, 3324387.25; 638050.91, 3324390.44

638046.70, 3324313.61; 638054.88, 3324375.49; 638087.53, 3324357.28; 638083.42, 3324346.87; 638082.07, 3324321.87; 638079.37, 3324302.76; 638072.33, 3324282.36; 638069.15, 3324251.01; 638061.63, 3324233.77; 638051.81, 3324229.16; 638044.35, 3324257.12; 638037.41, 3324280.29; 638028.52, 3324301.92; 638016.81, 3324340.45; 638005.87, 3324363.96; 638009.89, 3324378.36; 638019.19, 3324387.70; 638049.24, 3324378.10; 638054.88, 3324375.49

639402.02, 3321050.13; 638922.38, 3321476.99; 638943.97, 3321503.69; 638978.70, 3321513.68; 639032.71, 3321515.04; 639051.34, 3321517.51; 639067.22, 3321518.28; 639078.59, 3321524.50; 639098.06, 3321530.17; 639114.27, 3321533.32; 639131.32, 3321534.94; 639143.93, 3321539.25; 639158.62, 3321540.00; 639168.86, 3321543.44; 639177.98, 3321544.86; 639179.38, 3321536.59; 639172.73, 3321532.43; 639165.66, 3321529.13; 639157.58, 3321518.19; 639148.09, 3321516.39; 639139.88, 3321510.62; 639128.88, 3321505.60; 639116.20, 3321504.10; 639109.60, 3321513.79; 639097.68, 3321513.49; 639084.39, 3321514.78; 639078.35, 3321502.71; 639063.30, 3321500.33; 639046.83, 3321491.61; 639036.18, 3321488.16; 639034.46, 3321477.44; 639011.64, 3321452.27; 639011.05, 3321444.70; 639019.54, 3321438.61; 639024.34, 3321421.69; 639032.33, 3321419.90; 639028.25, 3321408.68; 639038.26, 3321405.75; 639039.77, 3321393.12; 639043.50, 3321387.28; 639056.31, 3321384.05; 639061.57, 3321380.18; 639060.28, 3321367.92; 639077.75, 3321369.11; 639089.95, 3321373.41; 639094.16, 3321364.40; 639105.33, 3321362.68; 639118.00, 3321364.56; 639122.52, 3321359.12; 639116.42, 3321348.67; 639117.08, 3321338.39; 639119.42, 3321324.59; 639134.21, 3321320.59; 639157.22, 3321322.79; 639185.77, 3321325.07; 639198.10, 3321325.38; 639207.98, 3321327.63; 639216.78, 3321325.48; 639227.19, 3321322.12; 639236.31, 3321322.79; 639233.82, 3321311.24; 639240.23, 3321293.55; 639245.21, 3321285.37; 639243.27, 3321251.99; 639243.97, 3321240.15; 639254.36, 3321222.55; 639267.50, 3321221.26; 639275.94, 3321217.54; 639272.24, 3321206.34; 639268.85, 3321199.51; 639288.11, 3321192.07; 639305.66, 3321190.14; 639317.83, 3321180.52; 639326.82, 3321186.30; 639338.66, 3321189.78; 639346.58, 3321190.79; 639347.67, 3321179.34; 639351.92, 3321168.33; 639367.90, 3321165.18; 639384.68, 3321161.23; 639407.24, 3321149.88; 639420.89, 3321143.91; 639433.97, 3321129.95; 639437.06, 3321117.73; 639463.48, 3321088.37; 639470.21, 3321064.26; 639472.33, 3321043.71; 639477.01, 3321031.16; 639470.53, 3321020.26; 639477.55, 3321009.76; 639485.63, 3321004.78; 639495.41, 3320995.54; 639500.10, 3320982.61; 639510.61, 3320975.32; 639514.76, 3320968.31; 639525.58, 3320964.96; 639521.51, 3320953.38; 639526.47, 3320946.01; 639534.65, 3320936.67; 639540.81, 3320928.89; 639548.88, 3320924.35; 639550.00, 3320910.90; 639562.31, 3320911.58; 639582.59, 3320911.34; 639591.24, 3320930.60; 639608.68, 3320932.60; 639607.01, 3320973.01; 639607.03, 3320987.68; 639604.21, 3321005.02; 639602.59, 3321022.02; 639599.82, 3321037.00; 639601.49, 3321049.34; 639603.87, 3321065.69; 639609.34, 3321069.39; 639596.45, 3321076.18; 639597.01, 3321085.68; 639606.52, 3321102.59; 639608.27, 3321111.74; 639599.16, 3321126.18; 639595.65, 3321139.20; 639599.08, 3321161.08; 639595.12, 3321176.02; 639587.33, 3321184.94; 639579.10, 3321196.22; 639577.63, 3321207.29; 639576.27, 3321214.00; 639572.92, 3321220.66; 639574.08, 3321237.35; 639582.68, 3321243.12; 639580.00, 3321255.35; 639580.46, 3321268.79; 639578.58, 3321279.85; 639579.15, 3321288.98; 639584.98, 3321293.93; 639589.72, 3321295.24; 639587.06, 3321305.84; 639585.23, 3321315.72; 639576.53, 3321313.88; 639573.52, 3321322.92; 639578.34, 3321336.52; 639574.40, 3321351.09; 639580.97, 3321358.00; 639578.57, 3321374.23; 639572.72, 3321385.95; 639582.09, 3321392.55; 639589.06, 3321400.22; 639589.63, 3321408.60; 639576.38, 3321413.82; 639578.11, 3321424.16; 639585.48, 3321431.84; 639600.37, 3321440.14; 639612.94, 3321446.01; 639598.64, 3321445.28; 639589.24, 3321455.72; 639587.85, 3321463.61; 639579.45, 3321449.91; 639572.05, 3321444.23; 639557.34, 3321444.24; 639546.73, 3321454.64; 639536.91, 3321466.32; 639536.65, 3321476.61; 639521.86, 3321479.42; 639508.19, 3321485.38; 639493.72, 3321492.20; 639482.87, 3321496.67; 639467.85, 3321493.48; 639458.31, 3321477.82; 639470.70, 3321459.10; 639483.95, 3321453.87; 639492.09, 3321446.53; 639490.35, 3321436.62; 639499.19, 3321432.85; 639496.69, 3321421.67; 639494.70, 3321406.20; 639501.29, 3321396.82; 639510.42, 3321397.05; 639519.77, 3321373.50; 639521.61, 3321363.68; 639528.16, 3321355.92; 639522.15, 3321342.29; 639530.27, 3321335.75; 639536.86, 3321326.37; 639546.43, 3321309.19; 639551.00, 3321301.75; 639545.02, 3321286.18; 639538.43, 3321295.88; 639535.77, 3321306.92; 639521.04, 3321323.22; 639515.91, 3321337.32; 639512.01, 3321350.33; 639510.01, 3321366.51; 639505.29, 3321380.32; 639495.78, 3321395.12; 639484.39, 3321404.76; 639479.84, 3321412.13; 639476.68, 3321427.16; 639469.35, 3321434.09; 639451.67, 3321441.20; 639440.61, 3321454.78; 639429.76, 3321459.25; 639416.13, 3321463.65; 639409.15, 3321472.21; 639397.75, 3321467.56; 639385.21, 3321460.50; 639374.49, 3321459.85; 639363.75, 3321459.96; 639364.25, 3321471.89; 639359.35, 3321476.89; 639361.97, 3321483.32; 639369.40, 3321488.63; 639381.36, 3321486.99; 639389.93, 3321494.33; 639380.98, 3321502.03; 639368.16, 3321506.08; 639356.16, 3321508.89; 639343.14, 3321505.45; 639334.06, 3321502.84; 639329.95, 3321508.23; 639319.88, 3321513.54; 639313.80, 3321518.19; 639298.25, 3321519.73; 639290.43, 3321514.79; 639287.15, 3321502.85; 639277.22, 3321502.60; 639270.31, 3321492.87; 639261.39, 3321499.83; 639258.09, 3321504.49; 639252.04, 3321507.89; 639239.50, 3321500.84; 639239.77, 3321506.40; 639233.93, 3321516.93; 639225.51, 3321519.90; 639220.60, 3321509.85; 639211.70, 3321515.99; 639210.63, 3321526.64; 639217.68, 3321530.81; 639217.04, 3321540.72; 639218.05, 3321547.86; 639242.23, 3321550.03; 639267.19, 3321553.84; 639287.72, 3321558.73; 639318.21, 3321563.43; 639340.00, 3321566.42; 639387.87, 3321575.55; 639408.91, 3321576.45; 639439.14, 3321575.66; 639458.97, 3321577.34; 639478.98, 3321571.85; 639505.21, 3321556.28; 639523.51, 3321540.08; 639528.19, 3321543.75; 639550.66, 3321535.21; 639568.61, 3321532.54; 639585.81, 3321528.98; 639604.25, 3321522.32; 639630.23, 3321516.61; 639653.32, 3321515.20; 639676.51, 3321509.85; 639686.64, 3321502.18; 639688.73, 3321482.44; 639689.62, 3321462.61; 639694.57, 3321440.14; 639683.07, 3321407.39; 639686.59, 3321363.04; 639686.78, 3321339.26; 639687.69, 3321319.49; 639676.84, 3321308.48; 639674.70, 3321298.13; 639672.21, 3321286.58; 639670.83, 3321278.62; 639663.65, 3321279.62; 639661.59, 3321266.52; 639667.61, 3321264.30; 639662.30, 3321254.62; 639660.23, 3321241.89; 639664.64, 3321224.59; 639662.66, 3321208.68; 639661.84, 3321193.99; 639659.35, 3321182.38; 639658.05, 3321170.86; 639659.73, 3321151.12; 639660.89, 3321136.85; 639655.47, 3321115.31; 639648.68, 3321101.28; 639644.91, 3321092.88; 639638.48, 3321079.98; 639645.99, 3321065.94; 639634.21, 3321060.09; 639630.93, 3321048.52; 639619.72, 3321035.94; 639619.10, 3321013.33; 639624.61, 3320999.61; 639623.40, 3320984.91; 639621.01, 3320969.37; 639632.26, 3320958.97; 639636.40, 3320984.05; 639650.37, 3321007.68; 639658.13, 3321057.32; 639667.55, 3321104.50; 639692.51, 3321170.55; 639701.56, 3321158.10; 639703.50, 3321144.29; 639705.87, 3321113.83; 639715.81, 3321097.79; 639716.36, 3321072.27; 639730.74, 3321041.92; 639746.67, 3321008.99; 639754.16, 3320995.69; 639770.41, 3320966.39; 639779.29, 3320929.35; 639796.46, 3320910.80; 639805.78, 3320887.63; 639823.65, 3320857.18; 639824.71, 3320830.61; 639839.85, 3320782.24; 639843.43, 3320766.10; 639852.83, 3320725.08; 639857.14, 3320695.47; 639858.80, 3320661.43; 639873.40, 3320634.02; 639884.76, 3320609.34; 639889.98, 3320591.68; 639889.53, 3320578.19; 639881.10, 3320565.30; 639870.50, 3320560.23; 639855.86, 3320557.11; 639837.84, 3320562.59; 639790.64, 3320621.64; 639763.05, 3320659.83; 639665.27, 3320738.21; 639502.90, 3320839.98; 639452.48, 3320900.89; 639371.89, 3320975.76; 639300.92, 3321046.95; 639213.36, 3321129.95; 639132.62, 3321195.33; 639103.31, 3321238.16; 639050.99, 3321279.67; 639027.13, 3321311.15; 638931.36, 3321389.20; 638917.30, 3321426.49; 638914.06, 3321460.11; 638922.38, 3321476.99

639454.86, 3321332.99; 639403.33, 3321419.76; 639410.58, 3321415.94; 639411.91, 3321410.86; 639412.00, 3321407.24; 639412.62, 3321398.14; 639420.30, 3321393.59; 639427.88, 3321391.79; 639425.37, 3321397.28; 639426.02, 3321402.85; 639428.38, 3321403.72; 639435.77, 3321410.27; 639439.27, 3321413.11; 639444.10, 3321410.86; 639445.38, 3321407.33; 639450.03, 3321396.71; 639453.39, 3321389.31; 639457.67, 3321377.12; 639466.42, 3321377.34; 639473.61, 3321375.90; 639478.46, 3321372.46; 639479.82, 3321365.75; 639480.10, 3321354.71; 639481.81, 3321349.57; 639487.05, 3321347.33; 639488.44, 3321339.44; 639486.89, 3321337.40; 639486.27, 3321330.65; 639489.54, 3321327.55; 639490.88, 3321321.27; 639498.85, 3321320.66; 639501.99, 3321321.93; 639505.29, 3321317.27; 639503.01, 3321313.22; 639506.44, 3321303.44; 639511.58, 3321304.32; 639515.21, 3321302.47; 639519.35, 3321295.84; 639514.69, 3321291.35; 639515.27, 3321283.81; 639518.72, 3321273.60; 639519.68, 3321266.88; 639515.45, 3321261.22; 639511.42, 3321263.49; 639504.47, 3321270.87; 639503.94, 3321276.41; 639500.93, 3321285.45; 639498.02, 3321290.49; 639492.98, 3321300.73; 639488.96, 3321302.56; 639483.46, 3321300.49; 639478.72, 3321299.18; 639472.59, 3321305.71; 639474.32, 3321316.11; 639471.86, 3321319.17; 639473.34, 3321323.20; 639478.76, 3321329.27; 639477.39, 3321336.35; 639468.05, 3321343.67; 639467.90, 3321349.60; 639460.76, 3321349.04; 639454.21, 3321340.95; 639456.81, 3321332.71; 639455.35, 3321327.12; 639444.64, 3321326.41; 639438.94, 3321331.83; 639432.89, 3321335.67; 639434.25, 3321344.38; 639431.36, 3321349.11; 639422.57, 3321350.45; 639417.37, 3321351.88; 639418.05, 3321356.27; 639416.68, 3321363.41; 639410.82, 3321359.27; 639409.75, 3321354.50; 639406.55, 3321355.23; 639404.85, 3321359.49; 639401.08, 3321367.33; 639399.71, 3321374.03; 639393.92, 3321383.44; 639390.04, 3321395.20; 639393.51, 3321399.66; 639396.85, 3321408.48; 639396.28, 3321415.58; 639403.33, 3321419.76

634829.72, 3325766.29; 633380.47, 3326477.81; 633329.07, 3326553.52; 633329.81, 3326602.89; 633344.24, 3326658.53; 633366.50, 3326639.35; 633390.59, 3326626.14; 633414.13, 3326634.63; 633428.28, 3326623.14; 633433.03, 3326591.67; 633424.23, 3326548.01; 633403.07, 3326523.79; 633413.91, 3326486.55; 633437.65, 3326487.15; 633442.84, 3326516.89; 633447.58, 3326564.40; 633477.98, 3326614.52; 633499.95, 3326607.17; 633532.79, 3326560.62; 633597.30, 3326514.86; 633789.28, 3326359.78; 633871.83, 3326304.60; 633920.31, 3326266.34; 633946.48, 3326249.23; 633959.45, 3326206.12; 633971.81, 3326186.69; 633998.08, 3326165.63; 634045.51, 3326168.80; 634084.97, 3326156.65; 634150.71, 3326157.63; 634193.01, 3326129.08; 634220.90, 3326121.89; 634225.31, 3326104.23; 634210.33, 3326070.29; 634422.03, 3325996.65; 634536.64, 3325926.49; 634596.10, 3325921.62; 634635.81, 3325919.11; 634629.32, 3325940.66; 634632.63, 3325966.41; 634644.01, 3325986.44; 634677.99, 3325973.48; 634702.82, 3325930.67; 634715.09, 3325915.18; 634701.64, 3325899.05; 634723.44, 3325889.25; 634793.84, 3325853.99; 634824.27, 3325825.14; 634877.73, 3325824.51; 634923.53, 3325813.82; 634920.36, 3325861.13; 634931.23, 3325900.88; 634944.10, 3325861.72; 634986.07, 3325827.82; 635050.38, 3325785.63; 635098.68, 3325751.81; 635122.70, 3325705.10; 635139.03, 3325684.49; 635150.69, 3325640.10; 635204.36, 3325589.90; 635308.96, 3325524.31; 635398.58, 3325502.88; 635467.09, 3325455.25; 635541.29, 3325417.63; 635658.28, 3325331.74; 635736.50, 3325213.28; 635841.23, 3325117.97; 635934.51, 3325041.26; 635979.63, 3325013.81; 636075.18, 3324919.03; 636126.72, 3324864.59; 636204.00, 3324755.05; 636279.68, 3324652.63; 636330.36, 3324575.29; 636204.23, 3324689.31; 636087.88, 3324813.58; 635988.39, 3324893.97; 635942.29, 3324937.78; 635903.80, 3324964.65; 635870.87, 3324987.64; 635761.12, 3325080.72; 635640.25, 3325183.21; 635452.78, 3325316.69; 635365.96, 3325383.60; 635247.14, 3325463.53; 635099.57, 3325559.42; 634768.99, 3325740.83; 634633.01, 3325794.66; 634424.77, 3325888.13; 634030.05, 3326075.62; 633887.44, 3326156.92; 633660.40, 3326289.41; 633578.14, 3326332.74; 633497.66, 3326384.02; 633409.12, 3326441.02; 633380. 47, 3326477.81.

(iii) Note: Map 4, Unit 5 of Choctowhatchee beach mouse, follows:

BILLING CODE 4310-55-P

BILLING CODE 4310-55-C

Perdido Key Beach Mouse (Peromyscus polionotus trissyllepsis)

(1) Critical habitat units are depicted for Escambia County, Florida, and Baldwin County, Alabama, on the maps below.

(2) The primary constituent elements of critical habitat for the Perdido Key beach mouse are the habitat components that provide:

(i) A contiguous mosaic of primary, secondary, and scrub vegetation and dune structure, with a balanced level of competition and predation and few or no competitive or predaceous nonnative species present, that collectively provide foraging opportunities, cover, and burrow sites;

(ii) Primary and secondary dunes, generally dominated by sea oats (Uniola paniculata), that despite occasional temporary impacts and reconfiguration from tropical storms and hurricanes, provide abundant food resources, burrow sites, and protection from predators;

(iii) Scrub dunes, generally dominated by scrub oaks (Quercus spp.), that provide food resources and burrow sites, and provide elevated refugia during and after intense flooding due to rainfall and/or hurricane-induced storm surge;

(iv) Functional, unobstructed habitat connections that facilitate genetic exchange, dispersal, natural exploratory movements, and re-colonization of locally extirpated areas; and

(v) A natural light regime within the coastal dune ecosystem, compatible with the nocturnal activity of beach mice, necessary for normal behavior, growth, and viability of all life stages.

(3) Critical habitat does not include man-made structures existing on the effective date of this rule and not containing one or more of the primary constituent elements, such as buildings, aqueducts, airports, driveways, and roads, and the land on which such structures are located.

(4) Critical Habitat Map Units. Data layers defining map units were created by delineating habitats that contained one or more of the primary constituent elements defined in paragraph (2) of this entry over 1999 and 2004 digital ortho photography at a scale of at least 1:4000.

(5) Note: Map 1 Index of Critical Habitat Units for the Perdido Key beach mouse, follows:

BILLING CODE 4310-55-P

BILLING CODE 4310-55-C

(6) PKBM—Unit 1: Gulf State Park Unit, Baldwin County, Alabama.

(i) General Description: This unit encompasses essential features of beach mouse habitat within the boundary of Gulf State Park from the west tip of Perdido Key at Perdido Pass east to approximately 1 mile (mi) (1.6 kilometers (km)) west of where the Alabama-Florida State line bisects Perdido Key and the area from the mean high water line (MHWL) north to the seaward extent of the maritime forest.

(ii) Coordinates: From USGS 1:24,000 quadrangle map Orange Beach, Alabama, land bounded by the following UTM 16 NAD 83 coordinates (E, N): 447646.90, 3349472.01; 447492.27, 3349555.80; 447493.46, 3349550.54; 447492.60, 3349542.06; 447487.33, 3349540.88; 447466.10, 3349542.49; 447426.82, 3349545.78; 447375.87, 3349549.84; 447340.75, 3349556.40; 447277.86, 3349571.81; 447233.09, 3349583.43; 447195.90, 3349587.83; 447123.74, 3349592.44; 447082.29, 3349597.80; 447078.83, 3349609.34; 447082.64, 3349627.40; 447085.56, 3349638.04; 447109.06, 3349630.15; 447163.55, 3349611.36; 447228.62, 3349592.84; 447286.11, 3349581.52; 447357.41, 3349568.43; 447388.22, 3349564.94; 447403.20, 3349558.95; 447426.52, 3349558.45; 447454.05, 3349559.11; 447492.27, 3349555.80; 447753.29, 3349711.25; 447760.77, 3349736.04; 447763.66, 3349748.00; 447753.63, 3349752.12; 447755.48, 3349774.36; 447753.59, 3349787.00; 447754.47, 3349799.71; 447754.38, 3349820.32; 447753.74, 3349830.21; 447759.54, 3349836.69; 447811.82, 3349827.24; 447838.09, 3349825.09; 447856.72, 3349827.12; 447881.09, 3349821.36; 447907.36, 3349819.61; 447927.64, 3349818.91; 447956.65, 3349818.81; 447976.22, 3349830.77; 447992.63, 3349834.16; 448018.40, 3349831.12; 448037.09, 3349811.22; 448055.79, 3349802.71; 448074.40, 3349792.17; 448096.41, 3349792.70; 448114.76, 3349793.13; 448137.03, 3349782.68; 448148.04, 3349782.94; 448177.22, 3349790.96; 448191.45, 3349809.62; 448209.62, 3349817.37; 448223.94, 3349832.37; 448249.45, 3349840.30; 448279.80, 3349846.35; 448291.40, 3349859.70; 448311.29, 3349863.75; 448329.64, 3349864.19; 448368.33, 3349865.90; 448395.77, 3349862.11; 448408.04, 3349866.45; 448418.04, 3349851.65; 448427.89, 3349850.68; 448440.83, 3349857.72; 448448.65, 3349863.06; 448458.22, 3349861.71; 448474.31, 3349870.02; 448470.39, 3349848.77; 448469.37, 3349841.61; 448469.94, 3349834.09; 448470.06, 3349746.49; 448388.10, 3349722.76; 448274.81, 3349701.74; 448066.73, 3349652.82; 447964.62, 3349624.75; 447754.92, 3349599.15; 447753.29, 3349711.25; 446828.18, 3349177.08; 446788.74, 3349181.69; 446769.28, 3349208.86; 446767.28, 3349247.92; 446775.25, 3349280.06; 446782.18, 3349322.24; 446795.01, 3349350.69; 446801.51, 3349377.80; 446802.73, 3349409.54; 446811.99, 3349454.15; 446837.56, 3349514.61; 446896.76, 3349564.39; 446887.98, 3349582.41; 446896.11, 3349607.97; 446929.73, 3349630.57; 446953.02, 3349637.08; 446969.73, 3349626.62; 446984.14, 3349637.95; 446975.34, 3349650.69; 447000.06, 3349663.57; 447022.45, 3349657.76; 446993.88, 3349639.64; 446978.89, 3349585.37; 447068.47, 3349561.35; 447073.43, 3349586.44; 447084.44, 3349589.07; 447091.86, 3349585.59; 447128.34, 3349583.00; 447157.81, 3349580.13; 447188.50, 3349576.11; 447214.39, 3349573.56; 447263.87, 3349564.83; 447299.49, 3349553.79; 447327.56, 3349543.36; 447355.96, 3349535.32; 447401.54, 3349530.72; 447419.98, 3349527.50; 447464.09, 3349524.89; 447482.44, 3349525.33; 447508.12, 3349525.95; 447511.26, 3349547.99; 447515.63, 3349553.80; 447584.64, 3349549.75; 447669.02, 3349551.76; 447727.64, 3349556.83; 447771.68, 3349563.09; 447773.34, 3349543.71; 447819.71, 3349544.38; 447859.81, 3349556.32; 447908.03, 3349560.00; 447904.75, 3349580.93; 448004.65, 3349606.71; 448136.88, 3349636.19; 448391.19, 3349691.65; 448518.76, 3349723.23; 448524.37, 3349644.98; 448526.52, 3349626.07; 448221.97, 3349557.49; 447946.22, 3349481.14; 447525.39, 3349356.93; 447160.19, 3349255.19; 446914.86, 3349191.20; 446828.18, 3349177.08.

(7) PKBM—Unit 2: West Perdido Key Unit, Escambia County, Florida and Baldwin County, Alabama.

(i) General Description: This unit encompasses essential features of beach mouse habitat from approximately 1 mi (1.6 km) west of where the Alabama-Florida State line bisects Perdido Key east to 2 mi (3.2 km) east of the State line and areas from the MHWL north to the seaward extent of human development or maritime forest.

(ii) Coordinates: From USGS 1:24,000 quadrangle maps Orange Beach, Alabama, and Perdido Bay, Florida, land bounded by the following UTM 16 NAD 83 coordinates (E, N): 449337.40, 3349820.75; 450150.23, 3349948.99; 450150.07, 3349948.96; 450110.12, 3349941.87; 450036.74, 3349928.41; 449865.78, 3349900.01; 449835.15, 3349896.11; 449690.43, 3349877.85; 449581.98, 3349849.89; 449474.18, 3349830.25; 449291.67, 3349805.96; 449065.07, 3349756.15; 448929.16, 3349724.36; 448875.44, 3349711.41; 448743.75, 3349669.31; 448625.71, 3349643.24; 448526.52, 3349626.07; 448524.37, 3349644.98; 448582.14, 3349648.54; 448616.00, 3349650.40; 448613.50, 3349666.20; 448653.71, 3349668.22; 448707.46, 3349680.07; 448743.29, 3349688.33; 448749.74, 3349684.25; 448769.63, 3349694.24; 448784.54, 3349701.88; 448869.86, 3349722.95; 448909.84, 3349734.47; 448934.12, 3349738.22; 449040.54, 3349762.96; 449044.67, 3349767.29; 449126.91, 3349784.05; 449134.20, 3349789.51; 449165.89, 3349793.44; 449202.65, 3349802.14; 449234.33, 3349810.93; 449243.92, 3349809.05; 449309.24, 3349824.35; 449309.24, 3349824.35; 449309.03, 3349832.80; 449303.36, 3349848.52; 449299.95, 3349857.95; 449300.81, 3349866.43; 449296.47, 3349870.55; 449289.06, 3349870.38; 449288.58, 3349890.45; 449323.34, 3349898.68; 449326.60, 3349895.58; 449326.77, 3349888.19; 449328.04, 3349879.76; 449327.05, 3349876.57; 449322.97, 3349870.13; 449323.12, 3349863.79; 449324.31, 3349858.53; 449326.55, 3349853.30; 449327.79, 3349845.93; 449327.99, 3349837.48; 449328.02, 3349827.71; 449349.32, 3349831.65; 449351.57, 3349826.42; 449405.37, 3349835.22; 449424.38, 3349838.73; 449471.57, 3349851.46; 449471.73, 3349857.40; 449598.16, 3349884.71; 449597.83, 3349942.84; 449467.18, 3349912.24; 449415.42, 3349902.99; 449412.39, 3349896.58; 449407.02, 3349899.62; 449400.21, 3349918.48; 449467.76, 3349932.33; 449630.01, 3349967.31; 449632.67, 3349947.90; 449633.28, 3349922.55; 449635.69, 3349907.20; 449651.69, 3349906.08; 449655.72, 3349914.63; 449657.84, 3349914.68; 449659.22, 3349900.97; 449671.93, 3349901.28; 449704.63, 3349909.34; 449701.77, 3349935.20; 449697.15, 3349950.95; 449693.77, 3349959.32; 449695.36, 3349981.56; 449749.08, 3349994.47; 449749.23, 3349988.13; 449750.02, 3349955.38; 449752.10, 3349914.61; 449752.10, 3349914.61; 449784.74, 3349920.41; 449810.13, 3349923.00; 449829.12, 3349929.34; 449908.19, 3349946.03; 449906.59, 3349965.47; 449916.14, 3349964.64; 449939.36, 3349968.36; 449973.07, 3349976.57; 449987.92, 3349975.87; 449997.55, 3349971.87; 450020.80, 3349974.54; 450046.16, 3349979.98; 450059.87, 3349979.70; 450073.54, 3349984.26; 450083.98, 3349993.57; 450150.23, 3350009.73; 450150.42, 3350009.76; 450150.23, 3349948.99; 449645.50, 3350072.32; 449649.58, 3350078.76; 449664.33, 3350082.29; 449686.52, 3350084.93; 449692.67, 3350093.53; 449689.18, 3350106.13; 449699.78, 3350109.11; 449698.49, 3350118.59; 449711.15, 3350121.01; 449718.69, 3350115.91; 449720.88, 3350112.79; 449727.18, 3350115.05; 449729.43, 3350109.82; 449734.72, 3350109.95; 449734.85, 3350104.67; 449741.20, 3350104.82; 449747.35, 3350110.70; 449746.11, 3350118.07; 449753.17, 3350133.03; 449766.51, 3350154.04; 449770.74, 3350154.14; 449780.27, 3350154.37; 449784.41, 3350158.70; 449796.06, 3350158.98; 449800.19, 3350163.30; 449820.20, 3350165.29; 449836.95, 3350176.87; 449846.83, 3350162.31; 449864.86, 3350161.68; 449863.00, 3350151.07; 449862.95, 3350106.06; 449864.06, 3350059.58; 449858.12, 3350045.25; 449809.57, 3350037.75; 449792.67, 3350035.23; 449777.98, 3350029.59; 449740.99, 3350025.54; 449731.61, 3350018.97; 449682.10, 3350007.22; 449656.73, 3350001.77; 449645.50, 3350072.32; 449183.65, 3349894.89; 449180.35, 3349900.10; 449183.30, 3349909.68; 449185.19, 3349919.24; 449179.33, 3349942.35; 449179.68, 3349971.96; 449179.67, 3350016.35; 449190.00, 3350024.44; 449202.63, 3350027.92; 449213.17, 3350030.28; 449223.76, 3350030.53; 449233.19, 3350034.99; 449238.23, 3350045.68; 449241.18, 3350057.99; 449257.92, 3350066.84; 449259.39, 3350049.96; 449254.17, 3350046.67; 449254.54, 3350028.10; 449267.25, 3350028.40; 449268.11, 3350039.60; 449263.72, 3350045.84; 449259.99, 3350069.00; 449277.86, 3350074.72; 449287.31, 3350075.39; 449288.07, 3350043.70; 449290.42, 3350034.24; 449299.15, 3350026.60; 449319.22, 3350029.20; 449321.96, 3350044.51; 449322.67, 3350062.05; 449322.39, 3350073.67; 449345.66, 3350075.28; 449348.49, 3350001.36; 449370.76, 3350000.83; 449371.24, 3349980.76; 449347.99, 3349978.09; 449347.49, 3349954.83; 449369.78, 3349953.25; 449376.54, 3349936.50; 449337.51, 3349929.22; 449285.77, 3349918.92; 449284.24, 3350026.69; 449282.88, 3350039.35; 449277.26, 3350052.95; 449273.32, 3350040.17; 449280.01, 3350026.59; 449280.53, 3349916.68; 449270.02, 3349913.26; 449264.66, 3350004.03; 449267.50, 3350017.84; 449259.94, 3350024.00; 449254.80, 3350017.54; 449259.36, 3350003.90; 449263.66, 3349913.10; 449247.89, 3349911.22; 449183.65, 3349894.89; 448986.63, 3349848.96; 448984.08, 3349866.87; 449010.37, 3349874.89; 449009.13, 3349882.33; 449009.48, 3349911.87; 449010.16, 3349938.64; 449016.10, 3349942.07; 449029.89, 3349941.34; 449042.45, 3349947.98; 449046.24, 3349955.61; 449053.79, 3349960.94; 449059.04, 3349963.18; 449067.58, 3349960.21; 449076.03, 3349961.47; 449077.94, 3349969.97; 449069.29, 3349977.16; 449064.14, 3349984.23; 449069.97, 3349993.03; 449086.10, 3350002.68; 449090.98, 3350014.29; 449118.25, 3350020.49; 449121.70, 3349992.83; 449110.55, 3349982.99; 449119.27, 3349972.63; 449113.69, 3349962.12; 449144.10, 3349936.68; 449142.83, 3349923.57; 449123.43, 3349920.73; 449110.13, 3349912.16; 449097.12, 3349924.53; 449083.32, 3349919.77; 449081.13, 3349911.79; 449094.43, 3349903.79; 449091.08, 3349894.59; 449091.44, 3349879.54; 449082.50, 3349871.33; 448986.63, 3349848.96; 449534.56, 3349974.10; 449526.69, 3349990.21; 449526.10, 3350014.51; 449526.92, 3350027.82; 449526.03, 3350064.79; 449532.28, 3350069.17; 449536.21, 3350081.95; 449540.37, 3350085.22; 449542.44, 3350087.38; 449541.22, 3350093.70; 449560.26, 3350095.21; 449570.72, 3350100.74; 449573.97, 3350097.65; 449581.27, 3350058.71; 449605.57, 3350061.41; 449606.37, 3350069.27; 449620.16, 3350068.55; 449629.69, 3350068.78; 449639.30, 3350065.83; 449648.06, 3350010.02; 449650.38, 3350001.62; 449644.16, 3349998.91; 449534.56, 3349974.10; 449635.33, 3349966.38; 449660.57, 3349974.38; 449661.78, 3349968.07; 449662.01, 3349958.56; 449658.02, 3349947.90; 449656.26, 3349933.06; 449654.53, 3349917.16; 449647.99, 3349924.40; 449646.35, 3349948.68; 449638.84, 3349952.72; 449635.33, 3349966.38; 449152.59, 3349861.83; 449172.61, 3349866.53; 449175.94, 3349860.27; 449177.25, 3349849.73; 449179.67, 3349837.11; 449177.68, 3349831.78; 449172.41, 3349830.59; 449166.16, 3349826.22; 449167.32, 3349822.01; 449163.16, 3349818.74; 449158.75, 3349826.04; 449156.37, 3349836.55; 449152.87, 3349850.21; 449151.63, 3349857.58; 449152.59, 3349861.83; 449086.18, 3349847.56; 449106.25, 3349850.15; 449110.69, 3349841.80; 449110.92, 3349832.29; 449108.17, 3349814.26; 449107.32, 3349805.78; 449103.21, 3349800.40; 449098.97, 3349800.30; 449097.74, 3349807.67; 449093.37, 3349812.85; 449089.01, 3349818.03; 449086.18, 3349847.56; 448967.14, 3349819.34; 448986.09, 3349824.03; 448991.44, 3349822.04; 448991.67, 3349812.53; 448992.93, 3349804.11; 448994.24, 3349793.57; 448994.50, 3349783.00; 448988.25, 3349778.63; 448983.71, 3349791.20; 448981.41, 3349798.55; 448972.66, 3349809.96; 448967.14, 3349819.34; 449331.74, 3349902.05; 449345.48, 3349903.43; 449351.21, 3349885.60; 449348.28, 3349874.96; 449350.63, 3349865.50; 449353.86, 3349863.47; 449355.04, 3349858.21; 449346.57, 3349858.01; 449343.11, 3349869.55; 449341.95, 3349873.75; 449334.54, 3349873.58; 449331.74, 3349902.05; 448994.54, 3349825.28; 449008.23, 3349828.78; 449012.67, 3349820.43; 449016.15, 3349807.83; 449018.52, 3349797.32; 449015.60, 3349786.68; 449008.21, 3349785.45; 449003.80, 3349792.74; 448998.33, 3349800.01; 448995.85, 3349814.75; 448994.54, 3349825.28; 449019.80, 3349832.23; 449034.60, 3349833.64; 449036.95, 3349824.18; 449039.24, 3349816.84; 449035.13, 3349811.46; 449032.11, 3349805.04; 449032.24, 3349799.76; 449037.81, 3349788.27; 449031.48, 3349787.06; 449023.79, 3349798.50; 449018.22, 3349810.00; 449017.96, 3349820.56; 449019.80, 3349832.23; 449133.68, 3349855.03; 449137.84, 3349858.31; 449145.35, 3349854.26; 449148.66, 3349849.05; 449152.06, 3349839.62; 449154.38, 3349831.22; 449153.50, 3349823.80; 449150.50, 3349816.33; 449146.40, 3349810.94; 449139.99, 3349812.91; 449141.83, 3349824.58; 449141.68, 3349830.91; 449139.48, 3349834.03; 449137.21, 3349840.32; 449134.89, 3349848.72; 449133.68, 3349855.03; 449369.71, 3349909.30; 449383.37, 3349913.85; 449387.96, 3349899.16; 449388.27, 3349886.49; 449389.53, 3349878.06; 449383.33, 3349871.57; 449383.51, 3349864.18; 449379.27, 3349864.08; 449378.01, 3349872.50; 449382.09, 3349878.94; 449377.73, 3349884.12; 449372.26, 3349891.39; 449369.71, 3349909.30; 449115.70, 3349853.55; 449123.12, 3349853.73; 449128.59, 3349846.46; 449135.12, 3349839.21; 449135.27, 3349832.88; 449135.40, 3349827.59; 449129.12, 3349824.27; 449124.89, 3349824.17; 449120.73, 3349820.90; 449124.06, 3349814.64; 449124.18, 3349809.36; 449117.83, 3349809.21; 449115.51, 3349817.61; 449115.41, 3349821.83; 449118.48, 3349826.13; 449117.27, 3349832.45; 449117.07, 3349840.90; 449115.70, 3349853.55; 449350.70, 3349906.73; 449360.15, 3349910.13; 449360.38, 3349900.62; 449362.65, 3349894.33; 449368.02, 3349891.29; 449367.14, 3349883.87; 449366.13, 3349881.73; 449370.80, 3349863.87; 449365.50, 3349863.75; 449363.01, 3349879.54; 449356.60, 3349881.50; 449354.36, 3349886.73; 449350.70, 3349906.73; 449065.16, 3349840.71; 449077.79, 3349844.19; 449082.30, 3349832.67; 449084.73, 3349820.04; 449082.81, 3349811.54; 449081.93, 3349804.12; 449082.08, 3349797.78; 449076.79, 3349797.65; 449074.49, 3349805.00; 449069.02, 3349812.27; 449067.86, 3349816.47; 449065.39, 3349831.21; 449065.16, 3349840.71; 449043.05, 3349834.90; 449054.59, 3349839.40; 449060.12, 3349830.02; 449061.38, 3349821.60; 449061.66, 3349809.98; 449057.55, 3349804.59; 449057.83, 3349792.97; 449055.71, 3349792.92; 449053.26, 3349806.61; 449049.96, 3349811.81; 449045.67, 3349813.82; 449043.28, 3349825.39; 449043.05, 3349834.90; 449264.32, 3349885.64; 449272.72, 3349889.01; 449282.27, 3349888.18; 449282.35, 3349885.01; 449284.67, 3349876.61; 449284.77, 3349872.39; 449281.67, 3349869.14; 449278.60, 3349864.84; 449279.78, 3349859.58; 449281.00, 3349853.27; 449281.10, 3349849.04; 449276.78, 3349852.11; 449272.45, 3349856.24; 449267.98, 3349865.64; 449264.50, 3349878.24; 449264.32, 3349885.64; 448931.31, 3349811.09; 448937.61, 3349813.35; 448944.04, 3349810.34; 448946.26, 3349806.16; 448950.70, 3349797.81; 448950.93, 3349788.30; 448951.16, 3349778.80; 448942.76, 3349775.43; 448935.25, 3349779.47; 448931.82, 3349789.96; 448929.40, 3349802.59; 448931.31, 3349811.09; 449671.10, 3349976.75; 449686.94, 3349979.24; 449687.39, 3349960.23; 449680.41, 3349942.09; 449675.35, 3349932.46; 449672.70, 3349954.59; 449671.10, 3349976.75; 448952.46, 3349812.65; 448956.65, 3349814.87; 448959.83, 3349814.94; 448969.56, 3349806.72; 448975.03, 3349799.45; 448976.19, 3349795.25; 448975.34, 3349786.77; 448966.92, 3349784.46; 448959.35, 3349790.62; 448952.77, 3349799.98; 448952.46, 3349812.65; 449216.88, 3349876.05; 449226.36, 3349878.39; 449229.96, 3349860.51; 449231.33, 3349847.86; 449234.76, 3349837.37; 449229.46, 3349837.24; 449230.47, 3349839.38; 449227.04, 3349849.87; 449222.76, 3349851.88; 449220.36, 3349863.45; 449216.88, 3349876.05; 449197.94, 3349870.31; 449206.34, 3349873.68; 449208.53, 3349870.56; 449213.83, 3349870.69; 449215.27, 3349854.87; 449215.52, 3349844.31; 449214.69, 3349834.77; 449209.40, 3349834.65; 449208.26, 3349837.79; 449206.87, 3349851.50; 449198.35, 3349853.41; 449197.94, 3349870.31; 448919.34, 3349780.15; 448913.94, 3349784.25; 448910.54, 3349793.68; 448910.31, 3349803.19; 448913.36, 3349808.55; 448922.89, 3349808.77; 448925.21, 3349800.37; 448927.74, 3349783.52; 448927.84, 3349779.30; 448919.34, 3349780.15; 449181.03, 3349868.85; 449188.39, 3349871.14; 449192.10, 3349849.03; 449187.86, 3349848.93; 449188.37, 3349827.80; 449185.19, 3349827.73; 449181.03, 3349868.85; 449249.53, 3349884.23; 449259.06, 3349884.46; 449260.29, 3349877.09; 449262.56, 3349870.80; 449262.71, 3349864.46; 449261.83, 3349857.04; 449259.89, 3349849.60; 449256.62, 3349853.74; 449251.07, 3349864.18; 449250.84, 3349873.69; 449249.53, 3349884.23; 448901.31, 3349780.78; 448893.77, 3349785.88; 448891.45, 3349794.28; 448891.28, 3349801.68; 448896.47, 3349806.03; 448903.93, 3349804.09; 448906.25, 3349795.69; 448906.53, 3349784.07; 448901.31, 3349780.78; 449233.74, 3349879.62; 449242.16, 3349881.94; 449244.41, 3349876.71; 449246.73, 3349868.31; 449240.53, 3349861.82; 449234.12, 3349863.78; 449231.80, 3349872.18; 449233.74, 3349879.62

451993.83, 3350371.03; 452703.05, 3350634.99; 452704.03, 3350638.18; 452710.36, 3350639.39; 452712.53, 3350637.33; 452713.66, 3350634.18; 452713.79, 3350628.90; 452714.04, 3350618.34; 452713.24, 3350607.75; 452706.89, 3350607.60; 452702.62, 3350608.55; 452703.05, 3350634.99; 453782.71, 3350897.59; 453793.28, 3350898.90; 453796.56, 3350894.75; 453795.98, 3350874.65; 453797.45, 3350857.78; 453794.37, 3350853.47; 453785.62, 3350864.89; 453784.28, 3350876.49; 453782.71, 3350897.59; 450607.54, 3350204.19; 450615.96, 3350206.51; 450619.29, 3350200.25; 450619.64, 3350185.46; 450620.07, 3350167.50; 450618.16, 3350159.00; 450611.83, 3350157.79; 450608.58, 3350160.88; 450606.26, 3350169.28; 450608.12, 3350179.90; 450608.93, 3350190.49; 450608.77, 3350196.82; 450607.54, 3350204.19; 451881.55, 3350474.76; 451896.33, 3350477.22; 451896.60, 3350465.60; 451895.88, 3350451.84; 451894.09, 3350438.06; 451890.91, 3350437.98; 451891.01, 3350433.76; 451890.13, 3350426.34; 451883.80, 3350425.13; 451884.13, 3350455.79; 451882.76, 3350468.44; 451881.55, 3350474.76; 450624.43, 3350206.71; 450631.79, 3350209.00; 450631.94, 3350202.66; 450633.10, 3350198.46; 450633.38, 3350186.84; 450633.56, 3350179.45; 450632.65, 3350173.08; 450635.96, 3350167.88; 450645.46, 3350169.16; 450645.64, 3350161.77; 450640.50, 3350155.30; 450635.23, 3350154.12; 450629.86, 3350157.16; 450624.41, 3350163.37; 450622.51, 3350198.21; 450624.43, 3350206.71; 451488.80, 3350547.04; 451486.14, 3350528.67; 451481.23, 3350526.18; 451480.66, 3350531.56; 451479.21, 3350574.06; 451443.72, 3350573.86; 451444.14, 3350574.42; 451446.66, 3350577.81; 451450.92, 3350580.50; 451452.58, 3350585.93; 451485.88, 3350587.38; 451486.86, 3350582.65; 451496.61, 3350582.02; 451499.58, 3350575.62; 451488.80, 3350547.04; 450383.09, 3350287.25; 450382.53, 3350310.49; 450397.20, 3350317.18; 450408.85, 3350317.46; 450423.63, 3350319.93; 450436.31, 3350321.29; 450455.24, 3350327.02; 450458.47, 3350324.99; 450459.75, 3350315.50; 450444.98, 3350313.04; 450440.75, 3350312.94; 450440.97, 3350303.43; 450399.93, 3350291.88; 450383.09, 3350287.25; 453015.92, 3350797.85; 453023.26, 3350800.16; 453023.39, 3350794.88; 453031.86, 3350795.08; 453034.25, 3350783.51; 453044.87, 3350783.75; 453046.03, 3350735.15; 453019.66, 3350730.29; 453015.92, 3350797.85; 450422.77, 3350179.33; 450422.23, 3350201.51; 450422.66, 3350227.94; 450422.12, 3350250.13; 450427.19, 3350259.76; 450432.21, 3350271.51; 450430.89, 3350282.05; 450439.29, 3350285.42; 450443.57, 3350283.41; 450440.36, 3350196.66; 450435.07, 3350196.53; 450435.42, 3350181.74; 450422.77, 3350179.33; 451937.55, 3350481.38; 451958.60, 3350487.17; 451971.25, 3350489.58; 451970.75, 3350466.32; 451969.27, 3350439.86; 451966.58, 3350419.71; 451956.01, 3350418.40; 451947.52, 3350419.26; 451944.19, 3350425.52; 451942.98, 3350431.83; 451943.55, 3350451.93; 451942.21, 3350463.52; 451937.55, 3350481.38; 451666.83, 3350567.39; 451674.24, 3350567.57; 451679.69, 3350561.36; 451689.19, 3350562.64; 451695.14, 3350580.68; 451703.51, 3350585.10; 451713.63, 3350561.04; 451713.17, 3350534.68; 451713.83, 3350507.21; 451703.07, 3350515.33; 451696.06, 3350522.11; 451685.44, 3350522.91; 451684.18, 3350531.34; 451680.27, 3350538.04; 451669.53, 3350543.15; 451666.83, 3350567.39; 451405.16, 3350583.71; 451417.86, 3350584.41; 451419.36, 3350571.37; 451417.02, 3350536.43; 451418.01, 3350478.98; 451411.54, 3350466.94; 451392.65, 3350470.91; 451392.01, 3350497.32; 451394.32, 3350532.34; 451403.43, 3350540.07; 451403.22, 3350548.79; 451400.78, 3350551.11; 451403.84, 3350555.94; 451403.19, 3350561.01; 451395.73, 3350562.95; 451394.72, 3350571.57; 451403.42, 3350573.37; 451405.16, 3350583.71; 451930.48, 3350526.11; 451932.49, 3350530.13; 451942.72, 3350534.34; 451947.14, 3350537.71; 451946.11, 3350546.44; 451943.92, 3350552.70; 451936.14, 3350553.73; 451932.25, 3350554.05; 451930.93, 3350558.29; 451936.10, 3350561.93; 451943.31, 3350559.33; 451940.80, 3350564.42; 451940.69, 3350569.17; 451944.88, 3350576.41; 451940.48, 3350576.85; 451941.12, 3350584.24; 451944.29, 3350584.72; 451943.23, 3350589.74; 451940.89, 3350593.75; 451944.82, 3350595.43; 451948.30, 3350599.48; 451947.29, 3350607.76; 451951.96, 3350612.65; 451952.18, 3350620.18; 451954.10, 3350622.61; 451959.36, 3350618.77; 451956.28, 3350614.73; 451957.21, 3350609.20; 451960.13, 3350608.47; 451963.53, 3350610.54; 451964.55, 3350617.70; 451969.34, 3350617.03; 451970.22, 3350613.48; 451967.17, 3350607.86; 451973.20, 3350605.23; 451977.53, 3350606.92; 451977.63, 3350602.56; 451977.04, 3350594.22; 451976.76, 3350589.06; 451972.82, 3350581.69; 451966.97, 3350578.91; 451971.96, 3350573.88; 451971.11, 3350567.81; 451966.44, 3350566.68; 451962.15, 3350567.19; 451955.89, 3350564.78; 451956.52, 3350555.28; 451959.38, 3350551.78; 451966.62, 3350548.39; 451969.80, 3350554.34; 451973.17, 3350556.87; 451979.53, 3350556.62; 451980.50, 3350549.12; 451976.29, 3350542.67; 451970.01, 3350539.35; 451965.40, 3350532.90; 451963.55, 3350527.31; 451959.28, 3350525.17; 451952.32, 3350526.02; 451952.14, 3350533.35; 451948.67, 3350533.47; 451948.85, 3350527.35; 451944.13, 3350525.26; 451941.54, 3350524.34; 451937.84, 3350522.33; 451928.95, 3350521.59; 451930.48, 3350526.11; 453147.41, 3350803.69; 453142.42, 3350788.61; 453137.09, 3350787.42; 453139.57, 3350854.72; 453138.43, 3350865.43; 453144.36, 3350874.24; 453150.85, 3350885.10; 453157.00, 3350893.57; 453164.77, 3350900.89; 453169.90, 3350902.60; 453170.14, 3350892.69; 453168.94, 3350876.41; 453167.40, 3350857.75; 453168.67, 3350805.06; 453167.49, 3350795.14; 453158.12, 3350801.82; 453147.41, 3350803.69; 452001.33, 3350604.46; 452004.74, 3350595.03; 452006.03, 3350585.55; 452002.95, 3350581.24; 451999.85, 3350578.00; 452003.10, 3350574.91; 452007.24, 3350579.23; 452013.64, 3350577.27; 452021.08, 3350576.39; 452025.34, 3350575.44; 452029.68, 3350571.31; 452028.77, 3350564.95; 452031.97, 3350563.97; 452032.08, 3350559.74; 452033.39, 3350549.21; 452033.57, 3350541.81; 452035.68, 3350541.86; 452038.78, 3350545.11; 452035.33, 3350556.65; 452036.18, 3350565.13; 452033.84, 3350574.58; 452036.86, 3350581.00; 452042.13, 3350582.18; 452049.59, 3350580.25; 452053.85, 3350579.29; 452054.03, 3350571.90; 452054.21, 3350564.50; 452050.08, 3350560.17; 452050.20, 3350554.89; 452052.47, 3350548.61; 452052.75, 3350536.99; 452049.73, 3350530.57; 452041.26, 3350530.37; 452030.82, 3350523.78; 452027.42, 3350533.21; 452022.93, 3350543.67; 452011.30, 3350542.34; 452011.46, 3350536.00; 452020.00, 3350533.03; 452024.29, 3350531.02; 452023.38, 3350524.66; 452016.07, 3350520.25; 452009.77, 3350517.99; 452002.36, 3350517.81; 451994.97, 3350516.58; 451985.44, 3350516.35; 451983.98, 3350533.23; 451982.76, 3350583.93; 451982.38, 3350599.78; 451992.91, 3350602.14; 452001.33, 3350604.46; 450499.59, 3350334.35; 450512.17, 3350339.93; 450518.65, 3350334.80; 450527.20, 3350331.83; 450534.43, 3350339.41; 450544.01, 3350336.54; 450543.28, 3350322.79; 450545.04, 3350205.50; 450514.49, 3350199.41; 450515.08, 3350262.84; 450515.68, 3350326.27; 450502.94, 3350327.03; 450499.59, 3350334.35; 451834.39, 3350514.14; 451832.67, 3350519.45; 451838.51, 3350522.33; 451843.31, 3350521.26; 451842.63, 3350526.22; 451845.91, 3350528.85; 451852.11, 3350528.03; 451855.80, 3350530.28; 451855.17, 3350524.74; 451859.95, 3350523.86; 451862.44, 3350519.17; 451869.59, 3350518.95; 451868.38, 3350528.22; 451862.42, 3350528.47; 451860.99, 3350530.02; 451864.40, 3350536.64; 451868.09, 3350540.29; 451870.15, 3350545.29; 451873.10, 3350546.15; 451871.53, 3350537.20; 451875.72, 3350536.51; 451879.49, 3350536.21; 451881.87, 3350536.46; 451885.51, 3350541.70; 451892.21, 3350543.64; 451892.29, 3350548.59; 451891.79, 3350553.73; 451884.93, 3350558.33; 451877.73, 3350560.13; 451873.56, 3350560.02; 451872.89, 3350569.53; 451866.85, 3350566.33; 451862.15, 3350566.63; 451862.53, 3350576.21; 451863.56, 3350584.17; 451860.26, 3350594.07; 451865.05, 3350598.66; 451867.19, 3350602.99; 451869.47, 3350606.31; 451869.79, 3350609.49; 451865.78, 3350610.90; 451864.82, 3350618.09; 451863.90, 3350623.22; 451866.58, 3350627.25; 451870.94, 3350627.75; 451876.22, 3350623.12; 451882.58, 3350622.88; 451885.86, 3350618.60; 451888.63, 3350619.06; 451893.39, 3350619.57; 451895.77, 3350619.76; 451898.84, 3350619.22; 451902.86, 3350622.17; 451906.52, 3350618.69; 451912.14, 3350616.45; 451919.16, 3350621.77; 451921.66, 3350617.07; 451918.37, 3350613.58; 451919.30, 3350600.37; 451915.40, 3350601.29; 451914.63, 3350595.50; 451917.50, 3350591.61; 451925.21, 3350592.37; 451925.74, 3350587.29; 451924.27, 3350580.33; 451921.16, 3350573.94; 451919.29, 3350566.97; 451913.66, 3350569.71; 451908.32, 3350560.47; 451912.40, 3350555.81; 451912.92, 3350550.67; 451913.87, 3350544.35; 451911.04, 3350536.37; 451906.11, 3350536.63; 451903.04, 3350538.75; 451899.67, 3350538.87; 451898.42, 3350541.41; 451888.52, 3350540.38; 451889.01, 3350536.43; 451884.88, 3350535.15; 451885.38, 3350522.29; 451880.28, 3350520.16; 451876.73, 3350519.28; 451877.23, 3350514.94; 451871.13, 3350512.65; 451865.71, 3350515.29; 451866.05, 3350509.36; 451857.34, 3350508.36; 451857.81, 3350513.72; 451855.05, 3350513.06; 451854.13, 3350518.38; 451849.84, 3350515.31; 451845.06, 3350514.56; 451839.94, 3350514.08; 451834.39, 3350514.14; 452962.77, 3350805.04; 452964.66, 3350813.56; 452970.74, 3350825.33; 452974.90, 3350828.60; 452982.44, 3350823.50; 452984.73, 3350816.15; 452995.45, 3350811.12; 453004.98, 3350811.35; 453013.47, 3350811.53; 453014.37, 3350730.17; 452985.98, 3350721.03; 452963.85, 3350716.27; 452962.77, 3350805.04; 450352.08, 3350300.17; 450360.45, 3350303.62; 450368.97, 3350302.68; 450368.35, 3350284.70; 450380.02, 3350283.92; 450383.57, 3350267.18; 450398.82, 3350269.80; 450396.94, 3350240.01; 450396.42, 3350173.41; 450390.95, 3350180.68; 450384.57, 3350181.58; 450358.25, 3350174.61; 450355.43, 3350205.12; 450381.72, 3350213.14; 450376.82, 3350240.51; 450355.80, 3350233.66; 450354.46, 3350245.26; 450359.58, 3350252.78; 450358.29, 3350262.26; 450345.53, 3350264.07; 450341.58, 3350252.35; 450350.25, 3350244.10; 450351.70, 3350183.89; 450345.34, 3350183.74; 450344.01, 3350195.33; 450345.31, 3350229.19; 450323.18, 3350224.43; 450323.73, 3350245.58; 450325.41, 3350263.59; 450351.68, 3350272.67; 450352.08, 3350300.17; 452961.76, 3350715.17; 452944.84, 3350712.67; 452926.94, 3350708.01; 452896.41, 3350700.92; 452897.21, 3350711.51; 452900.22, 3350717.94; 452898.39, 3350749.61; 452897.86, 3350771.79; 452904.06, 3350778.28; 452916.67, 3350782.81; 452916.57, 3350787.04; 452927.13, 3350788.35; 452927.96, 3350797.88; 452936.43, 3350798.08; 452947.02, 3350798.34; 452952.14, 3350805.86; 452959.70, 3350800.73; 452960.37, 3350728.87; 452961.76, 3350715.17; 452779.43, 3350674.87; 452757.35, 3350668.00; 452750.92, 3350671.01; 452746.48, 3350679.36; 452744.77, 3350706.28; 452754.34, 3350710.66; 452782.86, 3350717.62; 452805.09, 3350724.81; 452810.67, 3350737.88; 452807.62, 3350780.18; 452803.63, 3350813.91; 452808.72, 3350822.49; 452806.34, 3350847.86; 452821.98, 3350851.37; 452825.42, 3350838.90; 452840.06, 3350840.30; 452840.17, 3350792.59; 452811.60, 3350790.85; 452811.91, 3350778.17; 452840.55, 3350776.53; 452839.30, 3350740.78; 452816.00, 3350740.22; 452816.84, 3350726.27; 452830.71, 3350721.50; 452839.75, 3350721.76; 452842.48, 3350696.46; 452838.42, 3350688.96; 452779.43, 3350674.87; 450547.49, 3350324.92; 450561.28, 3350324.19; 450566.35, 3350333.83; 450559.77, 3350343.18; 450586.16, 3350346.99; 450591.84, 3350331.27; 450603.49, 3350331.54; 450615.34, 3350323.37; 450615.63, 3350222.97; 450549.48, 3350207.56; 450548.25, 3350292.25; 450547.49, 3350324.92; 452716.99, 3350739.66; 452724.84, 3350716.41; 452763.08, 3350728.01; 452752.89, 3350753.28; 452761.35, 3350755.60; 452758.35, 3350791.67; 452779.52, 3350797.50; 452790.15, 3350798.81; 452799.96, 3350789.48; 452801.09, 3350742.74; 452798.15, 3350732.04; 452719.99, 3350707.38; 452701.88, 3350703.16; 452660.61, 3350691.54; 452642.40, 3350689.56; 452628.63, 3350691.84; 452622.04, 3350700.19; 452618.44, 3350717.11; 452617.14, 3350726.64; 452634.16, 3350728.11; 452635.45, 3350718.58; 452640.83, 3350716.58; 452646.20, 3350714.58; 452648.23, 3350718.88; 452654.44, 3350726.47; 452656.34, 3350736.08; 452659.46, 3350739.35; 452663.64, 3350742.64; 452659.25, 3350747.85; 452653.93, 3350747.72; 452650.61, 3350752.95; 452642.21, 3350747.44; 452639.02, 3350747.36; 452639.88, 3350755.89; 452669.47, 3350766.16; 452680.06, 3350768.54; 452683.59, 3350754.81; 452689.43, 3350733.69; 452707.40, 3350739.43; 452697.00, 3350773.20; 452712.87, 3350777.83; 452713.10, 3350768.27; 452709.93, 3350767.13; 452710.19, 3350756.51; 452710.37, 3350749.07; 452716.76, 3350749.22; 452721.12, 3350745.07; 452716.99, 3350739.66; 450916.02, 3350287.31; 450857.03, 3350273.21; 450851.53, 3350281.54; 450849.99, 3350301.58; 450848.47, 3350320.57; 450849.20, 3350334.33; 450849.95, 3350347.03; 450856.83, 3350369.39; 450857.69, 3350377.87; 450866.13, 3350379.13; 450865.98, 3350385.47; 450872.18, 3350391.96; 450873.04, 3350400.43; 450872.61, 3350418.39; 450876.38, 3350437.51; 450883.57, 3350447.19; 450882.98, 3350471.49; 450892.51, 3350471.72; 450897.66, 3350478.18; 450912.48, 3350478.54; 450918.94, 3350474.46; 450918.41, 3350452.25; 450918.62, 3350399.41; 450915.85, 3350382.43; 450916.88, 3350295.78; 450916.02, 3350287.31; 451489.88, 3350479.66; 451489.12, 3350511.35; 451491.85, 3350531.09; 451498.62, 3350557.03; 451504.59, 3350573.03; 451504.26, 3350586.76; 451500.73, 3350601.47; 451503.67, 3350611.06; 451513.82, 3350608.51; 451509.96, 3350554.51; 451505.70, 3350533.40; 451506.09, 3350517.16; 451511.66, 3350500.25; 451521.25, 3350498.10; 451535.17, 3350497.24; 451552.25, 3350497.65; 451568.31, 3350507.15; 451567.25, 3350523.71; 451565.79, 3350540.59; 451565.33, 3350559.60; 451552.29, 3350573.03; 451553.02, 3350586.79; 451555.49, 3350610.69; 451564.55, 3350613.69; 451562.37, 3350605.31; 451569.15, 3350599.87; 451569.42, 3350593.19; 451575.11, 3350593.66; 451579.21, 3350599.04; 451585.03, 3350604.66; 451593.34, 3350606.45; 451603.14, 3350595.19; 451612.97, 3350599.39; 451622.58, 3350602.19; 451631.30, 3350591.83; 451630.60, 3350577.02; 451632.22, 3350553.80; 451647.07, 3350552.64; 451662.92, 3350553.56; 451660.12, 3350449.91; 451629.43, 3350443.61; 451623.63, 3350486.67; 451613.70, 3350486.77; 451596.78, 3350484.33; 451594.84, 3350477.66; 451585.77, 3350475.07; 451583.88, 3350471.06; 451588.07, 3350462.04; 451596.77, 3350463.83; 451604.77, 3350461.25; 451620.99, 3350464.41; 451623.87, 3350443.48; 451598.21, 3350436.92; 451579.63, 3350432.90; 451566.31, 3350429.70; 451553.50, 3350433.62; 451553.32, 3350441.01; 451551.00, 3350449.41; 451545.01, 3350451.50; 451546.65, 3350466.20; 451545.85, 3350482.83; 451539.55, 3350485.08; 451531.06, 3350486.44; 451526.70, 3350485.94; 451518.35, 3350485.63; 451502.99, 3350480.62; 451489.88, 3350479.66; 452229.34, 3350643.46; 452234.37, 3350649.13; 452230.66, 3350671.24; 452227.35, 3350692.96; 452235.69, 3350693.16; 452242.42, 3350694.11; 452241.52, 3350698.45; 452248.23, 3350700.59; 452249.21, 3350692.69; 452255.99, 3350691.66; 452259.76, 3350700.08; 452264.13, 3350700.18; 452271.74, 3350697.59; 452276.79, 3350702.47; 452282.03, 3350699.42; 452291.58, 3350698.46; 452297.38, 3350705.34; 452300.04, 3350710.16; 452305.96, 3350711.88; 452319.45, 3350712.60; 452324.50, 3350717.48; 452332.33, 3350722.42; 452338.68, 3350722.58; 452344.12, 3350727.86; 452352.47, 3350727.27; 452362.30, 3350731.86; 452364.38, 3350727.95; 452359.27, 3350725.45; 452358.68, 3350717.11; 452365.13, 3350696.65; 452365.14, 3350679.61; 452369.46, 3350665.44; 452376.54, 3350651.74; 452382.49, 3350652.28; 452384.51, 3350584.54; 452340.63, 3350575.57; 452342.86, 3350581.96; 452347.58, 3350584.06; 452357.92, 3350583.51; 452364.95, 3350588.44; 452364.02, 3350594.36; 452367.99, 3350600.57; 452362.22, 3350603.04; 452357.33, 3350603.48; 452350.95, 3350604.39; 452343.51, 3350605.27; 452337.22, 3350601.65; 452332.63, 3350594.40; 452329.59, 3350588.38; 452334.89, 3350582.96; 452331.48, 3350576.14; 452319.56, 3350575.86; 452319.86, 3350580.22; 452316.52, 3350586.88; 452310.50, 3350589.12; 452304.52, 3350590.16; 452304.80, 3350594.93; 452295.15, 3350599.85; 452289.63, 3350598.13; 452292.17, 3350591.45; 452295.42, 3350588.76; 452299.46, 3350585.68; 452297.98, 3350581.29; 452304.47, 3350575.50; 452302.20, 3350571.08; 452291.83, 3350572.81; 452288.98, 3350575.52; 452290.43, 3350581.11; 452292.30, 3350586.30; 452282.99, 3350593.21; 452282.31, 3350588.44; 452278.69, 3350590.34; 452274.27, 3350592.21; 452276.44, 3350584.73; 452280.54, 3350579.68; 452283.48, 3350573.01; 452279.52, 3350572.52; 452275.79, 3350578.77; 452271.61, 3350587.39; 452267.97, 3350590.08; 452263.72, 3350585.22; 452257.50, 3350579.52; 452252.02, 3350575.83; 452251.77, 3350569.87; 452247.42, 3350568.98; 452245.16, 3350580.42; 452238.88, 3350593.74; 452229.73, 3350593.92; 452229.99, 3350616.13; 452229.14, 3350635.13; 452229.34, 3350643.46; 452586.29, 3350643.82; 452589.65, 3350636.50; 452594.03, 3350630.27; 452575.48, 3350623.60; 452472.77, 3350598.94; 452465.48, 3350600.76; 452465.76, 3350609.48; 452459.58, 3350625.99; 452456.15, 3350636.48; 452453.40, 3350660.71; 452448.52, 3350689.15; 452449.15, 3350707.13; 452452.10, 3350716.71; 452460.15, 3350710.42; 452462.86, 3350713.65; 452459.90, 3350721.11; 452456.92, 3350729.37; 452459.55, 3350735.38; 452467.52, 3350734.38; 452477.42, 3350735.80; 452484.12, 3350738.34; 452486.13, 3350754.54; 452485.52, 3350762.55; 452492.62, 3350764.71; 452500.13, 3350782.72; 452517.41, 3350791.06; 452522.81, 3350771.28; 452537.48, 3350779.01; 452545.98, 3350778.15; 452548.31, 3350767.56; 452548.13, 3350752.95; 452574.51, 3350746.45; 452575.13, 3350755.60; 452599.62, 3350759.73; 452612.16, 3350757.54; 452610.95, 3350750.89; 452611.29, 3350705.72; 452617.09, 3350684.72; 452624.66, 3350678.56; 452657.41, 3350682.52; 452719.50, 3350699.86; 452729.03, 3350700.09; 452733.47, 3350691.74; 452738.03, 3350678.10; 452739.35, 3350667.57; 452734.15, 3350663.21; 452644.50, 3350646.27; 452636.89, 3350654.54; 452632.17, 3350674.51; 452618.56, 3350667.85; 452618.76, 3350659.40; 452606.10, 3350656.98; 452594.43, 3350657.76; 452585.70, 3350652.75; 452586.29, 3350643.82; 451758.79, 3350379.88; 451764.08, 3350380.01; 451766.61, 3350363.16; 451795.10, 3350368.07; 451792.78, 3350376.47; 451824.52, 3350378.28; 451822.41, 3350465.96; 451871.90, 3350475.19; 451877.52, 3350466.20; 451879.70, 3350419.75; 451869.39, 3350407.87; 451854.66, 3350403.29; 451858.30, 3350384.35; 451875.21, 3350385.82; 451877.08, 3350396.43; 451912.02, 3350397.27; 451911.49, 3350419.45; 451903.95, 3350424.56; 451898.40, 3350434.99; 451901.04, 3350457.25; 451902.65, 3350478.43; 451930.13, 3350481.20; 451934.70, 3350467.57; 451936.09, 3350453.86; 451936.55, 3350434.85; 451923.99, 3350428.21; 451919.98, 3350418.60; 451921.45, 3350401.72; 451941.62, 3350400.09; 451968.07, 3350401.78; 451988.21, 3350401.20; 452030.44, 3350407.50; 452034.35, 3350421.33; 452034.13, 3350474.18; 452045.53, 3350485.02; 452060.02, 3350499.11; 452061.44, 3350484.34; 452056.34, 3350475.77; 452050.14, 3350469.28; 452039.07, 3350467.98; 452039.83, 3350457.40; 452049.39, 3350456.57; 452049.72, 3350442.84; 452046.67, 3350437.48; 452041.63, 3350426.79; 452049.30, 3350416.41; 452062.96, 3350420.96; 452063.59, 3350438.94; 452059.25, 3350443.07; 452057.68, 3350464.17; 452064.82, 3350475.97; 452068.70, 3350490.86; 452070.25, 3350426.42; 452073.58, 3350420.16; 452123.19, 3350427.69; 452122.89, 3350440.36; 452129.37, 3350435.23; 452127.40, 3350428.84; 452149.54, 3350432.56; 452173.79, 3350437.37; 452189.57, 3350441.98; 452218.09, 3350445.83; 452224.29, 3350453.36; 452243.37, 3350451.72; 452270.83, 3350455.55; 452279.25, 3350458.90; 452288.80, 3350457.04; 452293.17, 3350451.86; 452305.72, 3350458.50; 452305.59, 3350463.78; 452327.68, 3350470.65; 452348.90, 3350470.08; 452358.61, 3350462.91; 452401.75, 3350474.54; 452427.06, 3350480.41; 452449.20, 3350484.13; 452469.34, 3350484.59; 452485.20, 3350486.02; 452494.60, 3350490.50; 452513.66, 3350490.95; 452510.99, 3350514.14; 452498.28, 3350513.84; 452490.63, 3350524.21; 452492.26, 3350588.72; 452567.58, 3350605.87; 452565.91, 3350566.17; 452547.96, 3350563.63; 452546.24, 3350523.97; 452558.92, 3350525.33; 452555.02, 3350511.50; 452563.51, 3350510.64; 452565.25, 3350526.54; 452574.73, 3350528.88; 452574.97, 3350607.10; 452607.72, 3350611.06; 452607.38, 3350537.06; 452598.96, 3350534.75; 452601.14, 3350510.99; 452637.56, 3350515.59; 452632.35, 3350535.00; 452613.94, 3350551.47; 452610.58, 3350603.18; 452612.94, 3350614.35; 452637.14, 3350621.28; 452642.65, 3350591.26; 452635.96, 3350582.14; 452636.85, 3350567.87; 452634.79, 3350565.71; 452636.75, 3350549.39; 452643.25, 3350543.20; 452661.13, 3350548.92; 452658.26, 3350558.87; 452654.83, 3350569.36; 452651.87, 3350581.46; 452649.40, 3350596.20; 452643.44, 3350623.54; 452667.64, 3350630.46; 452668.07, 3350612.50; 452682.20, 3350598.04; 452671.42, 3350584.55; 452664.70, 3350576.48; 452666.27, 3350555.38; 452687.37, 3350559.06; 452686.89, 3350579.13; 452689.29, 3350590.26; 452688.50, 3350600.31; 452675.49, 3350612.68; 452672.94, 3350630.59; 452696.08, 3350637.48; 452696.40, 3350603.12; 452692.37, 3350594.57; 452693.00, 3350568.16; 452722.70, 3350566.75; 452724.13, 3350595.33; 452719.62, 3350606.84; 452720.90, 3350641.76; 452763.54, 3350651.78; 452766.63, 3350634.39; 452768.10, 3350617.52; 452766.80, 3350604.30; 452756.34, 3350598.76; 452754.92, 3350592.89; 452748.20, 3350584.82; 452749.59, 3350571.12; 452763.46, 3350567.22; 452769.01, 3350579.49; 452768.63, 3350595.33; 452775.05, 3350614.01; 452773.53, 3350633.00; 452768.81, 3350652.97; 452858.34, 3350675.19; 452861.94, 3350657.31; 452862.83, 3350620.33; 452843.48, 3350610.87; 452842.27, 3350594.47; 452845.72, 3350582.93; 452867.88, 3350586.63; 452866.09, 3350617.24; 452865.45, 3350643.65; 452862.60, 3350674.23; 452872.52, 3350680.29; 452875.35, 3350650.76; 452883.89, 3350647.79; 452887.27, 3350639.42; 452889.11, 3350651.09; 452893.30, 3350653.30; 452888.68, 3350669.05; 452881.27, 3350668.87; 452876.78, 3350679.33; 452983.11, 3350707.24; 452985.16, 3350667.10; 452982.59, 3350641.68; 452970.19, 3350628.70; 452971.71, 3350608.67; 452984.44, 3350607.92; 452989.59, 3350614.38; 452985.97, 3350633.30; 452986.86, 3350640.72; 452988.41, 3350664.01; 452986.29, 3350707.32; 453028.42, 3350717.84; 453029.65, 3350711.51; 453017.07, 3350705.92; 453018.54, 3350689.04; 453017.89, 3350671.08; 453019.41, 3350652.09; 453022.84, 3350641.60; 453026.29, 3350631.09; 453046.26, 3350637.91; 453075.85, 3350640.74; 453078.12, 3350634.45; 453086.59, 3350634.65; 453105.50, 3350641.45; 453133.94, 3350648.47; 453148.74, 3350649.88; 453170.85, 3350655.69; 453184.49, 3350661.30; 453193.86, 3350667.87; 453218.14, 3350671.62; 453257.02, 3350685.24; 453273.86, 3350689.87; 453287.65, 3350689.14; 453293.90, 3350693.52; 453323.40, 3350700.57; 453326.65, 3350697.47; 453344.60, 3350700.02; 453353.98, 3350706.58; 453364.98, 3350710.57; 453370.49, 3350724.95; 453369.72, 3350733.93; 453362.64, 3350742.73; 453365.98, 3350757.10; 453359.38, 3350767.51; 453351.14, 3350780.50; 453343.50, 3350789.83; 453350.24, 3350794.77; 453463.37, 3350827.58; 453465.69, 3350796.48; 453445.20, 3350790.15; 453455.89, 3350763.48; 453479.06, 3350769.32; 453468.42, 3350793.88; 453469.16, 3350828.27; 453512.42, 3350835.65; 453516.18, 3350811.43; 453526.07, 3350796.87; 453521.86, 3350795.71; 453522.93, 3350774.05; 453538.28, 3350773.91; 453535.57, 3350798.15; 453529.22, 3350798.00; 453517.17, 3350814.62; 453515.57, 3350836.78; 453528.23, 3350839.20; 453532.90, 3350821.34; 453537.39, 3350810.88; 453543.87, 3350805.75; 453547.65, 3350780.47; 453558.34, 3350776.50; 453568.36, 3350779.36; 453568.37, 3350799.99; 453562.38, 3350807.76; 453555.49, 3350807.08; 453541.57, 3350813.09; 453531.41, 3350839.27; 453565.80, 3350848.41; 453584.46, 3350853.19; 453586.35, 3350834.15; 453590.14, 3350819.13; 453585.65, 3350809.37; 453583.15, 3350800.73; 453573.20, 3350798.78; 453572.24, 3350794.25; 453575.98, 3350771.09; 453588.66, 3350772.45; 453585.93, 3350797.75; 453591.00, 3350807.38; 453593.88, 3350818.08; 453590.49, 3350828.51; 453588.47, 3350853.01; 453590.71, 3350854.77; 453594.50, 3350838.12; 453602.99, 3350814.56; 453610.55, 3350808.40; 453610.78, 3350798.89; 453605.46, 3350799.82; 453607.05, 3350777.67; 453617.62, 3350778.97; 453620.87, 3350775.88; 453625.08, 3350777.04; 453624.95, 3350782.32; 453632.80, 3350787.24; 453627.23, 3350798.74; 453623.31, 3350806.59; 453610.40, 3350814.74; 453603.77, 3350826.21; 453594.06, 3350856.08; 453664.14, 3350870.99; 453667.03, 3350861.02; 453671.52, 3350850.55; 453672.96, 3350834.73; 453673.19, 3350825.23; 453664.82, 3350820.80; 453666.03, 3350814.49; 453660.84, 3350810.13; 453666.54, 3350793.36; 453671.93, 3350789.26; 453683.56, 3350790.59; 453689.65, 3350802.35; 453681.86, 3350816.98; 453678.46, 3350826.41; 453674.64, 3350852.74; 453668.89, 3350871.63; 453735.29, 3350886.94; 453747.12, 3350878.79; 453747.28, 3350872.45; 453748.74, 3350855.57; 453768.76, 3350860.28; 453763.99, 3350882.36; 453759.70, 3350884.38; 453760.58, 3350891.80; 453776.39, 3350896.38; 453781.44, 3350862.68; 453775.26, 3350854.09; 453775.82, 3350831.89; 453795.89, 3350834.48; 453804.44, 3350830.48; 453822.44, 3350830.91; 453826.52, 3350837.35; 453826.34, 3350845.78; 453830.32, 3350856.45; 453829.97, 3350871.24; 453826.44, 3350884.92; 453824.97, 3350901.79; 453835.77, 3350905.26; 453837.42, 3350781.57; 453760.40, 3350768.10; 453697.23, 3350751.79; 453582.57, 3350717.34; 453497.31, 3350694.16; 453375.32, 3350656.36; 453257.43, 3350623.94; 453175.30, 3350602.95; 453083.60, 3350582.79; 452998.22, 3350564.89; 452884.39, 3350539.97; 452754.93, 3350504.10; 452628.45, 3350476.77; 452524.18, 3350451.02; 452447.21, 3350435.44; 452351.28, 3350415.17; 452237.43, 3350391.31; 452155.65, 3350375.09; 452081.85, 3350359.58; 451991.22, 3350339.44; 451924.69, 3350330.45; 451859.24, 3350320.43; 451769.41, 3350310.89; 451769.41, 3350310.89; 451649.99, 3350298.52; 451523.50, 3350271.18; 451402.47, 3350237.63; 451202.24, 3350192.68; 451034.69, 3350153.10; 450914.58, 3350124.86; 450834.59, 3350102.87; 450737.55, 3350084.69; 450597.48, 3350049.63; 450480.68, 3350016.19; 450366.83, 3349992.32; 450291.95, 3349977.85; 450240.94, 3349965.09; 450150.23, 3349948.99; 450150.42, 3350009.76; 450160.82, 3350011.71; 450213.79, 3350011.92; 450212.02, 3350044.20; 450231.06, 3350045.71; 450230.37, 3350074.23; 450244.09, 3350076.67; 450240.20, 3350106.18; 450247.36, 3350116.92; 450266.24, 3350124.77; 450282.07, 3350127.26; 450349.44, 3350145.78; 450349.94, 3350124.65; 450321.38, 3350122.91; 450318.74, 3350100.65; 450352.57, 3350103.58; 450353.33, 3350071.89; 450317.30, 3350072.08; 450319.85, 3350054.17; 450344.08, 3350060.04; 450345.52, 3350044.22; 450376.28, 3350042.84; 450380.23, 3350051.84; 450380.96, 3350065.59; 450381.85, 3350075.74; 450378.61, 3350122.17; 450370.04, 3350126.19; 450367.33, 3350147.71; 450381.02, 3350151.21; 450380.31, 3350136.40; 450386.58, 3350099.11; 450391.90, 3350098.18; 450393.09, 3350092.92; 450420.41, 3350102.03; 450426.92, 3350095.84; 450415.35, 3350092.39; 450417.70, 3350082.94; 450442.02, 3350081.85; 450486.37, 3350090.92; 450492.42, 3350103.75; 450495.37, 3350113.33; 450519.54, 3350118.59; 450514.22, 3350166.63; 450525.68, 3350171.58; 450527.36, 3350148.98; 450525.82, 3350121.91; 450529.25, 3350111.42; 450571.24, 3350108.28; 450587.05, 3350111.83; 450590.47, 3350145.73; 450587.98, 3350180.47; 450584.60, 3350188.85; 450584.92, 3350200.56; 450601.29, 3350199.82; 450604.72, 3350189.33; 450601.97, 3350171.29; 450603.62, 3350147.02; 450605.28, 3350121.69; 450617.61, 3350118.90; 450625.82, 3350129.66; 450640.65, 3350130.02; 450641.91, 3350121.59; 450671.24, 3350129.95; 450688.61, 3350137.43; 450710.18, 3350146.48; 450735.11, 3350149.57; 450770.80, 3350158.05; 450801.85, 3350167.70; 450804.14, 3350160.35; 450813.67, 3350160.58; 450812.44, 3350167.95; 450850.68, 3350163.58; 450878.14, 3350167.41; 450877.83, 3350180.08; 450901.10, 3350181.70; 450898.37, 3350251.39; 450886.67, 3350253.23; 450878.10, 3350257.25; 450878.95, 3350265.73; 450948.43, 3350284.30; 450951.01, 3350265.34; 450941.45, 3350266.16; 450941.03, 3350239.73; 450947.41, 3350238.83; 450947.62, 3350206.67; 450940.31, 3350202.27; 450942.64, 3350193.87; 450952.29, 3350188.82; 450961.67, 3350195.38; 450959.40, 3350201.67; 450968.31, 3350206.56; 450968.92, 3350225.60; 450996.08, 3350219.38; 451013.00, 3350219.86; 451010.90, 3350264.13; 451005.95, 3350292.64; 451032.32, 3350297.49; 451038.64, 3350211.94; 451066.12, 3350214.71; 451089.29, 3350220.55; 451122.95, 3350230.87; 451138.73, 3350235.47; 451152.52, 3350233.77; 451169.43, 3350238.11; 451176.54, 3350248.08; 451231.43, 3350256.80; 451237.34, 3350254.21; 451250.54, 3350255.14; 451253.56, 3350261.55; 451279.91, 3350267.47; 451314.65, 3350276.75; 451333.31, 3350276.86; 451359.54, 3350283.56; 451376.77, 3350293.04; 451403.31, 3350290.50; 451431.19, 3350300.07; 451482.79, 3350312.93; 451488.83, 3350303.12; 451500.40, 3350306.57; 451505.39, 3350319.37; 451563.40, 3350330.27; 451586.37, 3350345.54; 451591.77, 3350341.44; 451617.05, 3350346.35; 451616.42, 3350373.74; 451604.75, 3350374.51; 451600.33, 3350381.81; 451597.00, 3350388.07; 451601.24, 3350388.17; 451598.87, 3350398.68; 451597.66, 3350405.00; 451595.38, 3350411.29; 451595.16, 3350420.79; 451717.43, 3350446.97; 451723.73, 3350449.24; 451724.67, 3350410.15; 451701.63, 3350399.03; 451699.79, 3350387.36; 451699.16, 3350369.37; 451704.59, 3350364.22; 451736.02, 3350378.71; 451758.79, 3350379.88; 450912.08, 3350186.80; 450914.09, 3350170.38; 450944.72, 3350174.28; 450941.70, 3350188.56; 450912.08, 3350186.80

(8) PKBM—Unit 3: Perdido Key State Park Unit, Escambia County, Florida.

(i) General Description: This unit encompasses essential features of beach mouse habitat within the boundary of Perdido Key State Park from approximately 2 mi (3.2 km) east of the Alabama-Florida State line to 4 mi (6.4 km) east of the State line and the area from the MHWL north to the seaward extent of the maritime forest.

(ii) Coordinates: From USGS 1:24,000 quadrangle map Perdido Bay, Florida, land bounded by the following UTM 16 NAD 83 coordinates (E,N): 455621.62, 3351458.88; 453257.58, 3350904.44; 453254.26, 3350917.23; 453243.75, 3350913.81; 453240.29, 3350925.36; 453247.80, 3350930.76; 453266.31, 3350945.01; 453287.10, 3350948.75; 453293.56, 3350957.28; 453304.30, 3350951.20; 453307.22, 3350961.84; 453312.72, 3350973.93; 453318.59, 3350973.74; 453318.26, 3350987.47; 453306.46, 3350993.53; 453320.42, 3351005.30; 453354.81, 3351009.49; 453352.19, 3351030.56; 453343.44, 3351041.98; 453350.93, 3351069.98; 453334.30, 3351069.24; 453335.11, 3351079.83; 453352.32, 3351078.33; 453351.11, 3351095.75; 453383.68, 3351130.67; 453392.08, 3351134.05; 453401.76, 3351127.94; 453398.49, 3351117.04; 453399.11, 3351091.42; 453407.07, 3351065.97; 453425.39, 3351063.44; 453442.62, 3351059.15; 453457.24, 3351067.96; 453455.20, 3351048.81; 453459.35, 3351038.88; 453458.55, 3351022.61; 453468.79, 3351028.07; 453479.38, 3351028.32; 453481.65, 3351022.03; 453488.13, 3351016.90; 453496.35, 3351016.84; 453509.90, 3351018.69; 453515.14, 3350998.97; 453518.96, 3350988.78; 453513.14, 3350983.09; 453523.52, 3350964.71; 453521.52, 3350950.06; 453530.87, 3350939.91; 453531.03, 3350916.53; 453541.83, 3350896.97; 453550.25, 3350901.06; 453554.18, 3350913.84; 453550.50, 3350934.89; 453541.67, 3350949.48; 453545.40, 3350970.71; 453555.76, 3350988.96; 453555.40, 3351003.60; 453550.66, 3351016.29; 453543.61, 3351036.28; 453531.06, 3351038.01; 453520.97, 3351061.03; 453519.56, 3351075.79; 453527.61, 3351090.83; 453541.93, 3351105.82; 453530.48, 3351123.86; 453526.55, 3351134.75; 453515.81, 3351123.51; 453508.38, 3351126.99; 453502.88, 3351152.55; 453502.62, 3351163.12; 453509.93, 3351167.52; 453529.60, 3351160.46; 453537.21, 3351149.66; 453541.05, 3351142.42; 453555.99, 3351131.79; 453560.54, 3351133.85; 453567.88, 3351137.20; 453589.10, 3351128.92; 453600.02, 3351132.85; 453599.58, 3351151.15; 453581.16, 3351157.60; 453569.70, 3351172.41; 453595.20, 3351180.34; 453606.30, 3351176.95; 453610.23, 3351166.05; 453610.41, 3351158.73; 453614.52, 3351140.52; 453613.04, 3351109.74; 453630.16, 3351100.61; 453637.50, 3351100.78; 453652.55, 3351096.94; 453659.33, 3351079.14; 453667.99, 3351053.90; 453666.63, 3351040.20; 453680.62, 3351031.02; 453689.01, 3351038.43; 453705.94, 3351037.47; 453716.32, 3351044.56; 453726.05, 3351036.34; 453744.28, 3351036.58; 453737.36, 3351059.80; 453729.59, 3351085.78; 453723.99, 3351103.88; 453714.19, 3351117.27; 453702.83, 3351131.65; 453698.82, 3351155.13; 453697.00, 3351186.79; 453705.00, 3351193.96; 453720.92, 3351198.14; 453727.28, 3351183.50; 453732.16, 3351177.00; 453729.16, 3351169.40; 453732.67, 3351156.01; 453739.08, 3351150.82; 453757.95, 3351129.30; 453780.31, 3351124.25; 453779.80, 3351112.35; 453789.19, 3351101.87; 453798.84, 3351108.31; 453806.26, 3351104.82; 453810.87, 3351092.48; 453826.85, 3351088.90; 453838.67, 3351076.50; 453847.06, 3351087.49; 453860.52, 3351083.95; 453858.95, 3351105.05; 453870.87, 3351108.98; 453912.75, 3351114.80; 453908.35, 3351122.11; 453893.36, 3351128.07; 453878.61, 3351134.13; 453875.18, 3351139.43; 453873.64, 3351155.08; 453865.09, 3351158.05; 453859.60, 3351166.37; 453867.71, 3351181.37; 453877.22, 3351182.65; 453877.26, 3351205.40; 453866.08, 3351212.46; 453862.15, 3351223.35; 453843.89, 3351219.25; 453840.40, 3351211.85; 453851.93, 3351190.15; 453852.20, 3351179.17; 453843.66, 3351168.11; 453830.93, 3351168.86; 453821.56, 3351176.77; 453816.10, 3351168.50; 453829.12, 3351156.13; 453821.78, 3351152.79; 453813.14, 3351163.48; 453812.54, 3351148.92; 453820.93, 3351144.31; 453816.89, 3351135.76; 453804.14, 3351137.56; 453789.16, 3351143.55; 453783.69, 3351150.82; 453777.03, 3351163.34; 453786.25, 3351173.93; 453786.07, 3351183.64; 453797.70, 3351184.98; 453796.18, 3351203.97; 453810.99, 3351203.47; 453815.94, 3351219.24; 453818.03, 3351225.96; 453838.68, 3351224.74; 453858.30, 3351230.59; 453880.40, 3351227.45; 453906.17, 3351224.41; 453918.44, 3351229.03; 453924.78, 3351213.87; 453926.60, 3351203.46; 453937.24, 3351197.83; 453941.20, 3351209.55; 453950.55, 3351210.82; 453969.07, 3351203.94; 453976.58, 3351196.79; 453980.43, 3351189.56; 453991.70, 3351178.84; 454005.42, 3351182.55; 454020.68, 3351179.16; 454018.85, 3351196.61; 454026.94, 3351212.66; 454038.78, 3351205.61; 454035.25, 3351190.08; 454039.40, 3351179.99; 454047.26, 3351158.20; 454055.13, 3351136.41; 454077.14, 3351136.94; 454088.15, 3351137.21; 454093.16, 3351146.60; 454102.56, 3351152.11; 454117.23, 3351148.89; 454122.61, 3351155.76; 454122.33, 3351167.38; 454135.89, 3351176.16; 454147.64, 3351172.21; 454163.34, 3351179.99; 454152.50, 3351190.30; 454150.08, 3351202.92; 454153.96, 3351217.81; 454149.39, 3351231.44; 454155.90, 3351252.61; 454151.83, 3351262.16; 454158.44, 3351267.07; 454166.31, 3351245.28; 454177.05, 3351226.82; 454185.36, 3351216.44; 454205.74, 3351223.28; 454218.29, 3351220.89; 454229.12, 3351228.47; 454257.45, 3351231.92; 454269.47, 3351229.44; 454276.90, 3351225.96; 454279.11, 3351212.35; 454273.94, 3351196.59; 454268.17, 3351182.50; 454256.12, 3351174.19; 454248.56, 3351160.89; 454260.23, 3351155.97; 454269.01, 3351147.63; 454275.54, 3351140.39; 454289.93, 3351142.03; 454308.10, 3351149.79; 454346.78, 3351173.81; 454344.52, 3351161.65; 454337.54, 3351146.84; 454356.24, 3351132.64; 454370.91, 3351132.99; 454383.06, 3351133.93; 454393.16, 3351050.13; 454259.82, 3351020.46; 454175.97, 3350996.48; 454062.76, 3350971.79; 453927.63, 3350942.92; 453734.15, 3350898.01; 453573.51, 3350861.20; 453456.55, 3350840.09; 453351.02, 3350814.91; 453319.38, 3350808.87; 453284.61, 3350800.63; 453255.17, 3350791.47; 453239.41, 3350785.81; 453240.65, 3350795.13; 453252.80, 3350801.99; 453252.19, 3350827.34; 453240.34, 3350835.51; 453238.90, 3350851.33; 453247.19, 3350858.93; 453257.58, 3350904.44; 453835.77, 3350905.26; 453973.20, 3350936.55; 453981.82, 3350930.42; 453994.73, 3350922.27; 454014.14, 3350907.94; 454040.57, 3350910.68; 454051.65, 3350905.08; 454070.27, 3350909.28; 454079.54, 3350920.07; 454108.94, 3350931.35; 454122.42, 3350943.30; 454130.49, 3350960.40; 454001.89, 3350933.01; 453991.09, 3350941.21; 454110.19, 3350967.31; 454139.71, 3350968.58; 454304.13, 3351008.95; 454388.27, 3351027.14; 454389.15, 3351007.34; 454409.63, 3350998.21; 454434.55, 3351002.88; 454465.72, 3351007.08; 454486.75, 3351012.85; 454489.63, 3351020.21; 454486.81, 3351034.46; 454498.15, 3351051.17; 454742.76, 3351106.18; 454998.00, 3351165.40; 455197.31, 3351203.86; 455211.78, 3351197.08; 455217.88, 3351175.24; 455229.15, 3351164.52; 455243.92, 3351161.21; 455269.42, 3351169.15; 455309.60, 3351177.43; 455316.76, 3351184.93; 455316.78, 3351209.13; 455308.03, 3351220.55; 455302.53, 3351228.87; 455310.51, 3351234.93; 455322.87, 3351236.35; 455704.01, 3351319.87; 456148.85, 3351387.97; 456419.46, 3351431.07; 456428.30, 3351369.03; 456430.63, 3351362.78; 456430.02, 3351338.59; 456424.48, 3351321.01; 456352.66, 3351308.62; 456246.79, 3351284.11; 456176.58, 3351274.11; 456062.92, 3351258.68; 455970.76, 3351241.70; 455830.67, 3351207.69; 455644.19, 3351164.12; 455466.91, 3351134.51; 455231.29, 3351063.33; 455133.43, 3351035.62; 455048.06, 3351016.67; 454963.71, 3350999.85; 454885.53, 3350990.58; 454798.88, 3350981.10; 454731.47, 3350964.69; 454634.86, 3350928.56; 454546.66, 3350917.56; 454464.36, 3350903.31; 454383.22, 3350890.27; 454306.59, 3350877.36; 454225.36, 3350862.73; 454123.01, 3350845.48; 454027.13, 3350823.11; 453939.68, 3350803.05; 453837.42, 3350781.57; 453835.77, 3350905.26; 455298.31, 3351139.98; 455302.68, 3351134.80; 455308.98, 3351137.07; 455304.59, 3351143.30; 455298.31, 3351139.98; 454143.72, 3350909.40; 454135.25, 3350909.20; 454136.48, 3350901.83; 454142.84, 3350901.98; 454143.72, 3350909.40; 454089.94, 3350898.60; 454082.53, 3350898.42; 454083.79, 3350890.00; 454091.18, 3350891.23; 454089.94, 3350898.60; 454036.17, 3350887.80; 454037.38, 3350881.49; 454045.80, 3350883.80; 454044.59, 3350890.12; 454036.12, 3350889.91; 454036.17, 3350887.80; 455261.41, 3351132.76; 455266.83, 3351127.60; 455275.22, 3351130.97; 455267.66, 3351137.14; 455261.41, 3351132.76; 455206.47, 3351126.16; 455206.62, 3351119.82; 455215.17, 3351116.85; 455217.16, 3351122.19; 455211.77, 3351126.28; 455206.47, 3351126.16; 455354.16, 3351152.95; 455359.63, 3351145.68; 455367.97, 3351151.16; 455360.41, 3351157.33; 455354.16, 3351152.95; 453996.99, 3350886.86; 453998.28, 3350877.38; 454008.84, 3350878.69; 454005.41, 3350889.18; 453996.99, 3350886.86; 454871.49, 3351419.62; 454871.23, 3351430.31; 454866.49, 3351437.83; 454884.66, 3351445.59; 454891.91, 3351449.43; 454906.50, 3351453.44; 454924.84, 3351453.88; 454939.60, 3351450.57; 454959.51, 3351443.92; 454978.23, 3351441.60; 454985.01, 3351424.32; 454974.36, 3351420.89; 454980.23, 3351399.31; 454980.01, 3351384.16; 454998.49, 3351389.18; 455013.87, 3351380.62; 455030.67, 3351375.86; 455041.91, 3351371.38; 455040.94, 3351385.97; 455028.71, 3351409.99; 455015.52, 3351429.75; 455003.62, 3351440.04; 455009.77, 3351448.64; 455031.95, 3351451.29; 455026.99, 3351437.43; 455036.80, 3351418.42; 455052.70, 3351418.01; 455050.39, 3351433.76; 455084.74, 3351458.89; 455103.91, 3351455.12; 455114.32, 3351462.77; 455158.84, 3351465.34; 455173.59, 3351465.25; 455199.83, 3351467.79; 455236.04, 3351467.80; 455243.51, 3351463.97; 455258.60, 3351463.77; 455273.98, 3351476.11; 455293.04, 3351485.60; 455297.90, 3351465.10; 455306.20, 3351457.85; 455313.44, 3351465.43; 455310.96, 3351480.16; 455321.35, 3351488.87; 455333.40, 3351472.25; 455347.56, 3351481.75; 455363.81, 3351485.66; 455371.95, 3351499.59; 455374.84, 3351511.29; 455387.35, 3351520.05; 455381.77, 3351531.54; 455383.56, 3351545.32; 455404.70, 3351550.90; 455428.85, 3351561.17; 455466.42, 3351561.49; 455495.81, 3351562.20; 455522.36, 3351564.82; 455557.30, 3351560.53; 455569.73, 3351572.45; 455582.60, 3351587.66; 455658.10, 3351603.74; 455665.53, 3351608.67; 455688.10, 3351618.65; 455720.85, 3351630.42; 455742.69, 3351638.26; 455771.95, 3351642.63; 455793.33, 3351647.01; 455819.65, 3351643.77; 455863.85, 3351637.50; 455887.99, 3351626.69; 455912.77, 3351620.54; 455970.60, 3351611.22; 456003.79, 3351618.88; 456021.77, 3351616.63; 456037.84, 3351623.93; 456051.55, 3351612.05; 456081.88, 3351628.64; 456112.16, 3351639.19; 456131.26, 3351645.67; 456148.88, 3351661.95; 456164.07, 3351670.33; 456178.33, 3351671.11; 456188.89, 3351672.42; 456185.02, 3351649.65; 456188.42, 3351648.10; 456198.90, 3351652.58; 456209.29, 3351648.25; 456220.35, 3351650.90; 456229.21, 3351663.48; 456248.37, 3351658.70; 456258.91, 3351649.84; 456290.20, 3351653.76; 456294.75, 3351676.01; 456313.24, 3351670.56; 456317.05, 3351660.74; 456316.66, 3351644.09; 456317.97, 3351622.71; 456316.08, 3351608.05; 456303.01, 3351596.94; 456301.10, 3351580.69; 456291.11, 3351578.15; 456287.70, 3351567.08; 456295.39, 3351552.62; 456308.39, 3351549.50; 456313.71, 3351548.57; 456329.65, 3351546.84; 456343.53, 3351535.46; 456358.64, 3351517.51; 456374.60, 3351527.83; 456380.04, 3351543.66; 456370.71, 3351557.34; 456357.63, 3351572.88; 456343.61, 3351583.11; 456345.16, 3351606.40; 456341.53, 3351625.34; 456345.28, 3351645.51; 456358.87, 3351660.35; 456358.70, 3351667.67; 456384.38, 3351668.28; 456424.33, 3351669.24; 456426.04, 3351448.96; 456375.17, 3351441.00; 456269.04, 3351427.47; 456027.69, 3351388.73; 455710.94, 3351340.12; 455524.33, 3351301.83; 455128.77, 3351217.05; 454948.99, 3351174.89; 454904.66, 3351164.38; 454896.40, 3351199.07; 454891.99, 3351206.36; 454884.50, 3351209.35; 454868.67, 3351206.86; 454862.99, 3351222.58; 454819.83, 3351210.97; 454820.30, 3351367.66; 454817.20, 3351408.57; 454826.14, 3351416.45; 454856.73, 3351425.89; 454871.49, 3351419.62

(iii) Note: Map 2, Units 1, 2, and 3 of Perdido Key beach mouse, follows:

BILLING CODE 4310-55-P

BILLING CODE 4310-55-C

(9) PKBM—Unit 4: Gulf Beach Unit, Escambia County, Florida.

(i) General Description: This unit includes essential features of beach mouse habitat between Gulf Islands National Seashore and Perdido Key State Park from approximately 4 mi (3.2 km) east of the Alabama-Florida State line to 6 mi (9.6 km) east of the State line and areas from the MHWL north to the seaward extent of human development or maritime forest.

(ii) Coordinates: From USGS 1:24,000 quadrangle map Perdido Bay, Florida, land bounded by the following UTM 16 NAD 83 coordinates (E, N): 457418.45, 3351766.05; 456424.33, 3351669.24; 456454.09, 3351669.95; 456460.85, 3351674.93; 456491.64, 3351678.43; 456523.29, 3351684.34; 456532.43, 3351694.62; 456550.37, 3351698.07; 456566.16, 3351685.76; 456578.84, 3351687.26; 456601.78, 3351691.77; 456612.31, 3351687.85; 456622.42, 3351676.01; 456635.18, 3351673.94; 456644.26, 3351676.53; 456637.88, 3351682.12; 456636.62, 3351690.54; 456647.33, 3351685.52; 456648.56, 3351695.66; 456653.70, 3351696.98; 456671.96, 3351681.16; 456634.44, 3351637.87; 456593.26, 3351588.26; 456571.55, 3351609.94; 456551.71, 3351597.83; 456536.99, 3351593.25; 456516.87, 3351592.77; 456495.54, 3351598.60; 456490.42, 3351591.08; 456473.22, 3351601.24; 456469.17, 3351593.74; 456464.83, 3351597.87; 456459.69, 3351591.40; 456455.40, 3351593.41; 456439.82, 3351580.36; 456444.21, 3351574.12; 456438.99, 3351570.82; 456444.42, 3351565.67; 456432.95, 3351557.99; 456440.54, 3351550.78; 456451.40, 3351547.34; 456442.96, 3351538.15; 456459.10, 3351527.97; 456472.74, 3351533.58; 456496.11, 3351530.97; 456563.03, 3351479.72; 456565.81, 3351469.33; 456524.65, 3351462.80; 456454.15, 3351450.94; 456426.04, 3351448.96; 456424.33, 3351669.24; 456424.48, 3351321.01; 456430.02, 3351338.59; 456430.63, 3351362.78; 456564.50, 3351385.46; 456586.64, 3351390.22; 456587.35, 3351393.63; 456614.78, 3351398.52; 456620.28, 3351390.19; 456648.03, 3351392.74; 456700.47, 3351403.74; 456698.05, 3351416.37; 456719.20, 3351417.93; 456731.86, 3351420.35; 456735.26, 3351410.91; 456769.12, 3351412.78; 456764.43, 3351431.70; 456792.99, 3351433.44; 456800.36, 3351435.73; 456803.68, 3351429.47; 456817.40, 3351431.91; 456821.51, 3351437.29; 456819.91, 3351459.45; 456816.56, 3351466.77; 456807.81, 3351478.19; 456802.34, 3351485.45; 456822.35, 3351490.16; 456824.95, 3351470.14; 456825.56, 3351444.79; 456829.07, 3351431.13; 456847.12, 3351429.45; 456871.67, 3351432.98; 456926.58, 3351440.64; 456935.89, 3351438.97; 456993.19, 3351446.46; 457036.45, 3351453.84; 457029.58, 3351519.21; 457058.09, 3351523.07; 457062.16, 3351486.17; 457070.75, 3351481.09; 457071.02, 3351459.12; 457090.30, 3351461.47; 457117.56, 3351462.35; 457118.42, 3351470.83; 457156.38, 3351478.08; 457159.02, 3351467.35; 457184.62, 3351466.08; 457211.91, 3351471.07; 457248.66, 3351473.95; 457246.95, 3351489.05; 457264.52, 3351491.54; 457266.87, 3351480.21; 457284.42, 3351483.74; 457291.68, 3351483.91; 457294.59, 3351492.26; 457302.89, 3351492.46; 457305.08, 3351487.34; 457316.46, 3351488.64; 457313.72, 3351499.82; 457314.58, 3351508.30; 457335.68, 3351511.97; 457334.42, 3351520.40; 457340.82, 3351518.44; 457358.23, 3351520.69; 457357.79, 3351495.84; 457374.33, 3351498.31; 457365.85, 3351534.89; 457357.33, 3351536.80; 457356.06, 3351556.63; 457352.57, 3351569.23; 457366.02, 3351571.89; 457374.68, 3351520.31; 457378.89, 3351521.46; 457371.32, 3351572.02; 457390.27, 3351576.70; 457392.90, 3351555.62; 457384.51, 3351552.25; 457386.00, 3351534.32; 457427.14, 3351541.65; 457419.82, 3351581.64; 457503.24, 3351593.15; 457502.54, 3351578.33; 457493.19, 3351570.71; 457489.28, 3351556.88; 457496.90, 3351548.60; 457490.70, 3351542.11; 457494.15, 3351530.57; 457516.29, 3351535.33; 457522.54, 3351539.70; 457550.02, 3351542.48; 457561.82, 3351536.42; 457569.00, 3351546.10; 457585.95, 3351546.51; 457608.18, 3351547.04; 457616.73, 3351544.07; 457628.28, 3351548.58; 457709.53, 3351562.15; 457727.48, 3351564.70; 457727.15, 3351578.43; 457725.96, 3351583.69; 457755.51, 3351588.62; 457753.46, 3351629.80; 457764.00, 3351632.16; 457766.35, 3351578.31; 457755.81, 3351575.95; 457758.24, 3351563.32; 457770.94, 3351563.62; 457769.22, 3351591.06; 457783.04, 3351589.28; 457786.39, 3351581.96; 457793.86, 3351580.03; 457799.23, 3351576.99; 457802.28, 3351582.34; 457810.33, 3351577.46; 457814.88, 3351586.87; 457823.48, 3351581.79; 457830.71, 3351589.37; 457845.54, 3351589.72; 457848.64, 3351592.97; 457860.21, 3351596.42; 457863.51, 3351591.21; 457872.99, 3351593.55; 457870.52, 3351608.29; 457869.13, 3351622.00; 457865.32, 3351648.33; 457872.70, 3351649.57; 457874.60, 3351614.73; 457878.39, 3351589.45; 457895.26, 3351593.03; 457911.06, 3351596.58; 457907.40, 3351616.57; 457903.44, 3351649.24; 457909.69, 3351653.62; 457963.51, 3351662.31; 457967.26, 3351616.41; 457969.22, 3351601.14; 458060.19, 3351607.55; 458063.47, 3351597.71; 458097.45, 3351599.99; 458086.80, 3351646.24; 458133.51, 3351653.48; 458139.17, 3351627.41; 458146.71, 3351622.31; 458155.10, 3351625.68; 458187.98, 3351624.35; 458210.11, 3351629.11; 458212.93, 3351643.98; 458210.46, 3351658.72; 458241.12, 3351661.56; 458247.49, 3351660.66; 458260.18, 3351662.02; 458273.89, 3351664.46; 458303.41, 3351670.46; 458301.06, 3351646.92; 458325.37, 3351649.62; 458340.85, 3351655.50; 458353.41, 3351662.14; 458367.17, 3351662.47; 458376.80, 3351658.47; 458389.46, 3351660.89; 458391.78, 3351652.49; 458403.35, 3351655.94; 458406.35, 3351663.41; 458434.76, 3351671.49; 458437.74, 3351680.02; 458479.08, 3351678.89; 458516.02, 3351685.06; 458529.55, 3351694.90; 458538.02, 3351695.11; 458546.60, 3351691.08; 458576.44, 3351694.74; 458581.31, 3351701.43; 458589.58, 3351710.08; 458637.43, 3351709.74; 458676.63, 3351711.18; 458739.60, 3351712.15; 458741.86, 3351730.19; 458756.78, 3351731.19; 458774.55, 3351725.40; 458787.91, 3351730.90; 458801.31, 3351734.33; 458804.24, 3351741.64; 458811.62, 3351745.25; 458821.07, 3351748.65; 458835.16, 3351749.33; 458843.17, 3351754.73; 458850.74, 3351762.39; 458853.87, 3351772.42; 458862.55, 3351776.16; 458874.82, 3351776.89; 458884.32, 3351778.31; 458896.58, 3351780.58; 458902.29, 3351774.38; 458911.71, 3351779.36; 458911.75, 3351794.03; 458909.02, 3351808.63; 458907.68, 3351817.66; 458910.73, 3351823.02; 458921.35, 3351824.38; 458928.70, 3351824.51; 458931.50, 3351815.51; 458934.42, 3351763.34; 458954.48, 3351765.94; 458958.85, 3351760.76; 458989.40, 3351767.83; 459010.48, 3351772.56; 459015.02, 3351759.99; 459080.48, 3351773.10; 459120.76, 3351780.28; 459145.81, 3351784.26; 459188.94, 3351792.26; 459218.91, 3351797.12; 459236.51, 3351798.58; 459235.30, 3351805.79; 459244.63, 3351806.02; 459245.24, 3351823.63; 459268.75, 3351826.32; 459293.03, 3351832.50; 459313.02, 3351835.84; 459337.20, 3351839.28; 459331.34, 3351866.93; 459352.08, 3351871.97; 459360.89, 3351846.06; 459379.43, 3351851.68; 459373.67, 3351875.35; 459398.83, 3351880.17; 459402.12, 3351857.40; 459421.77, 3351859.94; 459427.96, 3351861.13; 459445.51, 3351864.65; 459441.85, 3351887.33; 459466.59, 3351894.14; 459470.25, 3351871.45; 459491.87, 3351878.18; 459494.07, 3351873.06; 459514.71, 3351877.69; 459511.99, 3351861.07; 459522.41, 3351859.25; 459537.96, 3351859.62; 459545.22, 3351859.80; 459572.33, 3351854.24; 459589.44, 3351851.93; 459605.58, 3351851.93; 459622.15, 3351853.36; 459635.52, 3351857.82; 459645.87, 3351859.10; 459651.96, 3351864.43; 459657.25, 3351880.07; 459658.58, 3351848.02; 459574.09, 3351824.26; 459385.17, 3351785.58; 459270.46, 3351767.31; 459167.89, 3351749.83; 459032.84, 3351726.42; 458956.05, 3351714.64; 458903.74, 3351702.63; 458835.68, 3351685.47; 458781.01, 3351679.79; 458679.09, 3351666.62; 458544.51, 3351645.58; 458415.74, 3351625.58; 458289.18, 3351601.41; 458088.68, 3351568.07; 457983.13, 3351551.80; 457839.55, 3351530.39; 457720.33, 3351509.56; 457584.17, 3351488.33; 457400.43, 3351462.79; 457164.03, 3351424.36; 457037.43, 3351402.30; 456936.11, 3351386.13; 456862.21, 3351374.85; 456750.30, 3351358.43; 456606.63, 3351341.24; 456424.48, 3351321.01; 456567.34, 3351537.94; 456569.21, 3351542.74; 456569.90, 3351547.12; 456572.61, 3351549.96; 456620.68, 3351604.45; 456671.15, 3351662.58; 456680.02, 3351659.95; 456681.47, 3351665.53; 456689.38, 3351666.91; 456696.94, 3351666.70; 456704.21, 3351661.72; 456709.69, 3351665.02; 456715.11, 3351671.10; 456737.47, 3351683.13; 456736.02, 3351693.79; 456726.44, 3351700.09; 456724.07, 3351711.35; 456735.32, 3351706.07; 456740.43, 3351714.96; 456739.22, 3351722.17; 456744.31, 3351726.44; 456743.15, 3351731.58; 456732.78, 3351731.33; 456737.79, 3351738.70; 456750.30, 3351735.89; 456754.15, 3351748.41; 456772.82, 3351754.06; 456784.31, 3351760.67; 456799.27, 3351770.19; 456792.35, 3351785.63; 456775.66, 3351788.32; 456801.19, 3351816.68; 456835.61, 3351855.95; 456879.65, 3351907.74; 456882.22, 3351901.55; 456899.30, 3351900.29; 456910.25, 3351891.04; 456923.48, 3351895.22; 456920.88, 3351915.24; 456926.37, 3351920.20; 456939.85, 3351920.52; 456950.24, 3351925.63; 456969.26, 3351932.09; 456991.95, 3351911.66; 457010.15, 3351903.64; 457031.15, 3351911.54; 457040.91, 3351902.26; 457047.30, 3351908.03; 457056.45, 3351903.65; 457068.67, 3351913.26; 457078.01, 3351907.32; 457136.99, 3351916.19; 457160.11, 3351924.15; 457208.74, 3351928.48; 457223.55, 3351929.13; 457254.30, 3351928.52; 457286.00, 3351930.26; 457302.42, 3351929.17; 457368.29, 3351934.61; 457422.58, 3351935.78; 457432.26, 3351929.61; 457449.05, 3351936.35; 457492.39, 3351940.56; 457522.11, 3351938.10; 457548.46, 3351944.02; 457576.65, 3351949.09; 457602.53, 3351945.84; 457609.72, 3351951.83; 457622.55, 3351946.85; 457643.68, 3351949.47; 457653.32, 3351960.86; 457675.77, 3351952.68; 457691.95, 3351957.03; 457704.42, 3351950.99; 457729.54, 3351947.23; 457742.88, 3351937.64; 457756.86, 3351934.41; 457770.55, 3351942.85; 457784.73, 3351931.90; 457793.32, 3351938.45; 457798.29, 3351946.50; 457816.18, 3351939.72; 457831.16, 3351933.73; 457836.20, 3351944.42; 457847.96, 3351946.10; 457860.03, 3351940.05; 457875.85, 3351942.81; 457883.56, 3351936.25; 457898.14, 3351938.36; 457910.91, 3351932.37; 457927.28, 3351934.02; 457937.42, 3351932.38; 457951.32, 3351931.45; 457965.86, 3351930.54; 457978.43, 3351932.73; 457985.49, 3351927.86; 457997.42, 3351930.67; 458014.36, 3351934.85; 458029.83, 3351944.00; 458239.05, 3351933.99; 458242.51, 3351790.33; 458263.59, 3351795.06; 458267.45, 3351766.61; 458254.77, 3351765.25; 458259.54, 3351743.17; 458264.91, 3351740.13; 458269.56, 3351723.33; 458128.10, 3351701.97; 458129.91, 3351714.69; 458129.71, 3351723.15; 458126.33, 3351731.52; 458121.03, 3351731.39; 458116.59, 3351739.74; 458115.41, 3351745.00; 458117.37, 3351751.39; 458117.22, 3351757.73; 458107.65, 3351762.21; 458095.18, 3351762.94; 458075.53, 3351762.24; 458064.97, 3351760.93; 458063.00, 3351754.54; 458055.64, 3351752.25; 458038.85, 3351745.51; 458037.56, 3351754.99; 458040.57, 3351772.80; 458051.11, 3351775.17; 458050.96, 3351781.51; 458040.34, 3351782.31; 458040.06, 3351793.93; 458034.43, 3351823.08; 458026.43, 3351821.31; 458000.03, 3351822.42; 458000.51, 3351828.73; 458021.51, 3351847.49; 458018.93, 3351849.95; 457997.25, 3351833.06; 457983.94, 3351835.26; 457980.63, 3351841.48; 457968.03, 3351840.55; 457967.64, 3351830.46; 457953.15, 3351829.48; 457953.00, 3351809.33; 457944.96, 3351802.84; 457929.08, 3351806.87; 457914.74, 3351806.78; 457849.67, 3351813.90; 457836.04, 3351808.29; 457838.81, 3351780.88; 457838.29, 3351758.67; 457836.60, 3351725.78; 457844.56, 3351659.38; 457813.95, 3351654.42; 457807.99, 3351681.76; 457805.60, 3351693.33; 457796.04, 3351694.16; 457798.99, 3351703.74; 457796.64, 3351713.20; 457780.78, 3351711.76; 457779.15, 3351691.64; 457782.71, 3351675.87; 457787.58, 3351649.56; 457696.16, 3351638.68; 457687.30, 3351704.09; 457655.01, 3351699.24; 457661.93, 3351631.75; 457602.81, 3351622.94; 457592.79, 3351687.17; 457513.60, 3351675.76; 457512.90, 3351660.95; 457476.02, 3351652.67; 457475.68, 3351633.03; 457481.49, 3351627.28; 457484.69, 3351605.11; 457384.89, 3351592.01; 457387.79, 3351603.58; 457382.07, 3351610.18; 457373.34, 3351609.57; 457367.91, 3351604.29; 457370.05, 3351597.60; 457375.76, 3351591.79; 457349.25, 3351587.20; 457286.76, 3351575.39; 457234.66, 3351568.45; 457231.91, 3351596.33; 457228.01, 3351629.35; 457226.08, 3351636.57; 457216.42, 3351635.73; 457203.02, 3351632.89; 457193.63, 3351614.04; 457180.74, 3351610.62; 457183.31, 3351589.99; 457198.81, 3351592.43; 457203.61, 3351565.63; 457160.31, 3351554.25; 457159.05, 3351563.53; 457119.80, 3351556.38; 457114.27, 3351570.74; 457111.72, 3351590.34; 457092.07, 3351587.80; 457082.71, 3351588.61; 457052.79, 3351581.68; 457053.19, 3351565.13; 457063.54, 3351566.42; 457067.22, 3351542.70; 456989.71, 3351530.49; 456978.83, 3351594.40; 456927.16, 3351585.92; 456933.74, 3351528.12; 456879.98, 3351520.62; 456872.46, 3351574.26; 456849.58, 3351576.82; 456828.87, 3351575.29; 456812.35, 3351571.78; 456779.25, 3351567.89; 456751.30, 3351565.15; 456715.12, 3351560.14; 456726.09, 3351492.10; 456701.28, 3351488.40; 456689.39, 3351551.24; 456669.60, 3351554.91; 456657.20, 3351552.54; 456642.81, 3351547.02; 456622.15, 3351543.42; 456631.53, 3351479.23; 456578.06, 3351472.40; 456569.40, 3351518.17; 456567.50, 3351531.21; 456567.34, 3351537.94; 456750.73, 3351718.31; 456750.35, 3351709.20; 456757.50, 3351692.72; 456761.31, 3351682.91; 456770.19, 3351685.66; 456775.57, 3351677.51; 456790.51, 3351674.88; 456802.70, 3351663.29; 456818.67, 3351660.10; 456827.69, 3351667.37; 456832.70, 3351674.73; 456829.46, 3351679.83; 456813.93, 3351678.42; 456810.60, 3351687.66; 456812.50, 3351694.95; 456815.43, 3351702.27; 456804.97, 3351706.15; 456798.50, 3351716.35; 456807.60, 3351725.88; 456814.89, 3351725.02; 456830.51, 3351722.29; 456842.09, 3351715.32; 456854.66, 3351710.45; 456849.60, 3351705.15; 456858.08, 3351689.98; 456863.42, 3351699.22; 456871.60, 3351689.51; 456887.38, 3351694.25; 456887.23, 3351700.59; 456897.06, 3351704.79; 456909.63, 3351710.64; 456917.29, 3351706.06; 456922.98, 3351700.65; 456929.11, 3351693.66; 456942.06, 3351700.32; 456958.19, 3351707.04; 456998.17, 3351713.15; 457019.55, 3351716.44; 457011.86, 3351730.78; 457009.53, 3351741.07; 457015.20, 3351755.81; 457015.23, 3351762.94; 457005.70, 3351770.99; 457003.35, 3351782.32; 456998.81, 3351793.67; 456982.29, 3351795.27; 456976.37, 3351782.71; 456957.72, 3351775.40; 456957.51, 3351783.85; 456949.04, 3351783.64; 456946.07, 3351775.12; 456940.49, 3351774.04; 456926.23, 3351772.11; 456912.86, 3351766.24; 456903.25, 3351760.26; 456891.75, 3351764.12; 456884.20, 3351768.72; 456873.96, 3351764.91; 456858.79, 3351767.72; 456846.32, 3351757.51; 456821.16, 3351763.25; 456815.80, 3351754.80; 456804.99, 3351758.11; 456792.61, 3351745.19; 456781.13, 3351748.02; 456770.10, 3351746.80; 456765.68, 3351743.51; 456764.74, 3351739.35; 456757.64, 3351732.97; 456750.73, 3351718.31; 457025.35, 3351773.53; 457022.49, 3351763.11; 457022.71, 3351753.80; 457028.48, 3351741.23; 457036.59, 3351729.87; 457053.45, 3351733.45; 457058.67, 3351736.74; 457058.39, 3351748.36; 457064.69, 3351750.63; 457065.91, 3351744.31; 457075.49, 3351742.43; 457077.43, 3351749.87; 457084.99, 3351743.71; 457090.29, 3351743.84; 457091.17, 3351751.26; 457100.77, 3351748.32; 457109.29, 3351746.41; 457110.20, 3351752.77; 457117.71, 3351748.73; 457116.71, 3351746.59; 457128.40, 3351744.75; 457132.46, 3351752.25; 457139.02, 3351743.95; 457137.03, 3351738.62; 457146.63, 3351735.68; 457157.27, 3351733.82; 457163.48, 3351740.31; 457177.11, 3351745.92; 457200.20, 3351737.81; 457216.70, 3351729.96; 457227.49, 3351721.76; 457238.28, 3351713.56; 457244.61, 3351714.77; 457247.43, 3351729.64; 457259.35, 3351744.57; 457272.94, 3351752.30; 457282.32, 3351758.86; 457286.27, 3351770.58; 457280.17, 3351777.99; 457283.82, 3351784.27; 457291.03, 3351792.89; 457292.13, 3351799.60; 457278.53, 3351802.26; 457273.99, 3351814.83; 457264.53, 3351811.43; 457256.06, 3351811.23; 457256.24, 3351803.84; 457269.37, 3351796.09; 457247.19, 3351783.54; 457239.65, 3351788.64; 457223.74, 3351789.32; 457216.43, 3351784.91; 457211.34, 3351776.34; 457204.76, 3351785.69; 457196.26, 3351786.55; 457189.13, 3351774.75; 457204.08, 3351769.82; 457217.95, 3351765.92; 457222.36, 3351758.63; 457224.66, 3351751.29; 457199.98, 3351764.44; 457192.67, 3351760.03; 457179.83, 3351765.01; 457170.25, 3351766.90; 457180.56, 3351778.77; 457177.08, 3351791.37; 457171.91, 3351785.96; 457160.11, 3351792.02; 457142.19, 3351788.42; 457123.08, 3351790.08; 457108.35, 3351785.50; 457091.39, 3351786.15; 457072.30, 3351786.75; 457067.49, 3351796.11; 457053.59, 3351795.77; 457041.84, 3351788.75; 457029.00, 3351777.74; 457025.35, 3351773.53; 457066.77, 3351698.78; 457062.96, 3351690.78; 457066.12, 3351683.93; 457073.17, 3351682.12; 457081.08, 3351686.15; 457084.84, 3351696.25; 457088.74, 3351700.30; 457093.70, 3351702.39; 457098.55, 3351708.44; 457093.12, 3351714.31; 457083.56, 3351715.14; 457072.51, 3351709.80; 457066.58, 3351706.69; 457066.77, 3351698.78; 457186.40, 3351712.32; 457184.48, 3351703.82; 457185.80, 3351693.28; 457192.25, 3351689.21; 457204.83, 3351694.79; 457215.24, 3351702.44; 457219.38, 3351706.77; 457218.16, 3351713.08; 457210.63, 3351718.18; 457202.08, 3351721.15; 457193.63, 3351719.89; 457193.76, 3351714.61; 457186.40, 3351712.32; 457724.53, 3351847.82; 457722.64, 3351838.27; 457728.19, 3351827.83; 457743.49, 3351834.39; 457761.49, 3351834.82; 457770.53, 3351844.78; 457781.14, 3351843.97; 457792.33, 3351848.39; 457813.45, 3351851.01; 457817.84, 3351844.77; 457803.19, 3351837.03; 457789.18, 3351837.21; 457784.18, 3351834.46; 457793.57, 3351830.51; 457806.60, 3351827.59; 457823.59, 3351825.89; 457834.99, 3351836.73; 457843.30, 3351843.27; 457836.90, 3351845.23; 457832.66, 3351845.13; 457836.75, 3351851.57; 457849.48, 3351850.82; 457855.58, 3351861.53; 457853.03, 3351879.44; 457850.38, 3351895.03; 457846.85, 3351898.17; 457833.05, 3351898.90; 457828.90, 3351895.63; 457821.44, 3351892.75; 457816.62, 3351894.62; 457812.23, 3351901.72; 457807.94, 3351903.73; 457800.43, 3351890.66; 457793.20, 3351893.66; 457786.09, 3351887.35; 457778.12, 3351892.30; 457770.56, 3351893.51; 457761.61, 3351892.05; 457760.70, 3351885.69; 457754.53, 3351878.14; 457743.21, 3351864.13; 457734.81, 3351860.75; 457724.53, 3351847.82; 457941.53, 3351871.07; 457936.47, 3351861.44; 457939.85, 3351853.06; 457948.32, 3351853.26; 457954.54, 3351858.70; 457965.26, 3351853.67; 457969.65, 3351847.43; 457981.29, 3351847.71; 457987.67, 3351846.81; 457987.47, 3351855.26; 457987.29, 3351862.65; 457984.94, 3351872.11; 457983.71, 3351879.48; 457979.27, 3351887.83; 457972.81, 3351891.90; 457967.60, 3351888.61; 457970.87, 3351884.46; 457967.88, 3351876.99; 457963.59, 3351879.00; 457963.36, 3351888.50; 457959.12, 3351888.40; 457957.13, 3351883.07; 457958.40, 3351874.64; 457961.73, 3351868.38; 457959.68, 3351865.16; 457950.13, 3351865.99; 457941.53, 3351871.07; 458438.95, 3351948.30; 458477.07, 3351949.21; 458477.25, 3351941.82; 458466.13, 3351919.35; 458537.67, 3351929.75; 458533.96, 3351819.73; 458490.00, 3351797.54; 458444.87, 3351779.55; 458442.47, 3351890.25; 458438.95, 3351948.30; 458928.83, 3352050.66; 458933.02, 3352052.88; 458937.36, 3352048.76; 458941.57, 3352049.91; 458947.01, 3352043.70; 458953.37, 3352043.85; 458959.85, 3352038.72; 458965.09, 3352040.96; 458965.04, 3352043.08; 458964.94, 3352047.30; 458969.07, 3352051.63; 458977.59, 3352049.72; 458983.92, 3352050.93; 458988.16, 3352051.03; 458993.45, 3352051.16; 458996.53, 3352055.46; 458999.78, 3352052.37; 459006.13, 3352052.52; 459013.52, 3352053.75; 459020.96, 3352052.87; 459021.06, 3352048.65; 459025.40, 3352044.52; 459031.70, 3352046.79; 459030.43, 3352055.21; 459034.67, 3352055.32; 459040.97, 3352057.58; 459040.82, 3352063.92; 459032.22, 3352069.00; 459023.65, 3352073.02; 459017.32, 3352071.81; 459010.94, 3352072.72; 459006.60, 3352076.84; 459003.35, 3352079.93; 458996.97, 3352080.84; 458989.54, 3352081.72; 458983.26, 3352078.39; 458975.74, 3352082.44; 458971.56, 3352080.23; 458965.31, 3352075.85; 458968.51, 3352074.87; 458970.73, 3352070.70; 458962.26, 3352070.49; 458959.06, 3352071.47; 458954.80, 3352072.43; 458947.38, 3352072.25; 458944.28, 3352069.00; 458936.80, 3352072.00; 458932.53, 3352072.95; 458931.17, 3352085.60; 458938.48, 3352090.01; 458944.88, 3352088.04; 458952.35, 3352086.11; 458959.73, 3352087.34; 458961.73, 3352092.68; 458963.74, 3352096.95; 458966.92, 3352097.03; 458973.40, 3352091.90; 458978.72, 3352090.97; 458983.99, 3352092.15; 458991.50, 3352088.10; 458994.65, 3352089.24; 459000.90, 3352093.62; 459010.46, 3352092.79; 459019.96, 3352094.07; 459021.12, 3352089.87; 459021.20, 3352086.70; 459027.45, 3352091.08; 459034.91, 3352089.15; 459040.31, 3352085.05; 459049.97, 3352079.99; 459056.30, 3352081.20; 459062.52, 3352086.64; 459068.77, 3352091.01; 459075.36, 3352081.66; 459083.83, 3352081.86; 459094.47, 3352080.00; 459107.12, 3352082.42; 459112.44, 3352081.49; 459126.16, 3352083.93; 459129.28, 3352086.12; 459130.19, 3352092.49; 459137.52, 3352095.83; 459143.77, 3352100.21; 459145.71, 3352107.66; 459157.39, 3352106.88; 459168.00, 3352106.08; 459173.22, 3352109.37; 459179.65, 3352106.36; 459192.36, 3352106.66; 459208.29, 3352104.93; 459225.15, 3352108.50; 459239.90, 3352112.03; 459241.87, 3352118.42; 459244.97, 3352121.66; 459255.28, 3352133.54; 459250.89, 3352139.77; 459247.53, 3352147.09; 459233.74, 3352147.82; 459210.40, 3352149.37; 459148.88, 3352152.13; 459134.06, 3352151.77; 459123.42, 3352153.63; 459111.74, 3352154.41; 459103.20, 3352157.37; 459095.76, 3352158.25; 459087.26, 3352159.11; 459073.42, 3352161.94; 459063.84, 3352163.83; 459062.60, 3352171.20; 459069.73, 3352183.00; 459067.49, 3352188.23; 459058.94, 3352191.19; 459057.45, 3352209.13; 459062.52, 3352218.76; 459062.29, 3352228.27; 459055.81, 3352233.40; 459053.13, 3352256.59; 459074.25, 3352259.21; 459084.82, 3352260.52; 459084.03, 3352293.27; 459082.79, 3352300.64; 459089.14, 3352300.79; 459096.58, 3352299.91; 459105.10, 3352298.00; 459110.42, 3352297.07; 459121.99, 3352300.52; 459129.43, 3352299.64; 459132.74, 3352294.43; 459144.46, 3352291.54; 459155.05, 3352291.80; 459163.49, 3352293.06; 459166.82, 3352199.06; 459167.15, 3352185.33; 459179.91, 3352183.52; 459194.73, 3352183.88; 459209.66, 3352180.01; 459223.42, 3352180.34; 459237.09, 3352184.89; 459255.01, 3352188.49; 459266.74, 3352185.60; 459280.55, 3352183.82; 459291.89, 3352196.78; 459548.55, 3352186.02; 459549.82, 3352220.93; 459630.30, 3352222.86; 459651.00, 3352185.21; 459649.57, 3352006.10; 459637.64, 3352006.35; 459626.47, 3352019.28; 459619.86, 3352029.70; 459617.49, 3352040.21; 459630.95, 3352053.22; 459630.59, 3352068.00; 459630.18, 3352084.91; 459621.51, 3352093.15; 459612.84, 3352101.40; 459611.50, 3352113.00; 459619.71, 3352123.76; 459622.38, 3352144.97; 459613.65, 3352155.33; 459622.80, 3352171.40; 459623.48, 3352187.27; 459625.56, 3352199.49; 459615.83, 3352207.91; 459558.63, 3352207.40; 459557.30, 3352174.60; 459486.30, 3352175.01; 459487.23, 3352180.32; 459374.79, 3352186.08; 459295.35, 3352185.23; 459290.23, 3352177.71; 459287.34, 3352166.02; 459295.83, 3352165.16; 459295.08, 3352152.46; 459279.22, 3352151.02; 459279.50, 3352139.40; 459259.36, 3352139.98; 459259.46, 3352135.75; 459258.13, 3352102.95; 459238.04, 3352101.41; 459224.38, 3352096.86; 459186.21, 3352098.06; 459153.30, 3352100.44; 459150.28, 3352094.03; 459149.65, 3352076.04; 459144.49, 3352070.63; 459133.82, 3352073.55; 459124.27, 3352074.38; 459115.97, 3352066.78; 459105.28, 3352070.75; 459099.03, 3352066.37; 459100.27, 3352059.00; 459103.47, 3352058.02; 459103.55, 3352054.85; 459107.89, 3352050.73; 459100.50, 3352049.49; 459103.80, 3352044.29; 459091.07, 3352045.04; 459092.77, 3352018.66; 459091.83, 3352013.35; 459071.72, 3352012.87; 459052.66, 3352012.41; 459053.64, 3352015.60; 459036.67, 3352016.25; 459027.12, 3352017.08; 459006.90, 3352020.83; 459003.77, 3352018.64; 458997.37, 3352020.60; 458989.95, 3352020.42; 458985.77, 3352018.21; 458983.73, 3352014.99; 458981.61, 3352014.94; 458979.36, 3352020.17; 458964.54, 3352019.81; 458963.33, 3352026.12; 458960.20, 3352023.93; 458959.25, 3352019.68; 458952.84, 3352021.64; 458945.25, 3352028.86; 458933.32, 3352040.20; 458928.83, 3352050.66

(10) PKBM—Unit 5: Gulf Islands National Seashore, Escambia County, Florida.

(i) General Description: This unit encompasses essential features of beach mouse habitat within the boundary of Gulf Islands National Seashore-Perdido Key Area (also referred to as Johnson Beach) from approximately 6 mi (9.6 km) east of the Alabama-Florida State line to the eastern tip of Perdido Key at Pensacola Bay and the area from the MHWL north to the seaward extent of the maritime forest.

(ii) Coordinates: From USGS 1:24,000 quadrangle map Perdido Bay, and Fort Barrancas, Florida, land bounded by the following UTM 16 NAD 83 coordinates (E, N): 464806.54, 3353248.09; 460167.32, 3352161.40; 460112.98, 3352141.46; 460076.54, 3352115.69; 460062.15, 3352097.38; 460032.76, 3352041.24; 460015.51, 3352024.29; 459999.54, 3352012.96; 459981.75, 3352007.62; 459961.62, 3352003.59; 459912.92, 3352002.90; 459885.33, 3352003.88; 459852.28, 3352012.60; 459823.72, 3352011.33; 459799.52, 3352004.41; 459708.84, 3352005.84; 459649.57, 3352006.10; 459651.00, 3352185.21; 459662.18, 3352177.93; 459676.32, 3352192.77; 459689.75, 3352206.83; 459690.56, 3352217.42; 459692.37, 3352230.15; 459701.27, 3352237.54; 459706.13, 3352230.01; 459707.87, 3352201.51; 459715.92, 3352173.67; 459726.90, 3352160.16; 459735.50, 3352155.08; 459753.65, 3352157.93; 459766.21, 3352155.82; 459768.17, 3352162.20; 459764.82, 3352169.52; 459771.02, 3352176.01; 459828.76, 3352173.60; 459847.49, 3352187.53; 459859.01, 3352171.16; 459890.74, 3352190.15; 459920.71, 3352199.20; 459961.02, 3352208.09; 459971.68, 3352244.02; 459986.72, 3352263.01; 459997.45, 3352279.12; 460011.09, 3352290.15; 460029.75, 3352290.60; 460041.81, 3352284.94; 460057.73, 3352267.49; 460066.23, 3352260.95; 460062.89, 3352234.71; 460077.34, 3352228.32; 460081.35, 3352243.48; 460099.25, 3352242.72; 460115.14, 3352209.80; 460127.02, 3352244.18; 460142.28, 3352237.41; 460142.29, 3352204.11; 460168.97, 3352186.72; 460167.32, 3352161.40; 464469.51, 3353268.58; 464465.93, 3353285.40; 464478.53, 3353289.94; 464496.58, 3353288.25; 464510.32, 3353289.64; 464517.47, 3353298.91; 464527.19, 3353293.22; 464538.68, 3353299.84; 464546.16, 3353303.93; 464551.08, 3353312.82; 464565.02, 3353310.56; 464583.88, 3353314.66; 464589.59, 3353306.59; 464608.58, 3353309.82; 464615.42, 3353324.93; 464620.04, 3353309.19; 464628.67, 3353300.39; 464636.93, 3353311.71; 464636.67, 3353322.27; 464655.48, 3353333.29; 464659.38, 3353347.13; 464669.74, 3353356.89; 464682.24, 3353365.65; 464695.60, 3353375.33; 464707.71, 3353364.14; 464724.85, 3353364.93; 464739.01, 3353370.82; 464756.44, 3353364.26; 464776.94, 3353348.89; 464801.65, 3353334.69; 464829.75, 3353355.45; 464822.89, 3353376.42; 464829.74, 3353397.97; 464852.31, 3353417.54; 464891.50, 3353430.92; 464926.62, 3353424.36; 464974.63, 3353410.72; 464999.13, 3353408.38; 465012.11, 3353413.85; 465010.83, 3353420.05; 465000.19, 3353421.91; 464993.74, 3353425.98; 464995.65, 3353434.49; 465008.36, 3353434.79; 465021.06, 3353435.10; 465024.37, 3353429.89; 465041.54, 3353420.79; 465063.75, 3353422.38; 465082.96, 3353416.50; 465106.39, 3353425.23; 465141.26, 3353442.20; 465160.15, 3353448.04; 465168.69, 3353447.09; 465177.29, 3353442.01; 465185.03, 3353428.46; 465205.15, 3353428.94; 465204.97, 3353436.33; 465190.44, 3353465.70; 465196.28, 3353470.59; 465200.62, 3353488.14; 465210.45, 3353476.09; 465228.25, 3353481.29; 465248.17, 3353476.99; 465264.92, 3353474.62; 465275.80, 3353483.04; 465282.37, 3353492.08; 465273.30, 3353505.74; 465268.06, 3353517.13; 465275.24, 3353526.82; 465280.25, 3353538.57; 465288.65, 3353541.94; 465301.66, 3353529.57; 465291.53, 3353510.30; 465320.61, 3353504.50; 465337.73, 3353507.58; 465349.22, 3353520.64; 465369.60, 3353515.98; 465371.35, 3353493.03; 465389.63, 3353492.68; 465403.76, 3353478.50; 465410.11, 3353483.66; 465424.43, 3353499.46; 465432.40, 3353517.01; 465421.97, 3353554.02; 465446.44, 3353560.55; 465460.12, 3353553.75; 465473.41, 3353546.14; 465472.56, 3353531.85; 465491.26, 3353530.71; 465488.14, 3353544.91; 465502.26, 3353552.38; 465526.05, 3353554.54; 465528.75, 3353541.35; 465539.57, 3353532.10; 465549.66, 3353530.93; 465562.07, 3353543.51; 465577.77, 3353553.20; 465591.54, 3353573.52; 465614.86, 3353573.02; 465627.17, 3353545.83; 465643.21, 3353539.88; 465664.99, 3353559.42; 465683.61, 3353577.84; 465708.18, 3353596.97; 465732.10, 3353610.22; 465732.23, 3353626.57; 465741.66, 3353631.03; 465751.75, 3353619.02; 465770.44, 3353618.28; 465776.68, 3353628.70; 465775.84, 3353641.40; 465782.27, 3353654.63; 465791.78, 3353639.40; 465791.73, 3353619.55; 465797.08, 3353617.56; 465812.32, 3353628.01; 465834.71, 3353638.55; 465850.03, 3353645.96; 465870.63, 3353642.58; 465891.18, 3353652.89; 465915.82, 3353652.29; 465926.83, 3353640.76; 465938.27, 3353649.49; 465952.32, 3353638.20; 465959.91, 3353630.99; 465971.40, 3353637.60; 465981.19, 3353627.27; 465991.98, 3353619.07; 466001.48, 3353620.36; 466013.65, 3353632.05; 466014.52, 3353645.55; 466008.11, 3353647.77; 466012.96, 3353660.57; 466023.78, 3353662.12; 466032.18, 3353654.30; 466049.93, 3353659.88; 466081.23, 3353663.75; 466073.30, 3353673.88; 466063.96, 3353670.91; 466058.29, 3353680.91; 466061.86, 3353692.27; 466079.49, 3353702.60; 466101.59, 3353708.68; 466113.75, 3353698.67; 466108.16, 3353677.88; 466115.68, 3353673.84; 466130.29, 3353682.64; 466142.19, 3353672.79; 466154.68, 3353681.81; 466168.50, 3353685.32; 466175.14, 3353690.23; 466187.37, 3353693.70; 466193.66, 3353696.62; 466206.88, 3353694.52; 466214.87, 3353690.00; 466229.18, 3353706.20; 466236.97, 3353696.47; 466248.32, 3353703.49; 466260.66, 3353685.95; 466272.51, 3353689.00; 466272.56, 3353703.28; 466262.24, 3353703.03; 466265.84, 3353718.18; 466285.27, 3353703.58; 466310.61, 3353706.96; 466322.11, 3353708.03; 466344.53, 3353717.39; 466365.55, 3353724.23; 466379.16, 3353730.90; 466388.19, 3353735.39; 466401.99, 3353739.68; 466415.82, 3353742.79; 466441.50, 3353748.95; 466459.61, 3353755.73; 466476.89, 3353747.82; 466486.47, 3353762.32; 466506.51, 3353771.52; 466523.62, 3353770.35; 466537.41, 3353775.04; 466553.99, 3353774.21; 466566.44, 3353785.08; 466570.39, 3353796.80; 466573.45, 3353812.77; 466555.69, 3353824.23; 466556.65, 3353833.77; 466584.79, 3353836.82; 466621.82, 3353817.07; 466637.08, 3353799.46; 466652.64, 3353807.54; 466666.74, 3353799.55; 466687.81, 3353798.87; 466702.66, 3353792.88; 466718.72, 3353802.39; 466731.07, 3353800.70; 466746.08, 3353804.63; 466752.40, 3353822.62; 466746.46, 3353832.74; 466752.45, 3353847.69; 466761.52, 3353866.93; 466775.13, 3353873.60; 466794.22, 3353873.00; 466814.64, 3353860.81; 466830.53, 3353861.19; 466836.34, 3353883.70; 466843.21, 3353878.71; 466860.23, 3353898.14; 466867.04, 3353928.66; 466921.24, 3353921.50; 466966.67, 3353926.82; 467017.94, 3353915.01; 467055.12, 3353905.70; 467090.79, 3353909.23; 467133.09, 3353917.78; 467175.98, 3353918.81; 467205.17, 3353921.99; 467242.29, 3353936.66; 467308.25, 3353952.91; 467315.54, 3353947.14; 467320.22, 3353950.82; 467328.57, 3353950.22; 467341.04, 3353954.85; 467352.74, 3353953.18; 467357.99, 3353955.25; 467369.04, 3353952.78; 467372.51, 3353957.23; 467379.38, 3353957.35; 467380.74, 3353961.78; 467402.21, 3353961.11; 467409.47, 3353956.53; 467419.58, 3353949.34; 467432.16, 3353954.92; 467426.07, 3353960.10; 467428.75, 3353964.13; 467437.54, 3353963.70; 467441.28, 3353972.05; 467448.27, 3353978.47; 467471.81, 3353974.67; 467488.90, 3353974.26; 467497.75, 3353958.61; 467509.87, 3353957.77; 467514.46, 3353968.53; 467515.35, 3353975.95; 467533.32, 3353977.44; 467554.45, 3353980.06; 467575.50, 3353985.85; 467605.55, 3353994.38; 467635.64, 3353998.67; 467647.94, 3353999.37; 467651.35, 3353989.54; 467656.15, 3353980.39; 467666.84, 3353976.42; 467682.94, 3353981.18; 467689.99, 3353985.31; 467694.01, 3353991.87; 467693.88, 3354005.23; 467700.36, 3354016.88; 467710.43, 3354027.43; 467725.79, 3354032.95; 467735.60, 3354037.94; 467744.23, 3354042.51; 467756.80, 3354048.76; 467770.28, 3354049.87; 467787.64, 3354054.65; 467800.89, 3354049.02; 467814.96, 3354058.87; 467830.07, 3354058.05; 467842.99, 3354065.89; 467859.98, 3354050.82; 467875.68, 3354044.87; 467893.20, 3354043.31; 467912.55, 3354048.14; 467927.72, 3354053.51; 467939.14, 3354063.29; 467950.58, 3354072.03; 467965.25, 3354078.72; 467972.74, 3354075.73; 467984.77, 3354068.50; 467990.07, 3354062.69; 467996.75, 3354046.71; 467996.95, 3354038.26; 468004.42, 3354036.32; 468020.25, 3354038.82; 468035.00, 3354042.34; 468047.73, 3354041.59; 468051.86, 3354045.92; 468049.51, 3354055.38; 468034.46, 3354064.53; 468024.60, 3354078.03; 468037.18, 3354083.62; 468051.98, 3354085.03; 468062.44, 3354090.57; 468078.14, 3354098.35; 468085.58, 3354097.47; 468099.47, 3354092.52; 468094.41, 3354082.88; 468100.91, 3354076.70; 468117.62, 3354086.61; 468118.45, 3354096.14; 468113.73, 3354116.11; 468126.34, 3354120.64; 468131.43, 3354129.22; 468137.55, 3354138.88; 468153.23, 3354147.72; 468159.35, 3354160.30; 468172.08, 3354156.63; 468173.97, 3354166.18; 468168.47, 3354174.51; 468183.85, 3354196.02; 468188.63, 3354217.27; 468194.55, 3354235.38; 468200.62, 3354247.16; 468218.65, 3354246.53; 468226.91, 3354257.85; 468238.85, 3354256.95; 468252.50, 3354248.40; 468274.48, 3354259.50; 468281.66, 3354277.40; 468268.60, 3354283.67; 468277.90, 3354293.41; 468287.30, 3354298.92; 468294.45, 3354266.32; 468288.45, 3354251.38; 468262.21, 3354241.24; 468263.40, 3354227.81; 468263.99, 3354211.69; 468248.19, 3354166.40; 468240.30, 3354163.51; 468244.56, 3354152.44; 468239.20, 3354141.33; 468226.19, 3354153.70; 468213.61, 3354148.11; 468207.46, 3354139.51; 468202.39, 3354129.87; 468198.46, 3354120.02; 468204.61, 3354112.24; 468213.51, 3354105.32; 468222.88, 3354112.28; 468225.47, 3354103.62; 468236.36, 3354097.15; 468239.74, 3354105.15; 468248.38, 3354111.95; 468256.13, 3354117.44; 468259.25, 3354100.59; 468269.02, 3354094.61; 468278.44, 3354095.76; 468301.92, 3354063.84; 468321.70, 3354067.49; 468347.45, 3354070.48; 468361.44, 3354066.86; 468374.81, 3354053.68; 468386.26, 3354059.13; 468404.33, 3354051.24; 468421.34, 3354054.42; 468437.05, 3354045.68; 468449.06, 3354058.26; 468471.13, 3354065.53; 468498.47, 3354068.29; 468495.38, 3354081.57; 468512.31, 3354071.28; 468524.93, 3354058.90; 468537.49, 3354065.14; 468542.53, 3354086.67; 468531.56, 3354099.73; 468524.54, 3354127.05; 468531.54, 3354144.13; 468549.35, 3354149.86; 468572.46, 3354146.84; 468588.95, 3354135.99; 468600.60, 3354136.27; 468613.51, 3354128.13; 468612.91, 3354109.09; 468613.24, 3354095.35; 468630.16, 3354096.82; 468645.89, 3354103.54; 468662.85, 3354102.89; 468674.58, 3354100.00; 468668.98, 3354112.55; 468664.41, 3354126.18; 468669.00, 3354147.18; 468677.00, 3354161.25; 468696.91, 3354143.10; 468724.84, 3354124.46; 468752.54, 3354126.20; 468769.17, 3354128.58; 468760.28, 3354148.57; 468763.49, 3354166.50; 468788.18, 3354177.78; 468806.69, 3354157.08; 468804.05, 3354134.82; 468806.94, 3354120.40; 468858.31, 3354139.05; 468886.53, 3354138.54; 468908.54, 3354151.08; 468950.68, 3354204.94; 469007.06, 3354239.06; 469083.64, 3354270.50; 469094.91, 3354294.57; 469127.14, 3354309.22; 469182.44, 3354339.09; 469230.84, 3354358.09; 469236.13, 3354336.42; 469230.78, 3354319.49; 469221.75, 3354307.13; 469218.74, 3354291.72; 469220.19, 3354273.01; 469263.53, 3354271.28; 469288.14, 3354288.91; 469322.59, 3354294.10; 469323.99, 3354301.27; 469295.51, 3354312.47; 469293.37, 3354335.41; 469274.36, 3354357.53; 469262.31, 3354374.16; 469252.55, 3354383.43; 469267.32, 3354385.90; 469269.61, 3354397.87; 469276.22, 3354420.22; 469277.46, 3354434.92; 469288.73, 3354464.64; 469289.30, 3354484.73; 469300.64, 3354494.93; 469319.24, 3354514.41; 469342.46, 3354507.04; 469367.89, 3354539.29; 469372.40, 3354553.32; 469363.99, 3354569.79; 469379.12, 3354582.02; 469388.80, 3354594.96; 469392.50, 3354606.54; 469404.13, 3354602.06; 469412.16, 3354617.70; 469406.56, 3354630.25; 469408.38, 3354639.82; 469425.75, 3354625.43; 469436.13, 3354634.13; 469449.79, 3354638.69; 469455.79, 3354653.63; 469473.81, 3354653.01; 469475.58, 3354637.47; 469489.98, 3354633.46; 469499.33, 3354608.32; 469518.74, 3354594.12; 469524.10, 3354602.57; 469540.31, 3354638.63; 469552.16, 3354641.30; 469569.41, 3354634.58; 469576.15, 3354651.78; 469574.95, 3354668.40; 469582.96, 3354682.07; 469577.81, 3354698.20; 469574.56, 3354717.55; 469578.40, 3354722.79; 469570.96, 3354731.94; 469576.44, 3354746.38; 469593.23, 3354753.12; 469585.37, 3354727.78; 469586.72, 3354723.78; 469602.61, 3354707.52; 469616.52, 3354707.46; 469631.22, 3354756.56; 469659.32, 3354761.20; 469681.48, 3354748.26; 469727.71, 3354742.24; 469732.26, 3354751.46; 469735.29, 3354757.48; 469738.78, 3354777.38; 469719.71, 3354767.20; 469702.04, 3354766.31; 469694.77, 3354773.55; 469708.24, 3354808.36; 469726.98, 3354821.89; 469734.90, 3354839.52; 469754.09, 3354850.69; 469775.73, 3354876.18; 469799.89, 3354881.76; 469803.86, 3354895.88; 469812.25, 3354926.60; 469803.70, 3354951.77; 469790.50, 3354971.66; 469762.33, 3354970.19; 469741.15, 3354975.23; 469733.88, 3354996.46; 469725.95, 3355012.52; 469710.58, 3355023.65; 469705.12, 3355035.81; 469686.34, 3355040.11; 469669.18, 3355027.01; 469658.96, 3355022.41; 469637.52, 3355024.78; 469638.67, 3355007.25; 469650.65, 3354988.12; 469664.12, 3354990.03; 469691.40, 3354962.54; 469670.80, 3354960.07; 469660.41, 3354945.94; 469656.15, 3354925.23; 469637.58, 3354920.82; 469632.08, 3354901.66; 469639.97, 3354887.58; 469619.02, 3354866.86; 469605.25, 3354877.63; 469586.08, 3354865.28; 469586.47, 3354849.43; 469573.47, 3354844.76; 469562.36, 3354827.84; 469551.80, 3354820.85; 469540.97, 3354808.70; 469529.48, 3354804.44; 469512.83, 3354801.34; 469494.50, 3354807.98; 469475.07, 3354820.04; 469461.16, 3354826.05; 469448.63, 3354818.35; 469450.07, 3354802.53; 469463.13, 3354790.97; 469447.30, 3354785.55; 469424.68, 3354800.86; 469417.03, 3354824.35; 469408.76, 3354843.72; 469396.91, 3354851.21; 469386.06, 3354856.50; 469370.44, 3354845.03; 469359.71, 3354845.17; 469355.50, 3354838.72; 469336.96, 3354833.12; 469311.96, 3354832.13; 469305.78, 3354841.09; 469291.25, 3354834.01; 469274.13, 3354818.93; 469259.29, 3354808.27; 469234.18, 3354811.63; 469211.29, 3354821.78; 469186.50, 3354828.32; 469156.59, 3354833.15; 469138.40, 3354845.79; 469124.34, 3354852.19; 469099.52, 3354843.67; 469085.32, 3354839.36; 469076.92, 3354825.29; 469067.68, 3354799.68; 469056.51, 3354779.33; 469049.56, 3354760.13; 469047.78, 3354746.35; 469046.14, 3354726.23; 469034.13, 3354697.40; 469029.55, 3354667.69; 469018.33, 3354649.45; 469000.84, 3354627.89; 468989.70, 3354620.64; 468971.40, 3354618.73; 468952.71, 3354605.88; 468937.30, 3354602.33; 468922.08, 3354607.12; 468906.29, 3354603.17; 468898.58, 3354609.73; 468891.12, 3354605.98; 468877.19, 3354615.41; 468873.84, 3354622.72; 468863.14, 3354626.70; 468848.35, 3354625.28; 468840.85, 3354631.33; 468836.68, 3354639.55; 468830.30, 3354640.19; 468821.96, 3354640.39; 468812.80, 3354641.36; 468806.96, 3354652.71; 468794.41, 3354662.32; 468793.07, 3354668.63; 468787.37, 3354674.04; 468777.68, 3354680.55; 468765.74, 3354681.45; 468758.67, 3354678.11; 468757.53, 3354676.10; 468749.31, 3354670.75; 468747.53, 3354662.38; 468748.51, 3354654.48; 468751.45, 3354648.21; 468754.04, 3354639.55; 468753.03, 3354631.99; 468750.03, 3354624.79; 468742.07, 3354624.99; 468734.46, 3354627.58; 468731.10, 3354635.43; 468725.86, 3354638.47; 468715.01, 3354643.37; 468707.32, 3354649.13; 468702.77, 3354656.95; 468693.23, 3354657.11; 468687.94, 3354662.14; 468681.46, 3354667.14; 468673.28, 3354676.85; 468668.41, 3354681.09; 468658.77, 3354685.62; 468649.48, 3354691.73; 468642.16, 3354698.69; 468632.26, 3354713.91; 468622.51, 3354722.80; 468617.59, 3354729.02; 468616.66, 3354734.55; 468608.91, 3354743.08; 468602.64, 3354756.01; 468600.49, 3354764.78; 468595.52, 3354770.90; 468585.96, 3354785.98; 468580.33, 3354799.59; 468576.92, 3354809.02; 468588.09, 3354815.51; 468597.69, 3354829.22; 468611.00, 3354837.47; 468621.10, 3354846.83; 468637.14, 3354860.15; 468649.56, 3354872.07; 468659.67, 3354879.82; 468678.80, 3354889.69; 468701.42, 3354904.61; 468715.25, 3354915.93; 468741.88, 3354929.01; 468758.78, 3354933.89; 468783.27, 3354942.29; 468802.70, 3354945.31; 468828.46, 3354946.55; 468847.12, 3354947.39; 468867.41, 3354945.90; 468886.73, 3354952.31; 468913.66, 3354955.73; 468953.96, 3354965.03; 468994.70, 3354972.35; 469018.38, 3354978.86; 469042.85, 3354985.79; 469073.96, 3354997.24; 469111.42, 3355008.85; 469132.66, 3355017.68; 469143.73, 3355019.93; 469153.98, 3355023.35; 469181.61, 3355014.50; 469210.14, 3355017.56; 469244.21, 3355021.55; 469263.69, 3355020.83; 469280.00, 3355020.03; 469303.90, 3355017.44; 469322.77, 3355009.17; 469340.76, 3355004.85; 469356.72, 3355002.06; 469399.53, 3354989.61; 469416.96, 3354988.83; 469456.69, 3354975.13; 469477.70, 3354974.43; 469497.54, 3354986.54; 469502.42, 3355003.57; 469497.60, 3355027.76; 469496.96, 3355054.17; 469515.23, 3355087.38; 469575.70, 3355127.94; 469624.95, 3355150.27; 469686.69, 3355190.35; 469709.06, 3355220.99; 469717.07, 3355240.21; 469733.10, 3355275.50; 469745.05, 3355309.59; 469745.37, 3355340.25; 469747.26, 3355349.81; 469758.98, 3355346.92; 469768.90, 3355331.31; 469771.55, 3355309.17; 469777.79, 3355270.21; 469796.74, 3355231.56; 469816.48, 3355203.49; 469825.30, 3355175.84; 469828.22, 3355137.07; 469829.31, 3355108.56; 469835.40, 3355086.51; 469840.15, 3355057.14; 469846.26, 3355023.46; 469862.73, 3354999.55; 469888.76, 3354974.80; 469906.83, 3354972.07; 469937.15, 3354969.64; 469964.79, 3354927.50; 469967.32, 3354904.97; 469963.31, 3354873.55; 469957.47, 3354852.41; 469919.14, 3354712.36; 469904.41, 3354590.43; 469887.91, 3354527.67; 469882.16, 3354458.82; 469879.36, 3354399.56; 469875.67, 3354332.88; 469852.24, 3354294.27; 469829.53, 3354269.41; 469798.15, 3354252.80; 469758.27, 3354237.04; 469620.05, 3354213.64; 469413.30, 3354175.90; 469150.72, 3354125.19; 468897.75, 3354071.54; 468705.93, 3354029.93; 468472.95, 3353982.05; 468354.85, 3353959.13; 468089.73, 3353898.86; 467876.76, 3353855.69; 467795.37, 3353833.66; 467704.10, 3353810.31; 467589.00, 3353794.86; 467465.82, 3353762.31; 467307.82, 3353723.79; 467132.79, 3353689.83; 466939.05, 3353639.72; 466650.36, 3353573.59; 466448.08, 3353526.45; 466253.99, 3353491.14; 466104.53, 3353450.55; 465894.68, 3353409.20; 465744.99, 3353378.49; 465607.97, 3353348.78; 465461.41, 3353319.89; 465387.62, 3353304.37; 465298.13, 3353281.09; 465146.47, 3353243.62; 464951.75, 3353190.32; 464766.29, 3353148.87; 464622.88, 3353112.37; 464474.67, 3353072.11; 464304.10, 3353027.85; 464172.41, 3352997.20; 463970.02, 3352954.29; 463779.90, 3352910.99; 463553.34, 3352865.91; 463397.79, 3352827.46; 463298.84, 3352800.77; 463136.67, 3352759.88; 462972.38, 3352718.94; 462823.02, 3352674.14; 462717.79, 3352644.13; 462580.14, 3352610.68; 462480.38, 3352579.35; 462257.48, 3352514.15; 462033.58, 3352440.60; 461803.27, 3352369.67; 461642.05, 3352322.13; 461476.44, 3352278.22; 461256.30, 3352224.32; 460978.37, 3352151.06; 460797.21, 3352106.55; 460554.30, 3352055.44; 460349.93, 3352012.49; 460270.17, 3351994.55; 460194.24, 3351980.05; 460146.84, 3351968.34; 460060.54, 3351952.83; 459965.56, 3351929.11; 459844.14, 3351898.10; 459658.58, 3351848.02; 459657.25, 3351880.07; 459656.77, 3351891.62; 459649.88, 3351907.84; 459646.27, 3351928.46; 459645.76, 3351992.61; 459728.73, 3351993.57; 459793.00, 3351992.40; 459817.11, 3351985.34; 459838.96, 3351982.76; 459858.63, 3351984.26; 459885.56, 3351992.63; 459928.03, 3351991.63; 459975.63, 3351993.75; 459990.40, 3351997.36; 460025.26, 3352015.41; 460048.20, 3352036.57; 460059.52, 3352061.02; 460075.51, 3352089.94; 460099.95, 3352114.71; 460122.78, 3352131.60; 460144.84, 3352139.53; 460162.73, 3352144.18; 460170.30, 3352138.02; 460169.55, 3352125.32; 460148.36, 3352124.34; 460145.56, 3352108.42; 460131.90, 3352103.86; 460136.52, 3352088.12; 460151.32, 3352089.53; 460155.56, 3352082.35; 460079.80, 3352067.73; 460091.79, 3352009.89; 460131.28, 3352017.95; 460155.04, 3352023.03; 460158.61, 3352007.73; 460163.10, 3351997.27; 460181.15, 3351995.59; 460197.14, 3352005.26; 460198.41, 3352026.66; 460251.63, 3352035.90; 460296.49, 3352044.39; 460288.14, 3352083.30; 460305.65, 3352085.95; 460311.02, 3352094.00; 460297.05, 3352153.28; 460182.10, 3352131.96; 460182.80, 3352146.78; 460221.78, 3352156.17; 460298.91, 3352167.83; 460344.83, 3352174.88; 460383.64, 3352179.78; 460428.92, 3352180.46; 460479.10, 3352175.33; 460548.64, 3352158.36; 460630.44, 3352144.07; 460697.24, 3352141.71; 460781.60, 3352152.85; 460965.17, 3352201.65; 461189.40, 3352261.33; 461407.76, 3352317.30; 461553.98, 3352356.77; 461664.40, 3352391.13; 461861.00, 3352453.98; 462029.11, 3352510.65; 462254.21, 3352583.83; 462475.35, 3352656.12; 462677.24, 3352719.63; 462783.53, 3352756.69; 462837.25, 3352773.02; 462926.04, 3352798.14; 463123.85, 3352849.66; 463248.68, 3352883.47; 463325.01, 3352901.81; 463336.94, 3352890.47; 463354.48, 3352893.00; 463364.47, 3352904.98; 463363.75, 3352920.71; 463356.68, 3352931.35; 463341.11, 3352934.55; 463328.97, 3352927.12; 463321.53, 3352914.41; 463244.68, 3352894.16; 463042.95, 3352843.36; 462928.44, 3352814.05; 462787.39, 3352772.63; 462592.90, 3352707.70; 462371.16, 3352634.75; 462206.12, 3352581.11; 461994.86, 3352510.51; 461849.15, 3352462.15; 461673.57, 3352406.15; 461567.39, 3352371.89; 461476.12, 3352349.07; 461234.72, 3352283.58; 461016.73, 3352228.67; 460873.60, 3352189.30; 460789.34, 3352168.25; 460738.18, 3352157.36; 460687.97, 3352154.19; 460638.87, 3352156.96; 460555.48, 3352171.61; 460497.07, 3352188.04; 460429.47, 3352197.67; 460363.46, 3352193.16; 460287.88, 3352180.25; 460179.52, 3352162.14; 460176.23, 3352185.99; 460256.99, 3352192.59; 460290.69, 3352197.99; 460295.71, 3352209.74; 460302.09, 3352208.83; 460313.58, 3352215.45; 460322.36, 3352202.98; 460343.44, 3352199.42; 460368.30, 3352206.36; 460399.68, 3352223.36; 460420.70, 3352241.31; 460464.71, 3352245.14; 460499.09, 3352252.70; 460530.31, 3352233.92; 460568.66, 3352225.32; 460599.66, 3352234.11; 460631.81, 3352235.27; 460698.45, 3352223.40; 460832.72, 3352240.49; 460886.11, 3352267.14; 460935.43, 3352298.05; 460953.45, 3352292.14; 460971.62, 3352296.54; 460991.32, 3352303.35; 460998.97, 3352315.82; 461013.75, 3352352.27; 461027.32, 3352361.05; 461059.45, 3352390.36; 461104.38, 3352425.77; 461124.79, 3352419.92; 461160.99, 3352385.11; 461228.42, 3352356.60; 461266.85, 3352344.45; 461344.18, 3352350.66; 461395.97, 3352377.67; 461429.40, 3352408.20; 461463.94, 3352442.32; 461495.04, 3352487.07; 461538.56, 3352560.65; 461564.62, 3352567.61; 461587.53, 3352556.67; 461598.67, 3352522.85; 461602.69, 3352488.06; 461618.62, 3352488.80; 461666.99, 3352501.39; 461677.48, 3352507.71; 461693.44, 3352504.92; 461700.76, 3352509.80; 461698.46, 3352517.14; 461681.16, 3352529.19; 461659.67, 3352543.22; 461646.82, 3352549.73; 461639.28, 3352554.83; 461628.23, 3352556.97; 461607.31, 3352562.52; 461601.84, 3352569.79; 461593.14, 3352579.09; 461577.18, 3352581.88; 461567.75, 3352577.43; 461566.49, 3352585.85; 461567.34, 3352594.33; 461573.42, 3352606.10; 461583.90, 3352610.58; 461594.64, 3352604.50; 461610.81, 3352593.26; 461632.44, 3352574.75; 461647.50, 3352565.60; 461665.74, 3352555.00; 461750.00, 3352531.65; 461815.91, 3352522.66; 461852.67, 3352519.78; 461875.97, 3352520.34; 461903.37, 3352526.28; 461933.92, 3352533.35; 461950.64, 3352543.27; 461969.21, 3352563.80; 461990.63, 3352574.34; 462032.13, 3352616.16; 462038.52, 3352633.11; 462051.05, 3352640.81; 462080.11, 3352652.98; 462130.66, 3352665.69; 462173.37, 3352673.85; 462253.74, 3352671.04; 462268.49, 3352674.56; 462304.81, 3352676.61; 462331.23, 3352687.89; 462351.40, 3352707.21; 462371.66, 3352705.16; 462429.54, 3352743.42; 462496.70, 3352759.30; 462548.97, 3352782.75; 462583.14, 3352799.42; 462614.41, 3352804.14; 462649.32, 3352822.81; 462684.81, 3352852.62; 462694.32, 3352862.31; 462705.52, 3352872.14; 462748.01, 3352867.87; 462794.95, 3352854.20; 462845.98, 3352846.97; 462869.17, 3352851.76; 462890.20, 3352858.60; 462901.72, 3352864.16; 462925.87, 3352869.45; 462947.98, 3352879.02; 462973.42, 3352878.57; 463031.07, 3352891.03; 463095.07, 3352922.69; 463217.57, 3352966.46; 463242.04, 3352986.49; 463261.52, 3353013.38; 463286.70, 3353023.50; 463311.13, 3353020.91; 463330.19, 3353021.37; 463358.81, 3353021.00; 463386.51, 3353014.27; 463404.46, 3353016.81; 463430.71, 3353026.95; 463457.66, 3353027.32; 463483.85, 3353019.77; 463510.32, 3353018.67; 463547.36, 3353022.36; 463594.78, 3353033.01; 463638.89, 3353048.86; 463673.30, 3353064.21; 463710.70, 3353078.58; 463743.11, 3353085.70; 463792.29, 3353102.23; 463820.79, 3353109.76; 463853.28, 3353113.71; 463911.48, 3353124.11; 463951.50, 3353126.38; 463988.78, 3353144.01; 464040.73, 3353168.44; 464097.09, 3353203.62; 464114.81, 3353215.67; 464144.60, 3353241.21; 464170.01, 3353241.82; 464189.81, 3353224.87; 464210.38, 3353215.44; 464222.11, 3353190.35; 464232.25, 3353178.32; 464239.58, 3353190.77; 464248.10, 3353184.96; 464247.80, 3353192.44; 464260.56, 3353190.63; 464272.28, 3353193.83; 464278.18, 3353206.91; 464289.53, 3353211.79; 464299.84, 3353212.83; 464308.88, 3353207.64; 464333.68, 3353226.32; 464347.53, 3353230.77; 464339.66, 3353249.61; 464323.77, 3353249.22; 464324.60, 3353258.76; 464334.08, 3353261.10; 464348.96, 3353259.34; 464353.52, 3353242.87; 464357.06, 3353231.00; 464366.51, 3353234.40; 464370.36, 3353250.34; 464375.68, 3353249.41; 464377.07, 3353235.71; 464390.68, 3353234.83; 464401.20, 3353245.80; 464418.06, 3353249.37; 464418.37, 3353236.70; 464427.80, 3353241.15; 464433.62, 3353250.13; 464449.50, 3353250.51; 464463.82, 3353240.96; 464476.00, 3353239.25; 464484.85, 3353247.81; 464473.12, 3353250.70; 464462.46, 3353253.61; 464469.51, 3353268.58; 469439.91, 3354872.05; 469431.24, 3354880.30; 469419.59, 3354880.02; 469413.17, 3354869.04; 469407.35, 3354860.70; 469412.90, 3354850.26; 469425.73, 3354845.28; 469436.72, 3354850.83; 469445.09, 3354863.47; 469439.91, 3354872.05; 469523.43, 3354844.93; 469510.70, 3354845.68; 469498.89, 3354842.81; 469495.01, 3354827.92; 469508.89, 3354810.76; 469526.05, 3354814.93; 469534.24, 3354826.75; 469531.87, 3354837.27; 469523.43, 3354844.93

466190.53, 3354051.39; 465789.50, 3353888.05; 465774.93, 3353906.49; 465797.81, 3353933.65; 465835.46, 3353937.23; 465867.28, 3353944.38; 465901.69, 3353950.31; 465937.29, 3353960.10; 465969.02, 3353971.08; 466018.28, 3353997.80; 466056.00, 3354025.52; 466094.75, 3354063.47; 466127.55, 3354083.41; 466164.05, 3354108.55; 466186.52, 3354132.07; 466348.00, 3354151.94; 466376.57, 3354104.72; 466418.82, 3354050.83; 466470.73, 3354007.74; 466545.90, 3353928.76; 466605.94, 3353880.41; 466606.12, 3353859.14; 466597.09, 3353843.27; 466568.86, 3353842.59; 466560.42, 3353867.44; 466541.00, 3353892.02; 466504.78, 3353897.41; 466485.35, 3353921.99; 466479.78, 3353957.86; 466444.79, 3353977.37; 466412.75, 3353984.29; 466373.20, 3353979.51; 466323.72, 3353961.73; 466278.86, 3353964.48; 466259.34, 3353978.06; 466199.44, 3353967.68; 466178.83, 3353973.57; 466147.44, 3353948.56; 466125.00, 3353923.76; 466116.54, 3353903.13; 466078.02, 3353908.59; 466024.61, 3353894.54; 465973.36, 3353897.13; 465967.66, 3353909.76; 465939.48, 3353915.14; 465907.95, 3353903.22; 465904.48, 3353887.82; 465878.81, 3353891.03; 465841.94, 3353881.21; 465816.50, 3353874.61; 465789.50, 3353888.05

465163.51, 3353601.02; 465084.34, 3353682.31; 465112.50, 3353722.06; 465126.95, 3353747.45; 465147.68, 3353804.05; 465160.91, 3353838.44; 465181.85, 3353886.03; 465199.16, 3353900.09; 465228.18, 3353922.21; 465307.99, 3353944.16; 465348.23, 3353941.12; 465378.48, 3353935.84; 465419.06, 3353918.78; 465387.24, 3353905.99; 465346.47, 3353888.98; 465311.40, 3353886.13; 465305.83, 3353866.96; 465294.78, 3353825.62; 465269.69, 3353741.86; 465283.78, 3353699.12; 465281.10, 3353685.03; 465269.01, 3353686.74; 465247.37, 3353668.19; 465241.83, 3353648.02; 465229.74, 3353649.73; 465210.17, 3353628.22; 465217.51, 3353615.37; 465188.51, 3353568.59; 465146.26, 3353571.58; 465158.47, 3353606.94; 465165.65, 3353642.18; 465177.04, 3353669.50; 465168.94, 3353672.31; 465145.38, 3353649.71; 465118.92, 3353664.10; 465085.74, 3353624.23; 465102.02, 3353615.60; 465111.37, 3353602.80; 465106.57, 3353593.67; 465081.96, 3353573.04; 465056.13, 3353561.40; 464968.37, 3353536.25; 464942.78, 3353514.60; 464907.95, 3353542.82; 464910.63, 3353556.91; 464923.31, 3353572.24; 464940.99, 3353588.69; 464978.60, 3353611.64; 465020.27, 3353632.68; 465063.72, 3353662.78; 465084.34, 3353682.31

(iii) Note: Map 3, Units 4 and 5 of Perdido Key beach mouse, follows:

BILLING CODE 4310-55-P

St. Andrew Beach Mouse (Peromyscus polionotus peninsularis)

(1) Critical habitat units are depicted for Bay and Gulf Counties, Florida, on the maps below.

(2) The primary constituent elements of critical habitat for the St. Andrew beach mouse are the habitat components that provide:

(i) A contiguous mosaic of primary, secondary, and scrub vegetation and dune structure, with a balanced level of competition and predation and few or no competitive or predaceous nonnative species present, that collectively provide foraging opportunities, cover, and burrow sites;

(ii) Primary and secondary dunes, generally dominated by sea oats (Uniola paniculata), that despite occasional temporary impacts and reconfiguration from tropical storms and hurricanes, provide abundant food resources, burrow sites, and protection from predators;

(iii) Scrub dunes, generally dominated by scrub oaks (Quercus spp.), that provide food resources and burrow sites, and provide elevated refugia during and after intense flooding due to rainfall and/or hurricane-induced storm surge;

(iv) Functional, unobstructed habitat connections that facilitate genetic exchange, dispersal, natural exploratory movements, and re-colonization of locally extirpated areas; and

(v) A natural light regime within the coastal dune ecosystem, compatible with the nocturnal activity of beach mice, necessary for normal behavior, growth, and viability of all life stages.

(3) Critical habitat does not include man-made structures existing on the effective date of this rule and not containing one or more of the primary constituent elements, such as buildings, aqueducts, airports, driveways, and roads, and the land on which such structures are located.

(4) Critical Habitat Map Units. Data layers defining map units were created by delineating habitats that contained one or more of the primary constituent elements defined in paragraph (2) of this entry over 1999 and 2004 digital ortho photography at a scale of at least 1:4000.

(5) Note: Map 1, Index Map of Critical Habitat Units for the St. Andrew beach mouse, follows:

BILLING CODE 4310-55-C

(6) SABM—Unit 1: East Crooked Island, Gulf County, Florida.

(i) General Description: This unit encompasses essential features of beach mouse habitat on East Crooked Island from the entrance of St. Andrew Sound to 1 mi west of Mexico Beach, not including Raffield Peninsula, and the area from the mean high water level (MHWL) to the seaward extent of the maritime forest.

(ii) Coordinates: From USGS 1:24,000 quadrangle maps Crooked Island, and Beacon Hill, Florida, land bounded by the following UTM 16 NAD 83 coordinates (E, N): 646283.88, 3315352.10; 649812.15, 3315231.74; 649817.14, 3315100.29; 649799.94, 3315101.91; 649795.72, 3315085.93; 649795.09, 3315069.00; 649818.11, 3315059.16; 649818.69, 3315059.73; 649828.47, 3314804.48; 649797.82, 3314814.32; 649715.63, 3314857.70; 649616.24, 3314889.55; 649501.16, 3314934.21; 649380.67, 3314961.82; 649351.82, 3314983.87; 649268.63, 3315003.96; 649183.89, 3315022.44; 649126.20, 3315040.01; 649045.29, 3315053.82; 648963.34, 3315066.55; 648874.83, 3315087.57; 648799.32, 3315097.30; 648730.28, 3315089.69; 648462.28, 3315081.88; 648355.01, 3315090.27; 648289.95, 3315084.93; 648245.03, 3315079.56; 648200.14, 3315073.15; 648126.71, 3315063.89; 648082.76, 3315062.26; 647967.79, 3315039.27; 647801.76, 3315044.60; 647745.32, 3315054.80; 647669.58, 3315052.89; 647513.74, 3315032.76; 647362.84, 3315011.12; 647243.51, 3315014.06; 647128.32, 3315026.21; 646939.95, 3315057.79; 646876.81, 3315060.42; 646845.97, 3315064.40; 646816.94, 3315083.06; 646776.46, 3315080.45; 646684.41, 3315081.47; 646581.79, 3315115.35; 646483.16, 3315158.84; 646429.37, 3315169.11; 646363.62, 3315191.23; 646315.93, 3315211.70; 646277.30, 3315232.76; 646253.93, 3315245.25; 646219.14, 3315268.95; 646183.20, 3315304.54; 646114.55, 3315349.55; 646060.99, 3315376.74; 646008.66, 3315386.91; 645946.17, 3315413.78; 645896.75, 3315423.22; 645801.20, 3315449.88; 645735.35, 3315476.23; 645642.06, 3315518.27; 645547.16, 3315561.33; 645485.51, 3315588.84; 645347.88, 3315690.13; 645187.51, 3315791.53; 645093.12, 3315829.98; 644913.66, 3315963.00; 644913.71, 3315963.10; 644772.12, 3316030.07; 644702.96, 3316077.08; 644620.09, 3316131.68; 644489.20, 3316214.39; 644336.15, 3316293.38; 644190.89, 3316378.90; 644103.97, 3316436.56; 644057.49, 3316482.56; 643971.88, 3316551.36; 643869.13, 3316606.24; 643796.81, 3316652.38; 643720.18, 3316727.35; 643631.08, 3316792.49; 643522.30, 3316881.71; 643445.70, 3316940.03; 643379.11, 3317010.89; 643353.66, 3317071.65; 643305.51, 3317110.60; 643262.16, 3317148.09; 643214.95, 3317191.83; 643183.99, 3317222.39; 643130.69, 3317255.53; 643096.30, 3317295.10; 643076.85, 3317323.85; 643050.75, 3317349.61; 643027.76, 3317378.63; 642991.89, 3317413.67; 642900.08, 3317523.40; 642837.60, 3317606.48; 642760.34, 3317690.94; 642739.29, 3317721.73; 642749.68, 3317735.07; 642762.17, 3317744.50; 642776.80, 3317747.25; 642788.70, 3317748.34; 642809.86, 3317744.91; 642842.38, 3317747.71; 642861.45, 3317748.19; 642883.01, 3317744.38; 642926.47, 3317737.58; 642960.47, 3317734.21; 643028.95, 3317726.25; 643072.92, 3317732.51; 643102.42, 3317737.79; 643129.81, 3317744.82; 643162.40, 3317755.16; 643229.93, 3317767.43; 643268.78, 3317782.15; 643325.83, 3317789.93; 643348.81, 3317794.17; 643361.18, 3317792.50; 643377.79, 3317780.24; 643407.93, 3317782.98; 643530.15, 3317807.07; 643585.40, 3317816.03; 643613.02, 3317815.10; 643648.58, 3317823.53; 643684.79, 3317825.93; 643706.83, 3317834.42; 643711.85, 3317821.16; 643710.90, 3317811.23; 643725.27, 3317796.83; 643723.83, 3317787.37; 643750.52, 3317753.56; 643759.85, 3317746.27; 643776.56, 3317738.93; 643788.36, 3317733.41; 643797.66, 3317742.63; 643809.64, 3317742.37; 643819.24, 3317723.98; 643817.96, 3317711.66; 643831.56, 3317692.58; 643858.13, 3317695.23; 643878.90, 3317691.39; 643889.16, 3317678.57; 643900.72, 3317661.42; 643897.06, 3317649.04; 643898.82, 3317642.35; 643907.46, 3317646.53; 643911.62, 3317654.96; 643914.91, 3317634.83; 643920.94, 3317616.35; 643923.20, 3317605.70; 643940.28, 3317590.28; 643944.09, 3317597.11; 643940.12, 3317612.47; 643947.29, 3317611.86; 643952.57, 3317607.63; 643956.34, 3317583.94; 643969.99, 3317578.74; 643973.48, 3317566.54; 643969.59, 3317563.27; 643969.94, 3317553.01; 643985.48, 3317546.00; 643987.30, 3317537.06; 643981.61, 3317527.90; 643981.03, 3317519.56; 643997.34, 3317487.47; 644008.98, 3317483.00; 644012.45, 3317518.77; 644004.66, 3317559.40; 644009.32, 3317563.88; 644005.87, 3317590.35; 643997.86, 3317608.38; 643999.09, 3317622.68; 643997.22, 3317633.73; 643996.51, 3317646.00; 644012.55, 3317640.46; 644014.94, 3317624.66; 644013.06, 3317604.80; 644024.07, 3317593.58; 644033.07, 3317583.50; 644024.75, 3317582.50; 644018.59, 3317574.81; 644023.49, 3317569.39; 644018.34, 3317521.69; 644027.23, 3317467.25; 644027.91, 3317457.72; 644017.26, 3317454.28; 644021.52, 3317442.89; 644028.44, 3317436.72; 644037.47, 3317425.45; 644042.82, 3317416.38; 644045.86, 3317401.13; 644052.27, 3317399.17; 644054.72, 3317407.16; 644061.71, 3317403.11; 644060.35, 3317385.20; 644067.82, 3317372.71; 644057.99, 3317352.64; 644041.10, 3317344.68; 644018.55, 3317340.55; 644011.45, 3317353.84; 644009.16, 3317365.68; 644021.66, 3317374.71; 644027.68, 3317387.95; 644023.81, 3317399.74; 644029.49, 3317419.60; 644015.17, 3317442.73; 644008.14, 3317437.79; 644007.30, 3317455.21; 643998.04, 3317459.74; 643992.10, 3317443.34; 643986.05, 3317462.21; 643987.31, 3317475.32; 643994.22, 3317485.01; 643977.51, 3317517.09; 643966.98, 3317524.75; 643966.25, 3317538.21; 643959.27, 3317546.76; 643964.82, 3317550.40; 643966.40, 3317563.59; 643961.58, 3317565.45; 643959.31, 3317576.88; 643942.55, 3317579.24; 643916.95, 3317601.19; 643907.08, 3317614.41; 643900.13, 3317637.62; 643892.97, 3317637.84; 643877.36, 3317642.20; 643886.15, 3317655.90; 643873.70, 3317661.14; 643870.07, 3317678.88; 643845.52, 3317690.95; 643824.65, 3317682.89; 643803.10, 3317702.17; 643795.19, 3317716.24; 643773.62, 3317721.84; 643782.32, 3317706.40; 643795.54, 3317702.37; 643798.54, 3317693.73; 643808.93, 3317691.61; 643820.32, 3317665.74; 643808.55, 3317659.50; 643806.36, 3317667.37; 643769.38, 3317636.71; 643763.01, 3317621.09; 643753.10, 3317620.04; 643754.27, 3317614.17; 643764.43, 3317610.72; 643770.22, 3317603.43; 643776.04, 3317609.13; 643783.43, 3317615.26; 643799.35, 3317614.47; 643806.15, 3317628.52; 643817.01, 3317627.38; 643821.02, 3317615.32; 643826.80, 3317613.58; 643837.16, 3317612.65; 643848.39, 3317608.97; 643847.95, 3317594.69; 643854.41, 3317590.89; 643862.27, 3317578.80; 643868.43, 3317555.17; 643877.84, 3317548.05; 643896.69, 3317553.50; 643895.76, 3317543.17; 643903.58, 3317532.67; 643913.80, 3317521.43; 643924.15, 3317519.09; 643926.01, 3317510.24; 643933.44, 3317499.33; 643933.37, 3317486.25; 643940.27, 3317480.87; 643939.76, 3317469.37; 643925.30, 3317459.89; 643927.15, 3317480.94; 643919.64, 3317479.17; 643918.98, 3317489.46; 643906.21, 3317491.51; 643901.36, 3317510.42; 643896.25, 3317523.76; 643884.34, 3317538.92; 643871.54, 3317542.17; 643863.46, 3317550.85; 643848.77, 3317562.21; 643853.74, 3317570.26; 643846.82, 3317576.43; 643836.37, 3317580.92; 643831.19, 3317597.44; 643832.24, 3317603.01; 643826.96, 3317607.24; 643817.41, 3317607.79; 643812.78, 3317602.13; 643798.66, 3317610.49; 643782.76, 3317610.49; 643780.16, 3317603.29; 643775.32, 3317590.48; 643750.14, 3317609.83; 643724.96, 3317620.30; 643723.22, 3317626.60; 643743.89, 3317626.59; 643760.10, 3317626.17; 643762.25, 3317635.73; 643750.77, 3317649.32; 643739.26, 3317633.17; 643731.10, 3317641.29; 643732.80, 3317652.83; 643735.77, 3317660.83; 643728.20, 3317677.29; 643718.53, 3317682.59; 643715.41, 3317695.99; 643725.13, 3317697.47; 643734.45, 3317685.54; 643801.89, 3317671.22; 643802.79, 3317683.13; 643781.77, 3317696.87; 643772.31, 3317709.32; 643762.34, 3317710.65; 643754.04, 3317724.32; 643738.19, 3317738.19; 643734.45, 3317744.83; 643724.05, 3317747.34; 643717.15, 3317768.58; 643703.56, 3317771.40; 643699.83, 3317761.80; 643682.15, 3317769.28; 643681.67, 3317788.29; 643674.06, 3317790.48; 643649.10, 3317802.93; 643649.88, 3317787.89; 643642.49, 3317781.36; 643621.94, 3317792.34; 643603.11, 3317798.20; 643590.76, 3317799.48; 643580.82, 3317799.62; 643572.22, 3317793.86; 643550.42, 3317791.33; 643517.14, 3317786.92; 643499.27, 3317786.07; 643487.48, 3317781.02; 643419.83, 3317768.21; 643401.85, 3317771.73; 643386.50, 3317765.79; 643360.17, 3317769.49; 643331.25, 3317765.59; 643313.02, 3317763.54; 643281.18, 3317765.12; 643214.08, 3317746.38; 643189.45, 3317745.76; 643178.07, 3317739.92; 643147.53, 3317737.17; 643145.52, 3317722.45; 643154.73, 3317719.51; 643154.24, 3317707.61; 643139.90, 3317708.83; 643130.90, 3317703.06; 643120.45, 3317707.55; 643111.63, 3317695.04; 643097.11, 3317687.54; 643082.18, 3317696.28; 643067.80, 3317699.09; 643060.92, 3317688.21; 643046.00, 3317696.56; 643028.31, 3317704.44; 643016.29, 3317692.64; 643007.82, 3317681.72; 643005.39, 3317667.79; 642989.64, 3317677.70; 643002.26, 3317681.58; 642999.18, 3317693.40; 643003.77, 3317700.25; 643000.58, 3317716.42; 642995.14, 3317711.53; 642991.21, 3317693.99; 642983.26, 3317709.64; 642971.37, 3317708.55; 642964.79, 3317717.10; 642957.79, 3317710.98; 642954.93, 3317698.23; 642964.56, 3317679.05; 642980.11, 3317661.20; 642987.92, 3317651.09; 642992.42, 3317646.06; 643010.03, 3317641.35; 643022.51, 3317635.32; 643041.33, 3317629.85; 643051.38, 3317641.20; 643065.21, 3317644.32; 643074.72, 3317661.21; 643079.74, 3317635.57; 643076.31, 3317614.08; 643066.36, 3317630.08; 643059.12, 3317618.01; 643055.57, 3317600.87; 643041.55, 3317605.28; 643031.95, 3317623.27; 643022.75, 3317609.96; 643016.42, 3317608.61; 643005.82, 3317587.73; 643000.63, 3317604.25; 642989.52, 3317603.57; 642989.74, 3317610.71; 642992.00, 3317615.52; 643007.89, 3317615.92; 643014.24, 3317616.48; 643013.27, 3317623.19; 643007.34, 3317637.71; 642991.72, 3317642.47; 642991.89, 3317635.74; 642980.21, 3317641.78; 642963.13, 3317672.67; 642943.98, 3317691.21; 642936.58, 3317716.39; 642922.40, 3317695.82; 642918.58, 3317714.13; 642909.92, 3317721.31; 642895.39, 3317710.60; 642880.02, 3317705.45; 642877.23, 3317689.93; 642868.76, 3317679.01; 642861.75, 3317673.28; 642858.76, 3317665.68; 642861.01, 3317655.43; 642865.10, 3317650.77; 642873.08, 3317649.79; 642873.68, 3317641.87; 642880.57, 3317636.50; 642878.48, 3317624.95; 642884.78, 3317627.09; 642893.55, 3317626.12; 642888.46, 3317591.51; 642911.70, 3317600.02; 642920.62, 3317591.56; 642914.58, 3317578.73; 642916.84, 3317569.63; 642931.51, 3317571.19; 642945.05, 3317570.34; 642955.49, 3317550.39; 642957.76, 3317538.95; 642964.36, 3317529.60; 642959.07, 3317518.77; 642962.93, 3317511.24; 642972.91, 3317506.04; 642984.65, 3317497.61; 642987.48, 3317479.85; 643016.64, 3317483.00; 643050.08, 3317472.31; 643079.54, 3317468.73; 643097.62, 3317466.54; 643101.58, 3317456.60; 643086.38, 3317449.87; 643065.25, 3317447.23; 643049.01, 3317451.67; 643047.68, 3317441.33; 643067.98, 3317431.71; 643080.58, 3317427.53; 643092.18, 3317429.94; 643107.20, 3317422.91; 643114.06, 3317403.00; 643128.08, 3317393.84; 643137.42, 3317401.48; 643141.39, 3317412.15; 643153.34, 3317397.22; 643171.11, 3317410.78; 643175.59, 3317401.38; 643176.21, 3317388.68; 643192.78, 3317392.30; 643206.68, 3317387.37; 643210.07, 3317379.00; 643222.73, 3317381.43; 643238.25, 3317364.88; 643252.74, 3317368.45; 643286.69, 3317358.56; 643299.11, 3317354.52; 643306.85, 3317343.98; 643307.10, 3317334.29; 643310.42, 3317331.14; 643339.74, 3317325.41; 643356.19, 3317316.13; 643369.39, 3317306.76; 643385.75, 3317300.71; 643408.51, 3317298.05; 643424.79, 3317295.23; 643441.32, 3317282.71; 643457.76, 3317273.43; 643470.72, 3317273.76; 643480.36, 3317277.23; 643496.23, 3317290.56; 643499.06, 3317306.80; 643503.40, 3317308.53; 643511.94, 3317310.36; 643534.46, 3317317.39; 643550.66, 3317317.80; 643560.46, 3317314.81; 643576.57, 3317318.45; 643576.41, 3317324.91; 643576.00, 3317341.07; 643559.56, 3317350.35; 643546.27, 3317362.95; 643526.59, 3317372.15; 643511.35, 3317369.68; 643495.17, 3317380.90; 643476.36, 3317391.00; 643460.73, 3317412.51; 643447.53, 3317421.88; 643434.16, 3317437.71; 643433.67, 3317457.09; 643446.09, 3317468.42; 643450.66, 3317476.46; 643433.18, 3317476.02; 643427.38, 3317500.84; 643444.57, 3317496.92; 643450.89, 3317498.66; 643461.41, 3317491.40; 643475.54, 3317482.64; 643491.56, 3317477.89; 643505.95, 3317474.68; 643526.50, 3317463.70; 643536.21, 3317457.21; 643545.95, 3317449.13; 643558.85, 3317441.93; 643580.03, 3317438.15; 643596.14, 3317429.39; 643607.05, 3317422.53; 643609.93, 3317409.81; 643642.18, 3317400.82; 643657.45, 3317394.07; 643663.63, 3317385.51; 643666.95, 3317380.04; 643672.54, 3317369.36; 643672.79, 3317359.67; 643676.60, 3317337.14; 643688.92, 3317327.10; 643703.01, 3317318.40; 643728.93, 3317319.06; 643755.17, 3317306.79; 643791.06, 3317298.00; 643807.66, 3317282.25; 643806.12, 3317268.20; 643819.51, 3317257.44; 643840.96, 3317247.53; 643869.25, 3317239.67; 643881.44, 3317229.27; 643890.21, 3317222.91; 643897.10, 3317206.92; 643916.70, 3317200.95; 643933.06, 3317194.89; 643946.35, 3317182.30; 643956.31, 3317172.85; 643969.35, 3317169.95; 643967.56, 3317156.13; 643970.01, 3317137.56; 643988.87, 3317130.51; 643983.44, 3317109.76; 644002.73, 3317116.98; 644022.69, 3317129.38; 644037.84, 3317127.78; 644027.17, 3317140.98; 644031.69, 3317150.61; 644044.85, 3317133.50; 644059.09, 3317151.70; 644066.17, 3317139.19; 644067.77, 3317123.94; 644087.54, 3317111.50; 644104.15, 3317095.76; 644114.11, 3317086.31; 644121.08, 3317067.09; 644140.85, 3317054.66; 644146.16, 3317056.78; 644140.79, 3317064.97; 644158.18, 3317068.97; 644160.24, 3317081.71; 644167.58, 3317074.36; 644172.98, 3317065.38; 644171.94, 3317059.02; 644158.67, 3317033.71; 644149.27, 3317012.46; 644138.91, 3317002.88; 644124.55, 3316999.55; 644110.70, 3317013.08; 644102.70, 3317024.60; 644089.91, 3317017.81; 644077.87, 3317022.16; 644069.44, 3317009.66; 644057.67, 3317019.27; 644051.44, 3317000.68; 644044.96, 3317000.52; 644036.45, 3317009.62; 644025.95, 3317000.63; 644023.41, 3316991.06; 644013.89, 3317005.88; 643986.40, 3317008.74; 643986.07, 3317021.66; 643966.39, 3317030.86; 643937.06, 3317036.59; 643915.67, 3317038.68; 643888.32, 3317051.47; 643855.42, 3317060.39; 643838.81, 3317076.14; 643828.93, 3317082.35; 643808.10, 3317079.97; 643797.42, 3317093.57; 643787.34, 3317099.26; 643772.13, 3317103.24; 643756.67, 3317119.33; 643736.99, 3317128.53; 643714.06, 3317137.65; 643694.43, 3317142.11; 643690.89, 3317156.46; 643671.37, 3317159.20; 643658.12, 3317163.39; 643641.97, 3317168.16; 643633.83, 3317178.80; 643627.64, 3317172.31; 643602.68, 3317183.33; 643586.11, 3317200.86; 643576.88, 3317188.47; 643548.02, 3317197.78; 643523.44, 3317207.56; 643514.06, 3317200.98; 643504.84, 3317206.73; 643501.58, 3317223.26; 643487.98, 3317232.16; 643468.30, 3317241.37; 643455.42, 3317237.81; 643432.66, 3317240.47; 643423.74, 3317235.97; 643420.78, 3317227.17; 643413.85, 3317234.13; 643412.68, 3317249.16; 643406.25, 3317259.20; 643379.20, 3317252.68; 643367.70, 3317245.30; 643344.70, 3317257.65; 643322.94, 3317260.78; 643319.01, 3317274.95; 643301.68, 3317292.12; 643287.19, 3317307.04; 643276.06, 3317307.16; 643272.52, 3317291.39; 643265.42, 3317256.16; 643287.37, 3317252.74; 643297.08, 3317261.71; 643299.05, 3317246.70; 643312.62, 3317243.91; 643326.98, 3317226.79; 643342.50, 3317226.39; 643347.80, 3317205.12; 643368.76, 3317203.30; 643373.61, 3317197.05; 643388.30, 3317181.96; 643411.86, 3317165.59; 643433.04, 3317154.72; 643447.21, 3317139.22; 643464.30, 3317131.95; 643484.88, 3317119.78; 643508.58, 3317110.08; 643540.01, 3317097.70; 643559.61, 3317091.73; 643575.97, 3317085.68; 643599.68, 3317075.51; 643582.32, 3317054.85; 643597.73, 3317042.56; 643611.98, 3317029.44; 643637.09, 3317026.51; 643645.61, 3317019.98; 643653.28, 3317030.88; 643643.50, 3317040.54; 643648.15, 3317051.93; 643660.74, 3317050.09; 643673.20, 3317044.86; 643672.34, 3317031.76; 643661.73, 3317026.73; 643661.93, 3317018.81; 643670.64, 3317004.76; 643685.39, 3317002.75; 643702.02, 3317021.40; 643725.67, 3317013.28; 643746.67, 3317016.19; 643755.35, 3317002.93; 643777.05, 3317009.42; 643794.75, 3317001.15; 643803.47, 3316986.31; 643818.01, 3317001.26; 643816.68, 3316982.68; 643835.40, 3316981.17; 643851.30, 3316966.54; 643896.83, 3316961.22; 643923.15, 3316945.72; 643944.57, 3316939.52; 643965.84, 3316924.17; 644006.07, 3316912.93; 644031.21, 3316903.19; 644067.26, 3316887.93; 644080.54, 3316875.34; 644119.75, 3316863.39; 644119.91, 3316856.93; 644121.98, 3316840.54; 644139.14, 3316837.80; 644152.47, 3316851.29; 644158.71, 3316861.14; 644167.46, 3316865.47; 644171.91, 3316851.78; 644168.90, 3316839.74; 644150.86, 3316830.17; 644158.27, 3316820.05; 644178.55, 3316819.77; 644197.10, 3316824.99; 644209.73, 3316828.48; 644222.83, 3316829.21; 644237.44, 3316824.33; 644250.65, 3316814.97; 644270.09, 3316815.46; 644279.72, 3316818.93; 644279.64, 3316822.16; 644276.16, 3316831.78; 644269.35, 3316844.53; 644264.74, 3316854.05; 644268.84, 3316864.85; 644265.22, 3316882.20; 644271.76, 3316890.69; 644282.15, 3316904.43; 644279.44, 3316917.05; 644260.40, 3316915.77; 644249.98, 3316903.22; 644242.22, 3316895.89; 644229.24, 3316905.87; 644215.88, 3316907.84; 644210.35, 3316898.66; 644200.98, 3316907.54; 644197.41, 3316922.91; 644199.74, 3316940.80; 644192.14, 3316949.27; 644185.70,

3316946.00; 644170.32, 3316956.71; 644161.62, 3316970.76; 644178.04, 3316994.17; 644184.11, 3317010.49; 644204.88, 3317020.61; 644199.34, 3317035.13; 644200.19, 3317048.63; 644220.55, 3317061.04; 644227.38, 3317058.04; 644226.76, 3317051.28; 644232.59, 3317040.73; 644216.68, 3317041.12; 644225.40, 3317026.28; 644232.95, 3317002.02; 644256.04, 3316986.44; 644275.48, 3316986.93; 644275.86, 3317011.69; 644291.52, 3317005.35; 644306.33, 3317001.36; 644306.68, 3316987.50; 644308.60, 3316974.47; 644313.41, 3316957.15; 644334.59, 3316921.21; 644359.51, 3316894.89; 644374.57, 3316880.60; 644391.81, 3316873.48; 644415.93, 3316864.20; 644440.79, 3316852.97; 644456.32, 3316846.49; 644474.31, 3316834.76; 644488.95, 3316822.04; 644516.58, 3316814.02; 644535.17, 3316809.37; 644561.50, 3316798.11; 644597.34, 3316782.40; 644609.81, 3316771.09; 644626.84, 3316768.35; 644642.19, 3316766.85; 644659.38, 3316760.18; 644665.45, 3316750.82; 644673.55, 3316744.68; 644690.02, 3316742.98; 644703.55, 3316732.23; 644748.87, 3316727.31; 644748.80, 3316700.96; 644730.94, 3316715.57; 644724.66, 3316696.39; 644737.14, 3316678.53; 644725.95, 3316661.14; 644726.01, 3316643.31; 644726.88, 3316624.30; 644713.27, 3316612.46; 644708.70, 3316604.42; 644721.56, 3316599.19; 644731.19, 3316611.33; 644745.51, 3316595.04; 644756.88, 3316585.42; 644774.44, 3316582.69; 644790.43, 3316586.96; 644796.40, 3316581.30; 644790.56, 3316573.98; 644781.56, 3316568.60; 644791.28, 3316561.31; 644797.34, 3316557.50; 644806.68, 3316565.27; 644801.15, 3316548.48; 644791.78, 3316541.51; 644778.02, 3316551.47; 644769.35, 3316548.47; 644761.40, 3316564.13; 644748.16, 3316568.95; 644739.51, 3316584.84; 644731.24, 3316593.49; 644723.15, 3316590.89; 644710.91, 3316579.90; 644707.66, 3316551.28; 644715.06, 3316526.03; 644727.30, 3316513.32; 644748.19, 3316497.77; 644764.29, 3316496.82; 644771.32, 3316470.43; 644787.79, 3316479.17; 644800.45, 3316484.15; 644813.38, 3316476.02; 644812.60, 3316464.90; 644803.18, 3316452.21; 644824.02, 3316447.96; 644829.02, 3316436.61; 644830.93, 3316423.98; 644834.32, 3316399.88; 644845.01, 3316387.06; 644854.22, 3316367.48; 644858.95, 3316348.62; 644885.28, 3316333.12; 644899.12, 3316336.90; 644911.52, 3316320.85; 644908.77, 3316301.39; 644900.47, 3316283.43; 644905.76, 3316262.95; 644922.99, 3316257.44; 644926.52, 3316240.41; 644926.77, 3316230.72; 644923.94, 3316214.49; 644922.74, 3316204.31; 644909.46, 3316210.72; 644908.48, 3316202.37; 644872.95, 3316239.92; 644867.62, 3316230.67; 644856.92, 3316229.21; 644861.89, 3316221.41; 644873.13, 3316223.27; 644885.31, 3316206.94; 644875.84, 3316188.47; 644873.99, 3316182.87; 644859.65, 3316184.09; 644853.31, 3316186.84; 644840.35, 3316186.52; 644827.48, 3316182.96; 644820.75, 3316192.49; 644804.19, 3316208.06; 644785.45, 3316210.37; 644768.81, 3316207.96; 644760.08, 3316191.89; 644762.18, 3316171.73; 644779.61, 3316152.66; 644792.90, 3316140.06; 644812.66, 3316127.63; 644825.87, 3316118.26; 644840.02, 3316110.59; 644841.83, 3316101.66; 644886.36, 3316071.00; 644894.22, 3316058.91; 644909.12, 3316066.82; 644919.98, 3316061.94; 644926.70, 3316047.84; 644954.05, 3316047.65; 644973.03, 3316036.24; 644985.71, 3316020.97; 644993.32, 3316021.44; 644998.77, 3316015.76; 644997.35, 3316008.86; 645001.73, 3316001.69; 645017.57, 3315988.21; 645040.38, 3315968.50; 645066.55, 3315959.46; 645079.75, 3315950.09; 645084.40, 3315939.16; 645100.12, 3315930.44; 645122.68, 3315918.85; 645136.65, 3315907.73; 645154.45, 3315888.60; 645173.07, 3315875.20; 645198.23, 3315870.68; 645213.49, 3315864.33; 645244.87, 3315841.22; 645280.95, 3315837.49; 645303.31, 3315833.69; 645314.88, 3315832.00; 645325.79, 3315825.14; 645330.25, 3315805.83; 645339.87, 3315791.78; 645371.08, 3315794.57; 645388.38, 3315786.29; 645389.04, 3315770.39; 645405.64, 3315754.65; 645412.12, 3315754.81; 645434.97, 3315748.92; 645444.77, 3315745.94; 645457.89, 3315739.80; 645467.85, 3315730.35; 645494.02, 3315721.32; 645496.91, 3315707.37; 645507.55, 3315695.35; 645523.99, 3315689.74; 645536.95, 3315690.07; 645549.83, 3315693.63; 645562.38, 3315710.11; 645572.10, 3315710.35; 645585.23, 3315704.22; 645579.07, 3315691.13; 645563.28, 3315674.57; 645576.40, 3315668.44; 645589.69, 3315655.84; 645596.01, 3315662.46; 645595.68, 3315675.39; 645618.28, 3315679.19; 645644.61, 3315663.69; 645651.52, 3315645.47; 645664.84, 3315637.48; 645674.17, 3315648.27; 645687.13, 3315648.60; 645706.73, 3315642.63; 645710.02, 3315627.12; 645720.27, 3315620.34; 645717.15, 3315596.78; 645746.76, 3315598.38; 645775.83, 3315602.34; 645802.00, 3315593.31; 645812.13, 3315577.40; 645831.65, 3315574.66; 645821.44, 3315593.80; 645816.05, 3315617.26; 645823.94, 3315622.95; 645861.07, 3315611.51; 645871.66, 3315595.97; 645879.16, 3315571.93; 645893.88, 3315587.37; 645914.20, 3315569.64; 645930.16, 3315567.27; 645934.52, 3315552.32; 645950.69, 3315557.09; 645958.44, 3315549.35; 645970.69, 3315552.44; 645981.00, 3315537.64; 646003.97, 3315540.99; 646017.15, 3315538.55; 646029.12, 3315533.32; 646041.49, 3315534.80; 646040.87, 3315528.05; 646044.56, 3315523.38; 646057.86, 3315516.19; 646080.96, 3315530.25; 646094.82, 3315534.44; 646106.98, 3315522.98; 646117.46, 3315533.15; 646128.47, 3315524.19; 646144.15, 3315524.35; 646152.78, 3315526.92; 646157.19, 3315521.44; 646160.67, 3315511.83; 646177.12, 3315502.55; 646193.40, 3315499.73; 646213.00, 3315493.76; 646238.68, 3315504.10; 646258.06, 3315490.71; 646270.74, 3315492.22; 646284.81, 3315485.84; 646280.32, 3315475.02; 646296.22, 3315475.03; 646298.06, 3315463.57; 646318.92, 3315457.76; 646330.64, 3315450.13; 646353.38, 3315455.27; 646366.34, 3315455.60; 646376.06, 3315455.84; 646392.34, 3315453.02; 646405.38, 3315450.12; 646437.92, 3315452.04; 646453.71, 3315440.55; 646493.16, 3315436.79; 646498.66, 3315439.31; 646498.23, 3315456.34; 646477.03, 3315461.36; 646501.93, 3315467.14; 646519.50, 3315464.01; 646505.24, 3315454.79; 646511.19, 3315432.63; 646512.19, 3315419.71; 646530.34, 3315428.21; 646535.91, 3315443.81; 646533.09, 3315461.18; 646545.03, 3315460.69; 646545.25, 3315436.12; 646553.84, 3315426.43; 646555.42, 3315411.41; 646579.72, 3315409.24; 646596.41, 3315409.27; 646620.06, 3315401.54; 646637.37, 3315392.86; 646649.32, 3315376.51; 646669.12, 3315379.39; 646672.18, 3315368.37; 646692.86, 3315363.62; 646703.46, 3315373.12; 646723.23, 3315377.58; 646737.94, 3315377.16; 646752.02, 3315370.78; 646766.50, 3315364.01; 646783.70, 3315359.69; 646795.23, 3315359.58; 646802.80, 3315343.52; 646834.98, 3315359.79; 646804.91, 3315364.95; 646806.01, 3315376.17; 646819.54, 3315388.73; 646841.26, 3315378.58; 646832.53, 3315393.82; 646846.27, 3315385.05; 646856.71, 3315380.95; 646864.39, 3315375.60; 646864.91, 3315386.71; 646861.24, 3315406.04; 646847.36, 3315404.50; 646842.45, 3315410.32; 646827.33, 3315426.59; 646821.96, 3315418.92; 646818.17, 3315427.15; 646806.86, 3315434.40; 646794.95, 3315433.70; 646778.35, 3315445.57; 646770.50, 3315441.80; 646767.99, 3315431.04; 646757.00, 3315441.07; 646750.37, 3315451.60; 646731.96, 3315472.54; 646712.74, 3315491.25; 646703.28, 3315508.98; 646685.24, 3315509.58; 646680.33, 3315494.13; 646682.48, 3315464.16; 646670.72, 3315457.52; 646662.52, 3315467.22; 646650.31, 3315478.81; 646670.24, 3315489.12; 646669.99, 3315498.82; 646660.03, 3315508.26; 646664.12, 3315514.04; 646657.39, 3315528.93; 646674.69, 3315536.50; 646687.69, 3315541.19; 646695.30, 3315554.46; 646689.73, 3315575.88; 646678.37, 3315595.26; 646682.14, 3315634.60; 646671.96, 3315644.25; 646658.28, 3315635.18; 646653.72, 3315626.74; 646648.09, 3315613.52; 646644.68, 3315591.24; 646633.76, 3315583.03; 646626.60, 3315567.39; 646612.83, 3315561.89; 646614.78, 3315547.67; 646628.44, 3315541.68; 646644.02, 3315538.90; 646644.05, 3315521.85; 646636.86, 3315527.08; 646614.18, 3315526.50; 646594.37, 3315540.06; 646578.65, 3315532.79; 646572.06, 3315521.00; 646559.28, 3315523.32; 646571.93, 3315544.21; 646551.06, 3315552.01; 646536.20, 3315558.38; 646502.81, 3315558.33; 646516.36, 3315541.23; 646515.47, 3315529.31; 646511.81, 3315516.54; 646491.22, 3315516.94; 646463.42, 3315528.00; 646460.88, 3315534.28; 646483.38, 3315540.40; 646489.29, 3315542.53; 646499.81, 3315535.26; 646486.35, 3315564.65; 646473.03, 3315572.64; 646462.91, 3315564.06; 646463.40, 3315544.65; 646458.89, 3315550.08; 646437.33, 3315553.90; 646434.46, 3315541.54; 646423.41, 3315538.49; 646429.58, 3315518.62; 646426.51, 3315512.07; 646413.47, 3315514.98; 646403.50, 3315524.42; 646396.70, 3315537.18; 646412.57, 3315558.43; 646401.97, 3315568.86; 646386.35, 3315573.62; 646375.27, 3315587.22; 646359.41, 3315585.63; 646325.86, 3315591.92; 646314.05, 3315587.26; 646298.03, 3315592.88; 646284.99, 3315595.79; 646275.19, 3315598.77; 646278.18, 3315608.55; 646294.22, 3315615.42; 646310.25, 3315622.29; 646326.37, 3315625.93; 646332.85, 3315626.09; 646368.57, 3315623.76; 646381.20, 3315637.01; 646364.76, 3315646.29; 646335.19, 3315661.71; 646318.66, 3315674.22; 646302.38, 3315677.05; 646292.58, 3315680.03; 646285.35, 3315684.84; 646284.25, 3315696.70; 646277.75, 3315702.48; 646272.24, 3315715.08; 646272.00, 3315724.77; 646261.95, 3315737.45; 646274.81, 3315755.53; 646255.81, 3315752.67; 646239.87, 3315754.25; 646232.12, 3315761.98; 646220.76, 3315755.35; 646212.06, 3315769.01; 646206.09, 3315769.65; 646183.62, 3315758.10; 646164.43, 3315747.92; 646157.79, 3315754.22; 646147.82, 3315763.67; 646122.26, 3315784.86; 646118.95, 3315774.47; 646112.91, 3315777.49; 646107.97, 3315784.10; 646098.41, 3315794.75; 646088.44, 3315804.19; 646079.50, 3315809.55; 646070.98, 3315800.61; 646072.97, 3315816.52; 646067.78, 3315833.04; 646062.23, 3315841.59; 646055.13, 3315845.80; 646045.62, 3315848.57; 646037.08, 3315850.99; 646036.86, 3315845.34; 646035.79, 3315835.19; 646029.55, 3315825.34; 646019.22, 3315819.92; 646013.43, 3315828.49; 646006.90, 3315835.46; 646004.38, 3315825.09; 645994.59, 3315834.76; 645978.65, 3315852.19; 645969.82, 3315839.68; 645962.91, 3315845.85; 645944.04, 3315868.76; 645942.96, 3315880.23; 645933.56, 3315890.30; 645920.38, 3315892.74; 645914.03, 3315906.48; 645904.60, 3315919.30; 645894.35, 3315915.68; 645887.62, 3315925.21; 645864.94, 3315934.23; 645864.27, 3315932.53; 645872.60, 3315904.85; 645867.45, 3315907.25; 645859.76, 3315909.59; 645852.01, 3315914.47; 645848.08, 3315922.23; 645851.84, 3315931.05; 645841.29, 3315954.96; 645833.35, 3315952.95; 645822.79, 3315963.61; 645821.86, 3315950.05; 645815.16, 3315950.73; 645809.48, 3315964.70; 645804.65, 3315958.00; 645811.67, 3315947.47; 645822.22, 3315939.02; 645831.99, 3315929.75; 645836.31, 3315916.38; 645820.48, 3315913.61; 645804.94, 3315914.80; 645793.61, 3315922.84; 645783.81, 3315932.90; 645775.26, 3315941.01; 645765.25, 3315943.93; 645756.83, 3315946.88; 645749.27, 3315954.99; 645736.37, 3315962.27; 645713.42, 3315965.61; 645708.70, 3315967.44; 645704.28, 3315965.77; 645692.18, 3315972.60; 645685.92, 3315984.34; 645679.58, 3315983.39; 645669.66, 3315985.94; 645656.63, 3315998.29; 645657.17, 3316005.02; 645667.81, 3316008.85; 645682.18, 3316006.44; 645693.77, 3316003.96; 645709.27, 3315988.49; 645726.40, 3316002.80; 645709.00, 3316014.65; 645695.86, 3316015.51; 645682.16, 3316038.55; 645679.29, 3316026.58; 645668.51, 3316028.29; 645653.38, 3316026.11; 645640.61, 3316028.32; 645642.56, 3316048.25; 645626.66, 3316048.25; 645613.00, 3316038.39; 645606.71, 3316035.46; 645596.42, 3316034.01; 645595.76, 3316044.30; 645605.92, 3316051.29; 645593.71, 3316062.48; 645578.72, 3316062.26; 645558.20, 3316069.35; 645545.43, 3316071.56; 645527.45, 3316078.72; 645511.88, 3316091.00; 645505.71, 3316127.27; 645488.06, 3316133.69; 645479.88, 3316142.47; 645459.29, 3316160.45; 645441.28, 3316167.83; 645418.28, 3316172.32; 645397.69, 3316181.95; 645384.79, 3316189.23; 645354.17, 3316193.53; 645346.55, 3316193.33; 645331.11, 3316200.55; 645311.26, 3316216.39; 645302.32, 3316232.79; 645287.07, 3316232.41; 645266.87, 3316226.83; 645254.03, 3316231.57; 645241.07, 3316241.39; 645230.52, 3316256.34; 645217.62, 3316263.62; 645201.47, 3316262.67; 645184.78, 3316255.18; 645172.13, 3316252.33; 645151.74, 3316254.35; 645126.07, 3316263.85; 645120.73, 3316273.86; 645100.40, 3316273.34; 645082.68, 3316270.36; 645077.85, 3316260.10; 645099.15, 3316253.35; 645076.09, 3316253.57; 645083.07, 3316244.62; 645073.57, 3316243.20; 645057.73, 3316255.83; 645033.14, 3316301.63; 645026.38, 3316286.00; 645028.80, 3316268.62; 645018.90, 3316267.19; 645011.20, 3316281.24; 644995.89, 3316283.39; 644987.94, 3316295.87; 644967.36, 3316305.49; 644957.00, 3316312.83; 644948.80, 3316335.45; 644949.96, 3316368.51; 644933.80, 3316378.80; 644912.00, 3316382.70; 644902.03, 3316374.84; 644891.86, 3316374.59; 644884.18, 3316376.93; 644876.42, 3316381.80; 644869.23, 3316401.35; 644883.47, 3316404.80; 644896.24, 3316402.59; 644906.47, 3316400.31; 644919.18, 3316400.63; 644934.30, 3316406.09; 644957.17, 3316406.66; 644972.48, 3316404.51; 644982.90, 3316394.63; 644990.65, 3316389.76; 645003.49, 3316385.01; 645003.68, 3316377.41; 645004.00, 3316364.73; 645006.74, 3316357.20; 645017.86, 3316354.34; 645026.48, 3316348.74; 645037.21, 3316344.94; 645049.36, 3316345.09; 645065.44, 3316338.09; 645067.76, 3316330.23; 645049.83, 3316326.60; 645030.65, 3316330.35; 645025.75, 3316326.42; 645035.30, 3316310.41; 645041.92, 3316300.27; 645051.38, 3316303.28; 645065.60, 3316290.96; 645087.77, 3316293.21; 645098.74, 3316299.82; 645109.65, 3316308.56; 645128.24, 3316297.69; 645136.72, 3316292.35; 645146.55, 3316295.22; 645155.03, 3316295.43; 645167.25, 3316294.15; 645174.92, 3316284.30; 645198.15, 3316299.85; 645181.31, 3316305.37; 645180.76, 3316313.41; 645196.01, 3316313.79; 645203.83, 3316306.38; 645211.64, 3316298.97; 645219.59, 3316286.49; 645229.88, 3316281.68; 645240.04, 3316281.94; 645252.75, 3316282.26; 645260.44, 3316279.91; 645270.67, 3316277.64; 645280.83, 3316277.89; 645303.96, 3316268.33; 645319.15, 3316271.25; 645324.42, 3316263.78; 645334.78, 3316256.43; 645360.06, 3316262.14; 645332.75, 3316280.93; 645322.51, 3316287.54; 645313.68, 3316286.33; 645305.80, 3316296.27; 645296.55, 3316308.03; 645279.81, 3316318.44; 645261.70, 3316330.66; 645262.86, 3316319.86; 645257.75, 3316312.34; 645235.97, 3316335.57; 645216.63, 3316335.29; 645212.64, 3316348.84; 645263.86, 3316345.93; 645289.53, 3316336.43; 645309.98, 3316331.88; 645320.41, 3316322.00; 645330.63, 3316319.72; 645351.29, 3316307.56; 645382.04, 3316298.20; 645390.09, 3316301.91; 645390.58, 3316314.21; 645378.78, 3316325.02; 645388.04, 3316335.95; 645401.36, 3316343.82; 645411.28, 3316344.47; 645409.43, 3316354.72; 645397.06, 3316372.25; 645393.75, 3316377.32; 645400.19, 3316389.77; 645395.63, 3316413.04; 645402.18, 3316405.68; 645408.43, 3316394.34; 645412.86, 3316376.22; 645416.41, 3316345.78; 645415.49, 3316319.20; 645400.38, 3316319.61; 645395.07, 3316325.03; 645394.56, 3316313.92; 645398.80, 3316303.32; 645412.66, 3316293.90; 645425.43, 3316291.68; 645438.27, 3316286.93; 645444.92, 3316287.44; 645449.42, 3316297.86; 645457.55, 3316290.93; 645460.56, 3316310.32; 645447.47, 3316327.94; 645432.76, 3316327.96; 645429.65, 3316340.97; 645437.47, 3316346.32; 645452.00, 3316337.56; 645458.53, 3316330.59; 645467.53, 3316320.52; 645488.20, 3316304.78; 645507.69, 3316288.63; 645538.82, 3316283.86; 645560.25, 3316290.01; 645570.94, 3316287.05; 645571.89, 3316280.73; 645551.36, 3316275.06; 645526.19, 3316280.37; 645507.47, 3316266.03; 645556.06, 3316254.40; 645556.07, 3316246.25; 645591.15, 3316229.85; 645600.96, 3316231.52; 645612.53, 3316248.47; 645604.60, 3316260.55; 645611.52, 3316269.84; 645622.43, 3316262.98; 645627.27, 3316259.93; 645627.88, 3316251.62; 645637.20, 3316244.72; 645649.15, 3316243.84; 645652.52, 3316255.25; 645643.62, 3316257.97; 645639.78, 3316268.57; 645630.45, 3316275.87; 645644.94, 3316284.56; 645656.47, 3316268.60; 645655.27, 3316237.65; 645669.71, 3316232.46; 645675.46, 3316225.08; 645685.45, 3316222.95; 645694.14, 3316209.30; 645665.99, 3316222.46; 645652.37, 3316226.48; 645626.29, 3316236.12; 645612.37, 3316236.17; 645615.20, 3316227.76; 645617.53, 3316219.36; 645614.49, 3316215.22; 645596.11, 3316219.11; 645598.79, 3316191.83; 645628.81, 3316192.69; 645633.51, 3316174.31; 645623.99, 3316169.87; 645607.48, 3316176.82; 645597.71, 3316171.59; 645579.79, 3316188.57; 645561.82, 3316191.69; 645551.47, 3316208.08; 645569.27, 3316211.30; 645580.05, 3316225.45; 645563.71, 3316230.69; 645535.13, 3316229.44; 645518.94, 3316240.66; 645510.48, 3316241.13; 645489.74, 3316244.18; 645481.77, 3316243.42; 645468.80, 3316253.13; 645456.76, 3316259.51; 645437.66, 3316259.91; 645414.26, 3316273.59; 645404.43, 3316269.38; 645414.22, 3316259.32; 645442.36, 3316246.95; 645458.95, 3316235.47; 645441.81, 3316237.42; 645436.99, 3316223.82; 645422.65, 3316224.65; 645418.36, 3316237.22; 645411.40, 3316243.15; 645401.17, 3316245.43; 645385.54, 3316260.25; 645375.37, 3316259.99; 645375.70, 3316247.32; 645376.65, 3316236.17; 645399.27, 3316220.02; 645427.61, 3316205.52; 645442.86, 3316205.91; 645453.09, 3316203.63; 645463.45, 3316196.28; 645478.82, 3316191.60; 645501.89, 3316184.57; 645514.85, 3316174.76; 645515.17, 3316162.09; 645520.51, 3316152.08; 645530.80, 3316147.27; 645540.84, 3316152.59; 645556.41, 3316140.30; 645571.78, 3316135.62; 645594.91, 3316126.06; 645610.22, 3316123.91; 645623.52, 3316109.61; 645652.97, 3316092.51; 645684.82, 3316090.29; 645703.40, 3316079.12; 645720.72, 3316078.52; 645736.35, 3316063.70; 645731.52, 3316053.43; 645739.40, 3316043.49; 645753.74, 3316037.58; 645753.93, 3316045.91; 645766.83, 3316054.56; 645767.64, 3316035.17; 645793.67, 3316030.66; 645805.96, 3316031.76; 645823.56, 3316011.59; 645833.10, 3315995.98; 645848.63, 3315979.32; 645852.37, 3316000.70; 645862.54, 3316000.95; 645870.36, 3315993.54; 645882.46, 3315982.07; 645882.91, 3315983.28; 645900.49, 3315971.91; 645918.34, 3315973.55; 645952.33, 3315965.69; 645954.57, 3315939.98; 645980.94, 3315950.16; 645997.07, 3315941.05; 646009.06, 3315938.58; 646027.36, 3315922.39; 646039.90, 3315929.05; 646052.02, 3315921.82; 646054.20, 3315913.95; 646054.98, 3315898.91; 646073.19, 3315902.14; 646086.75, 3315900.11; 646101.26, 3315892.15; 646117.34, 3315900.88; 646128.29, 3315892.43; 646133.31, 3315898.11; 646144.30, 3315903.54; 646136.73, 3315920.00; 646128.06, 3315917.00; 646121.90, 3315909.32; 646109.61, 3315907.82; 646117.01, 3315913.95; 646117.18, 3315923.07; 646117.00, 3315930.20; 646111.07, 3315928.86; 646108.12, 3315935.53; 646097.16, 3315928.51; 646090.57, 3315922.00; 646080.62, 3315922.55; 646080.38, 3315932.05; 646077.02, 3315939.10; 646069.45, 3315939.71; 646060.03, 3315950.96; 646054.77, 3315954.40; 646042.17, 3315949.72; 646025.42, 3315951.68; 646004.75, 3315967.41; 645996.39, 3315983.84; 645985.67, 3315983.18; 645974.84, 3316002.72; 645956.23, 3316015.73; 645956.89, 3316020.90; 645947.69, 3316023.05; 645928.91, 3316026.93;645925.47, 3316037.15; 645893.63, 3316053.11; 645891.93, 3316058.90; 645896.21, 3316061.10; 645894.38, 3316070.57; 645886.85, 3316069.59; 645851.84, 3316070.69; 645833.94, 3316071.43; 645826.08, 3316083.52; 645818.56, 3316082.14; 645809.05, 3316096.56; 645803.00, 3316115.83; 645794.51, 3316121.57; 645776.22, 3316137.36; 645764.41, 3316148.55; 645754.92, 3316146.73; 645735.54, 3316173.99; 645736.03, 3316186.29; 645761.09, 3316185.33; 645768.66, 3316200.59; 645787.97, 3316207.02; 645800.88, 3316152.64; 645811.12, 3316124.76; 645828.14, 3316112.11; 645876.75, 3316091.93; 645905.86, 3316072.45; 645903.90, 3316055.75; 645921.18, 3316049.73; 645924.09, 3316060.50; 645941.27, 3316041.12; 645941.53, 3316031.22; 645948.35, 3316028.61; 645953.38, 3316033.89; 645966.88, 3316034.63; 645978.15, 3316028.97; 645964.42, 3316021.88; 645988.87, 3316013.78; 645993.30, 3316027.37; 646001.55, 3316015.29; 645996.16, 3316008.41; 646019.65, 3315991.57; 646022.72, 3315980.15; 646036.54, 3315967.81; 646054.65, 3315959.15; 646059.30, 3315964.03; 646061.92, 3315970.43; 646068.69, 3315969.81; 646066.85, 3315979.67; 646066.07, 3315994.72; 646074.40, 3315979.87; 646076.86, 3315961.30; 646071.62, 3315953.34; 646084.25, 3315951.97; 646085.24, 3315944.07; 646078.40, 3315947.46; 646075.68, 3315945.02; 646088.31, 3315934.49; 646093.00, 3315935.94; 646101.90, 3315945.68; 646108.91, 3315951.40; 646118.44, 3315951.64; 646115.52, 3315941.26; 646123.18, 3315937.10; 646124.18, 3315929.19; 646130.58, 3315927.37; 646136.45, 3315931.09; 646142.95, 3315925.70; 646153.95, 3315906.06; 646162.15, 3315893.26; 646156.63, 3315880.96; 646158.08, 3315870.61; 646174.78, 3315855.00; 646172.89, 3315845.96; 646178.93, 3315837.66; 646196.27, 3315827.67; 646217.71, 3315820.38; 646211.07, 3315808.22; 646224.68, 3315801.16; 646244.45, 3315788.73; 646255.12, 3315780.00; 646273.72, 3315783.25; 646268.62, 3315796.20; 646274.43, 3315802.29; 646295.71, 3315812.65; 646302.61, 3315803.79; 646314.14, 3315803.69; 646327.14, 3315792.92; 646348.53, 3315775.19; 646380.08, 3315742.72; 646408.16, 3315724.97; 646427.40, 3315710.62; 646452.88, 3315693.41; 646442.04, 3315666.20; 646448.56, 3315660.02; 646458.45, 3315661.84; 646463.56, 3315669.37; 646460.72, 3315682.13; 646469.00, 3315684.84; 646486.02, 3315682.62; 646501.04, 3315675.60; 646510.50, 3315678.63; 646512.42, 3315665.59; 646522.46, 3315661.49; 646532.91, 3315663.46; 646552.26, 3315667.18; 646568.44, 3315672.02; 646578.18, 3315667.84; 646599.97, 3315677.31; 646629.37, 3315694.99; 646641.66, 3315695.01; 646648.40, 3315680.12; 646643.01, 3315672.85; 646638.87, 3315666.44; 646617.62, 3315668.55; 646620.03, 3315654.43; 646630.66, 3315642.81; 646640.06, 3315648.20; 646653.84, 3315653.30; 646664.26, 3315650.00; 646665.81, 3315667.48; 646678.86, 3315660.68; 646698.22, 3315664.40; 646708.47, 3315678.07; 646730.21, 3315681.37; 646736.43, 3315672.83; 646734.28, 3315663.66; 646715.38, 3315656.44; 646726.70, 3315633.34; 646738.74, 3315628.49; 646739.72, 3315621.38; 646724.60, 3315621.79; 646725.22, 3315613.09; 646749.39, 3315616.08; 646747.83, 3315630.70; 646761.08, 3315641.34; 646745.91, 3315643.74; 646737.40, 3315650.26; 646742.05, 3315655.13; 646750.16, 3315648.60; 646748.49, 3315667.58; 646742.95, 3315677.75; 646752.81, 3315685.17; 646769.07, 3315686.73; 646781.97, 3315685.91; 646796.24, 3315696.93; 646815.97, 3315702.58; 646832.71, 3315701.02; 646840.46, 3315693.29; 646836.74, 3315683.29; 646822.80, 3315684.12; 646819.86, 3315674.54; 646806.90, 3315668.66; 646794.75, 3315661.62; 646785.32, 3315641.56; 646794.69, 3315632.68; 646806.03, 3315624.24; 646818.02, 3315621.77; 646825.81, 3315627.91; 646831.09, 3315623.69; 646822.56, 3315615.15; 646814.59, 3315615.74; 646811.39, 3315600.99; 646792.93, 3315623.52; 646789.71, 3315609.56; 646785.84, 3315589.64; 646762.08, 3315585.87; 646769.51, 3315574.96; 646771.29, 3315552.02; 646786.43, 3315550.42; 646789.60, 3315519.58; 646804.97, 3315508.87; 646826.96, 3315519.73; 646837.79, 3315516.04; 646843.98, 3315491.22; 646856.54, 3315497.48; 646865.52, 3315535.37; 646871.32, 3315573.17; 646882.43, 3315542.53; 646874.82, 3315529.26; 646875.36, 3315507.87; 646890.87, 3315523.32; 646897.61, 3315539.74; 646893.26, 3315554.70; 646884.62, 3315581.83; 646873.72, 3315604.15; 646867.83, 3315617.08; 646875.28, 3315620.84; 646885.62, 3315620.70; 646883.17, 3315607.56; 646892.91, 3315595.03; 646948.44, 3315589.85; 646968.08, 3315588.02; 646987.08, 3315581.16; 646988.94, 3315538.79; 646996.25, 3315532.63; 647010.04, 3315521.88; 647019.34, 3315515.78; 647031.16, 3315520.04; 647026.15, 3315529.42; 647028.69, 3315539.00; 647041.83, 3315538.14; 647051.26, 3315542.35; 647060.14, 3315537.02; 647084.39, 3315521.38; 647095.23, 3315532.75; 647110.99, 3315522.84; 647115.04, 3315551.09; 647136.77, 3315540.54; 647126.60, 3315502.63; 647121.49, 3315484.66; 647104.23, 3315477.39; 647095.93, 3315489.56; 647082.02, 3315489.21; 647078.90, 3315471.30; 647030.94, 3315462.81; 647042.86, 3315451.53; 647088.76, 3315458.46; 647122.16, 3315458.12; 647143.86, 3315464.61; 647153.04, 3315479.11; 647159.34, 3315497.11; 647167.64, 3315506.42; 647165.22, 3315515.89; 647161.18, 3315518.56; 647154.52, 3315530.28; 647162.06, 3315546.73; 647173.88, 3315550.99; 647182.66, 3315549.62; 647186.84, 3315557.26; 647202.23, 3315561.61; 647224.87, 3315562.18; 647230.05, 3315561.92; 647240.61, 3315553.07; 647248.43, 3315558.02; 647245.04, 3315566.26; 647249.67, 3315571.93; 647264.43, 3315569.92; 647273.73, 3315595.13; 647270.17, 3315610.10; 647284.55, 3315619.83; 647297.15, 3315611.97; 647300.98, 3315602.16; 647308.56, 3315601.16; 647315.90, 3315593.81; 647333.19, 3315585.93; 647340.89, 3315596.03; 647340.49, 3315611.48; 647335.31, 3315628.00; 647346.78, 3315630.27; 647352.48, 3315609.01; 647373.16, 3315608.73; 647386.77, 3315620.57; 647398.30, 3315636.32; 647403.84, 3315621.80; 647409.13, 3315616.78; 647419.70, 3315623.39; 647443.58, 3315622.01; 647457.72, 3315613.25; 647476.51, 3315608.96; 647480.52, 3315607.48; 647487.12, 3315598.13; 647510.42, 3315588.41; 647507.59, 3315605.78; 647518.13, 3315613.58; 647529.79, 3315608.33; 647531.70, 3315627.00; 647560.56, 3315633.28; 647566.49, 3315634.62; 647558.88, 3315605.49; 647560.51, 3315588.09; 647572.00, 3315574.11; 647557.16, 3315563.43; 647547.57, 3315565.57; 647544.29, 3315553.59; 647534.83, 3315550.58; 647541.25, 3315532.51; 647528.93, 3315532.20; 647519.67, 3315521.26; 647497.38, 3315538.14; 647481.54, 3315535.76; 647469.69, 3315532.69; 647441.39, 3315520.08; 647446.96, 3315504.36; 647439.92, 3315499.43; 647420.20, 3315509.24; 647409.04, 3315510.54; 647392.56, 3315517.66; 647386.42, 3315508.78; 647392.91, 3315487.94; 647383.79, 3315471.46; 647401.95, 3315476.28; 647414.37, 3315472.62; 647452.92, 3315472.80; 647472.84, 3315470.93; 647487.99, 3315469.33; 647489.89, 3315457.09; 647508.76, 3315465.49; 647512.12, 3315458.44; 647527.95, 3315445.36; 647539.47, 3315445.66; 647561.62, 3315418.47; 647574.38, 3315417.20; 647608.16, 3315417.26; 647625.71, 3315414.93; 647629.46, 3315424.14; 647634.63, 3315423.88; 647639.57, 3315432.72; 647649.61, 3315429.01; 647659.84, 3315432.84; 647662.71, 3315445.20; 647673.43, 3315445.86; 647678.74, 3315455.91; 647683.52, 3315455.63; 647689.28, 3315463.31; 647705.56, 3315464.12; 647707.49, 3315450.69; 647716.43, 3315458.84; 647723.24, 3315456.63; 647745.11, 3315456.39; 647755.70, 3315446.35; 647765.52, 3315450.96; 647773.96, 3315463.07; 647792.51, 3315468.29; 647805.34, 3315464.25; 647817.34, 3315476.84; 647837.86, 3315482.30; 647865.82, 3315477.06; 647879.67, 3315495.25; 647904.19, 3315500.23; 647898.72, 3315512.38; 647935.99, 3315531.55; 647931.52, 3315535.40; 647929.23, 3315547.63; 647946.73, 3315562.74; 647943.68, 3315573.37; 647926.26, 3315555.09; 647919.58, 3315567.60; 647893.02, 3315564.56; 647888.41, 3315573.95; 647879.46, 3315566.59; 647869.74, 3315573.48; 647866.14, 3315558.72; 647853.47, 3315556.82; 647834.30, 3315560.30; 647832.49, 3315553.12; 647822.20, 3315551.27; 647816.96, 3315554.31; 647809.68, 3315543.43; 647793.18, 3315535.88; 647793.11, 3315569.96; 647789.70, 3315578.99; 647779.66, 3315567.25; 647778.92, 3315549.39; 647772.66, 3315545.66; 647757.14, 3315561.92; 647736.63, 3315555.46; 647725.55, 3315553.59; 647713.78, 3315547.35; 647698.26, 3315548.15; 647688.62, 3315552.48; 647673.15, 3315551.30; 647673.17, 3315565.96; 647692.72, 3315575.69; 647713.72, 3315581.04; 647728.35, 3315568.73; 647738.03, 3315578.88; 647751.72, 3315587.55; 647766.33, 3315591.49; 647779.94, 3315603.32; 647786.67, 3315588.83; 647798.21, 3315588.33; 647801.91, 3315599.12; 647815.67, 3315605.41; 647820.11, 3315618.21; 647812.83, 3315639.04; 647804.99, 3315642.48; 647792.77, 3315643.75; 647782.82, 3315646.60; 647784.03, 3315661.70; 647795.49, 3315664.36; 647807.58, 3315657.93; 647816.60, 3315665.50; 647812.35, 3315673.51; 647805.68, 3315677.90; 647796.98, 3315686.67; 647794.00, 3315699.81; 647776.01, 3315711.83; 647742.46, 3315718.12; 647726.27, 3315713.75; 647708.99, 3315705.39; 647690.00, 3315701.74; 647672.49, 3315702.48; 647655.97, 3315695.73; 647644.32, 3315700.58; 647627.20, 3315701.34; 647606.34, 3315693.28; 647591.07, 3315699.64; 647573.57, 3315699.99; 647567.49, 3315704.59; 647551.67, 3315701.42; 647538.20, 3315715.35; 647520.69, 3315731.95; 647514.78, 3315745.68; 647494.45, 3315747.94; 647482.76, 3315754.38; 647479.28, 3315766.19; 647481.87, 3315773.78; 647480.96, 3315809.83; 647494.03, 3315811.75; 647508.38, 3315794.27; 647528.28, 3315809.04; 647542.51, 3315828.03; 647557.45, 3315818.89; 647567.13, 3315797.73; 647577.27, 3315789.67; 647586.62, 3315797.04; 647589.97, 3315806.24; 647598.64, 3315809.23; 647605.77, 3315810.20; 647611.36, 3315809.16; 647619.21, 3315797.46; 647623.86, 3315786.48; 647643.32, 3315786.97; 647657.94, 3315790.51; 647666.34, 3315788.35; 647665.64, 3315768.90; 647673.06, 3315774.25; 647673.25, 3315782.57; 647681.86, 3315787.94; 647690.32, 3315783.40; 647702.86, 3315775.00; 647710.75, 3315761.32; 647723.91, 3315759.67; 647727.83, 3315777.61; 647742.57, 3315776.40; 647757.61, 3315763.30; 647769.23, 3315759.63; 647777.34, 3315753.49; 647789.51, 3315759.35; 647805.96, 3315753.42; 647810.84, 3315749.18; 647812.78, 3315735.36; 647823.92, 3315734.85; 647823.58, 3315748.31; 647832.52, 3315756.47; 647839.33, 3315754.26; 647854.58, 3315748.70; 647858.32, 3315726.20; 647874.00, 3315719.46; 647880.11, 3315729.13; 647883.60, 3315732.78; 647894.47, 3315727.51; 647904.95, 3315721.43; 647924.41,

3315722.32; 647920.59, 3315731.73; 647919.99, 3315740.04; 647931.90, 3315740.34; 647944.03, 3315732.33; 647965.81, 3315720.19; 647996.31, 3315724.13; 648003.52, 3315722.33; 647998.67, 3315709.53; 648020.33, 3315717.60; 648034.15, 3315721.12; 648045.05, 3315714.66; 648060.78, 3315705.54; 648078.86, 3315713.93; 648092.56, 3315706.74; 648117.51, 3315694.69; 648131.57, 3315688.70; 648160.94, 3315674.77; 648176.90, 3315656.94; 648182.33, 3315646.38; 648190.02, 3315656.88; 648194.42, 3315639.94; 648208.10, 3315633.55; 648214.28, 3315624.99; 648216.90, 3315631.39; 648222.86, 3315631.54; 648225.02, 3315624.46; 648231.09, 3315620.26; 648233.69, 3315612.00; 648243.66, 3315610.66; 648251.80, 3315602.94; 648251.25, 3315593.41; 648236.18, 3315591.84; 648232.03, 3315598.88; 648225.69, 3315597.92; 648222.79, 3315587.15; 648226.13, 3315580.49; 648237.48, 3315572.06; 648235.02, 3315559.31; 648244.59, 3315557.97; 648246.13, 3315528.67; 648247.13, 3315520.38; 648250.49, 3315513.32; 648257.29, 3315511.91; 648259.50, 3315502.85; 648249.58, 3315502.20; 648239.58, 3315504.73; 648237.38, 3315497.53; 648227.76, 3315500.46; 648228.35, 3315492.95; 648222.06, 3315490.01; 648223.87, 3315465.88; 648214.47, 3315444.63; 648217.11, 3315434.39; 648215.80, 3315423.26; 648217.63, 3315413.80; 648215.85, 3315405.82; 648235.47, 3315399.98; 648231.61, 3315411.37; 648232.60, 3315419.33; 648238.83, 3315424.24; 648240.21, 3315432.60; 648237.92, 3315444.43; 648244.44, 3315454.11; 648249.75, 3315448.30; 648276.89, 3315428.37; 648289.54, 3315431.07; 648297.96, 3315428.11; 648309.02, 3315431.16; 648313.23, 3315421.76; 648311.85, 3315413.40; 648323.84, 3315410.93; 648338.46, 3315414.47; 648332.06, 3315431.75; 648336.09, 3315445.32; 648344.70, 3315434.84; 648357.29, 3315439.91; 648361.96, 3315443.99; 648376.61, 3315430.49; 648381.25, 3315435.76; 648381.32, 3315448.84; 648376.34, 3315457.04; 648376.50, 3315466.56; 648378.56, 3315479.30; 648376.80, 3315485.99; 648369.51, 3315491.36; 648357.50, 3315494.62; 648351.65, 3315490.11; 648344.57, 3315487.16; 648342.46, 3315491.86; 648339.81, 3315502.50; 648339.14, 3315513.18; 648323.64, 3315513.19; 648319.47, 3315521.01; 648318.12, 3315526.92; 648322.89, 3315527.04; 648323.09, 3315534.98; 648320.07, 3315544.41; 648323.55, 3315548.07; 648326.79, 3315545.77; 648334.35, 3315546.87; 648331.17, 3315561.34; 648326.07, 3315574.29; 648309.42, 3315572.29; 648301.36, 3315576.84; 648302.31, 3315586.38; 648315.28, 3315592.26; 648323.49, 3315597.62; 648325.62, 3315607.58; 648321.19, 3315625.70; 648310.07, 3315640.88; 648307.79, 3315652.71; 648312.35, 3315660.76; 648304.22, 3315668.08; 648312.88, 3315671.47; 648320.09, 3315669.28; 648325.55, 3315673.38; 648315.97, 3315690.58; 648323.04, 3315693.93; 648326.53, 3315697.58; 648332.38, 3315701.69; 648340.79, 3315699.53; 648340.58, 3315691.99; 648351.43, 3315687.51; 648353.96, 3315681.63; 648367.66, 3315674.44; 648388.47, 3315653.16; 648390.99, 3315647.68; 648396.54, 3315648.61; 648400.31, 3315640.78; 648408.96, 3315628.71; 648417.73, 3315627.74; 648417.18, 3315618.21; 648419.01, 3315592.89; 648420.51, 3315581.04; 648412.49, 3315583.61; 648408.28, 3315593.02; 648397.58, 3315591.56; 648397.82, 3315582.05; 648391.78, 3315585.07; 648387.18, 3315578.61; 648381.76, 3315572.53; 648384.64, 3315553.18; 648396.10, 3315555.84; 648408.30, 3315545.05; 648409.50, 3315528.83; 648430.35, 3315521.83; 648434.44, 3315533.03; 648450.99, 3315539.00; 648453.85, 3315551.36; 648466.28, 3315594.48; 648498.29, 3315586.17; 648537.59, 3315572.50; 648564.32, 3315568.81; 648594.54, 3315568.38; 648619.37, 3315576.94; 648633.65, 3315578.09; 648657.65, 3315571.96; 648672.63, 3315561.24; 648688.91, 3315546.59; 648701.01, 3315539.36; 648711.07, 3315534.86; 648721.04, 3315533.52; 648723.86, 3315547.47; 648735.37, 3315548.15; 648736.21, 3315562.45; 648742.96, 3315562.62; 648746.70, 3315556.37; 648743.43, 3315544.00; 648751.03, 3315542.21; 648751.25, 3315527.28; 648770.59, 3315523.28; 648784.92, 3315522.45; 648782.87, 3315540.63; 648786.65, 3315548.26; 648776.98, 3315553.56; 648775.27, 3315558.28; 648789.25, 3315555.46; 648811.50, 3315540.17; 648809.92, 3315524.27; 648820.98, 3315511.07; 648830.17, 3315509.32; 648841.70, 3315493.76; 648842.22, 3315473.16; 648858.85, 3315460.10; 648867.08, 3315464.69; 648874.52, 3315469.22; 648876.00, 3315457.76; 648865.38, 3315437.67; 648860.39, 3315414.95; 648861.92, 3315401.51; 648854.15, 3315394.18; 648875.26, 3315376.88; 648875.10, 3315357.08; 648888.53, 3315308.24; 648888.37, 3315251.55; 648850.99, 3315252.20; 648849.03, 3315219.64; 648877.84, 3315212.04; 648898.61, 3315208.21; 648916.20, 3315204.29; 648928.72, 3315196.68; 648935.03, 3315198.43; 648935.44, 3315213.89; 648946.48, 3315233.20; 648937.66, 3315236.15; 648925.27, 3315238.61; 648911.63, 3315243.42; 648905.56, 3315247.63; 648903.90, 3315282.07; 648898.59, 3315318.80; 648889.46, 3315381.20; 648908.42, 3315417.35; 648916.38, 3315448.47; 648924.47, 3315474.44; 648927.81, 3315484.04; 648932.90, 3315486.94; 648940.08, 3315485.93; 648956.70, 3315473.27; 648971.76, 3315459.38; 648979.42, 3315455.22; 648986.26, 3315451.82; 648987.18, 3315446.69; 648988.04, 3315413.02; 648994.98, 3315389.81; 649004.71, 3315366.69; 649010.85, 3315359.69; 649013.02, 3315352.61; 649014.16, 3315338.76; 649021.28, 3315340.53; 649026.58, 3315335.11; 649031.89, 3315339.90; 649033.81, 3315347.87; 649025.75, 3315352.14; 649025.15, 3315360.05; 649031.28, 3315364.19; 649034.24, 3315372.72; 649044.13, 3315379.95; 649050.59, 3315376.15; 649057.05, 3315371.95; 649062.20, 3315372.87; 649073.32, 3315373.16; 649078.70, 3315380.43; 649085.80, 3315382.59; 649090.69, 3315377.95; 649096.45, 3315370.17; 649101.19, 3315371.48; 649106.87, 3315366.87; 649113.66, 3315365.45; 649113.93, 3315370.61; 649118.91, 3315377.87; 649126.84, 3315378.87; 649131.38, 3315372.24; 649125.38, 3315373.68; 649121.52, 3315369.22; 649126.11, 3315360.61; 649135.63, 3315361.25; 649134.70, 3315366.78; 649142.22, 3315368.16; 649149.21, 3315358.82; 649156.62, 3315364.55; 649169.79, 3315362.51; 649179.36, 3315361.16; 649187.40, 3315357.80; 649201.85, 3315352.22; 649204.05, 3315343.95; 649194.56, 3315341.73; 649197.55, 3315333.48; 649210.40, 3315328.65; 649204.70, 3315318.20; 649213.19, 3315312.47; 649219.16, 3315312.22; 649231.07, 3315312.92; 649241.82, 3315312.00; 649244.93, 3315299.40; 649257.68, 3315298.03; 649260.17, 3315283.29; 649291.58, 3315271.40; 649318.91, 3315275.26; 649354.06, 3315253.16; 649371.97, 3315250.98; 649385.64, 3315246.03; 649394.72, 3315232.78; 649420.36, 3315240.56; 649432.30, 3315255.93; 649464.48, 3315256.74; 649483.69, 3315251.68; 649503.12, 3315253.36; 649512.13, 3315258.74; 649524.94, 3315255.10; 649526.94, 3315238.89; 649538.02, 3315225.30; 649562.93, 3315231.56; 649569.35, 3315212.61; 649578.12, 3315211.65; 649580.24, 3315190.69; 649593.62, 3315180.33; 649601.66, 3315192.42; 649620.75, 3315192.11; 649622.55, 3315199.29; 649609.36, 3315202.13; 649607.38, 3315217.54; 649595.42, 3315219.22; 649612.58, 3315231.94; 649621.40, 3315228.99; 649627.12, 3315207.33; 649645.27, 3315197.09; 649658.05, 3315210.49; 649658.45, 3315225.96; 649672.28, 3315234.32; 649679.35, 3315232.44; 649683.26, 3315219.45; 649699.97, 3315219.08; 649704.66, 3315237.83; 649716.62, 3315243.52; 649720.86, 3315257.27; 649726.05, 3315272.06; 649733.64, 3315270.67; 649733.85, 3315262.35; 649744.56, 3315263.41; 649754.38, 3315268.02; 649769.98, 3315264.06; 649770.18, 3315240.67; 649802.57, 3315233.17; 649812.15, 3315231.74; 647943.33, 3315398.00; 648060.09, 3315419.15; 648063.21, 3315405.75; 648100.53, 3315407.27; 648105.55, 3315412.95; 648110.88, 3315406.74; 648115.28, 3315405.66; 648121.44, 3315413.35; 648124.55, 3315416.20; 648130.59, 3315413.18; 648133.12, 3315407.70; 648147.07, 3315406.07; 648159.71, 3315409.16; 648164.94, 3315406.92; 648173.75, 3315404.36; 648179.61, 3315408.08; 648179.37, 3315417.59; 648187.35, 3315416.60; 648190.76, 3315423.03; 648187.57, 3315439.20; 648195.14, 3315438.60; 648200.12, 3315445.86; 648197.87, 3315456.50; 648207.58, 3315465.47; 648201.41, 3315473.64; 648191.79, 3315476.96; 648182.35, 3315472.76; 648171.02, 3315480.80; 648166.52, 3315485.84; 648149.55, 3315481.05; 648150.87, 3315491.39; 648160.82, 3315491.24; 648159.83, 3315498.75; 648163.72, 3315502.02; 648174.80, 3315504.28; 648171.15, 3315522.82; 648171.78, 3315529.18; 648179.23, 3315533.33; 648171.50, 3315540.27; 648160.45, 3315537.21; 648156.72, 3315543.07; 648149.38, 3315550.41; 648149.20, 3315557.54; 648153.78, 3315565.19; 648149.50, 3315576.97; 648140.72, 3315578.34; 648137.23, 3315575.08; 648138.35, 3315562.03; 648131.71, 3315557.50; 648132.17, 3315570.59; 648128.85, 3315576.45; 648129.91, 3315581.63; 648134.93, 3315587.31; 648134.74, 3315594.83; 648130.60, 3315601.47; 648140.77, 3315608.07; 648145.33, 3315616.11; 648147.63, 3315619.74; 648143.66, 3315650.95; 648147.35, 3315662.14; 648133.03, 3315662.57; 648130.62, 3315647.85; 648126.43, 3315624.75; 648118.90, 3315608.31; 648109.46, 3315619.96; 648103.56, 3315617.43; 648098.69, 3315605.82; 648092.22, 3315610.01; 648086.57, 3315597.58; 648073.99, 3315592.11; 648076.26, 3315581.07; 648085.34, 3315583.28; 648091.91, 3315575.12; 648080.14, 3315568.88; 648068.63, 3315568.19; 648060.71, 3315551.35; 648056.63, 3315539.75; 648060.96, 3315525.59; 648054.89, 3315514.34; 648063.08, 3315505.03; 648057.40, 3315493.79; 648051.59, 3315487.69; 648048.66, 3315477.71; 648048.49, 3315453.13; 648048.38, 3315441.63; 648059.68, 3315419.32; 647943.33, 3315398.00; 647937.66, 3315403.38; 647929.57, 3315393.26; 647920.49, 3315390.66; 647893.83, 3315391.57; 647879.55, 3315390.42; 647871.89, 3315394.58; 647872.84, 3315388.66; 647865.06, 3315381.73; 647855.83, 3315385.46; 647846.82, 3315380.08; 647830.94, 3315379.28; 647817.41, 3315379.73; 647809.01, 3315381.90; 647790.89, 3315375.50; 647780.60, 3315373.65; 647750.03, 3315372.09; 647746.68, 3315378.74; 647742.42, 3315374.27; 647726.95, 3315373.09; 647717.08, 3315370.07; 647706.29, 3315372.57; 647701.32, 3315364.52; 647694.05, 3315369.09; 647679.16, 3315360.78; 647667.11, 3315365.63; 647646.91, 3315362.75; 647623.20, 3315372.85; 647615.33, 3315369.88; 647605.73, 3315372.01; 647583.08, 3315371.84; 647567.93, 3315373.44; 647555.94, 3315375.91; 647547.46, 3315381.25; 647535.39, 3315355.57; 647523.98, 3315366.78; 647515.12, 3315355.46; 647508.19, 3315362.42; 647503.97, 3315356.37; 647494.19, 3315365.63; 647491.73, 3315352.89; 647483.59, 3315360.61; 647470.61, 3315339.27; 647452.97, 3315345.17; 647442.05, 3315336.97; 647431.07, 3315346.60; 647419.45, 3315350.27; 647404.70, 3315351.88; 647399.58, 3315365.62; 647388.64, 3315358.21; 647383.15, 3315370.76; 647355.60, 3315360.15; 647348.05, 3315344.11; 647342.33, 3315350.31; 647328.64, 3315341.64; 647321.28, 3315349.77; 647321.83, 3315343.45; 647307.09, 3315344.66; 647244.34, 3315342.68; 647238.92, 3315336.99; 647220.78, 3315346.84; 647212.39, 3315364.07; 647198.21, 3315374.81; 647194.98, 3315360.86; 647173.94, 3315359.93; 647163.76, 3315369.58; 647150.61, 3315386.30; 647133.22, 3315382.29; 647130.74, 3315370.34; 647119.33, 3315381.54; 647110.49, 3315385.29; 647100.65, 3315381.47; 647100.71, 3315363.24; 647087.88, 3315351.81; 647078.33, 3315368.22; 647074.25, 3315356.62; 647067.43, 3315390.54; 647051.03, 3315388.75; 647041.59, 3315374.83; 647037.66, 3315351.42; 647004.98, 3315360.43; 646958.51, 3315358.86; 646910.66, 3315364.79; 646908.88, 3315325.10; 646929.46, 3315312.94; 646925.82, 3315299.76; 646978.44, 3315293.96; 647005.40, 3315281.16; 647022.45, 3315282.78; 647045.72, 3315258.79; 647063.48, 3315263.60; 647067.55, 3315259.74; 647079.84, 3315261.24; 647113.96,

3315248.22; 647142.77, 3315256.48; 647160.15, 3315245.03; 647184.49, 3315241.28; 647215.73, 3315248.02; 647235.25, 3315246.13; 647243.83, 3315239.33; 647260.93, 3315236.87; 647307.39, 3315238.83; 647317.00, 3315235.90; 647353.40, 3315244.74; 647380.00, 3315244.23; 647390.19, 3315234.18; 647375.85, 3315203.70; 647399.88, 3315196.77; 647407.61, 3315218.10; 647421.94, 3315217.40; 647437.90, 3315217.95; 647432.87, 3315196.81; 647450.87, 3315192.51; 647467.65, 3315173.51; 647520.17, 3315166.10; 647525.83, 3315167.84; 647571.39, 3315173.75; 647592.90, 3315171.91; 647567.78, 3315159.39; 647551.43, 3315145.89; 647425.41, 3315101.21; 647373.07, 3315095.67; 647331.60, 3315082.87; 647339.08, 3315070.38; 647369.68, 3315070.75; 647421.77, 3315070.08; 647454.67, 3315073.69; 647450.37, 3315086.66; 647501.68, 3315082.00; 647583.34, 3315125.69; 647595.69, 3315124.81; 647608.34, 3315142.97; 647618.19, 3315146.78; 647646.82, 3315146.32; 647666.44, 3315140.87; 647679.59, 3315139.61; 647688.61, 3315144.20; 647696.84, 3315148.77; 647712.03, 3315114.27; 647731.81, 3315102.08; 647742.09, 3315104.32; 647761.96, 3315104.83; 647785.02, 3315088.76; 647815.44, 3315096.27; 647824.59, 3315110.66; 647819.46, 3315140.26; 647775.82, 3315137.17; 647719.82, 3315150.82; 647710.79, 3315162.09; 647730.83, 3315171.32; 647752.58, 3315175.83; 647799.26, 3315184.54; 647830.33, 3315198.01; 647852.30, 3315209.26; 647878.84, 3315216.24; 647909.85, 3315213.09; 647915.82, 3315228.31; 647934.35, 3315234.32; 647940.83, 3315229.73; 647955.27, 3315240.40; 647974.29, 3315242.47; 647996.40, 3315264.43; 647994.79, 3315280.64; 647981.05, 3315289.81; 647969.45, 3315292.68; 647967.66, 3315300.57; 647958.41, 3315304.69; 647947.79, 3315300.07; 647935.88, 3315283.91; 647925.62, 3315280.88; 647912.60, 3315276.98; 647893.13, 3315276.89; 647885.83, 3315282.25; 647894.30, 3315293.17; 647909.32, 3315296.72; 647907.40, 3315309.75; 647912.30, 3315320.18; 647933.77, 3315320.32; 647942.31, 3315328.47; 647956.86, 3315334.38; 647984.67, 3315335.09; 648004.42, 3315324.48; 648033.41, 3315325.61; 648056.06, 3315325.79; 648068.68, 3315329.67; 648075.75, 3315317.56; 648086.79, 3315321.01; 648120.39, 3315312.74; 648176.28, 3315350.62; 648203.53, 3315357.65; 648219.00, 3315358.84; 648230.37, 3315365.07; 648234.50, 3315374.69; 648226.53, 3315376.58; 648211.27, 3315382.93; 648193.11, 3315377.72; 648177.47, 3315383.27; 648153.34, 3315378.69; 648146.42, 3315384.86; 648130.38, 3315374.94; 648111.14, 3315381.20; 648100.15, 3315375.37; 648083.27, 3315382.26; 648060.45, 3315389.43; 648059.15, 3315377.90; 648049.70, 3315374.10; 648032.62, 3315370.55; 648022.32, 3315356.76; 648001.50, 3315362.58; 648019.25, 3315367.78; 648011.11, 3315380.12; 647995.03, 3315382.63; 647972.84, 3315395.54; 647958.81, 3315384.49; 647943.33, 3315398.00

649794.84, 3315534.65; 649802.40, 3315493.45; 649787.27, 3315506.32; 649787.92, 3315522.72; 649789.58, 3315557.88; 649799.35, 3315579.31; 649802.40, 3315493.45

650795.34, 3314800.37; 650443.93, 3315367.88; 650462.96, 3315354.09; 650502.56, 3315344.39; 650530.44, 3315311.00; 650547.01, 3315300.32; 650657.28, 3315200.04; 650718.82, 3315187.33; 650775.47, 3315147.93; 650815.71, 3315112.87; 650872.67, 3315077.05; 650903.23, 3315047.30; 650921.02, 3315051.32; 650963.92, 3315021.08; 650971.11, 3315004.22; 651027.48, 3314975.91; 651071.31, 3314967.50; 651024.79, 3315004.00; 650974.68, 3315036.94; 650953.94, 3315070.39; 650970.05, 3315077.94; 651004.33, 3315042.73; 651063.88, 3314998.65; 651098.03, 3314968.59; 651115.44, 3314956.35; 651139.33, 3314939.11; 651175.32, 3314920.62; 651189.66, 3314919.25; 651201.22, 3314942.02; 651165.14, 3314963.14; 651170.18, 3314969.26; 651108.76, 3315006.98; 651073.11, 3315035.12; 651057.66, 3315053.54; 651042.34, 3315056.19; 651027.16, 3315064.38; 650982.04, 3315104.45; 650948.29, 3315134.02; 650927.31, 3315152.02; 650933.99, 3315151.08; 651041.50, 3315081.72; 651074.84, 3315054.25; 651086.64, 3315057.49; 651096.91, 3315044.28; 651110.41, 3315029.16; 651183.21, 3314980.26; 651199.33, 3314971.55; 651216.82, 3314971.59; 651225.71, 3314965.87; 651232.27, 3314957.71; 651245.96, 3314966.78; 651266.55, 3314970.07; 651274.89, 3314954.43; 651276.59, 3314934.26; 651308.16, 3314927.92; 651330.18, 3314921.73; 651345.18, 3314911.40; 651359.70, 3314888.18; 651377.86, 3314886.88; 651396.32, 3314882.50; 651416.59, 3314867.58; 651390.01, 3314869.77; 651342.08, 3314885.53; 651304.47, 3314904.20; 651261.37, 3314923.17; 651206.62, 3314919.01; 651200.22, 3314904.98; 651166.02, 3314904.45; 651156.53, 3314909.54; 651139.12, 3314900.26; 651139.83, 3314919.31; 651111.10, 3314925.73; 651101.74, 3314925.49; 651086.31, 3314936.66; 651061.18, 3314943.14; 651039.94, 3314936.82; 651033.15, 3314941.10; 651011.64, 3314927.18; 651022.98, 3314917.93; 651089.57, 3314894.24; 651116.11, 3314898.49; 651136.51, 3314908.92; 651136.77, 3314898.62; 651127.22, 3314883.31; 651117.59, 3314871.18; 651127.01, 3314844.46; 651094.10, 3314841.25; 651081.16, 3314865.09; 651055.96, 3314839.88; 651059.76, 3314831.25; 651099.00, 3314819.96; 651120.64, 3314799.82; 651114.88, 3314794.45; 651087.76, 3314804.87; 651039.97, 3314812.12; 651030.34, 3314799.99; 651043.48, 3314796.82; 651048.26, 3314786.23; 651067.15, 3314790.63; 651076.37, 3314788.90; 651089.68, 3314780.75; 651102.82, 3314779.12; 651114.13, 3314787.38; 651126.11, 3314786.17; 651159.40, 3314760.24; 651176.50, 3314758.50; 651184.84, 3314758.72; 651188.07, 3314740.96; 651219.15, 3314722.32; 651244.84, 3314712.66; 651236.88, 3314697.40; 651211.72, 3314701.92; 651203.60, 3314692.99; 651168.88, 3314695.68; 651156.51, 3314700.13; 651139.78, 3314686.69; 651142.82, 3314685.27; 651151.08, 3314685.85; 651146.75, 3314678.62; 651135.41, 3314680.96; 651104.92, 3314680.99; 651104.99, 3314662.87; 651098.75, 3314658.48; 651077.69, 3314673.16; 651077.77, 3314685.13; 651068.95, 3314691.65; 651063.52, 3314683.11; 651053.84, 3314672.96; 651041.57, 3314686.52; 651009.55, 3314695.23; 650997.41, 3314687.79; 650973.68, 3314698.68; 650916.70, 3314719.84; 650874.99, 3314734.24; 650848.51, 3314744.66; 650821.30, 3314751.12; 650808.12, 3314757.74; 650800.01, 3314755.11; 650795.63, 3314753.46; 650797.76, 3314748.00; 650805.46, 3314749.08; 650810.74, 3314750.31; 650815.06, 3314745.35; 650813.65, 3314740.03; 650807.66, 3314740.76; 650805.08, 3314738.05; 650808.25, 3314735.04; 650807.09, 3314731.34; 650791.13, 3314739.24; 650788.38, 3314742.92; 650788.08, 3314745.99; 650785.18, 3314747.24; 650783.51, 3314743.23; 650775.91, 3314746.57; 650775.70, 3314754.94; 650780.57, 3314754.84; 650787.08, 3314750.82; 650790.85, 3314750.03; 650793.90, 3314751.87; 650793.80, 3314756.05; 650777.29, 3314762.30; 650763.41, 3314760.76; 650720.89, 3314791.79; 650694.57, 3314810.95; 650644.70, 3314818.01; 650630.79, 3314817.66; 650614.88, 3314818.05; 650592.90, 3314822.65; 650562.01, 3314833.76; 650531.98, 3314842.52; 650500.10, 3314845.28; 650452.09, 3314873.40; 650414.50, 3314889.25; 650411.95, 3314900.81; 650399.79, 3314906.13; 650394.79, 3314910.50; 650392.21, 3314898.85; 650339.88, 3314909.02; 650329.28, 3314913.35; 650326.06, 3314921.52; 650318.41, 3314926.95; 650305.91, 3314930.38; 650300.02, 3314925.36; 650291.69, 3314927.40; 650290.81, 3314932.63; 650279.15, 3314940.27; 650269.34, 3314951.52; 650275.29, 3314954.17; 650281.18, 3314956.38; 650286.15, 3314953.51; 650290.17, 3314957.73; 650293.97, 3314956.33; 650296.71, 3314952.27; 650298.81, 3314943.33; 650306.36, 3314942.39; 650313.09, 3314943.69; 650324.83, 3314940.61; 650337.72, 3314936.43; 650347.10, 3314929.98; 650355.31, 3314924.88; 650371.34, 3314923.10; 650380.85, 3314923.84; 650387.74, 3314929.01; 650381.04, 3314935.84; 650366.85, 3314941.98; 650359.40, 3314941.48; 650356.32, 3314944.40; 650346.04, 3314949.39; 650348.43, 3314944.20; 650347.77, 3314940.44; 650340.96, 3314942.14; 650335.79, 3314953.26; 650325.71, 3314956.01; 650316.36, 3314948.27; 650311.39, 3314951.52; 650313.43, 3314960.20; 650297.45, 3314967.29; 650292.97, 3314966.05; 650276.85, 3314971.71; 650263.26, 3314966.05; 650251.96, 3314964.58; 650243.24, 3314974.08; 650245.73, 3314980.49; 650240.17, 3314990.92; 650223.68, 3314993.14; 650223.97, 3314981.52; 650232.55, 3314971.24; 650227.70, 3314959.95; 650215.60, 3314956.47; 650207.46, 3314958.00; 650215.05, 3314978.13; 650212.70, 3314987.05; 650224.61, 3314998.45; 650214.39, 3315004.01; 650206.08, 3314996.81; 650174.81, 3315002.15; 650174.08, 3315002.28; 650174.41, 3315002.97; 650200.19, 3315057.15; 650200.88, 3315056.92; 650225.77, 3315048.42; 650235.99, 3315040.67; 650250.31, 3315029.54; 650266.77, 3315013.45; 650307.09, 3315004.97; 650309.80, 3314997.04; 650318.45, 3314992.26; 650331.02, 3314990.58; 650349.75, 3314983.55; 650349.96, 3314975.55; 650361.59, 3314971.35; 650369.57, 3314993.05; 650354.87, 3314999.18; 650346.84, 3314999.47; 650340.25, 3315002.31; 650340.08, 3315009.30; 650322.95, 3315012.37; 650315.32, 3315016.68; 650306.25, 3315018.45; 650310.32, 3315023.73; 650302.94, 3315030.37; 650292.98, 3315027.61; 650284.89, 3315030.41; 650263.88, 3315048.38; 650255.28, 3315051.16; 650244.71, 3315052.89; 650248.59, 3315057.99; 650241.45, 3315062.81; 650232.50, 3315059.59; 650213.10, 3315082.61; 650212.59, 3315083.21; 650217.87, 3315094.45; 650218.44, 3315095.67; 650241.58, 3315081.86; 650247.71, 3315072.97; 650245.82, 3315068.42; 650249.97, 3315063.03; 650254.39, 3315066.64; 650261.44, 3315065.32; 650264.66, 3315056.90; 650276.47, 3315065.70; 650290.89, 3315059.85; 650295.13, 3315041.67; 650304.30, 3315035.90; 650315.41, 3315033.51; 650334.61, 3315028.71; 650353.26, 3315024.95; 650391.97, 3315003.20; 650399.67, 3314992.30; 650418.36, 3314986.96; 650442.33, 3314982.28; 650458.85, 3314978.47; 650467.13, 3314965.46; 650486.72, 3314966.49; 650490.59, 3314960.24; 650486.02, 3314952.20; 650489.87, 3314946.48; 650499.35, 3314948.84; 650509.45, 3314931.12; 650524.61, 3314924.53; 650527.70, 3314914.04; 650561.18, 3314903.60; 650558.03, 3314916.21; 650546.01, 3314916.61; 650541.56, 3314924.96; 650550.42, 3314937.87; 650559.02, 3314933.15; 650564.90, 3314924.14; 650583.55, 3314913.33; 650597.02, 3314911.56; 650605.96, 3314904.35; 650610.50, 3314909.78; 650618.34, 3314907.16; 650616.50, 3314895.84; 650632.78, 3314894.84; 650649.97, 3314886.11; 650654.38, 3314879.18; 650660.05, 3314878.62; 650664.13, 3314885.06; 650671.53, 3314877.15; 650702.05, 3314866.99; 650729.84, 3314857.83; 650723.94, 3314867.54; 650712.50, 3314872.89; 650713.75, 3314879.27; 650710.80, 3314884.13; 650702.43, 3314879.69; 650691.75, 3314882.94; 650691.78, 3314892.50; 650687.17, 3314896.21; 650664.43, 3314901.28; 650641.43, 3314916.20; 650628.77, 3314913.77; 650621.62, 3314917.11; 650606.43, 3314930.82; 650594.19, 3314939.68; 650576.44, 3314942.75; 650570.46, 3314955.99; 650560.51, 3314957.85; 650550.82, 3314949.86; 650542.36, 3314948.94; 650543.99, 3314940.52; 650537.14, 3314931.89; 650522.11, 3314939.27; 650519.13, 3314945.53; 650532.87, 3314979.68; 650514.25, 3315008.54; 650490.06, 3315001.98; 650482.77, 3315017.65; 650455.01, 3315025.41; 650446.27, 3315035.76; 650415.65, 3315051.90; 650391.47, 3315053.41; 650367.31, 3315065.48; 650357.84, 3315074.22; 650367.22, 3315080.80; 650346.00, 3315090.71; 650308.94, 3315109.99; 650302.24, 3315114.04; 650305.31, 3315118.35; 650319.65, 3315114.85; 650358.80, 3315099.09; 650393.47, 3315080.34; 650422.13, 3315068.95; 650446.73, 3315057.44; 650479.64, 3315038.07; 650492.10, 3315026.26; 650524.51, 3315011.92; 650567.46, 3314990.45; 650576.97, 3314978.00; 650581.35, 3314972.47; 650582.99, 3314963.35; 650597.19, 3314960.89; 650615.31, 3314943.03; 650620.71, 3314953.03; 650617.69, 3314960.71; 650610.63, 3314960.53; 650600.42, 3314972.96; 650586.80, 3314980.36; 650578.20, 3314985.08; 650584.38, 3314992.28; 650619.37, 3314969.97; 650643.65, 3314959.46; 650653.41, 3314950.96; 650659.09, 3314950.85; 650665.41, 3314945.60; 650654.47, 3314939.67; 650662.67, 3314931.39; 650671.03, 3314927.48; 650679.09, 3314925.11; 650679.51, 3314928.72; 650683.66, 3314928.06; 650690.30, 3314920.51; 650710.45, 3314909.44; 650723.34, 3314909.51; 650722.55, 3314900.22; 650718.34, 3314896.83; 650712.35, 3314895.33; 650712.19, 3314891.47; 650721.56, 3314888.11; 650734.86, 3314882.52; 650738.33, 3314878.24; 650744.28, 3314877.36; 650749.15, 3314878.77; 650758.27, 3314875.40; 650756.31, 3314871.23; 650750.06, 3314863.10; 650737.17, 3314852.48; 650756.58, 3314850.40; 650758.83, 3314853.29; 650766.10, 3314851.41; 650765.75, 3314854.75; 650762.91, 3314855.19; 650762.27, 3314860.06; 650766.02, 3314864.79; 650771.04, 3314870.32; 650783.28, 3314865.74; 650804.79, 3314861.91; 650813.26, 3314863.66; 650816.94, 3314871.22; 650816.06, 3314875.31; 650812.15, 3314877.01; 650809.64, 3314874.12; 650802.16, 3314874.19; 650801.33, 3314876.77; 650795.33, 3314878.91; 650790.68, 3314879.05; 650784.40, 3314882.49; 650784.30, 3314886.60; 650785.25, 3314889.97; 650774.66, 3314890.22; 650763.06, 3314889.93; 650761.90, 3314894.78; 650748.63, 3314899.34; 650743.62, 3314903.59; 650736.65, 3314913.96; 650734.87, 3314902.59; 650731.55, 3314901.22; 650729.44, 3314902.97; 650727.68, 3314911.42; 650719.51, 3314918.41; 650714.30, 3314920.34; 650714.28, 3314931.14; 650702.92, 3314941.66; 650692.56, 3314943.20; 650679.89, 3314954.46; 650685.60, 3314960.54; 650703.10, 3314960.19; 650717.36, 3314962.14; 650734.16, 3314950.01; 650748.17, 3314948.21; 650756.55, 3314937.36; 650767.67, 3314937.64; 650778.68, 3314926.82; 650798.93, 3314927.73; 650804.80, 3314915.59; 650819.27, 3314909.22; 650856.74, 3314889.55; 650857.34, 3314881.64; 650864.02, 3314884.58; 650876.88, 3314878.96; 650893.56, 3314879.78; 650914.77, 3314858.51; 650944.94, 3314844.61; 650979.15, 3314827.63; 650998.33, 3314823.76; 650999.57, 3314832.65; 651011.76, 3314830.39; 651000.66, 3314840.52; 650993.72, 3314844.31; 650991.62, 3314849.48; 651002.37, 3314852.80; 651016.02, 3314847.59; 650974.02, 3314888.94; 650992.75, 3314887.43; 651012.75, 3314866.53; 651039.19, 3314845.89; 651067.08, 3314871.87; 651051.92, 3314874.59; 651010.80, 3314884.01; 651003.58, 3314900.03; 650986.63, 3314906.92; 650959.98, 3314924.54; 650953.43, 3314934.83; 650918.78, 3314951.89; 650916.21, 3314934.93; 650930.14, 3314922.74; 650942.70, 3314923.58; 650942.95, 3314913.65; 650938.31, 3314910.92; 650920.34, 3314916.74; 650918.07, 3314923.48; 650907.85, 3314933.68; 650903.19, 3314931.47; 650908.64, 3314923.24; 650907.39, 3314910.67; 650892.85, 3314925.98; 650885.47, 3314930.62; 650878.06, 3314930.31; 650870.48, 3314940.05; 650877.17, 3314944.92; 650882.97, 3314943.50; 650893.45, 3314964.15; 650860.55, 3314980.04; 650846.37, 3314981.25; 650833.49, 3314991.63; 650775.93, 3315030.16; 650765.31, 3315036.18; 650768.67, 3315027.38; 650778.80, 3315020.84; 650776.86, 3315014.52; 650764.80, 3315014.74; 650756.49, 3315011.91; 650758.37, 3315020.32; 650750.80, 3315029.54; 650743.86, 3315034.59; 650755.20, 3315042.20; 650722.96, 3315055.04; 650735.63, 3315065.39; 650714.84, 3315077.42; 650730.57, 3315084.16; 650716.76, 3315090.36; 650703.99, 3315097.87; 650693.75, 3315093.94; 650612.31, 3315154.91; 650600.83, 3315155.90; 650574.01, 3315180.31; 650538.44, 3315198.23; 650514.42, 3315221.41; 650511.31, 3315234.65; 650520.85, 3315230.19; 650550.69, 3315211.08; 650569.93, 3315196.41; 650592.24, 3315184.95; 650618.39, 3315166.27; 650632.78, 3315157.23; 650641.75, 3315154.84; 650637.40, 3315161.00; 650614.49, 3315175.58; 650590.37, 3315196.40; 650570.68, 3315208.45; 650539.20, 3315230.13; 650516.49, 3315245.89; 650465.32, 3315272.40; 650432.70, 3315293.47; 650422.48, 3315281.29; 650408.49, 3315273.07; 650392.60, 3315277.39; 650374.35, 3315291.61; 650360.58, 3315295.46; 650323.43, 3315315.68; 650326.65, 3315322.47; 650336.83, 3315318.99; 650354.96, 3315309.48; 650373.51, 3315304.18; 650389.90, 3315300.92; 650408.01, 3315291.94; 650419.14, 3315288.55; 650419.46, 3315299.72; 650390.45, 3315313.41; 650338.63, 3315347.90; 650338.03, 3315348.30; 650354.01, 3315381.70; 650354.39, 3315381.28; 650372.52, 3315361.27; 650384.53, 3315348.04; 650392.10, 3315348.23; 650400.55, 3315350.96; 650403.73, 3315350.10; 650405.12, 3315345.10; 650399.88, 3315340.25; 650406.72, 3315331.61; 650417.51, 3315329.36; 650426.79, 3315324.25; 650435.95, 3315332.18; 650436.86, 3315338.03; 650431.32, 3315344.82; 650431.46, 3315352.06; 650436.35, 3315358.16; 650430.98, 3315358.34; 650425.54, 3315348.76; 650414.83, 3315348.18; 650408.95, 3315355.90; 650400.95, 3315360.10; 650397.63, 3315354.35; 650392.03, 3315351.06; 650388.26, 3315350.34; 650388.75, 3315356.02; 650389.18, 3315363.90; 650383.22, 3315376.01; 650376.85, 3315377.12; 650360.68, 3315394.61; 650360.16, 3315395.18; 650367.58, 3315410.91; 650368.11, 3315412.03; 650411.92, 3315376.19; 650443.93, 3315367.88; 650830.68, 3314832.54; 650826.00, 3314839.30; 650819.96, 3314843.17; 650818.35, 3314841.00; 650815.28, 3314839.97; 650809.77, 3314841.73; 650802.90, 3314840.85; 650801.03, 3314839.61; 650800.34, 3314838.65; 650797.17, 3314832.41; 650796.86, 3314826.00; 650798.22, 3314819.16; 650801.69, 3314813.56; 650809.13, 3314810.67; 650813.13, 3314812.43; 650815.94, 3314813.92; 650817.80, 3314815.63; 650817.48, 3314818.94; 650817.85, 3314823.21; 650823.78, 3314823.60; 650829.10, 3314819.94; 650832.06, 3314815.51; 650831.45, 3314811.47; 650828.60, 3314811.40; 650825.20, 3314814.39; 650819.97, 3314814.50; 650819.55, 3314812.11; 650819.70, 3314806.43; 650823.59, 3314802.97; 650829.53, 3314802.89; 650831.96, 3314800.81; 650835.14, 3314797.10; 650836.75, 3314799.51; 650840.83, 3314797.72; 650842.50, 3314797.76; 650849.64, 3314797.23; 650855.56, 3314798.09; 650861.03, 3314797.99; 650864.53, 3314800.69; 650864.44, 3314804.24; 650861.09, 3314805.11; 650857.71, 3314807.15; 650854.98, 3314811.59; 650853.03, 3314813.67; 650854.64, 3314815.84; 650858.90, 3314816.19; 650861.78, 3314815.31; 650862.35, 3314811.54; 650866.44, 3314809.51; 650869.80, 3314808.41; 650871.08, 3314804.65; 650868.77, 3314802.22; 650868.11, 3314799.83; 650868.92, 3314796.06; 650869.46, 3314793.47; 650869.11, 3314788.72; 650873.93, 3314786.00; 650878.97, 3314784.23; 650879.51, 3314781.40; 650884.26, 3314781.75; 650887.61, 3314780.65; 650892.44, 3314777.69; 650892.29, 3314774.37; 650897.77, 3314773.56; 650898.54, 3314771.69; 650901.38, 3314771.99; 650902.52, 3314773.92; 650907.07, 3314772.37; 650908.58, 3314769.09; 650912.39, 3314768.95; 650920.48, 3314768.68; 650923.79, 3314769.24; 650927.90, 3314766.74; 650928.69, 3314763.68; 650933.72, 3314762.15; 650935.21, 3314759.34; 650936.76, 3314754.40; 650941.84, 3314751.21; 650946.18, 3314748.71; 650946.84, 3314750.63; 650946.54, 3314753.23; 650951.05, 3314753.34; 650954.92, 3314750.59; 650955.07, 3314754.39; 650957.86, 3314756.59; 650962.39, 3314756.00; 650962.73, 3314751.98; 650958.96, 3314750.70; 650958.10, 3314747.36; 650963.39, 3314744.65; 650968.93, 3314741.70; 650969.56, 3314745.04; 650970.95, 3314746.50; 650977.21, 3314743.57; 650984.44, 3314739.49; 650989.71, 3314737.73; 650993.10, 3314735.44; 650995.46, 3314736.21; 650998.48, 3314738.66; 651000.03, 3314743.20; 650996.57, 3314748.33; 650992.04, 3314748.92; 650989.24, 3314746.96; 650986.42, 3314745.70; 650982.55, 3314748.21; 650978.71, 3314750.01; 650974.57, 3314753.93; 650973.30, 3314756.98; 650977.82, 3314756.86; 650977.98, 3314759.94; 650972.88, 3314764.32; 650969.56, 3314764.00; 650964.13, 3314762.68; 650956.51, 3314762.96; 650951.70, 3314765.44; 650944.84, 3314766.17; 650943.69, 3314767.91; 650939.86, 3314770.67; 650933.27, 3314770.43; 650927.34, 3314770.04; 650923.51, 3314771.13; 650922.73, 3314773.72; 650919.08, 3314776.94; 650914.51, 3314778.96; 650909.51, 3314779.55; 650902.51, 3314783.87; 650899.89, 3314786.85; 650894.62, 3314785.84; 650893.10, 3314789.09; 650893.70, 3314793.60; 650890.54, 3314796.37; 650887.73, 3314794.88; 650887.79, 3314792.27; 650882.96, 3314792.38; 650875.82, 3314794.84; 650872.67, 3314798.29; 650874.47, 3314802.13; 650878.03, 3314802.45; 650878.16, 3314806.48; 650874.31, 3314808.52; 650868.04, 3314812.15; 650861.95, 3314817.93; 650853.56, 3314820.79; 650845.95, 3314821.08; 650837.29, 3314824.89; 650833.17, 3314828.10; 650830.68, 3314832.54; 650490.62, 3315296.59; 650488.32, 3315287.72; 650489.99, 3315283.98; 650494.20, 3315279.68; 650500.29, 3315276.06; 650507.62, 3315273.41; 650513.90, 3315274.83; 650520.18, 3315275.93; 650527.80, 3315274.24; 650529.26, 3315278.99; 650528.51, 3315283.69; 650530.91, 3315288.48; 650527.88, 3315295.95; 650519.58, 3315299.52; 650512.67, 3315298.40; 650506.59, 3315301.71; 650502.75, 3315303.50; 650499.32, 3315302.16; 650495.87, 3315301.13; 650490.62, 3315296.59; 651007.91, 3314737.11; 651004.09, 3314735.21; 651001.93, 3314728.73; 651005.64, 3314724.96; 651008.47, 3314725.03; 651005.78, 3314729.60; 651008.04, 3314731.71; 651013.25, 3314729.78; 651016.62, 3314729.35; 651019.92, 3314731.24; 651027.96, 3314729.90; 651032.38, 3314728.47; 651034.28, 3314724.66; 651034.87, 3314721.84; 651036.95, 3314721.38; 651038.90, 3314725.54; 651043.54, 3314725.92; 651048.48, 3314724.24; 651052.46, 3314720.23; 651055.86, 3314718.25; 651056.81, 3314721.62; 651056.68, 3314726.76; 651051.71, 3314729.21; 651044.63, 3314733.92; 651035.48, 3314738.32; 651030.29, 3314739.73; 651020.72, 3314740.52; 651013.26, 3314739.82; 651007.91, 3314737.11; 650813.39, 3314899.17; 650810.00, 3314900.63; 650804.62, 3314899.21; 650800.74, 3314899.62; 650798.12, 3314901.10; 650795.17, 3314905.66; 650792.28, 3314907.64; 650789.33, 3314911.94; 650785.12, 3314915.44; 650779.17, 3314916.06; 650771.15, 3314916.89; 650766.53, 3314915.74; 650766.38, 3314911.62; 650769.54, 3314909.13; 650775.74, 3314908.77; 650776.58, 3314906.22; 650779.47, 3314904.23; 650783.85, 3314904.34; 650786.81, 3314899.53; 650790.69, 3314899.11; 650796.93, 3314897.21; 650802.91, 3314895.56; 650815.20, 3314888.93; 650814.53, 3314895.08; 650813.39, 3314899.17; 650753.12, 3314925.69; 650750.13, 3314931.79; 650747.47, 3314934.81; 650741.48, 3314937.23; 650736.45, 3314942.00; 650731.26, 3314943.41; 650726.60, 3314943.81; 650723.30, 3314941.66; 650723.97, 3314935.76; 650729.47, 3314932.56; 650734.39, 3314931.65; 650735.26, 3314928.07; 650738.66, 3314926.10; 650743.07, 3314925.18; 650745.75, 3314921.39; 650748.60, 3314920.95; 650752.77, 3314919.25; 650754.52, 3314921.61; 650753.12, 3314925.69; 650929.45, 3314829.81; 650925.28, 3314831.25; 650918.33, 3314830.56; 650914.12, 3314834.05; 650910.44, 3314836.79; 650906.05, 3314836.68; 650903.54, 3314834.04; 650905.49, 3314828.17; 650908.92, 3314825.17; 650915.69, 3314822.77; 650921.68, 3314820.61; 650924.60, 3314817.59; 650927.42, 3314818.18; 650927.60, 3314821.27; 650930.67, 3314822.12; 650931.34, 3314826.25; 650929.45, 3314829.81; 650946.16, 3314801.41; 650952.14, 3314799.76; 650959.10, 3314799.94; 650963.01, 3314798.24; 650966.41, 3314796.78; 650968.88, 3314800.96; 650968.82, 3314803.27; 650963.84, 3314806.23; 650958.43, 3314806.10; 650956.32, 3314807.85; 650956.76, 3314810.94; 650952.05, 3314813.40; 650946.64, 3314813.26; 650943.85, 3314811.39; 650941.09, 3314808.23; 650941.71, 3314804.13; 650946.16, 3314801.41; 650751.24, 3315099.75; 650765.02, 3315089.39; 650787.73, 3315055.88; 650822.00, 3315036.92; 650844.96, 3315025.22; 650875.15, 3315010.12; 650918.57, 3314975.15; 650990.91, 3314944.07; 651000.03, 3314936.64; 651027.18, 3314948.06; 651010.94, 3314955.65; 651005.86, 3314962.63; 650998.52, 3314970.89; 650983.40, 3314969.62; 650959.61, 3314983.18; 650946.01, 3314997.11; 650935.07, 3314994.62; 650919.93, 3315001.21; 650913.50, 3315018.62; 650902.47, 3315020.85; 650893.13, 3315013.21; 650876.25, 3315029.14; 650846.78, 3315048.40; 650816.56, 3315063.34; 650789.81, 3315062.96; 650760.48, 3315099.61; 650759.96, 3315100.76; 650759.47, 3315100.78; 650751.24, 3315099.75 650262.01, 3315123.90; 650291.10, 3315122.21; 650293.24, 3315102.06; 650231.46, 3315121.71; 650230.78, 3315121.93; 650240.58, 3315142.74; 650241.21, 3315144.07; 650258.29, 3315137.55; 650291.10, 3315122.21

650083.75, 3315494.04; 649893.53, 3315600.96; 649901.53, 3315599.05; 649939.11, 3315601.05; 649948.24, 3315596.53; 649960.19, 3315585.20; 649982.51, 3315582.60; 649998.95, 3315578.23; 650094.64, 3315535.45; 650147.89, 3315520.55; 650152.78, 3315511.95; 650162.30, 3315512.71; 650191.75, 3315500.77; 650201.65, 3315486.75; 650226.96, 3315490.83; 650258.45, 3315471.41; 650319.39, 3315435.29; 650334.46, 3315432.50; 650358.38, 3315418.44; 650367.58, 3315410.91; 650368.15, 3315410.44; 650360.68, 3315394.61; 650354.39, 3315381.28; 650338.63, 3315347.90; 650338.07, 3315346.71; 650337.12, 3315347.34; 650286.94, 3315366.69; 650167.58, 3315433.84; 650123.06, 3315433.51; 650037.21, 3315464.64; 649942.84, 3315486.43; 649924.63, 3315482.30; 649913.35, 3315487.60; 649885.24, 3315488.71; 649863.84, 3315496.62; 649831.87, 3315503.21; 649803.15, 3315492.82; 649802.40, 3315493.45; 649799.35, 3315579.31; 649802.38, 3315585.95; 649824.27, 3315594.46; 649868.68, 3315598.75; 649889.14, 3315607.19; 649893.53, 3315600.96

650026.70, 3315109.17; 649812.15, 3315231.74; 649846.73, 3315226.60; 649888.12, 3315229.78; 649927.67, 3315222.05; 649984.94, 3315209.88; 650021.49, 3315206.76; 650058.35, 3315191.53; 650073.85, 3315194.83; 650110.99, 3315172.38; 650121.34, 3315171.85; 650141.34, 3315182.66; 650159.45, 3315189.46; 650170.38, 3315181.80; 650171.48, 3315169.54; 650217.55, 3315151.54; 650240.58, 3315142.74; 650241.25, 3315142.49; 650231.46, 3315121.71; 650230.82, 3315120.34; 650205.52, 3315128.39; 650166.55, 3315144.45; 650142.70, 3315144.64; 650126.16, 3315139.72; 650134.92, 3315128.32; 650153.12, 3315121.38; 650179.78, 3315115.18; 650203.41, 3315103.09; 650217.87, 3315094.45; 650218.48, 3315094.09; 650213.10, 3315082.61; 650212.63, 3315081.62; 650200.88, 3315056.92; 650174.81, 3315002.15; 650174.45, 3315001.39; 650174.12, 3315000.69; 650173.78, 3315000.75; 650141.35, 3314993.99; 650116.08, 3315003.26; 650097.95, 3314996.86; 650079.63, 3315013.84; 650058.62, 3315011.72; 650033.93, 3315013.48; 649988.17, 3315015.10; 649983.43, 3315028.97; 650002.13, 3315028.92; 649996.61, 3315043.06; 649974.87, 3315054.00; 649931.63, 3315065.99; 649890.88, 3315074.59; 649880.99, 3315088.61; 649858.14, 3315095.45; 649849.55, 3315088.41; 649829.82, 3315099.10; 649817.14, 3315100.29; 649812.15, 3315231.74

649974.74, 3314867.18; 649887.54, 3315033.17; 649903.06, 3315016.91; 649928.55, 3315033.49; 649951.63, 3315013.78; 649955.22, 3314997.62; 649969.26, 3314976.96; 650006.49, 3314982.66; 650026.21, 3314957.39; 650034.53, 3314989.71; 650058.54, 3314983.57; 650083.37, 3314973.67; 650075.41, 3314961.01; 650087.48, 3314939.51; 650116.36, 3314929.14; 650120.52, 3314906.26; 650129.92, 3314908.18; 650130.79, 3314908.36; 650129.45, 3314905.51; 650045.18, 3314728.35; 650044.56, 3314727.04; 649965.62, 3314760.42; 649828.47, 3314804.48; 649818.69, 3315059.73; 649838.67, 3315079.50; 649837.11, 3315062.42; 649862.35, 3315038.87; 649887.54, 3315033.17

650775.30, 3314556.18; 650437.60, 3314801.69; 650455.95, 3314779.14; 650500.56, 3314780.29; 650543.08, 3314765.11; 650581.08, 3314755.76; 650626.86, 3314737.49; 650675.27, 3314709.38; 650719.36, 3314695.04; 650740.14, 3314691.71; 650756.11, 3314688.94; 650767.48, 3314679.19; 650787.77, 3314673.36; 650810.70, 3314668.12; 650821.90, 3314648.87; 650853.66, 3314650.46; 650882.06, 3314643.65; 650899.84, 3314632.21; 650927.24, 3314628.78; 650933.41, 3314615.20; 650950.21, 3314620.79; 650975.44, 3314629.36; 650997.62, 3314616.84; 651034.11, 3314620.14; 651049.14, 3314607.44; 651077.53, 3314632.33; 651092.73, 3314628.36; 651111.55, 3314638.74; 651106.98, 3314646.53; 651117.13, 3314644.15; 651125.72, 3314639.61; 651134.41, 3314631.37; 651140.56, 3314639.98; 651159.33, 3314635.59; 651197.58, 3314669.43; 651217.58, 3314675.22; 651225.03, 3314663.01; 651245.97, 3314651.13; 651223.72, 3314638.94; 651220.81, 3314635.12; 651223.56, 3314630.31; 651219.30, 3314620.45; 651213.71, 3314618.44; 651215.69, 3314614.36; 651223.63, 3314612.69; 651224.95, 3314605.22; 651222.03, 3314601.77; 651218.85, 3314593.44; 651236.20, 3314591.63; 651238.70, 3314581.94; 651245.73, 3314571.62; 651251.72, 3314572.52; 651263.78, 3314571.70; 651264.67, 3314566.10; 651242.07, 3314567.78; 651241.88, 3314560.28; 651248.32, 3314558.56; 651249.61, 3314552.22; 651253.64, 3314556.45; 651263.71, 3314559.70; 651278.52, 3314554.08; 651302.16, 3314541.17; 651309.66, 3314527.11; 651314.64, 3314508.49; 651275.52, 3314509.00; 651272.57, 3314506.68; 651261.26, 3314507.89; 651241.11, 3314516.38; 651229.94, 3314511.98; 651218.33, 3314510.18; 651202.48, 3314512.41; 651180.98, 3314514.86; 651154.15, 3314520.19; 651114.97, 3314522.95; 651098.71, 3314526.29; 651091.30, 3314521.97; 651088.05, 3314516.64; 651075.49, 3314522.70; 651064.55, 3314523.92; 651061.82, 3314527.61; 651038.09, 3314529.26; 651030.15, 3314516.31; 651032.23, 3314508.11; 651040.97, 3314504.58; 651046.45, 3314511.09; 651072.69, 3314514.38; 651082.56, 3314510.50; 651098.61, 3314500.41; 651115.34, 3314493.33; 651132.64, 3314493.39; 651135.50, 3314499.09; 651125.58, 3314504.84; 651111.51, 3314510.86; 651107.23, 3314516.75; 651114.72, 3314517.69; 651126.47, 3314514.24; 651139.52, 3314503.69; 651148.65, 3314499.80; 651149.95, 3314492.71; 651158.19, 3314494.04; 651168.40, 3314492.05; 651165.95, 3314499.49; 651159.10, 3314502.69; 651153.77, 3314505.18; 651149.49, 3314511.07; 651153.20, 3314513.04; 651168.72, 3314508.93; 651176.64, 3314508.00; 651187.64, 3314504.16; 651198.89, 3314505.57; 651222.71, 3314500.54; 651237.61, 3314506.17; 651253.53, 3314501.32; 651280.57, 3314502.75; 651288.11, 3314501.82; 651299.59, 3314493.86; 651293.71, 3314488.46; 651288.54, 3314484.96; 651288.70, 3314478.59; 651283.30, 3314469.07; 651284.39, 3314455.60; 651296.96, 3314449.54; 651301.04, 3314451.52; 651300.85, 3314459.02; 651304.01, 3314468.10; 651309.58, 3314470.86; 651314.91, 3314468.37; 651323.17, 3314468.58; 651325.24, 3314461.13; 651334.63, 3314461.75; 651363.90, 3314449.36; 651367.87, 3314455.84; 651356.76, 3314463.80; 651346.98, 3314463.93; 651344.62, 3314468.00; 651350.25, 3314483.51; 651360.57, 3314491.65; 651359.57, 3314501.37; 651350.54, 3314501.90; 651343.39, 3314501.72; 651341.27, 3314511.41; 651330.21, 3314532.13; 651309.19, 3314560.47; 651286.30, 3314573.40; 651264.50, 3314587.85; 651252.79, 3314589.80; 651243.18, 3314598.18; 651230.68, 3314616.62; 651228.84, 3314629.69; 651233.10, 3314639.55; 651251.61, 3314649.41; 651275.94, 3314673.00; 651291.71, 3314678.15; 651318.87, 3314651.89; 651333.07, 3314635.33; 651349.27, 3314622.94; 651365.43, 3314644.36; 651374.90, 3314661.01; 651408.78, 3314649.51; 651425.80, 3314645.34; 651429.84, 3314643.61; 651440.92, 3314641.64; 651448.44, 3314639.79; 651448.35, 3314640.31; 651455.95, 3314638.96; 651452.25, 3314643.74; 651462.66, 3314644.00; 651464.96, 3314640.21; 651466.82, 3314632.01; 651473.54, 3314628.06; 651483.49, 3314626.66; 651496.16, 3314627.26; 651503.34, 3314626.62; 651506.09, 3314626.50; 651502.68, 3314612.56; 651491.08, 3314573.93; 651474.25, 3314586.04; 651467.85, 3314587.47; 651457.34, 3314584.03; 651442.07, 3314517.05; 651450.15, 3314511.97; 651459.65, 3314513.80; 651466.07, 3314511.32; 651470.58, 3314505.58; 651446.59, 3314425.64; 651431.54, 3314344.79; 651360.98, 3314349.58; 651301.83, 3314341.21; 651205.54, 3314355.17; 651111.26, 3314373.40; 650992.04, 3314393.11; 650860.74, 3314408.30; 650725.02, 3314451.38; 650637.55, 3314493.57; 650475.07, 3314547.08; 650401.15, 3314577.98; 650313.19, 3314618.57; 650205.50, 3314664.47; 650117.73, 3314697.67; 650045.18, 3314728.35; 650044.52, 3314728.63; 650129.41, 3314907.09; 650129.92, 3314908.18; 650130.75, 3314909.94; 650146.98, 3314913.27; 650166.36, 3314916.93; 650189.16, 3314895.70; 650208.91, 3314885.10; 650278.63, 3314863.08; 650302.70, 3314854.57; 650354.92, 3314833.29; 650437.60, 3314801.69; 651441.63, 3314492.73; 651433.14, 3314493.04; 651431.22, 3314485.07; 651428.26, 3314476.54; 651434.70, 3314473.53; 651446.97, 3314470.14; 651452.97, 3314484.56; 651441.63, 3314492.73; 651002.03, 3314527.60; 650998.32, 3314525.63; 650996.56, 3314521.08; 651003.00, 3314519.00; 651011.25, 3314519.95; 651017.61, 3314521.24; 651024.74, 3314521.79; 651024.28, 3314525.16; 651017.80, 3314528.74; 651009.53, 3314528.53; 651002.03, 3314527.60; 650958.34, 3314530.24; 650954.31, 3314526.02; 650950.61, 3314523.67; 650944.85, 3314528.40; 650936.18, 3314529.31; 650934.80, 3314524.40; 650940.18, 3314519.66; 650945.44, 3314519.79; 650951.92, 3314516.58; 650957.61, 3314514.47; 650965.90, 3314513.93; 650975.29, 3314514.55; 650980.48, 3314517.30; 650987.48, 3314523.10; 650987.77, 3314526.49; 650980.62, 3314526.68; 650970.85, 3314526.43; 650967.78, 3314528.98; 650966.53, 3314533.45; 650962.40, 3314533.34; 650958.34, 3314530.24.

(iii) Note: Map 2, Unit 1 of St. Andrew beach mouse, follows:

BILLING CODE 4310-55-P

BILLING CODE 4310-55-C

(7) SABM—Unit 2: Palm Point Unit, Gulf County, Florida.

(i) General Description: This unit encompasses habitat from Palm Point 1.25 mi northwest of the inlet of the Gulf County Canal to St. Joe Beach and the area from the MHWL to the seaward extent of the maritime forest.

(ii) Coordinates: From USGS 1:24,000 quadrangle maps Overstreet, and Port St. Joe, Florida, land bounded by the following UTM 16 NAD 83 coordinates (E,N): 659796.42, 3305196.68; 660977.54, 3303039.87; 660962.56, 3303050.59; 660949.61, 3303043.92; 660956.68, 3303031.81; 660969.13, 3303021.38; 660972.15, 3303012.34; 660978.45, 3303014.48; 660996.83, 3303000.32; 661011.71, 3302993.56; 661029.63, 3302976.97; 661040.82, 3302974.48; 661053.42, 3302963.70; 661062.63, 3302961.16; 661080.73, 3302952.89; 661093.77, 3302940.14; 661102.14, 3302939.56; 661128.09, 3302935.06; 661143.07, 3302924.34; 661155.47, 3302921.49; 661164.38, 3302914.97; 661222.28, 3302904.94; 661239.90, 3302899.84; 661258.68, 3302896.35; 661265.47, 3302894.93; 661295.59, 3302898.86; 661299.02, 3302889.04; 661306.92, 3302890.83; 661317.34, 3302887.52; 661326.72, 3302862.79; 661288.04, 3302870.49; 661224.73, 3302886.77; 661147.52, 3302908.95; 661107.38, 3302924.19; 661065.22, 3302940.57; 660989.51, 3302991.02; 660940.64, 3303021.49; 660908.90, 3303053.55; 660840.82, 3303120.00; 660798.16, 3303168.52; 660741.91, 3303242.36; 660727.87, 3303263.02; 660705.44, 3303316.76; 660632.82, 3303405.69; 660570.32, 3303503.21; 660536.64, 3303545.56; 660509.67, 3303574.61; 660449.97, 3303671.40; 660370.89, 3303764.14; 660279.09, 3303888.26; 660182.87, 3304014.26; 660131.41, 3304099.77; 660089.85, 3304186.32; 660063.06, 3304270.86; 660014.03, 3304433.33; 659983.08, 3304556.22; 659943.60, 3304686.82; 659898.04, 3304821.62; 659832.70, 3304968.62; 659798.66, 3305088.26; 659757.46, 3305223.57; 659716.38, 3305354.53; 659674.84, 3305487.45; 659626.78, 3305611.50; 659551.13, 3305772.89; 659470.72, 3305902.46; 659419.27, 3306018.89; 659330.07, 3306181.53; 659299.31, 3306250.12; 659250.20, 3306368.58; 659217.01, 3306438.70; 659177.94, 3306521.74; 659155.42, 3306594.51; 659107.55, 3306648.00; 659045.42, 3306746.71; 658975.27, 3306863.85; 658934.56, 3306917.13; 658883.34, 3307008.59; 658845.43, 3307077.00; 658814.08, 3307137.65; 658796.12, 3307171.68; 658761.89, 3307236.22; 658699.43, 3307347.61; 658641.08, 3307485.66; 658618.49, 3307545.34; 658576.59, 3307661.61; 658498.20, 3307837.21; 658453.55, 3307952.22; 658387.87, 3308080.97; 658359.61, 3308113.95; 658316.82, 3308186.59; 658266.12, 3308273.31; 658312.81, 3308297.88; 658357.07, 3308228.19; 658340.36, 3308214.15; 658342.10, 3308208.25; 658351.38, 3308202.93; 658367.72, 3308211.43; 658381.95, 3308189.03; 658417.46, 3308136.82; 658393.96, 3308122.75; 658385.30, 3308119.36; 658400.65, 3308093.98; 658407.82, 3308093.37; 658420.01, 3308098.83; 658435.08, 3308100.40; 658524.07, 3307961.93; 658615.60, 3307816.78; 658690.00, 3307689.05; 658778.02, 3307541.44; 658850.63, 3307405.73; 658901.14, 3307326.54; 658892.91, 3307321.97; 658875.12, 3307317.95; 658863.56, 3307319.24; 658853.93, 3307322.57; 658844.02, 3307305.67; 658845.59, 3307291.04; 658852.42, 3307272.19; 658848.28, 3307263.36; 658848.41, 3307249.11; 658835.09, 3307241.24; 658820.50, 3307229.76; 658833.67, 3307234.47; 658849.15, 3307244.36; 658852.04, 3307255.93; 658855.17, 3307257.99; 658868.54, 3307248.02; 658873.60, 3307236.65; 658873.37, 3307214.45; 658878.27, 3307209.42; 658887.95, 3307203.72; 658891.42, 3307192.31; 658894.18, 3307184.47; 658898.22, 3307181.80; 658889.58, 3307208.93; 658882.11, 3307230.13; 658874.47, 3307249.36; 658864.70, 3307258.23; 658861.28, 3307274.81; 658854.47, 3307285.72; 658853.87, 3307300.38; 658864.54, 3307303.03; 658872.16, 3307309.15; 658878.91, 3307309.33; 658889.07, 3307300.86; 658895.24, 3307292.69; 658900.67, 3307297.98; 658910.47, 3307303.38; 658937.87, 3307257.70; 658991.03, 3307152.02; 659047.09, 3307042.05; 659077.93, 3306986.15; 659090.78, 3306965.07; 659123.34, 3306904.06; 659158.85, 3306820.52; 659179.95, 3306763.20; 659183.84, 3306751.01; 659185.09, 3306741.91; 659195.63, 3306725.15; 659183.92, 3306716.53; 659181.43, 3306720.43; 659174.64, 3306721.84; 659161.51, 3306715.55; 659157.78, 3306705.94; 659164.34, 3306704.54; 659180.24, 3306713.64; 659187.57, 3306713.45; 659197.67, 3306722.82; 659216.24, 3306705.04; 659192.41, 3306672.73; 659180.57, 3306653.80; 659176.04, 3306635.07; 659196.02, 3306615.36; 659197.84, 3306637.60; 659199.30, 3306642.79; 659215.39, 3306635.67; 659225.83, 3306640.28; 659220.50, 3306646.88; 659224.20, 3306657.67; 659229.51, 3306651.86; 659254.62, 3306618.01; 659290.58, 3306548.36; 659358.41, 3306412.93; 659387.11, 3306347.06; 659386.68, 3306332.78; 659387.86, 3306317.75; 659396.59, 3306302.51; 659394.90, 3306297.73; 659384.52, 3306299.45; 659378.89, 3306310.78; 659371.60, 3306322.90; 659359.86, 3306324.18; 659356.59, 3306318.96; 659359.55, 3306305.14; 659368.09, 3306281.97; 659378.19, 3306275.49; 659383.64, 3306264.53; 659392.01, 3306263.55; 659393.23, 3306278.25; 659402.79, 3306277.70; 659410.69, 3306264.02; 659414.47, 3306271.65; 659417.81, 3306265.39; 659418.45, 3306255.50; 659431.70, 3306241.58; 659432.84, 3306236.83; 659462.14, 3306178.91; 659533.70, 3306037.62; 659583.51, 3305923.14; 659645.63, 3305793.51; 659701.75, 3305649.85; 659765.32, 3305494.49; 659812.66, 3305367.65; 659834.31, 3305304.40; 659794.15, 3305304.57; 659798.46, 3305291.60; 659800.40, 3305277.78; 659804.44, 3305275.10; 659810.21, 3305228.86; 659862.80, 3305231.39; 659902.72, 3305108.32; 659927.65, 3305025.32; 659888.22, 3305021.54; 659895.09, 3305008.25; 659896.38, 3304988.46; 659904.84, 3304984.32; 659907.00, 3304961.78; 659912.25, 3304958.34; 659913.27, 3304949.65; 659934.32, 3304950.18; 659944.47, 3304957.57; 659951.23, 3304957.74; 659987.21, 3304848.84; 660038.45, 3304693.56; 660088.68, 3304546.98; 660138.42, 3304403.96; 660145.03, 3304378.36; 660136.80, 3304380.55; 660140.53, 3304367.94; 660137.82, 3304364.70; 660127.00, 3304375.14; 660122.03, 3304382.95; 660114.92, 3304374.43; 660121.64, 3304344.47; 660128.98, 3304337.13; 660137.28, 3304323.46; 660141.93, 3304312.48; 660149.70, 3304303.96; 660155.93, 3304293.41; 660154.37, 3304276.73; 660163.34, 3304258.73; 660167.72, 3304251.70; 660166.79, 3304241.37; 660172.94, 3304233.99; 660181.69, 3304224.71; 660193.59, 3304219.05; 660196.89, 3304230.24; 660187.84, 3304242.29; 660190.10, 3304262.96; 660256.21, 3304132.64; 660311.79, 3304010.37; 660361.84, 3303902.24; 660411.44, 3303843.24; 660447.63, 3303795.40; 660528.34, 3303716.97; 660540.61, 3303703.41; 660532.93, 3303692.52; 660546.31, 3303682.15; 660557.34, 3303670.54; 660556.96, 3303654.28; 660553.23, 3303644.67; 660560.02, 3303627.40; 660574.47, 3303613.11; 660579.99, 3303614.84; 660580.98, 3303623.19; 660587.62, 3303627.72; 660594.96, 3303604.91; 660586.42, 3303596.77; 660582.69, 3303595.87; 660579.41, 3303590.65; 660580.96, 3303585.52; 660589.64, 3303572.66; 660599.01, 3303554.67; 660591.52, 3303552.11; 660588.32, 3303552.82; 660581.67, 3303564.54; 660560.50, 3303552.51; 660566.54, 3303534.03; 660600.30, 3303550.74; 660607.78, 3303538.25; 660613.11, 3303531.64; 660621.56, 3303527.89; 660598.24, 3303506.69; 660599.88, 3303504.75; 660625.96, 3303526.82; 660628.46, 3303521.72; 660634.94, 3303517.53; 660635.49, 3303511.60; 660636.90, 3303502.91; 660649.97, 3303488.97; 660654.39, 3303484.38; 660659.97, 3303476.18; 660670.19, 3303464.95; 660677.23, 3303454.03; 660680.20, 3303446.57; 660673.00, 3303432.52; 660669.36, 3303419.34; 660678.69, 3303412.05; 660673.24, 3303407.55; 660683.40, 3303398.69; 660686.49, 3303386.48; 660696.20, 3303379.99; 660702.45, 3303368.65; 660704.71, 3303358.00; 660713.92, 3303355.07; 660702.17, 3303343.23; 660711.60, 3303331.97; 660712.08, 3303328.42; 660716.58, 3303323.38; 660723.60, 3303329.11; 660730.19, 3303319.76; 660744.88, 3303305.07; 660748.94, 3303301.60; 660749.59, 3303296.91; 660755.77, 3303288.34; 660758.77, 3303279.70; 660769.79, 3303268.48; 660774.36, 3303260.67; 660761.66, 3303259.95; 660765.52, 3303248.56; 660769.87, 3303234.00; 660780.67, 3303215.64; 660787.97, 3303209.88; 660789.53, 3303203.54; 660798.17, 3303199.44; 660812.02, 3303186.31; 660815.01, 3303173.26; 660811.94, 3303168.82; 660815.17, 3303166.92; 660825.55, 3303165.20; 660833.38, 3303169.76; 660841.56, 3303176.71; 660847.16, 3303180.46; 660854.48, 3303173.91; 660851.96, 3303163.54; 660855.75, 3303155.31; 660865.51, 3303146.44; 660869.40, 3303134.25; 660881.80, 3303131.39; 660865.01, 3303113.88; 660867.89, 3303110.38; 660886.07, 3303130.26; 660891.39, 3303129.25; 660883.60, 3303118.31; 660886.59, 3303110.46; 660892.64, 3303107.04; 660896.56, 3303109.13; 660896.81, 3303115.08; 660901.71, 3303114.45; 660908.34, 3303103.52; 660912.77, 3303096.45; 660921.68, 3303089.94; 660955.76, 3303067.86; 660960.77, 3303069.13; 660959.57, 3303074.29; 660943.12, 3303096.08; 660933.28, 3303107.72; 660929.99, 3303112.39; 660925.84, 3303119.03; 660923.71, 3303124.52; 660919.81, 3303133.10; 660916.55, 3303140.59; 660908.36, 3303148.80; 660922.25, 3303161.30; 660948.77, 3303135.42; 660975.61, 3303111.52; 661002.60, 3303097.93; 661013.67, 3303088.43; 660974.51, 3303042.08; 660977.54, 3303039.87; 658920.18, 3307249.72; 658921.50, 3307260.46; 658915.54, 3307275.77; 658907.78, 3307284.29; 658894.77, 3307284.32; 658894.42, 3307278.01; 658901.47, 3307266.29; 658906.23, 3307250.95; 658914.72, 3307245.62; 658920.18, 3307249.72; 658973.22, 3307149.19; 658956.68, 3307174.14; 658952.92, 3307181.58; 658948.47, 3307184.24; 658947.72, 3307198.49; 658943.25, 3307202.34; 658933.62, 3307221.52; 658933.77, 3307231.04; 658932.34, 3307240.52; 658923.66, 3307237.92; 658918.52, 3307236.60; 658916.35, 3307228.22; 658928.12, 3307203.15; 658945.58, 3307173.07; 658969.21, 3307134.82; 658973.22, 3307149.19

660653.27, 3303517.57; 660663.36, 3303509.92; 660675.54, 3303489.26; 660665.45, 3303490.15; 660657.61, 3303490.79; 660645.12, 3303507.88; 660638.21, 3303529.50; 660631.00, 3303531.70; 660636.45, 3303536.20; 660640.61, 3303544.63; 660657.52, 3303536.33; 660657.64, 3303531.57; 660663.36, 3303509.92

660758.16, 3303495.67; 660733.46, 3303560.83; 660734.87, 3303552.15; 660729.08, 3303545.26; 660730.66, 3303536.59; 660732.25, 3303529.88; 660740.68, 3303518.99; 660760.70, 3303517.57; 660762.32, 3303526.69; 660756.12, 3303536.04; 660745.44, 3303534.19; 660740.65, 3303534.86; 660740.45, 3303542.78; 660746.49, 3303544.96; 660749.40, 3303555.34; 660741.14, 3303567.82; 660737.92, 3303584.78; 660726.85, 3303598.37; 660783.34, 3303581.17; 660774.28, 3303561.92; 660780.02, 3303555.32; 660785.89, 3303543.18; 660797.11, 3303539.50; 660808.61, 3303525.13; 660814.90, 3303512.21; 660822.75, 3303500.51; 660838.63, 3303485.85; 660848.11, 3303467.42; 660824.08, 3303474.34; 660798.49, 3303480.04; 660784.19, 3303479.67; 660776.80, 3303493.80; 660770.30, 3303499.58; 660762.66, 3303497.76; 660763.26, 3303489.85; 660767.53, 3303478.06; 660748.28, 3303468.86; 660736.58, 3303459.84; 660730.29, 3303457.30; 660719.27, 3303468.52; 660701.05, 3303481.54; 660690.92, 3303489.21; 660681.19, 3303496.49; 660693.88, 3303513.46; 660689.86, 3303515.34; 660686.90, 3303522.01; 660696.00, 3303523.82; 660702.93, 3303532.72; 660700.32, 3303541.77; 660691.76, 3303549.88; 660684.96, 3303551.69; 660674.35, 3303546.66; 660673.03, 3303535.93; 660676.41, 3303528.08; 660668.92, 3303525.91; 660668.57, 3303539.38; 660668.20, 3303554.04; 660678.98, 3303583.64; 660693.41, 3303610.56; 660711.33, 3303602.68; 660707.65, 3303590.70; 660717.14, 3303577.07; 660727.18, 3303573.36; 660733.46, 3303560.83

660780.38, 3303378.19; 660799.19, 3303420.99; 660814.48, 3303397.99; 660809.10, 3303390.72; 660801.36, 3303398.06; 660794.35, 3303408.19; 660777.31, 3303410.97; 660779.95, 3303401.13; 660779.78, 3303392.01; 660780.80, 3303383.31; 660792.20, 3303372.50; 660807.90, 3303364.97; 660805.54, 3303358.53; 660802.57, 3303350.52; 660804.93, 3303351.38; 660809.60, 3303355.46; 660816.67, 3303358.81; 660821.08, 3303357.33; 660810.33, 3303347.20; 660796.04, 3303338.47; 660786.10, 3303357.64; 660778.53, 3303373.30; 660773.75, 3303389.43; 660768.65, 3303402.38; 660761.96, 3303415.30; 660755.80, 3303423.07; 660746.73, 3303435.92; 660739.68, 3303447.63; 660740.33, 3303453.20; 660751.62, 3303462.60; 660762.22, 3303468.02; 660769.73, 3303469.80; 660774.40, 3303447.36; 660782.55, 3303434.45; 660782.92, 3303424.99; 660799.19, 3303420.99

660804.21, 3303280.56; 660787.90, 3303322.45; 660789.33, 3303313.37; 660788.37, 3303303.83; 660796.56, 3303294.53; 660812.80, 3303281.06; 660828.08, 3303269.91; 660834.67, 3303260.96; 660849.39, 3303244.68; 660855.21, 3303234.92; 660850.57, 3303229.65; 660843.08, 3303227.08; 660838.41, 3303243.26; 660821.91, 3303251.17; 660817.29, 3303260.96; 660810.82, 3303265.16; 660804.26, 3303272.92; 660793.02, 3303277.39; 660788.88, 3303284.03; 660781.75, 3303282.66; 660778.81, 3303288.93; 660774.19, 3303298.72; 660778.00, 3303305.16; 660763.47, 3303308.71; 660757.73, 3303305.04; 660753.22, 3303305.28; 660770.07, 3303317.79; 660776.95, 3303315.44; 660780.34, 3303322.66; 660787.90, 3303322.45

660841.11, 3303445.82; 660817.90, 3303467.05; 660852.34, 3303457.22; 660858.65, 3303448.70; 660868.80, 3303440.63; 660875.56, 3303424.55; 660893.42, 3303420.60; 660863.10, 3303393.67; 660854.40, 3303412.52; 660846.76, 3303415.90; 660843.69, 3303427.31; 660834.18, 3303441.74; 660825.92, 3303453.82; 660803.85, 3303461.98; 660804.44, 3303454.47; 660798.29, 3303461.84; 660788.80, 3303470.28; 660801.51, 3303470.60; 660817.90, 3303467.05

660848.00, 3303295.29; 660896.85, 3303254.60; 660874.27, 3303235.80; 660864.53, 3303243.48; 660851.48, 3303256.63; 660838.84, 3303268.99; 660828.60, 3303281.02; 660822.36, 3303291.57; 660817.41, 3303298.97; 660814.10, 3303308.45; 660808.31, 3303312.62; 660803.33, 3303321.21; 660799.14, 3303329.43; 660828.49, 3303352.41; 660832.75, 3303341.02; 660836.15, 3303332.39; 660849.33, 3303330.34; 660852.41, 3303318.53; 660861.09, 3303305.27; 660869.72, 3303294.39; 660867.45, 3303289.58; 660876.38, 3303282.27; 660892.60, 3303270.00; 660896.85, 3303254.60

660927.29, 3303334.88; 660931.29, 3303374.83; 660935.16, 3303363.43; 660944.72, 3303362.48; 660948.91, 3303354.26; 660958.59, 3303348.56; 660960.42, 3303339.10; 660969.86, 3303327.44; 660972.40, 3303321.17; 660982.58, 3303322.96; 660987.61, 3303317.19; 660976.96, 3303309.61; 660963.29, 3303320.14; 660955.32, 3303320.73; 660943.55, 3303330.35; 660941.13, 3303316.02; 660929.22, 3303326.37; 660924.33, 3303335.81; 660933.95, 3303348.34; 660922.42, 3303348.44; 660906.12, 3303343.63; 660899.93, 3303352.59; 660892.07, 3303353.62; 660880.70, 3303362.85; 660867.96, 3303375.17; 660866.96, 3303383.07; 660886.37, 3303401.39; 660892.55, 3303392.83; 660881.96, 3303387.41; 660879.06, 3303376.24; 660892.86, 3303365.09; 660898.00, 3303366.01; 660904.23, 3303371.32; 660905.48, 3303384.83; 660903.66, 3303393.90; 660890.46, 3303405.22; 660897.24, 3303411.98; 660904.84, 3303410.19; 660900.63, 3303403.74; 660904.84, 3303398.73; 660914.04, 3303396.59; 660919.87, 3303386.03; 660931.29, 3303374.83

660968.50, 3303158.32; 661051.32, 3303125.42; 661017.26, 3303093.12; 661006.90, 3303100.81; 660975.77, 3303121.04; 660952.61, 3303140.67; 660915.75, 3303183.34; 660912.39, 3303190.39; 660914.21, 3303197.17; 660907.71, 3303202.56; 660901.97, 3303213.95; 660897.87, 3303219.00; 660890.59, 3303223.57; 660885.69, 3303229.00; 660908.39, 3303243.05; 660916.26, 3303230.56; 660920.84, 3303222.35; 660939.28, 3303216.48; 660946.37, 3303203.18; 660954.57, 3303193.48; 660965.31, 3303193.35; 660972.28, 3303184.81; 660982.28, 3303182.29; 660991.60, 3303175.39; 660999.07, 3303162.89; 661025.78, 3303144.54; 661045.58, 3303131.96; 661051.32, 3303125.42

660911.60, 3303164.93; 660917.79, 3303164.76; 660905.40, 3303151.76; 660907.34, 3303158.99; 660909.34, 3303174.10; 660917.79, 3303164.76

661043.46, 3303034.25; 660977.54, 3303039.87; 661017.29, 3303085.31; 661041.61, 3303064.43; 661063.53, 3303046.75; 661093.03, 3303027.68; 661109.37, 3303023.98; 661092.75, 3302990.81; 661081.01, 3302988.97; 661064.73, 3302988.16; 661058.64, 3302993.16; 661054.52, 3302998.61; 661044.82, 3303005.10; 661030.78, 3303009.90; 661023.84, 3303016.86; 661010.75, 3303027.19; 661003.87, 3303031.77; 660991.14, 3303036.64; 660985.45, 3303041.65; 660977.54, 3303039.87

661137.22, 3303051.63; 661220.73, 3303000.78; 661211.20, 3302997.02; 661190.29, 3303001.99; 661181.80, 3303004.22; 661171.91, 3303005.49; 661160.58, 3303013.53; 661145.62, 3303023.46; 661129.98, 3303028.61; 661104.41, 3303033.52; 661093.99, 3303036.82; 661079.07, 3303045.16; 661050.71, 3303066.25; 661027.56, 3303085.48; 661023.14, 3303088.76; 661042.49, 3303108.06; 661056.52, 3303119.51; 661066.80, 3303110.30; 661073.70, 3303104.92; 661088.05, 3303103.31; 661109.17, 3303096.66; 661131.39, 3303082.95; 661136.41, 3303077.57; 661150.96, 3303068.03; 661167.87, 3303059.74; 661174.00, 3303053.15; 661186.13, 3303045.14; 661201.61, 3303030.47; 661217.41, 3303018.97; 661251.30, 3303015.07; 661239.11, 3303013.14; 661232.45, 3303009.00; 661220.73, 3303000.78

661226.45, 3303082.49; 661056.25, 3303307.03; 661068.91, 3303293.88; 661083.78, 3303287.51; 661092.13, 3303287.33; 661101.71, 3303285.98; 661115.42, 3303278.40; 661123.45, 3303259.58; 661120.54, 3303248.80; 661118.69, 3303243.60; 661129.92, 3303239.53; 661140.13, 3303228.69; 661163.23, 3303227.29; 661165.81, 3303219.43; 661176.76, 3303210.98; 661195.51, 3303192.83; 661202.04, 3303186.25; 661205.44, 3303177.62; 661216.60, 3303176.32; 661228.10, 3303177.40; 661247.70, 3303172.74; 661259.05, 3303164.31; 661268.41, 3303155.82; 661289.76, 3303144.47; 661301.53, 3303119.40; 661271.37, 3303132.91; 661250.06, 3303142.28; 661237.71, 3303143.55; 661217.65, 3303150.58; 661208.67, 3303159.86; 661200.82, 3303171.56; 661189.93, 3303177.62; 661184.13, 3303186.99; 661179.98, 3303193.62; 661168.72, 3303198.89; 661162.61, 3303188.82; 661139.32, 3303166.83; 661139.23, 3303154.54; 661144.57, 3303147.54; 661162.97, 3303143.25; 661170.32, 3303135.51; 661167.31, 3303128.08; 661177.92, 3303118.26; 661196.35, 3303112.38; 661193.00, 3303103.58; 661204.55, 3303102.68; 661215.30, 3303102.16; 661218.35, 3303091.54; 661234.74, 3303087.99; 661247.76, 3303091.88; 661252.25, 3303087.24; 661263.31, 3303090.29; 661275.90, 3303079.51; 661285.22, 3303072.61; 661307.29, 3303064.85; 661325.68, 3303060.55; 661339.30, 3303056.54; 661345.86, 3303048.78; 661362.18, 3303048.00; 661364.11, 3303034.57; 661375.91, 3303039.63; 661385.54, 3303035.91; 661390.20, 3303024.93; 661406.32, 3303016.22; 661413.62, 3303010.45; 661415.29, 3302991.47; 661375.53, 3303007.51; 661378.55, 3303013.93; 661379.00, 3303027.42; 661372.16, 3303030.81; 661365.31, 3303018.75; 661357.27, 3303022.11; 661348.04, 3303025.45; 661334.83, 3303029.08; 661324.51, 3303028.42; 661318.22, 3303041.34; 661309.54, 3303054.20; 661298.04, 3303053.12; 661297.86, 3303060.25; 661280.61, 3303066.55; 661265.09, 3303066.95; 661257.76, 3303073.90; 661247.00, 3303074.82; 661234.29, 3303074.50; 661217.15, 3303076.05; 661194.16, 3303088.94; 661180.54, 3303093.35; 661172.64, 3303107.03; 661162.84, 3303117.09; 661157.71, 3303131.23; 661146.82, 3303137.29; 661131.53, 3303144.44; 661121.21, 3303159.64; 661132.66, 3303162.70; 661160.59, 3303190.36; 661156.42, 3303197.79; 661160.13, 3303208.18; 661153.25, 3303213.16; 661150.27, 3303221.02; 661143.90, 3303221.25; 661130.97, 3303213.79; 661123.23, 3303221.13; 661116.02, 3303223.32; 661112.08, 3303237.49; 661110.96, 3303250.54; 661114.28, 3303260.54; 661111.98, 3303272.77; 661103.77, 3303283.26; 661096.71, 3303279.12; 661093.64, 3303275.08; 661087.53, 3303280.87; 661078.32, 3303283.41; 661067.06, 3303288.28; 661062.59, 3303292.13; 661051.15, 3303304.53; 661046.75, 3303305.60; 661046.09, 3303300.04; 661038.59, 3303301.39; 661037.61, 3303308.89; 661039.57, 3303322.07; 661047.73, 3303313.95; 661056.25, 3303307.03

661212.42, 3302962.62; 661228.17, 3302981.94; 661245.66, 3302981.99; 661259.84, 3302987.10; 661265.56, 3303001.16; 661273.97, 3302983.14; 661287.82, 3302985.87; 661297.92, 3302990.84; 661319.13, 3302989.44; 661321.62, 3302969.68; 661314.49, 3302953.25; 661297.06, 3302950.43; 661290.39, 3302962.95; 661281.70, 3302960.75; 661266.25, 3302969.82; 661252.03, 3302965.90; 661258.65, 3302955.76; 661263.40, 3302945.22; 661270.19, 3302939.80; 661282.63, 3302939.36; 661288.93, 3302941.90; 661293.50, 3302934.09; 661304.02, 3302926.82; 661312.82, 3302924.67; 661327.00, 3302914.32; 661320.44, 3302906.63; 661304.03, 3302910.97; 661298.65, 3302919.16; 661287.38, 3302924.82; 661263.07, 3302926.98; 661257.00, 3302931.19; 661248.35, 3302943.25; 661236.40, 3302939.34; 661230.11, 3302941.21; 661217.71, 3302944.07; 661209.54, 3302937.12; 661204.39, 3302936.20; 661197.83, 3302944.36; 661183.26, 3302938.84; 661175.93, 3302945.39; 661170.46, 3302957.54; 661162.48, 3302958.53; 661154.70, 3302963.04; 661146.39, 3302966.05; 661140.34, 3302969.46; 661130.56, 3302978.73; 661118.93, 3302982.79; 661107.80, 3302982.91; 661097.84, 3302988.14; 661115.67, 3303022.56; 661119.82, 3303021.62; 661139.09, 3303018.42; 661147.03, 3303014.77; 661164.85, 3303001.75; 661175.32, 3302996.46; 661179.44, 3302993.59; 661206.97, 3302986.96; 661228.17, 3302981.94.

(8) SABM—Unit 3: St. Joseph Peninsula, Gulf County, Florida.

(i) General Description: This unit encompasses essential features of beach mouse habitat within the boundary of St. Joseph Peninsula State Park (Park) as well as south of the Park to the peninsula's constriction north of Cape San Blas (also known as the “stumphole” region) and area from the MHWL to the seaward extent of the maritime forest.

(ii) Coordinates: From USGS 1:24,000 quadrangle maps Beacon Hill, St. Joseph Point, St. Joseph Peninsula, Cape San Blas, Florida, land bounded by the following UTM 16 NAD 83 coordinates (E, N): 655701.41, 3289444.44; 655573.99, 3289872.46; 655577.86, 3289860.67; 655599.16, 3289867.54; 655630.56, 3289867.94; 655639.95, 3289873.72; 655642.12, 3289882.50; 655646.73, 3289888.96; 655648.92, 3289896.54; 655666.68, 3289901.74; 655684.38, 3289862.16; 655703.42, 3289816.66; 655719.54, 3289776.64; 655758.42, 3289685.27; 655724.83, 3289677.29; 655706.23, 3289673.66; 655707.11, 3289686.36; 655712.46, 3289694.82; 655710.46, 3289705.45; 655703.43, 3289706.09; 655702.37, 3289716.36; 655707.41, 3289721.64; 655707.94, 3289731.96; 655702.12, 3289742.12; 655694.38, 3289749.45; 655707.49, 3289765.64; 655687.78, 3289774.65; 655679.46, 3289789.11; 655668.51, 3289813.41; 655653.23, 3289836.01; 655626.23, 3289819.08; 655644.29, 3289780.69; 655633.94, 3289781.23; 655625.75, 3289775.07; 655624.47, 3289762.76; 655633.87, 3289752.69; 655624.25, 3289739.76; 655630.94, 3289726.85; 655636.00, 3289715.48; 655644.52, 3289708.57; 655643.19, 3289698.23; 655643.89, 3289686.35; 655650.79, 3289680.58; 655650.20, 3289672.64; 655640.92, 3289662.10; 655643.89, 3289654.65; 655648.92, 3289644.47; 655642.66, 3289640.74; 655639.22, 3289635.11; 655597.13, 3289617.01; 655591.32, 3289626.77; 655584.20, 3289625.40; 655582.77, 3289619.02; 655568.40, 3289605.58; 655580.45, 3289584.88; 655597.74, 3289593.24; 655605.88, 3289601.37; 655603.25, 3289610.82; 655636.65, 3289626.72; 655648.97, 3289627.03; 655641.77, 3289612.98; 655635.21, 3289604.89; 655628.46, 3289588.86; 655633.24, 3289572.73; 655653.88, 3289574.05; 655669.73, 3289576.03; 655698.95, 3289584.30; 655709.87, 3289577.04; 655723.50, 3289588.08; 655788.29, 3289620.23; 655820.17, 3289538.60; 655848.15, 3289469.94; 655886.33, 3289390.45; 655894.52, 3289365.29; 655906.16, 3289345.37; 655934.16, 3289322.69; 655935.24, 3289323.27; 655935.76, 3289323.55; 655935.63, 3289310.24; 655935.12, 3289311.23; 655931.91, 3289317.48; 655919.27, 3289314.39; 655935.21, 3289269.88; 655935.20, 3289268.65; 655929.57, 3288719.84; 655929.07, 3288721.61; 655922.07, 3288746.50; 655903.78, 3288794.00; 655868.62, 3288863.66; 655850.75, 3288909.98; 655836.63, 3288965.51; 655831.18, 3288992.32; 655806.89, 3289041.25; 655787.41, 3289088.32; 655773.35, 3289141.08; 655747.87, 3289205.44; 655722.41, 3289253.55; 655707.05, 3289294.78; 655682.75, 3289344.10; 655632.18, 3289457.37; 655604.69, 3289538.33; 655574.82, 3289556.20; 655556.11, 3289604.08; 655539.79, 3289683.73; 655525.21, 3289741.63; 655508.96, 3289770.94; 655485.78, 3289838.53; 655484.05, 3289859.89; 655476.66, 3289885.07; 655467.68, 3289909.81; 655467.06, 3289912.69; 655553.51, 3289913.91; 655563.64, 3289904.30; 655566.88, 3289886.15; 655573.99, 3289872.46

654587.26, 3292635.36; 654526.42, 3293185.79; 654528.36, 3293157.15; 654529.31, 3293119.39; 654529.95, 3293094.22; 654520.30, 3293090.60; 654523.95, 3293094.57; 654523.66, 3293106.05; 654517.61, 3293172.49; 654512.09, 3293172.35; 654510.64, 3293180.64; 654493.54, 3293179.95; 654494.16, 3293172.29; 654481.07, 3293171.17; 654477.29, 3293179.00; 654457.45, 3293177.31; 654455.98, 3293157.06; 654462.07, 3293152.06; 654471.97, 3293153.50; 654480.37, 3293167.19; 654510.96, 3293167.96; 654513.09, 3293162.46; 654515.48, 3293146.67; 654516.74, 3293096.76; 654499.84, 3293088.81; 654494.89, 3293080.36; 654475.97, 3293073.94; 654466.66, 3293064.59; 654448.47, 3293060.56; 654451.89, 3293035.68; 654457.73, 3293027.93; 654466.21, 3293005.76; 654477.09, 3292968.38; 654489.51, 3292933.02; 654493.75, 3292922.43; 654496.77, 3292913.39; 654498.39, 3292896.39; 654511.53, 3292864.22; 654529.76, 3292803.24; 654535.60, 3292775.01; 654541.54, 3292775.95; 654549.03, 3292746.00; 654562.49, 3292749.13; 654569.19, 3292719.97; 654595.27, 3292726.57; 654617.72, 3292658.02; 654620.18, 3292653.08; 654600.85, 3292647.05; 654607.71, 3292627.40; 654629.00, 3292634.28; 654652.48, 3292617.83; 654644.25, 3292613.26; 654625.08, 3292602.71; 654617.34, 3292610.05; 654595.19, 3292605.53; 654606.27, 3292576.08; 654621.03, 3292574.08; 654638.23, 3292554.30; 654648.57, 3292552.33; 654649.38, 3292536.11; 654656.55, 3292535.49; 654655.30, 3292521.99; 654652.95, 3292504.88; 654681.19, 3292504.41; 654693.43, 3292507.49; 654717.66, 3292508.50; 654715.60, 3292527.07; 654684.86, 3292532.24; 654682.35, 3292536.94; 654677.63, 3292550.69; 654684.67, 3292555.23; 654689.78, 3292557.73; 654684.16, 3292591.28; 654726.06, 3292585.20; 654726.18, 3292550.96; 654730.62, 3292532.45; 654731.48, 3292512.41; 654733.33, 3292486.30; 654731.97, 3292477.15; 654725.56, 3292478.97; 654718.90, 3292475.23; 654716.25, 3292470.01; 654716.04, 3292462.48; 654718.93, 3292458.19; 654725.40, 3292453.99; 654732.12, 3292455.35; 654735.76, 3292453.07; 654742.31, 3292445.70; 654744.09, 3292438.22; 654748.85, 3292422.88; 654750.28, 3292413.40; 654752.46, 3292405.53; 654760.26, 3292397.64; 654769.11, 3292376.22; 654766.84, 3292371.41; 654755.70, 3292371.92; 654731.12, 3292368.92; 654724.29, 3292356.07; 654727.72, 3292346.25; 654734.67, 3292338.89; 654747.39, 3292322.96; 654755.47, 3292302.16; 654766.66, 3292284.21; 654771.68, 3292274.43; 654776.86, 3292258.31; 654766.53, 3292242.19; 654750.56, 3292229.11; 654736.25, 3292227.66; 654677.60, 3292223.15; 654671.47, 3292261.44; 654653.65, 3292319.58; 654625.17, 3292404.81; 654603.88, 3292492.18; 654585.24, 3292552.73; 654534.96, 3292719.41; 654519.09, 3292769.28; 654498.45, 3292810.34; 654490.20, 3292842.67; 654455.39, 3292961.89; 654442.59, 3293015.60; 654416.77, 3293121.44; 654403.02, 3293161.91; 654397.66, 3293187.82; 654399.22, 3293187.85; 654486.56, 3293189.35; 654487.25, 3293189.30; 654502.55, 3293188.20; 654526.42, 3293185.79

655219.84, 3290562.58; 654860.08, 3291830.03; 654862.54, 3291827.32; 654869.29, 3291827.49; 654871.77, 3291823.99; 654875.84, 3291820.12; 654867.14, 3291819.37; 654865.71, 3291812.99; 654867.51, 3291804.72; 654867.77, 3291794.42; 654869.51, 3291788.12; 654888.99, 3291788.21; 654889.53, 3291782.68; 654895.17, 3291778.99; 654889.31, 3291774.88; 654895.42, 3291769.09; 654902.36, 3291761.74; 654908.04, 3291757.12; 654917.77, 3291749.84; 654921.43, 3291746.76; 654929.49, 3291742.21; 654933.99, 3291737.17; 654936.79, 3291720.99; 654942.58, 3291712.02; 654952.53, 3291711.48; 654962.80, 3291688.49; 654954.09, 3291688.26; 654920.88, 3291690.72; 654901.68, 3291695.00; 654891.00, 3291693.14; 654892.78, 3291685.66; 654893.39, 3291676.95; 654898.83, 3291666.39; 654916.61, 3291670.80; 654923.37, 3291686.43; 654964.77, 3291684.06; 654967.10, 3291678.85; 654967.35, 3291678.87; 654967.27, 3291678.94; 655027.24, 3291681.65; 655107.15, 3291681.78; 655107.24, 3291663.89; 655060.71, 3291663.26; 655029.20, 3291660.00; 654994.60, 3291662.08; 654968.85, 3291665.37; 654950.10, 3291664.90; 654924.44, 3291664.75; 654911.74, 3291658.99; 654905.57, 3291651.70; 654913.14, 3291643.30; 654929.41, 3291643.71; 654947.60, 3291646.63; 654966.62, 3291655.97; 655001.13, 3291657.33; 655037.70, 3291655.79; 655077.60, 3291658.76; 655107.28, 3291657.96; 655107.42, 3291631.47; 655041.51, 3291633.32; 654994.15, 3291635.30; 654967.57, 3291633.04; 654951.37, 3291629.07; 654944.60, 3291629.29; 654941.98, 3291638.74; 654931.99, 3291640.87; 654909.37, 3291639.11; 654908.12, 3291626.94; 654918.59, 3291620.32; 654944.07, 3291618.98; 654945.54, 3291623.77; 654962.49, 3291629.35; 655010.14, 3291631.74; 655033.62, 3291630.74; 655102.98, 3291627.26; 655107.48, 3291621.16; 655107.56, 3291605.26; 655071.02, 3291602.75; 655039.44, 3291606.61; 654967.34, 3291614.81; 654947.40, 3291613.11; 654936.80, 3291607.70; 654931.42, 3291615.88; 654909.97, 3291615.34; 654909.79, 3291606.62; 654914.87, 3291594.46; 654920.47, 3291577.16; 654950.39, 3291577.52; 654955.10, 3291580.02; 654992.93, 3291582.62; 655035.93, 3291580.54; 655063.62, 3291580.77; 655087.49, 3291585.40; 655107.68, 3291582.31; 655107.94, 3291536.49; 655148.58, 3291536.03; 655148.93, 3291522.67; 655024.98, 3291520.74; 655023.60, 3291544.09; 655015.17, 3291547.05; 654994.97, 3291544.16; 654993.07, 3291540.55; 654990.80, 3291520.27; 654956.21, 3291520.20; 654957.19, 3291513.09; 655073.23, 3291515.22; 655149.13, 3291515.08; 655144.18, 3291495.97; 655122.17, 3291497.82; 655080.25, 3291488.84; 655050.06, 3291488.08; 655030.93, 3291489.97; 655008.52, 3291495.35; 654988.25, 3291495.24; 654978.55, 3291501.73; 654968.96, 3291503.47; 654964.03, 3291509.69; 654951.71, 3291509.38; 654949.30, 3291494.66; 654953.32, 3291482.54; 654975.11, 3291485.47; 654999.46, 3291492.35; 655036.60, 3291485.76; 655052.15, 3291483.77; 655083.92, 3291485.36; 655108.82, 3291491.14; 655117.91, 3291493.35; 655142.64, 3291490.01; 655142.18, 3291459.42; 655142.58, 3291459.43; 655145.47, 3291439.55; 655138.30, 3291440.16; 655118.25, 3291446.79; 655104.77, 3291445.26; 655077.46, 3291440.61; 655056.31, 3291443.64; 655046.77, 3291443.40; 655032.20, 3291437.89; 655018.75, 3291435.17; 654998.83, 3291437.04; 654995.33, 3291449.64; 654972.29, 3291448.66; 654971.56, 3291430.41; 654997.78, 3291431.07; 655010.11, 3291430.99; 655020.84, 3291431.26; 655055.97, 3291441.26; 655060.78, 3291439.79; 655070.03, 3291435.67; 655085.50, 3291436.85; 655101.30, 3291441.21; 655121.50, 3291444.10; 655132.44, 3291436.05; 655146.37, 3291435.11; 655150.16, 3291410.73; 655110.04, 3291409.33; 655092.32, 3291402.54; 655085.56, 3291402.77; 655076.99, 3291411.27; 655071.57, 3291426.46; 655044.49, 3291425.31; 655013.61, 3291419.78; 654995.66, 3291422.10; 654975.00, 3291421.58; 654973.74, 3291408.47; 654976.02, 3291397.04; 654999.03, 3291399.20; 655004.05, 3291404.88; 655009.75, 3291415.32; 655044.59, 3291421.35; 655066.37, 3291422.50; 655073.92, 3291406.83; 655080.89, 3291398.68; 655086.92, 3291396.06; 655095.23, 3291397.46; 655105.04, 3291402.86; 655118.08, 3291405.96; 655150.27, 3291406.38; 655152.17, 3291394.67; 655160.56, 3291329.88; 655165.91, 3291314.36; 655105.72, 3291313.30; 655090.19, 3291314.10; 655080.38, 3291309.10; 655066.77, 3291296.87; 655048.95, 3291294.04; 655037.00, 3291294.93; 655034.77, 3291304.78; 655012.13, 3291303.81; 655012.45, 3291291.14; 655034.31, 3291291.29; 655046.66, 3291290.41; 655058.16, 3291291.50; 655070.83, 3291293.80; 655085.98, 3291307.65; 655149.12, 3291310.83; 655167.04, 3291309.69; 655173.89, 3291290.45; 655151.71, 3291286.72; 655095.69, 3291285.31; 655062.71, 3291284.48; 655019.79, 3291283.79; 655003.19, 3291279.81; 654994.94, 3291276.03; 654993.52, 3291269.26; 654994.61, 3291257.79; 655016.80, 3291260.73; 655015.25, 3291274.56; 655019.92, 3291278.64; 655031.01, 3291280.51; 655058.42, 3291281.20; 655068.33, 3291282.64; 655094.60, 3291281.32; 655151.44, 3291281.95; 655175.22, 3291284.93; 655182.23, 3291259.09; 655188.20, 3291243.24; 655101.57, 3291241.45; 655073.54, 3291241.21; 655073.05, 3291260.58; 655041.96, 3291256.97; 655042.29, 3291243.65; 655032.54, 3291245.02; 655023.94, 3291248.84; 655013.80, 3291249.40; 655013.80, 3291233.25; 655025.13, 3291233.62; 655042.86, 3291237.21; 655044.86, 3291222.32; 655073.55, 3291224.66; 655072.85, 3291236.35; 655191.13, 3291237.36; 655216.91, 3291165.15; 655108.47, 3291161.23; 655078.79, 3291171.59; 655065.09, 3291178.77; 655053.64, 3291175.71; 655048.80, 3291162.51; 655030.23, 3291158.08; 655038.44, 3291132.12; 655055.12, 3291132.54; 655079.84, 3291130.00; 655091.22, 3291135.83; 655086.33, 3291156.32; 655105.81, 3291156.41; 655180.86, 3291159.89; 655219.04, 3291160.53; 655231.15, 3291116.45; 655244.60, 3291087.85; 655252.73, 3291065.07; 655202.40, 3291063.83; 655203.30, 3291038.85; 655207.16, 3291016.79; 655216.19, 3291005.52; 655222.29, 3290979.48; 655231.77, 3290971.43; 655247.23, 3290973.01; 655286.46, 3290973.17; 655303.61, 3290923.67; 655205.87, 3290921.21; 655196.09, 3290919.88; 655184.92, 3290921.58; 655178.57, 3290921.02; 655172.74, 3290931.58; 655165.94, 3290948.85; 655178.62, 3290950.35; 655181.55, 3290944.88; 655195.83, 3290946.03; 655207.00, 3290944.33; 655220.17, 3290942.68; 655220.92, 3290960.14; 655206.99, 3290960.58; 655198.69, 3290958.79; 655191.04, 3290962.56; 655182.27, 3290963.53; 655180.04, 3290957.13; 655163.61, 3290954.41; 655158.31, 3290967.68; 655155.54, 3290976.00; 655165.98, 3290978.57; 655168.94, 3290971.91; 655176.49, 3290972.10; 655180.77, 3290975.77; 655187.44, 3290979.11; 655182.62, 3290996.83; 655162.75, 3290996.33; 655164.24, 3290984.87; 655153.33, 3290982.67; 655130.77, 3291050.61; 655120.14, 3291046.38; 655114.15, 3291047.42; 655106.72, 3291058.33; 655100.22, 3291063.72; 655091.01, 3291066.26; 655066.11, 3291060.48; 655070.64, 3291038.40; 655075.61, 3291015.14; 655094.61, 3291017.41; 655108.55, 3291016.57; 655117.98, 3291020.77; 655115.92, 3291039.35; 655121.87, 3291039.90; 655127.43, 3291040.04; 655132.27, 3291021.93; 655142.70, 3290986.52; 655155.91, 3290951.58; 655138.45, 3290950.34; 655131.61, 3290953.34; 655120.74, 3290958.93; 655115.57, 3290974.74; 655093.02, 3290970.21; 655102.14, 3290951.06; 655116.08, 3290954.46; 655124.13, 3290950.30; 655137.30, 3290948.65; 655140.23, 3290942.78; 655133.89, 3290941.83; 655127.05, 3290945.22; 655115.18, 3290942.94; 655119.06, 3290930.75; 655122.84, 3290922.92; 655127.99, 3290923.45; 655136.64, 3290927.23; 655147.56, 3290919.97; 655165.84, 3290920.43; 655167.64, 3290912.16; 655172.43, 3290895.63; 655156.50, 3290896.82; 655148.09, 3290898.98; 655143.83, 3290910.37; 655135.70, 3290917.30; 655119.07, 3290914.50; 655115.62, 3290909.66; 655119.99, 3290893.91; 655174.91, 3290891.73; 655179.63, 3290877.98; 655159.35, 3290878.26; 655143.82, 3290879.06; 655140.39, 3290889.28; 655122.57, 3290886.45; 655126.92, 3290871.50; 655143.12, 3290875.47; 655149.15, 3290872.85; 655183.34, 3290872.92; 655186.51, 3290857.54; 655164.19, 3290859.75; 655150.64, 3290861.00; 655140.32, 3290860.34; 655136.53, 3290853.11; 655146.48, 3290836.72; 655159.91, 3290840.22; 655165.66, 3290848.69; 655171.53, 3290852.41; 655187.86, 3290851.23; 655196.82, 3290827.28; 655172.65, 3290823.90; 655164.98, 3290828.46; 655156.14, 3290832.20; 655148.19, 3290832.00; 655144.32, 3290827.94; 655144.45, 3290822.79; 655149.56, 3290809.45; 655200.11, 3290823.00; 655206.99, 3290802.17; 655202.35, 3290797.30; 655191.27, 3290795.04; 655185.30, 3290795.28; 655176.79, 3290801.81; 655164.46, 3290801.89; 655153.33, 3290797.41; 655159.49, 3290774.18; 655176.54, 3290780.00; 655190.64, 3290788.68; 655198.94, 3290790.48; 655203.45, 3290785.04; 655203.31, 3290774.73; 655199.80, 3290772.27; 655203.43, 3290754.52; 655209.08, 3290751.10; 655213.36, 3290734.72; 655207.90, 3290734.82; 655199.03, 3290739.75; 655185.74, 3290746.55; 655183.37, 3290761.55; 655171.71, 3290766.80; 655165.30, 3290768.62; 655154.20, 3290767.15; 655156.42, 3290758.09; 655163.84, 3290747.58; 655170.08, 3290728.71; 655171.60, 3290716.07; 655175.50, 3290711.01; 655213.37, 3290722.67; 655214.31, 3290701.29; 655183.03, 3290696.14; 655191.33, 3290682.48; 655196.40, 3290670.72; 655199.56, 3290647.81; 655204.64, 3290635.65; 655207.84, 3290631.33; 655212.37, 3290620.78; 655236.48, 3290626.54; 655238.64, 3290619.46; 655237.96, 3290615.09; 655234.44, 3290612.62; 655228.77, 3290616.84; 655215.70, 3290614.92; 655219.22, 3290601.53; 655229.29, 3290580.39; 655248.16, 3290588.79; 655258.44, 3290575.57; 655286.46, 3290567.95; 655309.95, 3290566.56; 655429.61, 3290567.20; 655439.81, 3290536.70; 655449.80, 3290503.26; 655469.52, 3290446.68; 655486.61, 3290399.55; 655498.95, 3290363.80; 655474.44, 3290358.42; 655462.40, 3290362.88; 655439.39, 3290353.18; 655449.94, 3290336.80; 655460.53, 3290342.62; 655469.68, 3290342.05; 655476.30, 3290347.77; 655499.92, 3290357.08; 655502.89, 3290349.63; 655509.85, 3290326.02; 655487.20, 3290325.45; 655484.68, 3290330.94; 655468.77, 3290330.93; 655462.93, 3290326.03; 655466.91, 3290310.28; 655489.20, 3290309.25; 655488.16, 3290318.74; 655513.17, 3290320.56; 655522.71, 3290289.09; 655514.42, 3290286.50; 655506.86, 3290286.71; 655506.30, 3290293.43; 655491.61, 3290292.67; 655480.61, 3290287.24; 655488.92, 3290273.18; 655518.34, 3290281.05; 655526.79, 3290284.83; 655531.09, 3290275.83; 655539.73, 3290248.30; 655556.08, 3290199.17; 655536.24, 3290197.88; 655519.54, 3290229.16; 655503.25, 3290228.75; 655500.33, 3290218.37; 655511.24, 3290195.66; 655444.09, 3290193.97; 655435.09, 3290192.56; 655411.64, 3290255.38; 655433.60, 3290260.29; 655430.64, 3290282.41; 655409.66, 3290278.71; 655410.96, 3290274.39; 655405.01, 3290273.84; 655401.99, 3290283.28; 655418.60, 3290286.87; 655424.16, 3290287.01; 655431.99, 3290291.96; 655431.18, 3290324.04; 655412.90, 3290323.58; 655411.31, 3290307.69; 655418.08, 3290307.46; 655416.80, 3290295.14; 655422.34, 3290296.08; 655419.66, 3290292.04; 655401.05, 3290288.80; 655387.92, 3290320.97; 655388.52, 3290328.52; 655411.83, 3290334.26; 655418.36, 3290343.54; 655399.60, 3290362.09; 655392.93, 3290358.75; 655388.31, 3290352.69; 655400.21, 3290337.93; 655383.25, 3290332.74; 655371.51, 3290348.00; 655360.54, 3290365.86; 655353.00, 3290365.27; 655335.52, 3290364.83; 655340.86, 3290342.38; 655358.55, 3290350.35; 655373.15, 3290338.83; 655370.14, 3290332.02; 655370.29, 3290326.08; 655373.17, 3290322.58; 655379.56, 3290321.16; 655385.51, 3290306.25; 655380.39, 3290304.14; 655372.71, 3290309.09; 655352.41, 3290310.17; 655351.70, 3290306.58; 655344.57, 3290305.61; 655345.46, 3290302.07; 655350.62, 3290302.20; 655351.78, 3290287.96; 655390.25, 3290291.70; 655392.07, 3290282.63; 655365.11, 3290279.57; 655363.99, 3290260.92; 655387.77, 3290263.89; 655391.51, 3290273.10; 655397.48, 3290272.86; 655402.09, 3290263.46; 655410.37, 3290234.74; 655397.67, 3290234.02; 655387.27, 3290236.53; 655384.39, 3290255.88; 655372.02, 3290257.95; 655365.20, 3290254.65; 655368.23, 3290234.47; 655373.81, 3290234.22; 655374.39, 3290226.70; 655414.95, 3290226.53; 655419.75, 3290209.61; 655405.84, 3290209.65; 655393.48, 3290210.93; 655391.62, 3290221.58; 655371.33, 3290222.26; 655373.01, 3290202.88; 655422.90, 3290202.95; 655426.79, 3290190.76; 655415.75, 3290187.23; 655410.84, 3290192.66; 655385.01, 3290192.01; 655385.51, 3290172.20; 655411.29, 3290174.83; 655422.26, 3290181.06; 655429.38, 3290182.42; 655431.12, 3290176.52; 655436.61, 3290161.85; 655418.73, 3290163.53; 655409.01, 3290170.42; 655391.14, 3290169.57; 655395.64, 3290149.07; 655440.91, 3290150.34; 655448.18, 3290130.98; 655430.16, 3290136.07; 655412.95, 3290140.39; 655407.08, 3290136.68; 655409.81, 3290123.27; 655433.67, 3290123.08; 655425.21, 3290111.77; 655419.61, 3290112.82; 655410.99, 3290107.84; 655412.49, 3290095.60; 655416.94, 3290092.54; 655424.06, 3290094.30; 655427.56, 3290097.16; 655426.87, 3290108.64; 655433.15, 3290111.97; 655443.47, 3290112.63; 655453.72, 3290116.05; 655466.92, 3290077.64; 655452.37, 3290075.20; 655451.48, 3290078.74; 655433.25, 3290076.70; 655439.65, 3290059.42; 655470.67, 3290066.73; 655475.36, 3290053.09; 655465.74, 3290049.38; 655453.96, 3290043.53; 655452.57, 3290051.42; 655438.29, 3290050.27; 655432.50, 3290043.39; 655435.23, 3290029.58; 655453.82, 3290033.62; 655454.04, 3290040.36; 655472.18, 3290046.37; 655477.75, 3290046.11; 655488.06, 3290015.85; 655484.56, 3290012.59; 655474.94, 3290015.92; 655467.53, 3290026.04; 655451.63, 3290025.64; 655456.18, 3290003.16; 655487.54, 3290005.14; 655491.89, 3289990.19; 655470.52, 3289986.08; 655469.12, 3289978.52; 655475.23, 3289972.72; 655494.20, 3289977.56; 655496.29, 3289973.25; 655504.58, 3289975.84; 655480.42, 3290058.81; 655510.98, 3290068.75; 655531.95, 3290072.84; 655531.70, 3290082.74; 655510.25, 3290081.81; 655504.48, 3290074.13; 655497.06, 3290068.79; 655477.60, 3290068.31; 655464.04, 3290113.92; 655471.24, 3290115.31; 655474.70, 3290103.90; 655495.70, 3290106.81; 655488.64, 3290134.77; 655470.43, 3290131.54; 655468.55, 3290127.13; 655460.94, 3290124.34; 655443.23, 3290183.89; 655487.79, 3290183.82; 655501.62, 3290183.13; 655521.16, 3290185.05; 655537.46, 3290180.86; 655549.15, 3290178.62; 655554.34, 3290173.76; 655568.95, 3290161.84; 655576.08, 3290147.36; 655580.65, 3290123.69; 655596.45, 3290080.49; 655615.97, 3290031.84; 655622.42, 3290012.31; 655615.11, 3290007.16; 655591.45, 3289999.43; 655583.86, 3290000.83; 655572.76, 3289999.36; 655578.93, 3289991.19; 655581.96, 3289981.75; 655590.81, 3289977.62; 655602.70, 3289979.10; 655611.52, 3289989.26; 655609.76, 3289998.70; 655624.94, 3290004.70; 655631.04, 3289986.24; 655646.87, 3289957.31; 655602.40, 3289939.54; 655578.90, 3289925.48; 655560.90, 3289918.28; 655556.22, 3289914.60; 655466.54, 3289912.86; 655461.77, 3289934.81; 655438.56, 3289956.42; 655414.21, 3289991.88; 655407.85, 3290038.88; 655397.62, 3290066.37; 655386.16, 3290110.87; 655378.01, 3290150.29; 655358.76, 3290188.26; 655346.57, 3290245.81; 655328.21, 3290280.23; 655299.28, 3290355.20; 655281.08, 3290398.74; 655260.54, 3290440.63; 655225.77, 3290511.10; 655207.60, 3290553.44; 655180.09, 3290619.34; 655169.43, 3290648.00; 655157.73, 3290686.15; 655141.08, 3290731.71; 655129.67, 3290774.23; 655114.75, 3290813.88; 655089.18, 3290865.95; 655079.26, 3290912.47; 655069.09, 3290937.18; 655054.74, 3290970.51; 655039.49, 3291007.38; 655025.55, 3291055.78; 655012.16, 3291082.00; 655011.03, 3291110.90; 655002.39, 3291169.74; 654971.25, 3291269.09; 654960.30, 3291309.38; 654936.51, 3291385.14; 654934.25, 3291428.03; 654917.71, 3291484.68; 654912.14, 3291500.40; 654887.53, 3291546.15; 654868.22, 3291602.34; 654859.05, 3291619.15; 654841.67, 3291724.93; 654837.87, 3291733.56; 654833.00, 3291753.25; 654814.66, 3291786.88; 654799.27, 3291829.29; 654792.97, 3291874.32; 654792.80, 3291881.05; 654841.53, 3291871.97; 654854.03, 3291865.15; 654854.96, 3291859.63; 654852.23, 3291857.58; 654853.91, 3291854.05; 654851.59, 3291851.62; 654856.16, 3291843.81; 654852.68, 3291839.75; 654855.98, 3291835.08; 654860.08, 3291830.03

655019.37, 3291825.70; 655106.06, 3291883.69; 655106.42, 3291817.02; 655087.43, 3291817.78; 655076.38, 3291814.73; 655063.86, 3291806.49; 655048.56, 3291798.57; 655034.66, 3291797.83; 655028.31, 3291797.67; 655014.66, 3291802.87; 655003.79, 3291808.14; 654997.25, 3291815.12; 654986.53, 3291817.90; 654980.36, 3291819.50; 654981.05, 3291825.94; 654981.24, 3291834.27; 654980.64, 3291842.18; 654974.87, 3291850.36; 654968.81, 3291854.17; 654962.12, 3291851.23; 654957.66, 3291839.23; 654958.71, 3291828.95; 654961.28, 3291821.48; 654955.73, 3291820.95; 654951.97, 3291828.38; 654949.05, 3291833.46; 654943.17, 3291830.54; 654936.24, 3291837.10; 654932.32, 3291851.53; 654939.33, 3291857.26; 654944.66, 3291866.90; 654956.55, 3291868.39; 654975.36, 3291863.32; 654993.15, 3291851.48; 655001.19, 3291848.11; 655007.16, 3291847.87; 655020.61, 3291850.58; 655058.16, 3291874.91; 655075.56, 3291878.52; 655095.35, 3291882.19; 655106.06, 3291883.69

655017.47, 3291876.30; 655074.19, 3291885.72; 655071.79, 3291886.35; 655063.87, 3291884.97; 655048.11, 3291879.42; 655036.42, 3291870.01; 655019.60, 3291858.88; 655003.00, 3291855.29; 654992.16, 3291859.38; 654960.75, 3291875.23; 654972.69, 3291873.69; 654989.80, 3291872.93; 654998.07, 3291876.31; 655004.68, 3291882.03; 655010.41, 3291891.29; 655016.30, 3291894.21; 655024.66, 3291894.02; 655032.10, 3291898.57; 655037.93, 3291904.53; 655032.01, 3291917.59; 655023.14, 3291938.38; 655041.73, 3291942.02; 655052.73, 3291931.59; 655060.95, 3291921.10; 655073.41, 3291900.66; 655072.18, 3291886.36; 655074.19, 3291885.72

655037.65, 3291739.70; 655029.67, 3291790.96; 655040.81, 3291790.45; 655053.82, 3291794.74; 655070.66, 3291805.08; 655079.27, 3291810.44; 655098.27, 3291813.70; 655106.45, 3291812.30; 655107.12, 3291687.35; 655051.32, 3291687.14; 655026.59, 3291690.13; 655024.86, 3291712.90; 655015.43, 3291724.16; 655003.71, 3291731.79; 654997.14, 3291739.95; 654998.22, 3291744.33; 655000.11, 3291748.34; 654996.42, 3291752.61; 654986.51, 3291751.57; 654982.79, 3291757.02; 654985.45, 3291761.85; 654986.49, 3291767.82; 654981.23, 3291771.65; 654979.79, 3291765.67; 654973.05, 3291765.10; 654971.62, 3291774.18; 654970.74, 3291777.73; 654968.17, 3291784.80; 654972.33, 3291793.62; 654977.65, 3291803.27; 654974.29, 3291811.37; 654985.80, 3291812.05; 654996.25, 3291807.56; 655016.47, 3291794.20; 655021.24, 3291793.92; 655029.67, 3291790.96

655076.87, 3291884.92; 655079.55, 3291884.89; 655079.00, 3291884.16; 655074.19, 3291885.72; 655078.59, 3291884.54; 655079.55, 3291884.89

655092.79, 3291912.62; 655106.02, 3291890.38; 655092.80, 3291888.87; 655086.87, 3291887.53; 655079.55, 3291884.89; 655086.31, 3291893.85; 655082.18, 3291915.55; 655086.81, 3291936.02; 655105.49, 3291937.14; 655105.86, 3291921.44; 655102.96, 3291910.66; 655105.96, 3291901.86; 655106.02, 3291890.38

655106.05, 3291885.95; 655106.06, 3291883.69; 655106.02, 3291890.38; 655106.08, 3291883.70; 655106.06, 3291883.69

655263.48, 3290828.11; 655187.04, 3290916.08; 655200.98, 3290915.25; 655270.87, 3290917.32; 655259.19, 3290907.72; 655261.12, 3290894.30; 655263.01, 3290882.45; 655268.62, 3290881.01; 655269.54, 3290875.88; 655270.29, 3290862.03; 655275.20, 3290856.60; 655279.30, 3290835.70; 655288.11, 3290833.15; 655298.16, 3290829.04; 655315.20, 3290846.91; 655323.81, 3290852.28; 655346.20, 3290800.13; 655301.68, 3290799.80; 655303.92, 3290774.09; 655292.78, 3290774.21; 655275.32, 3290772.98; 655264.19, 3290772.70; 655258.80, 3290781.68; 655258.53, 3290792.37; 655241.98, 3290802.26; 655219.35, 3290800.90; 655216.72, 3290811.67; 655199.75, 3290853.62; 655180.94, 3290905.86; 655180.77, 3290912.60; 655187.04, 3290916.08

655307.10, 3290687.58; 655273.21, 3290730.52; 655274.41, 3290698.84; 655312.10, 3290701.77; 655313.47, 3290695.07; 655346.50, 3290693.92; 655345.80, 3290705.79; 655340.58, 3290707.64; 655341.18, 3290731.04; 655359.06, 3290731.49; 655369.13, 3290726.59; 655376.44, 3290704.58; 655387.12, 3290675.52; 655390.69, 3290659.75; 655393.75, 3290649.13; 655355.25, 3290645.74; 655331.04, 3290644.78; 655327.52, 3290658.16; 655314.21, 3290665.76; 655307.64, 3290673.91; 655298.15, 3290671.69; 655281.89, 3290670.09; 655274.36, 3290669.11; 655278.25, 3290656.92; 655287.83, 3290655.58; 655302.05, 3290659.11; 655305.69, 3290656.82; 655303.87, 3290650.04; 655288.75, 3290650.45; 655276.99, 3290643.81; 655272.31, 3290655.98; 655263.29, 3290682.71; 655246.25, 3290680.29; 655237.94, 3290678.90; 655238.85, 3290674.16; 655231.77, 3290671.21; 655229.66, 3290675.91; 655224.02, 3290694.80; 655220.45, 3290724.90; 655231.12, 3290728.27; 655240.63, 3290729.70; 655241.99, 3290707.14; 655257.12, 3290706.33; 655256.98, 3290727.73; 655273.21, 3290730.52

655335.51, 3290577.29; 655278.79, 3290635.53; 655283.77, 3290627.34; 655300.00, 3290630.12; 655310.09, 3290624.04; 655324.17, 3290601.80; 655332.18, 3290583.77; 655339.42, 3290580.38; 655347.63, 3290586.14; 655367.69, 3290594.57; 655363.87, 3290603.99; 655345.67, 3290600.76; 655337.98, 3290606.11; 655321.49, 3290629.08; 655320.09, 3290637.37; 655323.19, 3290640.62; 655353.83, 3290639.80; 655364.51, 3290641.66; 655368.13, 3290608.45; 655388.76, 3290610.56; 655408.85, 3290617.80; 655412.93, 3290609.35; 655428.90, 3290575.27; 655349.85, 3290572.48; 655326.80, 3290572.30; 655297.31, 3290574.73; 655275.41, 3290576.16; 655265.34, 3290581.45; 655257.73, 3290599.49; 655246.48, 3290624.02; 655242.13, 3290638.97; 655278.79, 3290635.53

655591.38, 3290469.24; 655717.66, 3290570.05; 655723.44, 3290561.48; 655730.43, 3290552.54; 655735.44, 3290543.15; 655738.87, 3290532.93; 655731.31, 3290533.14; 655728.57, 3290531.48; 655724.39, 3290539.70; 655718.39, 3290541.14; 655713.49, 3290546.16; 655709.57, 3290544.08; 655706.20, 3290535.68; 655708.02, 3290526.61; 655710.69, 3290515.58; 655712.51, 3290506.51; 655714.72, 3290497.45; 655714.45, 3290492.68; 655711.76, 3290488.65; 655714.44, 3290477.22; 655719.43, 3290468.63; 655721.97, 3290462.35; 655724.88, 3290457.27; 655720.71, 3290449.24; 655718.47, 3290443.64; 655719.01, 3290437.71; 655714.66, 3290436.80; 655712.23, 3290438.72; 655709.10, 3290436.66; 655709.85, 3290422.81; 655719.77, 3290423.46; 655720.77, 3290415.55; 655721.55, 3290400.12; 655716.30, 3290387.70; 655710.88, 3290379.04; 655701.39, 3290376.82; 655696.12, 3290381.05; 655686.62, 3290382.20; 655677.61, 3290376.82; 655668.84, 3290377.78; 655661.82, 3290369.48; 655649.56, 3290369.77; 655631.04, 3290363.36; 655627.21, 3290373.17; 655619.70, 3290371.39; 655627.88, 3290393.80; 655624.19, 3290398.46; 655618.79, 3290391.58; 655613.18, 3290393.43; 655603.48, 3290384.06; 655593.43, 3290372.71; 655587.51, 3290368.01; 655571.96, 3290369.60; 655542.92, 3290370.45; 655513.52, 3290369.71; 655495.02, 3290428.10; 655443.89, 3290563.55; 655554.39, 3290564.75; 655700.04, 3290575.16; 655708.80, 3290574.58; 655717.66, 3290570.05

656482.55, 3287452.66; 655993.30, 3288785.49; 655982.31, 3288779.66; 655977.47, 3288782.32; 655968.45, 3288777.33; 655967.99, 3288764.24; 655972.74, 3288765.16; 655979.70, 3288772.86; 655993.85, 3288779.16; 656013.15, 3288786.39; 656020.68, 3288787.37; 656029.10, 3288784.81; 656038.90, 3288790.21; 656055.64, 3288804.10; 656059.85, 3288810.55; 656053.23, 3288821.08; 656052.36, 3288839.69; 656048.56, 3288864.17; 656047.29, 3288883.16; 656047.37, 3288895.45; 656053.15, 3288902.73; 656049.55, 3288919.68; 656046.58, 3288942.59; 656051.63, 3288947.48; 656071.04, 3288950.34; 656095.73, 3288902.85; 656126.32, 3288841.00; 656157.60, 3288772.09; 656043.44, 3288720.56; 656011.65, 3288704.31; 655998.99, 3288701.61; 656002.03, 3288691.38; 656020.13, 3288683.12; 656041.56, 3288684.85; 656054.64, 3288686.36; 656056.83, 3288693.95; 656050.60, 3288704.49; 656047.28, 3288710.36; 656081.86, 3288726.29; 656087.19, 3288720.08; 656090.99, 3288711.06; 656102.19, 3288708.57; 656108.32, 3288701.98; 656118.23, 3288703.03; 656122.84, 3288693.63; 656134.28, 3288697.49; 656138.15, 3288701.55; 656148.00, 3288704.96; 656150.27, 3288709.78; 656149.66, 3288718.09; 656155.81, 3288726.56; 656173.72, 3288734.09; 656172.30, 3288739.21; 656174.22, 3288733.62; 656186.10, 3288707.91; 656077.52, 3288653.93; 656072.79, 3288665.13; 656063.75, 3288671.30; 656045.12, 3288666.40; 656043.49, 3288652.58; 656044.41, 3288635.88; 656050.88, 3288633.58; 656084.07, 3288648.68; 656094.88, 3288630.75; 656105.17, 3288633.96; 656109.05, 3288636.52; 656107.84, 3288645.34; 656103.04, 3288659.49; 656140.64, 3288675.69; 656141.74, 3288671.29; 656146.35, 3288670.02; 656149.06, 3288663.48; 656155.07, 3288651.45; 656145.36, 3288645.31; 656074.59, 3288613.51; 656054.60, 3288609.27; 656037.27, 3288609.34; 656019.71, 3288618.05; 655994.92, 3288610.82; 656007.43, 3288579.63; 656014.81, 3288579.41; 656022.69, 3288582.39; 656049.12, 3288595.98; 656053.14, 3288586.37; 656057.64, 3288578.92; 656054.97, 3288574.22; 656049.47, 3288570.01; 656042.30, 3288571.36; 656032.57, 3288573.15; 656019.57, 3288563.16; 656011.81, 3288557.90; 656012.30, 3288552.80; 655999.00, 3288544.53; 656001.53, 3288538.65; 656012.33, 3288521.45; 656019.17, 3288486.75; 656026.18, 3288475.46; 656032.95, 3288460.54; 656043.87, 3288436.27; 656059.76, 3288422.38; 656071.12, 3288413.15; 656084.10, 3288418.63; 656092.47, 3288416.89; 656096.81, 3288418.19; 656113.33, 3288425.34; 656106.94, 3288442.22; 656129.70, 3288453.89; 656220.85, 3288497.41; 656249.13, 3288510.80; 656258.94, 3288516.20; 656278.88, 3288520.34; 656311.12, 3288450.50; 656253.13, 3288421.49; 656204.70, 3288396.73; 656191.89, 3288415.82; 656191.67, 3288424.54; 656193.12, 3288430.12; 656180.74, 3288448.04; 656173.18, 3288448.25; 656168.92, 3288443.78; 656168.69, 3288437.43; 656172.89, 3288428.42; 656178.54, 3288425.00; 656189.16, 3288413.77; 656199.58, 3288395.01; 656170.95, 3288379.23; 656164.21, 3288378.66; 656159.71, 3288383.70; 656154.06, 3288402.59; 656144.98, 3288415.83; 656133.64, 3288423.87; 656122.55, 3288422.40; 656109.21, 3288415.33; 656100.16, 3288411.53; 656101.56, 3288403.25; 656107.38, 3288393.09; 656114.49, 3288395.25; 656131.37, 3288403.60; 656136.37, 3288410.46; 656140.95, 3288411.91; 656144.84, 3288405.52; 656152.72, 3288382.13; 656145.31, 3288379.46; 656116.65, 3288372.71; 656104.80, 3288369.64; 656092.63, 3288363.39; 656093.64, 3288354.69; 656097.84, 3288346.08; 656125.33, 3288359.45; 656131.45, 3288369.12; 656147.14, 3288376.03; 656155.25, 3288377.96; 656158.85, 3288370.21; 656166.86, 3288355.64; 656136.74, 3288343.70; 656131.61, 3288349.28; 656125.92, 3288347.65; 656122.82, 3288351.55; 656100.36, 3288342.53; 656110.56, 3288323.90; 656119.93, 3288327.86; 656138.38, 3288338.02; 656168.71, 3288351.46; 656170.31, 3288347.28; 656138.53, 3288331.81; 656135.01, 3288333.21; 656111.33, 3288322.67; 656119.01, 3288305.22; 656113.41, 3288299.61; 656114.06, 3288293.66; 656124.70, 3288287.21; 656133.15, 3288288.42; 656138.75, 3288293.53; 656143.78, 3288301.86; 656160.31, 3288308.99; 656174.85, 3288315.57; 656187.18, 3288321.10; 656188.83, 3288324.87; 656185.59, 3288334.73; 656179.13, 3288353.46; 656174.94, 3288361.56; 656177.70, 3288370.83; 656197.82, 3288385.85; 656227.69, 3288399.68; 656257.58, 3288412.33; 656267.67, 3288391.94; 656277.48, 3288333.92; 656280.67, 3288317.75; 656272.73, 3288317.55; 656267.03, 3288322.96; 656262.89, 3288329.20; 656257.22, 3288333.41; 656253.21, 3288335.04; 656246.95, 3288330.78; 656240.83, 3288321.11; 656241.95, 3288308.46; 656251.63, 3288302.76; 656261.64, 3288284.38; 656272.00, 3288283.45; 656275.88, 3288271.26; 656288.52, 3288258.90; 656276.47, 3288263.75; 656255.67, 3288268.77; 656250.65, 3288278.55; 656241.19, 3288275.54; 656250.74, 3288259.53; 656250.67, 3288246.45; 656249.84, 3288232.16; 656264.31, 3288224.63; 656251.26, 3288221.92; 656235.03, 3288234.99; 656200.52, 3288215.89; 656215.18, 3288201.99; 656225.67, 3288195.91; 656234.00, 3288196.92; 656276.83, 3288218.18; 656270.32, 3288208.10; 656278.57, 3288180.57; 656268.41, 3288173.58; 656273.48, 3288161.81; 656265.83, 3288149.73; 656274.24, 3288131.71; 656284.06, 3288120.86; 656299.14, 3288121.64; 656301.46, 3288108.62; 656301.06, 3288093.15; 656309.51, 3288089.00; 656314.17, 3288077.62; 656323.58, 3288067.16; 656330.03, 3288063.76; 656324.31, 3288054.10; 656323.81, 3288042.20; 656316.09, 3288033.28; 656320.90, 3288015.97; 656320.75, 3288006.05; 656326.84, 3288001.05; 656332.89, 3287997.64; 656351.41, 3287988.59; 656339.25, 3287981.95; 656332.23, 3287976.62; 656341.16, 3287969.31; 656346.56, 3287959.93; 656367.35, 3287955.70; 656378.05, 3287956.76; 656382.66, 3287947.37; 656382.79, 3287941.46; 656373.47, 3287932.50; 656369.71, 3287924.09; 656376.09, 3287907.60; 656383.18, 3287894.30; 656385.31, 3287888.81; 656394.98, 3287883.50; 656400.17, 3287866.99; 656410.33, 3287842.67; 656413.80, 3287831.26; 656424.65, 3287810.93; 656433.12, 3287790.13; 656443.42, 3287760.27; 656450.54, 3287745.79; 656464.65, 3287722.36; 656469.25, 3287697.90; 656471.86, 3287688.85; 656462.42, 3287685.05; 656457.11, 3287690.46; 656452.04, 3287686.37; 656440.14, 3287685.28; 656428.22, 3287684.98; 656422.97, 3287672.56; 656423.06, 3287669.00; 656424.08, 3287660.30; 656475.67, 3287679.83; 656477.39, 3287674.73; 656454.61, 3287663.45; 656450.54, 3287667.31; 656425.70, 3287659.16; 656429.42, 3287653.30; 656433.19, 3287645.87; 656459.43, 3287661.59; 656479.88, 3287670.43; 656489.87, 3287652.84; 656488.17, 3287641.31; 656469.11, 3287640.43; 656466.23, 3287644.32; 656459.94, 3287641.39; 656441.11, 3287631.40; 656443.65, 3287625.13; 656447.37, 3287619.67; 656451.84, 3287615.82; 656476.12, 3287630.30; 656492.74, 3287635.32; 656502.79, 3287613.54; 656490.98, 3287608.88; 656469.99, 3287605.58; 656462.77, 3287608.17; 656455.61, 3287607.99; 656453.81, 3287600.81; 656456.02, 3287591.75; 656457.30, 3287572.76; 656459.51, 3287548.24; 656476.26, 3287546.28; 656478.59, 3287532.47; 656496.32, 3287538.86; 656501.68, 3287531.47; 656508.08, 3287530.04; 656519.86, 3287535.89; 656520.13, 3287540.65; 656532.39, 3287543.34; 656534.88, 3287539.04; 656521.51, 3287533.15; 656514.14, 3287526.23; 656502.61, 3287525.94; 656499.36, 3287531.03; 656492.99, 3287530.26; 656484.23, 3287527.61; 656486.76, 3287511.59; 656490.97, 3287498.70; 656497.85, 3287478.26; 656503.98, 3287471.68; 656518.07, 3287480.75; 656516.74, 3287485.87; 656552.67, 3287497.24; 656596.77, 3287388.56; 656571.38, 3287386.34; 656568.65, 3287399.75; 656559.91, 3287399.52; 656553.49, 3287402.14; 656547.91, 3287402.39; 656537.26, 3287398.95; 656542.59, 3287376.89; 656554.03, 3287380.35; 656563.17, 3287380.58; 656561.89, 3287384.12; 656572.65, 3287383.20; 656598.93, 3287381.48; 656609.31, 3287356.77; 656588.58, 3287350.70; 656583.26, 3287358.28; 656573.88, 3287356.71; 656572.85, 3287359.42; 656557.48, 3287354.28; 656561.40, 3287340.51; 656560.69, 3287337.32; 656541.84, 3287328.13; 656537.78, 3287331.19; 656531.11, 3287327.86; 656534.80, 3287323.19; 656553.58, 3287330.19; 656564.49, 3287334.49; 656569.91, 3287333.01; 656592.76, 3287342.49; 656591.84, 3287347.62; 656610.78, 3287353.25; 656620.98, 3287327.34; 656583.93, 3287314.52; 656575.33, 3287324.21; 656556.36, 3287319.77; 656558.39, 3287302.38; 656565.25, 3287298.20; 656579.95, 3287298.96; 656582.89, 3287308.15; 656591.92, 3287312.74; 656601.73, 3287318.14; 656623.06, 3287323.43; 656628.41, 3287311.28; 656636.41, 3287298.80; 656649.64, 3287294.38; 656662.38, 3287293.51; 656769.80, 3287334.36; 656774.72, 3287314.54; 656763.58, 3287314.65; 656758.35, 3287303.27; 656760.28, 3287289.84; 656755.65, 3287282.35; 656756.99, 3287276.44; 656744.41, 3287270.97; 656691.67, 3287249.02; 656683.31, 3287250.01; 656677.86, 3287261.37; 656683.69, 3287266.66; 656679.88, 3287275.68; 656670.07, 3287286.14; 656660.97, 3287284.72; 656654.31, 3287280.59; 656627.10, 3287271.58; 656610.15, 3287267.43; 656583.37, 3287257.64; 656585.55, 3287248.34; 656592.05, 3287242.56; 656607.76, 3287250.49; 656606.69, 3287261.16; 656621.74, 3287263.52; 656623.21, 3287258.28; 656634.02, 3287260.52; 656633.55, 3287268.18; 656642.22, 3287271.17; 656657.98, 3287277.12; 656658.68, 3287266.67; 656667.96, 3287259.53; 656673.61, 3287242.08; 656641.29, 3287229.53; 656632.54, 3287229.71; 656624.10, 3287233.06; 656596.88, 3287224.45; 656601.62, 3287210.30; 656619.70, 3287218.29; 656620.18, 3287215.13; 656608.38, 3287210.07; 656615.62, 3287190.84; 656622.12, 3287169.60; 656635.83, 3287177.87; 656648.45, 3287182.15; 656655.54, 3287184.71; 656666.67, 3287184.33; 656667.74, 3287189.77; 656670.74, 3287196.58; 656672.16, 3287203.36; 656691.90, 3287209.01; 656702.08, 3287215.21; 656698.59, 3287227.41; 656697.98, 3287236.11; 656731.07, 3287248.04; 656744.92, 3287250.77; 656759.83, 3287258.67; 656760.41, 3287251.55; 656751.60, 3287238.25; 656744.58, 3287232.53; 656743.60, 3287224.18; 656742.70, 3287212.66; 656732.47, 3287208.44; 656726.27, 3287201.94; 656718.60, 3287191.05; 656718.57, 3287176.39; 656690.59, 3287166.57; 656695.92, 3287159.96; 656692.50, 3287153.93; 656699.60, 3287140.24; 656716.14, 3287146.60; 656720.10, 3287147.10; 656716.78, 3287137.10; 656712.87, 3287134.23; 656709.26, 3287135.72; 656705.75, 3287132.86; 656705.94, 3287125.34; 656699.15, 3287126.75; 656691.63, 3287125.37; 656684.52, 3287123.21; 656679.47, 3287118.73; 656687.01, 3287103.46; 656684.78, 3287097.46; 656680.06, 3287095.36; 656672.97, 3287108.26; 656669.08, 3287120.84; 656664.87, 3287130.25; 656670.04, 3287129.98; 656679.15, 3287131.40; 656681.76, 3287138.20; 656675.13, 3287148.74; 656656.26, 3287140.34; 656649.15, 3287154.42; 656648.54, 3287162.73; 656641.07, 3287175.23; 656632.75, 3287173.83; 656624.96, 3287167.69; 656632.07, 3287153.60; 656626.25, 3287147.90; 656622.91, 3287138.31; 656626.58, 3287134.83; 656630.26, 3287130.96; 656636.82, 3287122.80; 656654.54, 3287128.13; 656660.82, 3287115.61; 656637.91, 3287111.34; 656627.70, 3287110.96; 656622.04, 3287103.94; 656627.61, 3287094.04; 656638.28, 3287096.68; 656646.60, 3287097.16; 656652.75, 3287084.64; 656654.05, 3287075.16; 656661.28, 3287061.60; 656674.09, 3287030.73; 656664.98, 3287029.31; 656651.43, 3287030.56; 656645.50, 3287029.22; 656642.49, 3287024.26; 656643.86, 3287017.16; 656648.69, 3287014.90; 656653.77, 3287018.60; 656661.32, 3287020.11; 656668.27, 3287011.04; 656673.40, 3286995.04; 656688.47, 3286998.47; 656690.92, 3286995.75; 656683.87, 3286991.61; 656680.02, 3286986.76; 656687.67, 3286969.32; 656696.80, 3286953.73; 656708.46, 3286962.51; 656738.04, 3286971.97; 656744.21, 3286947.43; 656727.91, 3286947.93; 656721.61, 3286939.99; 656715.43, 3286938.50; 656715.74, 3286910.37; 656734.86, 3286907.02; 656741.85, 3286884.08; 656753.41, 3286882.78; 656753.55, 3286877.24; 656709.00, 3286859.44; 656722.04, 3286834.04; 656737.79, 3286840.38; 656755.51, 3286799.61; 656761.84, 3286795.15; 656769.19, 3286797.98; 656776.54, 3286800.80; 656786.21, 3286774.63; 656803.43, 3286775.84; 656812.30, 3286772.34; 656848.40, 3286789.40; 656859.52, 3286768.54; 656869.05, 3286748.17; 656868.76, 3286740.87; 656869.90, 3286727.42; 656823.30, 3286712.67; 656813.97, 3286725.12; 656801.91, 3286727.30; 656791.08, 3286728.77; 656774.26, 3286723.06; 656787.31, 3286689.04; 656792.50, 3286673.05; 656810.03, 3286667.92; 656816.95, 3286678.33; 656833.78, 3286675.34; 656834.64, 3286662.23; 656848.46, 3286639.85; 656849.92, 3286624.04; 656844.84, 3286615.71; 656844.10, 3286603.01; 656847.30, 3286581.42; 656865.07, 3286548.85; 656875.01, 3286505.34; 656880.01, 3286482.11; 656893.44, 3286484.01; 656905.38, 3286483.52; 656920.65, 3286445.46; 656924.20, 3286433.28; 656934.00, 3286422.96; 656944.00, 3286425.85; 656951.31, 3286429.48; 656962.63, 3286401.23; 656967.89, 3286401.61; 656970.54, 3286390.98; 656974.62, 3286387.12; 656979.06, 3286368.60; 656983.16, 3286364.75; 657008.55, 3286367.76; 657011.93, 3286359.92; 657015.15, 3286356.43; 657021.58, 3286355.41; 657027.99, 3286353.45; 657036.04, 3286349.96; 656997.26, 3286332.07; 657006.58, 3286317.77; 657016.88, 3286319.61; 657017.88, 3286311.32; 656968.10, 3286289.33; 656909.99, 3286411.10; 656869.04, 3286473.88; 656848.67, 3286527.03; 656805.16, 3286630.28; 656740.39, 3286738.83; 656704.96, 3286822.25; 656674.12, 3286889.12; 656657.53, 3286937.32; 656618.43, 3287034.20; 656565.54, 3287137.40; 656531.34, 3287237.86; 656520.88, 3287291.74; 656448.66, 3287441.87; 656379.89, 3287584.65; 656350.80, 3287695.84; 656294.35, 3287807.62; 656273.22, 3287857.02; 656255.35, 3287903.34; 656227.50, 3287965.42; 656196.62, 3288023.30; 656160.47, 3288118.15; 656136.76, 3288159.96; 656092.12, 3288256.88; 656065.53, 3288351.18; 656047.53, 3288387.19; 656008.77, 3288473.41; 655986.34, 3288527.14; 655970.51, 3288571.53; 655956.63, 3288633.01; 655937.72, 3288689.21; 655929.06, 3288720.01; 655929.07, 3288721.61; 655934.70, 3289270.05; 655935.20, 3289268.65; 655951.69, 3289222.64; 656001.22, 3289118.85; 655993.32, 3289115.25; 655985.19, 3289106.72; 655980.33, 3289094.31; 655984.16, 3289084.50; 655996.32, 3289075.29; 656008.96, 3289062.53; 656013.77, 3289045.21; 656012.30, 3289040.42; 656002.87, 3289036.22; 656001.85, 3289013.60; 656008.72, 3288993.56; 656016.77, 3288989.40; 656015.12, 3288976.28; 656014.20, 3288933.85; 656016.52, 3288904.98; 656016.88, 3288874.86; 656013.53, 3288850.21; 656009.80, 3288824.75; 655994.27, 3288809.69; 655987.33, 3288801.19; 655993.30, 3288785.49

655958.92, 3289300.23; 655982.72, 3289269.00; 655961.92, 3289258.17; 655935.11, 3289310.41; 655935.12, 3289311.23; 655935.24, 3289323.27; 655935.25, 3289323.71; 655961.50, 3289337.82; 655969.00, 3289324.14; 655974.86, 3289296.94; 655972.10, 3289280.22; 655982.72, 3289269.00

656127.24, 3288586.90; 656228.67, 3288619.75; 656211.15, 3288607.12; 656191.93, 3288601.04; 656178.06, 3288605.27; 656177.80, 3288615.42; 656160.48, 3288614.99; 656150.33, 3288613.21; 656144.85, 3288608.49; 656147.56, 3288601.96; 656156.78, 3288600.16; 656158.56, 3288595.77; 656152.87, 3288593.45; 656151.00, 3288586.80; 656138.99, 3288577.86; 656127.90, 3288573.01; 656117.22, 3288578.12; 656119.96, 3288584.49; 656109.69, 3288587.79; 656104.91, 3288586.92; 656098.47, 3288587.03; 656091.79, 3288585.19; 656087.60, 3288584.81; 656085.43, 3288582.24; 656086.72, 3288575.58; 656092.33, 3288575.16; 656101.41, 3288572.34; 656105.22, 3288562.78; 656100.69, 3288560.63; 656090.38, 3288564.95; 656086.64, 3288571.97; 656075.81, 3288576.78; 656064.32, 3288567.34; 656063.71, 3288555.46; 656060.90, 3288555.95; 656056.87, 3288560.32; 656053.33, 3288558.42; 656052.95, 3288553.33; 656057.18, 3288547.34; 656055.29, 3288541.70; 656045.86, 3288531.81; 656038.16, 3288553.42; 656025.81, 3288554.29; 656041.44, 3288565.24; 656047.41, 3288564.25; 656061.69, 3288570.83; 656060.04, 3288575.36; 656060.83, 3288584.53; 656053.94, 3288597.87; 656077.71, 3288607.19; 656119.93, 3288626.16; 656123.57, 3288623.20; 656117.04, 3288619.48; 656113.73, 3288609.24; 656116.47, 3288601.68; 656124.13, 3288601.37; 656132.34, 3288599.03; 656132.71, 3288604.63; 656135.77, 3288617.27; 656131.79, 3288620.87; 656130.58, 3288628.46; 656153.29, 3288644.03; 656208.50, 3288662.00; 656228.67, 3288619.75

656072.15, 3288515.54; 656095.43, 3288526.45; 656081.59, 3288517.28; 656086.89, 3288511.87; 656089.87, 3288504.02; 656066.64, 3288495.11; 656058.62, 3288492.04; 656054.29, 3288513.00; 656048.86, 3288525.11; 656066.66, 3288535.39; 656073.33, 3288533.52; 656078.19, 3288522.97; 656080.88, 3288517.45; 656095.43, 3288526.45

656168.16, 3288485.69; 656266.95, 3288545.33; 656236.82, 3288541.80; 656222.10, 3288543.38; 656218.73, 3288534.97; 656206.13, 3288529.14; 656203.78, 3288525.49; 656209.13, 3288522.03; 656177.74, 3288503.85; 656145.48, 3288487.31; 656132.08, 3288480.62; 656128.93, 3288484.68; 656127.97, 3288489.90; 656119.14, 3288488.58; 656115.57, 3288487.38; 656106.33, 3288483.00; 656096.92, 3288478.01; 656099.97, 3288467.38; 656106.85, 3288464.68; 656118.20, 3288470.81; 656137.78, 3288481.41; 656165.29, 3288493.23; 656214.01, 3288516.26; 656219.46, 3288506.06; 656224.85, 3288512.17; 656243.83, 3288516.22; 656242.68, 3288530.06; 656257.27, 3288535.18; 656271.13, 3288537.12; 656274.78, 3288529.22; 656174.58, 3288479.49; 656150.87, 3288469.53; 656147.19, 3288475.99; 656143.01, 3288474.25; 656147.51, 3288467.34; 656124.48, 3288456.14; 656110.50, 3288451.27; 656092.90, 3288440.21; 656086.31, 3288440.98; 656079.39, 3288445.26; 656075.26, 3288454.08; 656061.54, 3288477.91; 656064.61, 3288481.19; 656078.75, 3288487.88; 656088.66, 3288488.93; 656092.01, 3288482.27; 656096.41, 3288481.19; 656113.43, 3288489.79; 656115.12, 3288494.55; 656112.63, 3288505.25; 656138.14, 3288515.00; 656219.70, 3288552.94; 656255.59, 3288571.18; 656266.95, 3288545.33

656170.66, 3288546.98; 656095.43, 3288526.45; 656092.76, 3288531.47; 656096.78, 3288533.60; 656092.49, 3288542.13; 656101.54, 3288546.93; 656108.62, 3288539.57; 656122.79, 3288533.24; 656128.91, 3288532.89; 656131.82, 3288539.06; 656139.44, 3288539.76; 656155.52, 3288549.31; 656164.19, 3288549.02; 656173.22, 3288554.84; 656184.41, 3288555.63; 656192.41, 3288561.93; 656197.40, 3288566.12; 656201.95, 3288567.76; 656204.88, 3288572.91; 656202.19, 3288578.43; 656188.66, 3288589.27; 656234.01, 3288610.48; 656248.83, 3288583.50; 656233.72, 3288570.26; 656224.31, 3288564.87; 656207.03, 3288556.51; 656186.59, 3288547.28; 656166.91, 3288539.25; 656138.24, 3288525.45; 656131.55, 3288522.51; 656132.15, 3288530.45; 656118.24, 3288530.10; 656117.22, 3288523.33; 656109.53, 3288528.69; 656104.43, 3288525.79; 656095.43, 3288526.45

656142.41, 3288739.77; 656171.35, 3288741.81; 656151.32, 3288731.21; 656138.35, 3288724.94; 656121.77, 3288720.55; 656117.17, 3288729.16; 656113.48, 3288733.82; 656116.49, 3288740.63; 656132.56, 3288749.76; 656163.63, 3288758.82; 656171.35, 3288741.81

656181.91, 3288677.10; 656190.27, 3288665.13; 656174.14, 3288658.82; 656168.11, 3288676.16; 656160.97, 3288682.25; 656173.37, 3288689.31; 656192.27, 3288696.02; 656202.85, 3288673.84; 656190.27, 3288665.13

656171.82, 3288740.75; 656172.30, 3288739.21; 656171.57, 3288741.33; 656171.35, 3288741.81; 656171.55, 3288741.91; 656172.30, 3288739.21

656636.28, 3287424.30; 656587.81, 3287648.54; 656579.27, 3287640.40; 656571.16, 3287646.54; 656562.50, 3287643.15; 656562.67, 3287636.42; 656581.32, 3287622.22; 656597.43, 3287613.91; 656592.00, 3287592.76; 656576.82, 3287580.09; 656573.97, 3287566.94; 656566.23, 3287558.43; 656582.40, 3287547.74; 656591.42, 3287536.87; 656606.23, 3287533.27; 656610.54, 3287519.91; 656626.56, 3287515.16; 656629.04, 3287527.11; 656636.39, 3287535.22; 656636.54, 3287509.43; 656650.37, 3287501.49; 656662.92, 3287492.29; 656708.44, 3287453.41; 656713.43, 3287444.42; 656705.53, 3287442.64; 656692.72, 3287445.88; 656689.31, 3287454.91; 656674.32, 3287450.17; 656674.49, 3287443.44; 656684.33, 3287447.65; 656686.49, 3287440.57; 656674.01, 3287431.14; 656665.30, 3287429.73; 656659.96, 3287436.34; 656655.67, 3287433.06; 656651.39, 3287429.38; 656654.78, 3287421.14; 656664.40, 3287418.22; 656667.70, 3287413.54; 656655.75, 3287398.58; 656653.69, 3287385.45; 656649.17, 3287375.82; 656645.09, 3287363.83; 656659.77, 3287365.39; 656662.12, 3287350.78; 656666.13, 3287333.84; 656676.18, 3287329.34; 656709.06, 3287334.13; 656738.06, 3287335.25; 656759.34, 3287342.53; 656770.03, 3287341.10; 656703.21, 3287315.40; 656684.16, 3287307.54; 656669.99, 3287301.77; 656651.35, 3287305.52; 656635.63, 3287313.84; 656535.86, 3287563.24; 656512.12, 3287621.70; 656502.52, 3287639.69; 656503.94, 3287646.46; 656526.33, 3287657.33; 656574.80, 3287660.10; 656587.81, 3287648.54

657209.20, 3285886.27; 657285.39, 3285721.53; 657285.10, 3285722.08; 657285.12, 3285721.43; 657285.39, 3285721.53; 657290.78, 3285706.06; 657300.18, 3285692.75; 657316.59, 3285707.93; 657343.91, 3285728.04; 657354.41, 3285736.99; 657372.67, 3285753.70; 657382.06, 3285759.88; 657406.45, 3285707.82; 657369.03, 3285695.54; 657350.59, 3285683.82; 657326.56, 3285674.46; 657323.32, 3285677.15; 657295.86, 3285662.63; 657265.72, 3285722.51; 657247.39, 3285771.59; 657230.99, 3285791.39; 657211.88, 3285851.57; 657182.10, 3285897.33; 657123.80, 3286001.55; 657108.74, 3286031.29; 657072.52, 3286101.19; 657011.95, 3286215.10; 657068.80, 3286227.40; 657085.66, 3286224.89; 657094.30, 3286229.07; 657095.24, 3286223.15; 657092.64, 3286215.95; 657087.52, 3286213.84; 657091.24, 3286208.38; 657094.46, 3286206.88; 657101.37, 3286200.71; 657103.52, 3286194.42; 657104.12, 3286186.51; 657098.69, 3286181.22; 657095.25, 3286175.59; 657089.84, 3286170.85; 657085.22, 3286164.93; 657088.52, 3286158.77; 657098.99, 3286153.49; 657106.59, 3286151.70; 657099.97, 3286145.98; 657092.14, 3286142.90; 657089.27, 3286128.63; 657091.06, 3286120.35; 657094.64, 3286104.59; 657095.53, 3286085.63; 657110.18, 3286079.42; 657130.56, 3286084.13; 657137.75, 3286082.72; 657155.17, 3286038.38; 657159.35, 3286030.16; 657161.54, 3286018.88; 657174.81, 3286018.16; 657175.05, 3286008.65; 657194.23, 3285962.63; 657184.80, 3285958.17; 657203.42, 3285913.72; 657236.98, 3285931.84; 657271.16, 3285948.16; 657309.02, 3285960.60; 657333.59, 3285902.20; 657326.27, 3285898.31; 657289.21, 3285896.32; 657278.16, 3285892.88; 657278.96, 3285882.33; 657273.25, 3285877.43; 657275.72, 3285863.75; 657283.15, 3285863.41; 657290.08, 3285862.00; 657298.43, 3285866.96; 657297.13, 3285879.81; 657292.95, 3285887.63; 657307.93, 3285892.77; 657337.69, 3285895.10; 657346.27, 3285870.35; 657321.88, 3285859.83; 657310.39, 3285855.24; 657304.46, 3285859.32; 657296.54, 3285857.93; 657287.50, 3285858.89; 657275.94, 3285854.90; 657267.61, 3285848.88; 657261.77, 3285849.26; 657259.35, 3285840.21; 657262.73, 3285832.37; 657263.54, 3285821.30; 657278.91, 3285829.81; 657285.91, 3285835.93; 657301.60, 3285844.25; 657306.98, 3285838.31; 657314.97, 3285842.01; 657312.18, 3285850.47; 657328.32, 3285858.86; 657348.79, 3285864.86; 657359.94, 3285833.04; 657369.29, 3285809.10; 657333.22, 3285797.43; 657327.21, 3285806.45; 657316.56, 3285803.02; 657308.06, 3285803.35; 657289.57, 3285801.15; 657293.53, 3285786.19; 657298.36, 3285770.31; 657307.08, 3285763.97; 657316.91, 3285765.53; 657326.53, 3285775.61; 657333.06, 3285779.25; 657342.92, 3285777.99; 657338.61, 3285792.31; 657348.35, 3285797.81; 657369.78, 3285805.15; 657379.99, 3285765.04; 657363.62, 3285749.90; 657340.23, 3285731.48; 657313.37, 3285709.44; 657304.53, 3285728.64; 657285.39, 3285721.53

657449.96, 3285437.38; 657456.41, 3285571.55; 657460.96, 3285564.53; 657464.92, 3285565.02; 657465.15, 3285555.91; 657467.80, 3285545.28; 657469.60, 3285537.00; 657464.96, 3285531.73; 657452.74, 3285527.86; 657441.84, 3285534.32; 657430.04, 3285529.27; 657428.65, 3285521.31; 657423.24, 3285515.23; 657425.07, 3285505.76; 657441.02, 3285489.67; 657446.25, 3285485.25; 657451.26, 3285475.47; 657455.75, 3285470.82; 657462.22, 3285466.63; 657468.46, 3285471.54; 657488.01, 3285484.71; 657527.86, 3285386.63; 657503.03, 3285375.74; 657513.45, 3285359.36; 657532.81, 3285368.24; 657542.39, 3285354.53; 657528.22, 3285348.46; 657534.58, 3285336.25; 657529.60, 3285333.17; 657532.15, 3285326.90; 657530.17, 3285321.86; 657538.43, 3285309.70; 657544.53, 3285307.32; 657540.74, 3285293.90; 657523.76, 3285281.54; 657483.12, 3285347.89; 657388.97, 3285486.62; 657355.39, 3285556.72; 657391.89, 3285566.64; 657402.31, 3285553.17; 657411.55, 3285552.98; 657418.06, 3285547.20; 657425.70, 3285550.58; 657429.67, 3285559.78; 657433.11, 3285565.02; 657448.49, 3285570.16; 657456.41, 3285571.55

657772.08, 3284964.27; 657634.72, 3285154.34; 657647.49, 3285136.82; 657666.30, 3285147.60; 657675.07, 3285162.49; 657684.48, 3285167.87; 657695.32, 3285179.25; 657716.69, 3285153.65; 657688.72, 3285127.58; 657692.14, 3285118.15; 657695.45, 3285111.08; 657693.80, 3285097.96; 657688.59, 3285090.58; 657719.11, 3285078.67; 657718.42, 3285063.86; 657723.32, 3285058.70; 657729.08, 3285061.48; 657733.02, 3285052.60; 657753.09, 3285055.75; 657754.25, 3285051.55; 657745.01, 3285039.69; 657751.70, 3285026.65; 657757.06, 3285024.14; 657765.03, 3285002.67; 657784.54, 3284985.73; 657795.36, 3284998.15; 657803.81, 3284999.42; 657792.08, 3284981.16; 657799.39, 3284964.43; 657804.11, 3284948.94; 657820.75, 3284935.88; 657839.37, 3284934.79; 657839.03, 3284927.38; 657847.49, 3284928.12; 657850.40, 3284917.63; 657859.43, 3284896.19; 657879.94, 3284860.77; 657895.09, 3284848.47; 657904.56, 3284830.21; 657906.47, 3284817.58; 657953.41, 3284764.33; 657953.57, 3284757.99; 657949.06, 3284751.25; 657957.97, 3284728.88; 657914.38, 3284691.72; 657832.12, 3284831.93; 657779.29, 3284924.14; 657707.34, 3285002.39; 657641.83, 3285093.08; 657586.18, 3285171.35; 657627.55, 3285198.44; 657623.81, 3285207.92; 657626.43, 3285214.73; 657620.21, 3285224.88; 657625.56, 3285233.33; 657638.36, 3285230.09; 657657.42, 3285215.51; 657661.13, 3285210.45; 657639.77, 3285190.10; 657653.56, 3285176.37; 657639.67, 3285163.18; 657634.72, 3285154.34

658205.14, 3284355.46; 658140.75, 3284465.96; 658148.44, 3284460.60; 658159.09, 3284464.04; 658164.10, 3284454.26; 658171.74, 3284450.89; 658182.91, 3284449.58; 658185.91, 3284440.94; 658182.61, 3284429.76; 658189.43, 3284427.55; 658196.47, 3284432.09; 658202.20, 3284425.49; 658202.57, 3284410.84; 658210.18, 3284408.65; 658221.02, 3284404.57; 658231.17, 3284396.50; 658237.00, 3284385.94; 658240.92, 3284372.17; 658249.73, 3284370.02; 658260.71, 3284359.99; 658265.67, 3284352.58; 658273.73, 3284348.42; 658282.29, 3284341.36; 658235.90, 3284312.54; 658200.33, 3284298.97; 658179.41, 3284295.69; 658168.31, 3284328.54; 658127.98, 3284451.77; 658131.49, 3284454.63; 658134.50, 3284461.44; 658140.75, 3284465.96

654468.03, 3293288.68; 653235.06, 3299509.92; 653235.06, 3299509.93; 653234.92, 3299510.06; 653234.06, 3299510.89; 653223.04, 3299547.04; 653226.28, 3299576.06; 653251.97, 3299598.11; 653277.39, 3299583.29; 653312.38, 3299598.84; 653295.28, 3299645.97; 653276.61, 3299645.50; 653278.53, 3299663.78; 653284.15, 3299677.40; 653273.35, 3299680.30; 653263.31, 3299652.70; 653271.60, 3299636.56; 653258.93, 3299637.13; 653257.06, 3299607.75; 653264.01, 3299593.66; 653246.24, 3299604.31; 653234.99, 3299625.03; 653226.66, 3299639.88; 653227.35, 3299659.72; 653240.65, 3299684.23; 653242.56, 3299702.91; 653253.33, 3299732.91; 653246.71, 3299748.17; 653235.23, 3299741.17; 653229.67, 3299678.01; 653217.73, 3299678.50; 653224.09, 3299709.97; 653223.49, 3299749.59; 653241.09, 3299761.13; 653280.70, 3299766.89; 653297.49, 3299747.49; 653302.68, 3299762.29; 653297.86, 3299795.86; 653302.53, 3299815.40; 653310.06, 3299832.24; 653319.99, 3299832.49; 653310.39, 3299850.48; 653307.36, 3299907.48; 653329.84, 3299920.74; 653330.17, 3299932.93; 653312.67, 3299933.37; 653328.24, 3299946.45; 653325.36, 3299968.50; 653320.43, 3299972.41; 653301.99, 3299978.29; 653276.99, 3299960.62; 653266.59, 3299978.98; 653272.58, 3300025.11; 653294.04, 3300009.80; 653318.46, 3299987.42; 653338.33, 3299987.53; 653326.93, 3300029.65; 653337.59, 3300055.05; 653300.94, 3300067.05; 653305.18, 3300104.01; 653282.89, 3300105.04; 653306.93, 3300192.05; 653311.86, 3300253.04; 653286.37, 3300265.49; 653266.61, 3300245.73; 653254.54, 3300267.23; 653257.50, 3300322.79; 653247.86, 3300342.76; 653252.91, 3300363.11; 653253.47, 3300388.09; 653274.77, 3300394.57; 653290.64, 3300406.03; 653258.03, 3300427.84; 653294.01, 3300467.28; 653265.38, 3300467.27; 653258.91, 3300487.32; 653283.73, 3300480.81; 653296.17, 3300493.81; 653271.94, 3300506.67; 653273.80, 3300527.33; 653245.61, 3300541.68; 653232.84, 3300543.74; 653208.57, 3300508.16; 653221.17, 3300502.22; 653226.84, 3300450.84; 653212.83, 3300375.97; 653206.31, 3300334.98; 653212.81, 3300266.57; 653225.15, 3300218.53; 653220.60, 3300194.23; 653189.50, 3300062.96; 653173.21, 3300055.90; 653152.76, 3300047.06; 653146.86, 3300028.68; 653163.74, 3300021.57; 653174.60, 3300000.84; 653170.45, 3299992.02; 653168.10, 3299974.91; 653148.75, 3299969.67; 653187.01, 3299911.76; 653179.41, 3299905.04; 653161.59, 3299902.22; 653128.64, 3299916.05; 653128.48, 3299906.53; 653154.24, 3299878.25; 653143.93, 3299866.59; 653126.15, 3299857.33; 653138.03, 3299843.36; 653127.24, 3299830.01; 653101.83, 3299828.57; 653097.89, 3299811.43; 653120.43, 3299796.73; 653142.64, 3299770.94; 653143.55, 3299750.75; 653153.15, 3299732.76; 653149.47, 3299721.17; 653177.41, 3299700.87; 653188.21, 3299682.51; 653180.87, 3299674.00; 653166.85, 3299678.41; 653162.82, 3299664.83; 653181.89, 3299649.46; 653186.21, 3299635.69; 653175.19, 3299631.45; 653160.92, 3299645.36; 653152.96, 3299620.67; 653134.01, 3299609.01; 653153.79, 3299597.22; 653176.82, 3299582.74; 653186.56, 3299559.20; 653213.49, 3299547.59; 653213.11, 3299530.94; 653234.06, 3299510.89; 653234.31, 3299510.07; 653234.92, 3299510.06; 653235.06, 3299509.92; 653280.06, 3299461.68; 653334.50, 3299494.36; 653353.46, 3299499.20; 653363.87, 3299433.27; 653362.07, 3299394.38; 653338.62, 3299378.33; 653329.42, 3299365.02; 653323.28, 3299340.29; 653334.36, 3299342.55; 653367.86, 3299338.24; 653372.07, 3299313.38; 653379.00, 3299275.11; 653385.61, 3299265.37; 653374.93, 3299263.11; 653373.24, 3299251.18; 653350.57, 3299258.25; 653366.52, 3299218.11; 653343.71, 3299224.28; 653319.15, 3299268.05; 653228.45, 3299285.98; 653212.54, 3299276.36; 653196.09, 3299276.44; 653214.23, 3299250.74; 653258.29, 3299253.44; 653270.07, 3299227.97; 653262.74, 3299187.36; 653275.42, 3299157.55; 653270.66, 3299125.73; 653285.06, 3299122.52; 653305.21, 3299127.39; 653318.74, 3299093.56; 653322.89, 3299071.07; 653329.05, 3299063.30; 653333.81, 3299063.82; 653336.58, 3299079.74; 653347.59, 3299084.77; 653346.71, 3299056.61; 653344.74, 3299040.31; 653354.54, 3299029.86; 653343.60, 3299022.44; 653327.41, 3299018.07; 653332.79, 3299009.49; 653322.25, 3299002.09; 653316.80, 3298981.74; 653316.48, 3298962.70; 653328.56, 3298956.67; 653351.42, 3298933.07; 653340.85, 3298926.46; 653333.12, 3298917.94; 653341.19, 3298912.99; 653353.19, 3298910.12; 653367.78, 3298899.39; 653352.14, 3298873.23; 653372.73, 3298860.67; 653376.87, 3298838.58; 653358.86, 3298827.43; 653367.01, 3298803.85; 653376.85, 3298792.21; 653392.74, 3298776.75; 653391.30, 3298770.77; 653381.25, 3298775.27; 653376.15, 3298756.91; 653379.18, 3298747.08; 653373.64, 3298730.29; 653370.81, 3298716.35; 653375.38, 3298708.54; 653381.86, 3298703.95; 653384.90, 3298693.72; 653378.20, 3298691.57; 653411.20, 3298628.58; 653413.58, 3298612.79; 653425.15, 3298611.50; 653444.73, 3298623.09; 653457.09, 3298621.81; 653468.63, 3298605.46; 653486.74, 3298612.65; 653489.52, 3298565.56; 653513.76, 3298534.46; 653524.88, 3298519.28; 653522.33, 3298494.25; 653524.11, 3298455.45; 653535.46, 3298415.31; 653527.40, 3298372.30; 653496.57, 3298381.03; 653477.37, 3298369.85; 653481.12, 3298347.35; 653470.89, 3298343.13; 653464.83, 3298299.77; 653451.98, 3298320.45; 653453.18, 3298335.94; 653425.05, 3298332.06; 653421.01, 3298350.19; 653427.82, 3298363.84; 653407.59, 3298378.00; 653414.61, 3298399.18; 653416.32, 3298411.35; 653417.55, 3298412.48; 653416.90, 3298412.33; 653416.52, 3298412.31; 653416.95, 3298412.79; 653416.81, 3298412.87; 653419.75, 3298415.96; 653493.70, 3298415.84; 653497.66, 3298430.81; 653480.82, 3298437.71; 653463.05, 3298448.76; 653463.76, 3298467.80; 653451.71, 3298472.65; 653451.34, 3298487.30; 653477.74, 3298496.69; 653465.55, 3298507.08; 653473.08, 3298523.92; 653464.24, 3298527.66; 653453.11, 3298543.24; 653446.67, 3298546.24; 653440.49, 3298539.35; 653368.09, 3298525.24; 653396.54, 3298493.82; 653402.64, 3298479.34; 653384.84, 3298460.26; 653400.52, 3298437.67; 653394.89, 3298424.45; 653416.81, 3298412.87; 653416.26, 3298412.30; 653416.12, 3298412.16; 653386.14, 3298405.39; 653355.22, 3298379.42; 653362.64, 3298335.53; 653360.25, 3298316.16; 653382.38, 3298304.54; 653400.70, 3298288.64; 653400.16, 3298262.87; 653429.51, 3298250.13; 653447.60, 3298226.41; 653441.29, 3298211.16; 653426.51, 3298211.21; 653410.93, 3298182.68; 653397.16, 3298177.18; 653380.15, 3298158.12; 653371.68, 3298147.21; 653370.94, 3298128.96; 653372.16, 3298096.48; 653393.86, 3298087.52; 653392.71, 3298070.05; 653385.04, 3298058.76; 653392.16, 3298028.82; 653443.67, 3298003.80; 653470.19, 3297954.09; 653470.83, 3297928.92; 653458.68, 3297909.72; 653447.32, 3297859.05; 653460.90, 3297821.61; 653493.74, 3297772.06; 653510.80, 3297738.90; 653499.09, 3297714.82; 653486.43, 3297696.67; 653485.06, 3297672.06; 653471.35, 3297658.14; 653497.40, 3297627.31; 653510.10, 3297609.27; 653601.98, 3297607.63; 653618.92, 3297598.14; 653626.88, 3297582.09; 653616.46, 3297569.54; 653610.19, 3297550.36; 653612.54, 3297535.76; 653635.58, 3297520.88; 653626.54, 3297516.69; 653609.87, 3297515.87; 653608.02, 3297494.42; 653617.93, 3297480.00; 653641.02, 3297478.60; 653642.86, 3297468.74; 653646.53, 3297449.41; 653669.06, 3297454.74; 653672.85, 3297444.11; 653691.38, 3297452.53; 653696.01, 3297442.34; 653676.76, 3297433.13; 653667.67, 3297415.07; 653676.87, 3297397.46; 653666.00, 3297371.03; 653666.63, 3297361.93; 653664.05, 3297322.63; 653656.36, 3297280.81; 653648.36, 3297282.59; 653647.40, 3297304.77; 653635.57, 3297316.76; 653649.06, 3297326.64; 653643.60, 3297360.95; 653645.04, 3297382.39; 653641.67, 3297390.23; 653614.42, 3297398.66; 653573.18, 3297441.62; 653556.44, 3297474.89; 653554.51, 3297503.77; 653571.37, 3297513.31; 653552.03, 3297523.53; 653563.32, 3297532.93; 653549.45, 3297546.85; 653551.00, 3297563.93; 653534.88, 3297572.64; 653533.16, 3297593.60; 653503.73, 3297594.05; 653486.20, 3297595.59; 653465.47, 3297581.99; 653467.89, 3297565.01; 653470.42, 3297543.27; 653483.51, 3297544.39; 653488.10, 3297520.33; 653501.68, 3297517.90; 653505.56, 3297505.71; 653517.68, 3297482.63; 653529.51, 3297486.50; 653571.22, 3297440.38; 653599.56, 3297333.91; 653575.93, 3297316.84; 653553.34, 3297314.29; 653562.64, 3297295.19; 653587.28, 3297276.70; 653632.87, 3297265.47; 653620.74, 3297258.51; 653606.98, 3297252.62; 653596.79, 3297230.96; 653581.92, 3297190.16; 653582.41, 3297139.04; 653600.86, 3297101.45; 653631.93, 3297083.21; 653653.05, 3297096.82; 653665.25, 3297075.62; 653656.24, 3297065.20; 653689.25, 3297033.89; 653709.43, 3297012.04; 653718.27, 3297033.07; 653734.39, 3297040.21; 653748.64, 3297058.41; 653762.70, 3297068.67; 653769.54, 3297065.28; 653758.41, 3297080.85; 653745.00, 3297076.94; 653736.31, 3297090.20; 653733.35, 3297113.12; 653714.19, 3297116.20; 653711.79, 3297163.70; 653711.55, 3297173.21; 653700.60, 3297166.19; 653689.55, 3297147.29; 653674.84, 3297162.77; 653685.51, 3297181.27; 653693.25, 3297189.39; 653703.27, 3297186.48; 653716.82, 3297185.23; 653734.32, 3297184.88; 653739.69, 3297176.69; 653748.80, 3297178.11; 653757.54, 3297210.04; 653768.91, 3297200.42; 653782.78, 3297202.35; 653789.43, 3297206.48; 653798.52, 3297192.84; 653810.90, 3297190.77; 653814.18, 3297171.04; 653802.40, 3297165.19; 653803.02, 3297156.49; 653810.89, 3297128.15; 653818.38, 3297099.40; 653812.38, 3297084.98; 653809.62, 3297068.27; 653823.36, 3297059.50; 653836.95, 3297072.52; 653846.18, 3297068.79; 653845.03, 3297051.32; 653836.17, 3297040.40; 653844.24, 3297019.99; 653868.42, 3297022.58; 653871.72, 3297002.06; 653893.08, 3296990.70; 653896.53, 3296964.23; 653911.68, 3296962.63; 653915.61, 3296948.86; 653928.58, 3296923.03; 653915.91, 3296921.12; 653906.33, 3296938.32; 653879.88, 3296946.77; 653890.79, 3296924.06; 653909.12, 3296890.83; 653917.74, 3296864.49; 653930.46, 3296848.96; 653921.62, 3296836.84; 653907.96, 3296842.45; 653899.83, 3296833.92; 653897.03, 3296818.79; 653904.66, 3296784.10; 653928.52, 3296799.76; 653949.92, 3296802.28; 653932.25, 3296778.06; 653911.22, 3296760.48; 653905.27, 3296744.48; 653865.37, 3296757.47; 653843.54, 3296748.47; 653827.55, 3296736.18; 653821.81, 3296727.31; 653828.03, 3296685.85; 653822.85, 3296654.81; 653834.96, 3296631.73; 653820.71, 3296613.53; 653786.55, 3296628.13; 653777.83, 3296658.43; 653771.18, 3296670.15; 653773.98, 3296684.89; 653755.93, 3296696.53; 653741.83, 3296714.60; 653738.55, 3296707.67; 653727.80, 3296703.15; 653745.82, 3296670.07; 653737.90, 3296649.50; 653742.08, 3296625.82; 653731.72, 3296610.90; 653748.05, 3296581.96; 653746.30, 3296553.40; 653758.88, 3296574.72; 653777.32, 3296584.30; 653811.37, 3296589.91; 653828.53, 3296555.86; 653830.59, 3296521.43; 653835.24, 3296479.14; 653835.58, 3296449.82; 653834.78, 3296434.34; 653850.66, 3296387.97; 653823.94, 3296407.12; 653823.37, 3296382.53; 653805.44, 3296384.06; 653806.74, 3296363.88; 653817.06, 3296350.70; 653822.45, 3296308.78; 653803.29, 3296264.70; 653811.63, 3296249.06; 653799.42, 3296228.93; 653804.47, 3296217.96; 653827.64, 3296213.39; 653830.82, 3296181.77; 653810.70, 3296191.56; 653803.54, 3296175.93; 653813.79, 3296163.50; 653837.79, 3296157.76; 653847.14, 3296149.68; 653837.20, 3296133.97; 653840.10, 3296113.43; 653873.14, 3296096.03; 653874.24, 3296084.17; 653892.42, 3296072.74; 653894.24, 3296063.66; 653907.98, 3296054.89; 653901.39, 3296047.99; 653882.47, 3296041.57; 653883.77, 3296021.78; 653912.43, 3296004.67; 653919.16, 3295989.78; 653921.08, 3295945.44; 653910.18, 3295920.59; 653916.00, 3295879.12; 653928.93, 3295807.70; 653933.75, 3295789.99; 653925.61, 3295793.06; 653920.41, 3295787.18; 653935.81, 3295755.56; 653949.53, 3295747.58; 653956.62, 3295718.83; 653953.83, 3295703.30; 653940.00, 3295684.32; 653948.81, 3295665.91; 653943.02, 3295659.03; 653926.33, 3295643.15; 653893.58, 3295649.07; 653894.46, 3295661.37; 653928.09, 3295667.77; 653911.29, 3295687.56; 653902.85, 3295691.31; 653894.08, 3295692.28; 653898.47, 3295707.45; 653890.35, 3295713.99; 653904.53, 3295719.10; 653897.74, 3295751.83; 653896.62, 3295764.88; 653903.30, 3295767.82; 653904.66, 3295792.82; 653912.08, 3295798.16; 653909.60, 3295817.52; 653867.14, 3295829.93; 653845.32, 3295812.73; 653833.24, 3295802.91; 653829.87, 3295779.05; 653836.41, 3295756.23; 653855.42, 3295743.23; 653858.68, 3295703.12; 653837.21, 3295692.83; 653836.87, 3295659.13; 653844.41, 3295628.41; 653856.41, 3295577.98; 653855.31, 3295563.63; 653842.60, 3295558.21; 653850.70, 3295536.61; 653857.36, 3295509.03; 653852.82, 3295468.49; 653856.40, 3295436.87; 653869.31, 3295407.41; 653888.25, 3295407.89; 653884.94, 3295424.51; 653878.90, 3295443.39; 653898.19, 3295451.01; 653917.28, 3295450.69; 653931.52, 3295437.58; 653931.84, 3295426.88; 653923.90, 3295408.85; 653932.91, 3295390.12; 653930.71, 3295359.48; 653949.74, 3295346.08; 653928.51, 3295314.44; 653916.58, 3295289.36; 653921.55, 3295265.71; 653969.63, 3295251.06; 653985.27, 3295230.06; 654004.85, 3295226.19; 654005.04, 3295202.81; 653984.57, 3295163.06; 653993.99, 3295152.19; 653990.53, 3295116.04; 653989.91, 3295093.43; 654003.67, 3295054.53; 653995.58, 3295042.05; 653991.58, 3295027.28; 653986.64, 3295013.63; 653982.94, 3294991.79; 653999.60, 3294993.00; 654019.55, 3294995.09; 654034.33, 3294992.30; 654042.69, 3294991.71; 654066.11, 3294988.73; 654077.07, 3294979.50; 654083.70, 3294968.96; 654086.86, 3294953.98; 654095.71, 3294947.11; 654110.49, 3294931.59; 654114.42, 3294917.42; 654133.94, 3294900.47; 654135.22, 3294881.08; 654121.52, 3294856.96; 654118.86, 3294836.28; 654112.09, 3294805.19; 654090.12, 3294762.23; 654089.06, 3294741.20; 654114.42, 3294712.90; 654114.85, 3294689.40; 654115.48, 3294664.23; 654135.38, 3294626.94; 654121.24, 3294600.51; 654139.74, 3294564.91; 654133.07, 3294561.57; 654111.21, 3294608.59; 654084.04, 3294676.87; 654074.57, 3294721.02; 654065.23, 3294760.42; 654098.05, 3294814.75; 654109.02, 3294836.83; 654111.50, 3294848.78; 654115.12, 3294878.60; 654116.07, 3294888.13; 654112.10, 3294903.89; 654106.59, 3294917.22; 654099.53, 3294929.33; 654090.11, 3294940.19; 654082.52, 3294941.59; 654073.07, 3294937.78; 654062.84, 3294933.56; 654040.41, 3294924.67; 654025.76, 3294922.32; 654015.73, 3294925.64; 654013.23, 3294930.33; 654017.85, 3294936.39; 654033.16, 3294943.91; 654040.62, 3294947.67; 654038.13, 3294951.96; 654032.97, 3294951.44; 654020.45, 3294943.59; 654011.43, 3294938.61; 653999.97, 3294967.25; 654008.85, 3294975.47; 654033.70, 3294985.54; 654032.98, 3294987.84; 654026.39, 3294987.34; 653997.73, 3294977.50; 653992.26, 3294973.40; 653998.14, 3294961.26; 654006.49, 3294929.76; 654009.69, 3294913.20; 654008.86, 3294898.51; 654014.86, 3294879.46; 654007.84, 3294876.29; 654009.30, 3294865.63; 654018.39, 3294867.84; 654033.50, 3294820.26; 654058.09, 3294759.84; 654068.24, 3294720.07; 654077.78, 3294672.74; 654105.84, 3294600.52; 654126.45, 3294555.86; 654108.65, 3294532.02; 654106.87, 3294524.05; 654113.05, 3294515.49; 654121.46, 3294497.07; 654127.64, 3294457.19; 654142.38, 3294408.82; 654154.25, 3294360.65; 654166.93, 3294320.28; 654191.67, 3294220.21; 654199.42, 3294180.77; 654209.15, 3294094.61; 654218.28, 3294050.47; 654234.73, 3293994.98; 654245.90, 3293961.96; 654255.53, 3293942.79; 654269.46, 3293910.64; 654290.49, 3293865.19; 654306.85, 3293831.12; 654324.21, 3293773.69; 654331.82, 3293744.95; 654295.46, 3293736.51; 654291.50, 3293751.47; 654280.80, 3293750.40; 654286.02, 3293732.30; 654305.80, 3293736.37; 654333.08, 3293742.61; 654350.29, 3293685.57; 654367.76, 3293623.38; 654376.72, 3293603.79; 654383.38, 3293592.07; 654390.43, 3293576.00; 654377.69, 3293576.47; 654365.55, 3293553.57; 654379.60, 3293547.98; 654367.29, 3293531.82; 654373.13, 3293520.86;

654386.28, 3293516.85; 654403.95, 3293525.14; 654416.34, 3293522.76; 654428.14, 3293530.97; 654433.07, 3293540.61; 654441.63, 3293539.04; 654443.80, 3293529.39; 654438.96, 3293516.58; 654435.01, 3293499.44; 654439.55, 3293477.36; 654437.00, 3293468.18; 654426.69, 3293467.12; 654429.59, 3293446.59; 654424.95, 3293433.80; 654417.05, 3293431.62; 654412.49, 3293439.04; 654414.42, 3293457.32; 654412.38, 3293475.10; 654401.43, 3293467.69; 654391.71, 3293474.98; 654380.54, 3293476.28; 654379.45, 3293456.44; 654392.20, 3293439.71; 654386.26, 3293438.77; 654389.82, 3293423.80; 654395.80, 3293423.16; 654391.95, 3293417.91; 654394.94, 3293409.64; 654426.30, 3293419.55; 654432.45, 3293412.18; 654436.31, 3293385.32; 654437.70, 3293377.43; 654450.32, 3293381.32; 654463.70, 3293386.81; 654475.51, 3293391.46; 654474.03, 3293418.77; 654459.94, 3293425.55; 654456.21, 3293447.26; 654452.28, 3293461.43; 654446.56, 3293483.08; 654442.63, 3293496.86; 654444.61, 3293513.16; 654452.53, 3293530.00; 654460.08, 3293530.19; 654491.94, 3293507.61; 654514.53, 3293479.24; 654550.35, 3293446.06; 654529.01, 3293441.16; 654521.57, 3293440.98; 654516.09, 3293433.75; 654511.50, 3293410.20; 654513.23, 3293357.53; 654520.12, 3293352.16; 654520.87, 3293338.30; 654513.91, 3293269.96; 654494.43, 3293283.34; 654493.01, 3293260.71; 654495.68, 3293249.68; 654483.11, 3293243.42; 654488.97, 3293231.68; 654504.44, 3293233.25; 654513.67, 3293214.07; 654499.60, 3293204.60; 654483.67, 3293205.38; 654487.25, 3293189.30; 654487.26, 3293189.22; 654487.60, 3293189.20; 654399.29, 3293187.61; 654399.22, 3293187.85; 654384.88, 3293233.75; 654375.37, 3293274.21; 654365.49, 3293303.87; 654335.92, 3293420.05; 654307.59, 3293544.13; 654285.44, 3293602.76; 654277.13, 3293637.96; 654278.45, 3293669.70; 654276.23, 3293694.48; 654261.81, 3293740.62; 654242.64, 3293786.11; 654236.48, 3293820.31; 654228.26, 3293851.81; 654219.94, 3293887.53; 654215.68, 3293909.09; 654201.42, 3293948.90; 654188.68, 3293991.91; 654171.24, 3294052.77; 654155.93, 3294113.16; 654147.88, 3294180.07; 654118.90, 3294298.78; 654098.81, 3294372.05; 654073.20, 3294492.10; 654061.19, 3294537.96; 654017.07, 3294678.82; 654002.06, 3294738.21; 653972.81, 3294826.26; 653941.58, 3294960.17; 653925.13, 3295023.70; 653898.59, 3295130.31; 653851.07, 3295311.44; 653830.04, 3295409.73; 653815.01, 3295480.17; 653799.14, 3295541.60; 653793.74, 3295587.44; 653777.59, 3295639.35; 653756.23, 3295771.46; 653736.12, 3295838.91; 653712.29, 3295979.41; 653675.58, 3296110.87; 653638.24, 3296266.30; 653618.23, 3296386.82; 653599.35, 3296462.97; 653598.89, 3296502.06; 653591.23, 3296553.66; 653576.13, 3296605.60; 653564.47, 3296647.58; 653546.43, 3296711.07; 653540.65, 3296772.23; 653535.83, 3296837.11; 653519.37, 3296901.17; 653506.76, 3296959.51; 653485.74, 3297036.14; 653470.55, 3297134.05; 653457.77, 3297178.12; 653447.30, 3297235.99; 653435.29, 3297291.70; 653434.64, 3297338.19; 653420.56, 3297376.74; 653416.38, 3297416.27; 653414.81, 3297447.14; 653400.54, 3297476.91; 653390.96, 3297514.66; 653379.52, 3297568.80; 653365.70, 3297612.32; 653353.12, 3297669.60; 653344.35, 3297722.76; 653330.76, 3297820.18; 653325.26, 3297875.72; 653320.10, 3297938.61; 653285.20, 3298029.29; 653285.46, 3298050.70; 653281.28, 3298100.08; 653269.27, 3298155.80; 653256.64, 3298194.06; 653238.59, 3298279.22; 653229.72, 3298378.35; 653221.85, 3298459.72; 653196.09, 3298598.19; 653174.90, 3298760.17; 653173.45, 3298817.60; 653168.29, 3298837.63; 653156.22, 3298895.99; 653138.69, 3299002.30; 653131.64, 3299089.32; 653108.71, 3299257.20; 653101.64, 3299427.06; 653075.63, 3299559.58; 653061.89, 3299694.39; 653035.75, 3299894.68; 653010.44, 3300172.69; 653005.48, 3300236.03; 652991.87, 3300302.35; 652992.16, 3300374.76; 652984.75, 3300465.74; 652981.07, 3300519.81; 652981.45, 3300659.08; 652966.15, 3300760.96; 652958.00, 3300941.89; 652960.60, 3301077.90; 652956.92, 3301160.78; 652955.06, 3301255.33; 652955.98, 3301320.76; 652954.04, 3301379.50; 652954.23, 3301476.74; 652955.36, 3301565.30; 652959.11, 3301668.84; 652985.38, 3301817.34; 653002.37, 3301941.96; 653002.11, 3302015.42; 653005.29, 3302099.00; 653015.99, 3302179.07; 653024.28, 3302249.56; 653041.39, 3302369.43; 653065.77, 3302459.21; 653085.09, 3302653.80; 653192.15, 3303331.46; 653275.38, 3303786.99; 653286.09, 3303844.80; 653318.20, 3304021.07; 653349.96, 3304148.71; 653383.05, 3304244.67; 653445.35, 3304401.09; 653482.07, 3304479.18; 653559.58, 3304621.18; 653629.65, 3304742.92; 653685.29, 3304827.30; 653725.40, 3304897.01; 653797.23, 3305011.92; 653873.79, 3305107.92; 653957.79, 3305223.67; 653996.40, 3305269.04; 654042.16, 3305324.63; 654091.82, 3305373.45; 654163.23, 3305441.84; 654246.20, 3305514.75; 654328.93, 3305576.03; 654410.47, 3305642.56; 654544.88, 3305735.27; 654677.32, 3305822.12; 654797.76, 3305880.12; 654843.51, 3305884.09; 654882.41, 3305876.08; 654923.53, 3305905.66; 654988.93, 3305960.69; 655164.90, 3306044.93; 655285.60, 3306092.90; 655433.34, 3306161.64; 655518.32, 3306217.69; 655601.65, 3306255.20; 655650.50, 3306272.82; 655749.22, 3306309.66; 655855.50, 3306320.28; 655891.04, 3306319.06; 655945.25, 3306292.42; 655974.94, 3306250.36; 655982.02, 3306222.00; 655981.26, 3306168.07; 655952.41, 3306113.54; 655823.27, 3306022.97; 655736.23, 3305985.36; 655667.71, 3305958.50; 655564.78, 3305910.75; 655507.20, 3305882.34; 655419.14, 3305821.98; 655364.33, 3305767.75; 655350.41, 3305752.07; 655328.18, 3305729.84; 655298.95, 3305691.05; 655260.48, 3305640.40; 655234.82, 3305606.99; 655187.00, 3305548.70; 655160.58, 3305503.64; 655148.18, 3305468.93; 655136.30, 3305436.44; 655139.88, 3305420.67; 655104.23, 3305351.68; 655084.98, 3305307.24; 655059.98, 3305309.34; 655015.16, 3305305.43; 654980.33, 3305292.80; 654940.15, 3305284.91; 654913.69, 3305293.36; 654895.57, 3305302.42; 654897.16, 3305287.00; 654914.03, 3305279.89; 654913.41, 3305273.14; 654883.99, 3305257.33; 654843.67, 3305248.39; 654827.36, 3305248.77; 654825.22, 3305270.52; 654822.54, 3305282.34; 654815.38, 3305266.70; 654806.78, 3305276.39; 654800.59, 3305269.89; 654804.70, 3305248.59; 654814.21, 3305234.17; 654799.77, 3305223.50; 654767.21, 3305222.28; 654761.28, 3305205.09; 654753.47, 3305199.34; 654733.63, 3305198.05; 654691.82, 3305172.29; 654681.80, 3305156.70; 654692.98, 3305139.15; 654688.36, 3305133.09; 654671.23, 3305134.64; 654659.21, 3305138.30; 654643.79, 3305134.74; 654644.73, 3305145.07; 654636.64, 3305134.56; 654623.45, 3305137.40; 654613.56, 3305135.56; 654614.68, 3305122.90; 654597.20, 3305122.07; 654587.05, 3305130.53; 654555.45, 3305091.29; 654564.50, 3305079.23; 654557.86, 3305058.84; 654566.48, 3305047.96; 654582.26, 3305037.26; 654592.42, 3305028.40; 654597.44, 3305018.62; 654583.45, 3305005.58; 654564.11, 3305000.34; 654534.22, 3305003.15; 654522.13, 3304993.73; 654518.88, 3304980.96; 654507.01, 3304978.68; 654486.83, 3304975.00; 654470.40, 3304964.28; 654461.48, 3304971.19; 654449.85, 3304959.40; 654440.39, 3304956.39; 654432.24, 3304932.80; 654410.54, 3304926.31; 654406.87, 3304914.32; 654396.76, 3304905.35; 654387.94, 3304908.30; 654384.21, 3304914.15; 654377.84, 3304898.92; 654367.80, 3304887.18; 654360.17, 3304890.15; 654354.69, 3304902.30; 654363.33, 3304906.49; 654354.71, 3304917.37; 654356.71, 3304932.48; 654400.73, 3304952.62; 654435.35, 3304966.97; 654434.26, 3304978.83; 654443.21, 3304986.19; 654461.11, 3304985.85; 654472.40, 3305011.10; 654484.75, 3304994.37; 654501.96, 3304989.65; 654503.27, 3305000.79; 654539.48, 3305015.18; 654566.19, 3305028.14; 654550.19, 3305031.70; 654512.76, 3305018.47; 654490.09, 3305034.54; 654456.47, 3305038.53; 654436.30, 3305039.53; 654411.87, 3305015.13; 654394.51, 3304994.08; 654383.63, 3304999.75; 654365.50, 3304993.74; 654360.06, 3304972.99; 654354.56, 3304954.62; 654343.25, 3304961.87; 654318.14, 3304964.40; 654303.31, 3304953.33; 654288.54, 3304939.88; 654269.49, 3304938.60; 654268.27, 3304924.30; 654291.18, 3304930.03; 654295.51, 3304915.87; 654283.52, 3304918.34; 654275.61, 3304901.10; 654273.11, 3304889.94; 654263.00, 3304896.82; 654251.87, 3304896.54; 654242.11, 3304888.10; 654241.33, 3304873.28; 654252.91, 3304871.20; 654253.59, 3304860.12; 654240.34, 3304849.48; 654221.70, 3304847.82; 654204.45, 3304838.26; 654196.78, 3304826.97; 654182.09, 3304826.21; 654167.92, 3304820.70; 654155.17, 3304806.10; 654141.95, 3304794.28; 654095.10, 3304776.45; 654070.76, 3304795.65; 654098.16, 3304812.59; 654122.37, 3304829.85; 654135.40, 3304849.21; 654166.61, 3304856.73; 654177.17, 3304863.74; 654186.22, 3304882.99; 654181.18, 3304893.96; 654165.58, 3304897.53; 654160.64, 3304888.69; 654154.60, 3304875.85; 654147.93, 3304872.51; 654135.97, 3304873.80; 654119.47, 3304865.85; 654106.95, 3304873.46; 654098.77, 3304866.91; 654070.39, 3304841.62; 654056.77, 3304830.18; 654037.40, 3304825.73; 654044.12, 3304811.63; 654038.79, 3304801.98; 654015.75, 3304801.40; 654000.76, 3304781.20; 653985.50, 3304787.16; 653971.91, 3304805.84; 653958.04, 3304819.76; 653940.34, 3304812.18; 653930.94, 3304790.93; 653900.30, 3304776.29; 653904.72, 3304758.96; 653928.16, 3304755.56; 653920.21, 3304743.50; 653918.50, 3304739.98; 653902.60, 3304748.20; 653894.63, 3304749.19; 653870.43, 3304731.54; 653855.78, 3304729.19; 653834.15, 3304735.38; 653854.38, 3304705.77; 653866.80, 3304702.11; 653870.74, 3304687.55; 653864.78, 3304671.94; 653851.79, 3304666.86; 653821.17, 3304666.88; 653854.25, 3304647.89; 653863.68, 3304636.64; 653882.03, 3304634.32; 653892.24, 3304639.34; 653891.06, 3304654.37; 653902.88, 3304674.49; 653919.15, 3304675.69; 653924.58, 3304665.12; 653938.89, 3304665.09; 653949.35, 3304676.06; 653939.60, 3304684.13; 653929.78, 3304679.53; 653916.92, 3304701.00; 653899.40, 3304701.75; 653880.51, 3304725.85; 653890.80, 3304727.69; 653904.22, 3304715.74; 653914.54, 3304731.86; 653926.73, 3304737.32; 653943.72, 3304725.86; 653968.11, 3304720.13; 653983.14, 3304723.28; 653989.86, 3304740.50; 654005.61, 3304746.44; 654016.23, 3304766.93; 654028.90, 3304784.69; 654040.73, 3304788.16; 654039.21, 3304801.20; 654049.06, 3304808.52; 654064.72, 3304798.67; 654093.22, 3304772.04; 654093.19, 3304757.37; 654081.00, 3304752.31; 654092.95, 3304735.57; 654074.10, 3304726.37; 654097.09, 3304713.47; 654118.36, 3304721.15; 654114.48, 3304701.63; 654078.75, 3304668.22; 654047.91, 3304661.50; 654047.72, 3304653.57; 654023.79, 3304640.67; 653991.40, 3304632.33; 653972.87, 3304610.85; 653978.24, 3304586.81; 653957.59, 3304570.43; 653933.30, 3304540.49; 653909.71, 3304545.84; 653897.64, 3304535.62; 653874.00, 3304527.50; 653840.46, 3304485.83; 653814.63, 3304442.95; 653808.48, 3304429.92; 653816.73, 3304418.24; 653814.27, 3304405.49; 653813.77, 3304393.59; 653794.32, 3304392.70; 653786.55, 3304369.91; 653768.54, 3304374.61; 653752.64, 3304374.21; 653757.71, 3304362.45; 653768.90, 3304360.35; 653781.99, 3304345.62; 653753.14, 3304307.63; 653733.96, 3304311.51; 653735.59, 3304294.11; 653720.80, 3304297.31; 653717.56, 3304283.75; 653702.67, 3304275.44; 653696.79, 3304259.75; 653682.36, 3304245.20; 653678.83, 3304227.68; 653666.25, 3304222.20; 653666.28, 3304205.16; 653637.87, 3304181.06; 653599.77, 3304146.80; 653585.32, 3304136.53; 653583.17, 3304111.50; 653581.64, 3304093.63; 653598.08, 3304103.56; 653604.44, 3304087.86; 653617.36, 3304096.12; 653615.45, 3304108.75; 653636.02, 3304144.15; 653681.44, 3304203.17; 653730.02, 3304262.66; 653791.46, 3304332.78; 653816.12, 3304363.92; 653851.62, 3304390.58; 653873.95, 3304387.97; 653888.62, 3304389.53; 653910.06, 3304421.78; 653920.67, 3304426.81; 653926.35, 3304422.19; 653916.17, 3304400.53; 653905.45, 3304402.44; 653901.80, 3304387.09; 653876.77, 3304370.60; 653866.91, 3304351.73; 653851.08, 3304348.95; 653838.59, 3304324.06; 653809.98, 3304307.88; 653780.90, 3304278.36; 653747.01, 3304235.34; 653722.54, 3304212.53; 653701.46, 3304181.47; 653693.83, 3304153.14; 653713.53, 3304128.67; 653708.49, 3304121.55; 653685.77, 3304141.84; 653675.83, 3304126.13; 653653.61, 3304108.92; 653654.05, 3304099.00; 653639.17, 3304082.40; 653621.79, 3304077.99; 653622.51, 3304049.47; 653622.99, 3304030.46; 653606.07, 3304039.15; 653606.39, 3304058.18; 653592.29, 3304049.90; 653582.21, 3304039.74; 653572.43, 3304033.15; 653577.13, 3304020.58; 653589.22, 3304013.75; 653606.25, 3304016.56; 653615.36, 3304017.98; 653612.89, 3304005.63; 653585.35, 3303993.84; 653580.47, 3303982.62; 653589.67, 3303964.62; 653603.51, 3303951.88; 653606.79, 3303932.15; 653594.10, 3303931.04; 653578.04, 3303905.66; 653571.77, 3303886.48; 653549.61, 3303882.35; 653543.97, 3303869.52; 653548.52, 3303847.05; 653557.04, 3303840.13; 653571.44, 3303836.53; 653581.02, 3303829.44; 653578.51, 3303818.98; 653555.62, 3303833.35; 653536.88, 3303835.65; 653527.32, 3303820.75; 653533.89, 3303796.73; 653515.00, 3303773.27; 653508.08, 3303748.12; 653491.90, 3303727.90; 653507.94, 3303722.35; 653514.17, 3303695.96; 653501.26, 3303672.24; 653491.06, 3303650.98; 653488.23, 3303637.04; 653474.58, 3303626.78; 653472.85, 3303616.43; 653451.30, 3303619.85; 653452.84, 3303606.02; 653469.03, 3303594.54; 653459.15, 3303576.45; 653444.35, 3303517.41; 653432.70, 3303474.71; 653444.16, 3303461.92; 653448.63, 3303473.92; 653460.89, 3303507.92; 653487.03, 3303574.38; 653494.34, 3303584.08; 653497.91, 3303600.02; 653510.21, 3303616.98; 653516.40, 3303639.33; 653523.48, 3303658.14; 653529.92, 3303670.59; 653538.00, 3303681.10; 653546.13, 3303705.48; 653555.28, 3303736.63; 653566.05, 3303767.02; 653584.17, 3303789.28; 653593.73, 3303820.04; 653603.80, 3303830.21; 653603.06, 3303844.06; 653595.80, 3303848.24; 653582.70, 3303847.11; 653576.95, 3303854.50; 653585.86, 3303863.84; 653589.71, 3303884.55; 653611.67, 3303896.60; 653625.95, 3303897.75; 653630.31, 3303914.11; 653631.54, 3303928.41; 653644.45, 3303936.67; 653650.67, 3303952.67; 653660.24, 3303956.49; 653663.84, 3303987.10; 653675.32, 3303988.97; 653670.17, 3304004.30; 653681.96, 3304009.35; 653688.90, 3304002.40; 653678.57, 3303970.82; 653692.22, 3303981.07; 653703.43, 3303993.65; 653713.37, 3303993.50; 653707.88, 3304006.44; 653697.20, 3304020.04; 653687.83, 3304028.92; 653687.75, 3304047.95; 653705.19, 3304065.43; 653714.78, 3304079.55; 653730.73, 3304108.88; 653750.48, 3304129.60; 653778.72, 3304114.57; 653798.92, 3304116.55; 653820.29, 3304136.11; 653817.39, 3304156.26; 653830.20, 3304168.47; 653839.23, 3304157.20; 653838.66, 3304132.61; 653820.95, 3304109.97; 653801.04, 3304079.74; 653790.51, 3304056.09; 653790.90, 3304032.72; 653775.83, 3304007.76; 653754.12, 3303969.95; 653720.76, 3303937.40; 653740.77, 3303931.96; 653727.27, 3303915.77; 653716.99, 3303897.67; 653712.61, 3303882.10; 653691.66, 3303830.44; 653681.24, 3303817.89; 653670.10, 3303802.55; 653651.69, 3303791.78; 653649.86, 3303769.53; 653636.03, 3303750.56; 653616.07, 3303690.99; 653609.98, 3303680.54; 653605.33, 3303659.81; 653592.03, 3303635.69; 653594.43, 3303619.10; 653602.43, 3303617.32; 653616.20, 3303638.68; 653609.20, 3303648.41; 653621.43, 3303651.89; 653624.19, 3303668.61; 653631.19, 3303690.58; 653652.81, 3303700.24; 653656.91, 3303711.05; 653670.15, 3303737.54; 653677.73, 3303752.40; 653696.22, 3303744.54; 653694.65, 3303759.17; 653688.41, 3303770.11; 653698.63, 3303790.58; 653704.46, 3303811.34; 653711.48, 3303832.53; 653722.21, 3303848.65; 653725.51, 3303875.29; 653731.93, 3303888.53; 653757.57, 3303928.02; 653766.46, 3303953.62; 653783.68, 3303980.21; 653803.17, 3304011.22; 653826.96, 3304045.12; 653842.48, 3304060.18; 653855.22, 3304059.70; 653874.90, 3304067.33; 653883.87, 3304105.61; 653894.45, 3304143.14; 653893.89, 3304165.32; 653886.55, 3304172.67; 653865.53, 3304170.55; 653856.93, 3304180.64; 653862.24, 3304206.54; 653910.36, 3304252.94; 653920.92, 3304244.09; 653930.43, 3304229.66; 653945.03, 3304218.14; 653966.81, 3304221.46; 654000.15, 3304255.20; 654012.40, 3304257.89; 654035.26, 3304281.46; 654056.72, 3304282.00; 654023.39, 3304247.86; 654018.11, 3304236.63; 654005.07, 3304233.53; 653988.61, 3304223.99; 653974.66, 3304209.77; 653955.85, 3304183.13; 653939.91, 3304169.26; 653917.26, 3304152.83; 653914.05, 3304122.62; 653907.83, 3304101.46; 653896.58, 3304090.47; 653887.82, 3304075.19; 653889.84, 3304058.20; 653918.08, 3304089.04; 653944.49, 3304113.88; 653958.47, 3304126.92; 653977.30, 3304152.76; 654009.43, 3304186.86; 654010.74, 3304198.00; 654031.06, 3304211.98; 654064.87, 3304242.57; 654082.98, 3304265.22; 654132.32, 3304295.00; 654160.40, 3304316.72; 654168.37, 3304315.73; 654175.98, 3304329.40; 654188.83, 3304324.17; 654186.58, 3304334.42; 654200.35, 3304340.32; 654207.81, 3304328.22; 654218.77, 3304334.84; 654225.84, 3304354.04; 654240.92, 3304355.22; 654263.93, 3304372.84; 654266.69, 3304389.56; 654288.80, 3304395.27; 654308.99, 3304398.95; 654325.77, 3304411.26; 654346.91, 3304408.63; 654367.32, 3304419.05; 654386.75, 3304420.73; 654403.98, 3304415.61; 654416.74, 3304413.95; 654425.52, 3304428.45; 654436.43, 3304437.04; 654450.71, 3304438.20; 654455.87, 3304422.87; 654474.80, 3304428.90; 654485.58, 3304443.04; 654495.85, 3304429.82; 654506.17, 3304446.33; 654520.30, 3304453.43; 654522.47, 3304477.66; 654501.04, 3304475.93; 654455.53, 3304468.05; 654451.84, 3304480.30; 654475.39, 3304484.40; 654483.87, 3304494.92; 654497.20, 3304486.54; 654521.96, 3304482.01; 654541.07, 3304496.76; 654589.55, 3304497.59; 654580.11, 3304509.24; 654587.00, 3304519.72; 654621.28, 3304516.23; 654619.67, 3304548.29; 654605.15, 3304556.64; 654601.96, 3304541.11; 654587.87, 3304548.28; 654572.71, 3304534.42; 654553.99, 3304535.93; 654540.75, 3304524.90; 654527.47, 3304531.30; 654511.52, 3304533.27; 654508.88, 3304527.66; 654495.09, 3304522.55; 654468.11, 3304520.68; 654442.50, 3304511.32; 654422.10, 3304500.89; 654407.94, 3304494.59; 654417.62, 3304473.43; 654427.81, 3304479.24; 654435.34, 3304464.37; 654416.80, 3304458.75; 654396.89, 3304460.23; 654369.76, 3304448.05; 654361.00, 3304448.62; 654338.97, 3304455.20; 654324.84, 3304448.10; 654300.20, 3304432.02; 654279.78, 3304421.99; 654255.91, 3304422.58; 654220.39, 3304412.57; 654192.88, 3304399.98; 654162.85, 3304392.49; 654173.75, 3304370.17; 654146.30, 3304371.06; 654131.90, 3304358.81; 654111.00, 3304351.94; 654109.34, 3304339.21; 654079.89, 3304324.60; 654057.47, 3304303.46; 654057.77, 3304311.97; 654071.01, 3304329.92; 654072.69, 3304352.85; 654092.06, 3304362.16; 654094.23, 3304370.54; 654088.46, 3304378.72; 654074.56, 3304378.37; 654049.21, 3304374.56; 654038.85, 3304359.63; 654012.76, 3304337.97; 654027.48, 3304322.09; 654015.14, 3304306.71; 654005.04, 3304297.74; 654000.44, 3304290.88; 653979.86, 3304287.19; 653969.47, 3304273.45; 653963.69, 3304266.17; 653950.93, 3304267.83; 653943.87, 3304248.23; 653930.29, 3304250.67; 653921.36, 3304257.97; 653934.44, 3304275.35; 653970.96, 3304308.77; 653991.52, 3304329.11; 654017.77, 3304360.29; 654046.56, 3304384.80; 654079.70, 3304395.15; 654126.80, 3304434.78; 654166.76, 3304457.99; 654220.67, 3304479.96; 654259.90, 3304500.77; 654279.11, 3304511.16; 654294.70, 3304492.13; 654340.34, 3304511.12; 654362.03, 3304518.01; 654428.07, 3304547.42; 654487.19, 3304573.28; 654511.97, 3304592.80; 654540.32, 3304604.95; 654576.64, 3304615.16; 654599.10, 3304623.25; 654615.66, 3304628.43; 654635.30, 3304638.04; 654613.94, 3304649.39; 654610.70, 3304663.25; 654572.64, 3304647.56; 654527.91, 3304640.09; 654510.58, 3304633.71; 654504.04, 3304640.68; 654563.86, 3304664.78; 654605.47, 3304685.65; 654625.04, 3304697.63; 654608.83, 3304709.91; 654572.20, 3304728.01; 654572.82, 3304734.77; 654553.24, 3304738.63; 654526.30, 3304735.18; 654519.97, 3304717.97; 654524.99, 3304711.42; 654560.68, 3304711.87; 654561.20, 3304706.73; 654528.61, 3304706.70; 654510.41, 3304703.07; 654488.25, 3304698.94; 654459.95, 3304686.33; 654423.10, 3304665.59; 654426.53, 3304655.76; 654418.85, 3304645.26; 654403.98, 3304635.77; 654379.41, 3304632.77; 654350.88, 3304628.88; 654332.66, 3304626.44; 654321.38, 3304616.64; 654312.60, 3304617.61; 654297.76, 3304607.33; 654281.35, 3304595.82; 654270.94, 3304598.72; 654292.77, 3304615.92; 654318.58, 3304632.83; 654329.07, 3304642.60; 654363.79, 3304652.99; 654427.71, 3304687.90; 654467.35, 3304707.93; 654493.03, 3304729.98; 654512.76, 3304751.48; 654525.91, 3304765.66; 654494.34, 3304772.42; 654473.07, 3304764.75; 654454.63, 3304770.63; 654437.62, 3304767.42; 654421.48, 3304761.07; 654409.51, 3304747.29; 654392.29, 3304736.55; 654334.64, 3304705.37; 654307.25, 3304688.03; 654287.53, 3304681.59; 654279.46, 3304686.14; 654263.20, 3304684.94; 654263.13, 3304671.86; 654238.86, 3304672.43; 654230.61, 3304680.44; 654225.69, 3304659.02; 654218.09, 3304644.96; 654201.14, 3304639.38; 654196.18, 3304646.78; 654188.49, 3304652.14; 654182.05, 3304639.69; 654183.89, 3304629.82; 654168.21, 3304621.10; 654162.53, 3304625.32; 654139.64, 3304602.94; 654121.80, 3304601.30; 654123.51, 3304580.74; 654106.95, 3304559.71; 654066.78, 3304544.42; 654050.20, 3304524.19; 654033.92, 3304507.53; 654003.88, 3304500.82; 653981.15, 3304487.96; 653984.01, 3304469.01; 653968.70, 3304461.49; 653951.00, 3304453.91; 653938.47, 3304477.77; 653960.83, 3304521.14; 653982.17, 3304526.04; 653986.27, 3304536.84; 654013.60, 3304556.56; 654019.24, 3304569.39; 654041.53, 3304584.22; 654064.83, 3304574.50; 654076.34, 3304575.19; 654083.30, 3304582.89; 654077.86, 3304593.85; 654069.48, 3304610.69; 654092.45, 3304629.89; 654126.48, 3304651.76; 654139.88, 3304640.60; 654152.41, 3304663.91; 654173.82, 3304681.89; 654198.97, 3304693.62; 654205.04, 3304705.27; 654227.86, 3304714.57; 654225.01, 3304732.73; 654242.03, 3304735.93; 654248.93, 3304746.02; 654336.20, 3304800.54; 654380.85, 3304827.03; 654389.76, 3304820.52; 654428.28, 3304822.28; 654439.30, 3304826.92; 654431.14, 3304803.73; 654459.98, 3304810.80; 654493.15, 3304804.10; 654500.17, 3304824.89; 654473.55, 3304840.07; 654453.71, 3304838.78; 654460.04, 3304855.59; 654489.43, 3304856.73; 654474.74, 3304871.81; 654477.14, 3304886.94; 654500.14, 3304889.10; 654513.71, 3304902.52; 654531.61, 3304918.04; 654570.66, 3304945.98; 654641.29, 3304982.64; 654662.65, 3305002.60; 654694.62, 3305011.73; 654723.89, 3305033.08; 654748.51, 3305049.95; 654761.78, 3305059.80; 654773.11, 3305067.62; 654766.90, 3305079.99; 654751.78, 3305076.02; 654747.91, 3305058.26; 654732.48, 3305070.95; 654737.89, 3305077.04; 654763.48, 3305086.80; 654778.52, 3305089.56; 654791.05, 3305097.01; 654821.55, 3305110.42; 654836.91, 3305115.96; 654851.39, 3305125.05; 654874.67, 3305131.98; 654887.19, 3305139.82; 654916.02, 3305131.83; 654925.49, 3305118.99; 654937.65, 3305125.24; 654961.20, 3305121.48; 654978.24, 3305123.89; 654981.57, 3305133.49; 654981.34, 3305142.60; 654942.42, 3305141.22; 654935.19, 3305144.21; 654967.02, 3305158.88; 654978.11, 3305160.35; 654988.18, 3305155.06; 654999.95, 3305161.30; 654989.31, 3305173.32; 654968.84, 3305165.27; 654951.40, 3305163.24; 654947.63, 3305171.08; 654958.89, 3305181.67; 654947.97, 3305188.92; 654934.41, 3305190.56; 654925.13, 3305180.42; 654912.31, 3305184.06; 654892.99, 3305178.02; 654886.66, 3305176.67; 654879.80, 3305180.46; 654871.22, 3305173.91; 654853.97, 3305180.21; 654832.48, 3305165.40; 654821.08, 3305160.35; 654809.35, 3305152.53; 654805.65, 3305141.73; 654786.79, 3305132.93; 654766.26, 3305127.26;

654761.04, 3305129.11; 654757.25, 3305121.88; 654734.17, 3305107.03; 654727.17, 3305116.76; 654723.47, 3305105.57; 654713.76, 3305096.60; 654702.15, 3305099.88; 654691.18, 3305093.65; 654680.05, 3305093.37; 654660.56, 3305078.22; 654658.41, 3305069.05; 654654.59, 3305062.61; 654637.42, 3305049.89; 654631.84, 3305050.54; 654623.41, 3305038.04; 654611.85, 3305039.33; 654608.19, 3305042.41; 654600.49, 3305032.70; 654595.09, 3305041.68; 654606.38, 3305051.09; 654618.35, 3305065.26; 654635.81, 3305066.49; 654642.61, 3305080.54; 654657.15, 3305087.25; 654683.68, 3305107.34; 654705.69, 3305117.01; 654719.89, 3305121.73; 654735.93, 3305131.65; 654757.84, 3305145.68; 654785.81, 3305155.90; 654795.11, 3305165.25; 654817.64, 3305172.62; 654831.35, 3305178.45; 654832.63, 3305190.77; 654853.98, 3305195.67; 654873.01, 3305197.73; 654887.58, 3305187.40; 654901.23, 3305198.05; 654916.53, 3305205.97; 654927.43, 3305214.96; 654939.07, 3305210.50; 654944.33, 3305222.92; 654965.36, 3305208.78; 654987.35, 3305219.25; 654981.01, 3305234.15; 654983.57, 3305242.94; 654995.10, 3305247.87; 655015.87, 3305243.64; 655047.90, 3305266.25; 655079.60, 3305289.14; 655047.85, 3305203.25; 655029.28, 3305162.09; 654992.00, 3305106.18; 654966.35, 3305106.54; 654951.84, 3305098.65; 654937.40, 3305103.83; 654929.94, 3305100.08; 654916.36, 3305102.51; 654900.38, 3305105.67; 654886.55, 3305102.55; 654870.58, 3305104.92; 654857.45, 3305105.38; 654840.67, 3305108.92; 654837.59, 3305104.88; 654835.12, 3305092.53; 654818.37, 3305085.81; 654816.14, 3305079.80; 654794.61, 3305082.35; 654797.27, 3305071.40; 654796.46, 3305056.32; 654786.77, 3305046.16; 654753.83, 3305028.29; 654721.73, 3305008.45; 654731.54, 3304998.00; 654774.17, 3305025.63; 654798.09, 3305023.06; 654820.84, 3305035.13; 654859.12, 3305046.40; 654902.16, 3305042.34; 654927.74, 3305045.72; 654930.73, 3305053.32; 654924.60, 3305059.91; 654940.71, 3305067.45; 654944.51, 3305074.28; 654955.61, 3305075.36; 654964.79, 3305089.86; 654975.08, 3305083.56; 654949.64, 3305041.69; 654924.45, 3304989.79; 654891.55, 3304949.33; 654862.01, 3304901.55; 654786.08, 3304790.88; 654763.39, 3304755.83; 654720.47, 3304692.39; 654709.04, 3304662.50; 654697.54, 3304635.26; 654687.13, 3304606.46; 654665.25, 3304553.80; 654649.23, 3304512.49; 654636.36, 3304476.23; 654632.44, 3304463.44; 654623.45, 3304414.81; 654604.21, 3304436.52; 654592.37, 3304448.91; 654562.92, 3304466.00; 654536.52, 3304456.61; 654528.04, 3304446.09; 654533.64, 3304428.79; 654538.39, 3304413.85; 654530.25, 3304405.72; 654505.02, 3304397.16; 654486.31, 3304398.27; 654471.35, 3304408.20; 654446.85, 3304402.43; 654426.24, 3304399.92; 654419.37, 3304372.80; 654426.09, 3304358.70; 654410.55, 3304357.22; 654401.38, 3304361.25; 654399.25, 3304350.89; 654416.82, 3304332.30; 654417.52, 3304320.43; 654394.36, 3304324.21; 654369.21, 3304312.87; 654330.89, 3304319.04; 654313.66, 3304308.69; 654299.55, 3304300.41; 654287.35, 3304296.81; 654279.99, 3304303.88; 654262.51, 3304287.58; 654241.05, 3304287.04; 654234.49, 3304295.20; 654224.78, 3304285.84; 654214.25, 3304278.04; 654195.61, 3304291.84; 654176.87, 3304262.83; 654148.73, 3304259.35; 654092.93, 3304217.91; 654073.50, 3304197.58; 654096.53, 3304200.95; 654115.69, 3304198.26; 654149.03, 3304215.75; 654222.25, 3304244.55; 654261.79, 3304253.08; 654292.76, 3304254.66; 654315.04, 3304269.49; 654322.81, 3304260.96; 654341.83, 3304263.43; 654356.18, 3304277.66; 654384.05, 3304275.99; 654412.14, 3304265.99; 654432.67, 3304271.27; 654463.67, 3304271.65; 654480.89, 3304266.93; 654498.89, 3304262.63; 654509.05, 3304253.77; 654514.71, 3304234.49; 654568.85, 3304215.64; 654581.43, 3304205.65; 654592.85, 3304194.05; 654608.04, 3304190.87; 654608.23, 3304199.20; 654602.33, 3304212.13; 654589.91, 3304216.17; 654585.64, 3304227.56; 654571.57, 3304233.94; 654562.21, 3304258.28; 654561.33, 3304245.97; 654553.25, 3304250.92; 654546.96, 3304263.84; 654543.08, 3304275.64; 654554.42, 3304283.06; 654562.96, 3304291.20; 654562.25, 3304303.87; 654573.89, 3304299.40; 654595.59, 3304290.04; 654616.34, 3304282.82; 654624.60, 3304228.59; 654630.20, 3304195.97; 654632.79, 3304159.04; 654640.71, 3304136.51; 654625.36, 3304135.02; 654617.06, 3304148.68; 654591.13, 3304151.99; 654569.84, 3304176.43; 654553.03, 3304181.16; 654553.39, 3304198.21; 654555.42, 3304212.13; 654514.84, 3304229.34; 654494.05, 3304233.97; 654476.52, 3304235.11; 654464.40, 3304232.04; 654464.73, 3304214.21; 654481.98, 3304207.90; 654478.56, 3304201.87; 654462.87, 3304209.01; 654452.13, 3304209.53; 654452.00, 3304198.82; 654433.73, 3304197.96; 654393.54, 3304215.18; 654381.69, 3304227.96; 654371.42, 3304225.33; 654356.16, 3304231.28; 654347.24, 3304222.74; 654309.54, 3304219.80; 654287.91, 3304210.54; 654263.15, 3304215.07; 654212.40, 3304193.97; 654176.88, 3304168.10; 654174.99, 3304148.23; 654147.02, 3304138.41; 654132.38, 3304117.19; 654115.98, 3304107.90; 654084.66, 3304057.56; 654067.27, 3304053.56; 654037.88, 3304020.71; 653997.32, 3303962.64; 653983.77, 3303944.04; 653965.51, 3303927.32; 653964.74, 3303910.26; 653971.71, 3303902.11; 653963.12, 3303880.10; 653945.22, 3303864.98; 653929.44, 3303844.37; 653918.11, 3303820.69; 653913.86, 3303799.98; 653899.35, 3303792.08; 653897.71, 3303778.56; 653898.10, 3303763.11; 653896.42, 3303750.78; 653882.48, 3303752.02; 653870.76, 3303743.79; 653867.17, 3303728.64; 653853.03, 3303721.55; 653840.25, 3303724.00; 653828.33, 3303723.70; 653835.10, 3303738.93; 653844.17, 3303741.93; 653833.58, 3303751.97; 653822.02, 3303753.27; 653811.88, 3303745.48; 653801.56, 3303744.82; 653803.56, 3303728.62; 653788.42, 3303729.83; 653784.84, 3303714.28; 653765.25, 3303703.08; 653758.87, 3303687.86; 653758.06, 3303672.78; 653742.89, 3303643.85; 653712.26, 3303628.81; 653710.29, 3303612.51; 653734.27, 3303607.57;

653751.20, 3303613.94; 653780.47, 3303635.69; 653785.08, 3303657.60; 653781.51, 3303672.97; 653781.16, 3303686.83; 653803.53, 3303703.62; 653824.77, 3303691.50; 653831.51, 3303707.92; 653840.17, 3303695.85; 653824.54, 3303670.43; 653811.74, 3303657.82; 653816.62, 3303653.18; 653805.29, 3303645.37; 653800.94, 3303644.46; 653800.00, 3303634.53; 653795.80, 3303627.69; 653780.31, 3303611.44; 653767.41, 3303602.79; 653758.37, 3303598.60; 653767.71, 3303590.91; 653751.55, 3303585.35; 653741.25, 3303568.05; 653731.65, 3303570.58; 653720.61, 3303551.27; 653713.41, 3303542.14; 653702.91, 3303543.69; 653692.87, 3303516.09; 653683.14, 3303523.77; 653681.59, 3303506.29; 653686.00, 3303504.82; 653682.02, 3303489.26; 653669.58, 3303478.24; 653665.02, 3303469.81; 653663.70, 3303459.07; 653641.61, 3303436.71; 653607.66, 3303395.82; 653594.88, 3303382.42; 653580.24, 3303363.82; 653570.52, 3303339.40; 653534.11, 3303285.76; 653534.05, 3303272.68; 653552.61, 3303277.51; 653613.46, 3303355.89; 653615.80, 3303356.79; 653626.10, 3303358.24; 653640.33, 3303361.37; 653647.15, 3303359.16; 653651.74, 3303350.56; 653645.49, 3303330.58; 653634.26, 3303318.41; 653621.68, 3303297.09; 653592.65, 3303250.37; 653579.50, 3303220.32; 653555.67, 3303188.01; 653553.81, 3303166.95; 653534.29, 3303152.98; 653526.00, 3303134.94; 653512.31, 3303094.56; 653490.86, 3303078.16; 653482.20, 3303058.92; 653478.59, 3303044.56; 653464.14, 3303034.28; 653469.91, 3303026.11; 653473.49, 3303010.34; 653484.15, 3303013.39; 653496.55, 3303025.99; 653508.92, 3303040.17; 653511.09, 3303048.55; 653520.20, 3303049.97; 653523.11, 3303076.20; 653533.83, 3303076.87; 653534.28, 3303090.36; 653554.21, 3303119.79; 653562.21, 3303133.47; 653571.02, 3303162.63; 653584.35, 3303170.10; 653602.01, 3303210.58; 653618.76, 3303239.93; 653630.69, 3303239.84; 653639.47, 3303253.93; 653633.54, 3303268.45; 653646.14, 3303273.13; 653652.63, 3303299.45; 653669.37, 3303313.75; 653683.37, 3303341.84; 653677.63, 3303364.29; 653663.27, 3303366.31; 653657.13, 3303373.29; 653651.76, 3303365.62; 653646.78, 3303373.82; 653635.27, 3303373.13; 653630.12, 3303383.68; 653637.13, 3303393.79; 653647.91, 3303407.54; 653654.95, 3303398.75; 653658.32, 3303389.17; 653668.41, 3303383.09; 653671.89, 3303395.77; 653676.38, 3303397.95; 653672.21, 3303405.78; 653676.36, 3303414.60; 653674.99, 3303421.70; 653679.65, 3303424.06; 653688.12, 3303421.24; 653684.27, 3303431.84; 653691.23, 3303439.55; 653697.43, 3303446.05; 653708.85, 3303450.30; 653715.89, 3303454.84; 653722.73, 3303451.44; 653722.51, 3303460.16; 653716.32, 3303469.12; 653728.57, 3303488.06; 653746.19, 3303514.26; 653770.93, 3303542.24; 653778.09, 3303542.02; 653787.38, 3303536.31; 653788.82, 3303557.75; 653790.98, 3303566.92; 653811.94, 3303586.87; 653822.38, 3303598.63; 653827.64, 3303610.65; 653838.62, 3303616.48; 653847.50, 3303627.01; 653855.39, 3303629.59; 653851.58, 3303638.61; 653861.28, 3303647.97; 653881.07, 3303681.82; 653895.84, 3303680.55; 653894.50, 3303701.19; 653909.32, 3303712.26; 653919.27, 3303727.58; 653941.80, 3303748.76; 653971.13, 3303783.58; 653984.47, 3303806.12; 653994.13, 3303817.06; 654006.88, 3303832.05; 654017.36, 3303857.68; 654037.91, 3303878.02; 654051.32, 3303898.18; 654077.73, 3303922.62; 654094.34, 3303942.07; 654118.44, 3303947.83; 654134.14, 3303971.61; 654160.71, 3303990.12; 654185.36, 3303989.95; 654201.62, 3304007.00; 654220.92, 3304014.23; 654227.46, 3304007.26; 654238.94, 3304024.99; 654255.63, 3304025.01; 654275.43, 3304028.29; 654275.05, 3304043.34; 654298.93, 3304057.82; 654330.95, 3304080.82; 654339.09, 3304088.95; 654347.56, 3304068.56; 654357.37, 3304057.71; 654369.01, 3304053.64; 654384.46, 3304055.61; 654404.33, 3304055.72; 654420.94, 3304059.31; 654428.62, 3304054.35; 654446.46, 3304056.39; 654455.89, 3304060.59; 654466.93, 3304048.58; 654475.73, 3304046.42; 654481.56, 3304051.72; 654490.20, 3304040.05; 654497.21, 3304046.17; 654509.38, 3304036.57; 654520.68, 3304045.57; 654562.83, 3304029.20; 654607.16, 3304021.20; 654633.67, 3304010.77; 654631.57, 3303983.76; 654638.56, 3303958.57; 654628.60, 3303896.88; 654622.44, 3303832.17; 654623.59, 3303786.75; 654622.98, 3303727.01; 654621.15, 3303673.59; 654610.27, 3303642.66; 654603.36, 3303622.40; 654600.88, 3303592.12; 654593.04, 3303548.68; 654579.95, 3303500.26; 654567.99, 3303424.93; 654567.15, 3303356.72; 654557.18, 3303356.81; 654544.25, 3303380.66; 654526.33, 3303381.80; 654513.08, 3303402.87; 654502.05, 3303399.02; 654495.76, 3303411.94; 654472.38, 3303408.98; 654455.00, 3303420.03; 654439.47, 3303421.23; 654431.65, 3303415.88; 654438.54, 3303410.50; 654465.29, 3303406.02; 654448.77, 3303399.26; 654401.43, 3303400.45; 654373.63, 3303399.35; 654350.58, 3303398.77; 654343.26, 3303405.32; 654348.65, 3303412.20; 654339.78, 3303417.13; 654332.97, 3303419.33; 654323.22, 3303427.41; 654316.93, 3303424.87; 654298.29, 3303422.82; 654292.22, 3303411.57; 654278.56, 3303417.17; 654269.32, 3303420.90; 654258.52, 3303407.94; 654220.03, 3303404.99; 654183.36, 3303392.96; 654156.49, 3303386.74; 654120.66, 3303374.60; 654116.38, 3303369.08; 654109.18, 3303370.88; 654096.80, 3303372.94; 654081.94, 3303363.45; 654054.08, 3303333.02; 654020.36, 3303314.73; 653979.48, 3303296.26; 653971.85, 3303283.39; 653968.15, 3303272.59; 653972.79, 3303262.01; 653984.89, 3303255.18; 653991.43, 3303263.66; 654002.26, 3303275.83; 654027.44, 3303280.66; 654070.42, 3303294.83; 654080.09, 3303305.37; 654097.79, 3303312.96; 654118.87, 3303312.30; 654178.35, 3303318.55; 654222.05, 3303319.66; 654239.36, 3303326.83; 654255.50, 3303333.18; 654271.25, 3303339.13; 654288.56, 3303346.31; 654309.33, 3303342.47; 654317.10, 3303333.95; 654334.27, 3303331.21; 654355.97, 3303337.70; 654357.72, 3303362.72; 654375.36, 3303341.36; 654406.73, 3303342.55; 654436.80, 3303332.61; 654452.58, 3303337.36; 654480.90, 3303333.72; 654498.12, 3303329.00; 654488.56, 3303345.41; 654498.12, 3303344.46; 654507.12, 3303334.38; 654519.95, 3303330.34; 654517.42, 3303320.37; 654508.01, 3303314.98; 654496.80, 3303318.26; 654486.69, 3303309.29; 654461.26, 3303324.50; 654452.38, 3303313.97; 654436.73, 3303319.52; 654419.60, 3303321.07; 654392.04, 3303326.32; 654365.79, 3303326.45; 654316.96, 3303324.03; 654304.16, 3303326.88; 654289.27, 3303318.58; 654267.44, 3303316.84; 654248.88, 3303310.56; 654249.77, 3303292.61; 654310.37, 3303301.67; 654330.70, 3303299.41; 654371.85, 3303291.33; 654402.97, 3303286.96; 654417.44, 3303280.59; 654434.33, 3303273.09; 654449.02, 3303258.00; 654478.03, 3303258.73; 654475.46, 3303250.34; 654489.31, 3303237.22; 654492.77, 3303210.35; 654480.94, 3303175.17; 654456.93, 3303145.71; 654433.40, 3303111.82; 654415.00, 3303084.93; 654389.63, 3303039.90; 654377.32, 3303043.74; 654373.48, 3303053.95; 654388.19, 3303069.78; 654387.54, 3303079.67; 654378.57, 3303072.70; 654369.52, 3303069.30; 654365.69, 3303079.12; 654353.43, 3303076.43; 654343.88, 3303061.13; 654338.87, 3303070.51; 654319.82, 3303053.78; 654282.06, 3303053.23; 654287.68, 3303066.84; 654291.81, 3303076.46; 654277.54, 3303090.77; 654281.08, 3303107.90; 654266.12, 3303117.83; 654238.97, 3303106.44; 654194.61, 3303100.17; 654179.34, 3303106.52; 654222.68, 3303121.89; 654242.37, 3303129.52; 654260.41, 3303139.70; 654255.11, 3303159.96; 654239.05, 3303166.30; 654240.86, 3303173.48; 654248.68, 3303178.43; 654249.57, 3303190.34; 654269.07, 3303189.65; 654279.58, 3303198.63; 654297.40, 3303201.46; 654310.25, 3303196.23; 654334.02, 3303199.61; 654365.46, 3303198.02; 654385.12, 3303206.84; 654409.50, 3303201.91; 654406.86, 3303227.60; 654388.78, 3303235.08; 654376.38, 3303237.93; 654365.54, 3303226.56; 654339.83, 3303237.01; 654347.19, 3303244.73; 654367.29, 3303251.58; 654354.74, 3303260.38; 654340.99, 3303254.09; 654331.56, 3303265.34; 654305.04, 3303260.71; 654286.87, 3303256.29; 654267.15, 3303249.84; 654218.33, 3303246.63; 654193.74, 3303228.57; 654161.41, 3303218.24; 654138.07, 3303213.69; 654138.46, 3303198.24; 654128.71, 3303190.47; 654104.72, 3303180.35; 654091.23, 3303163.36; 654105.31, 3303156.98; 654114.33, 3303161.96; 654120.98, 3303166.09; 654132.10, 3303150.91; 654151.61, 3303149.82; 654170.89, 3303141.98; 654165.35, 3303125.20; 654145.62, 3303119.15; 654107.34, 3303123.73; 654094.36, 3303102.79; 654080.64, 3303110.77; 654058.77, 3303095.16; 654005.91, 3303078.76; 653980.57, 3303074.95; 653963.35, 3303063.82; 653927.99, 3303047.47; 653919.18, 3303034.16; 653944.11, 3303022.90; 653963.97, 3303023.80; 653979.08, 3303023.78; 653998.07, 3303027.43; 654015.03, 3303016.76; 654037.61, 3303020.11; 654051.26, 3303030.36; 654058.02, 3303030.53; 654082.68, 3303029.96; 654108.73, 3303021.90; 654100.23, 3303012.17; 654100.09, 3302986.01; 654108.40, 3302971.95; 654126.69, 3302972.02; 654138.85, 3302962.41; 654136.77, 3302950.47; 654129.50, 3302923.73; 654130.59, 3302896.41; 654157.33, 3302907.78; 654175.50, 3302912.60; 654187.07, 3302926.77; 654207.42, 3302939.17; 654220.41, 3302944.26; 654243.21, 3302938.89; 654255.36, 3302945.93; 654267.79, 3302941.49; 654286.78, 3302945.14; 654283.85, 3302966.86; 654319.61, 3302983.22; 654351.35, 3302981.86; 654333.82, 3302941.25; 654305.81, 3302875.01; 654269.93, 3302888.43; 654255.56, 3302906.30; 654245.41, 3302914.76; 654219.18, 3302914.50; 654195.47, 3302908.75; 654193.03, 3302897.23; 654200.77, 3302887.87; 654219.20, 3302882.39; 654223.49, 3302869.82; 654191.49, 3302861.87; 654176.58, 3302869.82; 654137.45, 3302876.37; 654121.12, 3302862.08; 654100.71, 3302851.66; 654079.87, 3302842.41; 654123.88, 3302847.09; 654143.44, 3302844.02; 654134.53, 3302834.67; 654125.96, 3302827.72; 654134.53, 3302803.36; 654122.45, 3302793.54; 654107.40, 3302791.58; 654110.61, 3302774.62; 654133.51, 3302764.89; 654131.08, 3302750.95; 654094.32, 3302742.50; 654048.97, 3302728.27; 654035.74, 3302730.43; 654023.16, 3302726.83; 654012.80, 3302711.90; 653997.55, 3302686.15; 653993.32, 3302665.04; 653980.17, 3302666.29; 653983.12, 3302675.08; 653964.82, 3302675.81; 653968.52, 3302686.61; 653960.53, 3302697.10; 653944.28, 3302692.82; 653939.17, 3302668.03; 653926.88, 3302651.07; 653918.31, 3302659.97; 653900.29, 3302665.07; 653913.57, 3302689.98; 653932.61, 3302691.65;

653934.26, 3302705.16; 653953.72, 3302706.05; 653963.09, 3302712.63; 653968.46, 3302704.84; 653986.16, 3302712.42; 653992.28, 3302721.69; 654017.43, 3302733.42; 654036.94, 3302747.79; 654065.97, 3302747.73; 654072.74, 3302762.96; 654053.79, 3302789.04; 654073.81, 3302799.06; 654088.55, 3302813.70; 654068.52, 3302819.53; 654050.27, 3302818.28; 654038.04, 3302814.40; 654016.44, 3302803.95; 654005.49, 3302812.39; 654044.95, 3302855.80; 654005.23, 3302838.55; 653996.85, 3302824.07; 653966.88, 3302814.20; 653949.97, 3302854.20; 653955.97, 3302884.08; 653958.10, 3302909.89; 654010.09, 3302929.44; 654014.08, 3302944.60; 654047.77, 3302948.62; 654082.75, 3302964.57; 654086.80, 3302977.35; 654085.37, 3303018.10; 654048.15, 3303012.05; 654025.43, 3302998.79; 654008.31, 3302984.09; 654000.57, 3302991.43; 653965.04, 3302997.27; 653951.19, 3302994.54; 653914.10, 3302999.16; 653902.83, 3303004.82; 653895.64, 3303021.68; 653919.34, 3303059.14; 653940.06, 3303073.14; 653964.28, 3303090.00; 653977.46, 3303087.56; 654023.35, 3303096.64; 654042.79, 3303113.78; 654054.24, 3303117.24; 654055.14, 3303128.76; 654065.54, 3303141.70; 654071.15, 3303155.72; 654073.36, 3303162.91; 654061.30, 3303168.15; 654051.20, 3303174.24; 654050.06, 3303188.09; 654066.48, 3303199.20; 654097.34, 3303204.74; 654115.32, 3303217.08; 654151.30, 3303240.58; 654183.50, 3303256.46; 654195.08, 3303270.22; 654231.20, 3303272.32; 654243.32, 3303286.67; 654225.66, 3303302.70; 654148.61, 3303308.48; 654111.34, 3303295.86; 654094.54, 3303284.34; 654077.56, 3303279.55; 654047.24, 3303268.08; 654035.53, 3303259.46; 654034.72, 3303249.69; 654013.14, 3303254.30; 654001.43, 3303261.54; 653998.07, 3303252.73; 653996.88, 3303236.85; 653986.87, 3303223.91; 653951.45, 3303225.40; 653897.10, 3303189.54; 653821.31, 3303136.90; 653795.35, 3303094.23; 653788.09, 3303082.55; 653764.11, 3303068.79; 653746.63, 3303039.88; 653730.30, 3303025.60; 653709.07, 3303000.49; 653703.87, 3303017.40; 653701.70, 3303024.48; 653693.73, 3303009.62; 653684.02, 3303016.11; 653681.36, 3303027.14; 653669.67, 3303017.73; 653665.43, 3303012.47; 653651.81, 3303001.03; 653640.29, 3303000.34; 653644.82, 3303009.97; 653648.88, 3303022.36; 653651.69, 3303037.09; 653662.92, 3303064.73; 653677.95, 3303083.34; 653694.56, 3303102.39; 653699.94, 3303125.51; 653688.15, 3303120.06; 653672.32, 3303101.83; 653660.52, 3303080.92; 653646.81, 3303057.19; 653641.45, 3303046.23; 653630.83, 3303044.50; 653619.00, 3303040.63; 653611.77, 3303027.76; 653594.85, 3303021.00; 653598.44, 3303004.83; 653591.13, 3302995.14; 653579.50, 3302999.20; 653587.43, 3303015.66; 653597.11, 3303041.66; 653610.61, 3303057.86; 653612.71, 3303069.41; 653622.81, 3303078.78; 653638.44, 3303105.33; 653647.33, 3303130.92; 653661.15, 3303150.30; 653665.55, 3303165.07; 653676.69, 3303173.69; 653687.66, 3303179.91; 653714.56, 3303169.49; 653730.82, 3303186.94; 653739.42, 3303202.70; 653765.44, 3303201.29; 653783.37, 3303215.62; 653789.23, 3303235.19; 653810.42, 3303246.03; 653808.22, 3303270.15; 653819.90, 3303279.96; 653818.76, 3303293.80; 653807.98, 3303311.37; 653803.02, 3303302.92; 653792.07, 3303295.90; 653777.96, 3303288.02; 653767.03, 3303264.36; 653745.42, 3303238.44; 653739.45, 3303222.83; 653726.51, 3303215.77; 653706.71, 3303212.89; 653700.24, 3303201.23; 653681.52, 3303202.74; 653665.27, 3303201.87; 653670.96, 3303211.59; 653675.92, 3303219.65; 653686.20, 3303221.89; 653698.46, 3303224.57; 653696.97, 3303236.43; 653701.66, 3303239.72; 653715.34, 3303232.93; 653731.95, 3303236.52; 653718.47, 3303250.84; 653724.29, 3303272.00; 653747.01, 3303285.65; 653737.32, 3303307.21; 653757.78, 3303315.65; 653760.59, 3303330.39; 653775.62, 3303333.14; 653793.45, 3303351.43; 653802.60, 3303382.58; 653819.75, 3303396.09; 653821.33, 3303412.38; 653839.94, 3303430.69; 653845.83, 3303449.46; 653860.11, 3303466.47; 653879.43, 3303488.36; 653898.92, 3303503.92; 653913.40, 3303528.46; 653936.01, 3303546.47; 653951.47, 3303563.90; 653983.97, 3303583.35; 654017.38, 3303614.32; 654033.53, 3303635.74; 654053.57, 3303660.82; 654088.70, 3303670.82; 654119.54, 3303693.40; 654159.64, 3303711.06; 654163.30, 3303723.44; 654178.33, 3303726.59; 654193.77, 3303729.36; 654189.34, 3303715.77; 654175.23, 3303692.03; 654202.45, 3303684.79; 654222.03, 3303696.38; 654231.64, 3303709.30; 654250.78, 3303722.87; 654260.02, 3303734.60;

654281.10, 3303734.33; 654304.06, 3303738.08; 654322.23, 3303742.90; 654337.96, 3303749.64; 654354.84, 3303758.39; 654332.96, 3303758.63; 654304.09, 3303752.75; 654282.13, 3303756.56; 654286.47, 3303773.71; 654310.23, 3303777.08; 654382.46, 3303797.93; 654411.11, 3303796.67; 654428.45, 3303787.20; 654452.40, 3303798.90; 654452.61, 3303822.29; 654417.49, 3303827.35; 654394.34, 3303815.28; 654341.13, 3303797.29; 654307.71, 3303798.42; 654297.05, 3303811.24; 654267.40, 3303820.40; 654271.40, 3303835.16; 654309.86, 3303854.76; 654387.35, 3303871.78; 654437.58, 3303882.16; 654424.25, 3303890.15; 654411.40, 3303895.38; 654424.76, 3303917.12; 654446.06, 3303924.00; 654467.65, 3303934.85; 654459.01, 3303946.52; 654432.54, 3303955.36; 654413.96, 3303982.64; 654390.72, 3303989.98; 654397.38, 3303962.41; 654389.52, 3303943.18; 654372.39, 3303944.33; 654348.37, 3303935.40; 654326.21, 3303931.28; 654306.48, 3303941.09; 654315.48, 3303962.72; 654340.92, 3303962.57; 654374.48, 3303971.74; 654383.93, 3303991.40; 654359.95, 3303996.34; 654338.04, 3303998.17; 654313.13, 3303992.78; 654289.36, 3303989.41; 654273.75, 3303977.92; 654262.35, 3303957.02; 654246.95, 3303953.06; 654222.72, 3303952.05; 654191.09, 3303960.77; 654168.48, 3303959.01; 654154.99, 3303942.02; 654144.71, 3303924.32; 654142.47, 3303918.32; 654129.90, 3303912.45; 654117.32, 3303891.13; 654103.99, 3303883.66; 654094.38, 3303870.73; 654080.38, 3303858.49; 654077.31, 3303838.19; 654055.10, 3303820.59; 654053.41, 3303808.66; 654066.16, 3303807.79; 654096.81, 3303821.64; 654125.72, 3303826.34; 654140.02, 3303826.70; 654151.03, 3303831.33; 654167.74, 3303846.82; 654190.94, 3303856.92; 654235.69, 3303879.45; 654266.08, 3303888.14; 654284.88, 3303899.32; 654306.84, 3303895.51; 654331.31, 3303902.47; 654385.07, 3303914.93; 654394.58, 3303931.81; 654413.81, 3303925.96; 654405.65, 3303902.76; 654375.10, 3303884.55; 654304.89, 3303862.57; 654265.32, 3303855.22; 654239.88, 3303839.52; 654204.43, 3303826.34; 654172.17, 3303812.84; 654124.49, 3303796.18; 654100.56, 3303783.69; 654058.65, 3303758.85; 654031.25, 3303741.90; 654056.98, 3303730.27; 654137.53, 3303783.83; 654148.32, 3303781.32; 654151.04, 3303768.31; 654138.95, 3303758.89; 654132.77, 3303752.00; 654076.77, 3303718.08; 654040.27, 3303699.72; 654020.26, 3303673.45; 653996.83, 3303672.46; 653978.09, 3303643.06; 653932.96, 3303604.26; 653916.46, 3303596.32; 653898.93, 3303582.00; 653887.53, 3303561.10; 653863.24, 3303547.01; 653840.97, 3303515.93; 653814.84, 3303480.00; 653788.98, 3303449.62; 653756.13, 3303396.47; 653743.31, 3303384.65; 653735.36, 3303368.99; 653719.20, 3303332.12; 653708.10, 3303315.19; 653687.34, 3303286.92; 653674.44, 3303278.27; 653671.61, 3303264.33; 653666.78, 3303251.13; 653665.88, 3303239.61; 653657.94, 3303239.01; 653658.22, 3303227.92; 653654.12, 3303217.11; 653639.61, 3303200.49; 653634.12, 3303181.72; 653622.86, 3303171.13; 653617.46, 3303148.80; 653606.45, 3303128.31; 653599.36, 3303109.89; 653593.05, 3303092.30; 653581.25, 3303071.39; 653574.55, 3303053.38; 653568.04, 3303043.70; 653552.88, 3302999.66; 653517.87, 3302953.20; 653511.73, 3302928.86; 653490.27, 3302912.86; 653489.10, 3302896.19; 653468.32, 3302884.56; 653458.73, 3302839.53; 653428.27, 3302833.61; 653431.33, 3302791.28; 653411.37, 3302794.34; 653388.63, 3302797.34; 653371.38, 3302772.33; 653361.73, 3302726.19; 653350.34, 3302689.44; 653363.67, 3302681.05; 653372.21, 3302689.19; 653376.14, 3302675.42; 653381.60, 3302648.21; 653378.67, 3302559.35; 653376.10, 3302503.79; 653352.13, 3302508.74; 653342.85, 3302529.51; 653328.57, 3302544.21; 653309.61, 3302539.37; 653281.50, 3302518.85; 653270.24, 3302492.80; 653267.47, 3302444.77; 653247.05, 3302434.74; 653237.68, 3302412.31; 653252.55, 3302405.95; 653277.66, 3302403.41; 653282.93, 3302415.43; 653288.86, 3302416.38; 653289.43, 3302394.19; 653286.03, 3302371.12; 653271.57, 3302392.95; 653254.52, 3302390.93; 653242.09, 3302379.52; 653240.37, 3302368.78; 653265.45, 3302367.43; 653274.12, 3302354.96; 653266.70, 3302333.77; 653263.28, 3302311.88; 653254.92, 3302280.76; 653288.02, 3302308.15; 653295.73, 3302270.69; 653258.90, 3302201.98; 653224.78, 3302151.97; 653204.27, 3302114.19; 653194.70, 3302083.83; 653182.85, 3302065.30; 653165.88, 3302060.11; 653161.71, 3302052.08; 653172.54, 3302048.39; 653174.17, 3302030.99; 653163.51, 3302028.35; 653170.96, 3302016.64; 653186.45, 3302017.03; 653198.69, 3302036.37; 653205.41, 3302053.58; 653221.20, 3302073.80; 653229.87, 3302092.25; 653259.03, 3302134.20; 653266.19, 3302149.45; 653279.50, 3302173.56; 653292.49, 3302194.50; 653305.44, 3302216.63; 653315.86, 3302229.18; 653328.35, 3302238.21; 653333.32, 3302214.56; 653376.56, 3302219.92; 653392.98, 3302213.68; 653388.10, 3302186.61; 653390.49, 3302154.96; 653366.25, 3302138.89; 653358.96, 3302128.40; 653345.55, 3302108.24; 653345.66, 3302088.43; 653313.82, 3302089.61; 653309.12, 3302102.57; 653302.92, 3302111.93; 653305.95, 3302133.80; 653321.16, 3302129.83; 653331.29, 3302137.61; 653321.48, 3302148.46; 653328.58, 3302166.48; 653343.76, 3302179.15; 653370.86, 3302207.97; 653338.35, 3302204.38; 653323.90, 3302194.11; 653308.92, 3302189.37; 653313.55, 3302179.18; 653301.74, 3302174.52; 653284.04, 3302158.08; 653289.07, 3302140.91; 653268.88, 3302136.50; 653272.08, 3302121.06; 653259.81, 3302118.77; 653238.37, 3302086.52; 653235.37, 3302056.34; 653240.34, 3302035.98; 653248.96, 3302044.77; 653252.67, 3302039.71; 653256.51, 3302029.10; 653243.55, 3302022.83; 653230.45, 3302006.65; 653200.54, 3301994.40; 653195.80, 3301976.50; 653181.79, 3301965.78; 653175.04, 3301949.36; 653162.51, 3301926.06; 653155.37, 3301910.02; 653144.14, 3301882.39; 653141.45, 3301862.90; 653125.08, 3301849.81; 653132.91, 3301823.45; 653167.40, 3301842.95; 653173.83, 3301855.79; 653197.82, 3301897.62; 653226.99, 3301923.32; 653257.14, 3301941.52; 653267.04, 3301927.11; 653281.04, 3301939.75; 653296.56, 3301938.95; 653322.89, 3301903.94; 653278.10, 3301914.31; 653254.60, 3301900.24; 653247.33, 3301873.50; 653241.21, 3301848.37; 653231.69, 3301831.49; 653249.04, 3301818.75; 653266.89, 3301854.57; 653312.35, 3301864.83; 653328.54, 3301885.06; 653342.66, 3301860.84; 653362.86, 3301848.27; 653411.31, 3301803.12; 653361.49, 3301826.75; 653359.73, 3301799.04; 653374.98, 3301777.63; 653379.90, 3301755.95; 653381.31, 3301746.03; 653416.15, 3301769.15; 653417.50, 3301731.13; 653399.85, 3301746.67; 653384.26, 3301725.14; 653374.92, 3301701.52; 653359.51, 3301729.28; 653356.72, 3301745.06; 653350.68, 3301763.94; 653333.47, 3301768.65; 653290.58, 3301703.76; 653290.30, 3301683.53; 653277.84, 3301672.92; 653286.28, 3301653.71; 653303.57, 3301645.82; 653332.65, 3301627.92; 653326.96, 3301664.24; 653356.82, 3301678.47; 653328.00, 3301560.42; 653328.94, 3301538.65; 653300.37, 3301542.23; 653291.64, 3301524.66; 653291.42, 3301503.63; 653302.96, 3301487.27; 653296.36, 3301481.16; 653274.55, 3301479.02; 653277.37, 3301461.65; 653287.54, 3301452.40; 653308.59, 3301453.32; 653316.61, 3301450.75; 653333.98, 3301455.55; 653346.89, 3301463.80; 653340.55, 3301478.70; 653325.09, 3301477.13; 653320.81, 3301488.91; 653341.52, 3301487.45; 653348.08, 3301479.69; 653365.67, 3301459.92; 653357.74, 3301427.61; 653352.70, 3301391.42; 653358.41, 3301369.76; 653368.10, 3301364.06; 653360.96, 3301331.77; 653364.43, 3301320.37; 653377.51, 3301321.88; 653375.24, 3301332.93; 653388.34, 3301334.05; 653401.84, 3301318.93; 653416.49, 3301305.43; 653430.34, 3301292.30; 653453.76, 3301293.68; 653469.42, 3301287.34; 653484.85, 3301274.65; 653494.65, 3301280.45; 653502.74, 3301290.56; 653522.05, 3301297.39; 653525.47, 3301303.42; 653533.26, 3301294.10; 653539.20, 3301294.72; 653544.08, 3301306.27; 653531.42, 3301319.82; 653515.49, 3301336.46; 653511.65, 3301347.07; 653515.70, 3301359.85; 653526.95, 3301354.98; 653531.14, 3301362.22; 653528.00, 3301376.41; 653534.67, 3301395.61; 653545.50, 3301423.23; 653549.25, 3301447.90; 653551.86, 3301470.56; 653563.31, 3301472.92; 653570.59, 3301499.96; 653589.37, 3301511.93; 653588.57, 3301528.16; 653586.25, 3301541.18; 653597.17, 3301549.39; 653606.52, 3301541.30; 653610.40, 3301560.82; 653619.31, 3301570.16; 653645.33, 3301594.60; 653667.61, 3301625.28; 653676.91, 3301635.03; 653689.05, 3301642.07; 653711.44, 3301652.94; 653724.95, 3301652.78; 653735.68, 3301665.18; 653745.58, 3301676.62; 653733.01, 3301695.90; 653717.31, 3301687.97; 653702.15, 3301674.51; 653696.83, 3301664.47; 653686.63, 3301674.91; 653674.63, 3301693.63; 653670.61, 3301710.97; 653683.06, 3301721.99; 653738.08, 3301747.16; 653759.04, 3301751.25; 653777.63, 3301755.29; 653783.98, 3301771.30; 653818.91, 3301789.23; 653831.51, 3301809.76; 653854.50, 3301844.03; 653846.71, 3301868.80; 653830.40, 3301885.04; 653823.09, 3301891.20; 653808.74, 3301876.96; 653786.60, 3301872.05; 653775.30, 3301878.89; 653785.47, 3301885.49; 653807.09, 3301884.87; 653805.12, 3301894.31; 653818.75, 3301905.75; 653802.73, 3301910.11; 653803.54, 3301916.22; 653794.24, 3301926.43; 653770.55, 3301925.15; 653772.29, 3301935.10; 653784.97, 3301936.61; 653792.73, 3301944.34; 653838.02, 3301960.94; 653856.47, 3301954.67; 653844.49, 3301950.47; 653848.39, 3301944.16; 653875.30, 3301917.49; 653883.40, 3301911.74; 653913.15, 3301947.34; 653914.36, 3301960.88; 653924.69, 3301961.14; 653930.84, 3301940.17; 653900.84, 3301889.74; 653893.67, 3301900.66; 653890.56, 3301895.67; 653873.73, 3301900.80; 653857.74, 3301888.90; 653851.36, 3301873.68; 653886.89, 3301854.51; 653845.81, 3301759.93; 653830.08, 3301732.05; 653803.71, 3301684.88; 653785.10, 3301679.77; 653778.03, 3301660.57; 653752.19, 3301660.71; 653739.16, 3301662.40; 653732.91, 3301652.69; 653733.35, 3301635.26; 653711.40, 3301638.67; 653697.09, 3301622.85; 653679.74, 3301617.26; 653658.36, 3301582.24; 653692.49, 3301584.69; 653699.58, 3301571.39; 653696.65, 3301545.95; 653709.67, 3301549.84; 653723.58, 3301580.92; 653733.85, 3301600.00; 653755.10, 3301624.32; 653775.47, 3301636.32; 653756.51, 3301584.32; 653728.73, 3301519.41; 653711.66, 3301518.18; 653683.16, 3301497.65; 653695.40, 3301469.42; 653675.06, 3301424.91; 653662.34, 3301435.05; 653654.71, 3301412.11; 653648.02, 3301409.56; 653639.60, 3301396.67; 653633.99, 3301398.51; 653623.46, 3301390.31; 653620.96, 3301379.15; 653612.97, 3301380.54; 653605.64, 3301387.49; 653594.31, 3301395.52; 653588.80, 3301408.86; 653571.52, 3301416.35; 653567.05, 3301404.35; 653560.48, 3301396.65; 653559.14, 3301387.11; 653557.94, 3301371.62; 653564.54, 3301361.88; 653577.12, 3301351.89; 653592.40, 3301329.28; 653583.29, 3301327.87; 653578.53, 3301311.89; 653567.14, 3301306.45; 653568.55, 3301297.77; 653560.00, 3301274.17; 653573.58, 3301255.88; 653574.63, 3301246.00; 653557.32, 3301254.68; 653557.07, 3301232.87; 653552.26, 3301234.33; 653526.90, 3301231.32; 653522.67, 3301225.66; 653511.46, 3301228.55; 653505.76, 3301218.10; 653498.81, 3301225.85; 653489.88, 3301233.16; 653486.28, 3301243.19; 653474.66, 3301237.53; 653470.28, 3301253.67; 653478.76, 3301264.19; 653463.67, 3301278.72; 653456.78, 3301268.39; 653447.31, 3301287.74; 653431.23, 3301272.90; 653414.56, 3301255.83; 653407.57, 3301249.32; 653390.64, 3301258.80; 653378.39, 3301239.86; 653376.25, 3301214.44; 653358.06, 3301226.27; 653348.55, 3301225.23; 653337.10, 3301222.17; 653322.91, 3301217.06; 653287.59, 3301214.58; 653305.91, 3301229.31; 653318.38, 3301255.18; 653318.06, 3301267.67; 653338.01, 3301295.92; 653353.74, 3301318.51; 653353.53, 3301342.68; 653336.05, 3301342.24; 653327.83, 3301352.74; 653310.90, 3301377.68; 653297.59, 3301401.12; 653293.96, 3301387.16; 653274.54, 3301400.54; 653278.34, 3301423.23; 653268.10, 3301435.15; 653250.63, 3301434.42; 653250.63, 3301450.28; 653252.60, 3301466.58; 653265.99, 3301487.13; 653291.29, 3301488.99; 653281.47, 3301504.17; 653286.05, 3301526.79; 653280.40, 3301530.70; 653289.46, 3301543.60; 653273.72, 3301584.42; 653278.76, 3301605.16; 653266.49, 3301618.72; 653252.71, 3301613.62; 653238.58, 3301621.98; 653239.13, 3301647.36; 653226.42, 3301662.50; 653223.81, 3301624.39; 653217.09, 3301591.32; 653211.06, 3301625.65; 653202.41, 3301684.49; 653202.86, 3301713.83; 653195.95, 3301735.85; 653197.04, 3301755.30; 653238.73, 3301773.40; 653213.13, 3301779.49; 653202.62, 3301802.22; 653178.83, 3301736.61; 653172.18, 3301700.77; 653170.71, 3301617.50; 653165.15, 3301586.05; 653170.47, 3301548.53; 653164.59, 3301513.50; 653097.00, 3301545.48; 653091.78, 3301531.48; 653104.02, 3301519.10; 653120.55, 3301478.70; 653122.45, 3301450.60; 653137.22, 3301432.74; 653114.81, 3301359.64; 653089.37, 3301359.79; 653085.15, 3301353.74; 653065.22, 3301355.62; 653059.29, 3301343.51; 653044.05, 3301343.99; 653046.08, 3301326.60; 653030.42, 3301316.69; 653037.51, 3301256.62; 653051.95, 3301220.12; 653076.47, 3301209.25; 653098.34, 3301209.40; 653186.81, 3301216.39; 653187.48, 3301174.39; 653170.42, 3301165.23; 653192.97, 3301145.99; 653205.75, 3301143.54; 653220.54, 3301171.66; 653252.71, 3301141.55; 653220.04, 3301128.84; 653218.99, 3301107.41; 653249.70, 3301103.43; 653295.51, 3301131.14; 653313.71, 3301134.77; 653299.00, 3301150.65; 653287.08, 3301165.80; 653293.86, 3301181.04; 653325.79, 3301191.75; 653330.00, 3301151.03; 653336.63, 3301108.79; 653314.31, 3301096.73; 653315.06, 3301049.98; 653282.45, 3301050.35; 653265.15, 3301026.92; 653246.49, 3301041.51; 653221.21, 3301066.64; 653245.78, 3301060.52; 653245.29, 3301073.59; 653230.33, 3301096.03; 653211.90, 3301089.00; 653184.53, 3301086.72; 653178.84, 3301100.89; 653157.07, 3301103.47; 653169.25, 3301124.78; 653171.53, 3301144.66; 653157.28, 3301158.17; 653171.92, 3301176.38; 653175.35, 3301198.26; 653114.20, 3301195.14; 653098.97, 3301184.45; 653071.32, 3301177.41; 653045.52, 3301136.21; 653065.69, 3301117.02; 653058.69, 3301110.50; 653049.57, 3301109.88; 653067.93, 3301091.31; 653081.60, 3301084.92; 653077.49, 3301074.51; 653037.31, 3301044.17; 653053.61, 3301028.72; 653068.13, 3301004.52; 653061.68, 3300992.46; 653070.51, 3300989.12; 653066.86, 3300976.34; 653077.32, 3300955.60; 653064.61, 3300955.28; 653079.35, 3300938.21; 653072.29, 3300918.61; 653047.25, 3300918.38; 653087.06, 3300900.35; 653117.24, 3300870.59; 653144.85, 3300847.51; 653166.04, 3300842.89; 653204.72, 3300838.32; 653236.20, 3300851.00; 653243.18, 3300792.83; 653282.22, 3300776.46; 653245.77, 3300771.18; 653225.62, 3300798.02; 653209.12, 3300805.93; 653207.71, 3300767.05; 653193.14, 3300761.53; 653185.92, 3300748.26; 653204.02, 3300740.00; 653204.47, 3300722.18; 653222.88, 3300717.49; 653240.47, 3300698.11;

653259.62, 3300679.57; 653240.30, 3300673.14; 653219.56, 3300675.79; 653203.08, 3300682.90; 653193.30, 3300676.71; 653184.40, 3300659.15; 653189.23, 3300648.86; 653207.65, 3300659.44; 653253.75, 3300660.00; 653252.68, 3300623.90; 653235.41, 3300583.44; 653271.12, 3300570.46; 653284.01, 3300602.82; 653260.26, 3300607.05; 653264.94, 3300626.20; 653285.60, 3300642.57; 653292.81, 3300624.92; 653289.83, 3300598.29; 653307.95, 3300592.00; 653338.74, 3300616.56; 653348.39, 3300580.74; 653337.18, 3300552.31; 653344.21, 3300525.93; 653344.25, 3300492.64; 653346.09, 3300467.32; 653313.30, 3300474.82; 653304.29, 3300471.30; 653316.06, 3300443.97; 653318.07, 3300427.37; 653338.17, 3300418.76; 653335.67, 3300375.89; 653338.05, 3300344.64; 653335.45, 3300274.82; 653343.95, 3300237.38; 653327.68, 3300189.01; 653314.94, 3300190.87; 653304.80, 3300163.72; 653311.62, 3300132.32; 653342.66, 3300131.12; 653347.87, 3300145.12; 653335.86, 3300148.39; 653330.49, 3300156.18; 653331.53, 3300162.55; 653349.92, 3300158.25; 653364.50, 3300163.38; 653357.77, 3300115.25; 653371.49, 3300075.56; 653352.65, 3300050.12; 653376.56, 3300016.63; 653380.10, 3299986.60; 653356.07, 3299962.21; 653337.87, 3299958.58; 653336.21, 3299945.86; 653352.05, 3299932.38; 653329.56, 3299910.02; 653321.88, 3299851.96; 653331.54, 3299831.59; 653330.23, 3299789.14; 653330.69, 3299781.22; 653344.28, 3299783.55; 653364.01, 3299789.60; 653372.73, 3299790.61; 653376.19, 3299779.60; 653367.58, 3299774.23; 653366.62, 3299749.24; 653370.03, 3299740.21; 653362.13, 3299738.03; 653350.99, 3299738.54; 653347.72, 3299726.17; 653356.51, 3299724.41; 653367.99, 3299710.82; 653365.76, 3299704.43; 653358.82, 3299695.93; 653349.29, 3299711.15; 653336.68, 3299706.86; 653336.83, 3299685.07; 653338.14, 3299633.57; 653351.02, 3299627.16; 653345.54, 3299639.31; 653359.07, 3299654.71; 653370.76, 3299648.27; 653368.94, 3299626.03; 653382.15, 3299622.40; 653390.27, 3299631.32; 653387.78, 3299651.47; 653412.04, 3299682.60; 653414.42, 3299698.52; 653398.67, 3299723.88; 653393.51, 3299739.21; 653410.11, 3299743.20; 653407.24, 3299762.15; 653392.37, 3299768.51; 653401.91, 3299800.07; 653407.22, 3299810.11; 653394.48, 3299826.83; 653394.87, 3299842.70; 653405.63, 3299848.60; 653394.27, 3299866.46; 653386.54, 3299873.40; 653381.73, 3299890.72; 653363.75, 3299894.23; 653361.93, 3299919.16; 653375.83, 3299935.36; 653399.56, 3299956.17; 653396.25, 3299976.70; 653403.04, 3299991.14; 653390.91, 3299999.55; 653379.93, 3299993.33; 653377.35, 3300016.65; 653384.87, 3300033.89; 653385.39, 3300060.46; 653383.43, 3300075.07; 653408.64, 3300064.79; 653411.47, 3300082.52; 653388.22, 3300090.25; 653385.63, 3300098.12; 653416.00, 3300139.31; 653418.08, 3300104.09; 653402.11, 3300106.85; 653395.13, 3300099.94; 653401.44, 3300091.26; 653424.94, 3300081.06; 653464.89, 3300076.73; 653483.71, 3300081.66; 653489.66, 3300103.51; 653501.88, 3300091.53; 653492.28, 3300089.69; 653493.32, 3300084.18; 653491.97, 3300075.03; 653474.57, 3300071.03; 653473.19, 3300063.06; 653463.37, 3300042.60; 653451.79, 3300044.29; 653448.59, 3300058.10; 653432.84, 3300054.91; 653432.94, 3300035.10; 653446.85, 3300035.45; 653466.63, 3300023.66; 653457.72, 3299998.46; 653479.33, 3299993.06; 653503.10, 3300019.37; 653526.72, 3300044.15; 653545.12, 3300055.71; 653555.15, 3300083.31; 653574.84, 3300090.94; 653578.30, 3300111.24; 653557.69, 3300124.59; 653572.20, 3300147.95; 653571.39, 3300164.58; 653583.22, 3300168.44; 653594.34, 3300168.72; 653606.33, 3300166.25; 653604.19, 3300188.00; 653621.03, 3300197.93; 653631.89, 3300224.37; 653625.26, 3300235.30; 653632.77, 3300237.07; 653641.42, 3300233.69; 653640.92, 3300244.81; 653648.84, 3300261.65; 653659.45, 3300282.53; 653679.88, 3300292.16; 653703.60, 3300312.98; 653719.12, 3300312.57; 653737.38, 3300282.12; 653758.00, 3300252.52; 653802.62, 3300201.72; 653819.17, 3300176.37; 653813.84, 3300166.72; 653800.67, 3300168.77; 653770.31, 3300190.20; 653740.38, 3300195.00; 653745.10, 3300181.24; 653746.06, 3300158.67; 653752.27, 3300133.46; 653728.27, 3300139.20; 653752.63, 3300119.20; 653748.76, 3300099.29; 653722.47, 3300116.86; 653720.95, 3300098.59; 653698.97, 3300102.79; 653681.90, 3300086.11; 653654.02, 3300088.18; 653653.54, 3300075.88; 653634.80, 3300077.79; 653616.24, 3300057.10; 653596.30, 3300059.77; 653573.25, 3300043.73; 653556.19, 3300042.11;

653538.79, 3300023.05; 653517.30, 3300007.84; 653492.14, 3299973.57; 653464.92, 3299949.50; 653465.00, 3299930.87; 653457.61, 3299924.34; 653456.60, 3299901.33; 653460.75, 3299878.84; 653466.67, 3299864.72; 653448.08, 3299845.23; 653457.15, 3299832.38; 653444.22, 3299824.92; 653452.84, 3299814.03; 653445.19, 3299786.49; 653443.01, 3299778.51; 653441.73, 3299766.19; 653448.74, 3299756.06; 653447.32, 3299733.83; 653454.92, 3299716.19; 653437.92, 3299712.19; 653447.26, 3299689.04; 653466.13, 3299650.28; 653466.67, 3299628.89; 653467.50, 3299596.01; 653473.56, 3299576.35; 653464.96, 3299539.27; 653459.25, 3299544.67; 653463.19, 3299579.81; 653452.31, 3299583.44; 653447.25, 3299579.25; 653422.30, 3299575.45; 653402.62, 3299568.65; 653404.71, 3299542.08; 653414.70, 3299532.02; 653429.46, 3299514.55; 653432.33, 3299526.91; 653425.60, 3299541.41; 653439.57, 3299539.38; 653438.93, 3299517.17; 653433.18, 3299507.89; 653443.20, 3299489.93; 653439.99, 3299475.18; 653441.21, 3299456.18; 653447.50, 3299445.64; 653443.28, 3299423.74; 653437.35, 3299438.25; 653426.28, 3299405.61; 653434.98, 3299390.63; 653440.93, 3299375.32; 653442.06, 3299361.87; 653454.21, 3299353.06; 653450.38, 3299347.42; 653451.58, 3299315.74; 653443.71, 3299312.37; 653440.22, 3299301.12; 653457.11, 3299285.76; 653475.07, 3299283.04; 653501.31, 3299282.91; 653489.36, 3299267.94; 653492.69, 3299246.23; 653504.56, 3299217.19; 653515.17, 3299174.65; 653524.11, 3299151.49; 653525.85, 3299113.88; 653534.73, 3299093.10; 653541.69, 3299069.50; 653546.81, 3299039.90; 653563.68, 3299017.33; 653560.73, 3298992.29; 653555.92, 3298962.44; 653576.59, 3298931.25; 653577.53, 3298894.02; 653566.55, 3298872.34; 653550.74, 3298868.37; 653538.41, 3298853.00; 653522.95, 3298851.42; 653501.80, 3298838.60; 653504.98, 3298854.54; 653513.57, 3298859.52; 653509.13, 3298863.36; 653486.99, 3298873.90; 653483.41, 3298890.06; 653489.09, 3298901.30; 653484.13, 3298908.71; 653476.87, 3298912.89; 653464.74, 3298920.90; 653478.95, 3298956.14; 653485.07, 3298981.66; 653502.44, 3298986.46; 653507.09, 3299022.65; 653505.85, 3299040.05; 653485.92, 3299042.33; 653501.19, 3299057.02; 653496.66, 3299073.51; 653502.95, 3299091.90; 653495.17, 3299100.82; 653495.49, 3299119.86; 653496.64, 3299139.81; 653481.12, 3299153.58; 653464.36, 3299171.79; 653453.37, 3299181.82; 653448.38, 3299206.27; 653460.20, 3299210.53; 653462.13, 3299228.41; 653458.71, 3299237.84; 653469.38, 3299256.34; 653454.91, 3299262.71; 653433.42, 3299279.21; 653437.58, 3299318.96; 653445.29, 3299336.21; 653442.61, 3299355.94; 653430.62, 3299358.42; 653432.49, 3299378.68; 653425.93, 3299386.83; 653423.66, 3299397.88; 653405.23, 3299403.36; 653424.15, 3299408.56; 653425.45, 3299437.16; 653424.31, 3299451.00; 653437.18, 3299454.07; 653433.28, 3299473.43; 653425.73, 3299489.09; 653405.59, 3299530.99; 653388.11, 3299530.55; 653390.04, 3299564.29; 653404.69, 3299580.16; 653384.67, 3299601.45; 653364.76, 3299586.68; 653372.33, 3299554.77; 653349.60, 3299541.91; 653341.79, 3299552.02; 653334.90, 3299541.54; 653341.93, 3299530.62; 653343.94, 3299514.02; 653336.45, 3299495.60; 653280.05, 3299462.07; 653235.06, 3299509.92

653412.29, 3298407.88; 653416.32, 3298411.35; 653408.13, 3298403.77; 653416.12, 3298412.16; 653416.45, 3298412.23; 653416.32, 3298411.35

653416.39, 3298412.28; 653416.45, 3298412.23; 653416.26, 3298412.30; 653416.52, 3298412.31; 653416.45, 3298412.23

653738.37, 3299407.41; 653830.07, 3299850.06; 653833.33, 3299831.12; 653833.82, 3299811.71; 653815.86, 3299798.57; 653807.32, 3299806.28; 653783.38, 3299794.18; 653791.82, 3299774.58; 653780.19, 3299778.65; 653775.37, 3299765.05; 653762.71, 3299778.21; 653755.86, 3299750.29; 653742.32, 3299735.68; 653716.73, 3299725.52; 653715.10, 3299711.21; 653707.05, 3299699.51; 653696.16, 3299690.12; 653697.08, 3299669.53; 653681.55, 3299670.33; 653680.19, 3299661.18; 653673.55, 3299640.80; 653668.82, 3299623.64; 653684.97, 3299613.74; 653691.36, 3299596.86; 653677.43, 3299581.84; 653660.25, 3299584.97; 653644.44, 3299597.26; 653640.71, 3299587.26; 653651.88, 3299570.10; 653658.43, 3299546.88; 653664.86, 3299528.41; 653655.22, 3299532.53; 653649.03, 3299525.63; 653650.96, 3299512.21; 653645.32, 3299499.38; 653647.73, 3299477.93; 653657.63, 3299468.38; 653659.01, 3299445.43; 653646.23, 3299447.48; 653644.21, 3299433.16; 653644.19, 3299418.10; 653635.33, 3299407.17; 653639.88, 3299400.32; 653647.02, 3299400.73; 653642.88, 3299391.51; 653639.64, 3299377.95; 653638.92, 3299359.31; 653654.25, 3299366.43; 653666.77, 3299342.96; 653685.99, 3299352.96; 653694.55, 3299360.31; 653701.15, 3299382.28; 653710.94, 3299388.47; 653721.08, 3299380.40; 653732.04, 3299387.02; 653732.20, 3299396.54; 653724.36, 3299407.83; 653708.00, 3299426.05; 653706.46, 3299439.88; 653709.34, 3299451.85; 653722.99, 3299446.25; 653728.03, 3299467.38; 653729.65, 3299481.69; 653743.13, 3299499.07; 653739.54, 3299515.23; 653768.95, 3299531.43; 653758.86, 3299552.98; 653734.60, 3299553.16; 653749.81, 3299565.04; 653764.11, 3299565.40; 653766.95, 3299578.94; 653747.56, 3299575.28; 653752.87, 3299601.18; 653762.00, 3299617.66; 653772.86, 3299612.39; 653776.75, 3299600.20; 653795.74, 3299603.85; 653807.07, 3299595.81; 653814.55, 3299598.77; 653821.46, 3299608.46; 653850.85, 3299625.45; 653850.02, 3299642.47; 653864.96, 3299665.05; 653865.15, 3299688.83; 653881.89, 3299703.13; 653884.61, 3299721.03; 653897.82, 3299733.26; 653895.68, 3299755.00; 653890.20, 3299767.55; 653904.63, 3299794.07; 653901.75, 3299813.82; 653919.39, 3299792.06; 653918.51, 3299764.30; 653909.41, 3299730.77; 653893.88, 3299684.80; 653882.22, 3299642.89; 653868.27, 3299628.27; 653851.97, 3299612.80; 653836.33, 3299602.49; 653825.57, 3299593.82; 653837.07, 3299588.64; 653843.16, 3299568.18; 653840.29, 3299555.82; 653830.34, 3299540.51; 653844.60, 3299542.45; 653845.96, 3299520.29; 653842.71, 3299507.13; 653817.23, 3299508.47; 653813.48, 3299499.66; 653813.09, 3299483.79; 653824.18, 3299469.41; 653821.98, 3299462.22; 653802.71, 3299469.66; 653798.67, 3299456.48; 653800.38, 3299435.91; 653808.52, 3299428.58; 653786.95, 3299416.94; 653774.16, 3299403.94; 653770.58, 3299387.99; 653768.84, 3299362.58; 653760.00, 3299350.47; 653753.56, 3299338.02; 653740.69, 3299328.18; 653733.62, 3299308.98; 653712.05, 3299312.79; 653700.74, 3299304.18; 653702.29, 3299321.66; 653698.40, 3299333.85; 653682.95, 3299331.88; 653670.27, 3299314.51; 653675.93, 3299294.84; 653676.06, 3299274.23; 653683.44, 3299265.30; 653691.29, 3299253.61; 653687.58, 3299241.51; 653710.94, 3299215.26; 653696.25, 3299214.49; 653682.84, 3299226.05; 653680.22, 3299219.64; 653677.09, 3299201.72; 653666.52, 3299179.66; 653665.56, 3299170.52; 653665.00, 3299160.99; 653666.11, 3299148.73; 653668.31, 3299140.07; 653659.87, 3299127.96; 653659.84, 3299113.69; 653660.38, 3299092.30; 653655.09, 3299081.47; 653653.24, 3299060.02; 653659.37, 3299037.98; 653664.60, 3299048.27; 653661.21, 3299059.43; 653672.24, 3299063.27; 653680.24, 3299077.35; 653680.27, 3299091.62; 653685.27, 3299114.34; 653693.25, 3299097.10; 653695.84, 3299089.23; 653702.79, 3299097.34; 653693.13, 3299117.70; 653687.27, 3299129.45; 653694.78, 3299146.68; 653701.74, 3299138.93; 653720.40, 3299139.80; 653713.70, 3299153.50; 653735.89, 3299156.04; 653728.64, 3299128.51; 653726.82, 3299106.60; 653730.38, 3299091.89; 653711.76, 3299052.31; 653705.29, 3299035.77; 653697.39, 3299012.84; 653692.49, 3298996.87; 653684.13, 3298971.29; 653679.32, 3298951.61; 653675.00, 3298934.07; 653670.67, 3298916.52; 653665.19, 3298881.50; 653647.93, 3298892.62; 653643.43, 3298897.66; 653642.45, 3298905.17; 653645.18, 3298907.22; 653654.97, 3298913.01; 653653.46, 3298925.66; 653646.96, 3298931.05; 653643.00, 3298930.55; 653640.01, 3298938.80; 653643.81, 3298945.63; 653641.63, 3298953.11; 653632.33, 3298959.21; 653625.80, 3298966.18; 653619.50, 3298963.65; 653614.30, 3298965.10; 653620.04, 3298973.57; 653613.93, 3298979.36; 653610.98, 3298986.03; 653614.39, 3298992.85; 653619.87, 3298996.16; 653622.93, 3299000.99; 653622.38, 3299006.92; 653617.83, 3299013.94; 653620.82, 3299021.55; 653616.64, 3299029.77; 653612.52, 3299035.21; 653613.15, 3299041.97; 653615.41, 3299046.78; 653617.08, 3299059.50; 653615.03, 3299077.69; 653611.03, 3299094.23; 653602.39, 3299105.90; 653605.83, 3299111.14; 653618.18, 3299110.27; 653615.05, 3299124.06; 653613.75, 3299143.85; 653604.04, 3299150.73; 653606.66, 3299157.14; 653611.71, 3299161.63; 653607.48, 3299171.83; 653601.94, 3299186.75; 653606.00, 3299199.14; 653620.75, 3299197.53; 653622.29, 3299215.01; 653612.15, 3299223.08; 653622.48, 3299239.19; 653613.72, 3299255.22; 653626.08, 3299253.95; 653629.09, 3299260.76; 653620.48, 3299270.85; 653610.89, 3299272.99; 653596.31, 3299267.86; 653581.58, 3299252.83; 653572.46, 3299251.80; 653570.35, 3299241.05; 653562.33, 3299243.62; 653567.24, 3299269.51; 653557.35, 3299283.53; 653575.72, 3299295.88; 653584.99, 3299290.96; 653592.31, 3299300.26; 653603.22, 3299308.86; 653618.90, 3299317.58; 653622.61, 3299328.37; 653614.63, 3299345.22; 653603.72, 3299352.08; 653611.16, 3299372.48; 653609.70, 3299382.75; 653613.06, 3299391.55; 653622.40, 3299399.32; 653622.06, 3299412.79; 653622.19, 3299423.49; 653614.47, 3299430.03; 653604.67, 3299424.63; 653593.72, 3299417.62; 653589.12, 3299426.22; 653597.00, 3299429.20; 653597.69, 3299449.03; 653583.89, 3299476.03; 653589.46, 3299491.63; 653600.76, 3299500.64; 653617.81, 3299486.80; 653621.90, 3299482.14; 653621.77, 3299471.44; 653614.39, 3299464.91; 653630.65, 3299466.51; 653639.67, 3299471.10; 653634.00, 3299491.17; 653622.28, 3299498.80; 653623.42, 3299516.27; 653621.53, 3299528.11; 653631.80, 3299530.75; 653633.44, 3299544.66; 653635.43, 3299560.17; 653641.92, 3299571.04; 653634.56, 3299579.17; 653624.65, 3299593.59; 653640.47, 3299612.62; 653637.37, 3299625.22; 653624.10, 3299638.59; 653619.94, 3299622.80; 653601.03, 3299631.44; 653611.67, 3299651.13; 653627.55, 3299667.78; 653622.73, 3299685.50; 653619.17, 3299700.47; 653627.03, 3299703.84; 653631.41, 3299688.09; 653640.67, 3299699.03; 653651.92, 3299694.56; 653668.08, 3299700.12; 653658.58, 3299714.15; 653652.28, 3299727.46; 653659.98, 3299737.17; 653670.98, 3299742.60; 653675.08, 3299753.40; 653682.28, 3299767.46; 653691.57, 3299777.21; 653701.16, 3299775.47; 653709.41, 3299779.24; 653719.87, 3299790.21; 653723.22, 3299814.86; 653730.11, 3299825.34; 653757.24, 3299821.67; 653741.91, 3299846.25; 653750.79, 3299856.38; 653762.30, 3299841.61; 653781.20, 3299848.83; 653779.99, 3299865.05; 653802.61, 3299866.81; 653814.93, 3299882.58; 653828.34, 3299902.73; 653845.82, 3299903.17; 653853.47, 3299915.26; 653871.26, 3299919.27; 653861.99, 3299908.34; 653854.83, 3299892.70; 653844.90, 3299892.45; 653827.03, 3299875.75; 653824.07, 3299867.35; 653830.07, 3299850.06

653823.16, 3297312.02; 653861.21, 3297364.06; 653858.34, 3297352.10; 653863.13, 3297351.03; 653860.57, 3297342.25; 653856.01, 3297334.20; 653855.49, 3297323.09; 653851.38, 3297328.54; 653845.03, 3297327.98; 653842.19, 3297314.43; 653840.42, 3297306.07; 653841.88, 3297295.40; 653847.90, 3297293.17; 653854.34, 3297290.17; 653851.36, 3297282.16; 653843.89, 3297278.80; 653833.68, 3297273.79; 653835.73, 3297271.07; 653833.99, 3297261.51; 653826.85, 3297260.94; 653822.00, 3297263.98; 653815.01, 3297257.47; 653814.88, 3297262.62; 653809.20, 3297266.83; 653805.20, 3297267.92; 653800.26, 3297259.08; 653793.60, 3297270.80; 653792.10, 3297283.05; 653789.79, 3297295.67; 653784.00, 3297304.64; 653781.51, 3297308.54; 653777.77, 3297315.19; 653779.29, 3297318.00; 653784.36, 3297321.70; 653782.85, 3297334.34; 653785.00, 3297343.51; 653784.83, 3297350.25; 653784.32, 3297354.99; 653784.21, 3297359.35; 653785.64, 3297365.33; 653791.97, 3297366.68; 653795.60, 3297364.79; 653798.17, 3297357.32; 653804.65, 3297352.73; 653821.18, 3297359.48; 653829.39, 3297364.84; 653843.59, 3297369.17; 653857.76, 3297375.07; 653868.54, 3297372.97; 653861.21, 3297364.06

654057.61, 3294891.84; 654045.28, 3294841.96; 654038.44, 3294838.29; 654028.32, 3294852.23; 654018.27, 3294888.05; 654015.89, 3294903.84; 654019.32, 3294909.48; 654031.91, 3294914.95; 654059.49, 3294924.76; 654073.54, 3294935.02; 654081.46, 3294936.41; 654089.51, 3294932.25; 654094.82, 3294926.84; 654099.34, 3294921.01; 654098.71, 3294914.65; 654088.68, 3294902.50; 654069.84, 3294877.06; 654045.28, 3294841.96

654075.22, 3294817.40; 654109.55, 3294863.00; 654103.82, 3294838.28; 654062.48, 3294766.60; 654039.10, 3294819.21; 654051.65, 3294841.72; 654062.03, 3294855.46; 654084.70, 3294839.38; 654090.41, 3294849.44; 654070.57, 3294863.60; 654084.71, 3294886.55; 654101.98, 3294910.77; 654108.17, 3294901.81; 654111.35, 3294886.43; 654109.55, 3294863.00

654277.48, 3293977.70; 654213.69, 3294481.56; 654211.22, 3294453.75; 654192.26, 3294464.37; 654175.19, 3294463.54; 654171.86, 3294453.55; 654179.65, 3294444.24; 654174.78, 3294432.62; 654172.08, 3294428.98; 654178.71, 3294418.45; 654167.36, 3294411.43; 654168.81, 3294401.16; 654170.80, 3294385.35; 654167.79, 3294378.54; 654169.58, 3294370.66; 654179.31, 3294363.37; 654195.44, 3294385.58; 654205.15, 3294394.94; 654217.95, 3294391.69; 654225.19, 3294325.29; 654232.28, 3294296.54; 654238.18, 3294236.04; 654247.99, 3294225.59; 654269.43, 3294132.19; 654275.80, 3294053.09; 654285.32, 3294022.41; 654313.00, 3293949.78; 654321.57, 3293925.43; 654337.49, 3293877.47; 654350.44, 3293852.83; 654369.01, 3293825.95; 654393.24, 3293795.25; 654417.80, 3293782.79; 654414.46, 3293757.73; 654422.36, 3293728.20; 654393.06, 3293692.19; 654366.44, 3293662.08; 654351.60, 3293703.99; 654327.76, 3293787.41; 654313.55, 3293833.67; 654298.30, 3293862.24; 654282.58, 3293897.25; 654267.42, 3293928.42; 654256.25, 3293953.13; 654245.56, 3293977.70; 654230.11, 3294022.76; 654220.64, 3294061.63; 654215.81, 3294085.29; 654212.58, 3294107.93; 654201.84, 3294197.50; 654192.61, 3294248.00;

654172.07, 3294326.75; 654154.70, 3294384.97; 654139.08, 3294444.80; 654132.60, 3294481.10; 654133.71, 3294500.15; 654135.11, 3294523.57; 654141.83, 3294550.94; 654154.02, 3294561.70; 654181.00, 3294571.42; 654205.77, 3294590.93; 654218.50, 3294574.42; 654213.04, 3294553.33; 654222.25, 3294536.47; 654213.69, 3294481.56

654227.14, 3295823.18; 654165.39, 3296068.70; 654167.82, 3296067.17; 654171.79, 3296067.27; 654173.93, 3296061.38; 654168.23, 3296050.93; 654167.33, 3296039.42; 654167.79, 3296036.65; 654173.48, 3296032.04; 654175.65, 3296024.56; 654184.44, 3296022.80; 654191.81, 3296014.67; 654197.32, 3296016.79; 654198.65, 3296027.13; 654206.54, 3296029.31; 654213.49, 3296037.80; 654217.74, 3296042.67; 654225.26, 3296044.05; 654229.21, 3296044.94; 654232.64, 3296035.12; 654224.75, 3296032.54; 654219.26, 3296029.63; 654219.41, 3296023.69; 654222.34, 3296017.81; 654225.26, 3296012.34; 654223.04, 3296005.94; 654221.62, 3295999.17; 654220.56, 3295993.99; 654218.68, 3295989.58; 654210.41, 3295986.60; 654210.15, 3295981.04; 654211.48, 3295975.53; 654218.64, 3295975.31; 654221.14, 3295971.01; 654223.67, 3295965.13; 654234.46, 3295963.03; 654235.38, 3295957.90; 654235.50, 3295953.14; 654233.20, 3295949.91; 654226.47, 3295948.95; 654225.79, 3295944.18; 654224.06, 3295933.83; 654229.06, 3295924.84; 654248.18, 3295923.34; 654255.22, 3295912.42; 654264.74, 3295897.60; 654275.61, 3295876.47; 654284.51, 3295854.50; 654292.57, 3295818.63; 654305.47, 3295795.97; 654317.16, 3295758.21; 654318.39, 3295725.35; 654328.79, 3295706.98; 654327.85, 3295697.05; 654305.87, 3295701.65; 654284.30, 3295705.46; 654277.29, 3295715.59; 654284.87, 3295730.05; 654301.70, 3295740.78; 654297.51, 3295749.00; 654286.16, 3295741.98; 654278.30, 3295738.21; 654274.56, 3295744.85; 654267.02, 3295744.27; 654264.96, 3295731.53; 654258.04, 3295721.85; 654246.07, 3295723.53; 654237.46, 3295734.01; 654230.98, 3295723.15; 654222.13, 3295711.43; 654213.18, 3295703.67; 654195.27, 3295782.47; 654187.70, 3295814.38; 654181.23, 3295835.25; 654171.23, 3295853.63; 654162.18, 3295881.14; 654157.42, 3295912.33; 654157.94, 3295923.05; 654158.55, 3295930.59; 654159.49, 3295940.53; 654159.21, 3295951.62; 654159.87, 3295972.64; 654158.07, 3295980.92; 654155.45, 3295990.37; 654150.36, 3296002.92; 654135.51, 3296045.25; 654125.50, 3296064.02; 654134.92, 3296053.16; 654141.26, 3296048.27; 654145.79, 3296042.04; 654150.84, 3296031.07; 654157.91, 3296034.42; 654161.74, 3296040.07; 654161.16, 3296047.58; 654156.60, 3296055.00; 654156.41, 3296062.53; 654153.84, 3296069.60; 654156.51, 3296074.02; 654160.83, 3296076.11; 654163.89, 3296080.95; 654178.15, 3296083.29; 654184.93, 3296082.27; 654187.09, 3296075.59; 654180.33, 3296075.42; 654169.63, 3296074.35; 654165.39, 3296068.70

654207.17, 3295582.70; 654249.98, 3295554.46; 654258.65, 3295528.52; 654247.70, 3295517.47; 654237.70, 3295519.99; 654232.75, 3295511.14; 654227.54, 3295507.45; 654212.45, 3295528.07; 654212.44, 3295496.76; 654191.25, 3295454.61; 654197.53, 3295426.23; 654190.50, 3295421.30; 654183.80, 3295434.60; 654183.25, 3295456.39; 654182.54, 3295484.51; 654178.07, 3295503.82; 654161.63, 3295509.35; 654155.69, 3295524.26; 654163.18, 3295542.68; 654161.65, 3295556.12; 654175.98, 3295571.15; 654186.91, 3295578.95; 654183.09, 3295588.77; 654179.23, 3295599.77; 654166.04, 3295602.60; 654160.29, 3295609.99; 654170.15, 3295628.87; 654164.09, 3295648.14; 654160.10, 3295664.68; 654167.29, 3295678.74; 654164.46, 3295696.50; 654159.75, 3295709.86; 654163.00, 3295723.02; 654172.34, 3295730.79; 654173.24, 3295742.30; 654178.95, 3295768.21; 654174.73, 3295778.01; 654175.89, 3295810.54; 654165.00, 3295816.61; 654165.18, 3295825.33; 654176.58, 3295832.38; 654185.93, 3295806.01; 654195.65, 3295767.41; 654204.44, 3295719.31; 654187.82, 3295716.11; 654181.46, 3295700.50; 654192.72, 3295679.38; 654211.42, 3295679.05; 654220.82, 3295668.99; 654240.86, 3295599.34; 654249.98, 3295554.46

654255.46, 3295569.25; 654255.80, 3295558.89; 654264.91, 3295544.45; 654257.15, 3295547.37; 654247.89, 3295577.46; 654246.00, 3295594.50; 654261.00, 3295580.40; 654259.83, 3295572.47; 654255.80, 3295558.89

654306.30, 3295473.51; 654310.64, 3295559.06; 654314.04, 3295550.42; 654313.98, 3295536.94; 654318.17, 3295528.33; 654337.46, 3295535.95; 654329.19, 3295548.82; 654335.43, 3295553.34; 654343.46, 3295551.19; 654349.85, 3295534.31; 654352.15, 3295506.22; 654338.13, 3295494.77; 654332.24, 3295523.16; 654328.47, 3295515.14; 654320.16, 3295513.35; 654308.13, 3295533.26; 654309.97, 3295539.25; 654307.24, 3295552.66; 654299.79, 3295548.90; 654300.52, 3295535.44; 654298.47, 3295522.31; 654280.17, 3295522.64; 654281.62, 3295496.92; 654280.85, 3295480.25; 654295.61, 3295478.24; 654307.04, 3295473.35; 654290.74, 3295473.34; 654271.63, 3295474.44; 654271.33, 3295479.22; 654268.56, 3295510.06; 654263.38, 3295533.29; 654260.45, 3295539.26; 654265.49, 3295539.34; 654272.30, 3295542.38; 654273.79, 3295544.16; 654278.70, 3295548.74; 654280.39, 3295560.28; 654290.24, 3295564.09; 654301.44, 3295561.20; 654310.64, 3295559.06

654495.97, 3293541.36; 654468.72, 3293566.08; 654487.96, 3293559.83; 654501.03, 3293561.74; 654511.51, 3293556.06; 654520.66, 3293555.89; 654530.76, 3293560.51; 654555.18, 3293553.99; 654550.46, 3293536.43; 654544.96, 3293533.52; 654530.68, 3293538.28; 654530.61, 3293519.28; 654533.59, 3293511.43; 654527.68, 3293482.35; 654516.18, 3293497.12; 654498.39, 3293520.06; 654480.59, 3293532.29; 654436.76, 3293553.27; 654438.19, 3293558.17; 654452.35, 3293568.84; 654468.72, 3293566.08

654775.09, 3292986.37; 654765.96, 3293113.99; 654772.09, 3293107.41; 654779.16, 3293110.76; 654784.93, 3293118.44; 654792.56, 3293115.46; 654789.93, 3293109.45; 654782.91, 3293104.12; 654788.52, 3293102.28; 654787.18, 3293092.33; 654782.56, 3293086.67; 654774.69, 3293083.30; 654770.33, 3293082.79; 654775.23, 3293077.76; 654780.33, 3293080.27; 654787.95, 3293077.69; 654794.30, 3293078.24; 654800.06, 3293070.46; 654798.62, 3293064.48; 654797.20, 3293057.71; 654786.88, 3293057.05; 654783.82, 3293052.22; 654785.97, 3293045.93; 654793.57, 3293044.14; 654799.21, 3293041.11; 654804.92, 3293035.31; 654800.07, 3293022.90; 654792.09, 3293023.89; 654791.11, 3293015.54; 654795.60, 3293010.90; 654803.95, 3293011.11; 654811.89, 3293011.31; 654815.81, 3293013.39; 654819.88, 3293009.92; 654814.87, 3293003.46; 654815.83, 3292997.14; 654816.46, 3292987.64; 654820.40, 3292973.47; 654812.02, 3292958.99; 654811.65, 3292942.34; 654810.07, 3292926.05; 654811.55, 3292914.59; 654818.96, 3292889.02; 654802.75, 3292885.44; 654794.80, 3292885.24; 654792.55, 3292895.48; 654783.68, 3292900.41; 654768.43, 3292890.52; 654768.72, 3292863.18; 654757.70, 3292858.54; 654748.13, 3292852.09; 654754.19, 3292840.22; 654759.87, 3292835.61; 654751.48, 3292821.52; 654743.05, 3292793.17; 654747.29, 3292782.97; 654729.78, 3292783.32; 654733.26, 3292803.23; 654733.86, 3292842.48; 654733.80, 3292876.17; 654731.78, 3292909.02; 654734.75, 3292917.41; 654739.00, 3292922.28; 654744.46, 3292942.23; 654744.57, 3292953.73; 654745.67, 3292972.78; 654742.27, 3292981.81; 654747.02, 3292982.33; 654745.76, 3292985.07; 654744.86, 3292989.41; 654740.35, 3292994.84; 654744.46, 3293005.25; 654750.02, 3293005.39; 654756.81, 3293003.98; 654753.06, 3293011.02; 654751.66, 3293019.30; 654757.30, 3293016.27; 654758.25, 3293025.81; 654760.21, 3293027.05; 654758.44, 3293034.14; 654756.02, 3293035.27; 654751.65, 3293035.16; 654747.19, 3293038.61; 654755.03, 3293043.17; 654761.06, 3293040.55; 654767.34, 3293043.88; 654770.27, 3293038.00; 654763.77, 3293059.24; 654758.48, 3293063.87; 654758.70, 3293055.15; 654752.36, 3293054.20; 654750.47, 3293050.58; 654743.99, 3293055.18; 654746.18, 3293062.76; 654751.97, 3293069.65; 654755.78, 3293076.48; 654753.66, 3293081.58; 654751.18, 3293085.48; 654747.11, 3293088.95; 654746.19, 3293094.08; 654752.81, 3293099.39; 654759.26, 3293111.84; 654757.58, 3293115.37; 654757.76, 3293124.09; 654757.61, 3293130.03; 654763.98, 3293129.40; 654769.73, 3293122.41; 654765.96, 3293113.99

655004.05, 3292823.54; 655065.86, 3292801.46; 655066.61, 3292803.33; 655072.15, 3292804.26; 655078.44, 3292791.34; 655081.91, 3292785.44; 654926.19, 3292781.51; 654928.51, 3292793.11; 654928.47, 3292794.70; 654927.63, 3292796.66; 654926.36, 3292799.80; 654928.31, 3292801.03; 654928.64, 3292803.82; 654932.13, 3292807.47; 654937.44, 3292817.51; 654934.56, 3292821.40; 654937.88, 3292831.40; 654941.28, 3292838.62; 654940.34, 3292844.14; 654940.53, 3292852.47; 654940.04, 3292856.03; 654937.09, 3292862.69; 654945.08, 3292861.30; 654946.83, 3292855.01; 654948.17, 3292849.10; 654949.61, 3292839.22; 654947.28, 3292837.18; 654951.14, 3292825.79; 654949.21, 3292823.76; 654944.60, 3292817.30; 654939.95, 3292812.42; 654941.29, 3292806.51; 654940.26, 3292800.15; 654942.74, 3292796.64; 654942.42, 3292793.46; 654937.75, 3292789.38; 654940.59, 3292787.07; 654948.20, 3292784.89; 654953.02, 3292783.03; 654960.09, 3292786.38; 654958.01, 3292789.89; 654956.71, 3292794.22; 654954.14, 3292801.68; 654954.01, 3292806.83; 654957.09, 3292810.87; 654960.68, 3292810.17; 654964.92, 3292815.43; 654968.40, 3292819.48; 654971.14, 3292821.14; 654968.61, 3292827.02; 654963.13, 3292839.17; 654967.49, 3292839.67; 654966.15, 3292845.58; 654967.91, 3292854.75; 654970.69, 3292854.82; 654970.27, 3292855.60; 654969.25, 3292864.69; 654966.41, 3292866.60; 654966.50, 3292878.89; 654971.22, 3292880.99; 654979.91, 3292883.19; 654986.81, 3292877.81; 654989.21, 3292877.08; 654994.61, 3292867.70; 654997.37, 3292868.96; 655000.97, 3292867.86; 655003.46, 3292863.96; 655006.68, 3292862.06; 655009.74, 3292866.90; 655012.84, 3292870.15; 655014.35, 3292873.35; 655018.20, 3292878.21; 655019.94, 3292872.31; 655024.39, 3292869.25; 655028.38, 3292868.95; 655032.06, 3292864.68; 655040.89, 3292861.34; 655045.28, 3292860.66; 655056.18, 3292854.19; 655057.83, 3292851.86; 655061.99, 3292844.83; 655066.05, 3292841.36; 655068.54, 3292837.07; 655065.09, 3292832.22; 655058.72, 3292832.46; 655056.26, 3292835.57; 655054.12, 3292841.46; 655054.81, 3292845.44; 655050.63, 3292853.66; 655042.60, 3292856.63; 655036.33, 3292853.30; 655030.39, 3292852.36; 655027.13, 3292855.44; 655021.11, 3292857.67; 655019.68, 3292851.29; 655016.60, 3292847.25; 655009.30, 3292853.01; 655004.19, 3292850.51; 655007.56, 3292843.06; 655008.19, 3292833.96; 655019.31, 3292834.24; 655026.10, 3292833.22; 655030.13, 3292830.95; 655031.83, 3292826.63; 655031.18, 3292821.06; 655026.76, 3292822.93; 655027.64, 3292819.39; 655029.42, 3292811.90; 655026.33, 3292808.26; 655028.82, 3292804.36; 655035.88, 3292808.10; 655039.16, 3292804.22; 655043.64, 3292799.98; 655051.19, 3292800.17; 655051.64, 3292797.80; 655051.77, 3292792.65; 655062.13, 3292791.72; 655066.00, 3292796.18; 655065.86, 3292801.46

655103.14, 3293148.89; 655104.76, 3293496.71; 655101.31, 3293491.47; 655095.67, 3293494.50; 655091.77, 3293491.62; 655095.28, 3293478.63; 655102.54, 3293474.45; 655116.90, 3293472.44; 655128.06, 3293471.53; 655137.60, 3293471.37; 655135.51, 3293475.68; 655140.31, 3293490.07; 655171.63, 3293399.30; 655162.94, 3293397.10; 655159.90, 3293391.48; 655151.80, 3293397.22; 655150.37, 3293390.84; 655150.16, 3293383.31; 655151.53, 3293376.60; 655157.68, 3293369.23; 655150.31, 3293346.05; 655149.50, 3293330.97; 655143.45, 3293318.53; 655135.63, 3293313.18; 655135.56, 3293300.50; 655138.10, 3293278.37; 655133.54, 3293270.32; 655136.24, 3293257.71; 655136.61, 3293243.05; 655126.58, 3293230.91; 655129.73, 3293216.33; 655152.57, 3293225.22; 655168.65, 3293218.10; 655163.06, 3293203.29; 655169.47, 3293185.62; 655161.65, 3293180.27; 655151.99, 3293169.32; 655145.48, 3293175.11; 655150.61, 3293160.97; 655153.96, 3293154.31; 655148.07, 3293135.54; 655146.47, 3293120.43; 655137.48, 3293098.41; 655134.05, 3293092.77; 655119.83, 3293104.70; 655103.30, 3293097.94; 655094.55, 3293082.27; 655089.30, 3293069.85; 655086.09, 3293055.10; 655086.07, 3293040.44; 655081.53, 3293015.35; 655065.84, 3293007.03; 655059.34, 3292993.99; 655063.29, 3292966.14; 655051.84, 3292978.93; 655035.63, 3293006.67; 655037.71, 3293019.00; 655043.97, 3293022.73; 655038.58, 3293031.71; 655050.79, 3293036.38; 655050.83, 3293050.25; 655063.15, 3293050.56; 655063.66, 3293061.67; 655071.28, 3293059.09; 655065.63, 3293078.37; 655065.35, 3293089.46; 655073.08, 3293097.98; 655070.12, 3293105.04; 655088.66, 3293111.05; 655100.01, 3293149.39; 655092.74, 3293153.96; 655098.09, 3293194.13; 655115.46, 3293214.78; 655107.34, 3293221.31; 655111.14, 3293228.54; 655108.84, 3293240.77; 655114.27, 3293246.06; 655118.29, 3293260.03; 655126.48, 3293266.18; 655124.77, 3293271.29; 655112.86, 3293270.60; 655114.83, 3293286.90; 655122.12, 3293297.38; 655113.91, 3293309.23; 655113.13, 3293322.52; 655116.85, 3293332.92; 655128.70, 3293336.00; 655121.62, 3293348.50; 655122.64, 3293367.19; 655123.62, 3293379.47; 655127.53, 3293397.80; 655136.53, 3293403.57; 655137.03, 3293415.48; 655144.16, 3293416.45; 655149.54, 3293407.86; 655148.07, 3293434.78; 655147.76, 3293447.06; 655138.72, 3293442.87; 655136.41, 3293455.49; 655130.21, 3293464.85; 655091.62, 3293465.86; 655097.79, 3293457.69; 655094.57, 3293443.74; 655089.64, 3293434.10; 655092.22, 3293426.63; 655084.45, 3293419.30; 655081.50, 3293410.11; 655081.04, 3293397.02; 655073.40, 3293400.40; 655065.05, 3293400.19; 655075.01, 3293383.79; 655075.42, 3293367.55; 655076.10, 3293340.62; 655063.60, 3293331.98; 655058.83, 3293316.00; 655056.45, 3293300.09; 655060.59, 3293278.00; 655040.92, 3293269.58; 655034.65, 3293313.02; 655045.61, 3293335.88; 655043.67, 3293365.17; 655043.90, 3293371.91; 655045.53, 3293386.22; 655045.28, 3293396.12; 655048.84, 3293396.61; 655054.85, 3293394.78; 655052.72, 3293400.67; 655051.30, 3293409.35; 655044.07, 3293412.34; 655047.49, 3293418.77; 655046.52, 3293425.48; 655056.21, 3293435.63; 655060.49, 3293439.31; 655064.67, 3293446.95; 655061.27, 3293455.58; 655059.89, 3293463.08; 655067.90, 3293460.50; 655073.81, 3293462.63; 655078.06, 3293467.50; 655080.70, 3293473.51; 655073.81, 3293478.49; 655068.11, 3293483.89; 655063.99, 3293489.34; 655072.29, 3293491.53; 655075.77, 3293495.18; 655084.13, 3293495.00; 655088.12, 3293494.31; 655090.41, 3293498.33; 655083.88, 3293504.90; 655079.50, 3293505.19; 655076.21, 3293509.46; 655085.66, 3293512.87; 655084.46, 3293513.24; 655087.92, 3293518.08; 655100.23, 3293534.25; 655101.82, 3293534.29; 655104.53, 3293537.13; 655117.14, 3293525.95; 655108.00, 3293525.72; 655104.43, 3293525.63; 655102.17, 3293520.42; 655101.89, 3293515.66; 655099.64, 3293510.45; 655105.72, 3293505.85; 655108.27, 3293499.57; 655102.31, 3293499.42; 655104.76, 3293496.71

655065.68, 3292801.55; 655065.86, 3292801.46; 655065.49, 3292800.53; 655065.82, 3292803.31; 655065.86, 3292801.46

655129.17, 3291550.58; 655108.72, 3291583.40; 655117.05, 3291582.45; 655127.05, 3291579.92; 655126.99, 3291567.06; 655136.90, 3291552.25; 655149.61, 3291537.11; 655108.97, 3291537.58; 655108.72, 3291583.40 655108.71, 3291585.92; 655108.72, 3291583.40; 655108.72, 3291583.40; 655108.69, 3291588.86; 655108.72, 3291583.40

655117.87, 3291593.52; 655108.69, 3291588.86; 655108.63, 3291600.76; 655126.55, 3291601.36; 655127.11, 3291593.62; 655127.07, 3291585.06; 655117.36, 3291586.02; 655108.69, 3291588.86

655108.61, 3291603.73; 655108.63, 3291600.76; 655108.59, 3291606.35; 655108.60, 3291606.35; 655108.63, 3291600.76

655117.43, 3291611.75; 655108.60, 3291606.35; 655108.51, 3291622.25; 655114.99, 3291616.88; 655125.73, 3291615.19; 655126.35, 3291607.65; 655108.60, 3291606.35

655108.49, 3291627.21; 655108.51, 3291622.25; 655108.51, 3291622.25; 655108.46, 3291632.56; 655108.51, 3291622.25

655116.76, 3291640.98; 655108.46, 3291632.56; 655108.31, 3291659.04; 655122.64, 3291659.88; 655125.21, 3291621.50; 655117.64, 3291622.10; 655110.82, 3291624.70; 655108.46, 3291632.56

655108.30, 3291662.01; 655108.28, 3291664.98; 655108.31, 3291659.04; 655108.31, 3291659.04; 655108.28, 3291664.98; 655108.28, 3291664.98

655115.25, 3291673.95; 655108.28, 3291664.98; 655108.19, 3291682.87; 655121.08, 3291683.25; 655122.32, 3291664.65; 655108.28, 3291664.98

655108.17, 3291685.65; 655108.16, 3291688.44; 655108.19, 3291682.87; 655108.18, 3291682.87; 655108.15, 3291688.44; 655108.16, 3291688.44

655114.12, 3291749.66; 655108.16, 3291688.44; 655107.48, 3291813.38; 655120.50, 3291808.91; 655117.81, 3291741.62; 655120.11, 3291697.68; 655120.76, 3291687.97; 655108.16, 3291688.44

655107.47, 3291815.74; 655107.46, 3291818.11; 655107.48, 3291813.38; 655107.48, 3291813.38; 655107.45, 3291818.11; 655107.46, 3291818.11

655115.26, 3291849.82; 655107.46, 3291818.11; 655107.09, 3291884.78; 655113.83, 3291883.19; 655123.42, 3291881.67; 655120.77, 3291815.65; 655107.46, 3291818.11

655271.21, 3292239.83; 655258.50, 3292560.47; 655250.75, 3292552.34; 655254.07, 3292546.88; 655259.73, 3292543.45; 655261.82, 3292539.15; 655254.74, 3292536.19; 655252.04, 3292532.96; 655257.34, 3292527.54; 655263.81, 3292523.34; 655258.31, 3292520.83; 655262.02, 3292515.77; 655263.90, 3292503.92; 655260.41, 3292500.67; 655254.11, 3292498.13; 655248.70, 3292492.05; 655245.53, 3292491.57; 655244.59, 3292481.64; 655238.70, 3292478.72; 655237.84, 3292465.62; 655241.54, 3292460.56; 655242.54, 3292452.65; 655244.70, 3292445.57; 655239.57, 3292444.26; 655240.92, 3292437.95; 655242.74, 3292428.88; 655243.69, 3292422.96; 655238.21, 3292419.25; 655242.01, 3292410.63; 655243.01, 3292402.33; 655251.62, 3292392.24; 655260.80, 3292390.89; 655273.23, 3292402.30; 655277.73, 3292413.11; 655277.48, 3292423.02; 655277.62, 3292433.32; 655283.69, 3292429.12; 655289.82, 3292422.53; 655298.20, 3292421.16; 655300.77, 3292429.55; 655300.10, 3292440.23; 655299.52, 3292447.75; 655296.66, 3292450.45; 655290.54, 3292456.64; 655289.56, 3292464.14; 655292.25, 3292467.78; 655297.36, 3292470.28; 655301.71, 3292471.19; 655306.49, 3292470.52; 655315.36, 3292465.98; 655320.61, 3292462.55; 655317.55, 3292457.71; 655312.11, 3292452.82; 655311.49, 3292446.07; 655314.08, 3292437.81; 655307.41, 3292434.07; 655310.03, 3292425.02; 655301.56, 3292414.11; 655294.92, 3292409.19; 655285.97, 3292401.43; 655280.15, 3292395.74; 655268.93, 3292383.56; 655257.10, 3292364.24; 655259.31, 3292355.18; 655269.85, 3292347.12; 655267.72, 3292337.16; 655266.69, 3292330.79; 655271.37, 3292318.62; 655274.02, 3292307.99; 655274.72, 3292296.12; 655272.48, 3292274.66; 655273.21, 3292261.60; 655262.61, 3292256.18; 655275.76, 3292239.07; 655266.06, 3292229.71; 655253.68, 3292231.77; 655245.16, 3292222.84; 655233.03, 3292230.86; 655228.26, 3292246.59; 655224.42, 3292256.80; 655233.14, 3292258.21; 655239.66, 3292267.49; 655235.39, 3292279.27; 655236.35, 3292288.41; 655236.47, 3292299.51; 655230.39, 3292319.57; 655236.16, 3292327.25; 655243.96, 3292333.39; 655236.23, 3292340.33; 655241.88, 3292352.76; 655239.99, 3292364.60; 655230.02, 3292365.94; 655234.72, 3292384.29; 655232.50, 3292393.74; 655231.59, 3292398.08; 655230.99, 3292405.99; 655227.69, 3292411.06; 655230.20, 3292421.82; 655226.50, 3292426.49; 655225.50, 3292434.79; 655231.82, 3292436.13; 655235.31, 3292439.79; 655235.56, 3292445.74; 655231.22, 3292459.90; 655231.79, 3292469.03; 655231.49, 3292480.91; 655235.61, 3292490.93; 655231.91, 3292495.59; 655235.03, 3292498.04; 655236.83, 3292505.62; 655229.97, 3292509.41; 655221.82, 3292517.53; 655229.80, 3292516.14; 655232.34, 3292525.72; 655237.56, 3292523.87; 655239.00, 3292529.85; 655242.96, 3292530.35; 655249.24, 3292533.68; 655246.96, 3292545.11; 655247.51, 3292555.04; 655243.24, 3292550.97; 655239.31, 3292564.74; 655263.15, 3292565.34; 655258.50, 3292560.47

656164.41, 3288326.62; 656157.28, 3288312.30; 656152.83, 3288310.70; 656150.78, 3288312.88; 656150.37, 3288319.09; 656150.29, 3288322.57; 656148.47, 3288325.26; 656148.62, 3288329.24; 656156.70, 3288335.16; 656162.40, 3288336.54; 656168.00, 3288342.15; 656172.73, 3288342.27; 656175.07, 3288338.36; 656179.70, 3288332.75; 656180.35, 3288327.05; 656178.75, 3288321.30; 656172.11, 3288317.40; 656166.18, 3288315.26; 656157.28, 3288312.30

655024.14, 3291594.68; 655049.71, 3291600.86; 655067.28, 3291597.73; 655081.57, 3291598.49; 655096.20, 3291601.63; 655108.10, 3291600.74; 655108.16, 3291588.84; 655086.94, 3291590.70; 655080.65, 3291587.76; 655069.99, 3291584.72; 655042.58, 3291584.03; 655021.89, 3291584.70; 655001.58, 3291585.77; 654980.82, 3291589.21; 654970.50, 3291588.56; 654957.40, 3291587.83; 654945.02, 3291589.90; 654940.11, 3291595.32; 654943.10, 3291602.93; 654949.74, 3291607.85; 654955.74, 3291608.46; 654954.87, 3291593.32; 654965.99, 3291593.99; 654966.39, 3291609.37; 654981.13, 3291608.64; 655009.00, 3291606.97; 655029.75, 3291603.92; 655049.71, 3291600.86.

(iii) Note: Map 3, Units 2 and 3 of St. Andrew beach mouse, follows:

BILLING CODE 4310-55-P

* * * * *

Dated: September 25, 2006.
David M. Verhey,
Acting Assistant Secretary for Fish and Wildlife and Parks.

[FR Doc. 06-8481 Filed 10-11-06; 8:45 am]

BILLING CODE 4310-55-C